DEPARTMENT OF HEALTH AND HUMAN SERVICES

Centers for Medicare & Medicaid Services

42 CFR Parts 419 and 485

[CMS-1501-CN]

RIN 0938-AN46

Medicare Program; Proposed Changes to the Hospital Outpatient Prospective Payment System and Calendar Year 2006 Payment Rates; Correction

AGENCY: Centers for Medicare & Medicaid Services (CMS), HHS.

ACTION: Proposed rule; correction.

SUMMARY: This document corrects technical errors that appeared in the proposed rule published in the Federal Register on July 25, 2005 entitled “Medicare Program; Proposed Changes to the Hospital Outpatient Prospective Payment System and Calendar Year 2006 Payment Rates; Proposed Rule.”

FOR FURTHER INFORMATION CONTACT: Rebecca Kane, (410) 786-0378.

SUPPLEMENTARY INFORMATION:

I. Background

FR Doc. 05-14448 contains our proposed rule to update the Medicare Outpatient Prospective Payment System for calendar year (CY) 2006. We have identified a number of technical errors in the “Summary of Errors” section and are correcting them in the “Correction of Errors” section below.

II. Summary of Errors

A. Corrections Related to the Rural Adjustment Calculation

The calendar year (CY) 2006 Outpatient Prospective Payment System (OPPS) proposed rule that we published in the Federal Register on July 25, 2005 included a proposed 6.6 percent adjustment for rural sole community hospitals. The calculations used to develop the conversion factor and budget neutrality scalar inadvertently incorporated this adjustment as 6.4 percent. The rural adjustment is used in calculations that determine the scalar and conversion factor, and therefore affects the payment rates and copayment amounts published in the proposed rule. The corrected scalar is 1.003753831, and the corrected conversion factor is $59.343. The various changes to the preamble are specified under section III. of this correction notice. In addition to preamble text changes, we are correcting specific tables and addenda which also reflected the inadvertent use of a 6.4 percent rural adjustment factor, which we have described below.

On page 42709, we published Table 11. We are correcting the last column of this table to present the corrected proposed CY 2006 payment amounts. In section III. of this notice, we republish Table 11 as corrected.

On pages 42761-42762, we published Table 33. In section III. of this notice, we republish Table 33 as corrected.

On pages 42764-42775, we published Addendum A, which provides the payment rates and copayment amounts for Ambulatory Payment Classification (APC) groups used for payment purposes under the OPPS. A corrected Addendum A is posted on the OPPS Web site at http://www.cms.hhs.gov/providers/hopps/2006p/1501p.asp.

On pages 42776-42965, we published Addendum B, which provides the payment rates and copayment amounts for services payable under OPPS. A corrected Addendum B, including additional technical errors affecting HCPCS codes 78814, 78815, 78816, 91035, and 95950 is posted on the OPPS Web site at http://www.cms.hhs.gov/providers/hopps/2006p/1501p.asp.

We are posting the corrected Addendum A and Addendum B on our Web site rather than publishing them in this notice because of the large volume of data included in these addenda. Hard copies of these tables are available by contacting the CMS staff member identified above.

We note that as soon as we discovered these inadvertent errors that affected the payment rates noted in the proposed rule, we posted the corrections on the CMS Web site at: http://www.cms.hhs.gov/providers/hopps/2006p/1501p.asp.

B. Other Corrections

We also noted other typographical, formatting, and other technical errors in the proposed rule.

On page 42714, we published Table 15. The proposed “unadjusted” and “adjusted” CY 2006 APC median cost for APC 0085 Level II Electrophysiologic Evaluation contained a typographical error and should read $2,123.38. We are correcting this under section III. of this notice.

On page 42761, column 2 includes a comparison that discusses the differences in copayments from CY 2005 to CY 2006. While the analysis of this example is correct, the example incorrectly identifies the comparison as being the “minimum unadjusted copayment” rather than the “national unadjusted copayment”. We are making this correction under section III. of this notice to refer to the “national unadjusted copayment”.

On page 42737, we published Table 26, which inadvertently excluded C2636 (Brachytherapy linear source, Palladium -103, per 1 mm) which was accurately described in the text of page 42736 as a proposed separately payable brachytherapy source. In section III. of the notice we append the excluded row to correct table 26 as published.

The other technical, typographical, formatting, and other errors that appeared on various other pages of the Federal Register are corrected as noted in section III. of this notice.

III. Correction of Errors

In FR Doc. 05-14448 of July 25, 2005 (70 FR 42674), make the following corrections:

1. On page 42690, in column 3, in the last paragraph, in line 20, the figure “0.999207669” is corrected to read “1.003753831”.

2. On page 42691, in column 1, in the second full paragraph, line 8, the year “2006” is corrected to read “2007”.

3. On page 42694,

a. In column 1, in the second full paragraph, in line 8, the figure “$240.51” is corrected to read “$241.57”.

b. In column 1, in the second full paragraph, in line 8, the figure “$48.10” is corrected to read “$48.31”.

c. In column 3, in the third full paragraph, in line 8, the figure “1.002015212” is corrected to read “1.002023412”.

d. In column 3, in the third full paragraph, in line 18, the figure “0.99652023” is corrected to read “0.99639633”.

e. In column 3, in the last partial paragraph, in line 5, the figure “1.002015212” is corrected to read “1.002023412”.

4. On page 42695,

a. In column 1, in the first partial paragraph, in line 5, the figure “0.99652023” is corrected to read “0.99639633”.

b. In column 1, in the first partial paragraph, in line 7, the figure “$59.350” is corrected to read “$59.343”.

5. On page 42703,

a. In column 1, in the second full paragraph, in line 5, the figure “$9.95” is corrected to read “$7.00”.

b. In column 1, in the second full paragraph, in line 5, the figure “40” is corrected to read “28”.

c. In column 1, in the second full paragraph, in line 6, the figure “$24.89” is corrected to read “$25.00”.

6. On page 42709,

a. In column 1, in the first full paragraph, in line 22, the figure “$1,297” is corrected to read “$1,274”.

b. In column 1, in the first full paragraph, in line 23, the figure “$1,366” is corrected to read “$1,244”.

c. In column 1, in the first full paragraph, in line 25, the figure “$1,100” is corrected to read “$1,025”.

d. Table 11 is corrected to read as follows:

Table 11.—Proposed APC Reassignment of New Technology Procedures Into Clinical APCs for CY 2006
HCPCS | Descriptor | CY 2005 APC | CY 2005 status indicator | Proposed CY 2006 APC | Proposed CY 2006 status indicator | CY 2005 payment amount | Proposed CY 2006 payment amount
0027T | Endoscopic epidural lysis | 1547 | T | 0220 | T | $850 | $1,030.11
33225 | L ventric pacing lead add-on | 1525 | S | 0418 | T | 3,750 | 6,486.45
61623 | Endovasc tempory vessel occl | 1555 | T | 0081 | T | 1,650 | 2,044.21
92974 | Cath place, cardio brachytx | 1559 | T | 0103 | T | 2,250 | 873.18
93580 | Transcath closure of asd | 1559 | T | 0434 | T | 2,250 | 5,387.61
93581 | Transcath closure of vsd | 1559 | T | 0434 | T | 2,250 | 5,387.61
95965 | Meg, spontaneous | 1528 | S | 0430 | T | 5,250 | 676.75
95966 | Meg, evoked, single | 1516 | S | 0430 | T | 1,450 | 676.75
95967 | Meg, evoked, each add'l | 1511 | S | 0430 | T | 950 | 676.75
C9713 | Non-contact laser vap prosta | 1525 | S | 0429 | T | 3,750 | 2,511.08

7. On page 42710, in column 2, in the first full paragraph, in line 19, the figure “$93.71” is corrected to read “$93.37”.

8. On page 42714, Table 15, APC 0085, in columns 5 and 7, in row 7, both occurrences of the figure “$2,123.46” are corrected to read “$2,123.38”.

9. On page 42737, Table 26, “Proposed Separately payable Brachytherapy Sources for CY 2006” is appended with the following row:

HCPCS | Long descriptor | APC | APC title | New status indicator
C2636 | Brachytherapy linear source, Palladium-103, per 1mm | 2636 | Brachytx linear source, P-103 | H

10. On page 42756, in column 1, in the first partial paragraph, in line 5, the figure “1.8” is corrected to read “1.7”.

11. On page 42758, in column 2, in the third full paragraph, in line 13, the figure “$59.35” is corrected to read “$59.34”.

12. On page 42759,

a. In column 1, in the first partial paragraph, in line 21, the figure “5.8” is corrected to read “5.6”.

b. In column 1, in the first partial paragraph, in line 31, the figure “1.2” is corrected to read “1.3”.

c. In column 1, in the first partial paragraph, in line 31, the figure “1.8” is corrected to read “1.7”.

d. In column 1, in the first partial paragraph, in line 36, the figure “2.6” is corrected to read “2.5”.

e. In column 1, in the second partial paragraph, in line 22, the figure “2.9” is corrected to read “2.7”.

f. In column 1, in the second partial paragraph, in line 25, the figure “0.7” is corrected to read “0.6”.

g. In column 1, in the second partial paragraph, in line 30, the text “West South Central” is corrected to read “New England”.

h. In column 2, in the first partial paragraph, in line 2, the figure “1.9” is corrected to read “1.7”.

i. In column 2, in the first partial paragraph, in line 2, the figure “1.8” is corrected to read “1.6”.

j. In column 2, in the first full paragraph, in line 4, the figure “0.4” is corrected to read “0.3”.

k. In column 2, in the first full paragraph, in line 5, the figure “0.5” is corrected to read “0.3”.

l. In column 2, in the first full paragraph, in line 9, the figure “0.9” is corrected to read “1.6”.

m. In column 2, in the first full paragraph, in line 10, the figure “1.4” is corrected to read “2.2”.

n. In column 2, in the first full paragraph, in line 21, the sentence portion “1.3 percent and voluntary and government hospitals will gain at least 0.1 percent.” is corrected to read “1.1 percent, voluntary hospitals would gain 0.2 percent, and government hospitals will see no changes as a result of changes to APC structure.”

o. In column 3, in the second full paragraph, in line 7, the figure “0.997” is corrected to read “0.996”.

p. In column 3, in the second full paragraph, in line 10, the figure “0.3” is corrected to read “0.4”.

q. In column 3, in the second full paragraph, in line 13, the figure “5.2” is corrected to read “5.4”.

13. On page 42760,

a. In column 1, in the first partial paragraph, in line 6, the figure “0.3” is corrected to read “0.4”.

b. In column 1, in the first full paragraph, in line 19, the figure “5.8” is corrected to read “5.6”.

c. In column 1, in the first full paragraph, in line 24, the figure “-2.8” is corrected to read “-2.4”.

d. In column 1, in the first full paragraph, in line 32, the figure “1.2” is corrected to read “1.3”.

e. In column 1, in the first full paragraph, in line 35, the figure “0.3” is corrected to read “0.4”.

f. In column 1, in the first full paragraph, in line 37, the figure “1.5” is corrected to read “1.4”.

g. In column 1, in the last paragraph, in line 7, the figure “8.6” is corrected to read “8.7”.

h. In column 1, in the third partial paragraph, in line 12, the figure “5.0” is corrected to read “4.7”.

i. In column 3, in the first partial paragraph, in line 6, the figure “2.6” is corrected to read “2.5”.

j. In column 3, in the first partial paragraph, in line 12, the figure “2.1” is corrected to read “1.8”.

k. In column 3, in the first partial paragraph, in line 32, the figure “3.7” is corrected to read “3.6”.

l. In column 3, in the first full paragraph, in line 11, the figure “3.4” is corrected to read “3.5”.

m. In column 3, in the first full paragraph, in line 13, the figure “6.4” is corrected to read “6.5”.

n. In column 3, in the first full paragraph, in line 30, the text “greater than” is corrected to read “of at least”.

o. In column 3, in the first full paragraph, in lines 33 and 34, the figure “only 1.0” is corrected to read “1.4” and the text “and 0.8 percent, respectively.” is appended to the end of the sentence.

14. On page 42761

a. In column 1, in the first partial paragraph, in line 3, the figure “1.9” is corrected to read “2.6”.

b. In column 1, in the first partial paragraph, in line 6, the figure “2.6” is corrected to read “3.4”.

c. In column 1, in the first partial paragraph, in line 11, the figure “0.8” is corrected to read “0.6”.

d. In column 1, in line 12, the designation for the heading “Estimated Impacts of This Proposed Rule on Beneficiaries” is corrected from “G” to read “F”.

e. In column 1, in the second partial paragraph, in line 12, the figure “$11.86” is corrected to read “$11.91”.

f. In column 2, in the first partial paragraph, in lines 4 and 6, the term “minimum” is corrected to read “national”.

g. In column 2, in the first partial paragraph, in line 8, the figure “$223.91” is corrected to read “$224.91”.

h. Table 33 is corrected to read as follows:

Table 33.—Impact of Proposed Changes for CY 2006 Hospital Outpatient Prospective Payment System
Hospital category | Number of hospitals | APC changes | New wage index | New adj for rural sole community hospitals | Cumulative (Cols 2,3,4) with market basket update | All changes
| (1) | (2) | (3) | (4) | (5) | (6)
ALL HOSPITALS | 4212 | 0.0 | 0.0 | 0.0 | 3.2 | 1.9
URBAN HOSPITALS | 2949 | 0.0 | 0.0 | −0.4 | 2.8 | 1.6
LARGE URBAN | 1624 | −0.8 | 0.0 | −0.4 | 2.0 | 0.8
OTHER URBAN | 1325 | 1.0 | 0.0 | −0.4 | 3.8 | 2.5
RURAL HOSPITALS | 1263 | −0.1 | 0.1 | 1.8 | 5.0 | 3.5
SOLE COMMUNITY | 478 | −0.1 | 0.0 | 5.4 | 8.7 | 6.5
OTHER RURAL | 785 | −0.1 | 0.1 | −0.4 | 2.8 | 1.6
BEDS (URBAN):
0-99 BEDS | 917 | 0.0 | 0.2 | −0.4 | 3.0 | 2.1
100-199 BEDS | 964 | −0.4 | 0.0 | −0.4 | 2.5 | 1.5
200-299 BEDS | 503 | 0.2 | 0.1 | −0.4 | 3.2 | 2.4
300-499 BEDS | 402 | −0.1 | −0.1 | −0.4 | 2.6 | 1.5
500 + BEDS | 163 | 0.3 | 0.0 | −0.4 | 3.1 | 1.0
BEDS (RURAL):
0-49 BEDS | 551 | −0.9 | 0.2 | 2.1 | 4.6 | 3.1
50-100 BEDS | 419 | −0.8 | 0.2 | 2.3 | 4.8 | 3.0
101-149 BEDS | 180 | 1.4 | 0.0 | 1.1 | 5.8 | 4.7
150-199 BEDS | 62 | −0.2 | −0.2 | 1.8 | 4.7 | 3.7
200 + BEDS | 51 | 0.1 | 0.0 | 1.7 | 5.1 | 3.1
VOLUME (URBAN):
LT 5,000 claim lines | 600 | −5.6 | 0.5 | −0.4 | −2.4 | −1.8
5,000-10,999 | 180 | −2.4 | 0.2 | −0.4 | 0.5 | 0.6
11,000-20,999 | 299 | −0.6 | 0.2 | −0.4 | 2.4 | 2.5
21,000-42,999 | 575 | −0.6 | 0.1 | −0.4 | 2.3 | 1.9
GT 42,999 | 1295 | 0.2 | 0.0 | −0.4 | 3.0 | 1.6
VOLUME (RURAL):
LT 5,000 claim lines | 119 | −2.7 | 0.0 | 1.4 | 1.7 | 1.4
5,000-10,999 | 195 | −1.9 | 0.0 | 2.1 | 3.4 | 2.4
11,000-20,999 | 325 | −0.9 | −0.1 | 2.0 | 4.3 | 3.4
21,000-42,999 | 364 | −0.9 | 0.2 | 1.9 | 4.5 | 3.0
GT 42,999 | 260 | 0.6 | 0.0 | 1.7 | 5.7 | 3.8
REGION (URBAN):
NEW ENGLAND | 166 | −1.3 | −0.1 | −0.4 | 1.4 | −0.2
MIDDLE ATLANTIC | 393 | 0.6 | −0.1 | −0.4 | 3.4 | 2.1
SOUTH ATLANTIC | 453 | −0.4 | −0.4 | −0.4 | 2.0 | 1.0
EAST NORTH CENT | 466 | 0.4 | −0.1 | −0.4 | 3.2 | 1.7
EAST SOUTH CENT | 197 | 1.5 | 0.0 | −0.4 | 4.4 | 3.4
WEST NORTH CENT | 184 | 2.5 | −0.3 | −0.4 | 5.1 | 3.6
WEST SOUTH CENT | 445 | −0.3 | −0.1 | −0.4 | 2.5 | 1.3
MOUNTAIN | 163 | −0.1 | −0.2 | −0.4 | 2.5 | 1.3
PACIFIC | 431 | −1.7 | 1.1 | −0.4 | 2.2 | 1.4
PUERTO RICO | 51 | 0.4 | −0.3 | −0.4 | 2.9 | 2.2
REGION (RURAL):
NEW ENGLAND | 37 | −1.1 | 0.9 | 1.2 | 4.2 | 0.8
MIDDLE ATLANTIC | 78 | 1.7 | −0.4 | 1.4 | 6.0 | 4.1
SOUTH ATLANTIC | 189 | −0.4 | −0.2 | 1.7 | 4.4 | 3.3
EAST NORTH CENT | 171 | −0.6 | 0.1 | 1.4 | 4.1 | 2.2
EAST SOUTH CENT | 202 | −0.7 | 0.5 | 0.5 | 3.5 | 3.0
WEST NORTH CENT | 188 | 1.6 | −0.3 | 2.6 | 7.2 | 4.7
WEST SOUTH CENT | 242 | −0.9 | −0.2 | 2.2 | 4.4 | 3.7
MOUNTAIN | 95 | −1.0 | 0.1 | 4.6 | 7.0 | 5.2
PACIFIC | 61 | −0.7 | 1.8 | 2.7 | 7.2 | 5.3
TEACHING STATUS:
NON-TEACHING | 3115 | −0.3 | 0.1 | 0.3 | 3.2 | 2.3
MINOR | 769 | 0.3 | 0.0 | −0.2 | 3.3 | 2.3
MAJOR | 328 | 0.3 | −0.2 | −0.3 | 3.0 | 0.6
DSH PATIENT PERCENT:
0 | 16 | 0.3 | 0.0 | −0.4 | 3.1 | 3.1
GT 0-0.10 | 386 | 0.1 | −0.2 | −0.3 | 2.8 | 1.7
0.10-0.16 | 555 | 0.0 | 0.1 | 0.2 | 3.5 | 2.4
0.16-0.23 | 802 | 0.1 | 0.0 | 0.1 | 3.5 | 2.3
0.23-0.35 | 977 | 0.1 | −0.1 | 0.0 | 3.2 | 1.9
GE 0.35 | 792 | −0.3 | 0.1 | −0.1 | 3.0 | 1.8
TEFRA: DSH NOT AVAIL ¹ | 684 | −1.6 | 0.0 | −0.4 | 1.2 | −2.6
URBAN TEACHING/DSH:
TEACHING & DSH | 944 | 0.4 | −0.1 | −0.4 | 3.1 | 1.7
NO TEACHING/DSH | 1401 | −0.3 | 0.1 | −0.4 | 2.5 | 1.8
NO TEACHING/NO DSH | 16 | 0.3 | 0.0 | −0.4 | 3.1 | 3.1
TEFRA: DSH NOT AVAIL ¹ | 588 | −2.2 | 0.1 | −0.4 | 0.7 | −3.4
TYPE OF OWNERSHIP:
VOLUNTARY | 2397 | 0.2 | 0.0 | 0.0 | 3.3 | 2.0
PROPRIETARY | 1091 | −1.1 | 0.0 | 0.0 | 2.1 | 1.6
GOVERNMENT | 724 | 0.0 | 0.1 | 0.2 | 3.6 | 1.7
Col (1) Total Hospitals in 2006.
Col (2) This column shows the impact of changes resulting from the reclassification of HCPCS codes among APC groups and from the addition of multiple procedure discounting for radiology procedures (budget neutral overall).
Col (3) This column shows the adjustment for updating the wage index (budget neutral overall).
Col (4) This column shows the adjustment for rural sole community hospitals (budget neutral overall).
Col (5) This column shows the cumulative impact of cols 2 through 4 and the addition of the market basket update.
Col (6) The column shows the impact of the change in MMA dollars in 2006 (drugs and 508) and outlier changes.
¹ Complete DSH numbers are not available for hospitals that are not paid under IPPS.

15. On pages 42764-42775, Addendum A is corrected to read as follows:

Addendum A.—List of Ambulatory Payment Classifications (APCs) with Status Indicators, Relative Weights, Payment Rates, and Copayment Amounts Calendar Year 2006
APC | Group title | SI | Relative weight | Payment rate | National unadjusted copayment | Minimum unadjusted copayment
0001 | Level I Photochemotherapy | S | 0.4213 | $25.00 | $7.00 | $5.00
0002 | Level I Fine Needle Biopsy/Aspiration | T | 0.9559 | $56.73 |  | $11.35
0003 | Bone Marrow Biopsy/Aspiration | T | 2.6530 | $157.44 |  | $31.49
0004 | Level I Needle Biopsy/ Aspiration Except Bone Marrow | T | 1.7646 | $104.72 | $22.36 | $20.94
0005 | Level II Needle Biopsy/Aspiration Except Bone Marrow | T | 3.5994 | $213.60 | $71.59 | $42.72
0006 | Level I Incision & Drainage | T | 1.5500 | $91.98 | $22.28 | $18.40
0007 | Level II Incision & Drainage | T | 11.4501 | $679.48 |  | $135.90
0008 | Level III Incision and Drainage | T | 16.4989 | $979.09 |  | $195.82
0009 | Nail Procedures | T | 0.6680 | $39.64 | $8.34 | $7.93
0010 | Level I Destruction of Lesion | T | 0.5719 | $33.94 | $9.65 | $6.79
0011 | Level II Destruction of Lesion | T | 2.0839 | $123.66 | $25.17 | $24.73
0012 | Level I Debridement & Destruction | T | 0.8497 | $50.42 | $11.18 | $10.08
0013 | Level II Debridement & Destruction | T | 1.1078 | $65.74 | $14.20 | $13.15
0015 | Level III Debridement & Destruction | T | 1.6514 | $98.00 | $20.29 | $19.60
0016 | Level IV Debridement & Destruction | T | 2.5834 | $153.31 | $33.57 | $30.66
0017 | Level VI Debridement & Destruction | T | 18.4211 | $1,093.16 | $227.84 | $218.63
0018 | Biopsy of Skin/Puncture of Lesion | T | 1.1726 | $69.59 | $16.04 | $13.92
0019 | Level I Excision/ Biopsy | T | 4.0547 | $240.62 | $71.87 | $48.12
0020 | Level II Excision/ Biopsy | T | 6.9433 | $412.04 | $107.40 | $82.41
0021 | Level III Excision/ Biopsy | T | 14.9776 | $888.82 | $219.48 | $177.76
0022 | Level IV Excision/ Biopsy | T | 19.6472 | $1,165.92 | $354.45 | $233.18
0023 | Exploration Penetrating Wound | T | 4.7775 | $283.51 |  | $56.70
0024 | Level I Skin Repair | T | 1.6084 | $95.45 | $31.25 | $19.09
0025 | Level II Skin Repair | T | 5.4938 | $326.02 | $101.85 | $65.20
0027 | Level IV Skin Repair | T | 18.4182 | $1,092.99 | $329.72 | $218.60
0028 | Level I Breast Surgery | T | 19.5801 | $1,161.94 | $303.74 | $232.39
0029 | Level II Breast Surgery | T | 32.0476 | $1,901.80 | $632.64 | $380.36
0030 | Level III Breast Surgery | T | 40.0825 | $2,378.62 | $763.55 | $475.72
0033 | Partial Hospitalization | P | 4.0708 | $241.57 |  | $48.31
0035 | Venous Cutdown | T | 0.7158 | $42.48 |  | $8.50
0036 | Level II Fine Needle Biopsy/Aspiration | T | 2.1773 | $129.21 |  | $25.84
0037 | Level IV Needle Biopsy/Aspiration Except Bone Marrow | T | 9.4751 | $562.28 | $224.91 | $112.46
0039 | Level I Implantation of Neurostimulator | S | 181.4000 | $10,764.82 |  | $2,152.96
0040 | Level I Implantation of Neurostimulator Electrodes | S | 55.3297 | $3,283.43 |  | $656.69
0041 | Level I Arthroscopy | T | 28.1318 | $1,669.43 |  | $333.89
0042 | Level II Arthroscopy | T | 43.9753 | $2,609.63 | $804.74 | $521.93
0043 | Closed Treatment Fracture Finger/Toe/Trunk | T | 1.7694 | $105.00 |  | $21.00
0045 | Bone/Joint Manipulation Under Anesthesia | T | 14.4945 | $860.15 | $268.47 | $172.03
0046 | Open/Percutaneous Treatment Fracture or Dislocation | T | 37.7023 | $2,237.37 | $535.76 | $447.47
0047 | Arthroplasty without Prosthesis | T | 31.6107 | $1,875.87 | $537.03 | $375.17
0048 | Level I Arthroplasty with Prosthesis | T | 43.1288 | $2,559.39 | $570.30 | $511.88
0049 | Level I Musculoskeletal Procedures Except Hand and Foot | T | 20.3707 | $1,208.86 |  | $241.77
0050 | Level II Musculoskeletal Procedures Except Hand and Foot | T | 23.9081 | $1,418.78 |  | $283.76
0051 | Level III Musculoskeletal Procedures Except Hand and Foot | T | 36.5271 | $2,167.63 |  | $433.53
0052 | Level IV Musculoskeletal Procedures Except Hand and Foot | T | 43.9378 | $2,607.40 |  | $521.48
0053 | Level I Hand Musculoskeletal Procedures | T | 15.6795 | $930.47 | $253.49 | $186.09
0054 | Level II Hand Musculoskeletal Procedures | T | 25.3711 | $1,505.60 |  | $301.12
0055 | Level I Foot Musculoskeletal Procedures | T | 20.0692 | $1,190.97 | $355.34 | $238.19
0056 | Level II Foot Musculoskeletal Procedures | T | 40.2957 | $2,391.27 |  | $478.25
0057 | Bunion Procedures | T | 27.5493 | $1,634.86 | $475.91 | $326.97
0058 | Level I Strapping and Cast Application | S | 1.0934 | $64.89 |  | $12.98
0060 | Manipulation Therapy | S | 0.4935 | $29.29 |  | $5.86
0068 | CPAP Initiation | S | 1.2293 | $72.95 | $29.18 | $14.59
0069 | Thoracoscopy | T | 30.6775 | $1,820.49 | $591.64 | $364.10
0070 | Thoracentesis/Lavage Procedures | T | 3.2101 | $190.50 |  | $38.10
0071 | Level I Endoscopy Upper Airway | T | 0.7915 | $46.97 | $11.31 | $9.39
0072 | Level II Endoscopy Upper Airway | T | 1.4361 | $85.22 | $21.27 | $17.04
0074 | Level IV Endoscopy Upper Airway | T | 15.7757 | $936.18 | $295.70 | $187.24
0075 | Level V Endoscopy Upper Airway | T | 21.3426 | $1,266.53 | $445.92 | $253.31
0076 | Level I Endoscopy Lower Airway | T | 9.4592 | $561.34 | $189.82 | $112.27
0077 | Level I Pulmonary Treatment | S | 0.3444 | $20.44 | $7.74 | $4.09
0078 | Level II Pulmonary Treatment | S | 1.0236 | $60.74 | $14.55 | $12.15
0079 | Ventilation Initiation and Management | S | 2.3482 | $139.35 |  | $27.87
0080 | Diagnostic Cardiac Catheterization | T | 37.1361 | $2,203.77 | $838.92 | $440.75
0081 | Non-Coronary Angioplasty or Atherectomy | T | 34.4473 | $2,044.21 |  | $408.84
0082 | Coronary Atherectomy | T | 85.0126 | $5,044.90 | $1,085.20 | $1,008.98
0083 | Coronary Angioplasty and Percutaneous Valvuloplasty | T | 50.8925 | $3,020.11 |  | $604.02
0084 | Level I Electrophysiologic Evaluation | S | 10.0205 | $594.65 |  | $118.93
0085 | Level II Electrophysiologic Evaluation | T | 35.1882 | $2,088.17 | $426.25 | $417.63
0086 | Ablate Heart Dysrhythm Focus | T | 44.2596 | $2,626.50 | $833.33 | $525.30
0087 | Cardiac Electrophysiologic Recording/Mapping | T | 30.7101 | $1,822.43 |  | $364.49
0088 | Thrombectomy | T | 36.5617 | $2,169.68 | $655.22 | $433.94
0089 | Insertion/Replacement of Permanent Pacemaker and Electrodes | T | 105.6143 | $6,267.47 | $1,682.28 | $1,253.49
0090 | Insertion/Replacement of Pacemaker Pulse Generator | T | 89.1574 | $5,290.87 | $1,612.80 | $1,058.17
0091 | Level II Vascular Ligation | T | 28.9999 | $1,720.94 | $348.23 | $344.19
0092 | Level I Vascular Ligation | T | 23.4516 | $1,391.69 |  | $278.34
0093 | Vascular Reconstruction/Fistula Repair without Device |  |  |  |  |
0094 | Level I Resuscitation and Cardioversion | S | 2.5363 | $150.51 | $47.62 | $30.10
0095 | Cardiac Rehabilitation | S | 0.5885 | $34.92 | $13.96 | $6.98
0096 | Non-Invasive Vascular Studies | S | 1.6307 | $96.77 | $38.70 | $19.35
0097 | Cardiac and Ambulatory Blood Pressure Monitoring | X | 1.0223 | $60.67 | $23.79 | $12.13
0098 | Injection of Sclerosing Solution | T | 1.1346 | $67.33 |  | $13.47
0099 | Electrocardiograms | S | 0.3821 | $22.67 |  | $4.53
0100 | Cardiac Stress Tests | X | 2.4968 | $148.17 | $41.44 | $29.63
0101 | Tilt Table Evaluation | S | 4.2787 | $253.91 | $101.56 | $50.78
0103 | Miscellaneous Vascular Procedures | T | 14.7142 | $873.18 | $223.63 | $174.64
0104 | Transcatheter Placement of Intracoronary Stents | T | 79.0094 | $4,688.65 |  | $937.73
0105 | Revision/Removal of Pacemakers, AICD, or Vascular | T | 22.3685 | $1,327.41 | $370.40 | $265.48
0106 | Insertion/Replacement/Repair of Pacemaker and/or Electrodes | T | 45.4851 | $2,699.22 |  | $539.84
0107 | Insertion of Cardioverter-Defibrillator | T | 260.0295 | $15,430.93 | $3,103.22 | $3,086.19
0108 | Insertion/Replacement/Repair of Cardioverter-Defibrillator Leads | T | 349.1681 | $20,720.68 |  | $4,144.14
0109 | Removal of Implanted Devices | T | 11.0433 | $655.34 | $131.49 | $131.07
0110 | Transfusion | S | 3.6594 | $217.16 |  | $43.43
0111 | Blood Product Exchange | S | 12.3956 | $735.59 | $200.18 | $147.12
0112 | Apheresis, Photopheresis, and Plasmapheresis | S | 26.7948 | $1,590.08 | $438.94 | $318.02
0113 | Excision Lymphatic System | T | 21.4653 | $1,273.82 |  | $254.76
0114 | Thyroid/Lymphadenectomy Procedures | T | 40.7652 | $2,419.13 | $485.91 | $483.83
0115 | Cannula/Access Device Procedures | T | 31.4727 | $1,867.68 | $459.35 | $373.54
0116 | Chemotherapy Administration by Other Technique Except Infusion | S | 1.1453 | $67.97 |  | $13.59
0117 | Chemotherapy Administration by Infusion Only | S | 3.2378 | $192.14 | $42.54 | $38.43
0120 | Infusion Therapy Except Chemotherapy | S | 2.0193 | $119.83 | $28.21 | $23.97
0121 | Level I Tube changes and Repositioning | T | 2.2766 | $135.10 | $43.80 | $27.02
0122 | Level II Tube changes and Repositioning | T | 6.9721 | $413.75 | $84.85 | $82.75
0123 | Bone Marrow Harvesting and Bone Marrow/Stem Cell Transplant | S | 22.9902 | $1,364.31 |  | $272.86
0125 | Refilling of Infusion Pump | T | 1.9331 | $114.72 |  | $22.94
0130 | Level I Laparoscopy | T | 31.9271 | $1,894.65 | $659.53 | $378.93
0131 | Level II Laparoscopy | T | 43.3389 | $2,571.86 | $1,001.89 | $514.37
0132 | Level III Laparoscopy | T | 62.9914 | $3,738.10 | $1,239.22 | $747.62
0140 | Esophageal Dilation without Endoscopy | T | 5.4737 | $324.83 | $94.18 | $64.97
0141 | Level I Upper GI Procedures | T | 8.1835 | $485.63 | $143.38 | $97.13
0142 | Small Intestine Endoscopy | T | 9.3487 | $554.78 | $152.78 | $110.96
0143 | Lower GI Endoscopy | T | 8.6869 | $515.51 | $186.06 | $103.10
0146 | Level I Sigmoidoscopy and Anoscopy | T | 4.6374 | $275.20 | $64.40 | $55.04
0147 | Level II Sigmoidoscopy and Anoscopy | T | 7.9679 | $472.84 |  | $94.57
0148 | Level I Anal/Rectal Procedures | T | 3.7383 | $221.84 | $57.21 | $44.37
0149 | Level III Anal/Rectal Procedures | T | 18.0726 | $1,072.48 | $293.06 | $214.50
0150 | Level IV Anal/Rectal Procedures | T | 23.8654 | $1,416.24 | $437.12 | $283.25
0151 | Endoscopic Retrograde Cholangio-Pancreatography (ERCP) | T | 18.7338 | $1,111.72 | $245.46 | $222.34
0152 | Level I Percutaneous Abdominal and Biliary Procedures | T | 12.2833 | $728.93 |  | $145.79
0153 | Peritoneal and Abdominal Procedures | T | 21.6961 | $1,287.51 | $382.75 | $257.50
0154 | Hernia/Hydrocele Procedures | T | 28.7847 | $1,708.17 | $464.85 | $341.63
0155 | Level II Anal/Rectal Procedures | T | 16.2546 | $964.60 |  | $192.92
0156 | Level II Urinary and Anal Procedures | T | 2.5751 | $152.81 | $40.52 | $30.56
0157 | Colorectal Cancer Screening: Barium Enema | S | 2.2904 | $135.92 |  | $27.18
0158 | Colorectal Cancer Screening: Colonoscopy | T | 7.6588 | $454.50 |  | $113.63
0159 | Colorectal Cancer Screening: Flexible Sigmoidoscopy | S | 3.1455 | $186.66 |  | $46.67
0160 | Level I Cystourethroscopy and other Genitourinary Procedures | T | 6.6753 | $396.13 | $105.06 | $79.23
0161 | Level II Cystourethroscopy and other Genitourinary Procedures | T | 18.5576 | $1,101.26 | $249.36 | $220.25
0162 | Level III Cystourethroscopy and other Genitourinary Procedures | T | 23.3918 | $1,388.14 |  | $277.63
0163 | Level IV Cystourethroscopy and other Genitourinary Procedures | T | 33.7354 | $2,001.96 |  | $400.39
0164 | Level I Urinary and Anal Procedures | T | 1.1855 | $70.35 | $17.29 | $14.07
0165 | Level III Urinary and Anal Procedures | T | 16.6689 | $989.18 |  | $197.84
0166 | Level I Urethral Procedures | T | 17.6743 | $1,048.85 | $218.73 | $209.77
0168 | Level II Urethral Procedures | T | 28.2685 | $1,677.54 | $388.03 | $335.51
0169 | Lithotripsy | T | 43.0133 | $2,552.54 | $1,021.01 | $510.51
0170 | Dialysis | S | 5.8994 | $350.09 |  | $70.02
0180 | Circumcision | T | 19.8827 | $1,179.90 | $304.87 | $235.98
0181 | Penile Procedures | T | 30.8663 | $1,831.70 | $621.82 | $366.34
0183 | Testes/Epididymis Procedures | T | 23.6415 | $1,402.96 |  | $280.59
0184 | Prostate Biopsy | T | 4.3566 | $258.53 | $96.27 | $51.71
0188 | Level II Female Reproductive Proc | T | 1.1400 | $67.65 |  | $13.53
0189 | Level III Female Reproductive Proc | T | 2.3710 | $140.70 |  | $28.14
0190 | Level I Hysteroscopy | T | 21.0653 | $1,250.08 | $424.28 | $250.02
0191 | Level I Female Reproductive Proc | T | 0.1670 | $9.91 | $2.78 | $1.98
0192 | Level IV Female Reproductive Proc | T | 4.3082 | $255.66 |  | $51.13
0193 | Level V Female Reproductive Proc | T | 14.5843 | $865.48 |  | $173.10
0194 | Level VIII Female Reproductive Proc | T | 20.7525 | $1,231.52 | $397.84 | $246.30
0195 | Level IX Female Reproductive Proc | T | 26.6791 | $1,583.22 | $483.80 | $316.64
0196 | Dilation and Curettage | T | 17.0974 | $1,014.61 | $338.23 | $202.92
0197 | Infertility Procedures | T | 2.3572 | $139.88 |  | $27.98
0198 | Pregnancy and Neonatal Care Procedures | T | 1.3683 | $81.20 | $32.19 | $16.24
0200 | Level VII Female Reproductive Proc | T | 17.8728 | $1,060.63 | $263.69 | $212.13
0201 | Level VI Female Reproductive Proc | T | 17.6047 | $1,044.72 | $329.65 | $208.94
0202 | Level X Female Reproductive Proc | T | 40.3866 | $2,396.66 | $958.66 | $479.33
0203 | Level IV Nerve Injections | T | 10.4015 | $617.26 | $246.90 | $123.45
0204 | Level I Nerve Injections | T | 2.1910 | $130.02 | $40.13 | $26.00
0206 | Level II Nerve Injections | T | 5.4920 | $325.91 | $75.55 | $65.18
0207 | Level III Nerve Injections | T | 6.0109 | $356.70 | $86.92 | $71.34
0208 | Laminotomies and Laminectomies | T | 42.3409 | $2,512.64 |  | $502.53
0209 | Extended EEG Studies and Sleep Studies, Level II | S | 11.5713 | $686.68 | $274.67 | $137.34
0212 | Nervous System Injections | T | 2.9740 | $176.49 | $70.59 | $35.30
0213 | Extended EEG Studies and Sleep Studies, Level I | S | 2.2932 | $136.09 | $54.43 | $27.22
0214 | Electroencephalogram | S | 1.1353 | $67.37 | $26.94 | $13.47
0215 | Level I Nerve and Muscle Tests | S | 0.6115 | $36.29 | $14.51 | $7.26
0216 | Level III Nerve and Muscle Tests | S | 2.6720 | $158.56 |  | $31.71
0218 | Level II Nerve and Muscle Tests | S | 1.1408 | $67.70 |  | $13.54
0220 | Level I Nerve Procedures | T | 17.3586 | $1,030.11 |  | $206.02
0221 | Level II Nerve Procedures | T | 29.9209 | $1,775.60 | $463.62 | $355.12
0222 | Implantation of Neurological Device | T | 179.0982 | $10,628.22 |  | $2,125.64
0223 | Implantation or Revision of Pain Management Catheter | T | 28.1230 | $1,668.90 |  | $333.78
0224 | Implantation of Reservoir/Pump/Shunt | T | 40.6455 | $2,412.03 |  | $482.41
0225 | Level II Implantation of Neurostimulator Electrodes | S | 234.6925 | $13,927.36 |  | $2,785.47
0226 | Implantation of Drug Infusion Reservoir | T | 138.8695 | $8,240.93 |  | $1,648.19
0227 | Implantation of Drug Infusion Device | T | 136.4922 | $8,099.86 |  | $1,619.97
0228 | Creation of Lumbar Subarachnoid Shunt | T | 51.7258 | $3,069.56 |  | $613.91
0229 | Transcatherter Placement of Intravascular Shunts | T | 64.4545 | $3,824.92 | $771.23 | $764.98
0230 | Level I Eye Tests & Treatments | S | 0.7858 | $46.63 | $14.97 | $9.33
0231 | Level III Eye Tests & Treatments | S | 1.9278 | $114.40 | $44.61 | $22.88
0232 | Level I Anterior Segment Eye Procedures | T | 6.6732 | $396.01 | $103.17 | $79.20
0233 | Level II Anterior Segment Eye Procedures | T | 14.9673 | $888.20 | $266.33 | $177.64
0234 | Level III Anterior Segment Eye Procedures | T | 21.9741 | $1,304.01 | $511.31 | $260.80
0235 | Level I Posterior Segment Eye Procedures | T | 4.6593 | $276.50 | $67.40 | $55.30
0236 | Level II Posterior Segment Eye Procedures | T | 17.0229 | $1,010.19 |  | $202.04
0237 | Level III Posterior Segment Eye Procedures | T | 28.9401 | $1,717.39 |  | $343.48
0238 | Level I Repair and Plastic Eye Procedures | T | 2.5933 | $153.89 |  | $30.78
0239 | Level II Repair and Plastic Eye Procedures | T | 6.9097 | $410.04 |  | $82.01
0240 | Level III Repair and Plastic Eye Procedures | T | 18.1508 | $1,077.12 | $315.31 | $215.42
0241 | Level IV Repair and Plastic Eye Procedures | T | 23.3036 | $1,382.91 | $384.47 | $276.58
0242 | Level V Repair and Plastic Eye Procedures | T | 30.5464 | $1,812.72 | $597.36 | $362.54
0243 | Strabismus/Muscle Procedures | T | 22.1671 | $1,315.46 | $431.39 | $263.09
0244 | Corneal Transplant | T | 38.3723 | $2,277.13 | $803.26 | $455.43
0245 | Level I Cataract Procedures without IOL Insert | T | 13.3625 | $792.97 | $221.89 | $158.59
0246 | Cataract Procedures with IOL Insert | T | 23.4597 | $1,392.17 | $495.96 | $278.43
0247 | Laser Eye Procedures Except Retinal | T | 5.0330 | $298.67 | $104.31 | $59.73
0248 | Laser Retinal Procedures | T | 4.6769 | $277.54 | $93.98 | $55.51
0249 | Level II Cataract Procedures without IOL Insert | T | 27.9369 | $1,657.86 | $524.67 | $331.57
0250 | Nasal Cauterization/Packing | T | 1.2896 | $76.53 | $26.79 | $15.31
0251 | Level I ENT Procedures | T | 2.0101 | $119.29 |  | $23.86
0252 | Level II ENT Procedures | T | 7.8673 | $466.87 | $113.41 | $93.37
0253 | Level III ENT Procedures | T | 16.1357 | $957.54 | $282.29 | $191.51
0254 | Level IV ENT Procedures | T | 23.4040 | $1,388.86 | $321.35 | $277.77
0256 | Level V ENT Procedures | T | 37.3204 | $2,214.70 |  | $442.94
0258 | Tonsil and Adenoid Procedures | T | 22.2466 | $1,320.18 | $437.25 | $264.04
0259 | Level VI ENT Procedures | T | 366.3317 | $21,739.22 | $8,070.21 | $4,347.84
0260 | Level I Plain Film Except Teeth | X | 0.7555 | $44.83 | $17.93 | $8.97
0261 | Level II Plain Film Except Teeth Including Bone Density Measurement | X | 1.2901 | $76.56 |  | $15.31
0262 | Plain Film of Teeth | X | 0.9228 | $54.76 |  | $10.95
0263 | Level I Miscellaneous Radiology Procedures | X | 1.7476 | $103.71 | $24.40 | $20.74
0264 | Level II Miscellaneous Radiology Procedures | X | 3.5240 | $209.12 | $79.41 | $41.82
0265 | Level I Diagnostic Ultrasound | S | 1.0213 | $60.61 | $24.24 | $12.12
0266 | Level II Diagnostic Ultrasound | S | 1.6393 | $97.28 | $38.91 | $19.46
0267 | Level III Diagnostic Ultrasound | S | 2.6327 | $156.23 | $62.18 | $31.25
0268 | Ultrasound Guidance Procedures | S | 1.0610 | $62.96 |  | $12.59
0269 | Level III Echocardiogram Except Transesophageal | S | 3.2437 | $192.49 | $76.99 | $38.50
0270 | Transesophageal Echocardiogram | S | 6.0192 | $357.20 | $142.88 | $71.44
0272 | Level I Fluoroscopy | X | 1.3801 | $81.90 | $32.76 | $16.38
0274 | Myelography | S | 3.0413 | $180.48 | $72.19 | $36.10
0275 | Arthrography | S | 3.5779 | $212.32 | $69.09 | $42.46
0276 | Level I Digestive Radiology | S | 1.5319 | $90.91 | $36.36 | $18.18
0277 | Level II Digestive Radiology | S | 2.3852 | $141.54 | $56.61 | $28.31
0278 | Diagnostic Urography | S | 2.6434 | $156.87 | $62.74 | $31.37
0279 | Level II Angiography and Venography except Extremity | S | 8.9319 | $530.05 | $150.03 | $106.01
0280 | Level III Angiography and Venography except Extremity | S | 20.7902 | $1,233.75 | $353.85 | $246.75
0282 | Miscellaneous Computerized Axial Tomography | S | 1.6542 | $98.17 | $39.26 | $19.63
0283 | Computerized Axial Tomography with Contrast Material | S | 4.4253 | $262.61 | $105.04 | $52.52
0284 | Magnetic Resonance Imaging and Magnetic Resonance Angiography with Contras | S | 6.4201 | $380.99 | $152.39 | $76.20
0285 | Myocardial Positron Emission Tomography (PET) | S | 17.1798 | $1,019.50 | $318.72 | $203.90
0288 | Bone Density: Axial Skeleton | S | 1.2568 | $74.58 |  | $14.92
0296 | Level I Therapeutic Radiologic Procedures | S | 2.2452 | $133.24 | $53.29 | $26.65
0297 | Level II Therapeutic Radiologic Procedures | S | 5.2530 | $311.73 | $122.13 | $62.35
0299 | Miscellaneous Radiation Treatment | S | 5.8482 | $347.05 |  | $69.41
0300 | Level I Radiation Therapy | S | 1.5198 | $90.19 |  | $18.04
0301 | Level II Radiation Therapy | S | 2.2195 | $131.71 |  | $26.34
0302 | Level III Radiation Therapy | S | 4.6145 | $273.84 | $103.74 | $54.77
0303 | Treatment Device Construction | X | 2.8356 | $168.27 | $66.95 | $33.65
0304 | Level I Therapeutic Radiation Treatment Preparation | X | 1.7738 | $105.26 | $41.52 | $21.05
0305 | Level II Therapeutic Radiation Treatment Preparation | X | 4.0036 | $237.59 | $91.38 | $47.52
0310 | Level III Therapeutic Radiation Treatment Preparation | X | 13.9490 | $827.78 | $325.27 | $165.56
0312 | Radioelement Applications | S | 5.0032 | $296.90 |  | $59.38
0313 | Brachytherapy | S | 12.8655 | $763.48 |  | $152.70
0314 | Hyperthermic Therapies | S | 5.9945 | $355.73 | $98.36 | $71.15
0315 | Level II Implantation of Neurostimulator | T | 290.6470 | $17,247.86 |  | $3,449.57
0320 | Electroconvulsive Therapy | S | 5.3765 | $319.06 | $80.06 | $63.81
0321 | Biofeedback and Other Training | S | 1.3579 | $80.58 | $21.71 | $16.12
0322 | Brief Individual Psychotherapy | S | 1.2319 | $73.10 |  | $14.62
0323 | Extended Individual Psychotherapy | S | 1.6227 | $96.30 | $20.08 | $19.26
0324 | Family Psychotherapy | S | 2.0997 | $124.60 |  | $24.92
0325 | Group Psychotherapy | S | 1.3189 | $78.27 | $17.10 | $15.65
0330 | Dental Procedures | S | 7.1756 | $425.82 |  | $85.16
0332 | Computerized Axial Tomography and Computerized Angiography without Contras | S | 3.2694 | $194.02 | $77.60 | $38.80
0333 | Computerized Axial Tomography and Computerized Angio w/o Contrast Material | S | 5.2836 | $313.54 | $125.41 | $62.71
0335 | Magnetic Resonance Imaging, Miscellaneous | S | 5.1581 | $306.10 | $122.43 | $61.22
0336 | Magnetic Resonance Imaging and Magnetic Resonance Angiography without Cont | S | 6.0742 | $360.46 | $144.18 | $72.09
0337 | MRI and Magnetic Resonance Angiography without Contrast Material followed | S | 8.7945 | $521.89 | $208.75 | $104.38
0339 | Observation | S | 7.1403 | $423.73 |  | $84.75
0340 | Minor Ancillary Procedures | X | 0.6384 | $37.88 |  | $7.58
0341 | Skin Tests | X | 0.1112 | $6.60 | $2.62 | $1.32
0342 | Level I Pathology | X | 0.1560 | $9.26 | $3.70 | $1.85
0343 | Level III Pathology | X | 0.4786 | $28.40 | $11.10 | $5.68
0344 | Level IV Pathology | X | 0.7996 | $47.45 | $15.66 | $9.49
0345 | Level I Transfusion Laboratory Procedures | X | 0.2277 | $13.51 | $3.01 | $2.70
0346 | Level II Transfusion Laboratory Procedures | X | 0.3434 | $20.38 | $4.54 | $4.08
0347 | Level III Transfusion Laboratory Procedures | X | 0.8434 | $50.05 | $12.35 | $10.01
0348 | Fertility Laboratory Procedures | X | 0.7927 | $47.04 |  | $9.41
0350 | Administration of flu and PPV vaccines | X | 0.3954 | $23.46 | $0.00 | $0.00
0352 | Level I Injections | X | 0.1413 | $8.39 |  | $1.68
0353 | Level II Injections | X | 0.3954 | $23.46 |  | $4.69
0359 | Level III Injections | X | 0.8312 | $49.33 |  | $9.87
0360 | Level I Alimentary Tests | X | 1.4739 | $87.47 | $34.98 | $17.49
0361 | Level II Alimentary Tests | X | 3.6216 | $214.92 | $83.23 | $42.98
0362 | Contact Lens and Spectacle Services | X | 2.6607 | $157.89 |  | $31.58
0363 | Level I Otorhinolaryngologic Function Tests | X | 0.9128 | $54.17 | $17.44 | $10.83
0364 | Level I Audiometry | X | 0.4708 | $27.94 | $9.06 | $5.59
0365 | Level II Audiometry | X | 1.2356 | $73.32 | $18.95 | $14.66
0366 | Level III Audiometry | X | 1.7743 | $105.29 | $30.04 | $21.06
0367 | Level I Pulmonary Test | X | 0.6659 | $39.52 | $14.80 | $7.90
0368 | Level II Pulmonary Tests | X | 0.9761 | $57.92 | $23.16 | $11.58
0369 | Level III Pulmonary Tests | X | 2.7519 | $163.31 | $44.18 | $32.66
0370 | Allergy Tests | X | 1.1232 | $66.65 |  | $13.33
0372 | Therapeutic Phlebotomy | X | 0.5700 | $33.83 | $10.09 | $6.77
0373 | Neuropsychological Testing | X | 2.1926 | $130.12 |  | $26.02
0374 | Monitoring Psychiatric Drugs | X | 1.0414 | $61.80 |  | $12.36
0375 | Ancillary Outpatient Services When Patient Expires | T | 42.5900 | $2,527.42 |  | $505.48
0376 | Level II Cardiac Imaging | S | 5.1975 | $308.44 | $121.42 | $61.69
0377 | Level III Cardiac Imaging | S | 6.8344 | $405.57 | $162.22 | $81.11
0378 | Level II Pulmonary Imaging | S | 5.4997 | $326.37 | $130.54 | $65.27
0379 | Injection adenosine | K |  | $33.45 |  | $6.69
0381 | Single Allergy Tests | X | 0.1884 | $11.18 | $2.35 | $2.24
0384 | GI Procedures with Stents | T | 22.3392 | $1,325.68 | $287.93 | $265.14
0385 | Level I Prosthetic Urological Procedures | S | 75.6446 | $4,488.98 |  | $897.80
0386 | Level II Prosthetic Urological Procedures | S | 120.1694 | $7,131.21 |  | $1,426.24
0387 | Level II Hysteroscopy | T | 32.5445 | $1,931.29 | $655.55 | $386.26
0388 | Discography | S | 12.3294 | $731.66 | $292.66 | $146.33
0389 | Non-imaging Nuclear Medicine | S | 1.4976 | $88.87 | $35.54 | $17.77
0390 | Level I Endocrine Imaging | S | 2.5562 | $151.69 | $60.67 | $30.34
0391 | Level II Endocrine Imaging | S | 2.8774 | $170.75 | $68.30 | $34.15
0393 | Red Cell/Plasma Studies | S | 3.4438 | $204.37 | $81.74 | $40.87
0394 | Hepatobiliary Imaging | S | 4.4630 | $264.85 | $105.93 | $52.97
0395 | GI Tract Imaging | S | 3.8699 | $229.65 | $91.86 | $45.93
0396 | Bone Imaging | S | 4.1426 | $245.83 | $98.33 | $49.17
0397 | Vascular Imaging | S | 2.2646 | $134.39 | $53.75 | $26.88
0398 | Level I Cardiac Imaging | S | 4.3093 | $255.73 | $102.29 | $51.15
0399 | Nuclear Medicine Add-on Imaging | S | 1.5192 | $90.15 | $36.06 | $18.03
0400 | Hematopoietic Imaging | S | 4.1335 | $245.29 | $98.11 | $49.06
0401 | Level I Pulmonary Imaging | S | 3.4150 | $202.66 | $81.06 | $40.53
0402 | Brain Imaging | S | 5.1847 | $307.68 | $123.07 | $61.54
0403 | CSF Imaging | S | 3.6138 | $214.45 | $85.78 | $42.89
0404 | Renal and Genitourinary Studies Level I | S | 3.8559 | $228.82 | $91.52 | $45.76
0405 | Renal and Genitourinary Studies Level II | S | 4.2674 | $253.24 | $101.29 | $50.65
0406 | Tumor/Infection Imaging | S | 4.3035 | $255.38 | $102.15 | $51.08
0407 | Radionuclide Therapy | S | 3.9839 | $236.42 | $94.56 | $47.28
0409 | Red Blood Cell Tests | X | 0.1258 | $7.47 | $2.22 | $1.49
0411 | Respiratory Procedures | S | 0.3869 | $22.96 |  | $4.59
0412 | IMRT Treatment Delivery | S | 5.3643 | $318.33 |  | $63.67
0415 | Level II Endoscopy Lower Airway | T | 22.0955 | $1,311.21 | $459.92 | $262.24
0416 | Level I Intravascular and Intracardiac Ultrasound and Flow Reserve | S | 19.5542 | $1,160.40 |  | $232.08
0417 | Computerized Reconstruction | S | 4.0750 | $241.82 |  | $48.36
0418 | Insertion of Left Ventricular Pacing Elect | T | 109.3043 | $6,486.45 |  | $1,297.29
0421 | Prolonged Physiologic Monitoring | X | 1.6600 | $98.51 |  | $19.70
0422 | Level II Upper GI Procedures | T | 22.9647 | $1,362.79 | $448.81 | $272.56
0423 | Level II Percutaneous Abdominal and Biliary Procedures | T | 40.2866 | $2,390.73 |  | $478.15
0425 | Level II Arthroplasty with Prosthesis | T | 100.2058 | $5,946.51 | $1,378.01 | $1,189.30
0426 | Level II Strapping and Cast Application | S | 2.1243 | $126.06 |  | $25.21
0427 | Level III Tube Changes and Repositioning | T | 10.1977 | $605.16 | $124.11 | $121.03
0428 | Level III Sigmoidoscopy and Anoscopy | T | 19.9022 | $1,181.06 |  | $236.21
0429 | Level V Cystourethroscopy and other Genitourinary Procedures | T | 42.3147 | $2,511.08 |  | $502.22
0430 | Level IV Nerve and Muscle Tests | T | 11.4040 | $676.75 |  | $135.35
0432 | Health and Behavior Services | S | 0.6949 | $41.24 |  | $8.25
0433 | Level II Pathology | X | 0.2581 | $15.32 | $6.12 | $3.06
0434 | Cardiac Defect Repair | T | 90.7877 | $5,387.61 |  | $1,077.52
0600 | Low Level Clinic Visits | V | 0.8688 | $51.56 |  | $10.31
0601 | Mid Level Clinic Visits | V | 1.0038 | $59.57 |  | $11.91
0602 | High Level Clinic Visits | V | 1.4284 | $84.77 |  | $16.95
0610 | Low Level Emergency Visits | V | 1.2947 | $76.83 | $19.48 | $15.37
0611 | Mid Level Emergency Visits | V | 2.2718 | $134.82 | $35.76 | $26.96
0612 | High Level Emergency Visits | V | 3.9853 | $236.50 | $54.12 | $47.30
0620 | Critical Care | S | 8.2996 | $492.52 | $135.68 | $98.50
0621 | Level I Vascular Access Procedures | T | 8.2986 | $492.46 |  | $98.49
0622 | Level II Vascular Access Procedures | T | 21.2671 | $1,262.05 |  | $252.41
0623 | Level III Vascular Access Procedures | T | 27.1105 | $1,608.82 |  | $321.76
0648 | Breast Reconstruction with Prosthesis | T | 50.4459 | $2,993.61 |  | $598.72
0651 | Complex Interstitial Radiation Source Application | S | 12.1448 | $720.71 |  | $144.14
0652 | Insertion of Intraperitoneal Catheters | T | 28.8948 | $1,714.70 |  | $342.94
0653 | Vascular Reconstruction/Fistula Repair with Device | T | 30.5339 | $1,811.97 |  | $362.39
0654 | Insertion/Replacement of a permanent dual chamber pacemaker | T | 100.9294 | $5,989.45 |  | $1,197.89
0655 | Insertion/Replacement/Conversion of a permanent dual chamber pacemaker | T | 133.7768 | $7,938.72 |  | $1,587.74
0656 | Transcatheter Placement of Intracoronary Drug-Eluting Stents | T | 109.9237 | $6,523.20 |  | $1,304.64
0657 | Placement of Tissue Clips | S | 1.7092 | $101.43 |  | $20.29
0658 | Percutaneous Breast Biopsies | T | 6.1049 | $362.28 |  | $72.46
0659 | Hyperbaric Oxygen | S | 1.5473 | $91.82 |  | $18.36
0660 | Level II Otorhinolaryngologic Function Tests | X | 1.6419 | $97.44 | $30.66 | $19.49
0661 | Level V Pathology | X | 3.3775 | $200.43 | $80.17 | $40.09
0662 | CT Angiography | S | 5.1621 | $306.33 | $122.53 | $61.27
0664 | Level I Proton Beam Radiation Therapy | S | 12.9439 | $768.13 |  | $153.63
0665 | Bone Density: AppendicularSkeleton | S | 0.6464 | $38.36 |  | $7.67
0667 | Level II Proton Beam Radiation Therapy | S | 15.4857 | $918.97 |  | $183.79
0668 | Level I Angiography and Venography except Extremity | S | 6.5024 | $385.87 | $114.67 | $77.17
0670 | Level II Intravascular and Intracardiac Ultrasound and Flow Reserve | S | 25.4131 | $1,508.09 | $472.46 | $301.62
0671 | Level II Echocardiogram Except Transesophageal | S | 1.7028 | $101.05 | $40.42 | $20.21
0672 | Level IV Posterior Segment Eye Procedures | T | 36.9284 | $2,191.44 |  | $438.29
0673 | Level IV Anterior Segment Eye Procedures | T | 29.2582 | $1,736.27 | $649.56 | $347.25
0674 | Prostate Cryoablation | T | 95.7856 | $5,684.20 |  | $1,136.84
0675 | Prostatic Thermotherapy | T | 43.7329 | $2,595.24 |  | $519.05
0676 | Thrombolysis and Thrombectomy | T | 2.4105 | $143.05 |  | $28.61
0678 | External Counterpulsation | T | 1.7276 | $102.52 |  | $20.50
0679 | Level II Resuscitation and Cardioversion | S | 5.5774 | $330.98 | $95.30 | $66.20
0680 | Insertion of Patient Activated Event Recorders | S | 62.9082 | $3,733.16 |  | $746.63
0681 | Knee Arthroplasty | T | 137.1630 | $8,139.66 | $2,081.48 | $1,627.93
0682 | Level V Debridement & Destruction | T | 6.9107 | $410.10 | $162.42 | $82.02
0683 | Level II Photochemotherapy | S | 1.9006 | $112.79 | $25.34 | $22.56
0685 | Level III Needle Biopsy/Aspiration Except Bone Marrow | T | 6.0174 | $357.09 | $115.47 | $71.42
0686 | Level III Skin Repair | T | 13.8287 | $820.64 |  | $164.13
0687 | Revision/Removal of Neurostimulator Electrodes | T | 19.2347 | $1,141.44 | $456.57 | $228.29
0688 | Revision/Removal of Neurostimulator Pulse Generator Receiver | T | 43.0444 | $2,554.38 | $1,021.75 | $510.88
0689 | Electronic Analysis of Cardioverter-defibrillators | S | 0.5735 | $34.03 |  | $6.81
0690 | Electronic Analysis of Pacemakers and other Cardiac Devices | S | 0.3755 | $22.28 | $8.91 | $4.46
0691 | Electronic Analysis of Programmable Shunts/Pumps | S | 2.5252 | $149.85 | $59.94 | $29.97
0692 | Electronic Analysis of Neurostimulator Pulse Generators | S | 2.0111 | $119.34 | $30.16 | $23.87
0693 | Level II Breast Reconstruction | T | 42.2254 | $2,505.78 | $798.17 | $501.16
0694 | Mohs Surgery | T | 3.8452 | $228.19 | $61.86 | $45.64
0695 | Level VII Debridement & Destruction | T | 20.3164 | $1,205.64 | $266.59 | $241.13
0697 | Level I Echocardiogram Except Transesophageal | S | 1.5357 | $91.13 | $36.45 | $18.23
0698 | Level II Eye Tests & Treatments | S | 1.2438 | $73.81 | $16.55 | $14.76
0699 | Level IV Eye Tests & Treatments | T | 10.0177 | $594.48 |  | $118.90
0700 | Antepartum Manipulation | T | 5.3614 | $318.16 |  | $63.63
0701 | SR 89 chloride, per mCi | H |  |  |  |
0702 | SM 153 lexidronam | H |  |  |  |
0704 | IN 111 Satumomab pendetide per dose | H |  |  |  |
0705 | Technetium TC99M tetrofosmin | H |  |  |  |
0726 | Dexrazoxane hcl injection | K |  | $216.39 |  | $43.28
0728 | Filgrastim injection | K |  | $178.39 |  | $35.68
0730 | Pamidronate disodium | K |  | $58.42 |  | $11.68
0731 | Sargramostim injection | K |  | $21.11 |  | $4.22
0732 | Mesna injection | K |  | $13.68 |  | $2.74
0733 | Non esrd epoetin alpha inj | K |  | $9.99 |  | $2.00
0734 | Injection, darbepoetin alfa (for non-ESRD) | K |  | $3.28 |  | $0.66
0735 | Ampho b cholesteryl sulfate | K |  | $12.24 |  | $2.45
0736 | Amphotericin b liposome inj | K |  | $21.91 |  | $4.38
0737 | Ammonia N-13, per dose | H |  |  |  |
0738 | Rasburicase | G |  | $109.18 |  | $21.84
0750 | Dolasetron mesylate | K |  | $6.55 |  | $1.31
0763 | Dolasetron mesylate oral | K |  | $48.54 |  | $9.71
0764 | Granisetron HCl injection | K |  | $7.24 |  | $1.45
0765 | Granisetron HCl oral | K |  | $33.51 |  | $6.70
0768 | Ondansetron hcl injection | K |  | $3.80 |  | $0.76
0769 | Ondansetron hcl oral | K |  | $32.02 |  | $6.40
0800 | Leuprolide acetate | K |  | $441.78 |  | $88.36
0802 | Etoposide oral | K |  | $41.12 |  | $8.22
0807 | Aldesleukin/single use vial | K |  | $701.76 |  | $140.35
0809 | Bcg live intravesical vac | K |  | $121.74 |  | $24.35
0810 | Goserelin acetate implant | K |  | $196.25 |  | $39.25
0811 | Carboplatin injection | K |  | $77.16 |  | $15.43
0812 | Carmus bischl nitro inj | K |  | $141.29 |  | $28.26
0814 | Asparaginase injection | K |  | $55.42 |  | $11.08
0819 | Dacarbazine inj | K |  | $6.20 |  | $1.24
0820 | Daunorubicin | K |  | $35.28 |  | $7.06
0821 | Daunorubicin citrate liposom | K |  | $57.56 |  | $11.51
0823 | Docetaxel | K |  | $301.17 |  | $60.23
0827 | Floxuridine injection | K |  | $60.17 |  | $12.03
0828 | Gemcitabine HCL | K |  | $117.45 |  | $23.49
0830 | Irinotecan injection | K |  | $129.08 |  | $25.82
0831 | Ifosfomide injection | K |  | $53.54 |  | $10.71
0832 | Idarubicin hcl injection | K |  | $314.00 |  | $62.80
0834 | Interferon alfa-2a inj | K |  | $31.75 |  | $6.35
0835 | Inj cosyntropin | K |  | $69.27 |  | $13.85
0836 | Interferon alfa-2b inj recombinant, 1 million | K |  | $13.22 |  | $2.64
0838 | Interferon gamma 1-b inj | K |  | $277.79 |  | $55.56
0840 | Melphalan hydrochl | K |  | $523.22 |  | $104.64
0842 | Fludarabine phosphate inj | K |  | $262.41 |  | $52.48
0843 | Pegaspargase | K |  | $1,528.80 |  | $305.76
0844 | Pentostatin injection | K |  | $1,868.91 |  | $373.78
0849 | Rituximab | K |  | $447.97 |  | $89.59
0850 | Streptozocin injection | K |  | $153.33 |  | $30.67
0851 | Thiotepa injection | K |  | $44.55 |  | $8.91
0852 | Topotecan | K |  | $755.51 |  | $151.10
0855 | Vinorelbine tartrate | K |  | $62.85 |  | $12.57
0856 | Porfimer sodium | K |  | $2,457.97 |  | $491.59
0857 | Bleomycin sulfate injection | K |  | $54.18 |  | $10.84
0858 | Cladribine | K |  | $39.37 |  | $7.87
0860 | Plicamycin (mithramycin) inj | K |  | $80.54 |  | $16.11
0861 | Leuprolide acetate injection | K |  | $10.96 |  | $2.19
0862 | Mitomycin | K |  | $26.36 |  | $5.27
0863 | Paclitaxel injection | K |  | $19.11 |  | $3.82
0864 | Mitoxantrone hcl | K |  | $329.69 |  | $65.94
0865 | Interferon alfa-n3 inj, human leukocyte derived, 2 | K |  | $8.77 |  | $1.75
0868 | Oral aprepitant | G |  | $4.75 |  | $0.95
0869 | IVIG lyophil 1g | K |  | $39.46 |  | $7.89
0870 | IVIG lyophil 10 mg | K |  | $0.40 |  | $0.08
0871 | IVIG non-lyophil 1g | K |  | $57.26 |  | $11.45
0872 | IVIG non-lyophil 10 mg | K |  | $0.57 |  | $0.11
0876 | Caffeine citrate injection | K |  | $3.34 |  | $0.67
0880 | Penicillin g benzathine inj | K |  | $72.26 |  | $14.45
0884 | Rho d immune globulin inj | K |  | $113.91 |  | $22.78
0887 | Azathioprine parenteral | K |  | $47.40 |  | $9.48
0888 | Cyclosporine oral | K |  | $3.94 |  | $0.79
0890 | Lymphocyte immune globulin | K |  | $290.30 |  | $58.06
0891 | Tacrolimus oral | K |  | $3.37 |  | $0.67
0892 | Edetate calcium disodium inj | K |  | $40.34 |  | $8.07
0893 | Calcitonin salmon injection | K |  | $35.68 |  | $7.14
0895 | Deferoxamine mesylate inj | K |  | $14.91 |  | $2.98
0900 | Alglucerase injection | K |  | $39.94 |  | $7.99
0901 | Alpha 1 proteinase inhibitor | K |  | $3.30 |  | $0.66
0902 | Botulinum toxin a, per unit | K |  | $4.80 |  | $0.96
0903 | Cytomegalovirus imm IV/vial | K |  | $683.07 |  | $136.61
0906 | RSV-ivig | K |  | $15.56 |  | $3.11
0910 | Interferon beta-1b | K |  | $81.95 |  | $16.39
0911 | Streptokinase | K |  | $83.36 |  | $16.67
0912 | Interferon alfacon-1 | K |  | $3.91 |  | $0.78
0913 | Ganciclovir long act implant | K |  | $4,318.68 |  | $863.74
0916 | Injection imiglucerase /unit | K |  | $3.98 |  | $0.80
0917 | Adenosine injection | K |  | $71.53 |  | $14.31
0925 | Factor viii | K |  | $0.51 |  | $0.10
0926 | Factor VIII (porcine) | K |  | $1.75 |  | $0.35
0927 | Factor viii recombinant | K |  | $0.94 |  | $0.19
0928 | Factor ix complex | K |  | $0.52 |  | $0.10
0929 | Anti-inhibitor per iu | K |  | $1.12 |  | $0.22
0931 | Factor IX non-recombinant | K |  | $0.75 |  | $0.15
0932 | Factor IX recombinant | K |  | $0.86 |  | $0.17
0935 | Clonidine hydrochloride | K |  | $57.47 |  | $11.49
0949 | Plasma, Pooled Multiple Donor, Solvent/Detergent T | K | 1.1956 | $70.95 |  | $14.19
0950 | Blood (Whole) For Transfusion | K | 2.0123 | $119.42 |  | $23.88
0952 | Cryoprecipitate | K | 0.7395 | $43.88 |  | $8.78
0954 | RBC leukocytes reduced | K | 2.7370 | $162.42 |  | $32.48
0955 | Plasma, Fresh Frozen | K | 1.2934 | $76.75 |  | $15.35
0956 | Plasma Protein Fraction | K | 1.1226 | $66.62 |  | $13.32
0957 | Platelet Concentrate | K | 0.8317 | $49.36 |  | $9.87
0958 | Platelet Rich Plasma | K | 5.1815 | $307.49 |  | $61.50
0959 | Red Blood Cells | K | 2.0301 | $120.47 |  | $24.09
0960 | Washed Red Blood Cells | K | 2.9707 | $176.29 |  | $35.26
0961 | Infusion, Albumin (Human) 5%, 50 ml | K | 0.5119 | $30.38 |  | $6.08
0963 | Albumin (human), 5% | K | 1.3869 | $82.30 |  | $16.46
0964 | Albumin (human), 25% | K | 0.4878 | $28.95 |  | $5.79
0965 | Albumin (human), 25% | K | 1.1117 | $65.97 |  | $13.19
0966 | Plasmaprotein fract, 5% | K | 4.9564 | $294.13 |  | $58.83
0967 | Split unit of blood | K | 1.2698 | $75.35 |  | $15.07
0968 | Platelets leukocyte reduced irradiated | K | 2.3639 | $140.28 |  | $28.06
0969 | Red blood cell leukocyte reduced irradiated | K | 3.6451 | $216.31 |  | $43.26
1009 | Cryoprecip reduced plasma | K | 1.3062 | $77.51 |  | $15.50
1010 | Blood, L/R, CMV-neg | K | 2.9692 | $176.20 |  | $35.24
1011 | Platelets, HLA-m, L/R, unit | K | 10.9690 | $650.93 |  | $130.19
1013 | Platelet concentrate, L/R, unit | K | 1.6023 | $95.09 |  | $19.02
1016 | Blood, L/R, froz/deglycerol/washed | K | 5.2631 | $312.33 |  | $62.47
1017 | Platelets, aph/pher, L/R, CMV-neg, unit | K | 8.5998 | $510.34 |  | $102.07
1018 | Blood, L/R, irradiated | K | 2.8004 | $166.18 |  | $33.24
1019 | Platelets, aph/pher, L/R, irradiated, unit | K | 9.5131 | $564.54 |  | $112.91
1020 | Pit, pher, L/R, CMV, irrad | K | 10.1551 | $602.63 |  | $120.53
1021 | RBC, frz/deg/wsh, L/R, irrad | K | 4.8787 | $289.52 |  | $57.90
1022 | RBC, L/R, CMV neg, irrad | K | 4.2901 | $254.59 |  | $50.92
1045 | Iobenguane sulfate I-131 | H |  |  |  |
1052 | Injection, Voriconazole | K |  | $4.63 |  | $0.93
1064 | I-131 sodium iodide capsule | H |  |  |  |
1065 | I-131 sodium iodide solution | H |  |  |  |
1080 | I-131 tositumomab, dx | H |  |  |  |
1081 | I-131 tositumomab, tx | H |  |  |  |
1082 | Treprostinil | K |  | $55.02 |  | $11.00
1083 | Injection, Adalimumab | K |  | $300.10 |  | $60.02
1084 | Denileukin diftitox | K |  | $1,235.33 |  | $247.07
1085 | Injection, Gallium Nitrate | K |  | $1.30 |  | $0.26
1086 | Temozolomide,oral | K |  | $7.28 |  | $1.46
1088 | Dx I131 so iodide cap millic | H |  |  |  |
1091 | IN 111 Oxyquinoline | H |  |  |  |
1092 | IN 111 Pentetate | H |  |  |  |
1093 | TC99M fanolesomab | H |  |  |  |
1096 | TC 99M Exametazime, per dose | H |  |  |  |
1150 | Th I131 so iodide sol millic | H |  |  |  |
1166 | Cytarabine liposome | K |  | $366.43 |  | $73.29
1167 | Epirubicin hcl | K |  | $25.15 |  | $5.03
1178 | Busulfan IV | K | 0.2851 | $16.92 |  | $3.38
1201 | TC 99M SUCCIMER, PER Vial | H |  |  |  |
1203 | Verteporfin for injection | K |  | $9.16 |  | $1.83
1207 | Octreotide injection, depot | K |  | $87.40 |  | $17.48
1210 | Inj dihydroergotamine mesylt | K |  | $27.82 |  | $5.56
1280 | Corticotropin injection | K |  | $95.44 |  | $19.09
1305 | Apligraf | K | 12.9222 | $766.84 |  | $153.37
1330 | Ergonovine maleate injection | K | 0.5263 | $31.23 |  | $6.25
1409 | Factor viia recombinant | K |  | $1,080.11 |  | $216.02
1436 | Etidronate disodium inj | K |  | $68.69 |  | $13.74
1491 | New Technology—Level I ($0-$10) | S |  | $5.00 |  | $1.00
1492 | New Technology—Level I ($10-$20) | S |  | $15.00 |  | $3.00
1493 | New Technology—Level I ($20-$30) | S |  | $25.00 |  | $5.00
1494 | New Technology—Level I ($30-$40) | S |  | $35.00 |  | $7.00
1495 | New Technology—Level I ($40-$50) | S |  | $45.00 |  | $9.00
1496 | New Technology—Level I ($0-$10) | T |  | $5.00 |  | $1.00
1497 | New Technology—Level I ($10-$20) | T |  | $15.00 |  | $3.00
1498 | New Technology—Level I ($20-$30) | T |  | $25.00 |  | $5.00
1499 | New Technology—Level I ($30-$40) | T |  | $35.00 |  | $7.00
1500 | New Technology—Level I ($40-$50) | T |  | $45.00 |  | $9.00
1502 | New Technology—Level II ($50-$100) | S |  | $75.00 |  | $15.00
1503 | New Technology—Level III ($100-$200) | S |  | $150.00 |  | $30.00
1504 | New Technology—Level IV ($200-$300) | S |  | $250.00 |  | $50.00
1505 | New Technology—Level V ($300-$400) | S |  | $350.00 |  | $70.00
1506 | New Technology—Level VI ($400-$500) | S |  | $450.00 |  | $90.00
1507 | New Technology—Level VII ($500-$600) | S |  | $550.00 |  | $110.00
1508 | New Technology—Level VIII ($600-$700) | S |  | $650.00 |  | $130.00
1509 | New Technology—Level IX ($700-$800) | S |  | $750.00 |  | $150.00
1510 | New Technology—Level X ($800-$900) | S |  | $850.00 |  | $170.00
1511 | New Technology—Level XI ($900-$1000) | S |  | $950.00 |  | $190.00
1512 | New Technology—Level XII ($1000-$1100) | S |  | $1,050.00 |  | $210.00
1513 | New Technology—Level XIII ($1100-$1200) | S |  | $1,150.00 |  | $230.00
1514 | New Technology—Level XIV ($1200-$1300) | S |  | $1,250.00 |  | $250.00
1515 | New Technology—Level XV ($1300-$1400) | S |  | $1,350.00 |  | $270.00
1516 | New Technology—Level XVI ($1400-$1500) | S |  | $1,450.00 |  | $290.00
1517 | New Technology—Level XVII ($1500-$1600) | S |  | $1,550.00 |  | $310.00
1518 | New Technology—Level XVIII ($1600-$1700) | S |  | $1,650.00 |  | $330.00
1519 | New Technology—Level IXX ($1700-$1800) | S |  | $1,750.00 |  | $350.00
1520 | New Technology—Level XX ($1800-$1900) | S |  | $1,850.00 |  | $370.00
1521 | New Technology—Level XXI ($1900-$2000) | S |  | $1,950.00 |  | $390.00
1522 | New Technology—Level XXII ($2000-$2500) | S |  | $2,250.00 |  | $450.00
1523 | New Technology—Level XXIII ($2500-$3000) | S |  | $2,750.00 |  | $550.00
1524 | New Technology—Level XIV ($3000-$3500) | S |  | $3,250.00 |  | $650.00
1525 | New Technology—Level XXV ($3500-$4000) | S |  | $3,750.00 |  | $750.00
1526 | New Technology—Level XXVI ($4000-$4500) | S |  | $4,250.00 |  | $850.00
1527 | New Technology—Level XXVII ($4500-$5000) | S |  | $4,750.00 |  | $950.00
1528 | New Technology—Level XXVIII ($5000-$5500) | S |  | $5,250.00 |  | $1,050.00
1529 | New Technology—Level XXIX ($5500-$6000) | S |  | $5,750.00 |  | $1,150.00
1530 | New Technology—Level XXX ($6000-$6500) | S |  | $6,250.00 |  | $1,250.00
1531 | New Technology—Level XXXI ($6500-$7000) | S |  | $6,750.00 |  | $1,350.00
1532 | New Technology—Level XXXII ($7000-$7500) | S |  | $7,250.00 |  | $1,450.00
1533 | New Technology—Level XXXIII ($7500-$8000) | S |  | $7,750.00 |  | $1,550.00
1534 | New Technology—Level XXXIV ($8000-$8500) | S |  | $8,250.00 |  | $1,650.00
1535 | New Technology—Level XXXV ($8500-$9000) | S |  | $8,750.00 |  | $1,750.00
1536 | New Technology—Level XXXVI ($9000-$9500) | S |  | $9,250.00 |  | $1,850.00
1537 | New Technology—Level XXXVII ($9500-$10000) | S |  | $9,750.00 |  | $1,950.00
1539 | New Technology—Level II ($50-$100) | T |  | $75.00 |  | $15.00
1540 | New Technology—Level III ($100-$200) | T |  | $150.00 |  | $30.00
1541 | New Technology—Level IV ($200-$300) | T |  | $250.00 |  | $50.00
1542 | New Technology—Level V ($300-$400) | T |  | $350.00 |  | $70.00
1543 | New Technology—Level VI ($400-$500) | T |  | $450.00 |  | $90.00
1544 | New Technology—Level VII ($500-$600) | T |  | $550.00 |  | $110.00
1545 | New Technology—Level VIII ($600-$700) | T |  | $650.00 |  | $130.00
1546 | New Technology—Level IX ($700-$800) | T |  | $750.00 |  | $150.00
1547 | New Technology—Level X ($800-$900) | T |  | $850.00 |  | $170.00
1548 | New Technology—Level XI ($900-$1000) | T |  | $950.00 |  | $190.00
1549 | New Technology—Level XII ($1000-$1100) | T |  | $1,050.00 |  | $210.00
1550 | New Technology—Level XIII ($1100-$1200) | T |  | $1,150.00 |  | $230.00
1551 | New Technology—Level XIV ($1200- $1300) | T |  | $1,250.00 |  | $250.00
1552 | New Technology—Level XV ($1300-$1400) | T |  | $1,350.00 |  | $270.00
1553 | New Technology—Level XVI ($1400-$1500) | T |  | $1,450.00 |  | $290.00
1554 | New Technology—Level XVII ($1500-$1600) | T |  | $1,550.00 |  | $310.00
1555 | New Technology—Level XVIII ($1600-$1700) | T |  | $1,650.00 |  | $330.00
1556 | New Technology—Level XIX ($1700-$1800) | T |  | $1,750.00 |  | $350.00
1557 | New Technology—Level XX ($1800-$1900) | T |  | $1,850.00 |  | $370.00
1558 | New Technology—Level XXI ($1900-$2000) | T |  | $1,950.00 |  | $390.00
1559 | New Technology—Level XXII ($2000-$2500) | T |  | $2,250.00 |  | $450.00
1560 | New Technology—Level XXIII ($2500-$3000) | T |  | $2,750.00 |  | $550.00
1561 | New Technology—Level XXIV ($3000-$3500) | T |  | $3,250.00 |  | $650.00
1562 | New Technology—Level XXV ($3500-$4000) | T |  | $3,750.00 |  | $750.00
1563 | New Technology—Level XXVI ($4000-$4500) | T |  | $4,250.00 |  | $850.00
1564 | New Technology—Level XXVII ($4500-$5000) | T |  | $4,750.00 |  | $950.00
1565 | New Technology—Level XXVIII ($5000-$5500) | T |  | $5,250.00 |  | $1,050.00
1566 | New Technology—Level XXIX ($5500-$6000) | T |  | $5,750.00 |  | $1,150.00
1567 | New Technology—Level XXX ($6000-$6500) | T |  | $6,250.00 |  | $1,250.00
1568 | New Technology—Level XXXI ($6500-$7000) | T |  | $6,750.00 |  | $1,350.00
1569 | New Technology—Level XXXII ($7000-$7500) | T |  | $7,250.00 |  | $1,450.00
1570 | New Technology—Level XXXIII ($7500-$8000) | T |  | $7,750.00 |  | $1,550.00
1571 | New Technology—Level XXXIV ($8000-$8500) | T |  | $8,250.00 |  | $1,650.00
1572 | New Technology—Level XXXV ($8500-$9000) | T |  | $8,750.00 |  | $1,750.00
1573 | New Technology—Level XXXVI ($9000-$9500) | T |  | $9,250.00 |  | $1,850.00
1574 | New Technology—Level XXXVII ($9500-$10000) | T |  | $9,750.00 |  | $1,950.00
1600 | Technetium TC 99m sestamibi | H |  |  |  |
1603 | Thallous chloride TL 201 | H |  |  |  |
1604 | IN 111 capromab pendetide, per dose | H |  |  |  |
1605 | Abciximab injection | K |  | $450.60 |  | $90.12
1607 | Eptifibatide injection | K |  | $12.73 |  | $2.55
1608 | Etanercept injection | K |  | $152.11 |  | $30.42
1609 | Rho(D) immune globulin h, sd | K |  | $12.04 |  | $2.41
1611 | Hylan G-F 20 injection | K |  | $203.15 |  | $40.63
1612 | Daclizumab, parenteral | K |  | $381.48 |  | $76.30
1613 | Trastuzumab | K |  | $53.98 |  | $10.80
1615 | Basiliximab | K |  | $1,473.57 |  | $294.71
1618 | Vonwillebrandfactrcmplx, per iu | K |  | $0.74 |  | $0.15
1619 | Gallium ga 67 | H |  |  |  |
1620 | Technetium tc99m bicisate | H |  |  |  |
1622 | Technetium tc99m mertiatide | H |  |  |  |
1624 | Sodium phosphate p32 | H |  |  |  |
1625 | Indium 111-in pentetreotide | H |  |  |  |
1628 | Chromic phosphate p32 | H |  |  |  |
1655 | Tinzaparin sodium injection | K |  | $2.53 |  | $0.51
1670 | Tetanus immune globulin inj | K |  | $76.90 |  | $15.38
1716 | Brachytx source, Gold 198 | H |  |  |  |
1717 | Brachytx source, HDR Ir-192 | H |  |  |  |
1718 | Brachytx source, Iodine 125 | H |  |  |  |
1719 | Brachytx sour, Non-HDR Ir-192 | H |  |  |  |
1720 | Brachytx sour, Palladium 103 | H |  |  |  |
1740 | Diazoxide injection | K |  | $113.86 |  | $22.77
1775 | FDG, per dose (4-40 mCi/ml) | H |  |  |  |
2210 | Methyldopate hcl injection | K |  | $9.58 |  | $1.92
2616 | Brachytx source, Yttrium-90 | H |  |  |  |
2632 | Brachytx sol, I-125, per mCi | H |  |  |  |
2633 | Brachytx source, Cesium-131 | H |  |  |  |
2634 | Brachytx source, HA, I-125 | H |  |  |  |
2635 | Brachytx source, HA, P-103 | H |  |  |  |
2636 | Brachytx linear source, P-103 | H |  |  |  |
2730 | Pralidoxime chloride inj | K |  | $76.68 |  | $15.34
2770 | Quinupristin/dalfopristin | K |  | $105.48 |  | $21.10
2940 | Somatrem injection | K |  | $43.14 |  | $8.63
3030 | Sumatriptan succinate | K |  | $51.03 |  | $10.21
7000 | Amifostine | K |  | $436.01 |  | $87.20
7005 | Gonadorelin hydroch | K |  | $173.44 |  | $34.69
7011 | Oprelvekin injection | K |  | $249.06 |  | $49.81
7015 | Busulfan, oral | K |  | $1.98 |  | $0.40
7019 | Aprotinin | K |  | $2.20 |  | $0.44
7024 | Corticorelin ovine triflutat | K |  | $386.53 |  | $77.31
7025 | Digoxin immune FAB (ovine) | K |  | $552.18 |  | $110.44
7026 | Ethanolamine oleate | K |  | $64.53 |  | $12.91
7027 | Fomepizole | K |  | $12.31 |  | $2.46
7028 | Fosphenytoin | K |  | $5.19 |  | $1.04
7030 | Hemin | K |  | $6.51 |  | $1.30
7034 | Somatropin injection | K |  | $42.93 |  | $8.59
7035 | Teniposide | K |  | $266.23 |  | $53.25
7036 | Urokinase inj | K |  | $415.69 |  | $83.14
7037 | Urofollitropin | K |  | $44.74 |  | $8.95
7038 | Monoclonal antibodies | K |  | $885.36 |  | $177.07
7040 | Pentastarch 10% solution | K |  | $12.45 |  | $2.49
7041 | Tirofiban hcl | K |  | $7.89 |  | $1.58
7042 | Capecitabine, oral | K |  | $3.30 |  | $0.66
7043 | Infliximab injection | K |  | $54.20 |  | $10.84
7045 | Trimetrexate glucoronate | K |  | $139.85 |  | $27.97
7046 | Doxorubicin hcl liposome inj | K |  | $365.64 |  | $73.13
7048 | Alteplase recombinant | K |  | $30.65 |  | $6.13
7049 | Filgrastim injection | K |  | $282.29 |  | $56.46
7051 | Leuprolide acetate implant | K |  | $2,262.19 |  | $452.44
7308 | Aminolevulinic acid hcl top | K |  | $96.79 |  | $19.36
7316 | Sodium hyaluronate injection | K |  | $110.65 |  | $22.13
7515 | Cyclosporine oral | K |  | $1.00 |  | $0.20
9001 | Linezolid injection | K |  | $24.15 |  | $4.83
9002 | Tenecteplase | K |  | $2,052.77 |  | $410.55
9003 | Palivizumab | K | 4.1491 | $246.22 |  | $49.24
9004 | Gemtuzumab ozogamicin | K |  | $2,245.04 |  | $449.01
9005 | Reteplase injection | K |  | $898.81 |  | $179.76
9006 | Tacrolimus injection | K |  | $126.61 |  | $25.32
9008 | Baclofen Refill Kit-500mcg | K | 0.2447 | $14.52 |  | $2.90
9009 | Baclofen refill kit—per 2000 mcg | K | 0.7209 | $42.78 |  | $8.56
9012 | Arsenic Trioxide | K |  | $33.76 |  | $6.75
9015 | Mycophenolate mofetil oral | K |  | $2.50 |  | $0.50
9018 | Botulinum toxin B | K |  | $7.89 |  | $1.58
9019 | Caspofungin acetate | K |  | $32.35 |  | $6.47
9020 | Sirolimus tablet | K |  | $6.85 |  | $1.37
9022 | IM inj interferon beta 1-a | K |  | $89.10 |  | $17.82
9023 | Rho d immune globulin | K |  | $25.08 |  | $5.02
9024 | Amphotericin b lipid complex | K |  | $11.95 |  | $2.39
9025 | Rubidium-Rb-82 | H |  |  |  |
9030 | Amphotericin B | K |  | $30.70 |  | $6.14
9031 | Arbutamine HCl injection | K |  | $163.15 |  | $32.63
9032 | Baclofen 10 MG injection | K |  | $188.01 |  | $37.60
9033 | Cidofovir injection | K |  | $782.98 |  | $156.60
9038 | Inj estrogen conjugate | K |  | $57.77 |  | $11.55
9040 | Intraocular Fomivirsen na | K |  | $203.93 |  | $40.79
9042 | Glucagon hydrochloride | K |  | $62.16 |  | $12.43
9044 | Ibutilide fumarate injection | K |  | $243.34 |  | $48.67
9045 | Iron dextran | K |  | $11.43 |  | $2.29
9046 | Iron sucrose injection | K |  | $0.38 |  | $0.08
9047 | Itraconazole injection | K |  | $36.93 |  | $7.39
9051 | Urea injection | K | 1.0454 | $62.04 |  | $12.41
9054 | Metabolically active tissue | K |  | $15.69 |  | $3.14
9055 | Injectable human tissue | K |  | $3.54 |  | $0.71
9057 | Lepirudin | K |  | $128.17 |  | $25.63
9100 | Iodinated I-131 serumalbumin, per 5uci | H |  |  |  |
9104 | Anti-thymocycte globulin rabbit | K |  | $299.47 |  | $59.89
9105 | Hep B imm glob | K | 1.8813 | $111.64 |  | $22.33
9108 | Thyrotropin alfa | K |  | $712.58 |  | $142.52
9110 | Alemtuzumab injection | K |  | $516.87 |  | $103.37
9112 | Inj Perflutren lipid micros, ml | K |  | $63.51 |  | $12.70
9114 | Nesiritide | K |  | $75.19 |  | $15.04
9115 | Inj, zoledronic acid | K |  | $202.41 |  | $40.48
9117 | Yttrium 90 ibritumomab tiuxetan | H |  |  |  |
9118 | In-111 ibritumomab tiuxetan | H |  |  |  |
9119 | Pegfilgrastim | K |  | $2,178.28 |  | $435.66
9120 | Inj, Fulvestrant | K |  | $82.90 |  | $16.58
9121 | Inj, Argatroban | K | 0.1897 | $11.26 |  | $2.25
9122 | Triptorelin pamoate | K |  | $369.98 |  | $74.00
9123 | Transcyte | K |  | $719.41 |  | $143.88
9124 | Injection, daptomycin | G |  | $0.30 |  | $0.06
9125 | Risperidone, long acting | G |  | $4.71 |  | $0.94
9126 | Injection, natalizumab | G |  | $6.51 |  | $1.30
9127 | Paclitaxel protein pr | K |  | $8.59 |  | $1.72
9128 | Inj pegaptanib sodium | K |  | $1,074.27 |  | $214.85
9130 | Na chromateCr51, per 0.25mCi | H |  |  |  |
9132 | 51 Na Chromate, 50mCi | H |  |  |  |
9133 | Rabies ig, im/sc | K |  | $64.56 |  | $12.91
9134 | Rabies ig, heat treated | K |  | $69.79 |  | $13.96
9135 | Varicella-zoster ig, im | K |  | $96.58 |  | $19.32
9136 | Adenovirus vaccine, type 4 | K | 0.9499 | $56.37 |  | $11.27
9137 | Bcg vaccine, percut | K |  | $124.54 |  | $24.91
9138 | Hep a/hep b vacc, adult im | K | 0.9674 | $57.41 |  | $11.48
9139 | Rabies vaccine, im | K |  | $128.04 |  | $25.61
9140 | Rabies vaccine, id | K | 1.4959 | $88.77 |  | $17.75
9141 | Measles-rubella vaccine, sc | K | 0.9467 | $56.18 |  | $11.24
9142 | Chicken pox vaccine, sc | K |  | $64.29 |  | $12.86
9143 | Meningococcal vaccine, sc | K |  | $56.75 |  | $11.35
9144 | Encephalitis vaccine, sc | K |  | $67.73 |  | $13.55
9145 | Meningococcal vaccine, im | K | 0.8948 | $53.10 |  | $10.62
9146 | Technetium TC99m Disofenin | H |  |  |  |
9147 | Technetium TC 99M Depreotide | H |  |  |  |
9148 | I-123 sodium iodide capsule | H |  |  |  |
9149 | Dx I131 so iodide microcurie | H |  |  |  |
9150 | I-125 serum albumin micro | H |  |  |  |
9151 | Tc 99M ARCITUMOMAB PER VIAL | H |  |  |  |
9152 | Baclofen Intrathecal kit-1am | K | 0.8562 | $50.81 |  | $10.16
9153 | Na Iothalamate I-125, 10 uCi | H |  |  |  |
9154 | Technetium tc99m glucepatate | H |  |  |  |
9155 | Technetium tc99mlabeledrbcs | H |  |  |  |
9156 | Nonmetabolic active tissue | K |  | $53.76 |  | $10.75
9157 | LOCM <=149 mg/ml iodine | K |  | $0.51 |  | $0.10
9158 | LOCM 150-199mg/ml iodine | K |  | $2.00 |  | $0.40
9159 | LOCM 200-249mg/ml iodine | K |  | $0.78 |  | $0.16
9160 | LOCM 250-299mg/ml iodine | K |  | $0.66 |  | $0.13
9161 | LOCM 300-349mg/ml iodine | K |  | $0.41 |  | $0.08
9162 | LOCM 350-399mg/ml iodine | K |  | $0.27 |  | $0.05
9163 | LOCM >= 400 mg/ml iodine | K |  | $0.20 |  | $0.04
9164 | Inj Gad-base MR contrast | K |  | $3.01 |  | $0.60
9165 | Oral MR contrast | K |  | $9.01 |  | $1.80
9166 | Dyphylline injection | K |  | $7.74 |  | $1.55
9167 | Valrubicin | K |  | $376.87 |  | $75.37
9168 | Pegademase bovine | K |  | $161.16 |  | $32.23
9169 | Anthrax vaccine, sc | K |  | $128.95 |  | $25.79
9200 | Orcel | K | 2.6893 | $159.59 |  | $31.92
9201 | Dermagraft | K | 6.2066 | $368.32 |  | $73.66
9202 | Inj Octafluoropropane mic,ml | K |  | $41.42 |  | $8.28
9203 | Inj Perflexane lipid micros, ml | K |  | $13.49 |  | $2.70
9205 | Oxaliplatin | K |  | $84.06 |  | $16.81
9206 | Integra | K |  | $9.23 |  | $1.85
9207 | Injection, bortezomib | K |  | $28.90 |  | $5.78
9208 | Injection, agalsidase beta | K |  | $123.35 |  | $24.67
9209 | Injection, laronidase | K |  | $23.16 |  | $4.63
9210 | Injection, palonosetron HCL | K |  | 18.42 |  | $3.68
9211 | Inj, alefacept, IV | K |  | $571.01 |  | $114.20
9212 | Inj, alefacept, IM | K |  | $402.00 |  | $80.40
9213 | Injection, Pemetrexed | G |  | $41.29 |  | $8.26
9214 | Injection, Bevacizumab | G |  | $58.17 |  | $11.63
9215 | Injection, Cetuximab | G |  | $50.59 |  | $10.12
9216 | Abarelix Injection | G |  | $66.96 |  | $13.39
9217 | Leuprolide acetate suspnsion | K |  | $230.87 |  | $46.17
9218 | Injection, Azacitidine | K |  | $4.03 |  | $0.81
9219 | Mycophenolic Acid | G |  | $2.47 |  | $0.49
9220 | Sodium hyaluronate | G |  | $203.84 |  | $40.77
9221 | Graftjacket Reg Matrix | G |  | $1,234.36 |  | $246.87
9222 | Graftjacket SftTis | G |  | $890.74 |  | $178.15
9300 | Injection, Omalizumab | G |  | $15.98 |  | $3.20
9500 | Platelets, irradiated | K | 1.3589 | $80.64 |  | $16.13
9501 | Platelets, pheresis, leukocytes reduced | K | 8.1495 | $483.62 |  | $96.72
9502 | Platelet pheresis irradiated | K | 5.1895 | $307.96 |  | $61.59
9503 | Fresh frozen plasma, ea unit | K | 1.6241 | $96.38 |  | $19.28
9504 | RBC deglycerolized | K | 6.4314 | $381.66 |  | $76.33
9505 | RBC irradiated | K | 2.3876 | $141.69 |  | $28.34
9506 | Granulocytes, pheresis | K | 15.6155 | $926.67 |  | $185.33
9507 | Platelets, pheresis | K | 6.8988 | $409.40 |  | $81.88
9508 | Plasma, frozen w/in 8 hours | K | 1.2038 | $71.44 |  | $14.29

6. On pages 42776-42965, Addendum B is corrected to read as follows:

——————————

* Code is subject to contiguous body area imaging discount policy discussed in Section XIV of this proposed rule.

CPT codes and descriptions only are copyright American Medical Association. All Rights Reserved. Applicable FARS/DFARS Apply.

Copyright American Dental Association. All Rights Reserved.

Addendum B.—Payment Status by HCPCS Code and Related Information Calendar Year 2006
CPT/HCPCS | SI | CI | Description | APC | Relative weight | Payment rate | National unadjusted copayment | Minimum unadjusted copayment
0003T | S |  | Cervicography | 1492 |  | $15.00 |  | $3.00
0008T | T |  | Upper gi endoscopy w/suture | 0422 | 22.9647 | $1,362.79 | $448.81 | $272.56
00100 | N |  | Anesth, salivary gland |  |  |  |  |
00102 | N |  | Anesth, repair of cleft lip |  |  |  |  |
00103 | N |  | Anesth, blepharoplasty |  |  |  |  |
00104 | N |  | Anesth, electroshock |  |  |  |  |
0010T | A |  | Tb test, gamma interferon |  |  |  |  |
00120 | N |  | Anesth, ear surgery |  |  |  |  |
00124 | N |  | Anesth, ear exam |  |  |  |  |
00126 | N |  | Anesth, tympanotomy |  |  |  |  |
00140 | N |  | Anesth, procedures on eye |  |  |  |  |
00142 | N |  | Anesth, lens surgery |  |  |  |  |
00144 | N |  | Anesth, corneal transplant |  |  |  |  |
00145 | N |  | Anesth, vitreoretinal surg |  |  |  |  |
00147 | N |  | Anesth, iridectomy |  |  |  |  |
00148 | N |  | Anesth, eye exam |  |  |  |  |
00160 | N |  | Anesth, nose/sinus surgery |  |  |  |  |
00162 | N |  | Anesth, nose/sinus surgery |  |  |  |  |
00164 | N |  | Anesth, biopsy of nose |  |  |  |  |
0016T | T |  | Thermotx choroid vasc lesion | 0235 | 4.6593 | $276.50 | $67.40 | $55.30
00170 | N |  | Anesth, procedure on mouth |  |  |  |  |
00172 | N |  | Anesth, cleft palate repair |  |  |  |  |
00174 | N |  | Anesth, pharyngeal surgery |  |  |  |  |
00176 | C |  | Anesth, pharyngeal surgery |  |  |  |  |
0017T | E |  | Photocoagulat macular drusen |  |  |  |  |
0018T | S |  | Transcranial magnetic stimul | 0215 | 0.6115 | $36.29 | $14.51 | $7.26
00190 | N |  | Anesth, face/skull bone surg |  |  |  |  |
00192 | C |  | Anesth, facial bone surgery |  |  |  |  |
0019T | E |  | Extracorp shock wave tx, ms |  |  |  |  |
0020T | B |  | Extracorp shock wave tx, ft |  |  |  |  |
00210 | N |  | Anesth, open head surgery |  |  |  |  |
00212 | N |  | Anesth, skull drainage |  |  |  |  |
00214 | C |  | Anesth, skull drainage |  |  |  |  |
00215 | C |  | Anesth, skull repair/fract |  |  |  |  |
00216 | N |  | Anesth, head vessel surgery |  |  |  |  |
00218 | N |  | Anesth, special head surgery |  |  |  |  |
0021T | C |  | Fetal oximetry, trnsvag/cerv |  |  |  |  |
00220 | N |  | Anesth, intrcrn nerve |  |  |  |  |
00222 | N |  | Anesth, head nerve surgery |  |  |  |  |
0023T | A |  | Phenotype drug test, hiv 1 |  |  |  |  |
0024T | C |  | Transcath cardiac reduction |  |  |  |  |
0026T | A |  | Measure remnant lipoproteins |  |  |  |  |
0027T | T |  | Endoscopic epidural lysis | 0220 | 17.3586 | $1,030.11 |  | $206.02
0028T | N |  | Dexa body composition study |  |  |  |  |
0029T | A |  | Magnetic tx for incontinence |  |  |  |  |
00300 | N |  | Anesth, head/neck/ptrunk |  |  |  |  |
0030T | A |  | Antiprothrombin antibody |  |  |  |  |
0031T | N |  | Speculoscopy |  |  |  |  |
00320 | N |  | Anesth, neck organ, 1 & over |  |  |  |  |
00322 | N |  | Anesth, biopsy of thyroid |  |  |  |  |
00326 | N |  | Anesth, larynx/trach, < 1 yr |  |  |  |  |
0032T | N |  | Speculoscopy w/direct sample |  |  |  |  |
0033T | C |  | Endovasc taa repr incl subcl |  |  |  |  |
0034T | C |  | Endovasc taa repr w/o subcl |  |  |  |  |
00350 | N |  | Anesth, neck vessel surgery |  |  |  |  |
00352 | N |  | Anesth, neck vessel surgery |  |  |  |  |
0035T | C |  | Insert endovasc prosth, taa |  |  |  |  |
0036T | C |  | Endovasc prosth, taa, add-on |  |  |  |  |
0037T | C |  | Artery transpose/endovas taa |  |  |  |  |
0038T | C |  | Rad endovasc taa rpr w/cover |  |  |  |  |
0039T | C |  | Rad s/i, endovasc taa repair |  |  |  |  |
00400 | N |  | Anesth, skin, ext/per/atrunk |  |  |  |  |
00402 | N |  | Anesth, surgery of breast |  |  |  |  |
00404 | C |  | Anesth, surgery of breast |  |  |  |  |
00406 | C |  | Anesth, surgery of breast |  |  |  |  |
0040T | C |  | Rad s/i, endovasc taa prosth |  |  |  |  |
00410 | N |  | Anesth, correct heart rhythm |  |  |  |  |
0041T | A |  | Detect ur infect agnt w/cpas |  |  |  |  |
0042T | N |  | Ct perfusion w/contrast, cbf |  |  |  |  |
0043T | A |  | Co expired gas analysis |  |  |  |  |
0044T | N |  | Whole body photography |  |  |  |  |
00450 | N |  | Anesth, surgery of shoulder |  |  |  |  |
00452 | C |  | Anesth, surgery of shoulder |  |  |  |  |
00454 | N |  | Anesth, collar bone biopsy |  |  |  |  |
0045T | N |  | Whole body photography |  |  |  |  |
0046T | T |  | Cath lavage, mammary duct(s) | 0021 | 14.9776 | $888.82 | $219.48 | $177.76
00470 | N |  | Anesth, removal of rib |  |  |  |  |
00472 | N |  | Anesth, chest wall repair |  |  |  |  |
00474 | C |  | Anesth, surgery of rib(s) |  |  |  |  |
0047T | T |  | Cath lavage, mammary duct(s) | 0021 | 14.9776 | $888.82 | $219.48 | $177.76
0048T | C |  | Implant ventricular device |  |  |  |  |
0049T | C |  | External circulation assist |  |  |  |  |
00500 | N |  | Anesth, esophageal surgery |  |  |  |  |
0050T | C |  | Removal circulation assist |  |  |  |  |
0051T | C |  | Implant total heart system |  |  |  |  |
00520 | N |  | Anesth, chest procedure |  |  |  |  |
00522 | N |  | Anesth, chest lining biopsy |  |  |  |  |
00524 | C |  | Anesth, chest drainage |  |  |  |  |
00528 | N |  | Anesth, chest partition view |  |  |  |  |
00529 | N |  | Anesth, chest partition view |  |  |  |  |
0052T | C |  | Replace component heart syst |  |  |  |  |
00530 | N |  | Anesth, pacemaker insertion |  |  |  |  |
00532 | N |  | Anesth, vascular access |  |  |  |  |
00534 | N |  | Anesth, cardioverter/defib |  |  |  |  |
00537 | N |  | Anesth, cardiac electrophys |  |  |  |  |
00539 | N |  | Anesth, trach-bronch reconst |  |  |  |  |
0053T | C |  | Replace component heart syst |  |  |  |  |
00540 | C |  | Anesth, chest surgery |  |  |  |  |
00541 | N |  | Anesth, one lung ventilation |  |  |  |  |
00542 | C |  | Anesth, release of lung |  |  |  |  |
00546 | C |  | Anesth, lung,chest wall surg |  |  |  |  |
00548 | N |  | Anesth, trachea,bronchi surg |  |  |  |  |
0054T | B |  | Bone surgery using computer |  |  |  |  |
00550 | N |  | Anesth, sternal debridement |  |  |  |  |
0055T | B |  | Bone surgery using computer |  |  |  |  |
00560 | C |  | Anesth, open heart surgery |  |  |  |  |
00561 | C |  | Anesth, heart surg < age 1 |  |  |  |  |
00562 | C |  | Anesth, open heart surgery |  |  |  |  |
00563 | N |  | Anesth, heart proc w/pump |  |  |  |  |
00566 | N |  | Anesth, cabg w/o pump |  |  |  |  |
0056T | B |  | Bone surgery using computer |  |  |  |  |
00580 | C |  | Anesth, heart/lung transplnt |  |  |  |  |
0058T | X |  | Cryopreservation, ovary tiss | 0348 | 0.7927 | $47.04 |  | $9.41
0059T | X |  | Cryopreservation, oocyte | 0348 | 0.7927 | $47.04 |  | $9.41
00600 | N |  | Anesth, spine, cord surgery |  |  |  |  |
00604 | C |  | Anesth, sitting procedure |  |  |  |  |
0060T | B |  | Electrical impedance scan |  |  |  |  |
0061T | B |  | Destruction of tumor, breast |  |  |  |  |
00620 | N |  | Anesth, spine, cord surgery |  |  |  |  |
00622 | C |  | Anesth, removal of nerves |  |  |  |  |
0062T | T |  | Rep intradisc annulus1 lev | 0203 | 10.4015 | $617.26 | $246.90 | $123.45
00630 | N |  | Anesth, spine, cord surgery |  |  |  |  |
00632 | C |  | Anesth, removal of nerves |  |  |  |  |
00634 | N |  | Anesth for chemonucleolysis |  |  |  |  |
00635 | N |  | Anesth, lumbar puncture |  |  |  |  |
0063T | T |  | Rep intradisc annulus>1lev | 0203 | 10.4015 | $617.26 | $246.90 | $123.45
00640 | N |  | Anesth, spine manipulation |  |  |  |  |
0064T | A |  | Spectroscop eval expired gas |  |  |  |  |
0065T | A |  | Ocular photoscreen bilat |  |  |  |  |
0066T | E |  | Ct colonography screen |  |  |  |  |
00670 | C |  | Anesth, spine, cord surgery |  |  |  |  |
0067T* | S |  | Ct colonography dx | 0333 | 5.2836 | $313.54 | $125.41 | $62.71
0068T | B |  | Interp/rept heart sound |  |  |  |  |
0069T | N |  | Analysis only heart sound |  |  |  |  |
00700 | N |  | Anesth, abdominal wall surg |  |  |  |  |
00702 | N |  | Anesth, for liver biopsy |  |  |  |  |
0070T | N |  | Interp only heart sound |  |  |  |  |
0071T | T |  | U/s leiomyomata ablate <200 | 0193 | 14.5843 | $865.48 |  | $173.10
0072T | T |  | U/s leiomyomata ablate >200 | 0193 | 14.5843 | $865.48 |  | $173.10
00730 | N |  | Anesth, abdominal wall surg |  |  |  |  |
0073T | S |  | Delivery, comp imrt | 0412 | 5.3643 | $318.33 |  | $63.67
00740 | N |  | Anesth, upper gi visualize |  |  |  |  |
0074T | E |  | Online physician e/m |  |  |  |  |
00750 | N |  | Anesth, repair of hernia |  |  |  |  |
00752 | N |  | Anesth, repair of hernia |  |  |  |  |
00754 | N |  | Anesth, repair of hernia |  |  |  |  |
00756 | N |  | Anesth, repair of hernia |  |  |  |  |
0075T | C |  | Perq stent/chest vert art |  |  |  |  |
0076T | C |  | S&i stent/chest vert art |  |  |  |  |
00770 | N |  | Anesth, blood vessel repair |  |  |  |  |
0077T | C |  | Cereb therm perfusion probe |  |  |  |  |
0078T | C |  | Endovasc aort repr w/device |  |  |  |  |
00790 | N |  | Anesth, surg upper abdomen |  |  |  |  |
00792 | C |  | Anesth, hemorr/excise liver |  |  |  |  |
00794 | C |  | Anesth, pancreas removal |  |  |  |  |
00796 | C |  | Anesth, for liver transplant |  |  |  |  |
00797 | N |  | Anesth, surgery for obesity |  |  |  |  |
0079T | C |  | Endovasc visc extnsn repr |  |  |  |  |
00800 | N |  | Anesth, abdominal wall surg |  |  |  |  |
00802 | C |  | Anesth, fat layer removal |  |  |  |  |
0080T | C |  | Endovasc aort repr rad s&i |  |  |  |  |
00810 | N |  | Anesth, low intestine scope |  |  |  |  |
0081T | C |  | Endovasc visc extnsn s&i |  |  |  |  |
00820 | N |  | Anesth, abdominal wall surg |  |  |  |  |
0082T | B |  | Stereotactic rad delivery |  |  |  |  |
00830 | N |  | Anesth, repair of hernia |  |  |  |  |
00832 | N |  | Anesth, repair of hernia |  |  |  |  |
00834 | N |  | Anesth, hernia repair< 1 yr |  |  |  |  |
00836 | N |  | Anesth hernia repair preemie |  |  |  |  |
0083T | N |  | Stereotactic rad tx mngmt |  |  |  |  |
00840 | N |  | Anesth, surg lower abdomen |  |  |  |  |
00842 | N |  | Anesth, amniocentesis |  |  |  |  |
00844 | C |  | Anesth, pelvis surgery |  |  |  |  |
00846 | C |  | Anesth, hysterectomy |  |  |  |  |
00848 | C |  | Anesth, pelvic organ surg |  |  |  |  |
0084T | T |  | Temp prostate urethral stent | 0164 | 1.1855 | $70.35 | $17.29 | $14.07
00851 | N |  | Anesth, tubal ligation |  |  |  |  |
0085T | X |  | Breath test heart reject | 0340 | 0.6384 | $37.88 |  | $7.58
00860 | N |  | Anesth, surgery of abdomen |  |  |  |  |
00862 | N |  | Anesth, kidney/ureter surg |  |  |  |  |
00864 | C |  | Anesth, removal of bladder |  |  |  |  |
00865 | C |  | Anesth, removal of prostate |  |  |  |  |
00866 | C |  | Anesth, removal of adrenal |  |  |  |  |
00868 | C |  | Anesth, kidney transplant |  |  |  |  |
0086T | N |  | L ventricle fill pressure |  |  |  |  |
00870 | N |  | Anesth, bladder stone surg |  |  |  |  |
00872 | N |  | Anesth kidney stone destruct |  |  |  |  |
00873 | N |  | Anesth kidney stone destruct |  |  |  |  |
0087T | X |  | Sperm eval hyaluronan | 0348 | 0.7927 | $47.04 |  | $9.41
00880 | N |  | Anesth, abdomen vessel surg |  |  |  |  |
00882 | C |  | Anesth, major vein ligation |  |  |  |  |
0088T | T |  | Rf tongue base vol reduxn | 0253 | 16.1357 | $957.54 | $282.29 | $191.51
00902 | N |  | Anesth, anorectal surgery |  |  |  |  |
00904 | C |  | Anesth, perineal surgery |  |  |  |  |
00906 | N |  | Anesth, removal of vulva |  |  |  |  |
00908 | C |  | Anesth, removal of prostate |  |  |  |  |
00910 | N |  | Anesth, bladder surgery |  |  |  |  |
00912 | N |  | Anesth, bladder tumor surg |  |  |  |  |
00914 | N |  | Anesth, removal of prostate |  |  |  |  |
00916 | N |  | Anesth, bleeding control |  |  |  |  |
00918 | N |  | Anesth, stone removal |  |  |  |  |
00920 | N |  | Anesth, genitalia surgery |  |  |  |  |
00921 | N |  | Anesth, vasectomy |  |  |  |  |
00922 | N |  | Anesth, sperm duct surgery |  |  |  |  |
00924 | N |  | Anesth, testis exploration |  |  |  |  |
00926 | N |  | Anesth, removal of testis |  |  |  |  |
00928 | N |  | Anesth, removal of testis |  |  |  |  |
00930 | N |  | Anesth, testis suspension |  |  |  |  |
00932 | C |  | Anesth, amputation of penis |  |  |  |  |
00934 | C |  | Anesth, penis, nodes removal |  |  |  |  |
00936 | C |  | Anesth, penis, nodes removal |  |  |  |  |
00938 | N |  | Anesth, insert penis device |  |  |  |  |
00940 | N |  | Anesth, vaginal procedures |  |  |  |  |
00942 | N |  | Anesth, surg on vag/urethral |  |  |  |  |
00944 | C |  | Anesth, vaginal hysterectomy |  |  |  |  |
00948 | N |  | Anesth, repair of cervix |  |  |  |  |
00950 | N |  | Anesth, vaginal endoscopy |  |  |  |  |
00952 | N |  | Anesth, hysteroscope/graph |  |  |  |  |
01112 | N |  | Anesth, bone aspirate/bx |  |  |  |  |
01120 | N |  | Anesth, pelvis surgery |  |  |  |  |
01130 | N |  | Anesth, body cast procedure |  |  |  |  |
01140 | C |  | Anesth, amputation at pelvis |  |  |  |  |
01150 | C |  | Anesth, pelvic tumor surgery |  |  |  |  |
01160 | N |  | Anesth, pelvis procedure |  |  |  |  |
01170 | N |  | Anesth, pelvis surgery |  |  |  |  |
01173 | N |  | Anesth, fx repair, pelvis |  |  |  |  |
01180 | N |  | Anesth, pelvis nerve removal |  |  |  |  |
01190 | N |  | Anesth, pelvis nerve removal |  |  |  |  |
01200 | N |  | Anesth, hip joint procedure |  |  |  |  |
01202 | N |  | Anesth, arthroscopy of hip |  |  |  |  |
01210 | N |  | Anesth, hip joint surgery |  |  |  |  |
01212 | C |  | Anesth, hip disarticulation |  |  |  |  |
01214 | C |  | Anesth, hip arthroplasty |  |  |  |  |
01215 | N |  | Anesth, revise hip repair |  |  |  |  |
01220 | N |  | Anesth, procedure on femur |  |  |  |  |
01230 | N |  | Anesth, surgery of femur |  |  |  |  |
01232 | C |  | Anesth, amputation of femur |  |  |  |  |
01234 | C |  | Anesth, radical femur surg |  |  |  |  |
01250 | N |  | Anesth, upper leg surgery |  |  |  |  |
01260 | N |  | Anesth, upper leg veins surg |  |  |  |  |
01270 | N |  | Anesth, thigh arteries surg |  |  |  |  |
01272 | C |  | Anesth, femoral artery surg |  |  |  |  |
01274 | C |  | Anesth, femoral embolectomy |  |  |  |  |
01320 | N |  | Anesth, knee area surgery |  |  |  |  |
01340 | N |  | Anesth, knee area procedure |  |  |  |  |
01360 | N |  | Anesth, knee area surgery |  |  |  |  |
01380 | N |  | Anesth, knee joint procedure |  |  |  |  |
01382 | N |  | Anesth, dx knee arthroscopy |  |  |  |  |
01390 | N |  | Anesth, knee area procedure |  |  |  |  |
01392 | N |  | Anesth, knee area surgery |  |  |  |  |
01400 | N |  | Anesth, knee joint surgery |  |  |  |  |
01402 | C |  | Anesth, knee arthroplasty |  |  |  |  |
01404 | C |  | Anesth, amputation at knee |  |  |  |  |
01420 | N |  | Anesth, knee joint casting |  |  |  |  |
01430 | N |  | Anesth, knee veins surgery |  |  |  |  |
01432 | N |  | Anesth, knee vessel surg |  |  |  |  |
01440 | N |  | Anesth, knee arteries surg |  |  |  |  |
01442 | C |  | Anesth, knee artery surg |  |  |  |  |
01444 | C |  | Anesth, knee artery repair |  |  |  |  |
01462 | N |  | Anesth, lower leg procedure |  |  |  |  |
01464 | N |  | Anesth, ankle/ft arthroscopy |  |  |  |  |
01470 | N |  | Anesth, lower leg surgery |  |  |  |  |
01472 | N |  | Anesth, achilles tendon surg |  |  |  |  |
01474 | N |  | Anesth, lower leg surgery |  |  |  |  |
01480 | N |  | Anesth, lower leg bone surg |  |  |  |  |
01482 | N |  | Anesth, radical leg surgery |  |  |  |  |
01484 | N |  | Anesth, lower leg revision |  |  |  |  |
01486 | C |  | Anesth, ankle replacement |  |  |  |  |
01490 | N |  | Anesth, lower leg casting |  |  |  |  |
01500 | N |  | Anesth, leg arteries surg |  |  |  |  |
01502 | C |  | Anesth, lwr leg embolectomy |  |  |  |  |
01520 | N |  | Anesth, lower leg vein surg |  |  |  |  |
01522 | N |  | Anesth, lower leg vein surg |  |  |  |  |
01610 | N |  | Anesth, surgery of shoulder |  |  |  |  |
01620 | N |  | Anesth, shoulder procedure |  |  |  |  |
01622 | N |  | Anes dx shoulder arthroscopy |  |  |  |  |
01630 | N |  | Anesth, surgery of shoulder |  |  |  |  |
01632 | C |  | Anesth, surgery of shoulder |  |  |  |  |
01634 | C |  | Anesth, shoulder joint amput |  |  |  |  |
01636 | C |  | Anesth, forequarter amput |  |  |  |  |
01638 | C |  | Anesth, shoulder replacement |  |  |  |  |
01650 | N |  | Anesth, shoulder artery surg |  |  |  |  |
01652 | C |  | Anesth, shoulder vessel surg |  |  |  |  |
01654 | C |  | Anesth, shoulder vessel surg |  |  |  |  |
01656 | C |  | Anesth, arm-leg vessel surg |  |  |  |  |
01670 | N |  | Anesth, shoulder vein surg |  |  |  |  |
01680 | N |  | Anesth, shoulder casting |  |  |  |  |
01682 | N |  | Anesth, airplane cast |  |  |  |  |
01710 | N |  | Anesth, elbow area surgery |  |  |  |  |
01712 | N |  | Anesth, uppr arm tendon surg |  |  |  |  |
01714 | N |  | Anesth, uppr arm tendon surg |  |  |  |  |
01716 | N |  | Anesth, biceps tendon repair |  |  |  |  |
01730 | N |  | Anesth, uppr arm procedure |  |  |  |  |
01732 | N |  | Anesth, dx elbow arthroscopy |  |  |  |  |
01740 | N |  | Anesth, upper arm surgery |  |  |  |  |
01742 | N |  | Anesth, humerus surgery |  |  |  |  |
01744 | N |  | Anesth, humerus repair |  |  |  |  |
01756 | C |  | Anesth, radical humerus surg |  |  |  |  |
01758 | N |  | Anesth, humeral lesion surg |  |  |  |  |
01760 | N |  | Anesth, elbow replacement |  |  |  |  |
01770 | N |  | Anesth, uppr arm artery surg |  |  |  |  |
01772 | N |  | Anesth, uppr arm embolectomy |  |  |  |  |
01780 | N |  | Anesth, upper arm vein surg |  |  |  |  |
01782 | N |  | Anesth, uppr arm vein repair |  |  |  |  |
01810 | N |  | Anesth, lower arm surgery |  |  |  |  |
01820 | N |  | Anesth, lower arm procedure |  |  |  |  |
01829 | N |  | Anesth, dx wrist arthroscopy |  |  |  |  |
01830 | N |  | Anesth, lower arm surgery |  |  |  |  |
01832 | N |  | Anesth, wrist replacement |  |  |  |  |
01840 | N |  | Anesth, lwr arm artery surg |  |  |  |  |
01842 | N |  | Anesth, lwr arm embolectomy |  |  |  |  |
01844 | N |  | Anesth, vascular shunt surg |  |  |  |  |
01850 | N |  | Anesth, lower arm vein surg |  |  |  |  |
01852 | N |  | Anesth, lwr arm vein repair |  |  |  |  |
01860 | N |  | Anesth, lower arm casting |  |  |  |  |
01905 | N |  | Anes, spine inject, x-ray/re |  |  |  |  |
01916 | N |  | Anesth, dx arteriography |  |  |  |  |
01920 | N |  | Anesth, catheterize heart |  |  |  |  |
01922 | N |  | Anesth, cat or MRI scan |  |  |  |  |
01924 | N |  | Anes, ther interven rad, art |  |  |  |  |
01925 | N |  | Anes, ther interven rad, car |  |  |  |  |
01926 | N |  | Anes, tx interv rad hrt/cran |  |  |  |  |
01930 | N |  | Anes, ther interven rad, vei |  |  |  |  |
01931 | N |  | Anes, ther interven rad, tip |  |  |  |  |
01932 | N |  | Anes, tx interv rad, th vein |  |  |  |  |
01933 | N |  | Anes, tx interv rad, cran v |  |  |  |  |
01951 | N |  | Anesth, burn, less 4 percent |  |  |  |  |
01952 | N |  | Anesth, burn, 4-9 percent |  |  |  |  |
01953 | N |  | Anesth, burn, each 9 percent |  |  |  |  |
01958 | N |  | Anesth, antepartum manipul |  |  |  |  |
01960 | N |  | Anesth, vaginal delivery |  |  |  |  |
01961 | N |  | Anesth, cs delivery |  |  |  |  |
01962 | N |  | Anesth, emer hysterectomy |  |  |  |  |
01963 | N |  | Anesth, cs hysterectomy |  |  |  |  |
01964 | N |  | Anesth, abortion procedures |  |  |  |  |
01967 | N |  | Anesth/analg, vag delivery |  |  |  |  |
01968 | N |  | Anes/analg cs deliver add-on |  |  |  |  |
01969 | N |  | Anesth/analg cs hyst add-on |  |  |  |  |
01990 | C |  | Support for organ donor |  |  |  |  |
01991 | N |  | Anesth, nerve block/inj |  |  |  |  |
01992 | N |  | Anesth, n block/inj, prone |  |  |  |  |
01995 | N |  | Regional anesthesia limb |  |  |  |  |
01996 | N |  | Hosp manage cont drug admin |  |  |  |  |
01999 | N |  | Unlisted anesth procedure |  |  |  |  |
0500F | E |  | Initial prenatal care visit |  |  |  |  |
0501F | E |  | Prenatal flow sheet |  |  |  |  |
0502F | E |  | Subsequent prenatal care |  |  |  |  |
0503F | E |  | Postpartum care visit |  |  |  |  |
1000F | E |  | Tobacco use, smoking, assess |  |  |  |  |
1001F | E |  | Tobacco use, non-smoking |  |  |  |  |
10021 | T |  | Fna w/o image | 0002 | 0.9559 | $56.73 |  | $11.35
10022 | T |  | Fna w/image | 0036 | 2.1773 | $129.21 |  | $25.84
1002F | E |  | Assess anginal symptom/level |  |  |  |  |
10040 | T |  | Acne surgery | 0010 | 0.5719 | $33.94 | $9.65 | $6.79
10060 | T |  | Drainage of skin abscess | 0006 | 1.55 | $91.98 | $22.28 | $18.40
10061 | T |  | Drainage of skin abscess | 0006 | 1.55 | $91.98 | $22.28 | $18.40
10080 | T |  | Drainage of pilonidal cyst | 0006 | 1.55 | $91.98 | $22.28 | $18.40
10081 | T |  | Drainage of pilonidal cyst | 0007 | 11.4501 | $679.48 |  | $135.90
10120 | T |  | Remove foreign body | 0006 | 1.55 | $91.98 | $22.28 | $18.40
10121 | T |  | Remove foreign body | 0021 | 14.9776 | $888.82 | $219.48 | $177.76
10140 | T |  | Drainage of hematoma/fluid | 0007 | 11.4501 | $679.48 |  | $135.90
10160 | T |  | Puncture drainage of lesion | 0018 | 1.1726 | $69.59 | $16.04 | $13.92
10180 | T |  | Complex drainage, wound | 0008 | 16.4989 | $979.09 |  | $195.82
11000 | T |  | Debride infected skin | 0015 | 1.6514 | $98.00 | $20.29 | $19.60
11001 | T |  | Debride infected skin add-on | 0012 | 0.8497 | $50.42 | $11.18 | $10.08
11004 | C |  | Debride genitalia & perineum |  |  |  |  |
11005 | C |  | Debride abdom wall |  |  |  |  |
11006 | C |  | Debride genit/per/abdom wall |  |  |  |  |
11008 | C |  | Remove mesh from abd wall |  |  |  |  |
11010 | T |  | Debride skin, fx | 0019 | 4.0547 | $240.62 | $71.87 | $48.12
11011 | T |  | Debride skin/muscle, fx | 0019 | 4.0547 | $240.62 | $71.87 | $48.12
11012 | T |  | Debride skin/muscle/bone, fx | 0019 | 4.0547 | $240.62 | $71.87 | $48.12
11040 | T |  | Debride skin, partial | 0015 | 1.6514 | $98.00 | $20.29 | $19.60
11041 | T |  | Debride skin, full | 0015 | 1.6514 | $98.00 | $20.29 | $19.60
11042 | T |  | Debride skin/tissue | 0016 | 2.5834 | $153.31 | $33.57 | $30.66
11043 | T |  | Debride tissue/muscle | 0016 | 2.5834 | $153.31 | $33.57 | $30.66
11044 | T |  | Debride tissue/muscle/bone | 0682 | 6.9107 | $410.10 | $162.42 | $82.02
11055 | T |  | Trim skin lesion | 0012 | 0.8497 | $50.42 | $11.18 | $10.08
11056 | T |  | Trim skin lesions, 2 to 4 | 0012 | 0.8497 | $50.42 | $11.18 | $10.08
11057 | T |  | Trim skin lesions, over 4 | 0013 | 1.1078 | $65.74 | $14.20 | $13.15
11100 | T |  | Biopsy, skin lesion | 0018 | 1.1726 | $69.59 | $16.04 | $13.92
11101 | T |  | Biopsy, skin add-on | 0018 | 1.1726 | $69.59 | $16.04 | $13.92
11200 | T |  | Removal of skin tags | 0013 | 1.1078 | $65.74 | $14.20 | $13.15
11201 | T |  | Remove skin tags add-on | 0015 | 1.6514 | $98.00 | $20.29 | $19.60
11300 | T |  | Shave skin lesion | 0012 | 0.8497 | $50.42 | $11.18 | $10.08
11301 | T |  | Shave skin lesion | 0012 | 0.8497 | $50.42 | $11.18 | $10.08
11302 | T |  | Shave skin lesion | 0013 | 1.1078 | $65.74 | $14.20 | $13.15
11303 | T |  | Shave skin lesion | 0015 | 1.6514 | $98.00 | $20.29 | $19.60
11305 | T |  | Shave skin lesion | 0013 | 1.1078 | $65.74 | $14.20 | $13.15
11306 | T |  | Shave skin lesion | 0013 | 1.1078 | $65.74 | $14.20 | $13.15
11307 | T |  | Shave skin lesion | 0013 | 1.1078 | $65.74 | $14.20 | $13.15
11308 | T |  | Shave skin lesion | 0013 | 1.1078 | $65.74 | $14.20 | $13.15
11310 | T |  | Shave skin lesion | 0013 | 1.1078 | $65.74 | $14.20 | $13.15
11311 | T |  | Shave skin lesion | 0013 | 1.1078 | $65.74 | $14.20 | $13.15
11312 | T |  | Shave skin lesion | 0013 | 1.1078 | $65.74 | $14.20 | $13.15
11313 | T |  | Shave skin lesion | 0016 | 2.5834 | $153.31 | $33.57 | $30.66
11400 | T |  | Removal of skin lesion | 0019 | 4.0547 | $240.62 | $71.87 | $48.12
11401 | T |  | Removal of skin lesion | 0019 | 4.0547 | $240.62 | $71.87 | $48.12
11402 | T |  | Removal of skin lesion | 0019 | 4.0547 | $240.62 | $71.87 | $48.12
11403 | T |  | Removal of skin lesion | 0020 | 6.9433 | $412.04 | $107.40 | $82.41
11404 | T |  | Removal of skin lesion | 0021 | 14.9776 | $888.82 | $219.48 | $177.76
11406 | T |  | Removal of skin lesion | 0021 | 14.9776 | $888.82 | $219.48 | $177.76
11420 | T |  | Removal of skin lesion | 0020 | 6.9433 | $412.04 | $107.40 | $82.41
11421 | T |  | Removal of skin lesion | 0020 | 6.9433 | $412.04 | $107.40 | $82.41
11422 | T |  | Removal of skin lesion | 0020 | 6.9433 | $412.04 | $107.40 | $82.41
11423 | T |  | Removal of skin lesion | 0021 | 14.9776 | $888.82 | $219.48 | $177.76
11424 | T |  | Removal of skin lesion | 0021 | 14.9776 | $888.82 | $219.48 | $177.76
11426 | T |  | Removal of skin lesion | 0022 | 19.6472 | $1,165.92 | $354.45 | $233.18
11440 | T |  | Removal of skin lesion | 0019 | 4.0547 | $240.62 | $71.87 | $48.12
11441 | T |  | Removal of skin lesion | 0019 | 4.0547 | $240.62 | $71.87 | $48.12
11442 | T |  | Removal of skin lesion | 0020 | 6.9433 | $412.04 | $107.40 | $82.41
11443 | T |  | Removal of skin lesion | 0020 | 6.9433 | $412.04 | $107.40 | $82.41
11444 | T |  | Removal of skin lesion | 0020 | 6.9433 | $412.04 | $107.40 | $82.41
11446 | T |  | Removal of skin lesion | 0022 | 19.6472 | $1,165.92 | $354.45 | $233.18
11450 | T |  | Removal, sweat gland lesion | 0022 | 19.6472 | $1,165.92 | $354.45 | $233.18
11451 | T |  | Removal, sweat gland lesion | 0022 | 19.6472 | $1,165.92 | $354.45 | $233.18
11462 | T |  | Removal, sweat gland lesion | 0022 | 19.6472 | $1,165.92 | $354.45 | $233.18
11463 | T |  | Removal, sweat gland lesion | 0022 | 19.6472 | $1,165.92 | $354.45 | $233.18
11470 | T |  | Removal, sweat gland lesion | 0022 | 19.6472 | $1,165.92 | $354.45 | $233.18
11471 | T |  | Removal, sweat gland lesion | 0022 | 19.6472 | $1,165.92 | $354.45 | $233.18
11600 | T |  | Removal of skin lesion | 0019 | 4.0547 | $240.62 | $71.87 | $48.12
11601 | T |  | Removal of skin lesion | 0019 | 4.0547 | $240.62 | $71.87 | $48.12
11602 | T |  | Removal of skin lesion | 0019 | 4.0547 | $240.62 | $71.87 | $48.12
11603 | T |  | Removal of skin lesion | 0020 | 6.9433 | $412.04 | $107.40 | $82.41
11604 | T |  | Removal of skin lesion | 0020 | 6.9433 | $412.04 | $107.40 | $82.41
11606 | T |  | Removal of skin lesion | 0021 | 14.9776 | $888.82 | $219.48 | $177.76
11620 | T |  | Removal of skin lesion | 0020 | 6.9433 | $412.04 | $107.40 | $82.41
11621 | T |  | Removal of skin lesion | 0019 | 4.0547 | $240.62 | $71.87 | $48.12
11622 | T |  | Removal of skin lesion | 0020 | 6.9433 | $412.04 | $107.40 | $82.41
11623 | T |  | Removal of skin lesion | 0021 | 14.9776 | $888.82 | $219.48 | $177.76
11624 | T |  | Removal of skin lesion | 0021 | 14.9776 | $888.82 | $219.48 | $177.76
11626 | T |  | Removal of skin lesion | 0022 | 19.6472 | $1,165.92 | $354.45 | $233.18
11640 | T |  | Removal of skin lesion | 0020 | 6.9433 | $412.04 | $107.40 | $82.41
11641 | T |  | Removal of skin lesion | 0020 | 6.9433 | $412.04 | $107.40 | $82.41
11642 | T |  | Removal of skin lesion | 0020 | 6.9433 | $412.04 | $107.40 | $82.41
11643 | T |  | Removal of skin lesion | 0020 | 6.9433 | $412.04 | $107.40 | $82.41
11644 | T |  | Removal of skin lesion | 0021 | 14.9776 | $888.82 | $219.48 | $177.76
11646 | T |  | Removal of skin lesion | 0022 | 19.6472 | $1,165.92 | $354.45 | $233.18
11719 | T |  | Trim nail(s) | 0009 | 0.668 | $39.64 | $8.34 | $7.93
11720 | T |  | Debride nail, 1-5 | 0009 | 0.668 | $39.64 | $8.34 | $7.93
11721 | T |  | Debride nail, 6 or more | 0009 | 0.668 | $39.64 | $8.34 | $7.93
11730 | T |  | Removal of nail plate | 0013 | 1.1078 | $65.74 | $14.20 | $13.15
11732 | T |  | Remove nail plate, add-on | 0012 | 0.8497 | $50.42 | $11.18 | $10.08
11740 | T |  | Drain blood from under nail | 0009 | 0.668 | $39.64 | $8.34 | $7.93
11750 | T |  | Removal of nail bed | 0019 | 4.0547 | $240.62 | $71.87 | $48.12
11752 | T |  | Remove nail bed/finger tip | 0022 | 19.6472 | $1,165.92 | $354.45 | $233.18
11755 | T |  | Biopsy, nail unit | 0019 | 4.0547 | $240.62 | $71.87 | $48.12
11760 | T |  | Repair of nail bed | 0024 | 1.6084 | $95.45 | $31.25 | $19.09
11762 | T |  | Reconstruction of nail bed | 0024 | 1.6084 | $95.45 | $31.25 | $19.09
11765 | T |  | Excision of nail fold, toe | 0015 | 1.6514 | $98.00 | $20.29 | $19.60
11770 | T |  | Removal of pilonidal lesion | 0022 | 19.6472 | $1,165.92 | $354.45 | $233.18
11771 | T |  | Removal of pilonidal lesion | 0022 | 19.6472 | $1,165.92 | $354.45 | $233.18
11772 | T |  | Removal of pilonidal lesion | 0022 | 19.6472 | $1,165.92 | $354.45 | $233.18
11900 | T |  | Injection into skin lesions | 0012 | 0.8497 | $50.42 | $11.18 | $10.08
11901 | T |  | Added skin lesions injection | 0012 | 0.8497 | $50.42 | $11.18 | $10.08
11920 | T |  | Correct skin color defects | 0024 | 1.6084 | $95.45 | $31.25 | $19.09
11921 | T |  | Correct skin color defects | 0024 | 1.6084 | $95.45 | $31.25 | $19.09
11922 | T |  | Correct skin color defects | 0024 | 1.6084 | $95.45 | $31.25 | $19.09
11950 | T |  | Therapy for contour defects | 0024 | 1.6084 | $95.45 | $31.25 | $19.09
11951 | T |  | Therapy for contour defects | 0024 | 1.6084 | $95.45 | $31.25 | $19.09
11952 | T |  | Therapy for contour defects | 0024 | 1.6084 | $95.45 | $31.25 | $19.09
11954 | T |  | Therapy for contour defects | 0024 | 1.6084 | $95.45 | $31.25 | $19.09
11960 | T |  | Insert tissue expander(s) | 0027 | 18.4182 | $1,092.99 | $329.72 | $218.60
11970 | T |  | Replace tissue expander | 0027 | 18.4182 | $1,092.99 | $329.72 | $218.60
11971 | T |  | Remove tissue expander(s) | 0022 | 19.6472 | $1,165.92 | $354.45 | $233.18
11975 | E |  | Insert contraceptive cap |  |  |  |  |
11976 | T |  | Removal of contraceptive cap | 0019 | 4.0547 | $240.62 | $71.87 | $48.12
11977 | E |  | Removal/reinsert contra cap |  |  |  |  |
11980 | X |  | Implant hormone pellet(s) | 0340 | 0.6384 | $37.88 |  | $7.58
11981 | X |  | Insert drug implant device | 0340 | 0.6384 | $37.88 |  | $7.58
11982 | X |  | Remove drug implant device | 0340 | 0.6384 | $37.88 |  | $7.58
11983 | X |  | Remove/insert drug implant | 0340 | 0.6384 | $37.88 |  | $7.58
12001 | T |  | Repair superficial wound(s) | 0024 | 1.6084 | $95.45 | $31.25 | $19.09
12002 | T |  | Repair superficial wound(s) | 0024 | 1.6084 | $95.45 | $31.25 | $19.09
12004 | T |  | Repair superficial wound(s) | 0024 | 1.6084 | $95.45 | $31.25 | $19.09
12005 | T |  | Repair superficial wound(s) | 0024 | 1.6084 | $95.45 | $31.25 | $19.09
12006 | T |  | Repair superficial wound(s) | 0024 | 1.6084 | $95.45 | $31.25 | $19.09
12007 | T |  | Repair superficial wound(s) | 0024 | 1.6084 | $95.45 | $31.25 | $19.09
12011 | T |  | Repair superficial wound(s) | 0024 | 1.6084 | $95.45 | $31.25 | $19.09
12013 | T |  | Repair superficial wound(s) | 0024 | 1.6084 | $95.45 | $31.25 | $19.09
12014 | T |  | Repair superficial wound(s) | 0024 | 1.6084 | $95.45 | $31.25 | $19.09
12015 | T |  | Repair superficial wound(s) | 0024 | 1.6084 | $95.45 | $31.25 | $19.09
12016 | T |  | Repair superficial wound(s) | 0024 | 1.6084 | $95.45 | $31.25 | $19.09
12017 | T |  | Repair superficial wound(s) | 0024 | 1.6084 | $95.45 | $31.25 | $19.09
12018 | T |  | Repair superficial wound(s) | 0024 | 1.6084 | $95.45 | $31.25 | $19.09
12020 | T |  | Closure of split wound | 0024 | 1.6084 | $95.45 | $31.25 | $19.09
12021 | T |  | Closure of split wound | 0024 | 1.6084 | $95.45 | $31.25 | $19.09
12031 | T |  | Layer closure of wound(s) | 0024 | 1.6084 | $95.45 | $31.25 | $19.09
12032 | T |  | Layer closure of wound(s) | 0024 | 1.6084 | $95.45 | $31.25 | $19.09
12034 | T |  | Layer closure of wound(s) | 0024 | 1.6084 | $95.45 | $31.25 | $19.09
12035 | T |  | Layer closure of wound(s) | 0024 | 1.6084 | $95.45 | $31.25 | $19.09
12036 | T |  | Layer closure of wound(s) | 0024 | 1.6084 | $95.45 | $31.25 | $19.09
12037 | T |  | Layer closure of wound(s) | 0025 | 5.4938 | $326.02 | $101.85 | $65.20
12041 | T |  | Layer closure of wound(s) | 0024 | 1.6084 | $95.45 | $31.25 | $19.09
12042 | T |  | Layer closure of wound(s) | 0024 | 1.6084 | $95.45 | $31.25 | $19.09
12044 | T |  | Layer closure of wound(s) | 0024 | 1.6084 | $95.45 | $31.25 | $19.09
12045 | T |  | Layer closure of wound(s) | 0024 | 1.6084 | $95.45 | $31.25 | $19.09
12046 | T |  | Layer closure of wound(s) | 0024 | 1.6084 | $95.45 | $31.25 | $19.09
12047 | T |  | Layer closure of wound(s) | 0025 | 5.4938 | $326.02 | $101.85 | $65.20
12051 | T |  | Layer closure of wound(s) | 0024 | 1.6084 | $95.45 | $31.25 | $19.09
12052 | T |  | Layer closure of wound(s) | 0024 | 1.6084 | $95.45 | $31.25 | $19.09
12053 | T |  | Layer closure of wound(s) | 0024 | 1.6084 | $95.45 | $31.25 | $19.09
12054 | T |  | Layer closure of wound(s) | 0024 | 1.6084 | $95.45 | $31.25 | $19.09
12055 | T |  | Layer closure of wound(s) | 0024 | 1.6084 | $95.45 | $31.25 | $19.09
12056 | T |  | Layer closure of wound(s) | 0024 | 1.6084 | $95.45 | $31.25 | $19.09
12057 | T |  | Layer closure of wound(s) | 0025 | 5.4938 | $326.02 | $101.85 | $65.20
13100 | T |  | Repair of wound or lesion | 0025 | 5.4938 | $326.02 | $101.85 | $65.20
13101 | T |  | Repair of wound or lesion | 0025 | 5.4938 | $326.02 | $101.85 | $65.20
13102 | T |  | Repair wound/lesion add-on | 0024 | 1.6084 | $95.45 | $31.25 | $19.09
13120 | T |  | Repair of wound or lesion | 0024 | 1.6084 | $95.45 | $31.25 | $19.09
13121 | T |  | Repair of wound or lesion | 0024 | 1.6084 | $95.45 | $31.25 | $19.09
13122 | T |  | Repair wound/lesion add-on | 0024 | 1.6084 | $95.45 | $31.25 | $19.09
13131 | T |  | Repair of wound or lesion | 0024 | 1.6084 | $95.45 | $31.25 | $19.09
13132 | T |  | Repair of wound or lesion | 0024 | 1.6084 | $95.45 | $31.25 | $19.09
13133 | T |  | Repair wound/lesion add-on | 0024 | 1.6084 | $95.45 | $31.25 | $19.09
13150 | T |  | Repair of wound or lesion | 0025 | 5.4938 | $326.02 | $101.85 | $65.20
13151 | T |  | Repair of wound or lesion | 0024 | 1.6084 | $95.45 | $31.25 | $19.09
13152 | T |  | Repair of wound or lesion | 0025 | 5.4938 | $326.02 | $101.85 | $65.20
13153 | T |  | Repair wound/lesion add-on | 0024 | 1.6084 | $95.45 | $31.25 | $19.09
13160 | T |  | Late closure of wound | 0027 | 18.4182 | $1,092.99 | $329.72 | $218.60
14000 | T |  | Skin tissue rearrangement | 0686 | 13.8287 | $820.64 |  | $164.13
14001 | T |  | Skin tissue rearrangement | 0027 | 18.4182 | $1,092.99 | $329.72 | $218.60
14020 | T |  | Skin tissue rearrangement | 0686 | 13.8287 | $820.64 |  | $164.13
14021 | T |  | Skin tissue rearrangement | 0027 | 18.4182 | $1,092.99 | $329.72 | $218.60
14040 | T |  | Skin tissue rearrangement | 0686 | 13.8287 | $820.64 |  | $164.13
14041 | T |  | Skin tissue rearrangement | 0027 | 18.4182 | $1,092.99 | $329.72 | $218.60
14060 | T |  | Skin tissue rearrangement | 0027 | 18.4182 | $1,092.99 | $329.72 | $218.60
14061 | T |  | Skin tissue rearrangement | 0686 | 13.8287 | $820.64 |  | $164.13
14300 | T |  | Skin tissue rearrangement | 0027 | 18.4182 | $1,092.99 | $329.72 | $218.60
14350 | T |  | Skin tissue rearrangement | 0027 | 18.4182 | $1,092.99 | $329.72 | $218.60
15000 | T |  | Skin graft | 0025 | 5.4938 | $326.02 | $101.85 | $65.20
15001 | T |  | Skin graft add-on | 0025 | 5.4938 | $326.02 | $101.85 | $65.20
15050 | T |  | Skin pinch graft | 0025 | 5.4938 | $326.02 | $101.85 | $65.20
15100 | T |  | Skin split graft | 0027 | 18.4182 | $1,092.99 | $329.72 | $218.60
15101 | T |  | Skin split graft add-on | 0027 | 18.4182 | $1,092.99 | $329.72 | $218.60
15120 | T |  | Skin split graft | 0027 | 18.4182 | $1,092.99 | $329.72 | $218.60
15121 | T |  | Skin split graft add-on | 0027 | 18.4182 | $1,092.99 | $329.72 | $218.60
15200 | T |  | Skin full graft | 0027 | 18.4182 | $1,092.99 | $329.72 | $218.60
15201 | T |  | Skin full graft add-on | 0025 | 5.4938 | $326.02 | $101.85 | $65.20
15220 | T |  | Skin full graft | 0027 | 18.4182 | $1,092.99 | $329.72 | $218.60
15221 | T |  | Skin full graft add-on | 0025 | 5.4938 | $326.02 | $101.85 | $65.20
15240 | T |  | Skin full graft | 0686 | 13.8287 | $820.64 |  | $164.13
15241 | T |  | Skin full graft add-on | 0025 | 5.4938 | $326.02 | $101.85 | $65.20
15260 | T |  | Skin full graft | 0686 | 13.8287 | $820.64 |  | $164.13
15261 | T |  | Skin full graft add-on | 0025 | 5.4938 | $326.02 | $101.85 | $65.20
15342 | T |  | Cultured skin graft, 25 cm | 0024 | 1.6084 | $95.45 | $31.25 | $19.09
15343 | T |  | Culture skn graft addl 25 cm | 0024 | 1.6084 | $95.45 | $31.25 | $19.09
15350 | T |  | Skin homograft | 0686 | 13.8287 | $820.64 |  | $164.13
15351 | T |  | Skin homograft add-on | 0686 | 13.8287 | $820.64 |  | $164.13
15400 | T |  | Skin heterograft | 0025 | 5.4938 | $326.02 | $101.85 | $65.20
15401 | T |  | Skin heterograft add-on | 0025 | 5.4938 | $326.02 | $101.85 | $65.20
15570 | T |  | Form skin pedicle flap | 0027 | 18.4182 | $1,092.99 | $329.72 | $218.60
15572 | T |  | Form skin pedicle flap | 0027 | 18.4182 | $1,092.99 | $329.72 | $218.60
15574 | T |  | Form skin pedicle flap | 0027 | 18.4182 | $1,092.99 | $329.72 | $218.60
15576 | T |  | Form skin pedicle flap | 0686 | 13.8287 | $820.64 |  | $164.13
15600 | T |  | Skin graft | 0027 | 18.4182 | $1,092.99 | $329.72 | $218.60
15610 | T |  | Skin graft | 0027 | 18.4182 | $1,092.99 | $329.72 | $218.60
15620 | T |  | Skin graft | 0027 | 18.4182 | $1,092.99 | $329.72 | $218.60
15630 | T |  | Skin graft | 0027 | 18.4182 | $1,092.99 | $329.72 | $218.60
15650 | T |  | Transfer skin pedicle flap | 0027 | 18.4182 | $1,092.99 | $329.72 | $218.60
15732 | T |  | Muscle-skin graft, head/neck | 0027 | 18.4182 | $1,092.99 | $329.72 | $218.60
15734 | T |  | Muscle-skin graft, trunk | 0027 | 18.4182 | $1,092.99 | $329.72 | $218.60
15736 | T |  | Muscle-skin graft, arm | 0027 | 18.4182 | $1,092.99 | $329.72 | $218.60
15738 | T |  | Muscle-skin graft, leg | 0027 | 18.4182 | $1,092.99 | $329.72 | $218.60
15740 | T |  | Island pedicle flap graft | 0686 | 13.8287 | $820.64 |  | $164.13
15750 | T |  | Neurovascular pedicle graft | 0027 | 18.4182 | $1,092.99 | $329.72 | $218.60
15756 | C |  | Free muscle flap, microvasc |  |  |  |  |
15757 | C |  | Free skin flap, microvasc |  |  |  |  |
15758 | C |  | Free fascial flap, microvasc |  |  |  |  |
15760 | T |  | Composite skin graft | 0027 | 18.4182 | $1,092.99 | $329.72 | $218.60
15770 | T |  | Derma-fat-fascia graft | 0027 | 18.4182 | $1,092.99 | $329.72 | $218.60
15775 | T |  | Hair transplant punch grafts | 0025 | 5.4938 | $326.02 | $101.85 | $65.20
15776 | T |  | Hair transplant punch grafts | 0025 | 5.4938 | $326.02 | $101.85 | $65.20
15780 | T |  | Abrasion treatment of skin | 0022 | 19.6472 | $1,165.92 | $354.45 | $233.18
15781 | T |  | Abrasion treatment of skin | 0019 | 4.0547 | $240.62 | $71.87 | $48.12
15782 | T |  | Dressing change not for burn | 0019 | 4.0547 | $240.62 | $71.87 | $48.12
15783 | T |  | Abrasion treatment of skin | 0016 | 2.5834 | $153.31 | $33.57 | $30.66
15786 | T |  | Abrasion, lesion, single | 0013 | 1.1078 | $65.74 | $14.20 | $13.15
15787 | T |  | Abrasion, lesions, add-on | 0013 | 1.1078 | $65.74 | $14.20 | $13.15
15788 | T |  | Chemical peel, face, epiderm | 0012 | 0.8497 | $50.42 | $11.18 | $10.08
15789 | T |  | Chemical peel, face, dermal | 0015 | 1.6514 | $98.00 | $20.29 | $19.60
15792 | T |  | Chemical peel, nonfacial | 0013 | 1.1078 | $65.74 | $14.20 | $13.15
15793 | T |  | Chemical peel, nonfacial | 0012 | 0.8497 | $50.42 | $11.18 | $10.08
15810 | T |  | Salabrasion | 0016 | 2.5834 | $153.31 | $33.57 | $30.66
15811 | T |  | Salabrasion | 0016 | 2.5834 | $153.31 | $33.57 | $30.66
15819 | T |  | Plastic surgery, neck | 0025 | 5.4938 | $326.02 | $101.85 | $65.20
15820 | T |  | Revision of lower eyelid | 0027 | 18.4182 | $1,092.99 | $329.72 | $218.60
15821 | T |  | Revision of lower eyelid | 0027 | 18.4182 | $1,092.99 | $329.72 | $218.60
15822 | T |  | Revision of upper eyelid | 0027 | 18.4182 | $1,092.99 | $329.72 | $218.60
15823 | T |  | Revision of upper eyelid | 0027 | 18.4182 | $1,092.99 | $329.72 | $218.60
15824 | T |  | Removal of forehead wrinkles | 0027 | 18.4182 | $1,092.99 | $329.72 | $218.60
15825 | T |  | Removal of neck wrinkles | 0027 | 18.4182 | $1,092.99 | $329.72 | $218.60
15826 | T |  | Removal of brow wrinkles | 0027 | 18.4182 | $1,092.99 | $329.72 | $218.60
15828 | T |  | Removal of face wrinkles | 0027 | 18.4182 | $1,092.99 | $329.72 | $218.60
15829 | T |  | Removal of skin wrinkles | 0027 | 18.4182 | $1,092.99 | $329.72 | $218.60
15831 | T |  | Excise excessive skin tissue | 0022 | 19.6472 | $1,165.92 | $354.45 | $233.18
15832 | T |  | Excise excessive skin tissue | 0022 | 19.6472 | $1,165.92 | $354.45 | $233.18
15833 | T |  | Excise excessive skin tissue | 0022 | 19.6472 | $1,165.92 | $354.45 | $233.18
15834 | T |  | Excise excessive skin tissue | 0022 | 19.6472 | $1,165.92 | $354.45 | $233.18
15835 | T |  | Excise excessive skin tissue | 0025 | 5.4938 | $326.02 | $101.85 | $65.20
15836 | T |  | Excise excessive skin tissue | 0021 | 14.9776 | $888.82 | $219.48 | $177.76
15837 | T |  | Excise excessive skin tissue | 0021 | 14.9776 | $888.82 | $219.48 | $177.76
15838 | T |  | Excise excessive skin tissue | 0021 | 14.9776 | $888.82 | $219.48 | $177.76
15839 | T |  | Excise excessive skin tissue | 0021 | 14.9776 | $888.82 | $219.48 | $177.76
15840 | T |  | Graft for face nerve palsy | 0027 | 18.4182 | $1,092.99 | $329.72 | $218.60
15841 | T |  | Graft for face nerve palsy | 0027 | 18.4182 | $1,092.99 | $329.72 | $218.60
15842 | T |  | Flap for face nerve palsy | 0027 | 18.4182 | $1,092.99 | $329.72 | $218.60
15845 | T |  | Skin and muscle repair, face | 0027 | 18.4182 | $1,092.99 | $329.72 | $218.60
15850 | T |  | Removal of sutures | 0016 | 2.5834 | $153.31 | $33.57 | $30.66
15851 | T |  | Removal of sutures | 0016 | 2.5834 | $153.31 | $33.57 | $30.66
15852 | X |  | Dressing change not for burn | 0340 | 0.6384 | $37.88 |  | $7.58
15860 | X |  | Test for blood flow in graft | 0359 | 0.8312 | $49.33 |  | $9.87
15876 | T |  | Suction assisted lipectomy | 0027 | 18.4182 | $1,092.99 | $329.72 | $218.60
15877 | T |  | Suction assisted lipectomy | 0027 | 18.4182 | $1,092.99 | $329.72 | $218.60
15878 | T |  | Suction assisted lipectomy | 0686 | 13.8287 | $820.64 |  | $164.13
15879 | T |  | Suction assisted lipectomy | 0027 | 18.4182 | $1,092.99 | $329.72 | $218.60
15920 | T |  | Removal of tail bone ulcer | 0019 | 4.0547 | $240.62 | $71.87 | $48.12
15922 | T |  | Removal of tail bone ulcer | 0027 | 18.4182 | $1,092.99 | $329.72 | $218.60
15931 | T |  | Remove sacrum pressure sore | 0022 | 19.6472 | $1,165.92 | $354.45 | $233.18
15933 | T |  | Remove sacrum pressure sore | 0022 | 19.6472 | $1,165.92 | $354.45 | $233.18
15934 | T |  | Remove sacrum pressure sore | 0027 | 18.4182 | $1,092.99 | $329.72 | $218.60
15935 | T |  | Remove sacrum pressure sore | 0027 | 18.4182 | $1,092.99 | $329.72 | $218.60
15936 | T |  | Remove sacrum pressure sore | 0027 | 18.4182 | $1,092.99 | $329.72 | $218.60
15937 | T |  | Remove sacrum pressure sore | 0027 | 18.4182 | $1,092.99 | $329.72 | $218.60
15940 | T |  | Remove hip pressure sore | 0022 | 19.6472 | $1,165.92 | $354.45 | $233.18
15941 | T |  | Remove hip pressure sore | 0022 | 19.6472 | $1,165.92 | $354.45 | $233.18
15944 | T |  | Remove hip pressure sore | 0027 | 18.4182 | $1,092.99 | $329.72 | $218.60
15945 | T |  | Remove hip pressure sore | 0027 | 18.4182 | $1,092.99 | $329.72 | $218.60
15946 | T |  | Remove hip pressure sore | 0027 | 18.4182 | $1,092.99 | $329.72 | $218.60
15950 | T |  | Remove thigh pressure sore | 0022 | 19.6472 | $1,165.92 | $354.45 | $233.18
15951 | T |  | Remove thigh pressure sore | 0022 | 19.6472 | $1,165.92 | $354.45 | $233.18
15952 | T |  | Remove thigh pressure sore | 0027 | 18.4182 | $1,092.99 | $329.72 | $218.60
15953 | T |  | Remove thigh pressure sore | 0027 | 18.4182 | $1,092.99 | $329.72 | $218.60
15956 | T |  | Remove thigh pressure sore | 0027 | 18.4182 | $1,092.99 | $329.72 | $218.60
15958 | T |  | Remove thigh pressure sore | 0027 | 18.4182 | $1,092.99 | $329.72 | $218.60
15999 | T |  | Removal of pressure sore | 0019 | 4.0547 | $240.62 | $71.87 | $48.12
16000 | T |  | Initial treatment of burn(s) | 0012 | 0.8497 | $50.42 | $11.18 | $10.08
16010 | T |  | Treatment of burn(s) | 0016 | 2.5834 | $153.31 | $33.57 | $30.66
16015 | T |  | Treatment of burn(s) | 0017 | 18.4211 | $1,093.16 | $227.84 | $218.63
16020 | T |  | Treatment of burn(s) | 0013 | 1.1078 | $65.74 | $14.20 | $13.15
16025 | T |  | Treatment of burn(s) | 0013 | 1.1078 | $65.74 | $14.20 | $13.15
16030 | T |  | Treatment of burn(s) | 0015 | 1.6514 | $98.00 | $20.29 | $19.60
16035 | C |  | Incision of burn scab, initi |  |  |  |  |
16036 | C |  | Escharotomy addl incision |  |  |  |  |
17000 | T |  | Destroy benign/premlg lesion | 0010 | 0.5719 | $33.94 | $9.65 | $6.79
17003 | T |  | Destroy lesions, 2-14 | 0010 | 0.5719 | $33.94 | $9.65 | $6.79
17004 | T |  | Destroy lesions, 15 or more | 0011 | 2.0839 | $123.66 | $25.17 | $24.73
17106 | T |  | Destruction of skin lesions | 0011 | 2.0839 | $123.66 | $25.17 | $24.73
17107 | T |  | Destruction of skin lesions | 0011 | 2.0839 | $123.66 | $25.17 | $24.73
17108 | T |  | Destruction of skin lesions | 0011 | 2.0839 | $123.66 | $25.17 | $24.73
17110 | T |  | Destruct lesion, 1-14 | 0010 | 0.5719 | $33.94 | $9.65 | $6.79
17111 | T |  | Destruct lesion, 15 or more | 0010 | 0.5719 | $33.94 | $9.65 | $6.79
17250 | T |  | Chemical cautery, tissue | 0013 | 1.1078 | $65.74 | $14.20 | $13.15
17260 | T |  | Destruction of skin lesions | 0015 | 1.6514 | $98.00 | $20.29 | $19.60
17261 | T |  | Destruction of skin lesions | 0015 | 1.6514 | $98.00 | $20.29 | $19.60
17262 | T |  | Destruction of skin lesions | 0015 | 1.6514 | $98.00 | $20.29 | $19.60
17263 | T |  | Destruction of skin lesions | 0015 | 1.6514 | $98.00 | $20.29 | $19.60
17264 | T |  | Destruction of skin lesions | 0015 | 1.6514 | $98.00 | $20.29 | $19.60
17266 | T |  | Destruction of skin lesions | 0016 | 2.5834 | $153.31 | $33.57 | $30.66
17270 | T |  | Destruction of skin lesions | 0015 | 1.6514 | $98.00 | $20.29 | $19.60
17271 | T |  | Destruction of skin lesions | 0013 | 1.1078 | $65.74 | $14.20 | $13.15
17272 | T |  | Destruction of skin lesions | 0015 | 1.6514 | $98.00 | $20.29 | $19.60
17273 | T |  | Destruction of skin lesions | 0015 | 1.6514 | $98.00 | $20.29 | $19.60
17274 | T |  | Destruction of skin lesions | 0016 | 2.5834 | $153.31 | $33.57 | $30.66
17276 | T |  | Destruction of skin lesions | 0016 | 2.5834 | $153.31 | $33.57 | $30.66
17280 | T |  | Destruction of skin lesions | 0015 | 1.6514 | $98.00 | $20.29 | $19.60
17281 | T |  | Destruction of skin lesions | 0015 | 1.6514 | $98.00 | $20.29 | $19.60
17282 | T |  | Destruction of skin lesions | 0015 | 1.6514 | $98.00 | $20.29 | $19.60
17283 | T |  | Destruction of skin lesions | 0015 | 1.6514 | $98.00 | $20.29 | $19.60
17284 | T |  | Destruction of skin lesions | 0016 | 2.5834 | $153.31 | $33.57 | $30.66
17286 | T |  | Destruction of skin lesions | 0015 | 1.6514 | $98.00 | $20.29 | $19.60
17304 | T |  | Chemosurgery of skin lesion | 0694 | 3.8452 | $228.19 | $61.86 | $45.64
17305 | T |  | 2 stage mohs, up to 5 spec | 0694 | 3.8452 | $228.19 | $61.86 | $45.64
17306 | T |  | 3 stage mohs, up to 5 spec | 0694 | 3.8452 | $228.19 | $61.86 | $45.64
17307 | T |  | Mohs addl stage up to 5 spec | 0694 | 3.8452 | $228.19 | $61.86 | $45.64
17310 | T |  | Extensive skin chemosurgery | 0694 | 3.8452 | $228.19 | $61.86 | $45.64
17340 | T |  | Cryotherapy of skin | 0012 | 0.8497 | $50.42 | $11.18 | $10.08
17360 | T |  | Skin peel therapy | 0013 | 1.1078 | $65.74 | $14.20 | $13.15
17380 | T |  | Hair removal by electrolysis | 0013 | 1.1078 | $65.74 | $14.20 | $13.15
17999 | T |  | Skin tissue procedure | 0006 | 1.55 | $91.98 | $22.28 | $18.40
19000 | T |  | Drainage of breast lesion | 0004 | 1.7646 | $104.72 | $22.36 | $20.94
19001 | T |  | Drain breast lesion add-on | 0004 | 1.7646 | $104.72 | $22.36 | $20.94
19020 | T |  | Incision of breast lesion | 0008 | 16.4989 | $979.09 |  | $195.82
19030 | N |  | Injection for breast x-ray |  |  |  |  |
19100 | T |  | Bx breast percut w/o image | 0005 | 3.5994 | $213.60 | $71.59 | $42.72
19101 | T |  | Biopsy of breast, open | 0028 | 19.5801 | $1,161.94 | $303.74 | $232.39
19102 | T |  | Bx breast percut w/image | 0005 | 3.5994 | $213.60 | $71.59 | $42.72
19103 | T |  | Bx breast percut w/device | 0658 | 6.1049 | $362.28 |  | $72.46
19110 | T |  | nipple exploration | 0028 | 19.5801 | $1,161.94 | $303.74 | $232.39
19112 | T |  | Excise breast duct fistula | 0028 | 19.5801 | $1,161.94 | $303.74 | $232.39
19120 | T |  | Removal of breast lesion | 0028 | 19.5801 | $1,161.94 | $303.74 | $232.39
19125 | T |  | Excision, breast lesion | 0028 | 19.5801 | $1,161.94 | $303.74 | $232.39
19126 | T |  | Excision, addl breast lesion | 0028 | 19.5801 | $1,161.94 | $303.74 | $232.39
19140 | T |  | Removal of breast tissue | 0028 | 19.5801 | $1,161.94 | $303.74 | $232.39
19160 | T |  | Removal of breast tissue | 0028 | 19.5801 | $1,161.94 | $303.74 | $232.39
19162 | T |  | Remove breast tissue, nodes | 0693 | 42.2254 | $2,505.78 | $798.17 | $501.16
19180 | T |  | Removal of breast | 0029 | 32.0476 | $1,901.80 | $632.64 | $380.36
19182 | T |  | Removal of breast | 0029 | 32.0476 | $1,901.80 | $632.64 | $380.36
19200 | C |  | Removal of breast |  |  |  |  |
19220 | C |  | Removal of breast |  |  |  |  |
19240 | T |  | Removal of breast | 0030 | 40.0825 | $2,378.62 | $763.55 | $475.72
19260 | T |  | Removal of chest wall lesion | 0021 | 14.9776 | $888.82 | $219.48 | $177.76
19271 | C |  | Revision of chest wall |  |  |  |  |
19272 | C |  | Extensive chest wall surgery |  |  |  |  |
19290 | N |  | Place needle wire, breast |  |  |  |  |
19291 | N |  | Place needle wire, breast |  |  |  |  |
19295 | S |  | Place breast clip, percut | 0657 | 1.7092 | $101.43 |  | $20.29
19296 | S |  | Place po breast cath for rad | 1524 |  | $3,250.00 |  | $650.00
19297 | S |  | Place breast cath for rad | 1523 |  | $2,750.00 |  | $550.00
19298 | S |  | Place breast rad tube/caths | 1524 |  | $3,250.00 |  | $650.00
19316 | T |  | Suspension of breast | 0029 | 32.0476 | $1,901.80 | $632.64 | $380.36
19318 | T |  | Reduction of large breast | 0693 | 42.2254 | $2,505.78 | $798.17 | $501.16
19324 | T |  | Enlarge breast | 0693 | 42.2254 | $2,505.78 | $798.17 | $501.16
19325 | T |  | Enlarge breast with implant | 0648 | 50.4459 | $2,993.61 |  | $598.72
19328 | T |  | Removal of breast implant | 0029 | 32.0476 | $1,901.80 | $632.64 | $380.36
19330 | T |  | Removal of implant material | 0029 | 32.0476 | $1,901.80 | $632.64 | $380.36
19340 | T |  | Immediate breast prosthesis | 0030 | 40.0825 | $2,378.62 | $763.55 | $475.72
19342 | T |  | Delayed breast prosthesis | 0648 | 50.4459 | $2,993.61 |  | $598.72
19350 | T |  | Breast reconstruction | 0028 | 19.5801 | $1,161.94 | $303.74 | $232.39
19355 | T |  | Correct inverted nipple(s) | 0029 | 32.0476 | $1,901.80 | $632.64 | $380.36
19357 | T |  | Breast reconstruction | 0648 | 50.4459 | $2,993.61 |  | $598.72
19361 | C |  | Breast reconstruction |  |  |  |  |
19364 | C |  | Breast reconstruction |  |  |  |  |
19366 | T |  | Breast reconstruction | 0029 | 32.0476 | $1,901.80 | $632.64 | $380.36
19367 | C |  | Breast reconstruction |  |  |  |  |
19368 | C |  | Breast reconstruction |  |  |  |  |
19369 | C |  | Breast reconstruction |  |  |  |  |
19370 | T |  | Surgery of breast capsule | 0029 | 32.0476 | $1,901.80 | $632.64 | $380.36
19371 | T |  | Removal of breast capsule | 0029 | 32.0476 | $1,901.80 | $632.64 | $380.36
19380 | T |  | Revise breast reconstruction | 0030 | 40.0825 | $2,378.62 | $763.55 | $475.72
19396 | T |  | Design custom breast implant | 0029 | 32.0476 | $1,901.80 | $632.64 | $380.36
19499 | T |  | Breast surgery procedure | 0028 | 19.5801 | $1,161.94 | $303.74 | $232.39
20000 | T |  | Incision of abscess | 0006 | 1.55 | $91.98 | $22.28 | $18.40
20005 | T |  | Incision of deep abscess | 0049 | 20.3707 | $1,208.86 |  | $241.77
2000F | E |  | Blood pressure, measured |  |  |  |  |
20100 | T |  | Explore wound, neck | 0023 | 4.7775 | $283.51 |  | $56.70
20101 | T |  | Explore wound, chest | 0027 | 18.4182 | $1,092.99 | $329.72 | $218.60
20102 | T |  | Explore wound, abdomen | 0027 | 18.4182 | $1,092.99 | $329.72 | $218.60
20103 | T |  | Explore wound, extremity | 0023 | 4.7775 | $283.51 |  | $56.70
20150 | T |  | Excise epiphyseal bar | 0051 | 36.5271 | $2,167.63 |  | $433.53
20200 | T |  | Muscle biopsy | 0021 | 14.9776 | $888.82 | $219.48 | $177.76
20205 | T |  | Deep muscle biopsy | 0021 | 14.9776 | $888.82 | $219.48 | $177.76
20206 | T |  | Needle biopsy, muscle | 0005 | 3.5994 | $213.60 | $71.59 | $42.72
20220 | T |  | Bone biopsy, trocar/needle | 0019 | 4.0547 | $240.62 | $71.87 | $48.12
20225 | T |  | Bone biopsy, trocar/needle | 0020 | 6.9433 | $412.04 | $107.40 | $82.41
20240 | T |  | Bone biopsy, excisional | 0022 | 19.6472 | $1,165.92 | $354.45 | $233.18
20245 | T |  | Bone biopsy, excisional | 0022 | 19.6472 | $1,165.92 | $354.45 | $233.18
20250 | T |  | Open bone biopsy | 0049 | 20.3707 | $1,208.86 |  | $241.77
20251 | T |  | Open bone biopsy | 0049 | 20.3707 | $1,208.86 |  | $241.77
20500 | T |  | Injection of sinus tract | 0251 | 2.0101 | $119.29 |  | $23.86
20501 | N |  | Inject sinus tract for x-ray |  |  |  |  |
20520 | T |  | Removal of foreign body | 0019 | 4.0547 | $240.62 | $71.87 | $48.12
20525 | T |  | Removal of foreign body | 0022 | 19.6472 | $1,165.92 | $354.45 | $233.18
20526 | T |  | Ther injection, carp tunnel | 0204 | 2.191 | $130.02 | $40.13 | $26.00
20550 | T |  | Inject tendon/ligament/cyst | 0204 | 2.191 | $130.02 | $40.13 | $26.00
20551 | T |  | Inj tendon origin/insertion | 0204 | 2.191 | $130.02 | $40.13 | $26.00
20552 | T |  | Inj trigger point, 1/2 muscl | 0204 | 2.191 | $130.02 | $40.13 | $26.00
20553 | T |  | Inject trigger points, > 3 | 0204 | 2.191 | $130.02 | $40.13 | $26.00
20600 | T |  | Drain/inject, joint/bursa | 0204 | 2.191 | $130.02 | $40.13 | $26.00
20605 | T |  | Drain/inject, joint/bursa | 0204 | 2.191 | $130.02 | $40.13 | $26.00
20610 | T |  | Drain/inject, joint/bursa | 0204 | 2.191 | $130.02 | $40.13 | $26.00
20612 | T |  | Aspirate/inj ganglion cyst | 0204 | 2.191 | $130.02 | $40.13 | $26.00
20615 | T |  | Treatment of bone cyst | 0004 | 1.7646 | $104.72 | $22.36 | $20.94
20650 | T |  | Insert and remove bone pin | 0049 | 20.3707 | $1,208.86 |  | $241.77
20660 | C |  | Apply, rem fixation device |  |  |  |  |
20661 | C |  | Application of head brace |  |  |  |  |
20662 | T |  | Application of pelvis brace | 0049 | 20.3707 | $1,208.86 |  | $241.77
20663 | T |  | Application of thigh brace | 0049 | 20.3707 | $1,208.86 |  | $241.77
20664 | C |  | Halo brace application |  |  |  |  |
20665 | X |  | Removal of fixation device | 0340 | 0.6384 | $37.88 |  | $7.58
20670 | T |  | Removal of support implant | 0021 | 14.9776 | $888.82 | $219.48 | $177.76
20680 | T |  | Removal of support implant | 0022 | 19.6472 | $1,165.92 | $354.45 | $233.18
20690 | T |  | Apply bone fixation device | 0050 | 23.9081 | $1,418.78 |  | $283.76
20692 | T |  | Apply bone fixation device | 0050 | 23.9081 | $1,418.78 |  | $283.76
20693 | T |  | Adjust bone fixation device | 0049 | 20.3707 | $1,208.86 |  | $241.77
20694 | T |  | Remove bone fixation device | 0049 | 20.3707 | $1,208.86 |  | $241.77
20802 | C |  | Replantation, arm, complete |  |  |  |  |
20805 | C |  | Replant forearm, complete |  |  |  |  |
20808 | C |  | Replantation hand, complete |  |  |  |  |
20816 | C |  | Replantation digit, complete |  |  |  |  |
20822 | T |  | Replantation digit, complete | 0054 | 25.3711 | $1,505.60 |  | $301.12
20824 | C |  | Replantation thumb, complete |  |  |  |  |
20827 | C |  | Replantation thumb, complete |  |  |  |  |
20838 | C |  | Replantation foot, complete |  |  |  |  |
20900 | T |  | Removal of bone for graft | 0050 | 23.9081 | $1,418.78 |  | $283.76
20902 | T |  | Removal of bone for graft | 0050 | 23.9081 | $1,418.78 |  | $283.76
20910 | T |  | Remove cartilage for graft | 0027 | 18.4182 | $1,092.99 | $329.72 | $218.60
20912 | T |  | Remove cartilage for graft | 0027 | 18.4182 | $1,092.99 | $329.72 | $218.60
20920 | T |  | Removal of fascia for graft | 0686 | 13.8287 | $820.64 |  | $164.13
20922 | T |  | Removal of fascia for graft | 0027 | 18.4182 | $1,092.99 | $329.72 | $218.60
20924 | T |  | Removal of tendon for graft | 0050 | 23.9081 | $1,418.78 |  | $283.76
20926 | T |  | Removal of tissue for graft | 0686 | 13.8287 | $820.64 |  | $164.13
20930 | C |  | Spinal bone allograft |  |  |  |  |
20931 | C |  | Spinal bone allograft |  |  |  |  |
20936 | C |  | Spinal bone autograft |  |  |  |  |
20937 | C |  | Spinal bone autograft |  |  |  |  |
20938 | C |  | Spinal bone autograft |  |  |  |  |
20950 | T |  | Fluid pressure, muscle | 0006 | 1.55 | $91.98 | $22.28 | $18.40
20955 | C |  | Fibula bone graft, microvasc |  |  |  |  |
20956 | C |  | Iliac bone graft, microvasc |  |  |  |  |
20957 | C |  | Mt bone graft, microvasc |  |  |  |  |
20962 | C |  | Other bone graft, microvasc |  |  |  |  |
20969 | C |  | Bone/skin graft, microvasc |  |  |  |  |
20970 | C |  | Bone/skin graft, iliac crest |  |  |  |  |
20972 | T |  | Bone/skin graft, metatarsal | 0056 | 40.2957 | $2,391.27 |  | $478.25
20973 | T |  | Bone/skin graft, great toe | 0056 | 40.2957 | $2,391.27 |  | $478.25
20974 | A |  | Electrical bone stimulation |  |  |  |  |
20975 | X |  | Electrical bone stimulation | 0340 | 0.6384 | $37.88 |  | $7.58
20979 | A |  | Us bone stimulation |  |  |  |  |
20982 | T |  | Ablate, bone tumor(s) perq | 1557 |  | $1,850.00 |  | $370.00
20999 | T |  | Musculoskeletal surgery | 0049 | 20.3707 | $1,208.86 |  | $241.77
21010 | T |  | Incision of jaw joint | 0254 | 23.404 | $1,388.86 | $321.35 | $277.77
21015 | T |  | Resection of facial tumor | 0253 | 16.1357 | $957.54 | $282.29 | $191.51
21025 | T |  | Excision of bone, lower jaw | 0256 | 37.3204 | $2,214.70 |  | $442.94
21026 | T |  | Excision of facial bone(s) | 0256 | 37.3204 | $2,214.70 |  | $442.94
21029 | T |  | Contour of face bone lesion | 0256 | 37.3204 | $2,214.70 |  | $442.94
21030 | T |  | Removal of face bone lesion | 0254 | 23.404 | $1,388.86 | $321.35 | $277.77
21031 | T |  | Remove exostosis, mandible | 0254 | 23.404 | $1,388.86 | $321.35 | $277.77
21032 | T |  | Remove exostosis, maxilla | 0254 | 23.404 | $1,388.86 | $321.35 | $277.77
21034 | T |  | Removal of face bone lesion | 0256 | 37.3204 | $2,214.70 |  | $442.94
21040 | T |  | Removal of jaw bone lesion | 0254 | 23.404 | $1,388.86 | $321.35 | $277.77
21044 | T |  | Removal of jaw bone lesion | 0256 | 37.3204 | $2,214.70 |  | $442.94
21045 | C |  | Extensive jaw surgery |  |  |  |  |
21046 | T |  | Remove mandible cyst complex | 0256 | 37.3204 | $2,214.70 |  | $442.94
21047 | T |  | Excise lwr jaw cyst w/repair | 0256 | 37.3204 | $2,214.70 |  | $442.94
21048 | T |  | Remove maxilla cyst complex | 0256 | 37.3204 | $2,214.70 |  | $442.94
21049 | T |  | Excis uppr jaw cyst w/repair | 0256 | 37.3204 | $2,214.70 |  | $442.94
21050 | T |  | Removal of jaw joint | 0256 | 37.3204 | $2,214.70 |  | $442.94
21060 | T |  | Remove jaw joint cartilage | 0256 | 37.3204 | $2,214.70 |  | $442.94
21070 | T |  | Remove coronoid process | 0256 | 37.3204 | $2,214.70 |  | $442.94
21076 | T |  | Prepare face/oral prosthesis | 0254 | 23.404 | $1,388.86 | $321.35 | $277.77
21077 | T |  | Prepare face/oral prosthesis | 0256 | 37.3204 | $2,214.70 |  | $442.94
21079 | T |  | Prepare face/oral prosthesis | 0256 | 37.3204 | $2,214.70 |  | $442.94
21080 | T |  | Prepare face/oral prosthesis | 0256 | 37.3204 | $2,214.70 |  | $442.94
21081 | T |  | Prepare face/oral prosthesis | 0256 | 37.3204 | $2,214.70 |  | $442.94
21082 | T |  | Prepare face/oral prosthesis | 0256 | 37.3204 | $2,214.70 |  | $442.94
21083 | T |  | Prepare face/oral prosthesis | 0256 | 37.3204 | $2,214.70 |  | $442.94
21084 | T |  | Prepare face/oral prosthesis | 0256 | 37.3204 | $2,214.70 |  | $442.94
21085 | T |  | Prepare face/oral prosthesis | 0253 | 16.1357 | $957.54 | $282.29 | $191.51
21086 | T |  | Prepare face/oral prosthesis | 0256 | 37.3204 | $2,214.70 |  | $442.94
21087 | T |  | Prepare face/oral prosthesis | 0256 | 37.3204 | $2,214.70 |  | $442.94
21088 | T |  | Prepare face/oral prosthesis | 0256 | 37.3204 | $2,214.70 |  | $442.94
21089 | T |  | Prepare face/oral prosthesis | 0251 | 2.0101 | $119.29 |  | $23.86
21100 | T |  | Maxillofacial fixation | 0256 | 37.3204 | $2,214.70 |  | $442.94
21110 | T |  | Interdental fixation | 0252 | 7.8673 | $466.87 | $113.41 | $93.37
21116 | N |  | Injection, jaw joint x-ray |  |  |  |  |
21120 | T |  | Reconstruction of chin | 0254 | 23.404 | $1,388.86 | $321.35 | $277.77
21121 | T |  | Reconstruction of chin | 0254 | 23.404 | $1,388.86 | $321.35 | $277.77
21122 | T |  | Reconstruction of chin | 0254 | 23.404 | $1,388.86 | $321.35 | $277.77
21123 | T |  | Reconstruction of chin | 0254 | 23.404 | $1,388.86 | $321.35 | $277.77
21125 | T |  | Augmentation, lower jaw bone | 0254 | 23.404 | $1,388.86 | $321.35 | $277.77
21127 | T |  | Augmentation, lower jaw bone | 0256 | 37.3204 | $2,214.70 |  | $442.94
21137 | T |  | Reduction of forehead | 0254 | 23.404 | $1,388.86 | $321.35 | $277.77
21138 | T |  | Reduction of forehead | 0256 | 37.3204 | $2,214.70 |  | $442.94
21139 | T |  | Reduction of forehead | 0256 | 37.3204 | $2,214.70 |  | $442.94
21141 | C |  | Reconstruct midface, lefort |  |  |  |  |
21142 | C |  | Reconstruct midface, lefort |  |  |  |  |
21143 | C |  | Reconstruct midface, lefort |  |  |  |  |
21145 | C |  | Reconstruct midface, lefort |  |  |  |  |
21146 | C |  | Reconstruct midface, lefort |  |  |  |  |
21147 | C |  | Reconstruct midface, lefort |  |  |  |  |
21150 | T |  | Reconstruct midface, lefort | 0256 | 37.3204 | $2,214.70 |  | $442.94
21151 | C |  | Reconstruct midface, lefort |  |  |  |  |
21154 | C |  | Reconstruct midface, lefort |  |  |  |  |
21155 | C |  | Reconstruct midface, lefort |  |  |  |  |
21159 | C |  | Reconstruct midface, lefort |  |  |  |  |
21160 | C |  | Reconstruct midface, lefort |  |  |  |  |
21172 | C |  | Reconstruct orbit/forehead |  |  |  |  |
21175 | T |  | Reconstruct orbit/forehead | 0256 | 37.3204 | $2,214.70 |  | $442.94
21179 | C |  | Reconstruct entire forehead |  |  |  |  |
21180 | C |  | Reconstruct entire forehead |  |  |  |  |
21181 | T |  | Contour cranial bone lesion | 0254 | 23.404 | $1,388.86 | $321.35 | $277.77
21182 | C |  | Reconstruct cranial bone |  |  |  |  |
21183 | C |  | Reconstruct cranial bone |  |  |  |  |
21184 | C |  | Reconstruct cranial bone |  |  |  |  |
21188 | C |  | Reconstruction of midface |  |  |  |  |
21193 | C |  | Reconst lwr jaw w/o graft |  |  |  |  |
21194 | C |  | Reconst lwr jaw w/graft |  |  |  |  |
21195 | T |  | Reconst lwr jaw w/o fixation | 0256 | 37.3204 | $2,214.70 |  | $442.94
21196 | C |  | Reconst lwr jaw w/fixation |  |  |  |  |
21198 | T |  | Reconstr lwr jaw segment | 0256 | 37.3204 | $2,214.70 |  | $442.94
21199 | T |  | Reconstr lwr jaw w/advance | 0256 | 37.3204 | $2,214.70 |  | $442.94
21206 | T |  | Reconstruct upper jaw bone | 0256 | 37.3204 | $2,214.70 |  | $442.94
21208 | T |  | Augmentation of facial bones | 0256 | 37.3204 | $2,214.70 |  | $442.94
21209 | T |  | Reduction of facial bones | 0256 | 37.3204 | $2,214.70 |  | $442.94
21210 | T |  | Face bone graft | 0256 | 37.3204 | $2,214.70 |  | $442.94
21215 | T |  | Lower jaw bone graft | 0256 | 37.3204 | $2,214.70 |  | $442.94
21230 | T |  | Rib cartilage graft | 0256 | 37.3204 | $2,214.70 |  | $442.94
21235 | T |  | Ear cartilage graft | 0254 | 23.404 | $1,388.86 | $321.35 | $277.77
21240 | T |  | Reconstruction of jaw joint | 0256 | 37.3204 | $2,214.70 |  | $442.94
21242 | T |  | Reconstruction of jaw joint | 0256 | 37.3204 | $2,214.70 |  | $442.94
21243 | T |  | Reconstruction of jaw joint | 0256 | 37.3204 | $2,214.70 |  | $442.94
21244 | T |  | Reconstruction of lower jaw | 0256 | 37.3204 | $2,214.70 |  | $442.94
21245 | T |  | Reconstruction of jaw | 0256 | 37.3204 | $2,214.70 |  | $442.94
21246 | T |  | Reconstruction of jaw | 0256 | 37.3204 | $2,214.70 |  | $442.94
21247 | C |  | Reconstruct lower jaw bone |  |  |  |  |
21248 | T |  | Reconstruction of jaw | 0256 | 37.3204 | $2,214.70 |  | $442.94
21249 | T |  | Reconstruction of jaw | 0256 | 37.3204 | $2,214.70 |  | $442.94
21255 | C |  | Reconstruct lower jaw bone |  |  |  |  |
21256 | C |  | Reconstruction of orbit |  |  |  |  |
21260 | T |  | Revise eye sockets | 0256 | 37.3204 | $2,214.70 |  | $442.94
21261 | T |  | Revise eye sockets | 0256 | 37.3204 | $2,214.70 |  | $442.94
21263 | T |  | Revise eye sockets | 0256 | 37.3204 | $2,214.70 |  | $442.94
21267 | T |  | Revise eye sockets | 0256 | 37.3204 | $2,214.70 |  | $442.94
21268 | C |  | Revise eye sockets |  |  |  |  |
21270 | T |  | Augmentation, cheek bone | 0256 | 37.3204 | $2,214.70 |  | $442.94
21275 | T |  | Revision, orbitofacial bones | 0256 | 37.3204 | $2,214.70 |  | $442.94
21280 | T |  | Revision of eyelid | 0256 | 37.3204 | $2,214.70 |  | $442.94
21282 | T |  | Revision of eyelid | 0253 | 16.1357 | $957.54 | $282.29 | $191.51
21295 | T |  | Revision of jaw muscle/bone | 0252 | 7.8673 | $466.87 | $113.41 | $93.37
21296 | T |  | Revision of jaw muscle/bone | 0254 | 23.404 | $1,388.86 | $321.35 | $277.77
21299 | T |  | Cranio/maxillofacial surgery | 0251 | 2.0101 | $119.29 |  | $23.86
21300 | T |  | Treatment of skull fracture | 0253 | 16.1357 | $957.54 | $282.29 | $191.51
21310 | T |  | Treatment of nose fracture | 0251 | 2.0101 | $119.29 |  | $23.86
21315 | T |  | Treatment of nose fracture | 0251 | 2.0101 | $119.29 |  | $23.86
21320 | T |  | Treatment of nose fracture | 0252 | 7.8673 | $466.87 | $113.41 | $93.37
21325 | T |  | Treatment of nose fracture | 0254 | 23.404 | $1,388.86 | $321.35 | $277.77
21330 | T |  | Treatment of nose fracture | 0254 | 23.404 | $1,388.86 | $321.35 | $277.77
21335 | T |  | Treatment of nose fracture | 0254 | 23.404 | $1,388.86 | $321.35 | $277.77
21336 | T |  | Treat nasal septal fracture | 0046 | 37.7023 | $2,237.37 | $535.76 | $447.47
21337 | T |  | Treat nasal septal fracture | 0253 | 16.1357 | $957.54 | $282.29 | $191.51
21338 | T |  | Treat nasoethmoid fracture | 0254 | 23.404 | $1,388.86 | $321.35 | $277.77
21339 | T |  | Treat nasoethmoid fracture | 0254 | 23.404 | $1,388.86 | $321.35 | $277.77
21340 | T |  | Treatment of nose fracture | 0256 | 37.3204 | $2,214.70 |  | $442.94
21343 | C |  | Treatment of sinus fracture |  |  |  |  |
21344 | C |  | Treatment of sinus fracture |  |  |  |  |
21345 | T |  | Treat nose/jaw fracture | 0254 | 23.404 | $1,388.86 | $321.35 | $277.77
21346 | C |  | Treat nose/jaw fracture |  |  |  |  |
21347 | C |  | Treat nose/jaw fracture |  |  |  |  |
21348 | C |  | Treat nose/jaw fracture |  |  |  |  |
21355 | T |  | Treat cheek bone fracture | 0256 | 37.3204 | $2,214.70 |  | $442.94
21356 | T |  | Treat cheek bone fracture | 0254 | 23.404 | $1,388.86 | $321.35 | $277.77
21360 | C |  | Treat cheek bone fracture |  |  |  |  |
21365 | C |  | Treat cheek bone fracture |  |  |  |  |
21366 | C |  | Treat cheek bone fracture |  |  |  |  |
21385 | C |  | Treat eye socket fracture |  |  |  |  |
21386 | C |  | Treat eye socket fracture |  |  |  |  |
21387 | C |  | Treat eye socket fracture |  |  |  |  |
21390 | T |  | Treat eye socket fracture | 0256 | 37.3204 | $2,214.70 |  | $442.94
21395 | C |  | Treat eye socket fracture |  |  |  |  |
21400 | T |  | Treat eye socket fracture | 0252 | 7.8673 | $466.87 | $113.41 | $93.37
21401 | T |  | Treat eye socket fracture | 0253 | 16.1357 | $957.54 | $282.29 | $191.51
21406 | T |  | Treat eye socket fracture | 0256 | 37.3204 | $2,214.70 |  | $442.94
21407 | T |  | Treat eye socket fracture | 0256 | 37.3204 | $2,214.70 |  | $442.94
21408 | T |  | Treat eye socket fracture | 0256 | 37.3204 | $2,214.70 |  | $442.94
21421 | T |  | Treat mouth roof fracture | 0254 | 23.404 | $1,388.86 | $321.35 | $277.77
21422 | C |  | Treat mouth roof fracture |  |  |  |  |
21423 | C |  | Treat mouth roof fracture |  |  |  |  |
21431 | C |  | Treat craniofacial fracture |  |  |  |  |
21432 | C |  | Treat craniofacial fracture |  |  |  |  |
21433 | C |  | Treat craniofacial fracture |  |  |  |  |
21435 | C |  | Treat craniofacial fracture |  |  |  |  |
21436 | C |  | Treat craniofacial fracture |  |  |  |  |
21440 | T |  | Treat dental ridge fracture | 0254 | 23.404 | $1,388.86 | $321.35 | $277.77
21445 | T |  | Treat dental ridge fracture | 0254 | 23.404 | $1,388.86 | $321.35 | $277.77
21450 | T |  | Treat lower jaw fracture | 0251 | 2.0101 | $119.29 |  | $23.86
21451 | T |  | Treat lower jaw fracture | 0252 | 7.8673 | $466.87 | $113.41 | $93.37
21452 | T |  | Treat lower jaw fracture | 0253 | 16.1357 | $957.54 | $282.29 | $191.51
21453 | T |  | Treat lower jaw fracture | 0256 | 37.3204 | $2,214.70 |  | $442.94
21454 | T |  | Treat lower jaw fracture | 0254 | 23.404 | $1,388.86 | $321.35 | $277.77
21461 | T |  | Treat lower jaw fracture | 0256 | 37.3204 | $2,214.70 |  | $442.94
21462 | T |  | Treat lower jaw fracture | 0256 | 37.3204 | $2,214.70 |  | $442.94
21465 | T |  | Treat lower jaw fracture | 0256 | 37.3204 | $2,214.70 |  | $442.94
21470 | T |  | Treat lower jaw fracture | 0256 | 37.3204 | $2,214.70 |  | $442.94
21480 | T |  | Reset dislocated jaw | 0251 | 2.0101 | $119.29 |  | $23.86
21485 | T |  | Reset dislocated jaw | 0253 | 16.1357 | $957.54 | $282.29 | $191.51
21490 | T |  | Repair dislocated jaw | 0256 | 37.3204 | $2,214.70 |  | $442.94
21493 | T |  | Treat hyoid bone fracture | 0252 | 7.8673 | $466.87 | $113.41 | $93.37
21494 | T |  | Treat hyoid bone fracture | 0252 | 7.8673 | $466.87 | $113.41 | $93.37
21495 | T |  | Treat hyoid bone fracture | 0253 | 16.1357 | $957.54 | $282.29 | $191.51
21497 | T |  | Interdental wiring | 0253 | 16.1357 | $957.54 | $282.29 | $191.51
21499 | T |  | Head surgery procedure | 0251 | 2.0101 | $119.29 |  | $23.86
21501 | T |  | Drain neck/chest lesion | 0008 | 16.4989 | $979.09 |  | $195.82
21502 | T |  | Drain chest lesion | 0049 | 20.3707 | $1,208.86 |  | $241.77
21510 | C |  | Drainage of bone lesion |  |  |  |  |
21550 | T |  | Biopsy of neck/chest | 0021 | 14.9776 | $888.82 | $219.48 | $177.76
21555 | T |  | Remove lesion, neck/chest | 0022 | 19.6472 | $1,165.92 | $354.45 | $233.18
21556 | T |  | Remove lesion, neck/chest | 0022 | 19.6472 | $1,165.92 | $354.45 | $233.18
21557 | T |  | Remove tumor, neck/chest | 0022 | 19.6472 | $1,165.92 | $354.45 | $233.18
21600 | T |  | Partial removal of rib | 0050 | 23.9081 | $1,418.78 |  | $283.76
21610 | T |  | Partial removal of rib | 0050 | 23.9081 | $1,418.78 |  | $283.76
21615 | C |  | Removal of rib |  |  |  |  |
21616 | C |  | Removal of rib and nerves |  |  |  |  |
21620 | C |  | Partial removal of sternum |  |  |  |  |
21627 | C |  | Sternal debridement |  |  |  |  |
21630 | C |  | Extensive sternum surgery |  |  |  |  |
21632 | C |  | Extensive sternum surgery |  |  |  |  |
21685 | T |  | Hyoid myotomy & suspension | 0252 | 7.8673 | $466.87 | $113.41 | $93.37
21700 | T |  | Revision of neck muscle | 0049 | 20.3707 | $1,208.86 |  | $241.77
21705 | C |  | Revision of neck muscle/rib |  |  |  |  |
21720 | T |  | Revision of neck muscle | 0049 | 20.3707 | $1,208.86 |  | $241.77
21725 | T |  | Revision of neck muscle | 0006 | 1.55 | $91.98 | $22.28 | $18.40
21740 | C |  | Reconstruction of sternum |  |  |  |  |
21742 | T |  | Repair stern/nuss w/o scope | 0051 | 36.5271 | $2,167.63 |  | $433.53
21743 | T |  | Repair sternum/nuss w/scope | 0051 | 36.5271 | $2,167.63 |  | $433.53
21750 | C |  | Repair of sternum separation |  |  |  |  |
21800 | T |  | Treatment of rib fracture | 0043 | 1.7694 | $105.00 |  | $21.00
21805 | T |  | Treatment of rib fracture | 0046 | 37.7023 | $2,237.37 | $535.76 | $447.47
21810 | C |  | Treatment of rib fracture(s) |  |  |  |  |
21820 | T |  | Treat sternum fracture | 0043 | 1.7694 | $105.00 |  | $21.00
21825 | C |  | Treat sternum fracture |  |  |  |  |
21899 | T |  | Neck/chest surgery procedure | 0251 | 2.0101 | $119.29 |  | $23.86
21920 | T |  | Biopsy soft tissue of back | 0020 | 6.9433 | $412.04 | $107.40 | $82.41
21925 | T |  | Biopsy soft tissue of back | 0022 | 19.6472 | $1,165.92 | $354.45 | $233.18
21930 | T |  | Remove lesion, back or flank | 0022 | 19.6472 | $1,165.92 | $354.45 | $233.18
21935 | T |  | Remove tumor, back | 0022 | 19.6472 | $1,165.92 | $354.45 | $233.18
22100 | T |  | Remove part of neck vertebra | 0208 | 42.3409 | $2,512.64 |  | $502.53
22101 | T |  | Remove part, thorax vertebra | 0208 | 42.3409 | $2,512.64 |  | $502.53
22102 | T |  | Remove part, lumbar vertebra | 0208 | 42.3409 | $2,512.64 |  | $502.53
22103 | T |  | Remove extra spine segment | 0208 | 42.3409 | $2,512.64 |  | $502.53
22110 | C |  | Remove part of neck vertebra |  |  |  |  |
22112 | C |  | Remove part, thorax vertebra |  |  |  |  |
22114 | C |  | Remove part, lumbar vertebra |  |  |  |  |
22116 | C |  | Remove extra spine segment |  |  |  |  |
22210 | C |  | Revision of neck spine |  |  |  |  |
22212 | C |  | Revision of thorax spine |  |  |  |  |
22214 | C |  | Revision of lumbar spine |  |  |  |  |
22216 | C |  | Revise, extra spine segment |  |  |  |  |
22220 | C |  | Revision of neck spine |  |  |  |  |
22222 | T |  | Revision of thorax spine | 0208 | 42.3409 | $2,512.64 |  | $502.53
22224 | C |  | Revision of lumbar spine |  |  |  |  |
22226 | C |  | Revise, extra spine segment |  |  |  |  |
22305 | T |  | Treat spine process fracture | 0043 | 1.7694 | $105.00 |  | $21.00
22310 | T |  | Treat spine fracture | 0043 | 1.7694 | $105.00 |  | $21.00
22315 | T |  | Treat spine fracture | 0043 | 1.7694 | $105.00 |  | $21.00
22318 | C |  | Treat odontoid fx w/o graft |  |  |  |  |
22319 | C |  | Treat odontoid fx w/graft |  |  |  |  |
22325 | C |  | Treat spine fracture |  |  |  |  |
22326 | C |  | Treat neck spine fracture |  |  |  |  |
22327 | C |  | Treat thorax spine fracture |  |  |  |  |
22328 | C |  | Treat each add spine fx |  |  |  |  |
22505 | T |  | Manipulation of spine | 0045 | 14.4945 | $860.15 | $268.47 | $172.03
22520 | T |  | Percut vertebroplasty thor | 0050 | 23.9081 | $1,418.78 |  | $283.76
22521 | T |  | Percut vertebroplasty lumb | 0050 | 23.9081 | $1,418.78 |  | $283.76
22522 | T |  | Percut vertebroplasty add'l | 0050 | 23.9081 | $1,418.78 |  | $283.76
22532 | C |  | Lat thorax spine fusion |  |  |  |  |
22533 | C |  | Lat lumbar spine fusion |  |  |  |  |
22534 | C |  | Lat thor/lumb, add'l seg |  |  |  |  |
22548 | C |  | Neck spine fusion |  |  |  |  |
22554 | C |  | Neck spine fusion |  |  |  |  |
22556 | C |  | Thorax spine fusion |  |  |  |  |
22558 | C |  | Lumbar spine fusion |  |  |  |  |
22585 | C |  | Additional spinal fusion |  |  |  |  |
22590 | C |  | Spine & skull spinal fusion |  |  |  |  |
22595 | C |  | Neck spinal fusion |  |  |  |  |
22600 | C |  | Neck spine fusion |  |  |  |  |
22610 | C |  | Thorax spine fusion |  |  |  |  |
22612 | T |  | Lumbar spine fusion | 0208 | 42.3409 | $2,512.64 |  | $502.53
22614 | T |  | Spine fusion, extra segment | 0208 | 42.3409 | $2,512.64 |  | $502.53
22630 | C |  | Lumbar spine fusion |  |  |  |  |
22632 | C |  | Spine fusion, extra segment |  |  |  |  |
22800 | C |  | Fusion of spine |  |  |  |  |
22802 | C |  | Fusion of spine |  |  |  |  |
22804 | C |  | Fusion of spine |  |  |  |  |
22808 | C |  | Fusion of spine |  |  |  |  |
22810 | C |  | Fusion of spine |  |  |  |  |
22812 | C |  | Fusion of spine |  |  |  |  |
22818 | C |  | Kyphectomy, 1-2 segments |  |  |  |  |
22819 | C |  | Kyphectomy, 3 or more |  |  |  |  |
22830 | C |  | Exploration of spinal fusion |  |  |  |  |
22840 | C |  | Insert spine fixation device |  |  |  |  |
22841 | C |  | Insert spine fixation device |  |  |  |  |
22842 | C |  | Insert spine fixation device |  |  |  |  |
22843 | C |  | Insert spine fixation device |  |  |  |  |
22844 | C |  | Insert spine fixation device |  |  |  |  |
22845 | C |  | Insert spine fixation device |  |  |  |  |
22846 | C |  | Insert spine fixation device |  |  |  |  |
22847 | C |  | Insert spine fixation device |  |  |  |  |
22848 | C |  | Insert pelv fixation device |  |  |  |  |
22849 | C |  | Reinsert spinal fixation |  |  |  |  |
22850 | C |  | Remove spine fixation device |  |  |  |  |
22851 | C |  | Apply spine prosth device |  |  |  |  |
22852 | C |  | Remove spine fixation device |  |  |  |  |
22855 | C |  | Remove spine fixation device |  |  |  |  |
22899 | T |  | Spine surgery procedure | 0043 | 1.7694 | $105.00 |  | $21.00
22900 | T |  | Remove abdominal wall lesion | 0022 | 19.6472 | $1,165.92 | $354.45 | $233.18
22999 | T |  | Abdomen surgery procedure | 0019 | 4.0547 | $240.62 | $71.87 | $48.12
23000 | T |  | Removal of calcium deposits | 0021 | 14.9776 | $888.82 | $219.48 | $177.76
23020 | T |  | Release shoulder joint | 0051 | 36.5271 | $2,167.63 |  | $433.53
23030 | T |  | Drain shoulder lesion | 0008 | 16.4989 | $979.09 |  | $195.82
23031 | T |  | Drain shoulder bursa | 0008 | 16.4989 | $979.09 |  | $195.82
23035 | T |  | Drain shoulder bone lesion | 0049 | 20.3707 | $1,208.86 |  | $241.77
23040 | T |  | Exploratory shoulder surgery | 0050 | 23.9081 | $1,418.78 |  | $283.76
23044 | T |  | Exploratory shoulder surgery | 0050 | 23.9081 | $1,418.78 |  | $283.76
23065 | T |  | Biopsy shoulder tissues | 0021 | 14.9776 | $888.82 | $219.48 | $177.76
23066 | T |  | Biopsy shoulder tissues | 0022 | 19.6472 | $1,165.92 | $354.45 | $233.18
23075 | T |  | Removal of shoulder lesion | 0021 | 14.9776 | $888.82 | $219.48 | $177.76
23076 | T |  | Removal of shoulder lesion | 0022 | 19.6472 | $1,165.92 | $354.45 | $233.18
23077 | T |  | Remove tumor of shoulder | 0022 | 19.6472 | $1,165.92 | $354.45 | $233.18
23100 | T |  | Biopsy of shoulder joint | 0049 | 20.3707 | $1,208.86 |  | $241.77
23101 | T |  | Shoulder joint surgery | 0050 | 23.9081 | $1,418.78 |  | $283.76
23105 | T |  | Remove shoulder joint lining | 0050 | 23.9081 | $1,418.78 |  | $283.76
23106 | T |  | Incision of collarbone joint | 0050 | 23.9081 | $1,418.78 |  | $283.76
23107 | T |  | Explore treat shoulder joint | 0050 | 23.9081 | $1,418.78 |  | $283.76
23120 | T |  | Partial removal, collar bone | 0051 | 36.5271 | $2,167.63 |  | $433.53
23125 | T |  | Removal of collar bone | 0051 | 36.5271 | $2,167.63 |  | $433.53
23130 | T |  | Remove shoulder bone, part | 0051 | 36.5271 | $2,167.63 |  | $433.53
23140 | T |  | Removal of bone lesion | 0049 | 20.3707 | $1,208.86 |  | $241.77
23145 | T |  | Removal of bone lesion | 0050 | 23.9081 | $1,418.78 |  | $283.76
23146 | T |  | Removal of bone lesion | 0050 | 23.9081 | $1,418.78 |  | $283.76
23150 | T |  | Removal of humerus lesion | 0050 | 23.9081 | $1,418.78 |  | $283.76
23155 | T |  | Removal of humerus lesion | 0050 | 23.9081 | $1,418.78 |  | $283.76
23156 | T |  | Removal of humerus lesion | 0050 | 23.9081 | $1,418.78 |  | $283.76
23170 | T |  | Remove collar bone lesion | 0050 | 23.9081 | $1,418.78 |  | $283.76
23172 | T |  | Remove shoulder blade lesion | 0050 | 23.9081 | $1,418.78 |  | $283.76
23174 | T |  | Remove humerus lesion | 0050 | 23.9081 | $1,418.78 |  | $283.76
23180 | T |  | Remove collar bone lesion | 0050 | 23.9081 | $1,418.78 |  | $283.76
23182 | T |  | Remove shoulder blade lesion | 0050 | 23.9081 | $1,418.78 |  | $283.76
23184 | T |  | Remove humerus lesion | 0050 | 23.9081 | $1,418.78 |  | $283.76
23190 | T |  | Partial removal of scapula | 0050 | 23.9081 | $1,418.78 |  | $283.76
23195 | T |  | Removal of head of humerus | 0050 | 23.9081 | $1,418.78 |  | $283.76
23200 | C |  | Removal of collar bone |  |  |  |  |
23210 | C |  | Removal of shoulder blade |  |  |  |  |
23220 | C |  | Partial removal of humerus |  |  |  |  |
23221 | C |  | Partial removal of humerus |  |  |  |  |
23222 | C |  | Partial removal of humerus |  |  |  |  |
23330 | T |  | Remove shoulder foreign body | 0020 | 6.9433 | $412.04 | $107.40 | $82.41
23331 | T |  | Remove shoulder foreign body | 0022 | 19.6472 | $1,165.92 | $354.45 | $233.18
23332 | C |  | Remove shoulder foreign body |  |  |  |  |
23350 | N |  | Injection for shoulder x-ray |  |  |  |  |
23395 | T |  | Muscle transfer,shoulder/arm | 0051 | 36.5271 | $2,167.63 |  | $433.53
23397 | T |  | Muscle transfers | 0052 | 43.9378 | $2,607.40 |  | $521.48
23400 | T |  | Fixation of shoulder blade | 0050 | 23.9081 | $1,418.78 |  | $283.76
23405 | T |  | Incision of tendon & muscle | 0050 | 23.9081 | $1,418.78 |  | $283.76
23406 | T |  | Incise tendon(s) & muscle(s) | 0050 | 23.9081 | $1,418.78 |  | $283.76
23410 | T |  | Repair of tendon(s) | 0052 | 43.9378 | $2,607.40 |  | $521.48
23412 | T |  | Repair rotator cuff, chronic | 0052 | 43.9378 | $2,607.40 |  | $521.48
23415 | T |  | Release of shoulder ligament | 0051 | 36.5271 | $2,167.63 |  | $433.53
23420 | T |  | Repair of shoulder | 0052 | 43.9378 | $2,607.40 |  | $521.48
23430 | T |  | Repair biceps tendon | 0052 | 43.9378 | $2,607.40 |  | $521.48
23440 | T |  | Remove/transplant tendon | 0052 | 43.9378 | $2,607.40 |  | $521.48
23450 | T |  | Repair shoulder capsule | 0052 | 43.9378 | $2,607.40 |  | $521.48
23455 | T |  | Repair shoulder capsule | 0052 | 43.9378 | $2,607.40 |  | $521.48
23460 | T |  | Repair shoulder capsule | 0052 | 43.9378 | $2,607.40 |  | $521.48
23462 | T |  | Repair shoulder capsule | 0052 | 43.9378 | $2,607.40 |  | $521.48
23465 | T |  | Repair shoulder capsule | 0052 | 43.9378 | $2,607.40 |  | $521.48
23466 | T |  | Repair shoulder capsule | 0052 | 43.9378 | $2,607.40 |  | $521.48
23470 | T |  | Reconstruct shoulder joint | 0425 | 100.2058 | $5,946.51 | $1,378.01 | $1,189.30
23472 | C |  | Reconstruct shoulder joint |  |  |  |  |
23480 | T |  | Revision of collar bone | 0051 | 36.5271 | $2,167.63 |  | $433.53
23485 | T |  | Revision of collar bone | 0051 | 36.5271 | $2,167.63 |  | $433.53
23490 | T |  | Reinforce clavicle | 0051 | 36.5271 | $2,167.63 |  | $433.53
23491 | T |  | Reinforce shoulder bones | 0051 | 36.5271 | $2,167.63 |  | $433.53
23500 | T |  | Treat clavicle fracture | 0043 | 1.7694 | $105.00 |  | $21.00
23505 | T |  | Treat clavicle fracture | 0043 | 1.7694 | $105.00 |  | $21.00
23515 | T |  | Treat clavicle fracture | 0046 | 37.7023 | $2,237.37 | $535.76 | $447.47
23520 | T |  | Treat clavicle dislocation | 0043 | 1.7694 | $105.00 |  | $21.00
23525 | T |  | Treat clavicle dislocation | 0043 | 1.7694 | $105.00 |  | $21.00
23530 | T |  | Treat clavicle dislocation | 0046 | 37.7023 | $2,237.37 | $535.76 | $447.47
23532 | T |  | Treat clavicle dislocation | 0046 | 37.7023 | $2,237.37 | $535.76 | $447.47
23540 | T |  | Treat clavicle dislocation | 0043 | 1.7694 | $105.00 |  | $21.00
23545 | T |  | Treat clavicle dislocation | 0043 | 1.7694 | $105.00 |  | $21.00
23550 | T |  | Treat clavicle dislocation | 0046 | 37.7023 | $2,237.37 | $535.76 | $447.47
23552 | T |  | Treat clavicle dislocation | 0046 | 37.7023 | $2,237.37 | $535.76 | $447.47
23570 | T |  | Treat shoulder blade fx | 0043 | 1.7694 | $105.00 |  | $21.00
23575 | T |  | Treat shoulder blade fx | 0043 | 1.7694 | $105.00 |  | $21.00
23585 | T |  | Treat scapula fracture | 0046 | 37.7023 | $2,237.37 | $535.76 | $447.47
23600 | T |  | Treat humerus fracture | 0043 | 1.7694 | $105.00 |  | $21.00
23605 | T |  | Treat humerus fracture | 0043 | 1.7694 | $105.00 |  | $21.00
23615 | T |  | Treat humerus fracture | 0046 | 37.7023 | $2,237.37 | $535.76 | $447.47
23616 | T |  | Treat humerus fracture | 0046 | 37.7023 | $2,237.37 | $535.76 | $447.47
23620 | T |  | Treat humerus fracture | 0043 | 1.7694 | $105.00 |  | $21.00
23625 | T |  | Treat humerus fracture | 0043 | 1.7694 | $105.00 |  | $21.00
23630 | T |  | Treat humerus fracture | 0046 | 37.7023 | $2,237.37 | $535.76 | $447.47
23650 | T |  | Treat shoulder dislocation | 0043 | 1.7694 | $105.00 |  | $21.00
23655 | T |  | Treat shoulder dislocation | 0045 | 14.4945 | $860.15 | $268.47 | $172.03
23660 | T |  | Treat shoulder dislocation | 0046 | 37.7023 | $2,237.37 | $535.76 | $447.47
23665 | T |  | Treat dislocation/fracture | 0043 | 1.7694 | $105.00 |  | $21.00
23670 | T |  | Treat dislocation/fracture | 0046 | 37.7023 | $2,237.37 | $535.76 | $447.47
23675 | T |  | Treat dislocation/fracture | 0043 | 1.7694 | $105.00 |  | $21.00
23680 | T |  | Treat dislocation/fracture | 0046 | 37.7023 | $2,237.37 | $535.76 | $447.47
23700 | T |  | Fixation of shoulder | 0045 | 14.4945 | $860.15 | $268.47 | $172.03
23800 | T |  | Fusion of shoulder joint | 0051 | 36.5271 | $2,167.63 |  | $433.53
23802 | T |  | Fusion of shoulder joint | 0051 | 36.5271 | $2,167.63 |  | $433.53
23900 | C |  | Amputation of arm & girdle |  |  |  |  |
23920 | C |  | Amputation at shoulder joint |  |  |  |  |
23921 | T |  | Amputation follow-up surgery | 0025 | 5.4938 | $326.02 | $101.85 | $65.20
23929 | T |  | Shoulder surgery procedure | 0043 | 1.7694 | $105.00 |  | $21.00
23930 | T |  | Drainage of arm lesion | 0008 | 16.4989 | $979.09 |  | $195.82
23931 | T |  | Drainage of arm bursa | 0008 | 16.4989 | $979.09 |  | $195.82
23935 | T |  | Drain arm/elbow bone lesion | 0049 | 20.3707 | $1,208.86 |  | $241.77
24000 | T |  | Exploratory elbow surgery | 0050 | 23.9081 | $1,418.78 |  | $283.76
24006 | T |  | Release elbow joint | 0050 | 23.9081 | $1,418.78 |  | $283.76
24065 | T |  | Biopsy arm/elbow soft tissue | 0021 | 14.9776 | $888.82 | $219.48 | $177.76
24066 | T |  | Biopsy arm/elbow soft tissue | 0021 | 14.9776 | $888.82 | $219.48 | $177.76
24075 | T |  | Remove arm/elbow lesion | 0021 | 14.9776 | $888.82 | $219.48 | $177.76
24076 | T |  | Remove arm/elbow lesion | 0022 | 19.6472 | $1,165.92 | $354.45 | $233.18
24077 | T |  | Remove tumor of arm/elbow | 0022 | 19.6472 | $1,165.92 | $354.45 | $233.18
24100 | T |  | Biopsy elbow joint lining | 0049 | 20.3707 | $1,208.86 |  | $241.77
24101 | T |  | Explore/treat elbow joint | 0050 | 23.9081 | $1,418.78 |  | $283.76
24102 | T |  | Remove elbow joint lining | 0050 | 23.9081 | $1,418.78 |  | $283.76
24105 | T |  | Removal of elbow bursa | 0049 | 20.3707 | $1,208.86 |  | $241.77
24110 | T |  | Remove humerus lesion | 0049 | 20.3707 | $1,208.86 |  | $241.77
24115 | T |  | Remove/graft bone lesion | 0050 | 23.9081 | $1,418.78 |  | $283.76
24116 | T |  | Remove/graft bone lesion | 0050 | 23.9081 | $1,418.78 |  | $283.76
24120 | T |  | Remove elbow lesion | 0049 | 20.3707 | $1,208.86 |  | $241.77
24125 | T |  | Remove/graft bone lesion | 0050 | 23.9081 | $1,418.78 |  | $283.76
24126 | T |  | Remove/graft bone lesion | 0050 | 23.9081 | $1,418.78 |  | $283.76
24130 | T |  | Removal of head of radius | 0050 | 23.9081 | $1,418.78 |  | $283.76
24134 | T |  | Removal of arm bone lesion | 0050 | 23.9081 | $1,418.78 |  | $283.76
24136 | T |  | Remove radius bone lesion | 0050 | 23.9081 | $1,418.78 |  | $283.76
24138 | T |  | Remove elbow bone lesion | 0050 | 23.9081 | $1,418.78 |  | $283.76
24140 | T |  | Partial removal of arm bone | 0050 | 23.9081 | $1,418.78 |  | $283.76
24145 | T |  | Partial removal of radius | 0050 | 23.9081 | $1,418.78 |  | $283.76
24147 | T |  | Partial removal of elbow | 0050 | 23.9081 | $1,418.78 |  | $283.76
24149 | T |  | Radical resection of elbow | 0050 | 23.9081 | $1,418.78 |  | $283.76
24150 | T |  | Extensive humerus surgery | 0052 | 43.9378 | $2,607.40 |  | $521.48
24151 | T |  | Extensive humerus surgery | 0052 | 43.9378 | $2,607.40 |  | $521.48
24152 | T |  | Extensive radius surgery | 0052 | 43.9378 | $2,607.40 |  | $521.48
24153 | T |  | Extensive radius surgery | 0052 | 43.9378 | $2,607.40 |  | $521.48
24155 | T |  | Removal of elbow joint | 0051 | 36.5271 | $2,167.63 |  | $433.53
24160 | T |  | Remove elbow joint implant | 0050 | 23.9081 | $1,418.78 |  | $283.76
24164 | T |  | Remove radius head implant | 0050 | 23.9081 | $1,418.78 |  | $283.76
24200 | T |  | Removal of arm foreign body | 0019 | 4.0547 | $240.62 | $71.87 | $48.12
24201 | T |  | Removal of arm foreign body | 0021 | 14.9776 | $888.82 | $219.48 | $177.76
24220 | N |  | Injection for elbow x-ray |  |  |  |  |
24300 | T |  | Manipulate elbow w/anesth | 0045 | 14.4945 | $860.15 | $268.47 | $172.03
24301 | T |  | Muscle/tendon transfer | 0050 | 23.9081 | $1,418.78 |  | $283.76
24305 | T |  | Arm tendon lengthening | 0050 | 23.9081 | $1,418.78 |  | $283.76
24310 | T |  | Revision of arm tendon | 0049 | 20.3707 | $1,208.86 |  | $241.77
24320 | T |  | Repair of arm tendon | 0051 | 36.5271 | $2,167.63 |  | $433.53
24330 | T |  | Revision of arm muscles | 0051 | 36.5271 | $2,167.63 |  | $433.53
24331 | T |  | Revision of arm muscles | 0051 | 36.5271 | $2,167.63 |  | $433.53
24332 | T |  | Tenolysis, triceps | 0049 | 20.3707 | $1,208.86 |  | $241.77
24340 | T |  | Repair of biceps tendon | 0051 | 36.5271 | $2,167.63 |  | $433.53
24341 | T |  | Repair arm tendon/muscle | 0051 | 36.5271 | $2,167.63 |  | $433.53
24342 | T |  | Repair of ruptured tendon | 0051 | 36.5271 | $2,167.63 |  | $433.53
24343 | T |  | Repr elbow lat ligmnt w/tiss | 0050 | 23.9081 | $1,418.78 |  | $283.76
24344 | T |  | Reconstruct elbow lat ligmnt | 0051 | 36.5271 | $2,167.63 |  | $433.53
24345 | T |  | Repr elbw med ligmnt w/tissu | 0050 | 23.9081 | $1,418.78 |  | $283.76
24346 | T |  | Reconstruct elbow med ligmnt | 0051 | 36.5271 | $2,167.63 |  | $433.53
24350 | T |  | Repair of tennis elbow | 0050 | 23.9081 | $1,418.78 |  | $283.76
24351 | T |  | Repair of tennis elbow | 0050 | 23.9081 | $1,418.78 |  | $283.76
24352 | T |  | Repair of tennis elbow | 0050 | 23.9081 | $1,418.78 |  | $283.76
24354 | T |  | Repair of tennis elbow | 0050 | 23.9081 | $1,418.78 |  | $283.76
24356 | T |  | Revision of tennis elbow | 0050 | 23.9081 | $1,418.78 |  | $283.76
24360 | T |  | Reconstruct elbow joint | 0047 | 31.6107 | $1,875.87 | $537.03 | $375.17
24361 | T |  | Reconstruct elbow joint | 0425 | 100.2058 | $5,946.51 | $1,378.01 | $1,189.30
24362 | T |  | Reconstruct elbow joint | 0048 | 43.1288 | $2,559.39 | $570.30 | $511.88
24363 | T |  | Replace elbow joint | 0425 | 100.2058 | $5,946.51 | $1,378.01 | $1,189.30
24365 | T |  | Reconstruct head of radius | 0047 | 31.6107 | $1,875.87 | $537.03 | $375.17
24366 | T |  | Reconstruct head of radius | 0425 | 100.2058 | $5,946.51 | $1,378.01 | $1,189.30
24400 | T |  | Revision of humerus | 0050 | 23.9081 | $1,418.78 |  | $283.76
24410 | T |  | Revision of humerus | 0050 | 23.9081 | $1,418.78 |  | $283.76
24420 | T |  | Revision of humerus | 0051 | 36.5271 | $2,167.63 |  | $433.53
24430 | T |  | Repair of humerus | 0051 | 36.5271 | $2,167.63 |  | $433.53
24435 | T |  | Repair humerus with graft | 0051 | 36.5271 | $2,167.63 |  | $433.53
24470 | T |  | Revision of elbow joint | 0051 | 36.5271 | $2,167.63 |  | $433.53
24495 | T |  | Decompression of forearm | 0050 | 23.9081 | $1,418.78 |  | $283.76
24498 | T |  | Reinforce humerus | 0051 | 36.5271 | $2,167.63 |  | $433.53
24500 | T |  | Treat humerus fracture | 0043 | 1.7694 | $105.00 |  | $21.00
24505 | T |  | Treat humerus fracture | 0043 | 1.7694 | $105.00 |  | $21.00
24515 | T |  | Treat humerus fracture | 0046 | 37.7023 | $2,237.37 | $535.76 | $447.47
24516 | T |  | Treat humerus fracture | 0046 | 37.7023 | $2,237.37 | $535.76 | $447.47
24530 | T |  | Treat humerus fracture | 0043 | 1.7694 | $105.00 |  | $21.00
24535 | T |  | Treat humerus fracture | 0043 | 1.7694 | $105.00 |  | $21.00
24538 | T |  | Treat humerus fracture | 0046 | 37.7023 | $2,237.37 | $535.76 | $447.47
24545 | T |  | Treat humerus fracture | 0046 | 37.7023 | $2,237.37 | $535.76 | $447.47
24546 | T |  | Treat humerus fracture | 0046 | 37.7023 | $2,237.37 | $535.76 | $447.47
24560 | T |  | Treat humerus fracture | 0043 | 1.7694 | $105.00 |  | $21.00
24565 | T |  | Treat humerus fracture | 0043 | 1.7694 | $105.00 |  | $21.00
24566 | T |  | Treat humerus fracture | 0046 | 37.7023 | $2,237.37 | $535.76 | $447.47
24575 | T |  | Treat humerus fracture | 0046 | 37.7023 | $2,237.37 | $535.76 | $447.47
24576 | T |  | Treat humerus fracture | 0043 | 1.7694 | $105.00 |  | $21.00
24577 | T |  | Treat humerus fracture | 0043 | 1.7694 | $105.00 |  | $21.00
24579 | T |  | Treat humerus fracture | 0046 | 37.7023 | $2,237.37 | $535.76 | $447.47
24582 | T |  | Treat humerus fracture | 0046 | 37.7023 | $2,237.37 | $535.76 | $447.47
24586 | T |  | Treat elbow fracture | 0046 | 37.7023 | $2,237.37 | $535.76 | $447.47
24587 | T |  | Treat elbow fracture | 0046 | 37.7023 | $2,237.37 | $535.76 | $447.47
24600 | T |  | Treat elbow dislocation | 0043 | 1.7694 | $105.00 |  | $21.00
24605 | T |  | Treat elbow dislocation | 0045 | 14.4945 | $860.15 | $268.47 | $172.03
24615 | T |  | Treat elbow dislocation | 0046 | 37.7023 | $2,237.37 | $535.76 | $447.47
24620 | T |  | Treat elbow fracture | 0043 | 1.7694 | $105.00 |  | $21.00
24635 | T |  | Treat elbow fracture | 0046 | 37.7023 | $2,237.37 | $535.76 | $447.47
24640 | T |  | Treat elbow dislocation | 0043 | 1.7694 | $105.00 |  | $21.00
24650 | T |  | Treat radius fracture | 0043 | 1.7694 | $105.00 |  | $21.00
24655 | T |  | Treat radius fracture | 0043 | 1.7694 | $105.00 |  | $21.00
24665 | T |  | Treat radius fracture | 0046 | 37.7023 | $2,237.37 | $535.76 | $447.47
24666 | T |  | Treat radius fracture | 0046 | 37.7023 | $2,237.37 | $535.76 | $447.47
24670 | T |  | Treat ulnar fracture | 0043 | 1.7694 | $105.00 |  | $21.00
24675 | T |  | Treat ulnar fracture | 0043 | 1.7694 | $105.00 |  | $21.00
24685 | T |  | Treat ulnar fracture | 0046 | 37.7023 | $2,237.37 | $535.76 | $447.47
24800 | T |  | Fusion of elbow joint | 0051 | 36.5271 | $2,167.63 |  | $433.53
24802 | T |  | Fusion/graft of elbow joint | 0051 | 36.5271 | $2,167.63 |  | $433.53
24900 | C |  | Amputation of upper arm |  |  |  |  |
24920 | C |  | Amputation of upper arm |  |  |  |  |
24925 | T |  | Amputation follow-up surgery | 0049 | 20.3707 | $1,208.86 |  | $241.77
24930 | C |  | Amputation follow-up surgery |  |  |  |  |
24931 | C |  | Amputate upper arm & implant |  |  |  |  |
24935 | T |  | Revision of amputation | 0052 | 43.9378 | $2,607.40 |  | $521.48
24940 | C |  | Revision of upper arm |  |  |  |  |
24999 | T |  | Upper arm/elbow surgery | 0043 | 1.7694 | $105.00 |  | $21.00
25000 | T |  | Incision of tendon sheath | 0049 | 20.3707 | $1,208.86 |  | $241.77
25001 | T |  | Incise flexor carpi radialis | 0049 | 20.3707 | $1,208.86 |  | $241.77
25020 | T |  | Decompress forearm 1 space | 0049 | 20.3707 | $1,208.86 |  | $241.77
25023 | T |  | Decompress forearm 1 space | 0050 | 23.9081 | $1,418.78 |  | $283.76
25024 | T |  | Decompress forearm 2 spaces | 0050 | 23.9081 | $1,418.78 |  | $283.76
25025 | T |  | Decompress forearm 2 spaces | 0050 | 23.9081 | $1,418.78 |  | $283.76
25028 | T |  | Drainage of forearm lesion | 0049 | 20.3707 | $1,208.86 |  | $241.77
25031 | T |  | Drainage of forearm bursa | 0049 | 20.3707 | $1,208.86 |  | $241.77
25035 | T |  | Treat forearm bone lesion | 0049 | 20.3707 | $1,208.86 |  | $241.77
25040 | T |  | Explore/treat wrist joint | 0050 | 23.9081 | $1,418.78 |  | $283.76
25065 | T |  | Biopsy forearm soft tissues | 0021 | 14.9776 | $888.82 | $219.48 | $177.76
25066 | T |  | Biopsy forearm soft tissues | 0022 | 19.6472 | $1,165.92 | $354.45 | $233.18
25075 | T |  | Removel forearm lesion subcu | 0021 | 14.9776 | $888.82 | $219.48 | $177.76
25076 | T |  | Removel forearm lesion deep | 0022 | 19.6472 | $1,165.92 | $354.45 | $233.18
25077 | T |  | Remove tumor, forearm/wrist | 0022 | 19.6472 | $1,165.92 | $354.45 | $233.18
25085 | T |  | Incision of wrist capsule | 0049 | 20.3707 | $1,208.86 |  | $241.77
25100 | T |  | Biopsy of wrist joint | 0049 | 20.3707 | $1,208.86 |  | $241.77
25101 | T |  | Explore/treat wrist joint | 0050 | 23.9081 | $1,418.78 |  | $283.76
25105 | T |  | Remove wrist joint lining | 0050 | 23.9081 | $1,418.78 |  | $283.76
25107 | T |  | Remove wrist joint cartilage | 0050 | 23.9081 | $1,418.78 |  | $283.76
25110 | T |  | Remove wrist tendon lesion | 0049 | 20.3707 | $1,208.86 |  | $241.77
25111 | T |  | Remove wrist tendon lesion | 0053 | 15.6795 | $930.47 | $253.49 | $186.09
25112 | T |  | Reremove wrist tendon lesion | 0053 | 15.6795 | $930.47 | $253.49 | $186.09
25115 | T |  | Remove wrist/forearm lesion | 0049 | 20.3707 | $1,208.86 |  | $241.77
25116 | T |  | Remove wrist/forearm lesion | 0049 | 20.3707 | $1,208.86 |  | $241.77
25118 | T |  | Excise wrist tendon sheath | 0050 | 23.9081 | $1,418.78 |  | $283.76
25119 | T |  | Partial removal of ulna | 0050 | 23.9081 | $1,418.78 |  | $283.76
25120 | T |  | Removal of forearm lesion | 0050 | 23.9081 | $1,418.78 |  | $283.76
25125 | T |  | Remove/graft forearm lesion | 0050 | 23.9081 | $1,418.78 |  | $283.76
25126 | T |  | Remove/graft forearm lesion | 0050 | 23.9081 | $1,418.78 |  | $283.76
25130 | T |  | Removal of wrist lesion | 0050 | 23.9081 | $1,418.78 |  | $283.76
25135 | T |  | Remove & graft wrist lesion | 0050 | 23.9081 | $1,418.78 |  | $283.76
25136 | T |  | Remove & graft wrist lesion | 0050 | 23.9081 | $1,418.78 |  | $283.76
25145 | T |  | Remove forearm bone lesion | 0050 | 23.9081 | $1,418.78 |  | $283.76
25150 | T |  | Partial removal of ulna | 0050 | 23.9081 | $1,418.78 |  | $283.76
25151 | T |  | Partial removal of radius | 0050 | 23.9081 | $1,418.78 |  | $283.76
25170 | T |  | Extensive forearm surgery | 0052 | 43.9378 | $2,607.40 |  | $521.48
25210 | T |  | Removal of wrist bone | 0054 | 25.3711 | $1,505.60 |  | $301.12
25215 | T |  | Removal of wrist bones | 0054 | 25.3711 | $1,505.60 |  | $301.12
25230 | T |  | Partial removal of radius | 0050 | 23.9081 | $1,418.78 |  | $283.76
25240 | T |  | Partial removal of ulna | 0050 | 23.9081 | $1,418.78 |  | $283.76
25246 | N |  | Injection for wrist x-ray |  |  |  |  |
25248 | T |  | Remove forearm foreign body | 0049 | 20.3707 | $1,208.86 |  | $241.77
25250 | T |  | Removal of wrist prosthesis | 0050 | 23.9081 | $1,418.78 |  | $283.76
25251 | T |  | Removal of wrist prosthesis | 0050 | 23.9081 | $1,418.78 |  | $283.76
25259 | T |  | Manipulate wrist w/anesthes | 0043 | 1.7694 | $105.00 |  | $21.00
25260 | T |  | Repair forearm tendon/muscle | 0050 | 23.9081 | $1,418.78 |  | $283.76
25263 | T |  | Repair forearm tendon/muscle | 0050 | 23.9081 | $1,418.78 |  | $283.76
25265 | T |  | Repair forearm tendon/muscle | 0050 | 23.9081 | $1,418.78 |  | $283.76
25270 | T |  | Repair forearm tendon/muscle | 0050 | 23.9081 | $1,418.78 |  | $283.76
25272 | T |  | Repair forearm tendon/muscle | 0050 | 23.9081 | $1,418.78 |  | $283.76
25274 | T |  | Repair forearm tendon/muscle | 0050 | 23.9081 | $1,418.78 |  | $283.76
25275 | T |  | Repair forearm tendon sheath | 0050 | 23.9081 | $1,418.78 |  | $283.76
25280 | T |  | Revise wrist/forearm tendon | 0050 | 23.9081 | $1,418.78 |  | $283.76
25290 | T |  | Incise wrist/forearm tendon | 0050 | 23.9081 | $1,418.78 |  | $283.76
25295 | T |  | Release wrist/forearm tendon | 0049 | 20.3707 | $1,208.86 |  | $241.77
25300 | T |  | Fusion of tendons at wrist | 0050 | 23.9081 | $1,418.78 |  | $283.76
25301 | T |  | Fusion of tendons at wrist | 0050 | 23.9081 | $1,418.78 |  | $283.76
25310 | T |  | Transplant forearm tendon | 0051 | 36.5271 | $2,167.63 |  | $433.53
25312 | T |  | Transplant forearm tendon | 0051 | 36.5271 | $2,167.63 |  | $433.53
25315 | T |  | Revise palsy hand tendon(s) | 0051 | 36.5271 | $2,167.63 |  | $433.53
25316 | T |  | Revise palsy hand tendon(s) | 0051 | 36.5271 | $2,167.63 |  | $433.53
25320 | T |  | Repair/revise wrist joint | 0051 | 36.5271 | $2,167.63 |  | $433.53
25332 | T |  | Revise wrist joint | 0047 | 31.6107 | $1,875.87 | $537.03 | $375.17
25335 | T |  | Realignment of hand | 0051 | 36.5271 | $2,167.63 |  | $433.53
25337 | T |  | Reconstruct ulna/radioulnar | 0051 | 36.5271 | $2,167.63 |  | $433.53
25350 | T |  | Revision of radius | 0051 | 36.5271 | $2,167.63 |  | $433.53
25355 | T |  | Revision of radius | 0051 | 36.5271 | $2,167.63 |  | $433.53
25360 | T |  | Revision of ulna | 0050 | 23.9081 | $1,418.78 |  | $283.76
25365 | T |  | Revise radius & ulna | 0050 | 23.9081 | $1,418.78 |  | $283.76
25370 | T |  | Revise radius or ulna | 0051 | 36.5271 | $2,167.63 |  | $433.53
25375 | T |  | Revise radius & ulna | 0051 | 36.5271 | $2,167.63 |  | $433.53
25390 | T |  | Shorten radius or ulna | 0050 | 23.9081 | $1,418.78 |  | $283.76
25391 | T |  | Lengthen radius or ulna | 0051 | 36.5271 | $2,167.63 |  | $433.53
25392 | T |  | Shorten radius & ulna | 0050 | 23.9081 | $1,418.78 |  | $283.76
25393 | T |  | Lengthen radius & ulna | 0051 | 36.5271 | $2,167.63 |  | $433.53
25394 | T |  | Repair carpal bone, shorten | 0053 | 15.6795 | $930.47 | $253.49 | $186.09
25400 | T |  | Repair radius or ulna | 0050 | 23.9081 | $1,418.78 |  | $283.76
25405 | T |  | Repair/graft radius or ulna | 0050 | 23.9081 | $1,418.78 |  | $283.76
25415 | T |  | Repair radius & ulna | 0050 | 23.9081 | $1,418.78 |  | $283.76
25420 | T |  | Repair/graft radius & ulna | 0051 | 36.5271 | $2,167.63 |  | $433.53
25425 | T |  | Repair/graft radius or ulna | 0051 | 36.5271 | $2,167.63 |  | $433.53
25426 | T |  | Repair/graft radius & ulna | 0051 | 36.5271 | $2,167.63 |  | $433.53
25430 | T |  | Vasc graft into carpal bone | 0054 | 25.3711 | $1,505.60 |  | $301.12
25431 | T |  | Repair nonunion carpal bone | 0054 | 25.3711 | $1,505.60 |  | $301.12
25440 | T |  | Repair/graft wrist bone | 0051 | 36.5271 | $2,167.63 |  | $433.53
25441 | T |  | Reconstruct wrist joint | 0425 | 100.2058 | $5,946.51 | $1,378.01 | $1,189.30
25442 | T |  | Reconstruct wrist joint | 0425 | 100.2058 | $5,946.51 | $1,378.01 | $1,189.30
25443 | T |  | Reconstruct wrist joint | 0048 | 43.1288 | $2,559.39 | $570.30 | $511.88
25444 | T |  | Reconstruct wrist joint | 0048 | 43.1288 | $2,559.39 | $570.30 | $511.88
25445 | T |  | Reconstruct wrist joint | 0048 | 43.1288 | $2,559.39 | $570.30 | $511.88
25446 | T |  | Wrist replacement | 0425 | 100.2058 | $5,946.51 | $1,378.01 | $1,189.30
25447 | T |  | Repair wrist joint(s) | 0047 | 31.6107 | $1,875.87 | $537.03 | $375.17
25449 | T |  | Remove wrist joint implant | 0047 | 31.6107 | $1,875.87 | $537.03 | $375.17
25450 | T |  | Revision of wrist joint | 0051 | 36.5271 | $2,167.63 |  | $433.53
25455 | T |  | Revision of wrist joint | 0051 | 36.5271 | $2,167.63 |  | $433.53
25490 | T |  | Reinforce radius | 0051 | 36.5271 | $2,167.63 |  | $433.53
25491 | T |  | Reinforce ulna | 0051 | 36.5271 | $2,167.63 |  | $433.53
25492 | T |  | Reinforce radius and ulna | 0051 | 36.5271 | $2,167.63 |  | $433.53
25500 | T |  | Treat fracture of radius | 0043 | 1.7694 | $105.00 |  | $21.00
25505 | T |  | Treat fracture of radius | 0043 | 1.7694 | $105.00 |  | $21.00
25515 | T |  | Treat fracture of radius | 0046 | 37.7023 | $2,237.37 | $535.76 | $447.47
25520 | T |  | Treat fracture of radius | 0043 | 1.7694 | $105.00 |  | $21.00
25525 | T |  | Treat fracture of radius | 0046 | 37.7023 | $2,237.37 | $535.76 | $447.47
25526 | T |  | Treat fracture of radius | 0046 | 37.7023 | $2,237.37 | $535.76 | $447.47
25530 | T |  | Treat fracture of ulna | 0043 | 1.7694 | $105.00 |  | $21.00
25535 | T |  | Treat fracture of ulna | 0043 | 1.7694 | $105.00 |  | $21.00
25545 | T |  | Treat fracture of ulna | 0046 | 37.7023 | $2,237.37 | $535.76 | $447.47
25560 | T |  | Treat fracture radius & ulna | 0043 | 1.7694 | $105.00 |  | $21.00
25565 | T |  | Treat fracture radius & ulna | 0043 | 1.7694 | $105.00 |  | $21.00
25574 | T |  | Treat fracture radius & ulna | 0046 | 37.7023 | $2,237.37 | $535.76 | $447.47
25575 | T |  | Treat fracture radius/ulna | 0046 | 37.7023 | $2,237.37 | $535.76 | $447.47
25600 | T |  | Treat fracture radius/ulna | 0043 | 1.7694 | $105.00 |  | $21.00
25605 | T |  | Treat fracture radius/ulna | 0043 | 1.7694 | $105.00 |  | $21.00
25611 | T |  | Treat fracture radius/ulna | 0046 | 37.7023 | $2,237.37 | $535.76 | $447.47
25620 | T |  | Treat fracture radius/ulna | 0046 | 37.7023 | $2,237.37 | $535.76 | $447.47
25622 | T |  | Treat wrist bone fracture | 0043 | 1.7694 | $105.00 |  | $21.00
25624 | T |  | Treat wrist bone fracture | 0043 | 1.7694 | $105.00 |  | $21.00
25628 | T |  | Treat wrist bone fracture | 0046 | 37.7023 | $2,237.37 | $535.76 | $447.47
25630 | T |  | Treat wrist bone fracture | 0043 | 1.7694 | $105.00 |  | $21.00
25635 | T |  | Treat wrist bone fracture | 0043 | 1.7694 | $105.00 |  | $21.00
25645 | T |  | Treat wrist bone fracture | 0046 | 37.7023 | $2,237.37 | $535.76 | $447.47
25650 | T |  | Treat wrist bone fracture | 0043 | 1.7694 | $105.00 |  | $21.00
25651 | T |  | Pin ulnar styloid fracture | 0046 | 37.7023 | $2,237.37 | $535.76 | $447.47
25652 | T |  | Treat fracture ulnar styloid | 0046 | 37.7023 | $2,237.37 | $535.76 | $447.47
25660 | T |  | Treat wrist dislocation | 0043 | 1.7694 | $105.00 |  | $21.00
25670 | T |  | Treat wrist dislocation | 0046 | 37.7023 | $2,237.37 | $535.76 | $447.47
25671 | T |  | Pin radioulnar dislocation | 0046 | 37.7023 | $2,237.37 | $535.76 | $447.47
25675 | T |  | Treat wrist dislocation | 0043 | 1.7694 | $105.00 |  | $21.00
25676 | T |  | Treat wrist dislocation | 0046 | 37.7023 | $2,237.37 | $535.76 | $447.47
25680 | T |  | Treat wrist fracture | 0043 | 1.7694 | $105.00 |  | $21.00
25685 | T |  | Treat wrist fracture | 0046 | 37.7023 | $2,237.37 | $535.76 | $447.47
25690 | T |  | Treat wrist dislocation | 0043 | 1.7694 | $105.00 |  | $21.00
25695 | T |  | Treat wrist dislocation | 0046 | 37.7023 | $2,237.37 | $535.76 | $447.47
25800 | T |  | Fusion of wrist joint | 0051 | 36.5271 | $2,167.63 |  | $433.53
25805 | T |  | Fusion/graft of wrist joint | 0051 | 36.5271 | $2,167.63 |  | $433.53
25810 | T |  | Fusion/graft of wrist joint | 0051 | 36.5271 | $2,167.63 |  | $433.53
25820 | T |  | Fusion of hand bones | 0053 | 15.6795 | $930.47 | $253.49 | $186.09
25825 | T |  | Fuse hand bones with graft | 0054 | 25.3711 | $1,505.60 |  | $301.12
25830 | T |  | Fusion, radioulnar jnt/ulna | 0051 | 36.5271 | $2,167.63 |  | $433.53
25900 | C |  | Amputation of forearm |  |  |  |  |
25905 | C |  | Amputation of forearm |  |  |  |  |
25907 | T |  | Amputation follow-up surgery | 0049 | 20.3707 | $1,208.86 |  | $241.77
25909 | C |  | Amputation follow-up surgery |  |  |  |  |
25915 | C |  | Amputation of forearm |  |  |  |  |
25920 | C |  | Amputate hand at wrist |  |  |  |  |
25922 | T |  | Amputate hand at wrist | 0049 | 20.3707 | $1,208.86 |  | $241.77
25924 | C |  | Amputation follow-up surgery |  |  |  |  |
25927 | C |  | Amputation of hand |  |  |  |  |
25929 | T |  | Amputation follow-up surgery | 0686 | 13.8287 | $820.64 |  | $164.13
25931 | C |  | Amputation follow-up surgery |  |  |  |  |
25999 | T |  | Forearm or wrist surgery | 0043 | 1.7694 | $105.00 |  | $21.00
26010 | T |  | Drainage of finger abscess | 0006 | 1.55 | $91.98 | $22.28 | $18.40
26011 | T |  | Drainage of finger abscess | 0007 | 11.4501 | $679.48 |  | $135.90
26020 | T |  | Drain hand tendon sheath | 0053 | 15.6795 | $930.47 | $253.49 | $186.09
26025 | T |  | Drainage of palm bursa | 0053 | 15.6795 | $930.47 | $253.49 | $186.09
26030 | T |  | Drainage of palm bursa(s) | 0053 | 15.6795 | $930.47 | $253.49 | $186.09
26034 | T |  | Treat hand bone lesion | 0053 | 15.6795 | $930.47 | $253.49 | $186.09
26035 | T |  | Decompress fingers/hand | 0053 | 15.6795 | $930.47 | $253.49 | $186.09
26037 | T |  | Decompress fingers/hand | 0053 | 15.6795 | $930.47 | $253.49 | $186.09
26040 | T |  | Release palm contracture | 0054 | 25.3711 | $1,505.60 |  | $301.12
26045 | T |  | Release palm contracture | 0054 | 25.3711 | $1,505.60 |  | $301.12
26055 | T |  | Incise finger tendon sheath | 0053 | 15.6795 | $930.47 | $253.49 | $186.09
26060 | T |  | Incision of finger tendon | 0053 | 15.6795 | $930.47 | $253.49 | $186.09
26070 | T |  | Explore/treat hand joint | 0053 | 15.6795 | $930.47 | $253.49 | $186.09
26075 | T |  | Explore/treat finger joint | 0053 | 15.6795 | $930.47 | $253.49 | $186.09
26080 | T |  | Explore/treat finger joint | 0053 | 15.6795 | $930.47 | $253.49 | $186.09
26100 | T |  | Biopsy hand joint lining | 0053 | 15.6795 | $930.47 | $253.49 | $186.09
26105 | T |  | Biopsy finger joint lining | 0053 | 15.6795 | $930.47 | $253.49 | $186.09
26110 | T |  | Biopsy finger joint lining | 0053 | 15.6795 | $930.47 | $253.49 | $186.09
26115 | T |  | Removel hand lesion subcut | 0022 | 19.6472 | $1,165.92 | $354.45 | $233.18
26116 | T |  | Removel hand lesion, deep | 0022 | 19.6472 | $1,165.92 | $354.45 | $233.18
26117 | T |  | Remove tumor, hand/finger | 0022 | 19.6472 | $1,165.92 | $354.45 | $233.18
26121 | T |  | Release palm contracture | 0054 | 25.3711 | $1,505.60 |  | $301.12
26123 | T |  | Release palm contracture | 0054 | 25.3711 | $1,505.60 |  | $301.12
26125 | T |  | Release palm contracture | 0053 | 15.6795 | $930.47 | $253.49 | $186.09
26130 | T |  | Remove wrist joint lining | 0053 | 15.6795 | $930.47 | $253.49 | $186.09
26135 | T |  | Revise finger joint, each | 0054 | 25.3711 | $1,505.60 |  | $301.12
26140 | T |  | Revise finger joint, each | 0053 | 15.6795 | $930.47 | $253.49 | $186.09
26145 | T |  | Tendon excision, palm/finger | 0053 | 15.6795 | $930.47 | $253.49 | $186.09
26160 | T |  | Remove tendon sheath lesion | 0053 | 15.6795 | $930.47 | $253.49 | $186.09
26170 | T |  | Removal of palm tendon, each | 0053 | 15.6795 | $930.47 | $253.49 | $186.09
26180 | T |  | Removal of finger tendon | 0053 | 15.6795 | $930.47 | $253.49 | $186.09
26185 | T |  | Remove finger bone | 0053 | 15.6795 | $930.47 | $253.49 | $186.09
26200 | T |  | Remove hand bone lesion | 0053 | 15.6795 | $930.47 | $253.49 | $186.09
26205 | T |  | Remove/graft bone lesion | 0054 | 25.3711 | $1,505.60 |  | $301.12
26210 | T |  | Removal of finger lesion | 0053 | 15.6795 | $930.47 | $253.49 | $186.09
26215 | T |  | Remove/graft finger lesion | 0053 | 15.6795 | $930.47 | $253.49 | $186.09
26230 | T |  | Partial removal of hand bone | 0053 | 15.6795 | $930.47 | $253.49 | $186.09
26235 | T |  | Partial removal, finger bone | 0053 | 15.6795 | $930.47 | $253.49 | $186.09
26236 | T |  | Partial removal, finger bone | 0053 | 15.6795 | $930.47 | $253.49 | $186.09
26250 | T |  | Extensive hand surgery | 0053 | 15.6795 | $930.47 | $253.49 | $186.09
26255 | T |  | Extensive hand surgery | 0054 | 25.3711 | $1,505.60 |  | $301.12
26260 | T |  | Extensive finger surgery | 0053 | 15.6795 | $930.47 | $253.49 | $186.09
26261 | T |  | Extensive finger surgery | 0053 | 15.6795 | $930.47 | $253.49 | $186.09
26262 | T |  | Partial removal of finger | 0053 | 15.6795 | $930.47 | $253.49 | $186.09
26320 | T |  | Removal of implant from hand | 0021 | 14.9776 | $888.82 | $219.48 | $177.76
26340 | T |  | Manipulate finger w/anesth | 0043 | 1.7694 | $105.00 |  | $21.00
26350 | T |  | Repair finger/hand tendon | 0054 | 25.3711 | $1,505.60 |  | $301.12
26352 | T |  | Repair/graft hand tendon | 0054 | 25.3711 | $1,505.60 |  | $301.12
26356 | T |  | Repair finger/hand tendon | 0054 | 25.3711 | $1,505.60 |  | $301.12
26357 | T |  | Repair finger/hand tendon | 0054 | 25.3711 | $1,505.60 |  | $301.12
26358 | T |  | Repair/graft hand tendon | 0054 | 25.3711 | $1,505.60 |  | $301.12
26370 | T |  | Repair finger/hand tendon | 0054 | 25.3711 | $1,505.60 |  | $301.12
26372 | T |  | Repair/graft hand tendon | 0054 | 25.3711 | $1,505.60 |  | $301.12
26373 | T |  | Repair finger/hand tendon | 0054 | 25.3711 | $1,505.60 |  | $301.12
26390 | T |  | Revise hand/finger tendon | 0054 | 25.3711 | $1,505.60 |  | $301.12
26392 | T |  | Repair/graft hand tendon | 0054 | 25.3711 | $1,505.60 |  | $301.12
26410 | T |  | Repair hand tendon | 0053 | 15.6795 | $930.47 | $253.49 | $186.09
26412 | T |  | Repair/graft hand tendon | 0054 | 25.3711 | $1,505.60 |  | $301.12
26415 | T |  | Excision, hand/finger tendon | 0054 | 25.3711 | $1,505.60 |  | $301.12
26416 | T |  | Graft hand or finger tendon | 0054 | 25.3711 | $1,505.60 |  | $301.12
26418 | T |  | Repair finger tendon | 0053 | 15.6795 | $930.47 | $253.49 | $186.09
26420 | T |  | Repair/graft finger tendon | 0054 | 25.3711 | $1,505.60 |  | $301.12
26426 | T |  | Repair finger/hand tendon | 0054 | 25.3711 | $1,505.60 |  | $301.12
26428 | T |  | Repair/graft finger tendon | 0054 | 25.3711 | $1,505.60 |  | $301.12
26432 | T |  | Repair finger tendon | 0053 | 15.6795 | $930.47 | $253.49 | $186.09
26433 | T |  | Repair finger tendon | 0053 | 15.6795 | $930.47 | $253.49 | $186.09
26434 | T |  | Repair/graft finger tendon | 0054 | 25.3711 | $1,505.60 |  | $301.12
26437 | T |  | Realignment of tendons | 0053 | 15.6795 | $930.47 | $253.49 | $186.09
26440 | T |  | Release palm/finger tendon | 0053 | 15.6795 | $930.47 | $253.49 | $186.09
26442 | T |  | Release palm & finger tendon | 0054 | 25.3711 | $1,505.60 |  | $301.12
26445 | T |  | Release hand/finger tendon | 0053 | 15.6795 | $930.47 | $253.49 | $186.09
26449 | T |  | Release forearm/hand tendon | 0054 | 25.3711 | $1,505.60 |  | $301.12
26450 | T |  | Incision of palm tendon | 0053 | 15.6795 | $930.47 | $253.49 | $186.09
26455 | T |  | Incision of finger tendon | 0053 | 15.6795 | $930.47 | $253.49 | $186.09
26460 | T |  | Incise hand/finger tendon | 0053 | 15.6795 | $930.47 | $253.49 | $186.09
26471 | T |  | Fusion of finger tendons | 0053 | 15.6795 | $930.47 | $253.49 | $186.09
26474 | T |  | Fusion of finger tendons | 0053 | 15.6795 | $930.47 | $253.49 | $186.09
26476 | T |  | Tendon lengthening | 0053 | 15.6795 | $930.47 | $253.49 | $186.09
26477 | T |  | Tendon shortening | 0053 | 15.6795 | $930.47 | $253.49 | $186.09
26478 | T |  | Lengthening of hand tendon | 0053 | 15.6795 | $930.47 | $253.49 | $186.09
26479 | T |  | Shortening of hand tendon | 0053 | 15.6795 | $930.47 | $253.49 | $186.09
26480 | T |  | Transplant hand tendon | 0054 | 25.3711 | $1,505.60 |  | $301.12
26483 | T |  | Transplant/graft hand tendon | 0054 | 25.3711 | $1,505.60 |  | $301.12
26485 | T |  | Transplant palm tendon | 0054 | 25.3711 | $1,505.60 |  | $301.12
26489 | T |  | Transplant/graft palm tendon | 0054 | 25.3711 | $1,505.60 |  | $301.12
26490 | T |  | Revise thumb tendon | 0054 | 25.3711 | $1,505.60 |  | $301.12
26492 | T |  | Tendon transfer with graft | 0054 | 25.3711 | $1,505.60 |  | $301.12
26494 | T |  | Hand tendon/muscle transfer | 0054 | 25.3711 | $1,505.60 |  | $301.12
26496 | T |  | Revise thumb tendon | 0054 | 25.3711 | $1,505.60 |  | $301.12
26497 | T |  | Finger tendon transfer | 0054 | 25.3711 | $1,505.60 |  | $301.12
26498 | T |  | Finger tendon transfer | 0054 | 25.3711 | $1,505.60 |  | $301.12
26499 | T |  | Revision of finger | 0054 | 25.3711 | $1,505.60 |  | $301.12
26500 | T |  | Hand tendon reconstruction | 0053 | 15.6795 | $930.47 | $253.49 | $186.09
26502 | T |  | Hand tendon reconstruction | 0054 | 25.3711 | $1,505.60 |  | $301.12
26504 | T |  | Hand tendon reconstruction | 0054 | 25.3711 | $1,505.60 |  | $301.12
26508 | T |  | Release thumb contracture | 0053 | 15.6795 | $930.47 | $253.49 | $186.09
26510 | T |  | Thumb tendon transfer | 0054 | 25.3711 | $1,505.60 |  | $301.12
26516 | T |  | Fusion of knuckle joint | 0054 | 25.3711 | $1,505.60 |  | $301.12
26517 | T |  | Fusion of knuckle joints | 0054 | 25.3711 | $1,505.60 |  | $301.12
26518 | T |  | Fusion of knuckle joints | 0054 | 25.3711 | $1,505.60 |  | $301.12
26520 | T |  | Release knuckle contracture | 0053 | 15.6795 | $930.47 | $253.49 | $186.09
26525 | T |  | Release finger contracture | 0053 | 15.6795 | $930.47 | $253.49 | $186.09
26530 | T |  | Revise knuckle joint | 0047 | 31.6107 | $1,875.87 | $537.03 | $375.17
26531 | T |  | Revise knuckle with implant | 0048 | 43.1288 | $2,559.39 | $570.30 | $511.88
26535 | T |  | Revise finger joint | 0047 | 31.6107 | $1,875.87 | $537.03 | $375.17
26536 | T |  | Revise/implant finger joint | 0048 | 43.1288 | $2,559.39 | $570.30 | $511.88
26540 | T |  | Repair hand joint | 0053 | 15.6795 | $930.47 | $253.49 | $186.09
26541 | T |  | Repair hand joint with graft | 0054 | 25.3711 | $1,505.60 |  | $301.12
26542 | T |  | Repair hand joint with graft | 0053 | 15.6795 | $930.47 | $253.49 | $186.09
26545 | T |  | Reconstruct finger joint | 0054 | 25.3711 | $1,505.60 |  | $301.12
26546 | T |  | Repair nonunion hand | 0054 | 25.3711 | $1,505.60 |  | $301.12
26548 | T |  | Reconstruct finger joint | 0054 | 25.3711 | $1,505.60 |  | $301.12
26550 | T |  | Construct thumb replacement | 0054 | 25.3711 | $1,505.60 |  | $301.12
26551 | C |  | Great toe-hand transfer |  |  |  |  |
26553 | C |  | Single transfer, toe-hand |  |  |  |  |
26554 | C |  | Double transfer, toe-hand |  |  |  |  |
26555 | T |  | Positional change of finger | 0054 | 25.3711 | $1,505.60 |  | $301.12
26556 | C |  | Toe joint transfer |  |  |  |  |
26560 | T |  | Repair of web finger | 0053 | 15.6795 | $930.47 | $253.49 | $186.09
26561 | T |  | Repair of web finger | 0054 | 25.3711 | $1,505.60 |  | $301.12
26562 | T |  | Repair of web finger | 0054 | 25.3711 | $1,505.60 |  | $301.12
26565 | T |  | Correct metacarpal flaw | 0054 | 25.3711 | $1,505.60 |  | $301.12
26567 | T |  | Correct finger deformity | 0054 | 25.3711 | $1,505.60 |  | $301.12
26568 | T |  | Lengthen metacarpal/finger | 0054 | 25.3711 | $1,505.60 |  | $301.12
26580 | T |  | Repair hand deformity | 0053 | 15.6795 | $930.47 | $253.49 | $186.09
26587 | T |  | Reconstruct extra finger | 0053 | 15.6795 | $930.47 | $253.49 | $186.09
26590 | T |  | Repair finger deformity | 0053 | 15.6795 | $930.47 | $253.49 | $186.09
26591 | T |  | Repair muscles of hand | 0054 | 25.3711 | $1,505.60 |  | $301.12
26593 | T |  | Release muscles of hand | 0053 | 15.6795 | $930.47 | $253.49 | $186.09
26596 | T |  | Excision constricting tissue | 0053 | 15.6795 | $930.47 | $253.49 | $186.09
26600 | T |  | Treat metacarpal fracture | 0043 | 1.7694 | $105.00 |  | $21.00
26605 | T |  | Treat metacarpal fracture | 0043 | 1.7694 | $105.00 |  | $21.00
26607 | T |  | Treat metacarpal fracture | 0043 | 1.7694 | $105.00 |  | $21.00
26608 | T |  | Treat metacarpal fracture | 0046 | 37.7023 | $2,237.37 | $535.76 | $447.47
26615 | T |  | Treat metacarpal fracture | 0046 | 37.7023 | $2,237.37 | $535.76 | $447.47
26641 | T |  | Treat thumb dislocation | 0043 | 1.7694 | $105.00 |  | $21.00
26645 | T |  | Treat thumb fracture | 0043 | 1.7694 | $105.00 |  | $21.00
26650 | T |  | Treat thumb fracture | 0046 | 37.7023 | $2,237.37 | $535.76 | $447.47
26665 | T |  | Treat thumb fracture | 0046 | 37.7023 | $2,237.37 | $535.76 | $447.47
26670 | T |  | Treat hand dislocation | 0043 | 1.7694 | $105.00 |  | $21.00
26675 | T |  | Treat hand dislocation | 0043 | 1.7694 | $105.00 |  | $21.00
26676 | T |  | Pin hand dislocation | 0046 | 37.7023 | $2,237.37 | $535.76 | $447.47
26685 | T |  | Treat hand dislocation | 0046 | 37.7023 | $2,237.37 | $535.76 | $447.47
26686 | T |  | Treat hand dislocation | 0046 | 37.7023 | $2,237.37 | $535.76 | $447.47
26700 | T |  | Treat knuckle dislocation | 0043 | 1.7694 | $105.00 |  | $21.00
26705 | T |  | Treat knuckle dislocation | 0043 | 1.7694 | $105.00 |  | $21.00
26706 | T |  | Pin knuckle dislocation | 0043 | 1.7694 | $105.00 |  | $21.00
26715 | T |  | Treat knuckle dislocation | 0046 | 37.7023 | $2,237.37 | $535.76 | $447.47
26720 | T |  | Treat finger fracture, each | 0043 | 1.7694 | $105.00 |  | $21.00
26725 | T |  | Treat finger fracture, each | 0043 | 1.7694 | $105.00 |  | $21.00
26727 | T |  | Treat finger fracture, each | 0046 | 37.7023 | $2,237.37 | $535.76 | $447.47
26735 | T |  | Treat finger fracture, each | 0046 | 37.7023 | $2,237.37 | $535.76 | $447.47
26740 | T |  | Treat finger fracture, each | 0043 | 1.7694 | $105.00 |  | $21.00
26742 | T |  | Treat finger fracture, each | 0043 | 1.7694 | $105.00 |  | $21.00
26746 | T |  | Treat finger fracture, each | 0046 | 37.7023 | $2,237.37 | $535.76 | $447.47
26750 | T |  | Treat finger fracture, each | 0043 | 1.7694 | $105.00 |  | $21.00
26755 | T |  | Treat finger fracture, each | 0043 | 1.7694 | $105.00 |  | $21.00
26756 | T |  | Pin finger fracture, each | 0046 | 37.7023 | $2,237.37 | $535.76 | $447.47
26765 | T |  | Treat finger fracture, each | 0046 | 37.7023 | $2,237.37 | $535.76 | $447.47
26770 | T |  | Treat finger dislocation | 0043 | 1.7694 | $105.00 |  | $21.00
26775 | T |  | Treat finger dislocation | 0045 | 14.4945 | $860.15 | $268.47 | $172.03
26776 | T |  | Pin finger dislocation | 0046 | 37.7023 | $2,237.37 | $535.76 | $447.47
26785 | T |  | Treat finger dislocation | 0046 | 37.7023 | $2,237.37 | $535.76 | $447.47
26820 | T |  | Thumb fusion with graft | 0054 | 25.3711 | $1,505.60 |  | $301.12
26841 | T |  | Fusion of thumb | 0054 | 25.3711 | $1,505.60 |  | $301.12
26842 | T |  | Thumb fusion with graft | 0054 | 25.3711 | $1,505.60 |  | $301.12
26843 | T |  | Fusion of hand joint | 0054 | 25.3711 | $1,505.60 |  | $301.12
26844 | T |  | Fusion/graft of hand joint | 0054 | 25.3711 | $1,505.60 |  | $301.12
26850 | T |  | Fusion of knuckle | 0054 | 25.3711 | $1,505.60 |  | $301.12
26852 | T |  | Fusion of knuckle with graft | 0054 | 25.3711 | $1,505.60 |  | $301.12
26860 | T |  | Fusion of finger joint | 0054 | 25.3711 | $1,505.60 |  | $301.12
26861 | T |  | Fusion of finger jnt, add-on | 0054 | 25.3711 | $1,505.60 |  | $301.12
26862 | T |  | Fusion/graft of finger joint | 0054 | 25.3711 | $1,505.60 |  | $301.12
26863 | T |  | Fuse/graft added joint | 0054 | 25.3711 | $1,505.60 |  | $301.12
26910 | T |  | Amputate metacarpal bone | 0054 | 25.3711 | $1,505.60 |  | $301.12
26951 | T |  | Amputation of finger/thumb | 0053 | 15.6795 | $930.47 | $253.49 | $186.09
26952 | T |  | Amputation of finger/thumb | 0053 | 15.6795 | $930.47 | $253.49 | $186.09
26989 | T |  | Hand/finger surgery | 0043 | 1.7694 | $105.00 |  | $21.00
26990 | T |  | Drainage of pelvis lesion | 0049 | 20.3707 | $1,208.86 |  | $241.77
26991 | T |  | Drainage of pelvis bursa | 0049 | 20.3707 | $1,208.86 |  | $241.77
26992 | C |  | Drainage of bone lesion |  |  |  |  |
27000 | T |  | Incision of hip tendon | 0049 | 20.3707 | $1,208.86 |  | $241.77
27001 | T |  | Incision of hip tendon | 0050 | 23.9081 | $1,418.78 |  | $283.76
27003 | T |  | Incision of hip tendon | 0050 | 23.9081 | $1,418.78 |  | $283.76
27005 | C |  | Incision of hip tendon |  |  |  |  |
27006 | C |  | Incision of hip tendons |  |  |  |  |
27025 | C |  | Incision of hip/thigh fascia |  |  |  |  |
27030 | C |  | Drainage of hip joint |  |  |  |  |
27033 | T |  | Exploration of hip joint | 0051 | 36.5271 | $2,167.63 |  | $433.53
27035 | T |  | Denervation of hip joint | 0052 | 43.9378 | $2,607.40 |  | $521.48
27036 | C |  | Excision of hip joint/muscle |  |  |  |  |
27040 | T |  | Biopsy of soft tissues | 0020 | 6.9433 | $412.04 | $107.40 | $82.41
27041 | T |  | Biopsy of soft tissues | 0020 | 6.9433 | $412.04 | $107.40 | $82.41
27047 | T |  | Remove hip/pelvis lesion | 0022 | 19.6472 | $1,165.92 | $354.45 | $233.18
27048 | T |  | Remove hip/pelvis lesion | 0022 | 19.6472 | $1,165.92 | $354.45 | $233.18
27049 | T |  | Remove tumor, hip/pelvis | 0022 | 19.6472 | $1,165.92 | $354.45 | $233.18
27050 | T |  | Biopsy of sacroiliac joint | 0049 | 20.3707 | $1,208.86 |  | $241.77
27052 | T |  | Biopsy of hip joint | 0049 | 20.3707 | $1,208.86 |  | $241.77
27054 | C |  | Removal of hip joint lining |  |  |  |  |
27060 | T |  | Removal of ischial bursa | 0049 | 20.3707 | $1,208.86 |  | $241.77
27062 | T |  | Remove femur lesion/bursa | 0049 | 20.3707 | $1,208.86 |  | $241.77
27065 | T |  | Removal of hip bone lesion | 0049 | 20.3707 | $1,208.86 |  | $241.77
27066 | T |  | Removal of hip bone lesion | 0050 | 23.9081 | $1,418.78 |  | $283.76
27067 | T |  | Remove/graft hip bone lesion | 0050 | 23.9081 | $1,418.78 |  | $283.76
27070 | C |  | Partial removal of hip bone |  |  |  |  |
27071 | C |  | Partial removal of hip bone |  |  |  |  |
27075 | C |  | Extensive hip surgery |  |  |  |  |
27076 | C |  | Extensive hip surgery |  |  |  |  |
27077 | C |  | Extensive hip surgery |  |  |  |  |
27078 | C |  | Extensive hip surgery |  |  |  |  |
27079 | C |  | Extensive hip surgery |  |  |  |  |
27080 | T |  | Removal of tail bone | 0050 | 23.9081 | $1,418.78 |  | $283.76
27086 | T |  | Remove hip foreign body | 0020 | 6.9433 | $412.04 | $107.40 | $82.41
27087 | T |  | Remove hip foreign body | 0049 | 20.3707 | $1,208.86 |  | $241.77
27090 | C |  | Removal of hip prosthesis |  |  |  |  |
27091 | C |  | Removal of hip prosthesis |  |  |  |  |
27093 | N |  | Injection for hip x-ray |  |  |  |  |
27095 | N |  | Injection for hip x-ray |  |  |  |  |
27096 | B |  | Inject sacroiliac joint |  |  |  |  |
27097 | T |  | Revision of hip tendon | 0050 | 23.9081 | $1,418.78 |  | $283.76
27098 | T |  | Transfer tendon to pelvis | 0050 | 23.9081 | $1,418.78 |  | $283.76
27100 | T |  | Transfer of abdominal muscle | 0051 | 36.5271 | $2,167.63 |  | $433.53
27105 | T |  | Transfer of spinal muscle | 0051 | 36.5271 | $2,167.63 |  | $433.53
27110 | T |  | Transfer of iliopsoas muscle | 0051 | 36.5271 | $2,167.63 |  | $433.53
27111 | T |  | Transfer of iliopsoas muscle | 0051 | 36.5271 | $2,167.63 |  | $433.53
27120 | C |  | Reconstruction of hip socket |  |  |  |  |
27122 | C |  | Reconstruction of hip socket |  |  |  |  |
27125 | C |  | Partial hip replacement |  |  |  |  |
27130 | C |  | Total hip arthroplasty |  |  |  |  |
27132 | C |  | Total hip arthroplasty |  |  |  |  |
27134 | C |  | Revise hip joint replacement |  |  |  |  |
27137 | C |  | Revise hip joint replacement |  |  |  |  |
27138 | C |  | Revise hip joint replacement |  |  |  |  |
27140 | C |  | Transplant femur ridge |  |  |  |  |
27146 | C |  | Incision of hip bone |  |  |  |  |
27147 | C |  | Revision of hip bone |  |  |  |  |
27151 | C |  | Incision of hip bones |  |  |  |  |
27156 | C |  | Revision of hip bones |  |  |  |  |
27158 | C |  | Revision of pelvis |  |  |  |  |
27161 | C |  | Incision of neck of femur |  |  |  |  |
27165 | C |  | Incision/fixation of femur |  |  |  |  |
27170 | C |  | Repair/graft femur head/neck |  |  |  |  |
27175 | C |  | Treat slipped epiphysis |  |  |  |  |
27176 | C |  | Treat slipped epiphysis |  |  |  |  |
27177 | C |  | Treat slipped epiphysis |  |  |  |  |
27178 | C |  | Treat slipped epiphysis |  |  |  |  |
27179 | C |  | Revise head/neck of femur |  |  |  |  |
27181 | C |  | Treat slipped epiphysis |  |  |  |  |
27185 | C |  | Revision of femur epiphysis |  |  |  |  |
27187 | C |  | Reinforce hip bones |  |  |  |  |
27193 | T |  | Treat pelvic ring fracture | 0043 | 1.7694 | $105.00 |  | $21.00
27194 | T |  | Treat pelvic ring fracture | 0045 | 14.4945 | $860.15 | $268.47 | $172.03
27200 | T |  | Treat tail bone fracture | 0043 | 1.7694 | $105.00 |  | $21.00
27202 | T |  | Treat tail bone fracture | 0046 | 37.7023 | $2,237.37 | $535.76 | $447.47
27215 | C |  | Treat pelvic fracture(s) |  |  |  |  |
27216 | T |  | Treat pelvic ring fracture | 0050 | 23.9081 | $1,418.78 |  | $283.76
27217 | C |  | Treat pelvic ring fracture |  |  |  |  |
27218 | C |  | Treat pelvic ring fracture |  |  |  |  |
27220 | T |  | Treat hip socket fracture | 0043 | 1.7694 | $105.00 |  | $21.00
27222 | C |  | Treat hip socket fracture |  |  |  |  |
27226 | C |  | Treat hip wall fracture |  |  |  |  |
27227 | C |  | Treat hip fracture(s) |  |  |  |  |
27228 | C |  | Treat hip fracture(s) |  |  |  |  |
27230 | T |  | Treat thigh fracture | 0043 | 1.7694 | $105.00 |  | $21.00
27232 | C |  | Treat thigh fracture |  |  |  |  |
27235 | T |  | Treat thigh fracture | 0050 | 23.9081 | $1,418.78 |  | $283.76
27236 | C |  | Treat thigh fracture |  |  |  |  |
27238 | T |  | Treat thigh fracture | 0043 | 1.7694 | $105.00 |  | $21.00
27240 | C |  | Treat thigh fracture |  |  |  |  |
27244 | C |  | Treat thigh fracture |  |  |  |  |
27245 | C |  | Treat thigh fracture |  |  |  |  |
27246 | T |  | Treat thigh fracture | 0043 | 1.7694 | $105.00 |  | $21.00
27248 | C |  | Treat thigh fracture |  |  |  |  |
27250 | T |  | Treat hip dislocation | 0043 | 1.7694 | $105.00 |  | $21.00
27252 | T |  | Treat hip dislocation | 0045 | 14.4945 | $860.15 | $268.47 | $172.03
27253 | C |  | Treat hip dislocation |  |  |  |  |
27254 | C |  | Treat hip dislocation |  |  |  |  |
27256 | T |  | Treat hip dislocation | 0043 | 1.7694 | $105.00 |  | $21.00
27257 | T |  | Treat hip dislocation | 0045 | 14.4945 | $860.15 | $268.47 | $172.03
27258 | C |  | Treat hip dislocation |  |  |  |  |
27259 | C |  | Treat hip dislocation |  |  |  |  |
27265 | T |  | Treat hip dislocation | 0043 | 1.7694 | $105.00 |  | $21.00
27266 | T |  | Treat hip dislocation | 0045 | 14.4945 | $860.15 | $268.47 | $172.03
27275 | T |  | Manipulation of hip joint | 0045 | 14.4945 | $860.15 | $268.47 | $172.03
27280 | C |  | Fusion of sacroiliac joint |  |  |  |  |
27282 | C |  | Fusion of pubic bones |  |  |  |  |
27284 | C |  | Fusion of hip joint |  |  |  |  |
27286 | C |  | Fusion of hip joint |  |  |  |  |
27290 | C |  | Amputation of leg at hip |  |  |  |  |
27295 | C |  | Amputation of leg at hip |  |  |  |  |
27299 | T |  | Pelvis/hip joint surgery | 0043 | 1.7694 | $105.00 |  | $21.00
27301 | T |  | Drain thigh/knee lesion | 0008 | 16.4989 | $979.09 |  | $195.82
27303 | C |  | Drainage of bone lesion |  |  |  |  |
27305 | T |  | Incise thigh tendon & fascia | 0049 | 20.3707 | $1,208.86 |  | $241.77
27306 | T |  | Incision of thigh tendon | 0049 | 20.3707 | $1,208.86 |  | $241.77
27307 | T |  | Incision of thigh tendons | 0049 | 20.3707 | $1,208.86 |  | $241.77
27310 | T |  | Exploration of knee joint | 0050 | 23.9081 | $1,418.78 |  | $283.76
27315 | T |  | Partial removal, thigh nerve | 0220 | 17.3586 | $1,030.11 |  | $206.02
27320 | T |  | Partial removal, thigh nerve | 0220 | 17.3586 | $1,030.11 |  | $206.02
27323 | T |  | Biopsy, thigh soft tissues | 0021 | 14.9776 | $888.82 | $219.48 | $177.76
27324 | T |  | Biopsy, thigh soft tissues | 0022 | 19.6472 | $1,165.92 | $354.45 | $233.18
27327 | T |  | Removal of thigh lesion | 0022 | 19.6472 | $1,165.92 | $354.45 | $233.18
27328 | T |  | Removal of thigh lesion | 0022 | 19.6472 | $1,165.92 | $354.45 | $233.18
27329 | T |  | Remove tumor, thigh/knee | 0022 | 19.6472 | $1,165.92 | $354.45 | $233.18
27330 | T |  | Biopsy, knee joint lining | 0050 | 23.9081 | $1,418.78 |  | $283.76
27331 | T |  | Explore/treat knee joint | 0050 | 23.9081 | $1,418.78 |  | $283.76
27332 | T |  | Removal of knee cartilage | 0050 | 23.9081 | $1,418.78 |  | $283.76
27333 | T |  | Removal of knee cartilage | 0050 | 23.9081 | $1,418.78 |  | $283.76
27334 | T |  | Remove knee joint lining | 0050 | 23.9081 | $1,418.78 |  | $283.76
27335 | T |  | Remove knee joint lining | 0050 | 23.9081 | $1,418.78 |  | $283.76
27340 | T |  | Removal of kneecap bursa | 0049 | 20.3707 | $1,208.86 |  | $241.77
27345 | T |  | Removal of knee cyst | 0049 | 20.3707 | $1,208.86 |  | $241.77
27347 | T |  | Remove knee cyst | 0049 | 20.3707 | $1,208.86 |  | $241.77
27350 | T |  | Removal of kneecap | 0050 | 23.9081 | $1,418.78 |  | $283.76
27355 | T |  | Remove femur lesion | 0050 | 23.9081 | $1,418.78 |  | $283.76
27356 | T |  | Remove femur lesion/graft | 0050 | 23.9081 | $1,418.78 |  | $283.76
27357 | T |  | Remove femur lesion/graft | 0050 | 23.9081 | $1,418.78 |  | $283.76
27358 | T |  | Remove femur lesion/fixation | 0050 | 23.9081 | $1,418.78 |  | $283.76
27360 | T |  | Partial removal, leg bone(s) | 0050 | 23.9081 | $1,418.78 |  | $283.76
27365 | C |  | Extensive leg surgery |  |  |  |  |
27370 | N |  | Injection for knee x-ray |  |  |  |  |
27372 | T |  | Removal of foreign body | 0022 | 19.6472 | $1,165.92 | $354.45 | $233.18
27380 | T |  | Repair of kneecap tendon | 0049 | 20.3707 | $1,208.86 |  | $241.77
27381 | T |  | Repair/graft kneecap tendon | 0049 | 20.3707 | $1,208.86 |  | $241.77
27385 | T |  | Repair of thigh muscle | 0049 | 20.3707 | $1,208.86 |  | $241.77
27386 | T |  | Repair/graft of thigh muscle | 0049 | 20.3707 | $1,208.86 |  | $241.77
27390 | T |  | Incision of thigh tendon | 0049 | 20.3707 | $1,208.86 |  | $241.77
27391 | T |  | Incision of thigh tendons | 0049 | 20.3707 | $1,208.86 |  | $241.77
27392 | T |  | Incision of thigh tendons | 0049 | 20.3707 | $1,208.86 |  | $241.77
27393 | T |  | Lengthening of thigh tendon | 0050 | 23.9081 | $1,418.78 |  | $283.76
27394 | T |  | Lengthening of thigh tendons | 0050 | 23.9081 | $1,418.78 |  | $283.76
27395 | T |  | Lengthening of thigh tendons | 0051 | 36.5271 | $2,167.63 |  | $433.53
27396 | T |  | Transplant of thigh tendon | 0050 | 23.9081 | $1,418.78 |  | $283.76
27397 | T |  | Transplants of thigh tendons | 0051 | 36.5271 | $2,167.63 |  | $433.53
27400 | T |  | Revise thigh muscles/tendons | 0051 | 36.5271 | $2,167.63 |  | $433.53
27403 | T |  | Repair of knee cartilage | 0050 | 23.9081 | $1,418.78 |  | $283.76
27405 | T |  | Repair of knee ligament | 0051 | 36.5271 | $2,167.63 |  | $433.53
27407 | T |  | Repair of knee ligament | 0051 | 36.5271 | $2,167.63 |  | $433.53
27409 | T |  | Repair of knee ligaments | 0051 | 36.5271 | $2,167.63 |  | $433.53
27412 | T |  | Autochondrocyte implant knee | 0042 | 43.9753 | $2,609.63 | $804.74 | $521.93
27415 | T |  | Osteochondral knee allograft | 0042 | 43.9753 | $2,609.63 | $804.74 | $521.93
27418 | T |  | Repair degenerated kneecap | 0051 | 36.5271 | $2,167.63 |  | $433.53
27420 | T |  | Revision of unstable kneecap | 0051 | 36.5271 | $2,167.63 |  | $433.53
27422 | T |  | Revision of unstable kneecap | 0051 | 36.5271 | $2,167.63 |  | $433.53
27424 | T |  | Revision/removal of kneecap | 0051 | 36.5271 | $2,167.63 |  | $433.53
27425 | T |  | Lateral retinacular release | 0050 | 23.9081 | $1,418.78 |  | $283.76
27427 | T |  | Reconstruction, knee | 0052 | 43.9378 | $2,607.40 |  | $521.48
27428 | T |  | Reconstruction, knee | 0052 | 43.9378 | $2,607.40 |  | $521.48
27429 | T |  | Reconstruction, knee | 0052 | 43.9378 | $2,607.40 |  | $521.48
27430 | T |  | Revision of thigh muscles | 0051 | 36.5271 | $2,167.63 |  | $433.53
27435 | T |  | Incision of knee joint | 0051 | 36.5271 | $2,167.63 |  | $433.53
27437 | T |  | Revise kneecap | 0047 | 31.6107 | $1,875.87 | $537.03 | $375.17
27438 | T |  | Revise kneecap with implant | 0048 | 43.1288 | $2,559.39 | $570.30 | $511.88
27440 | T |  | Revision of knee joint | 0047 | 31.6107 | $1,875.87 | $537.03 | $375.17
27441 | T |  | Revision of knee joint | 0047 | 31.6107 | $1,875.87 | $537.03 | $375.17
27442 | T |  | Revision of knee joint | 0047 | 31.6107 | $1,875.87 | $537.03 | $375.17
27443 | T |  | Revision of knee joint | 0047 | 31.6107 | $1,875.87 | $537.03 | $375.17
27445 | C |  | Revision of knee joint |  |  |  |  |
27446 | T |  | Revision of knee joint | 0681 | 137.163 | $8,139.66 | $2,081.48 | $1,627.93
27447 | C |  | Total knee arthroplasty |  |  |  |  |
27448 | C |  | Incision of thigh |  |  |  |  |
27450 | C |  | Incision of thigh |  |  |  |  |
27454 | C |  | Realignment of thigh bone |  |  |  |  |
27455 | C |  | Realignment of knee |  |  |  |  |
27457 | C |  | Realignment of knee |  |  |  |  |
27465 | C |  | Shortening of thigh bone |  |  |  |  |
27466 | C |  | Lengthening of thigh bone |  |  |  |  |
27468 | C |  | Shorten/lengthen thighs |  |  |  |  |
27470 | C |  | Repair of thigh |  |  |  |  |
27472 | C |  | Repair/graft of thigh |  |  |  |  |
27475 | T |  | Surgery to stop leg growth | 0050 | 23.9081 | $1,418.78 |  | $283.76
27477 | C |  | Surgery to stop leg growth |  |  |  |  |
27479 | C |  | Surgery to stop leg growth |  |  |  |  |
27485 | C |  | Surgery to stop leg growth |  |  |  |  |
27486 | C |  | Revise/replace knee joint |  |  |  |  |
27487 | C |  | Revise/replace knee joint |  |  |  |  |
27488 | C |  | Removal of knee prosthesis |  |  |  |  |
27495 | C |  | Reinforce thigh |  |  |  |  |
27496 | T |  | Decompression of thigh/knee | 0049 | 20.3707 | $1,208.86 |  | $241.77
27497 | T |  | Decompression of thigh/knee | 0049 | 20.3707 | $1,208.86 |  | $241.77
27498 | T |  | Decompression of thigh/knee | 0049 | 20.3707 | $1,208.86 |  | $241.77
27499 | T |  | Decompression of thigh/knee | 0049 | 20.3707 | $1,208.86 |  | $241.77
27500 | T |  | Treatment of thigh fracture | 0043 | 1.7694 | $105.00 |  | $21.00
27501 | T |  | Treatment of thigh fracture | 0043 | 1.7694 | $105.00 |  | $21.00
27502 | T |  | Treatment of thigh fracture | 0043 | 1.7694 | $105.00 |  | $21.00
27503 | T |  | Treatment of thigh fracture | 0043 | 1.7694 | $105.00 |  | $21.00
27506 | C |  | Treatment of thigh fracture |  |  |  |  |
27507 | C |  | Treatment of thigh fracture |  |  |  |  |
27508 | T |  | Treatment of thigh fracture | 0043 | 1.7694 | $105.00 |  | $21.00
27509 | T |  | Treatment of thigh fracture | 0046 | 37.7023 | $2,237.37 | $535.76 | $447.47
27510 | T |  | Treatment of thigh fracture | 0043 | 1.7694 | $105.00 |  | $21.00
27511 | C |  | Treatment of thigh fracture |  |  |  |  |
27513 | C |  | Treatment of thigh fracture |  |  |  |  |
27514 | C |  | Treatment of thigh fracture |  |  |  |  |
27516 | T |  | Treat thigh fx growth plate | 0043 | 1.7694 | $105.00 |  | $21.00
27517 | T |  | Treat thigh fx growth plate | 0043 | 1.7694 | $105.00 |  | $21.00
27519 | C |  | Treat thigh fx growth plate |  |  |  |  |
27520 | T |  | Treat kneecap fracture | 0043 | 1.7694 | $105.00 |  | $21.00
27524 | T |  | Treat kneecap fracture | 0046 | 37.7023 | $2,237.37 | $535.76 | $447.47
27530 | T |  | Treat knee fracture | 0043 | 1.7694 | $105.00 |  | $21.00
27532 | T |  | Treat knee fracture | 0043 | 1.7694 | $105.00 |  | $21.00
27535 | C |  | Treat knee fracture |  |  |  |  |
27536 | C |  | Treat knee fracture |  |  |  |  |
27538 | T |  | Treat knee fracture(s) | 0043 | 1.7694 | $105.00 |  | $21.00
27540 | C |  | Treat knee fracture |  |  |  |  |
27550 | T |  | Treat knee dislocation | 0043 | 1.7694 | $105.00 |  | $21.00
27552 | T |  | Treat knee dislocation | 0045 | 14.4945 | $860.15 | $268.47 | $172.03
27556 | C |  | Treat knee dislocation |  |  |  |  |
27557 | C |  | Treat knee dislocation |  |  |  |  |
27558 | C |  | Treat knee dislocation |  |  |  |  |
27560 | T |  | Treat kneecap dislocation | 0043 | 1.7694 | $105.00 |  | $21.00
27562 | T |  | Treat kneecap dislocation | 0045 | 14.4945 | $860.15 | $268.47 | $172.03
27566 | T |  | Treat kneecap dislocation | 0046 | 37.7023 | $2,237.37 | $535.76 | $447.47
27570 | T |  | Fixation of knee joint | 0045 | 14.4945 | $860.15 | $268.47 | $172.03
27580 | C |  | Fusion of knee |  |  |  |  |
27590 | C |  | Amputate leg at thigh |  |  |  |  |
27591 | C |  | Amputate leg at thigh |  |  |  |  |
27592 | C |  | Amputate leg at thigh |  |  |  |  |
27594 | T |  | Amputation follow-up surgery | 0049 | 20.3707 | $1,208.86 |  | $241.77
27596 | C |  | Amputation follow-up surgery |  |  |  |  |
27598 | C |  | Amputate lower leg at knee |  |  |  |  |
27599 | T |  | Leg surgery procedure | 0043 | 1.7694 | $105.00 |  | $21.00
27600 | T |  | Decompression of lower leg | 0049 | 20.3707 | $1,208.86 |  | $241.77
27601 | T |  | Decompression of lower leg | 0049 | 20.3707 | $1,208.86 |  | $241.77
27602 | T |  | Decompression of lower leg | 0049 | 20.3707 | $1,208.86 |  | $241.77
27603 | T |  | Drain lower leg lesion | 0008 | 16.4989 | $979.09 |  | $195.82
27604 | T |  | Drain lower leg bursa | 0049 | 20.3707 | $1,208.86 |  | $241.77
27605 | T |  | Incision of achilles tendon | 0055 | 20.0692 | $1,190.97 | $355.34 | $238.19
27606 | T |  | Incision of achilles tendon | 0049 | 20.3707 | $1,208.86 |  | $241.77
27607 | T |  | Treat lower leg bone lesion | 0049 | 20.3707 | $1,208.86 |  | $241.77
27610 | T |  | Explore/treat ankle joint | 0050 | 23.9081 | $1,418.78 |  | $283.76
27612 | T |  | Exploration of ankle joint | 0050 | 23.9081 | $1,418.78 |  | $283.76
27613 | T |  | Biopsy lower leg soft tissue | 0020 | 6.9433 | $412.04 | $107.40 | $82.41
27614 | T |  | Biopsy lower leg soft tissue | 0022 | 19.6472 | $1,165.92 | $354.45 | $233.18
27615 | T |  | Remove tumor, lower leg | 0046 | 37.7023 | $2,237.37 | $535.76 | $447.47
27618 | T |  | Remove lower leg lesion | 0021 | 14.9776 | $888.82 | $219.48 | $177.76
27619 | T |  | Remove lower leg lesion | 0022 | 19.6472 | $1,165.92 | $354.45 | $233.18
27620 | T |  | Explore/treat ankle joint | 0050 | 23.9081 | $1,418.78 |  | $283.76
27625 | T |  | Remove ankle joint lining | 0050 | 23.9081 | $1,418.78 |  | $283.76
27626 | T |  | Remove ankle joint lining | 0050 | 23.9081 | $1,418.78 |  | $283.76
27630 | T |  | Removal of tendon lesion | 0049 | 20.3707 | $1,208.86 |  | $241.77
27635 | T |  | Remove lower leg bone lesion | 0050 | 23.9081 | $1,418.78 |  | $283.76
27637 | T |  | Remove/graft leg bone lesion | 0050 | 23.9081 | $1,418.78 |  | $283.76
27638 | T |  | Remove/graft leg bone lesion | 0050 | 23.9081 | $1,418.78 |  | $283.76
27640 | T |  | Partial removal of tibia | 0051 | 36.5271 | $2,167.63 |  | $433.53
27641 | T |  | Partial removal of fibula | 0050 | 23.9081 | $1,418.78 |  | $283.76
27645 | C |  | Extensive lower leg surgery |  |  |  |  |
27646 | C |  | Extensive lower leg surgery |  |  |  |  |
27647 | T |  | Extensive ankle/heel surgery | 0051 | 36.5271 | $2,167.63 |  | $433.53
27648 | N |  | Injection for ankle x-ray |  |  |  |  |
27650 | T |  | Repair achilles tendon | 0051 | 36.5271 | $2,167.63 |  | $433.53
27652 | T |  | Repair/graft achilles tendon | 0051 | 36.5271 | $2,167.63 |  | $433.53
27654 | T |  | Repair of achilles tendon | 0051 | 36.5271 | $2,167.63 |  | $433.53
27656 | T |  | Repair leg fascia defect | 0049 | 20.3707 | $1,208.86 |  | $241.77
27658 | T |  | Repair of leg tendon, each | 0049 | 20.3707 | $1,208.86 |  | $241.77
27659 | T |  | Repair of leg tendon, each | 0049 | 20.3707 | $1,208.86 |  | $241.77
27664 | T |  | Repair of leg tendon, each | 0049 | 20.3707 | $1,208.86 |  | $241.77
27665 | T |  | Repair of leg tendon, each | 0050 | 23.9081 | $1,418.78 |  | $283.76
27675 | T |  | Repair lower leg tendons | 0049 | 20.3707 | $1,208.86 |  | $241.77
27676 | T |  | Repair lower leg tendons | 0050 | 23.9081 | $1,418.78 |  | $283.76
27680 | T |  | Release of lower leg tendon | 0050 | 23.9081 | $1,418.78 |  | $283.76
27681 | T |  | Release of lower leg tendons | 0050 | 23.9081 | $1,418.78 |  | $283.76
27685 | T |  | Revision of lower leg tendon | 0050 | 23.9081 | $1,418.78 |  | $283.76
27686 | T |  | Revise lower leg tendons | 0050 | 23.9081 | $1,418.78 |  | $283.76
27687 | T |  | Revision of calf tendon | 0050 | 23.9081 | $1,418.78 |  | $283.76
27690 | T |  | Revise lower leg tendon | 0051 | 36.5271 | $2,167.63 |  | $433.53
27691 | T |  | Revise lower leg tendon | 0051 | 36.5271 | $2,167.63 |  | $433.53
27692 | T |  | Revise additional leg tendon | 0051 | 36.5271 | $2,167.63 |  | $433.53
27695 | T |  | Repair of ankle ligament | 0050 | 23.9081 | $1,418.78 |  | $283.76
27696 | T |  | Repair of ankle ligaments | 0050 | 23.9081 | $1,418.78 |  | $283.76
27698 | T |  | Repair of ankle ligament | 0050 | 23.9081 | $1,418.78 |  | $283.76
27700 | T |  | Revision of ankle joint | 0047 | 31.6107 | $1,875.87 | $537.03 | $375.17
27702 | C |  | Reconstruct ankle joint |  |  |  |  |
27703 | C |  | Reconstruction, ankle joint |  |  |  |  |
27704 | T |  | Removal of ankle implant | 0049 | 20.3707 | $1,208.86 |  | $241.77
27705 | T |  | Incision of tibia | 0051 | 36.5271 | $2,167.63 |  | $433.53
27707 | T |  | Incision of fibula | 0049 | 20.3707 | $1,208.86 |  | $241.77
27709 | T |  | Incision of tibia & fibula | 0050 | 23.9081 | $1,418.78 |  | $283.76
27712 | C |  | Realignment of lower leg |  |  |  |  |
27715 | C |  | Revision of lower leg |  |  |  |  |
27720 | C |  | Repair of tibia |  |  |  |  |
27722 | C |  | Repair/graft of tibia |  |  |  |  |
27724 | C |  | Repair/graft of tibia |  |  |  |  |
27725 | C |  | Repair of lower leg |  |  |  |  |
27727 | C |  | Repair of lower leg |  |  |  |  |
27730 | T |  | Repair of tibia epiphysis | 0050 | 23.9081 | $1,418.78 |  | $283.76
27732 | T |  | Repair of fibula epiphysis | 0050 | 23.9081 | $1,418.78 |  | $283.76
27734 | T |  | Repair lower leg epiphyses | 0050 | 23.9081 | $1,418.78 |  | $283.76
27740 | T |  | Repair of leg epiphyses | 0050 | 23.9081 | $1,418.78 |  | $283.76
27742 | T |  | Repair of leg epiphyses | 0051 | 36.5271 | $2,167.63 |  | $433.53
27745 | T |  | Reinforce tibia | 0051 | 36.5271 | $2,167.63 |  | $433.53
27750 | T |  | Treatment of tibia fracture | 0043 | 1.7694 | $105.00 |  | $21.00
27752 | T |  | Treatment of tibia fracture | 0043 | 1.7694 | $105.00 |  | $21.00
27756 | T |  | Treatment of tibia fracture | 0046 | 37.7023 | $2,237.37 | $535.76 | $447.47
27758 | T |  | Treatment of tibia fracture | 0046 | 37.7023 | $2,237.37 | $535.76 | $447.47
27759 | T |  | Treatment of tibia fracture | 0046 | 37.7023 | $2,237.37 | $535.76 | $447.47
27760 | T |  | Treatment of ankle fracture | 0043 | 1.7694 | $105.00 |  | $21.00
27762 | T |  | Treatment of ankle fracture | 0043 | 1.7694 | $105.00 |  | $21.00
27766 | T |  | Treatment of ankle fracture | 0046 | 37.7023 | $2,237.37 | $535.76 | $447.47
27780 | T |  | Treatment of fibula fracture | 0043 | 1.7694 | $105.00 |  | $21.00
27781 | T |  | Treatment of fibula fracture | 0043 | 1.7694 | $105.00 |  | $21.00
27784 | T |  | Treatment of fibula fracture | 0046 | 37.7023 | $2,237.37 | $535.76 | $447.47
27786 | T |  | Treatment of ankle fracture | 0043 | 1.7694 | $105.00 |  | $21.00
27788 | T |  | Treatment of ankle fracture | 0043 | 1.7694 | $105.00 |  | $21.00
27792 | T |  | Treatment of ankle fracture | 0046 | 37.7023 | $2,237.37 | $535.76 | $447.47
27808 | T |  | Treatment of ankle fracture | 0043 | 1.7694 | $105.00 |  | $21.00
27810 | T |  | Treatment of ankle fracture | 0043 | 1.7694 | $105.00 |  | $21.00
27814 | T |  | Treatment of ankle fracture | 0046 | 37.7023 | $2,237.37 | $535.76 | $447.47
27816 | T |  | Treatment of ankle fracture | 0043 | 1.7694 | $105.00 |  | $21.00
27818 | T |  | Treatment of ankle fracture | 0043 | 1.7694 | $105.00 |  | $21.00
27822 | T |  | Treatment of ankle fracture | 0046 | 37.7023 | $2,237.37 | $535.76 | $447.47
27823 | T |  | Treatment of ankle fracture | 0046 | 37.7023 | $2,237.37 | $535.76 | $447.47
27824 | T |  | Treat lower leg fracture | 0043 | 1.7694 | $105.00 |  | $21.00
27825 | T |  | Treat lower leg fracture | 0043 | 1.7694 | $105.00 |  | $21.00
27826 | T |  | Treat lower leg fracture | 0046 | 37.7023 | $2,237.37 | $535.76 | $447.47
27827 | T |  | Treat lower leg fracture | 0046 | 37.7023 | $2,237.37 | $535.76 | $447.47
27828 | T |  | Treat lower leg fracture | 0046 | 37.7023 | $2,237.37 | $535.76 | $447.47
27829 | T |  | Treat lower leg joint | 0046 | 37.7023 | $2,237.37 | $535.76 | $447.47
27830 | T |  | Treat lower leg dislocation | 0043 | 1.7694 | $105.00 |  | $21.00
27831 | T |  | Treat lower leg dislocation | 0043 | 1.7694 | $105.00 |  | $21.00
27832 | T |  | Treat lower leg dislocation | 0046 | 37.7023 | $2,237.37 | $535.76 | $447.47
27840 | T |  | Treat ankle dislocation | 0043 | 1.7694 | $105.00 |  | $21.00
27842 | T |  | Treat ankle dislocation | 0045 | 14.4945 | $860.15 | $268.47 | $172.03
27846 | T |  | Treat ankle dislocation | 0046 | 37.7023 | $2,237.37 | $535.76 | $447.47
27848 | T |  | Treat ankle dislocation | 0046 | 37.7023 | $2,237.37 | $535.76 | $447.47
27860 | T |  | Fixation of ankle joint | 0045 | 14.4945 | $860.15 | $268.47 | $172.03
27870 | T |  | Fusion of ankle joint | 0051 | 36.5271 | $2,167.63 |  | $433.53
27871 | T |  | Fusion of tibiofibular joint | 0051 | 36.5271 | $2,167.63 |  | $433.53
27880 | C |  | Amputation of lower leg |  |  |  |  |
27881 | C |  | Amputation of lower leg |  |  |  |  |
27882 | C |  | Amputation of lower leg |  |  |  |  |
27884 | T |  | Amputation follow-up surgery | 0049 | 20.3707 | $1,208.86 |  | $241.77
27886 | C |  | Amputation follow-up surgery |  |  |  |  |
27888 | C |  | Amputation of foot at ankle |  |  |  |  |
27889 | T |  | Amputation of foot at ankle | 0050 | 23.9081 | $1,418.78 |  | $283.76
27892 | T |  | Decompression of leg | 0049 | 20.3707 | $1,208.86 |  | $241.77
27893 | T |  | Decompression of leg | 0049 | 20.3707 | $1,208.86 |  | $241.77
27894 | T |  | Decompression of leg | 0049 | 20.3707 | $1,208.86 |  | $241.77
27899 | T |  | Leg/ankle surgery procedure | 0043 | 1.7694 | $105.00 |  | $21.00
28001 | T |  | Drainage of bursa of foot | 0007 | 11.4501 | $679.48 |  | $135.90
28002 | T |  | Treatment of foot infection | 0049 | 20.3707 | $1,208.86 |  | $241.77
28003 | T |  | Treatment of foot infection | 0049 | 20.3707 | $1,208.86 |  | $241.77
28005 | T |  | Treat foot bone lesion | 0055 | 20.0692 | $1,190.97 | $355.34 | $238.19
28008 | T |  | Incision of foot fascia | 0055 | 20.0692 | $1,190.97 | $355.34 | $238.19
28010 | T |  | Incision of toe tendon | 0055 | 20.0692 | $1,190.97 | $355.34 | $238.19
28011 | T |  | Incision of toe tendons | 0055 | 20.0692 | $1,190.97 | $355.34 | $238.19
28020 | T |  | Exploration of foot joint | 0055 | 20.0692 | $1,190.97 | $355.34 | $238.19
28022 | T |  | Exploration of foot joint | 0055 | 20.0692 | $1,190.97 | $355.34 | $238.19
28024 | T |  | Exploration of toe joint | 0055 | 20.0692 | $1,190.97 | $355.34 | $238.19
28030 | T |  | Removal of foot nerve | 0220 | 17.3586 | $1,030.11 |  | $206.02
28035 | T |  | Decompression of tibia nerve | 0220 | 17.3586 | $1,030.11 |  | $206.02
28043 | T |  | Excision of foot lesion | 0021 | 14.9776 | $888.82 | $219.48 | $177.76
28045 | T |  | Excision of foot lesion | 0055 | 20.0692 | $1,190.97 | $355.34 | $238.19
28046 | T |  | Resection of tumor, foot | 0055 | 20.0692 | $1,190.97 | $355.34 | $238.19
28050 | T |  | Biopsy of foot joint lining | 0055 | 20.0692 | $1,190.97 | $355.34 | $238.19
28052 | T |  | Biopsy of foot joint lining | 0055 | 20.0692 | $1,190.97 | $355.34 | $238.19
28054 | T |  | Biopsy of toe joint lining | 0055 | 20.0692 | $1,190.97 | $355.34 | $238.19
28060 | T |  | Partial removal, foot fascia | 0055 | 20.0692 | $1,190.97 | $355.34 | $238.19
28062 | T |  | Removal of foot fascia | 0055 | 20.0692 | $1,190.97 | $355.34 | $238.19
28070 | T |  | Removal of foot joint lining | 0055 | 20.0692 | $1,190.97 | $355.34 | $238.19
28072 | T |  | Removal of foot joint lining | 0055 | 20.0692 | $1,190.97 | $355.34 | $238.19
28080 | T |  | Removal of foot lesion | 0055 | 20.0692 | $1,190.97 | $355.34 | $238.19
28086 | T |  | Excise foot tendon sheath | 0055 | 20.0692 | $1,190.97 | $355.34 | $238.19
28088 | T |  | Excise foot tendon sheath | 0055 | 20.0692 | $1,190.97 | $355.34 | $238.19
28090 | T |  | Removal of foot lesion | 0055 | 20.0692 | $1,190.97 | $355.34 | $238.19
28092 | T |  | Removal of toe lesions | 0055 | 20.0692 | $1,190.97 | $355.34 | $238.19
28100 | T |  | Removal of ankle/heel lesion | 0055 | 20.0692 | $1,190.97 | $355.34 | $238.19
28102 | T |  | Remove/graft foot lesion | 0056 | 40.2957 | $2,391.27 |  | $478.25
28103 | T |  | Remove/graft foot lesion | 0056 | 40.2957 | $2,391.27 |  | $478.25
28104 | T |  | Removal of foot lesion | 0055 | 20.0692 | $1,190.97 | $355.34 | $238.19
28106 | T |  | Remove/graft foot lesion | 0056 | 40.2957 | $2,391.27 |  | $478.25
28107 | T |  | Remove/graft foot lesion | 0056 | 40.2957 | $2,391.27 |  | $478.25
28108 | T |  | Removal of toe lesions | 0055 | 20.0692 | $1,190.97 | $355.34 | $238.19
28110 | T |  | Part removal of metatarsal | 0055 | 20.0692 | $1,190.97 | $355.34 | $238.19
28111 | T |  | Part removal of metatarsal | 0055 | 20.0692 | $1,190.97 | $355.34 | $238.19
28112 | T |  | Part removal of metatarsal | 0055 | 20.0692 | $1,190.97 | $355.34 | $238.19
28113 | T |  | Part removal of metatarsal | 0055 | 20.0692 | $1,190.97 | $355.34 | $238.19
28114 | T |  | Removal of metatarsal heads | 0055 | 20.0692 | $1,190.97 | $355.34 | $238.19
28116 | T |  | Revision of foot | 0055 | 20.0692 | $1,190.97 | $355.34 | $238.19
28118 | T |  | Removal of heel bone | 0055 | 20.0692 | $1,190.97 | $355.34 | $238.19
28119 | T |  | Removal of heel spur | 0055 | 20.0692 | $1,190.97 | $355.34 | $238.19
28120 | T |  | Part removal of ankle/heel | 0055 | 20.0692 | $1,190.97 | $355.34 | $238.19
28122 | T |  | Partial removal of foot bone | 0055 | 20.0692 | $1,190.97 | $355.34 | $238.19
28124 | T |  | Partial removal of toe | 0055 | 20.0692 | $1,190.97 | $355.34 | $238.19
28126 | T |  | Partial removal of toe | 0055 | 20.0692 | $1,190.97 | $355.34 | $238.19
28130 | T |  | Removal of ankle bone | 0055 | 20.0692 | $1,190.97 | $355.34 | $238.19
28140 | T |  | Removal of metatarsal | 0055 | 20.0692 | $1,190.97 | $355.34 | $238.19
28150 | T |  | Removal of toe | 0055 | 20.0692 | $1,190.97 | $355.34 | $238.19
28153 | T |  | Partial removal of toe | 0055 | 20.0692 | $1,190.97 | $355.34 | $238.19
28160 | T |  | Partial removal of toe | 0055 | 20.0692 | $1,190.97 | $355.34 | $238.19
28171 | T |  | Extensive foot surgery | 0055 | 20.0692 | $1,190.97 | $355.34 | $238.19
28173 | T |  | Extensive foot surgery | 0055 | 20.0692 | $1,190.97 | $355.34 | $238.19
28175 | T |  | Extensive foot surgery | 0055 | 20.0692 | $1,190.97 | $355.34 | $238.19
28190 | T |  | Removal of foot foreign body | 0019 | 4.0547 | $240.62 | $71.87 | $48.12
28192 | T |  | Removal of foot foreign body | 0021 | 14.9776 | $888.82 | $219.48 | $177.76
28193 | T |  | Removal of foot foreign body | 0020 | 6.9433 | $412.04 | $107.40 | $82.41
28200 | T |  | Repair of foot tendon | 0055 | 20.0692 | $1,190.97 | $355.34 | $238.19
28202 | T |  | Repair/graft of foot tendon | 0055 | 20.0692 | $1,190.97 | $355.34 | $238.19
28208 | T |  | Repair of foot tendon | 0055 | 20.0692 | $1,190.97 | $355.34 | $238.19
28210 | T |  | Repair/graft of foot tendon | 0056 | 40.2957 | $2,391.27 |  | $478.25
28220 | T |  | Release of foot tendon | 0055 | 20.0692 | $1,190.97 | $355.34 | $238.19
28222 | T |  | Release of foot tendons | 0055 | 20.0692 | $1,190.97 | $355.34 | $238.19
28225 | T |  | Release of foot tendon | 0055 | 20.0692 | $1,190.97 | $355.34 | $238.19
28226 | T |  | Release of foot tendons | 0055 | 20.0692 | $1,190.97 | $355.34 | $238.19
28230 | T |  | Incision of foot tendon(s) | 0055 | 20.0692 | $1,190.97 | $355.34 | $238.19
28232 | T |  | Incision of toe tendon | 0055 | 20.0692 | $1,190.97 | $355.34 | $238.19
28234 | T |  | Incision of foot tendon | 0055 | 20.0692 | $1,190.97 | $355.34 | $238.19
28238 | T |  | Revision of foot tendon | 0056 | 40.2957 | $2,391.27 |  | $478.25
28240 | T |  | Release of big toe | 0055 | 20.0692 | $1,190.97 | $355.34 | $238.19
28250 | T |  | Revision of foot fascia | 0055 | 20.0692 | $1,190.97 | $355.34 | $238.19
28260 | T |  | Release of midfoot joint | 0055 | 20.0692 | $1,190.97 | $355.34 | $238.19
28261 | T |  | Revision of foot tendon | 0055 | 20.0692 | $1,190.97 | $355.34 | $238.19
28262 | T |  | Revision of foot and ankle | 0055 | 20.0692 | $1,190.97 | $355.34 | $238.19
28264 | T |  | Release of midfoot joint | 0056 | 40.2957 | $2,391.27 |  | $478.25
28270 | T |  | Release of foot contracture | 0055 | 20.0692 | $1,190.97 | $355.34 | $238.19
28272 | T |  | Release of toe joint, each | 0055 | 20.0692 | $1,190.97 | $355.34 | $238.19
28280 | T |  | Fusion of toes | 0055 | 20.0692 | $1,190.97 | $355.34 | $238.19
28285 | T |  | Repair of hammertoe | 0055 | 20.0692 | $1,190.97 | $355.34 | $238.19
28286 | T |  | Repair of hammertoe | 0055 | 20.0692 | $1,190.97 | $355.34 | $238.19
28288 | T |  | Partial removal of foot bone | 0055 | 20.0692 | $1,190.97 | $355.34 | $238.19
28289 | T |  | Repair hallux rigidus | 0055 | 20.0692 | $1,190.97 | $355.34 | $238.19
28290 | T |  | Correction of bunion | 0057 | 27.5493 | $1,634.86 | $475.91 | $326.97
28292 | T |  | Correction of bunion | 0057 | 27.5493 | $1,634.86 | $475.91 | $326.97
28293 | T |  | Correction of bunion | 0057 | 27.5493 | $1,634.86 | $475.91 | $326.97
28294 | T |  | Correction of bunion | 0057 | 27.5493 | $1,634.86 | $475.91 | $326.97
28296 | T |  | Correction of bunion | 0057 | 27.5493 | $1,634.86 | $475.91 | $326.97
28297 | T |  | Correction of bunion | 0057 | 27.5493 | $1,634.86 | $475.91 | $326.97
28298 | T |  | Correction of bunion | 0057 | 27.5493 | $1,634.86 | $475.91 | $326.97
28299 | T |  | Correction of bunion | 0057 | 27.5493 | $1,634.86 | $475.91 | $326.97
28300 | T |  | Incision of heel bone | 0056 | 40.2957 | $2,391.27 |  | $478.25
28302 | T |  | Incision of ankle bone | 0055 | 20.0692 | $1,190.97 | $355.34 | $238.19
28304 | T |  | Incision of midfoot bones | 0056 | 40.2957 | $2,391.27 |  | $478.25
28305 | T |  | Incise/graft midfoot bones | 0056 | 40.2957 | $2,391.27 |  | $478.25
28306 | T |  | Incision of metatarsal | 0055 | 20.0692 | $1,190.97 | $355.34 | $238.19
28307 | T |  | Incision of metatarsal | 0055 | 20.0692 | $1,190.97 | $355.34 | $238.19
28308 | T |  | Incision of metatarsal | 0055 | 20.0692 | $1,190.97 | $355.34 | $238.19
28309 | T |  | Incision of metatarsals | 0056 | 40.2957 | $2,391.27 |  | $478.25
28310 | T |  | Revision of big toe | 0055 | 20.0692 | $1,190.97 | $355.34 | $238.19
28312 | T |  | Revision of toe | 0055 | 20.0692 | $1,190.97 | $355.34 | $238.19
28313 | T |  | Repair deformity of toe | 0055 | 20.0692 | $1,190.97 | $355.34 | $238.19
28315 | T |  | Removal of sesamoid bone | 0055 | 20.0692 | $1,190.97 | $355.34 | $238.19
28320 | T |  | Repair of foot bones | 0056 | 40.2957 | $2,391.27 |  | $478.25
28322 | T |  | Repair of metatarsals | 0056 | 40.2957 | $2,391.27 |  | $478.25
28340 | T |  | Resect enlarged toe tissue | 0055 | 20.0692 | $1,190.97 | $355.34 | $238.19
28341 | T |  | Resect enlarged toe | 0055 | 20.0692 | $1,190.97 | $355.34 | $238.19
28344 | T |  | Repair extra toe(s) | 0055 | 20.0692 | $1,190.97 | $355.34 | $238.19
28345 | T |  | Repair webbed toe(s) | 0055 | 20.0692 | $1,190.97 | $355.34 | $238.19
28360 | T |  | Reconstruct cleft foot | 0056 | 40.2957 | $2,391.27 |  | $478.25
28400 | T |  | Treatment of heel fracture | 0043 | 1.7694 | $105.00 |  | $21.00
28405 | T |  | Treatment of heel fracture | 0043 | 1.7694 | $105.00 |  | $21.00
28406 | T |  | Treatment of heel fracture | 0046 | 37.7023 | $2,237.37 | $535.76 | $447.47
28415 | T |  | Treat heel fracture | 0046 | 37.7023 | $2,237.37 | $535.76 | $447.47
28420 | T |  | Treat/graft heel fracture | 0046 | 37.7023 | $2,237.37 | $535.76 | $447.47
28430 | T |  | Treatment of ankle fracture | 0043 | 1.7694 | $105.00 |  | $21.00
28435 | T |  | Treatment of ankle fracture | 0043 | 1.7694 | $105.00 |  | $21.00
28436 | T |  | Treatment of ankle fracture | 0046 | 37.7023 | $2,237.37 | $535.76 | $447.47
28445 | T |  | Treat ankle fracture | 0046 | 37.7023 | $2,237.37 | $535.76 | $447.47
28450 | T |  | Treat midfoot fracture, each | 0043 | 1.7694 | $105.00 |  | $21.00
28455 | T |  | Treat midfoot fracture, each | 0043 | 1.7694 | $105.00 |  | $21.00
28456 | T |  | Treat midfoot fracture | 0046 | 37.7023 | $2,237.37 | $535.76 | $447.47
28465 | T |  | Treat midfoot fracture, each | 0046 | 37.7023 | $2,237.37 | $535.76 | $447.47
28470 | T |  | Treat metatarsal fracture | 0043 | 1.7694 | $105.00 |  | $21.00
28475 | T |  | Treat metatarsal fracture | 0043 | 1.7694 | $105.00 |  | $21.00
28476 | T |  | Treat metatarsal fracture | 0046 | 37.7023 | $2,237.37 | $535.76 | $447.47
28485 | T |  | Treat metatarsal fracture | 0046 | 37.7023 | $2,237.37 | $535.76 | $447.47
28490 | T |  | Treat big toe fracture | 0043 | 1.7694 | $105.00 |  | $21.00
28495 | T |  | Treat big toe fracture | 0043 | 1.7694 | $105.00 |  | $21.00
28496 | T |  | Treat big toe fracture | 0046 | 37.7023 | $2,237.37 | $535.76 | $447.47
28505 | T |  | Treat big toe fracture | 0046 | 37.7023 | $2,237.37 | $535.76 | $447.47
28510 | T |  | Treatment of toe fracture | 0043 | 1.7694 | $105.00 |  | $21.00
28515 | T |  | Treatment of toe fracture | 0043 | 1.7694 | $105.00 |  | $21.00
28525 | T |  | Treat toe fracture | 0046 | 37.7023 | $2,237.37 | $535.76 | $447.47
28530 | T |  | Treat sesamoid bone fracture | 0043 | 1.7694 | $105.00 |  | $21.00
28531 | T |  | Treat sesamoid bone fracture | 0046 | 37.7023 | $2,237.37 | $535.76 | $447.47
28540 | T |  | Treat foot dislocation | 0043 | 1.7694 | $105.00 |  | $21.00
28545 | T |  | Treat foot dislocation | 0045 | 14.4945 | $860.15 | $268.47 | $172.03
28546 | T |  | Treat foot dislocation | 0046 | 37.7023 | $2,237.37 | $535.76 | $447.47
28555 | T |  | Repair foot dislocation | 0046 | 37.7023 | $2,237.37 | $535.76 | $447.47
28570 | T |  | Treat foot dislocation | 0043 | 1.7694 | $105.00 |  | $21.00
28575 | T |  | Treat foot dislocation | 0043 | 1.7694 | $105.00 |  | $21.00
28576 | T |  | Treat foot dislocation | 0046 | 37.7023 | $2,237.37 | $535.76 | $447.47
28585 | T |  | Repair foot dislocation | 0046 | 37.7023 | $2,237.37 | $535.76 | $447.47
28600 | T |  | Treat foot dislocation | 0043 | 1.7694 | $105.00 |  | $21.00
28605 | T |  | Treat foot dislocation | 0043 | 1.7694 | $105.00 |  | $21.00
28606 | T |  | Treat foot dislocation | 0046 | 37.7023 | $2,237.37 | $535.76 | $447.47
28615 | T |  | Repair foot dislocation | 0046 | 37.7023 | $2,237.37 | $535.76 | $447.47
28630 | T |  | Treat toe dislocation | 0043 | 1.7694 | $105.00 |  | $21.00
28635 | T |  | Treat toe dislocation | 0045 | 14.4945 | $860.15 | $268.47 | $172.03
28636 | T |  | Treat toe dislocation | 0046 | 37.7023 | $2,237.37 | $535.76 | $447.47
28645 | T |  | Repair toe dislocation | 0046 | 37.7023 | $2,237.37 | $535.76 | $447.47
28660 | T |  | Treat toe dislocation | 0043 | 1.7694 | $105.00 |  | $21.00
28665 | T |  | Treat toe dislocation | 0045 | 14.4945 | $860.15 | $268.47 | $172.03
28666 | T |  | Treat toe dislocation | 0046 | 37.7023 | $2,237.37 | $535.76 | $447.47
28675 | T |  | Repair of toe dislocation | 0046 | 37.7023 | $2,237.37 | $535.76 | $447.47
28705 | T |  | Fusion of foot bones | 0056 | 40.2957 | $2,391.27 |  | $478.25
28715 | T |  | Fusion of foot bones | 0056 | 40.2957 | $2,391.27 |  | $478.25
28725 | T |  | Fusion of foot bones | 0056 | 40.2957 | $2,391.27 |  | $478.25
28730 | T |  | Fusion of foot bones | 0056 | 40.2957 | $2,391.27 |  | $478.25
28735 | T |  | Fusion of foot bones | 0056 | 40.2957 | $2,391.27 |  | $478.25
28737 | T |  | Revision of foot bones | 0056 | 40.2957 | $2,391.27 |  | $478.25
28740 | T |  | Fusion of foot bones | 0056 | 40.2957 | $2,391.27 |  | $478.25
28750 | T |  | Fusion of big toe joint | 0056 | 40.2957 | $2,391.27 |  | $478.25
28755 | T |  | Fusion of big toe joint | 0055 | 20.0692 | $1,190.97 | $355.34 | $238.19
28760 | T |  | Fusion of big toe joint | 0056 | 40.2957 | $2,391.27 |  | $478.25
28800 | C |  | Amputation of midfoot |  |  |  |  |
28805 | C |  | Amputation thru metatarsal |  |  |  |  |
28810 | T |  | Amputation toe & metatarsal | 0055 | 20.0692 | $1,190.97 | $355.34 | $238.19
28820 | T |  | Amputation of toe | 0055 | 20.0692 | $1,190.97 | $355.34 | $238.19
28825 | T |  | Partial amputation of toe | 0055 | 20.0692 | $1,190.97 | $355.34 | $238.19
28899 | T |  | Foot/toes surgery procedure | 0043 | 1.7694 | $105.00 |  | $21.00
29000 | S |  | Application of body cast | 0058 | 1.0934 | $64.89 |  | $12.98
29010 | S |  | Application of body cast | 0426 | 2.1243 | $126.06 |  | $25.21
29015 | S |  | Application of body cast | 0426 | 2.1243 | $126.06 |  | $25.21
29020 | S |  | Application of body cast | 0058 | 1.0934 | $64.89 |  | $12.98
29025 | S |  | Application of body cast | 0058 | 1.0934 | $64.89 |  | $12.98
29035 | S |  | Application of body cast | 0426 | 2.1243 | $126.06 |  | $25.21
29040 | S |  | Application of body cast | 0058 | 1.0934 | $64.89 |  | $12.98
29044 | S |  | Application of body cast | 0426 | 2.1243 | $126.06 |  | $25.21
29046 | S |  | Application of body cast | 0426 | 2.1243 | $126.06 |  | $25.21
29049 | S |  | Application of figure eight | 0058 | 1.0934 | $64.89 |  | $12.98
29055 | S |  | Application of shoulder cast | 0426 | 2.1243 | $126.06 |  | $25.21
29058 | S |  | Application of shoulder cast | 0058 | 1.0934 | $64.89 |  | $12.98
29065 | S |  | Application of long arm cast | 0426 | 2.1243 | $126.06 |  | $25.21
29075 | S |  | Application of forearm cast | 0426 | 2.1243 | $126.06 |  | $25.21
29085 | S |  | Apply hand/wrist cast | 0058 | 1.0934 | $64.89 |  | $12.98
29086 | S |  | Apply finger cast | 0058 | 1.0934 | $64.89 |  | $12.98
29105 | S |  | Apply long arm splint | 0058 | 1.0934 | $64.89 |  | $12.98
29125 | S |  | Apply forearm splint | 0058 | 1.0934 | $64.89 |  | $12.98
29126 | S |  | Apply forearm splint | 0058 | 1.0934 | $64.89 |  | $12.98
29130 | S |  | Application of finger splint | 0058 | 1.0934 | $64.89 |  | $12.98
29131 | S |  | Application of finger splint | 0058 | 1.0934 | $64.89 |  | $12.98
29200 | S |  | Strapping of chest | 0058 | 1.0934 | $64.89 |  | $12.98
29220 | S |  | Strapping of low back | 0058 | 1.0934 | $64.89 |  | $12.98
29240 | S |  | Strapping of shoulder | 0058 | 1.0934 | $64.89 |  | $12.98
29260 | S |  | Strapping of elbow or wrist | 0058 | 1.0934 | $64.89 |  | $12.98
29280 | S |  | Strapping of hand or finger | 0058 | 1.0934 | $64.89 |  | $12.98
29305 | S |  | Application of hip cast | 0426 | 2.1243 | $126.06 |  | $25.21
29325 | S |  | Application of hip casts | 0426 | 2.1243 | $126.06 |  | $25.21
29345 | S |  | Application of long leg cast | 0426 | 2.1243 | $126.06 |  | $25.21
29355 | S |  | Application of long leg cast | 0426 | 2.1243 | $126.06 |  | $25.21
29358 | S |  | Apply long leg cast brace | 0426 | 2.1243 | $126.06 |  | $25.21
29365 | S |  | Application of long leg cast | 0426 | 2.1243 | $126.06 |  | $25.21
29405 | S |  | Apply short leg cast | 0426 | 2.1243 | $126.06 |  | $25.21
29425 | S |  | Apply short leg cast | 0426 | 2.1243 | $126.06 |  | $25.21
29435 | S |  | Apply short leg cast | 0426 | 2.1243 | $126.06 |  | $25.21
29440 | S |  | Addition of walker to cast | 0058 | 1.0934 | $64.89 |  | $12.98
29445 | S |  | Apply rigid leg cast | 0426 | 2.1243 | $126.06 |  | $25.21
29450 | S |  | Application of leg cast | 0058 | 1.0934 | $64.89 |  | $12.98
29505 | S |  | Application, long leg splint | 0058 | 1.0934 | $64.89 |  | $12.98
29515 | S |  | Application lower leg splint | 0058 | 1.0934 | $64.89 |  | $12.98
29520 | S |  | Strapping of hip | 0058 | 1.0934 | $64.89 |  | $12.98
29530 | S |  | Strapping of knee | 0058 | 1.0934 | $64.89 |  | $12.98
29540 | S |  | Strapping of ankle | 0058 | 1.0934 | $64.89 |  | $12.98
29550 | S |  | Strapping of toes | 0058 | 1.0934 | $64.89 |  | $12.98
29580 | S |  | Application of paste boot | 0058 | 1.0934 | $64.89 |  | $12.98
29590 | S |  | Application of foot splint | 0058 | 1.0934 | $64.89 |  | $12.98
29700 | S |  | Removal/revision of cast | 0058 | 1.0934 | $64.89 |  | $12.98
29705 | S |  | Removal/revision of cast | 0058 | 1.0934 | $64.89 |  | $12.98
29710 | S |  | Removal/revision of cast | 0426 | 2.1243 | $126.06 |  | $25.21
29715 | S |  | Removal/revision of cast | 0058 | 1.0934 | $64.89 |  | $12.98
29720 | S |  | Repair of body cast | 0058 | 1.0934 | $64.89 |  | $12.98
29730 | S |  | Windowing of cast | 0058 | 1.0934 | $64.89 |  | $12.98
29740 | S |  | Wedging of cast | 0058 | 1.0934 | $64.89 |  | $12.98
29750 | S |  | Wedging of clubfoot cast | 0058 | 1.0934 | $64.89 |  | $12.98
29799 | S |  | Casting/strapping procedure | 0058 | 1.0934 | $64.89 |  | $12.98
29800 | T |  | Jaw arthroscopy/surgery | 0041 | 28.1318 | $1,669.43 |  | $333.89
29804 | T |  | Jaw arthroscopy/surgery | 0041 | 28.1318 | $1,669.43 |  | $333.89
29805 | T |  | Shoulder arthroscopy, dx | 0041 | 28.1318 | $1,669.43 |  | $333.89
29806 | T |  | Shoulder arthroscopy/surgery | 0042 | 43.9753 | $2,609.63 | $804.74 | $521.93
29807 | T |  | Shoulder arthroscopy/surgery | 0042 | 43.9753 | $2,609.63 | $804.74 | $521.93
29819 | T |  | Shoulder arthroscopy/surgery | 0041 | 28.1318 | $1,669.43 |  | $333.89
29820 | T |  | Shoulder arthroscopy/surgery | 0041 | 28.1318 | $1,669.43 |  | $333.89
29821 | T |  | Shoulder arthroscopy/surgery | 0041 | 28.1318 | $1,669.43 |  | $333.89
29822 | T |  | Shoulder arthroscopy/surgery | 0041 | 28.1318 | $1,669.43 |  | $333.89
29823 | T |  | Shoulder arthroscopy/surgery | 0041 | 28.1318 | $1,669.43 |  | $333.89
29824 | T |  | Shoulder arthroscopy/surgery | 0041 | 28.1318 | $1,669.43 |  | $333.89
29825 | T |  | Shoulder arthroscopy/surgery | 0041 | 28.1318 | $1,669.43 |  | $333.89
29826 | T |  | Shoulder arthroscopy/surgery | 0042 | 43.9753 | $2,609.63 | $804.74 | $521.93
29827 | T |  | Arthroscop rotator cuff repr | 0042 | 43.9753 | $2,609.63 | $804.74 | $521.93
29830 | T |  | Elbow arthroscopy | 0041 | 28.1318 | $1,669.43 |  | $333.89
29834 | T |  | Elbow arthroscopy/surgery | 0041 | 28.1318 | $1,669.43 |  | $333.89
29835 | T |  | Elbow arthroscopy/surgery | 0041 | 28.1318 | $1,669.43 |  | $333.89
29836 | T |  | Elbow arthroscopy/surgery | 0041 | 28.1318 | $1,669.43 |  | $333.89
29837 | T |  | Elbow arthroscopy/surgery | 0041 | 28.1318 | $1,669.43 |  | $333.89
29838 | T |  | Elbow arthroscopy/surgery | 0041 | 28.1318 | $1,669.43 |  | $333.89
29840 | T |  | Wrist arthroscopy | 0041 | 28.1318 | $1,669.43 |  | $333.89
29843 | T |  | Wrist arthroscopy/surgery | 0041 | 28.1318 | $1,669.43 |  | $333.89
29844 | T |  | Wrist arthroscopy/surgery | 0041 | 28.1318 | $1,669.43 |  | $333.89
29845 | T |  | Wrist arthroscopy/surgery | 0041 | 28.1318 | $1,669.43 |  | $333.89
29846 | T |  | Wrist arthroscopy/surgery | 0041 | 28.1318 | $1,669.43 |  | $333.89
29847 | T |  | Wrist arthroscopy/surgery | 0041 | 28.1318 | $1,669.43 |  | $333.89
29848 | T |  | Wrist endoscopy/surgery | 0041 | 28.1318 | $1,669.43 |  | $333.89
29850 | T |  | Knee arthroscopy/surgery | 0041 | 28.1318 | $1,669.43 |  | $333.89
29851 | T |  | Knee arthroscopy/surgery | 0042 | 43.9753 | $2,609.63 | $804.74 | $521.93
29855 | T |  | Tibial arthroscopy/surgery | 0042 | 43.9753 | $2,609.63 | $804.74 | $521.93
29856 | T |  | Tibial arthroscopy/surgery | 0041 | 28.1318 | $1,669.43 |  | $333.89
29860 | T |  | Hip arthroscopy, dx | 0041 | 28.1318 | $1,669.43 |  | $333.89
29861 | T |  | Hip arthroscopy/surgery | 0041 | 28.1318 | $1,669.43 |  | $333.89
29862 | T |  | Hip arthroscopy/surgery | 0042 | 43.9753 | $2,609.63 | $804.74 | $521.93
29863 | T |  | Hip arthroscopy/surgery | 0042 | 43.9753 | $2,609.63 | $804.74 | $521.93
29866 | T |  | Autgrft implnt, knee w/scope | 0042 | 43.9753 | $2,609.63 | $804.74 | $521.93
29867 | T |  | Allgrft implnt, knee w/scope | 0042 | 43.9753 | $2,609.63 | $804.74 | $521.93
29868 | T |  | Meniscal trnspl, knee w/scpe | 0042 | 43.9753 | $2,609.63 | $804.74 | $521.93
29870 | T |  | Knee arthroscopy, dx | 0041 | 28.1318 | $1,669.43 |  | $333.89
29871 | T |  | Knee arthroscopy/drainage | 0041 | 28.1318 | $1,669.43 |  | $333.89
29873 | T |  | Knee arthroscopy/surgery | 0041 | 28.1318 | $1,669.43 |  | $333.89
29874 | T |  | Knee arthroscopy/surgery | 0041 | 28.1318 | $1,669.43 |  | $333.89
29875 | T |  | Knee arthroscopy/surgery | 0041 | 28.1318 | $1,669.43 |  | $333.89
29876 | T |  | Knee arthroscopy/surgery | 0041 | 28.1318 | $1,669.43 |  | $333.89
29877 | T |  | Knee arthroscopy/surgery | 0041 | 28.1318 | $1,669.43 |  | $333.89
29879 | T |  | Knee arthroscopy/surgery | 0041 | 28.1318 | $1,669.43 |  | $333.89
29880 | T |  | Knee arthroscopy/surgery | 0041 | 28.1318 | $1,669.43 |  | $333.89
29881 | T |  | Knee arthroscopy/surgery | 0041 | 28.1318 | $1,669.43 |  | $333.89
29882 | T |  | Knee arthroscopy/surgery | 0041 | 28.1318 | $1,669.43 |  | $333.89
29883 | T |  | Knee arthroscopy/surgery | 0041 | 28.1318 | $1,669.43 |  | $333.89
29884 | T |  | Knee arthroscopy/surgery | 0041 | 28.1318 | $1,669.43 |  | $333.89
29885 | T |  | Knee arthroscopy/surgery | 0042 | 43.9753 | $2,609.63 | $804.74 | $521.93
29886 | T |  | Knee arthroscopy/surgery | 0041 | 28.1318 | $1,669.43 |  | $333.89
29887 | T |  | Knee arthroscopy/surgery | 0041 | 28.1318 | $1,669.43 |  | $333.89
29888 | T |  | Knee arthroscopy/surgery | 0042 | 43.9753 | $2,609.63 | $804.74 | $521.93
29889 | T |  | Knee arthroscopy/surgery | 0042 | 43.9753 | $2,609.63 | $804.74 | $521.93
29891 | T |  | Ankle arthroscopy/surgery | 0041 | 28.1318 | $1,669.43 |  | $333.89
29892 | T |  | Ankle arthroscopy/surgery | 0041 | 28.1318 | $1,669.43 |  | $333.89
29893 | T |  | Scope, plantar fasciotomy | 0055 | 20.0692 | $1,190.97 | $355.34 | $238.19
29894 | T |  | Ankle arthroscopy/surgery | 0041 | 28.1318 | $1,669.43 |  | $333.89
29895 | T |  | Ankle arthroscopy/surgery | 0041 | 28.1318 | $1,669.43 |  | $333.89
29897 | T |  | Ankle arthroscopy/surgery | 0041 | 28.1318 | $1,669.43 |  | $333.89
29898 | T |  | Ankle arthroscopy/surgery | 0041 | 28.1318 | $1,669.43 |  | $333.89
29899 | T |  | Ankle arthroscopy/surgery | 0042 | 43.9753 | $2,609.63 | $804.74 | $521.93
29900 | T |  | Mcp joint arthroscopy, dx | 0053 | 15.6795 | $930.47 | $253.49 | $186.09
29901 | T |  | Mcp joint arthroscopy, surg | 0053 | 15.6795 | $930.47 | $253.49 | $186.09
29902 | T |  | Mcp joint arthroscopy, surg | 0053 | 15.6795 | $930.47 | $253.49 | $186.09
29999 | T |  | Arthroscopy of joint | 0041 | 28.1318 | $1,669.43 |  | $333.89
30000 | T |  | Drainage of nose lesion | 0251 | 2.0101 | $119.29 |  | $23.86
30020 | T |  | Drainage of nose lesion | 0251 | 2.0101 | $119.29 |  | $23.86
30100 | T |  | Intranasal biopsy | 0252 | 7.8673 | $466.87 | $113.41 | $93.37
30110 | T |  | Removal of nose polyp(s) | 0253 | 16.1357 | $957.54 | $282.29 | $191.51
30115 | T |  | Removal of nose polyp(s) | 0253 | 16.1357 | $957.54 | $282.29 | $191.51
30117 | T |  | Removal of intranasal lesion | 0253 | 16.1357 | $957.54 | $282.29 | $191.51
30118 | T |  | Removal of intranasal lesion | 0254 | 23.404 | $1,388.86 | $321.35 | $277.77
30120 | T |  | Revision of nose | 0253 | 16.1357 | $957.54 | $282.29 | $191.51
30124 | T |  | Removal of nose lesion | 0252 | 7.8673 | $466.87 | $113.41 | $93.37
30125 | T |  | Removal of nose lesion | 0256 | 37.3204 | $2,214.70 |  | $442.94
30130 | T |  | Removal of turbinate bones | 0253 | 16.1357 | $957.54 | $282.29 | $191.51
30140 | T |  | Removal of turbinate bones | 0254 | 23.404 | $1,388.86 | $321.35 | $277.77
30150 | T |  | Partial removal of nose | 0256 | 37.3204 | $2,214.70 |  | $442.94
30160 | T |  | Removal of nose | 0256 | 37.3204 | $2,214.70 |  | $442.94
30200 | T |  | Injection treatment of nose | 0252 | 7.8673 | $466.87 | $113.41 | $93.37
30210 | T |  | Nasal sinus therapy | 0252 | 7.8673 | $466.87 | $113.41 | $93.37
30220 | T |  | Insert nasal septal button | 0252 | 7.8673 | $466.87 | $113.41 | $93.37
30300 | X |  | Remove nasal foreign body | 0340 | 0.6384 | $37.88 |  | $7.58
30310 | T |  | Remove nasal foreign body | 0253 | 16.1357 | $957.54 | $282.29 | $191.51
30320 | T |  | Remove nasal foreign body | 0253 | 16.1357 | $957.54 | $282.29 | $191.51
30400 | T |  | Reconstruction of nose | 0256 | 37.3204 | $2,214.70 |  | $442.94
30410 | T |  | Reconstruction of nose | 0256 | 37.3204 | $2,214.70 |  | $442.94
30420 | T |  | Reconstruction of nose | 0256 | 37.3204 | $2,214.70 |  | $442.94
30430 | T |  | Revision of nose | 0254 | 23.404 | $1,388.86 | $321.35 | $277.77
30435 | T |  | Revision of nose | 0256 | 37.3204 | $2,214.70 |  | $442.94
30450 | T |  | Revision of nose | 0256 | 37.3204 | $2,214.70 |  | $442.94
30460 | T |  | Revision of nose | 0256 | 37.3204 | $2,214.70 |  | $442.94
30462 | T |  | Revision of nose | 0256 | 37.3204 | $2,214.70 |  | $442.94
30465 | T |  | Repair nasal stenosis | 0256 | 37.3204 | $2,214.70 |  | $442.94
30520 | T |  | Repair of nasal septum | 0254 | 23.404 | $1,388.86 | $321.35 | $277.77
30540 | T |  | Repair nasal defect | 0256 | 37.3204 | $2,214.70 |  | $442.94
30545 | T |  | Repair nasal defect | 0256 | 37.3204 | $2,214.70 |  | $442.94
30560 | T |  | Release of nasal adhesions | 0251 | 2.0101 | $119.29 |  | $23.86
30580 | T |  | Repair upper jaw fistula | 0256 | 37.3204 | $2,214.70 |  | $442.94
30600 | T |  | Repair mouth/nose fistula | 0256 | 37.3204 | $2,214.70 |  | $442.94
30620 | T |  | Intranasal reconstruction | 0256 | 37.3204 | $2,214.70 |  | $442.94
30630 | T |  | Repair nasal septum defect | 0254 | 23.404 | $1,388.86 | $321.35 | $277.77
30801 | T |  | Cauterization, inner nose | 0252 | 7.8673 | $466.87 | $113.41 | $93.37
30802 | T |  | Cauterization, inner nose | 0252 | 7.8673 | $466.87 | $113.41 | $93.37
30901 | T |  | Control of nosebleed | 0250 | 1.2896 | $76.53 | $26.79 | $15.31
30903 | T |  | Control of nosebleed | 0250 | 1.2896 | $76.53 | $26.79 | $15.31
30905 | T |  | Control of nosebleed | 0250 | 1.2896 | $76.53 | $26.79 | $15.31
30906 | T |  | Repeat control of nosebleed | 0250 | 1.2896 | $76.53 | $26.79 | $15.31
30915 | T |  | Ligation, nasal sinus artery | 0091 | 28.9999 | $1,720.94 | $348.23 | $344.19
30920 | T |  | Ligation, upper jaw artery | 0092 | 26.482 | $1,571.52 | $505.37 | $314.30
30930 | T |  | Therapy, fracture of nose | 0253 | 16.1357 | $957.54 | $282.29 | $191.51
30999 | T |  | Nasal surgery procedure | 0251 | 2.0101 | $119.29 |  | $23.86
31000 | T |  | Irrigation, maxillary sinus | 0251 | 2.0101 | $119.29 |  | $23.86
31002 | T |  | Irrigation, sphenoid sinus | 0252 | 7.8673 | $466.87 | $113.41 | $93.37
31020 | T |  | Exploration, maxillary sinus | 0254 | 23.404 | $1,388.86 | $321.35 | $277.77
31030 | T |  | Exploration, maxillary sinus | 0256 | 37.3204 | $2,214.70 |  | $442.94
31032 | T |  | Explore sinus, remove polyps | 0256 | 37.3204 | $2,214.70 |  | $442.94
31040 | T |  | Exploration behind upper jaw | 0254 | 23.404 | $1,388.86 | $321.35 | $277.77
31050 | T |  | Exploration, sphenoid sinus | 0256 | 37.3204 | $2,214.70 |  | $442.94
31051 | T |  | Sphenoid sinus surgery | 0256 | 37.3204 | $2,214.70 |  | $442.94
31070 | T |  | Exploration of frontal sinus | 0254 | 23.404 | $1,388.86 | $321.35 | $277.77
31075 | T |  | Exploration of frontal sinus | 0256 | 37.3204 | $2,214.70 |  | $442.94
31080 | T |  | Removal of frontal sinus | 0256 | 37.3204 | $2,214.70 |  | $442.94
31081 | T |  | Removal of frontal sinus | 0256 | 37.3204 | $2,214.70 |  | $442.94
31084 | T |  | Removal of frontal sinus | 0256 | 37.3204 | $2,214.70 |  | $442.94
31085 | T |  | Removal of frontal sinus | 0256 | 37.3204 | $2,214.70 |  | $442.94
31086 | T |  | Removal of frontal sinus | 0256 | 37.3204 | $2,214.70 |  | $442.94
31087 | T |  | Removal of frontal sinus | 0256 | 37.3204 | $2,214.70 |  | $442.94
31090 | T |  | Exploration of sinuses | 0256 | 37.3204 | $2,214.70 |  | $442.94
31200 | T |  | Removal of ethmoid sinus | 0256 | 37.3204 | $2,214.70 |  | $442.94
31201 | T |  | Removal of ethmoid sinus | 0256 | 37.3204 | $2,214.70 |  | $442.94
31205 | T |  | Removal of ethmoid sinus | 0256 | 37.3204 | $2,214.70 |  | $442.94
31225 | C |  | Removal of upper jaw |  |  |  |  |
31230 | C |  | Removal of upper jaw |  |  |  |  |
31231 | T |  | Nasal endoscopy, dx | 0072 | 1.4361 | $85.22 | $21.27 | $17.04
31233 | T |  | Nasal/sinus endoscopy, dx | 0072 | 1.4361 | $85.22 | $21.27 | $17.04
31235 | T |  | Nasal/sinus endoscopy, dx | 0074 | 15.7757 | $936.18 | $295.70 | $187.24
31237 | T |  | Nasal/sinus endoscopy, surg | 0075 | 21.3426 | $1,266.53 | $445.92 | $253.31
31238 | T |  | Nasal/sinus endoscopy, surg | 0074 | 15.7757 | $936.18 | $295.70 | $187.24
31239 | T |  | Nasal/sinus endoscopy, surg | 0075 | 21.3426 | $1,266.53 | $445.92 | $253.31
31240 | T |  | Nasal/sinus endoscopy, surg | 0074 | 15.7757 | $936.18 | $295.70 | $187.24
31254 | T |  | Revision of ethmoid sinus | 0075 | 21.3426 | $1,266.53 | $445.92 | $253.31
31255 | T |  | Removal of ethmoid sinus | 0075 | 21.3426 | $1,266.53 | $445.92 | $253.31
31256 | T |  | Exploration maxillary sinus | 0075 | 21.3426 | $1,266.53 | $445.92 | $253.31
31267 | T |  | Endoscopy, maxillary sinus | 0075 | 21.3426 | $1,266.53 | $445.92 | $253.31
31276 | T |  | Sinus endoscopy, surgical | 0075 | 21.3426 | $1,266.53 | $445.92 | $253.31
31287 | T |  | Nasal/sinus endoscopy, surg | 0075 | 21.3426 | $1,266.53 | $445.92 | $253.31
31288 | T |  | Nasal/sinus endoscopy, surg | 0075 | 21.3426 | $1,266.53 | $445.92 | $253.31
31290 | C |  | Nasal/sinus endoscopy, surg |  |  |  |  |
31291 | C |  | Nasal/sinus endoscopy, surg |  |  |  |  |
31292 | T |  | Nasal/sinus endoscopy, surg | 0075 | 21.3426 | $1,266.53 | $445.92 | $253.31
31293 | T |  | Nasal/sinus endoscopy, surg | 0075 | 21.3426 | $1,266.53 | $445.92 | $253.31
31294 | T |  | Nasal/sinus endoscopy, surg | 0075 | 21.3426 | $1,266.53 | $445.92 | $253.31
31299 | T |  | Sinus surgery procedure | 0251 | 2.0101 | $119.29 |  | $23.86
31300 | T |  | Removal of larynx lesion | 0254 | 23.404 | $1,388.86 | $321.35 | $277.77
31320 | T |  | Diagnostic incision, larynx | 0256 | 37.3204 | $2,214.70 |  | $442.94
31360 | C |  | Removal of larynx |  |  |  |  |
31365 | C |  | Removal of larynx |  |  |  |  |
31367 | C |  | Partial removal of larynx |  |  |  |  |
31368 | C |  | Partial removal of larynx |  |  |  |  |
31370 | C |  | Partial removal of larynx |  |  |  |  |
31375 | C |  | Partial removal of larynx |  |  |  |  |
31380 | C |  | Partial removal of larynx |  |  |  |  |
31382 | C |  | Partial removal of larynx |  |  |  |  |
31390 | C |  | Removal of larynx & pharynx |  |  |  |  |
31395 | C |  | Reconstruct larynx & pharynx |  |  |  |  |
31400 | T |  | Revision of larynx | 0256 | 37.3204 | $2,214.70 |  | $442.94
31420 | T |  | Removal of epiglottis | 0256 | 37.3204 | $2,214.70 |  | $442.94
31500 | S |  | Insert emergency airway | 0094 | 2.5363 | $150.51 | $47.62 | $30.10
31502 | T |  | Change of windpipe airway | 0121 | 2.2766 | $135.10 | $43.80 | $27.02
31505 | T |  | Diagnostic laryngoscopy | 0071 | 0.7915 | $46.97 | $11.31 | $9.39
31510 | T |  | Laryngoscopy with biopsy | 0074 | 15.7757 | $936.18 | $295.70 | $187.24
31511 | T |  | Remove foreign body, larynx | 0072 | 1.4361 | $85.22 | $21.27 | $17.04
31512 | T |  | Removal of larynx lesion | 0074 | 15.7757 | $936.18 | $295.70 | $187.24
31513 | T |  | Injection into vocal cord | 0072 | 1.4361 | $85.22 | $21.27 | $17.04
31515 | T |  | Laryngoscopy for aspiration | 0074 | 15.7757 | $936.18 | $295.70 | $187.24
31520 | T |  | Diagnostic laryngoscopy | 0072 | 1.4361 | $85.22 | $21.27 | $17.04
31525 | T |  | Diagnostic laryngoscopy | 0074 | 15.7757 | $936.18 | $295.70 | $187.24
31526 | T |  | Diagnostic laryngoscopy | 0075 | 21.3426 | $1,266.53 | $445.92 | $253.31
31527 | T |  | Laryngoscopy for treatment | 0075 | 21.3426 | $1,266.53 | $445.92 | $253.31
31528 | T |  | Laryngoscopy and dilation | 0074 | 15.7757 | $936.18 | $295.70 | $187.24
31529 | T |  | Laryngoscopy and dilation | 0074 | 15.7757 | $936.18 | $295.70 | $187.24
31530 | T |  | Operative laryngoscopy | 0075 | 21.3426 | $1,266.53 | $445.92 | $253.31
31531 | T |  | Operative laryngoscopy | 0075 | 21.3426 | $1,266.53 | $445.92 | $253.31
31535 | T |  | Operative laryngoscopy | 0075 | 21.3426 | $1,266.53 | $445.92 | $253.31
31536 | T |  | Operative laryngoscopy | 0075 | 21.3426 | $1,266.53 | $445.92 | $253.31
31540 | T |  | Operative laryngoscopy | 0075 | 21.3426 | $1,266.53 | $445.92 | $253.31
31541 | T |  | Operative laryngoscopy | 0075 | 21.3426 | $1,266.53 | $445.92 | $253.31
31545 | T |  | Remove vc lesion w/scope | 0075 | 21.3426 | $1,266.53 | $445.92 | $253.31
31546 | T |  | Remove vc lesion scope/graft | 0075 | 21.3426 | $1,266.53 | $445.92 | $253.31
31560 | T |  | Operative laryngoscopy | 0075 | 21.3426 | $1,266.53 | $445.92 | $253.31
31561 | T |  | Operative laryngoscopy | 0075 | 21.3426 | $1,266.53 | $445.92 | $253.31
31570 | T |  | Laryngoscopy with injection | 0074 | 15.7757 | $936.18 | $295.70 | $187.24
31571 | T |  | Laryngoscopy with injection | 0075 | 21.3426 | $1,266.53 | $445.92 | $253.31
31575 | T |  | Diagnostic laryngoscopy | 0072 | 1.4361 | $85.22 | $21.27 | $17.04
31576 | T |  | Laryngoscopy with biopsy | 0075 | 21.3426 | $1,266.53 | $445.92 | $253.31
31577 | T |  | Remove foreign body, larynx | 0073 | 4.1609 | $246.92 | $73.38 | $49.38
31578 | T |  | Removal of larynx lesion | 0075 | 21.3426 | $1,266.53 | $445.92 | $253.31
31579 | T |  | Diagnostic laryngoscopy | 0073 | 4.1609 | $246.92 | $73.38 | $49.38
31580 | T |  | Revision of larynx | 0256 | 37.3204 | $2,214.70 |  | $442.94
31582 | T |  | Revision of larynx | 0256 | 37.3204 | $2,214.70 |  | $442.94
31584 | C |  | Treat larynx fracture |  |  |  |  |
31585 | T |  | Treat larynx fracture | 0253 | 16.1357 | $957.54 | $282.29 | $191.51
31586 | T |  | Treat larynx fracture | 0256 | 37.3204 | $2,214.70 |  | $442.94
31587 | C |  | Revision of larynx |  |  |  |  |
31588 | T |  | Revision of larynx | 0256 | 37.3204 | $2,214.70 |  | $442.94
31590 | T |  | Reinnervate larynx | 0256 | 37.3204 | $2,214.70 |  | $442.94
31595 | T |  | Larynx nerve surgery | 0256 | 37.3204 | $2,214.70 |  | $442.94
31599 | T |  | Larynx surgery procedure | 0251 | 2.0101 | $119.29 |  | $23.86
31600 | T |  | Incision of windpipe | 0254 | 23.404 | $1,388.86 | $321.35 | $277.77
31601 | T |  | Incision of windpipe | 0254 | 23.404 | $1,388.86 | $321.35 | $277.77
31603 | T |  | Incision of windpipe | 0252 | 7.8673 | $466.87 | $113.41 | $93.37
31605 | T |  | Incision of windpipe | 0252 | 7.8673 | $466.87 | $113.41 | $93.37
31610 | T |  | Incision of windpipe | 0254 | 23.404 | $1,388.86 | $321.35 | $277.77
31611 | T |  | Surgery/speech prosthesis | 0254 | 23.404 | $1,388.86 | $321.35 | $277.77
31612 | T |  | Puncture/clear windpipe | 0254 | 23.404 | $1,388.86 | $321.35 | $277.77
31613 | T |  | Repair windpipe opening | 0254 | 23.404 | $1,388.86 | $321.35 | $277.77
31614 | T |  | Repair windpipe opening | 0256 | 37.3204 | $2,214.70 |  | $442.94
31615 | T |  | Visualization of windpipe | 0076 | 9.4592 | $561.34 | $189.82 | $112.27
31620 | S |  | Endobronchial us add-on | 0670 | 25.4131 | $1,508.09 | $472.46 | $301.62
31622 | T |  | Dx bronchoscope/wash | 0076 | 9.4592 | $561.34 | $189.82 | $112.27
31623 | T |  | Dx bronchoscope/brush | 0076 | 9.4592 | $561.34 | $189.82 | $112.27
31624 | T |  | Dx bronchoscope/lavage | 0076 | 9.4592 | $561.34 | $189.82 | $112.27
31625 | T |  | Bronchoscopy w/biopsy(s) | 0076 | 9.4592 | $561.34 | $189.82 | $112.27
31628 | T |  | Bronchoscopy/lung bx, each | 0076 | 9.4592 | $561.34 | $189.82 | $112.27
31629 | T |  | Bronchoscopy/needle bx, each | 0076 | 9.4592 | $561.34 | $189.82 | $112.27
31630 | T |  | Bronchoscopy dilate/fx repr | 0415 | 22.0955 | $1,311.21 | $459.92 | $262.24
31631 | T |  | Bronchoscopy, dilate w/stent | 0415 | 22.0955 | $1,311.21 | $459.92 | $262.24
31632 | T |  | Bronchoscopy/lung bx, add'l | 0076 | 9.4592 | $561.34 | $189.82 | $112.27
31633 | T |  | Bronchoscopy/needle bx add'l | 0076 | 9.4592 | $561.34 | $189.82 | $112.27
31635 | T |  | Bronchoscopy w/fb removal | 0076 | 9.4592 | $561.34 | $189.82 | $112.27
31636 | T |  | Bronchoscopy, bronch stents | 0415 | 22.0955 | $1,311.21 | $459.92 | $262.24
31637 | T |  | Bronchoscopy, stent add-on | 0076 | 9.4592 | $561.34 | $189.82 | $112.27
31638 | T |  | Bronchoscopy, revise stent | 0415 | 22.0955 | $1,311.21 | $459.92 | $262.24
31640 | T |  | Bronchoscopy w/tumor excise | 0415 | 22.0955 | $1,311.21 | $459.92 | $262.24
31641 | T |  | Bronchoscopy, treat blockage | 0415 | 22.0955 | $1,311.21 | $459.92 | $262.24
31643 | T |  | Diag bronchoscope/catheter | 0076 | 9.4592 | $561.34 | $189.82 | $112.27
31645 | T |  | Bronchoscopy, clear airways | 0076 | 9.4592 | $561.34 | $189.82 | $112.27
31646 | T |  | Bronchoscopy, reclear airway | 0076 | 9.4592 | $561.34 | $189.82 | $112.27
31656 | T |  | Bronchoscopy, inj for x-ray | 0076 | 9.4592 | $561.34 | $189.82 | $112.27
31700 | T |  | Insertion of airway catheter | 0072 | 1.4361 | $85.22 | $21.27 | $17.04
31708 | N |  | Instill airway contrast dye |  |  |  |  |
31710 | N |  | Insertion of airway catheter |  |  |  |  |
31715 | N |  | Injection for bronchus x-ray |  |  |  |  |
31717 | T |  | Bronchial brush biopsy | 0073 | 4.1609 | $246.92 | $73.38 | $49.38
31720 | T |  | Clearance of airways | 0071 | 0.7915 | $46.97 | $11.31 | $9.39
31725 | C |  | Clearance of airways |  |  |  |  |
31730 | T |  | Intro, windpipe wire/tube | 0073 | 4.1609 | $246.92 | $73.38 | $49.38
31750 | T |  | Repair of windpipe | 0256 | 37.3204 | $2,214.70 |  | $442.94
31755 | T |  | Repair of windpipe | 0256 | 37.3204 | $2,214.70 |  | $442.94
31760 | C |  | Repair of windpipe |  |  |  |  |
31766 | C |  | Reconstruction of windpipe |  |  |  |  |
31770 | C |  | Repair/graft of bronchus |  |  |  |  |
31775 | C |  | Reconstruct bronchus |  |  |  |  |
31780 | C |  | Reconstruct windpipe |  |  |  |  |
31781 | C |  | Reconstruct windpipe |  |  |  |  |
31785 | T |  | Remove windpipe lesion | 0254 | 23.404 | $1,388.86 | $321.35 | $277.77
31786 | C |  | Remove windpipe lesion |  |  |  |  |
31800 | C |  | Repair of windpipe injury |  |  |  |  |
31805 | C |  | Repair of windpipe injury |  |  |  |  |
31820 | T |  | Closure of windpipe lesion | 0253 | 16.1357 | $957.54 | $282.29 | $191.51
31825 | T |  | Repair of windpipe defect | 0254 | 23.404 | $1,388.86 | $321.35 | $277.77
31830 | T |  | Revise windpipe scar | 0254 | 23.404 | $1,388.86 | $321.35 | $277.77
31899 | T |  | Airways surgical procedure | 0076 | 9.4592 | $561.34 | $189.82 | $112.27
32000 | T |  | Drainage of chest | 0070 | 3.2101 | $190.50 |  | $38.10
32002 | T |  | Treatment of collapsed lung | 0070 | 3.2101 | $190.50 |  | $38.10
32005 | T |  | Treat lung lining chemically | 0070 | 3.2101 | $190.50 |  | $38.10
32019 | T |  | Insert pleural catheter | 0070 | 3.2101 | $190.50 |  | $38.10
32020 | T |  | Insertion of chest tube | 0070 | 3.2101 | $190.50 |  | $38.10
32035 | C |  | Exploration of chest |  |  |  |  |
32036 | C |  | Exploration of chest |  |  |  |  |
32095 | C |  | Biopsy through chest wall |  |  |  |  |
32100 | C |  | Exploration/biopsy of chest |  |  |  |  |
32110 | C |  | Explore/repair chest |  |  |  |  |
32120 | C |  | Re-exploration of chest |  |  |  |  |
32124 | C |  | Explore chest free adhesions |  |  |  |  |
32140 | C |  | Removal of lung lesion(s) |  |  |  |  |
32141 | C |  | Remove/treat lung lesions |  |  |  |  |
32150 | C |  | Removal of lung lesion(s) |  |  |  |  |
32151 | C |  | Remove lung foreign body |  |  |  |  |
32160 | C |  | Open chest heart massage |  |  |  |  |
32200 | C |  | Drain, open, lung lesion |  |  |  |  |
32201 | T |  | Drain, percut, lung lesion | 0070 | 3.2101 | $190.50 |  | $38.10
32215 | C |  | Treat chest lining |  |  |  |  |
32220 | C |  | Release of lung |  |  |  |  |
32225 | C |  | Partial release of lung |  |  |  |  |
32310 | C |  | Removal of chest lining |  |  |  |  |
32320 | C |  | Free/remove chest lining |  |  |  |  |
32400 | T |  | Needle biopsy chest lining | 0685 | 6.0174 | $357.09 | $115.47 | $71.42
32402 | C |  | Open biopsy chest lining |  |  |  |  |
32405 | T |  | Biopsy, lung or mediastinum | 0685 | 6.0174 | $357.09 | $115.47 | $71.42
32420 | T |  | Puncture/clear lung | 0070 | 3.2101 | $190.50 |  | $38.10
32440 | C |  | Removal of lung |  |  |  |  |
32442 | C |  | Sleeve pneumonectomy |  |  |  |  |
32445 | C |  | Removal of lung |  |  |  |  |
32480 | C |  | Partial removal of lung |  |  |  |  |
32482 | C |  | Bilobectomy |  |  |  |  |
32484 | C |  | Segmentectomy |  |  |  |  |
32486 | C |  | Sleeve lobectomy |  |  |  |  |
32488 | C |  | Completion pneumonectomy |  |  |  |  |
32491 | C |  | Lung volume reduction |  |  |  |  |
32500 | C |  | Partial removal of lung |  |  |  |  |
32501 | C |  | Repair bronchus add-on |  |  |  |  |
32520 | C |  | Remove lung & revise chest |  |  |  |  |
32522 | C |  | Remove lung & revise chest |  |  |  |  |
32525 | C |  | Remove lung & revise chest |  |  |  |  |
32540 | C |  | Removal of lung lesion |  |  |  |  |
32601 | T |  | Thoracoscopy, diagnostic | 0069 | 30.6775 | $1,820.49 | $591.64 | $364.10
32602 | T |  | Thoracoscopy, diagnostic | 0069 | 30.6775 | $1,820.49 | $591.64 | $364.10
32603 | T |  | Thoracoscopy, diagnostic | 0069 | 30.6775 | $1,820.49 | $591.64 | $364.10
32604 | T |  | Thoracoscopy, diagnostic | 0069 | 30.6775 | $1,820.49 | $591.64 | $364.10
32605 | T |  | Thoracoscopy, diagnostic | 0069 | 30.6775 | $1,820.49 | $591.64 | $364.10
32606 | T |  | Thoracoscopy, diagnostic | 0069 | 30.6775 | $1,820.49 | $591.64 | $364.10
32650 | C |  | Thoracoscopy, surgical |  |  |  |  |
32651 | C |  | Thoracoscopy, surgical |  |  |  |  |
32652 | C |  | Thoracoscopy, surgical |  |  |  |  |
32653 | C |  | Thoracoscopy, surgical |  |  |  |  |
32654 | C |  | Thoracoscopy, surgical |  |  |  |  |
32655 | C |  | Thoracoscopy, surgical |  |  |  |  |
32656 | C |  | Thoracoscopy, surgical |  |  |  |  |
32657 | C |  | Thoracoscopy, surgical |  |  |  |  |
32658 | C |  | Thoracoscopy, surgical |  |  |  |  |
32659 | C |  | Thoracoscopy, surgical |  |  |  |  |
32660 | C |  | Thoracoscopy, surgical |  |  |  |  |
32661 | C |  | Thoracoscopy, surgical |  |  |  |  |
32662 | C |  | Thoracoscopy, surgical |  |  |  |  |
32663 | C |  | Thoracoscopy, surgical |  |  |  |  |
32664 | C |  | Thoracoscopy, surgical |  |  |  |  |
32665 | C |  | Thoracoscopy, surgical |  |  |  |  |
32800 | C |  | Repair lung hernia |  |  |  |  |
32810 | C |  | Close chest after drainage |  |  |  |  |
32815 | C |  | Close bronchial fistula |  |  |  |  |
32820 | C |  | Reconstruct injured chest |  |  |  |  |
32850 | C |  | Donor pneumonectomy |  |  |  |  |
32851 | C |  | Lung transplant, single |  |  |  |  |
32852 | C |  | Lung transplant with bypass |  |  |  |  |
32853 | C |  | Lung transplant, double |  |  |  |  |
32854 | C |  | Lung transplant with bypass |  |  |  |  |
32855 | C |  | Prepare donor lung, single |  |  |  |  |
32856 | C |  | Prepare donor lung, double |  |  |  |  |
32900 | C |  | Removal of rib(s) |  |  |  |  |
32905 | C |  | Revise & repair chest wall |  |  |  |  |
32906 | C |  | Revise & repair chest wall |  |  |  |  |
32940 | C |  | Revision of lung |  |  |  |  |
32960 | T |  | Therapeutic pneumothorax | 0070 | 3.2101 | $190.50 |  | $38.10
32997 | C |  | Total lung lavage |  |  |  |  |
32999 | T |  | Chest surgery procedure | 0070 | 3.2101 | $190.50 |  | $38.10
33010 | T |  | Drainage of heart sac | 0070 | 3.2101 | $190.50 |  | $38.10
33011 | T |  | Repeat drainage of heart sac | 0070 | 3.2101 | $190.50 |  | $38.10
33015 | C |  | Incision of heart sac |  |  |  |  |
33020 | C |  | Incision of heart sac |  |  |  |  |
33025 | C |  | Incision of heart sac |  |  |  |  |
33030 | C |  | Partial removal of heart sac |  |  |  |  |
33031 | C |  | Partial removal of heart sac |  |  |  |  |
33050 | C |  | Removal of heart sac lesion |  |  |  |  |
33120 | C |  | Removal of heart lesion |  |  |  |  |
33130 | C |  | Removal of heart lesion |  |  |  |  |
33140 | C |  | Heart revascularize (tmr) |  |  |  |  |
33141 | C |  | Heart tmr w/other procedure |  |  |  |  |
33200 | C |  | Insertion of heart pacemaker |  |  |  |  |
33201 | C |  | Insertion of heart pacemaker |  |  |  |  |
33206 | T |  | Insertion of heart pacemaker | 0089 | 105.6143 | $6,267.47 | $1,682.28 | $1,253.49
33207 | T |  | Insertion of heart pacemaker | 0089 | 105.6143 | $6,267.47 | $1,682.28 | $1,253.49
33208 | T |  | Insertion of heart pacemaker | 0655 | 133.7768 | $7,938.72 |  | $1,587.74
33210 | T |  | Insertion of heart electrode | 0106 | 45.4851 | $2,699.22 |  | $539.84
33211 | T |  | Insertion of heart electrode | 0106 | 45.4851 | $2,699.22 |  | $539.84
33212 | T |  | Insertion of pulse generator | 0090 | 89.1574 | $5,290.87 | $1,612.80 | $1,058.17
33213 | T |  | Insertion of pulse generator | 0654 | 100.9294 | $5,989.45 |  | $1,197.89
33214 | T |  | Upgrade of pacemaker system | 0655 | 133.7768 | $7,938.72 |  | $1,587.74
33215 | T |  | Reposition pacing-defib lead | 0105 | 22.3685 | $1,327.41 | $370.40 | $265.48
33216 | T |  | Revise eltrd pacing-defib | 0106 | 45.4851 | $2,699.22 |  | $539.84
33217 | T |  | Insert lead pace-defib, dual | 0106 | 45.4851 | $2,699.22 |  | $539.84
33218 | T |  | Repair lead pace-defib, one | 0106 | 45.4851 | $2,699.22 |  | $539.84
33220 | T |  | Repair lead pace-defib, dual | 0106 | 45.4851 | $2,699.22 |  | $539.84
33222 | T |  | Revise pocket, acemaker | 0027 | 18.4182 | $1,092.99 | $329.72 | $218.60
33223 | T |  | Revise pocket, pacing-defib | 0027 | 18.4182 | $1,092.99 | $329.72 | $218.60
33224 | T |  | Insert pacing lead & connect | 0418 | 109.3043 | $6,486.45 |  | $1,297.29
33225 | T |  | L ventric pacing lead add-on | 0418 | 109.3043 | $6,486.45 |  | $1,297.29
33226 | T |  | Reposition l ventric lead | 0105 | 22.3685 | $1,327.41 | $370.40 | $265.48
33233 | T |  | Removal of pacemaker system | 0105 | 22.3685 | $1,327.41 | $370.40 | $265.48
33234 | T |  | Removal of pacemaker system | 0105 | 22.3685 | $1,327.41 | $370.40 | $265.48
33235 | T |  | Removal pacemaker electrode | 0105 | 22.3685 | $1,327.41 | $370.40 | $265.48
33236 | C |  | Remove electrode/thoracotomy |  |  |  |  |
33237 | C |  | Remove electrode/thoracotomy |  |  |  |  |
33238 | C |  | Remove electrode/thoracotomy |  |  |  |  |
33240 | B |  | Insert pulse generator |  |  |  |  |
33241 | T |  | Remove pulse generator | 0105 | 22.3685 | $1,327.41 | $370.40 | $265.48
33243 | C |  | Remove eltrd/thoracotomy |  |  |  |  |
33244 | T |  | Remove eltrd, transven | 0105 | 22.3685 | $1,327.41 | $370.40 | $265.48
33245 | C |  | Insert epic eltrd pace-defib |  |  |  |  |
33246 | C |  | Insert epic eltrd/generator |  |  |  |  |
33249 | B |  | Eltrd/insert pace-defib |  |  |  |  |
33250 | C |  | Ablate heart dysrhythm focus |  |  |  |  |
33251 | C |  | Ablate heart dysrhythm focus |  |  |  |  |
33253 | C |  | Reconstruct atria |  |  |  |  |
33261 | C |  | Ablate heart dysrhythm focus |  |  |  |  |
33282 | S |  | Implant pat-active ht record | 0680 | 62.9082 | $3,733.16 |  | $746.63
33284 | T |  | Remove pat-active ht record | 0109 | 11.0433 | $655.34 | $131.49 | $131.07
33300 | C |  | Repair of heart wound |  |  |  |  |
33305 | C |  | Repair of heart wound |  |  |  |  |
33310 | C |  | Exploratory heart surgery |  |  |  |  |
33315 | C |  | Exploratory heart surgery |  |  |  |  |
33320 | C |  | Repair major blood vessel(s) |  |  |  |  |
33321 | C |  | Repair major vessel |  |  |  |  |
33322 | C |  | Repair major blood vessel(s) |  |  |  |  |
33330 | C |  | Insert major vessel graft |  |  |  |  |
33332 | C |  | Insert major vessel graft |  |  |  |  |
33335 | C |  | Insert major vessel graft |  |  |  |  |
33400 | C |  | Repair of aortic valve |  |  |  |  |
33401 | C |  | Valvuloplasty, open |  |  |  |  |
33403 | C |  | Valvuloplasty, w/cp bypass |  |  |  |  |
33404 | C |  | Prepare heart-aorta conduit |  |  |  |  |
33405 | C |  | Replacement of aortic valve |  |  |  |  |
33406 | C |  | Replacement of aortic valve |  |  |  |  |
33410 | C |  | Replacement of aortic valve |  |  |  |  |
33411 | C |  | Replacement of aortic valve |  |  |  |  |
33412 | C |  | Replacement of aortic valve |  |  |  |  |
33413 | C |  | Replacement of aortic valve |  |  |  |  |
33414 | C |  | Repair of aortic valve |  |  |  |  |
33415 | C |  | Revision, subvalvular tissue |  |  |  |  |
33416 | C |  | Revise ventricle muscle |  |  |  |  |
33417 | C |  | Repair of aortic valve |  |  |  |  |
33420 | C |  | Revision of mitral valve |  |  |  |  |
33422 | C |  | Revision of mitral valve |  |  |  |  |
33425 | C |  | Repair of mitral valve |  |  |  |  |
33426 | C |  | Repair of mitral valve |  |  |  |  |
33427 | C |  | Repair of mitral valve |  |  |  |  |
33430 | C |  | Replacement of mitral valve |  |  |  |  |
33460 | C |  | Revision of tricuspid valve |  |  |  |  |
33463 | C |  | Valvuloplasty, tricuspid |  |  |  |  |
33464 | C |  | Valvuloplasty, tricuspid |  |  |  |  |
33465 | C |  | Replace tricuspid valve |  |  |  |  |
33468 | C |  | Revision of tricuspid valve |  |  |  |  |
33470 | C |  | Revision of pulmonary valve |  |  |  |  |
33471 | C |  | Valvotomy, pulmonary valve |  |  |  |  |
33472 | C |  | Revision of pulmonary valve |  |  |  |  |
33474 | C |  | Revision of pulmonary valve |  |  |  |  |
33475 | C |  | Replacement, pulmonary valve |  |  |  |  |
33476 | C |  | Revision of heart chamber |  |  |  |  |
33478 | C |  | Revision of heart chamber |  |  |  |  |
33496 | C |  | Repair, prosth valve clot |  |  |  |  |
33500 | C |  | Repair heart vessel fistula |  |  |  |  |
33501 | C |  | Repair heart vessel fistula |  |  |  |  |
33502 | C |  | Coronary artery correction |  |  |  |  |
33503 | C |  | Coronary artery graft |  |  |  |  |
33504 | C |  | Coronary artery graft |  |  |  |  |
33505 | C |  | Repair artery w/tunnel |  |  |  |  |
33506 | C |  | Repair artery, translocation |  |  |  |  |
33508 | N |  | Endoscopic vein harvest |  |  |  |  |
33510 | C |  | CABG, vein, single |  |  |  |  |
33511 | C |  | CABG, vein, two |  |  |  |  |
33512 | C |  | CABG, vein, three |  |  |  |  |
33513 | C |  | CABG, vein, four |  |  |  |  |
33514 | C |  | CABG, vein, five |  |  |  |  |
33516 | C |  | Cabg, vein, six or more |  |  |  |  |
33517 | C |  | CABG, artery-vein, single |  |  |  |  |
33518 | C |  | CABG, artery-vein, two |  |  |  |  |
33519 | C |  | CABG, artery-vein, three |  |  |  |  |
33521 | C |  | CABG, artery-vein, four |  |  |  |  |
33522 | C |  | CABG, artery-vein, five |  |  |  |  |
33523 | C |  | Cabg, art-vein, six or more |  |  |  |  |
33530 | C |  | Coronary artery, bypass/reop |  |  |  |  |
33533 | C |  | CABG, arterial, single |  |  |  |  |
33534 | C |  | CABG, arterial, two |  |  |  |  |
33535 | C |  | CABG, arterial, three |  |  |  |  |
33536 | C |  | Cabg, arterial, four or more |  |  |  |  |
33542 | C |  | Removal of heart lesion |  |  |  |  |
33545 | C |  | Repair of heart damage |  |  |  |  |
33572 | C |  | Open coronary endarterectomy |  |  |  |  |
33600 | C |  | Closure of valve |  |  |  |  |
33602 | C |  | Closure of valve |  |  |  |  |
33606 | C |  | Anastomosis/artery-aorta |  |  |  |  |
33608 | C |  | Repair anomaly w/conduit |  |  |  |  |
33610 | C |  | Repair by enlargement |  |  |  |  |
33611 | C |  | Repair double ventricle |  |  |  |  |
33612 | C |  | Repair double ventricle |  |  |  |  |
33615 | C |  | Repair, modified fontan |  |  |  |  |
33617 | C |  | Repair single ventricle |  |  |  |  |
33619 | C |  | Repair single ventricle |  |  |  |  |
33641 | C |  | Repair heart septum defect |  |  |  |  |
33645 | C |  | Revision of heart veins |  |  |  |  |
33647 | C |  | Repair heart septum defects |  |  |  |  |
33660 | C |  | Repair of heart defects |  |  |  |  |
33665 | C |  | Repair of heart defects |  |  |  |  |
33670 | C |  | Repair of heart chambers |  |  |  |  |
33681 | C |  | Repair heart septum defect |  |  |  |  |
33684 | C |  | Repair heart septum defect |  |  |  |  |
33688 | C |  | Repair heart septum defect |  |  |  |  |
33690 | C |  | Reinforce pulmonary artery |  |  |  |  |
33692 | C |  | Repair of heart defects |  |  |  |  |
33694 | C |  | Repair of heart defects |  |  |  |  |
33697 | C |  | Repair of heart defects |  |  |  |  |
33702 | C |  | Repair of heart defects |  |  |  |  |
33710 | C |  | Repair of heart defects |  |  |  |  |
33720 | C |  | Repair of heart defect |  |  |  |  |
33722 | C |  | Repair of heart defect |  |  |  |  |
33730 | C |  | Repair heart-vein defect(s) |  |  |  |  |
33732 | C |  | Repair heart-vein defect |  |  |  |  |
33735 | C |  | Revision of heart chamber |  |  |  |  |
33736 | C |  | Revision of heart chamber |  |  |  |  |
33737 | C |  | Revision of heart chamber |  |  |  |  |
33750 | C |  | Major vessel shunt |  |  |  |  |
33755 | C |  | Major vessel shunt |  |  |  |  |
33762 | C |  | Major vessel shunt |  |  |  |  |
33764 | C |  | Major vessel shunt & graft |  |  |  |  |
33766 | C |  | Major vessel shunt |  |  |  |  |
33767 | C |  | Major vessel shunt |  |  |  |  |
33770 | C |  | Repair great vessels defect |  |  |  |  |
33771 | C |  | Repair great vessels defect |  |  |  |  |
33774 | C |  | Repair great vessels defect |  |  |  |  |
33775 | C |  | Repair great vessels defect |  |  |  |  |
33776 | C |  | Repair great vessels defect |  |  |  |  |
33777 | C |  | Repair great vessels defect |  |  |  |  |
33778 | C |  | Repair great vessels defect |  |  |  |  |
33779 | C |  | Repair great vessels defect |  |  |  |  |
33780 | C |  | Repair great vessels defect |  |  |  |  |
33781 | C |  | Repair great vessels defect |  |  |  |  |
33786 | C |  | Repair arterial trunk |  |  |  |  |
33788 | C |  | Revision of pulmonary artery |  |  |  |  |
33800 | C |  | Aortic suspension |  |  |  |  |
33802 | C |  | Repair vessel defect |  |  |  |  |
33803 | C |  | Repair vessel defect |  |  |  |  |
33813 | C |  | Repair septal defect |  |  |  |  |
33814 | C |  | Repair septal defect |  |  |  |  |
33820 | C |  | Revise major vessel |  |  |  |  |
33822 | C |  | Revise major vessel |  |  |  |  |
33824 | C |  | Revise major vessel |  |  |  |  |
33840 | C |  | Remove aorta constriction |  |  |  |  |
33845 | C |  | Remove aorta constriction |  |  |  |  |
33851 | C |  | Remove aorta constriction |  |  |  |  |
33852 | C |  | Repair septal defect |  |  |  |  |
33853 | C |  | Repair septal defect |  |  |  |  |
33860 | C |  | Ascending aortic graft |  |  |  |  |
33861 | C |  | Ascending aortic graft |  |  |  |  |
33863 | C |  | Ascending aortic graft |  |  |  |  |
33870 | C |  | Transverse aortic arch graft |  |  |  |  |
33875 | C |  | Thoracic aortic graft |  |  |  |  |
33877 | C |  | Thoracoabdominal graft |  |  |  |  |
33910 | C |  | Remove lung artery emboli |  |  |  |  |
33915 | C |  | Remove lung artery emboli |  |  |  |  |
33916 | C |  | Surgery of great vessel |  |  |  |  |
33917 | C |  | Repair pulmonary artery |  |  |  |  |
33918 | C |  | Repair pulmonary atresia |  |  |  |  |
33919 | C |  | Repair pulmonary atresia |  |  |  |  |
33920 | C |  | Repair pulmonary atresia |  |  |  |  |
33922 | C |  | Transect pulmonary artery |  |  |  |  |
33924 | C |  | Remove pulmonary shunt |  |  |  |  |
33930 | C |  | Removal of donor heart/lung |  |  |  |  |
33933 | C |  | Prepare donor heart/lung |  |  |  |  |
33935 | C |  | Transplantation, heart/lung |  |  |  |  |
33940 | C |  | Removal of donor heart |  |  |  |  |
33944 | C |  | Prepare donor heart |  |  |  |  |
33945 | C |  | Transplantation of heart |  |  |  |  |
33960 | C |  | External circulation assist |  |  |  |  |
33961 | C |  | External circulation assist |  |  |  |  |
33967 | C |  | Insert ia percut device |  |  |  |  |
33968 | C |  | Remove aortic assist device |  |  |  |  |
33970 | C |  | Aortic circulation assist |  |  |  |  |
33971 | C |  | Aortic circulation assist |  |  |  |  |
33973 | C |  | Insert balloon device |  |  |  |  |
33974 | C |  | Remove intra-aortic balloon |  |  |  |  |
33975 | C |  | Implant ventricular device |  |  |  |  |
33976 | C |  | Implant ventricular device |  |  |  |  |
33977 | C |  | Remove ventricular device |  |  |  |  |
33978 | C |  | Remove ventricular device |  |  |  |  |
33979 | C |  | Insert intracorporeal device |  |  |  |  |
33980 | C |  | Remove intracorporeal device |  |  |  |  |
33999 | T |  | Cardiac surgery procedure | 0070 | 3.2101 | $190.50 |  | $38.10
34001 | C |  | Removal of artery clot |  |  |  |  |
34051 | C |  | Removal of artery clot |  |  |  |  |
34101 | T |  | Removal of artery clot | 0088 | 36.5617 | $2,169.68 | $655.22 | $433.94
34111 | T |  | Removal of arm artery clot | 0088 | 36.5617 | $2,169.68 | $655.22 | $433.94
34151 | C |  | Removal of artery clot |  |  |  |  |
34201 | T |  | Removal of artery clot | 0088 | 36.5617 | $2,169.68 | $655.22 | $433.94
34203 | T |  | Removal of leg artery clot | 0088 | 36.5617 | $2,169.68 | $655.22 | $433.94
34401 | C |  | Removal of vein clot |  |  |  |  |
34421 | T |  | Removal of vein clot | 0088 | 36.5617 | $2,169.68 | $655.22 | $433.94
34451 | C |  | Removal of vein clot |  |  |  |  |
34471 | T |  | Removal of vein clot | 0088 | 36.5617 | $2,169.68 | $655.22 | $433.94
34490 | T |  | Removal of vein clot | 0088 | 36.5617 | $2,169.68 | $655.22 | $433.94
34501 | T |  | Repair valve, femoral vein | 0088 | 36.5617 | $2,169.68 | $655.22 | $433.94
34502 | C |  | Reconstruct vena cava |  |  |  |  |
34510 | T |  | Transposition of vein valve | 0088 | 36.5617 | $2,169.68 | $655.22 | $433.94
34520 | T |  | Cross-over vein graft | 0088 | 36.5617 | $2,169.68 | $655.22 | $433.94
34530 | T |  | Leg vein fusion | 0088 | 36.5617 | $2,169.68 | $655.22 | $433.94
34800 | C |  | Endovasc abdo repair w/tube |  |  |  |  |
34802 | C |  | Endovasc abdo repr w/device |  |  |  |  |
34803 | C |  | Endovas aaa repr w/3-p part |  |  |  |  |
34804 | C |  | Endovasc abdo repr w/device |  |  |  |  |
34805 | C |  | Endovasc abdo repair w/pros |  |  |  |  |
34808 | C |  | Endovasc abdo occlud device |  |  |  |  |
34812 | C |  | Xpose for endoprosth, aortic |  |  |  |  |
34813 | C |  | Femoral endovas graft add-on |  |  |  |  |
34820 | C |  | Xpose for endoprosth, iliac |  |  |  |  |
34825 | C |  | Endovasc extend prosth, init |  |  |  |  |
34826 | C |  | Endovasc exten prosth, add'l |  |  |  |  |
34830 | C |  | Open aortic tube prosth repr |  |  |  |  |
34831 | C |  | Open aortoiliac prosth repr |  |  |  |  |
34832 | C |  | Open aortofemor prosth repr |  |  |  |  |
34833 | C |  | Xpose for endoprosth, iliac |  |  |  |  |
34834 | C |  | Xpose, endoprosth, brachial |  |  |  |  |
34900 | C |  | Endovasc iliac repr w/graft |  |  |  |  |
35001 | C |  | Repair defect of artery |  |  |  |  |
35002 | C |  | Repair artery rupture, neck |  |  |  |  |
35005 | C |  | Repair defect of artery |  |  |  |  |
35011 | T |  | Repair defect of artery | 0653 | 30.5339 | $1,811.97 |  | $362.39
35013 | C |  | Repair artery rupture, arm |  |  |  |  |
35021 | C |  | Repair defect of artery |  |  |  |  |
35022 | C |  | Repair artery rupture, chest |  |  |  |  |
35045 | C |  | Repair defect of arm artery |  |  |  |  |
35081 | C |  | Repair defect of artery |  |  |  |  |
35082 | C |  | Repair artery rupture, aorta |  |  |  |  |
35091 | C |  | Repair defect of artery |  |  |  |  |
35092 | C |  | Repair artery rupture, aorta |  |  |  |  |
35102 | C |  | Repair defect of artery |  |  |  |  |
35103 | C |  | Repair artery rupture, groin |  |  |  |  |
35111 | C |  | Repair defect of artery |  |  |  |  |
35112 | C |  | Repair artery rupture,spleen |  |  |  |  |
35121 | C |  | Repair defect of artery |  |  |  |  |
35122 | C |  | Repair artery rupture, belly |  |  |  |  |
35131 | C |  | Repair defect of artery |  |  |  |  |
35132 | C |  | Repair artery rupture, groin |  |  |  |  |
35141 | C |  | Repair defect of artery |  |  |  |  |
35142 | C |  | Repair artery rupture, thigh |  |  |  |  |
35151 | C |  | Repair defect of artery |  |  |  |  |
35152 | C |  | Repair artery rupture, knee |  |  |  |  |
35180 | T |  | Repair blood vessel lesion | 0093 | 23.4516 | $1,391.69 |  | $278.34
35182 | C |  | Repair blood vessel lesion |  |  |  |  |
35184 | T |  | Repair blood vessel lesion | 0093 | 23.4516 | $1,391.69 |  | $278.34
35188 | T |  | Repair blood vessel lesion | 0088 | 36.5617 | $2,169.68 | $655.22 | $433.94
35189 | C |  | Repair blood vessel lesion |  |  |  |  |
35190 | T |  | Repair blood vessel lesion | 0093 | 23.4516 | $1,391.69 |  | $278.34
35201 | T |  | Repair blood vessel lesion | 0093 | 23.4516 | $1,391.69 |  | $278.34
35206 | T |  | Repair blood vessel lesion | 0093 | 23.4516 | $1,391.69 |  | $278.34
35207 | T |  | Repair blood vessel lesion | 0088 | 36.5617 | $2,169.68 | $655.22 | $433.94
35211 | C |  | Repair blood vessel lesion |  |  |  |  |
35216 | C |  | Repair blood vessel lesion |  |  |  |  |
35221 | C |  | Repair blood vessel lesion |  |  |  |  |
35226 | T |  | Repair blood vessel lesion | 0093 | 23.4516 | $1,391.69 |  | $278.34
35231 | T |  | Repair blood vessel lesion | 0093 | 23.4516 | $1,391.69 |  | $278.34
35236 | T |  | Repair blood vessel lesion | 0093 | 23.4516 | $1,391.69 |  | $278.34
35241 | C |  | Repair blood vessel lesion |  |  |  |  |
35246 | C |  | Repair blood vessel lesion |  |  |  |  |
35251 | C |  | Repair blood vessel lesion |  |  |  |  |
35256 | T |  | Repair blood vessel lesion | 0093 | 23.4516 | $1,391.69 |  | $278.34
35261 | T |  | Repair blood vessel lesion | 0653 | 30.5339 | $1,811.97 |  | $362.39
35266 | T |  | Repair blood vessel lesion | 0653 | 30.5339 | $1,811.97 |  | $362.39
35271 | C |  | Repair blood vessel lesion |  |  |  |  |
35276 | C |  | Repair blood vessel lesion |  |  |  |  |
35281 | C |  | Repair blood vessel lesion |  |  |  |  |
35286 | T |  | Repair blood vessel lesion | 0653 | 30.5339 | $1,811.97 |  | $362.39
35301 | C |  | Rechanneling of artery |  |  |  |  |
35311 | C |  | Rechanneling of artery |  |  |  |  |
35321 | T |  | Rechanneling of artery | 0093 | 23.4516 | $1,391.69 |  | $278.34
35331 | C |  | Rechanneling of artery |  |  |  |  |
35341 | C |  | Rechanneling of artery |  |  |  |  |
35351 | C |  | Rechanneling of artery |  |  |  |  |
35355 | C |  | Rechanneling of artery |  |  |  |  |
35361 | C |  | Rechanneling of artery |  |  |  |  |
35363 | C |  | Rechanneling of artery |  |  |  |  |
35371 | C |  | Rechanneling of artery |  |  |  |  |
35372 | C |  | Rechanneling of artery |  |  |  |  |
35381 | C |  | Rechanneling of artery |  |  |  |  |
35390 | C |  | Reoperation, carotid add-on |  |  |  |  |
35400 | C |  | Angioscopy |  |  |  |  |
35450 | C |  | Repair arterial blockage |  |  |  |  |
35452 | C |  | Repair arterial blockage |  |  |  |  |
35454 | C |  | Repair arterial blockage |  |  |  |  |
35456 | C |  | Repair arterial blockage |  |  |  |  |
35458 | T |  | Repair arterial blockage | 0081 | 34.4473 | $2,044.21 |  | $408.84
35459 | T |  | Repair arterial blockage | 0081 | 34.4473 | $2,044.21 |  | $408.84
35460 | T |  | Repair venous blockage | 0081 | 34.4473 | $2,044.21 |  | $408.84
35470 | T |  | Repair arterial blockage | 0081 | 34.4473 | $2,044.21 |  | $408.84
35471 | T |  | Repair arterial blockage | 0081 | 34.4473 | $2,044.21 |  | $408.84
35472 | T |  | Repair arterial blockage | 0081 | 34.4473 | $2,044.21 |  | $408.84
35473 | T |  | Repair arterial blockage | 0081 | 34.4473 | $2,044.21 |  | $408.84
35474 | T |  | Repair arterial blockage | 0081 | 34.4473 | $2,044.21 |  | $408.84
35475 | T |  | Repair arterial blockage | 0081 | 34.4473 | $2,044.21 |  | $408.84
35476 | T |  | Repair venous blockage | 0081 | 34.4473 | $2,044.21 |  | $408.84
35480 | C |  | Atherectomy, open |  |  |  |  |
35481 | C |  | Atherectomy, open |  |  |  |  |
35482 | C |  | Atherectomy, open |  |  |  |  |
35483 | C |  | Atherectomy, open |  |  |  |  |
35484 | T |  | Atherectomy, open | 0081 | 34.4473 | $2,044.21 |  | $408.84
35485 | T |  | Atherectomy, open | 0081 | 34.4473 | $2,044.21 |  | $408.84
35490 | T |  | Atherectomy, percutaneous | 0081 | 34.4473 | $2,044.21 |  | $408.84
35491 | T |  | Atherectomy, percutaneous | 0081 | 34.4473 | $2,044.21 |  | $408.84
35492 | T |  | Atherectomy, percutaneous | 0081 | 34.4473 | $2,044.21 |  | $408.84
35493 | T |  | Atherectomy, percutaneous | 0081 | 34.4473 | $2,044.21 |  | $408.84
35494 | T |  | Atherectomy, percutaneous | 0081 | 34.4473 | $2,044.21 |  | $408.84
35495 | T |  | Atherectomy, percutaneous | 0081 | 34.4473 | $2,044.21 |  | $408.84
35500 | T |  | Harvest vein for bypass | 0081 | 34.4473 | $2,044.21 |  | $408.84
35501 | C |  | Artery bypass graft |  |  |  |  |
35506 | C |  | Artery bypass graft |  |  |  |  |
35507 | C |  | Artery bypass graft |  |  |  |  |
35508 | C |  | Artery bypass graft |  |  |  |  |
35509 | C |  | Artery bypass graft |  |  |  |  |
35510 | C |  | Artery bypass graft |  |  |  |  |
35511 | C |  | Artery bypass graft |  |  |  |  |
35512 | C |  | Artery bypass graft |  |  |  |  |
35515 | C |  | Artery bypass graft |  |  |  |  |
35516 | C |  | Artery bypass graft |  |  |  |  |
35518 | C |  | Artery bypass graft |  |  |  |  |
35521 | C |  | Artery bypass graft |  |  |  |  |
35522 | C |  | Artery bypass graft |  |  |  |  |
35525 | C |  | Artery bypass graft |  |  |  |  |
35526 | C |  | Artery bypass graft |  |  |  |  |
35531 | C |  | Artery bypass graft |  |  |  |  |
35533 | C |  | Artery bypass graft |  |  |  |  |
35536 | C |  | Artery bypass graft |  |  |  |  |
35541 | C |  | Artery bypass graft |  |  |  |  |
35546 | C |  | Artery bypass graft |  |  |  |  |
35548 | C |  | Artery bypass graft |  |  |  |  |
35549 | C |  | Artery bypass graft |  |  |  |  |
35551 | C |  | Artery bypass graft |  |  |  |  |
35556 | C |  | Artery bypass graft |  |  |  |  |
35558 | C |  | Artery bypass graft |  |  |  |  |
35560 | C |  | Artery bypass graft |  |  |  |  |
35563 | C |  | Artery bypass graft |  |  |  |  |
35565 | C |  | Artery bypass graft |  |  |  |  |
35566 | C |  | Artery bypass graft |  |  |  |  |
35571 | C |  | Artery bypass graft |  |  |  |  |
35572 | N |  | Harvest femoropopliteal vein |  |  |  |  |
35583 | C |  | Vein bypass graft |  |  |  |  |
35585 | C |  | Vein bypass graft |  |  |  |  |
35587 | C |  | Vein bypass graft |  |  |  |  |
35600 | C |  | Harvest artery for cabg |  |  |  |  |
35601 | C |  | Artery bypass graft |  |  |  |  |
35606 | C |  | Artery bypass graft |  |  |  |  |
35612 | C |  | Artery bypass graft |  |  |  |  |
35616 | C |  | Artery bypass graft |  |  |  |  |
35621 | C |  | Artery bypass graft |  |  |  |  |
35623 | C |  | Bypass graft, not vein |  |  |  |  |
35626 | C |  | Artery bypass graft |  |  |  |  |
35631 | C |  | Artery bypass graft |  |  |  |  |
35636 | C |  | Artery bypass graft |  |  |  |  |
35641 | C |  | Artery bypass graft |  |  |  |  |
35642 | C |  | Artery bypass graft |  |  |  |  |
35645 | C |  | Artery bypass graft |  |  |  |  |
35646 | C |  | Artery bypass graft |  |  |  |  |
35647 | C |  | Artery bypass graft |  |  |  |  |
35650 | C |  | Artery bypass graft |  |  |  |  |
35651 | C |  | Artery bypass graft |  |  |  |  |
35654 | C |  | Artery bypass graft |  |  |  |  |
35656 | C |  | Artery bypass graft |  |  |  |  |
35661 | C |  | Artery bypass graft |  |  |  |  |
35663 | C |  | Artery bypass graft |  |  |  |  |
35665 | C |  | Artery bypass graft |  |  |  |  |
35666 | C |  | Artery bypass graft |  |  |  |  |
35671 | C |  | Artery bypass graft |  |  |  |  |
35681 | C |  | Composite bypass graft |  |  |  |  |
35682 | C |  | Composite bypass graft |  |  |  |  |
35683 | C |  | Composite bypass graft |  |  |  |  |
35685 | T |  | Bypass graft patency/patch | 0093 | 23.4516 | $1,391.69 |  | $278.34
35686 | T |  | Bypass graft/av fist patency | 0093 | 23.4516 | $1,391.69 |  | $278.34
35691 | C |  | Arterial transposition |  |  |  |  |
35693 | C |  | Arterial transposition |  |  |  |  |
35694 | C |  | Arterial transposition |  |  |  |  |
35695 | C |  | Arterial transposition |  |  |  |  |
35697 | C |  | Reimplant artery each |  |  |  |  |
35700 | C |  | Reoperation, bypass graft |  |  |  |  |
35701 | C |  | Exploration, carotid artery |  |  |  |  |
35721 | C |  | Exploration, femoral artery |  |  |  |  |
35741 | C |  | Exploration popliteal artery |  |  |  |  |
35761 | T |  | Exploration of artery/vein | 0115 | 31.4727 | $1,867.68 | $459.35 | $373.54
35800 | C |  | Explore neck vessels |  |  |  |  |
35820 | C |  | Explore chest vessels |  |  |  |  |
35840 | C |  | Explore abdominal vessels |  |  |  |  |
35860 | T |  | Explore limb vessels | 0093 | 23.4516 | $1,391.69 |  | $278.34
35870 | C |  | Repair vessel graft defect |  |  |  |  |
35875 | T |  | Removal of clot in graft | 0088 | 36.5617 | $2,169.68 | $655.22 | $433.94
35876 | T |  | Removal of clot in graft | 0088 | 36.5617 | $2,169.68 | $655.22 | $433.94
35879 | T |  | Revise graft w/vein | 0088 | 36.5617 | $2,169.68 | $655.22 | $433.94
35881 | T |  | Revise graft w/vein | 0088 | 36.5617 | $2,169.68 | $655.22 | $433.94
35901 | C |  | Excision, graft, neck |  |  |  |  |
35903 | T |  | Excision, graft, extremity | 0115 | 31.4727 | $1,867.68 | $459.35 | $373.54
35905 | C |  | Excision, graft, thorax |  |  |  |  |
35907 | C |  | Excision, graft, abdomen |  |  |  |  |
36000 | N |  | Place needle in vein |  |  |  |  |
36002 | S |  | Pseudoaneurysm injection trt | 0267 | 2.6327 | $156.23 | $62.18 | $31.25
36005 | N |  | Injection ext venography |  |  |  |  |
36010 | N |  | Place catheter in vein |  |  |  |  |
36011 | N |  | Place catheter in vein |  |  |  |  |
36012 | N |  | Place catheter in vein |  |  |  |  |
36013 | N |  | Place catheter in artery |  |  |  |  |
36014 | N |  | Place catheter in artery |  |  |  |  |
36015 | N |  | Place catheter in artery |  |  |  |  |
36100 | N |  | Establish access to artery |  |  |  |  |
36120 | N |  | Establish access to artery |  |  |  |  |
36140 | N |  | Establish access to artery |  |  |  |  |
36145 | N |  | Artery to vein shunt |  |  |  |  |
36160 | N |  | Establish access to aorta |  |  |  |  |
36200 | N |  | Place catheter in aorta |  |  |  |  |
36215 | N |  | Place catheter in artery |  |  |  |  |
36216 | N |  | Place catheter in artery |  |  |  |  |
36217 | N |  | Place catheter in artery |  |  |  |  |
36218 | N |  | Place catheter in artery |  |  |  |  |
36245 | N |  | Place catheter in artery |  |  |  |  |
36246 | N |  | Place catheter in artery |  |  |  |  |
36247 | N |  | Place catheter in artery |  |  |  |  |
36248 | N |  | Place catheter in artery |  |  |  |  |
36260 | T |  | Insertion of infusion pump | 0623 | 27.1105 | $1,608.82 |  | $321.76
36261 | T |  | Revision of infusion pump | 0623 | 27.1105 | $1,608.82 |  | $321.76
36262 | T |  | Removal of infusion pump | 0622 | 21.2671 | $1,262.05 |  | $252.41
36299 | N |  | Vessel injection procedure |  |  |  |  |
36400 | N |  | Bl draw < 3 yrs fem/jugular |  |  |  |  |
36405 | N |  | Bl draw < 3 yrs scalp vein |  |  |  |  |
36406 | N |  | Bl draw < 3 yrs other vein |  |  |  |  |
36410 | N |  | Non-routine bl draw > 3 yrs |  |  |  |  |
36415 | A |  | Drawing blood |  |  |  |  |
36416 | N |  | Capillary blood draw |  |  |  |  |
36420 | T |  | Vein access cutdown < 1 yr | 0035 | 0.7158 | $42.48 |  | $8.50
36425 | T |  | Vein access cutdown > 1 yr | 0035 | 0.7158 | $42.48 |  | $8.50
36430 | S |  | Blood transfusion service | 0110 | 3.6594 | $217.16 |  | $43.43
36440 | S |  | Bl push transfuse, 2 yr or < | 0110 | 3.6594 | $217.16 |  | $43.43
36450 | S |  | Bl exchange/transfuse, nb | 0110 | 3.6594 | $217.16 |  | $43.43
36455 | S |  | Bl exchange/transfuse non-nb | 0110 | 3.6594 | $217.16 |  | $43.43
36460 | S |  | Transfusion service, fetal | 0110 | 3.6594 | $217.16 |  | $43.43
36468 | T |  | Injection(s), spider veins | 0098 | 1.1346 | $67.33 |  | $13.47
36469 | T |  | Injection(s), spider veins | 0098 | 1.1346 | $67.33 |  | $13.47
36470 | T |  | Injection therapy of vein | 0098 | 1.1346 | $67.33 |  | $13.47
36471 | T |  | Injection therapy of veins | 0098 | 1.1346 | $67.33 |  | $13.47
36475 | T |  | Endovenous rf, 1st vein | 0092 | 26.482 | $1,571.52 | $505.37 | $314.30
36476 | T |  | Endovenous rf, vein add-on | 0092 | 26.482 | $1,571.52 | $505.37 | $314.30
36478 | T |  | Endovenous laser, 1st vein | 0092 | 26.482 | $1,571.52 | $505.37 | $314.30
36479 | T |  | Endovenous laser vein addon | 0092 | 26.482 | $1,571.52 | $505.37 | $314.30
36481 | N |  | Insertion of catheter, vein |  |  |  |  |
36500 | N |  | Insertion of catheter, vein |  |  |  |  |
36510 | N |  | Insertion of catheter, vein |  |  |  |  |
36511 | S |  | Apheresis wbc | 0111 | 12.3956 | $735.59 | $200.18 | $147.12
36512 | S |  | Apheresis rbc | 0111 | 12.3956 | $735.59 | $200.18 | $147.12
36513 | S |  | Apheresis platelets | 0111 | 12.3956 | $735.59 | $200.18 | $147.12
36514 | S |  | Apheresis plasma | 0111 | 12.3956 | $735.59 | $200.18 | $147.12
36515 | S |  | Apheresis, adsorp/reinfuse | 0112 | 26.7948 | $1,590.08 | $438.94 | $318.02
36516 | S |  | Apheresis, selective | 0112 | 26.7948 | $1,590.08 | $438.94 | $318.02
36522 | S |  | Photopheresis | 0112 | 26.7948 | $1,590.08 | $438.94 | $318.02
36540 | N |  | Collect blood venous device |  |  |  |  |
36550 | T |  | Declot vascular device | 0676 | 2.4105 | $143.05 |  | $28.61
36555 | T |  | Insert non-tunnel cv cath | 0621 | 8.2986 | $492.46 |  | $98.49
36556 | T |  | Insert non-tunnel cv cath | 0621 | 8.2986 | $492.46 |  | $98.49
36557 | T |  | Insert tunneled cv cath | 0622 | 21.2671 | $1,262.05 |  | $252.41
36558 | T |  | Insert tunneled cv cath | 0622 | 21.2671 | $1,262.05 |  | $252.41
36560 | T |  | Insert tunneled cv cath | 0623 | 27.1105 | $1,608.82 |  | $321.76
36561 | T |  | Insert tunneled cv cath | 0623 | 27.1105 | $1,608.82 |  | $321.76
36563 | T |  | Insert tunneled cv cath | 0623 | 27.1105 | $1,608.82 |  | $321.76
36565 | T |  | Insert tunneled cv cath | 0623 | 27.1105 | $1,608.82 |  | $321.76
36566 | T |  | Insert tunneled cv cath | 1564 |  | $4,750.00 |  | $950.00
36568 | T |  | Insert tunneled cv cath | 0621 | 8.2986 | $492.46 |  | $98.49
36569 | T |  | Insert tunneled cv cath | 0621 | 8.2986 | $492.46 |  | $98.49
36570 | T |  | Insert tunneled cv cath | 0622 | 21.2671 | $1,262.05 |  | $252.41
36571 | T |  | Insert tunneled cv cath | 0622 | 21.2671 | $1,262.05 |  | $252.41
36575 | T |  | Repair tunneled cv cath | 0621 | 8.2986 | $492.46 |  | $98.49
36576 | T |  | Repair tunneled cv cath | 0621 | 8.2986 | $492.46 |  | $98.49
36578 | T |  | Replace tunneled cv cath | 0622 | 21.2671 | $1,262.05 |  | $252.41
36580 | T |  | Replace tunneled cv cath | 0621 | 8.2986 | $492.46 |  | $98.49
36581 | T |  | Replace tunneled cv cath | 0622 | 21.2671 | $1,262.05 |  | $252.41
36582 | T |  | Replace tunneled cv cath | 0623 | 27.1105 | $1,608.82 |  | $321.76
36583 | T |  | Replace tunneled cv cath | 0623 | 27.1105 | $1,608.82 |  | $321.76
36584 | T |  | Replace tunneled cv cath | 0621 | 8.2986 | $492.46 |  | $98.49
36585 | T |  | Replace tunneled cv cath | 0622 | 21.2671 | $1,262.05 |  | $252.41
36589 | T |  | Removal tunneled cv cath | 0621 | 8.2986 | $492.46 |  | $98.49
36590 | T |  | Removal tunneled cv cath | 0621 | 8.2986 | $492.46 |  | $98.49
36595 | T |  | Mech remov tunneled cv cath | 0622 | 21.2671 | $1,262.05 |  | $252.41
36596 | T |  | Mech remov tunneled cv cath | 0621 | 8.2986 | $492.46 |  | $98.49
36597 | T |  | Reposition venous catheter | 0621 | 8.2986 | $492.46 |  | $98.49
36600 | N |  | Withdrawal of arterial blood |  |  |  |  |
36620 | N |  | Insertion catheter, artery |  |  |  |  |
36625 | N |  | Insertion catheter, artery |  |  |  |  |
36640 | T |  | Insertion catheter, artery | 0623 | 27.1105 | $1,608.82 |  | $321.76
36660 | C |  | Insertion catheter, artery |  |  |  |  |
36680 | T |  | Insert needle, bone cavity | 0002 | 0.9559 | $56.73 |  | $11.35
36800 | T |  | Insertion of cannula | 0115 | 31.4727 | $1,867.68 | $459.35 | $373.54
36810 | T |  | Insertion of cannula | 0115 | 31.4727 | $1,867.68 | $459.35 | $373.54
36815 | T |  | Insertion of cannula | 0115 | 31.4727 | $1,867.68 | $459.35 | $373.54
36818 | T |  | Av fuse, uppr arm, cephalic | 0088 | 36.5617 | $2,169.68 | $655.22 | $433.94
36819 | T |  | Av fusion/uppr arm vein | 0088 | 36.5617 | $2,169.68 | $655.22 | $433.94
36820 | T |  | Av fusion/forearm vein | 0088 | 36.5617 | $2,169.68 | $655.22 | $433.94
36821 | T |  | Av fusion direct any site | 0088 | 36.5617 | $2,169.68 | $655.22 | $433.94
36822 | C |  | Insertion of cannula(s) |  |  |  |  |
36823 | C |  | Insertion of cannula(s) |  |  |  |  |
36825 | T |  | Artery-vein autograft | 0088 | 36.5617 | $2,169.68 | $655.22 | $433.94
36830 | T |  | Artery-vein graft | 0088 | 36.5617 | $2,169.68 | $655.22 | $433.94
36831 | T |  | Open thrombect av fistula | 0088 | 36.5617 | $2,169.68 | $655.22 | $433.94
36832 | T |  | Av fistula revision, open | 0088 | 36.5617 | $2,169.68 | $655.22 | $433.94
36833 | T |  | Av fistula revision | 0088 | 36.5617 | $2,169.68 | $655.22 | $433.94
36834 | T |  | Repair A-V aneurysm | 0088 | 36.5617 | $2,169.68 | $655.22 | $433.94
36835 | T |  | Artery to vein shunt | 0115 | 31.4727 | $1,867.68 | $459.35 | $373.54
36838 | T |  | Dist revas ligation, hemo | 0088 | 36.5617 | $2,169.68 | $655.22 | $433.94
36860 | T |  | External cannula declotting | 0676 | 2.4105 | $143.05 |  | $28.61
36861 | T |  | Cannula declotting | 0115 | 31.4727 | $1,867.68 | $459.35 | $373.54
36870 | T |  | Percut thrombect av fistula | 0653 | 30.5339 | $1,811.97 |  | $362.39
37140 | C |  | Revision of circulation |  |  |  |  |
37145 | C |  | Revision of circulation |  |  |  |  |
37160 | C |  | Revision of circulation |  |  |  |  |
37180 | C |  | Revision of circulation |  |  |  |  |
37181 | C |  | Splice spleen/kidney veins |  |  |  |  |
37182 | C |  | Insert hepatic shunt (tips) |  |  |  |  |
37183 | T |  | Remove hepatic shunt (tips) | 0229 | 64.4545 | $3,824.92 | $771.23 | $764.98
37195 | T |  | Thrombolytic therapy, stroke | 0676 | 2.4105 | $143.05 |  | $28.61
37200 | T |  | Transcatheter biopsy | 0685 | 6.0174 | $357.09 | $115.47 | $71.42
37201 | T |  | Transcatheter therapy infuse | 0676 | 2.4105 | $143.05 |  | $28.61
37202 | T |  | Transcatheter therapy infuse | 0676 | 2.4105 | $143.05 |  | $28.61
37203 | T |  | Transcatheter retrieval | 0103 | 14.7142 | $873.18 | $223.63 | $174.64
37204 | T |  | Transcatheter occlusion | 0115 | 31.4727 | $1,867.68 | $459.35 | $373.54
37205 | T |  | Transcatheter stent | 0229 | 64.4545 | $3,824.92 | $771.23 | $764.98
37206 | T |  | Transcatheter stent add-on | 0229 | 64.4545 | $3,824.92 | $771.23 | $764.98
37207 | T |  | Transcatheter stent | 0229 | 64.4545 | $3,824.92 | $771.23 | $764.98
37208 | T |  | Transcatheter stent add-on | 0229 | 64.4545 | $3,824.92 | $771.23 | $764.98
37209 | T |  | Exchange arterial catheter | 0103 | 14.7142 | $873.18 | $223.63 | $174.64
37215 | C |  | Transcath stent, cca w/eps |  |  |  |  |
37216 | C |  | Transcath stent, cca w/o eps |  |  |  |  |
37250 | S |  | Iv us first vessel add-on | 0416 | 19.5542 | $1,160.40 |  | $232.08
37251 | S |  | Iv us each add vessel add-on | 0416 | 19.5542 | $1,160.40 |  | $232.08
37500 | T |  | Endoscopy ligate perf veins | 0092 | 26.482 | $1,571.52 | $505.37 | $314.30
37501 | T |  | Vascular endoscopy procedure | 0092 | 26.482 | $1,571.52 | $505.37 | $314.30
37565 | T |  | Ligation of neck vein | 0093 | 23.4516 | $1,391.69 |  | $278.34
37600 | T |  | Ligation of neck artery | 0093 | 23.4516 | $1,391.69 |  | $278.34
37605 | T |  | Ligation of neck artery | 0091 | 28.9999 | $1,720.94 | $348.23 | $344.19
37606 | T |  | Ligation of neck artery | 0091 | 28.9999 | $1,720.94 | $348.23 | $344.19
37607 | T |  | Ligation of a-v fistula | 0092 | 26.482 | $1,571.52 | $505.37 | $314.30
37609 | T |  | Temporal artery procedure | 0021 | 14.9776 | $888.82 | $219.48 | $177.76
37615 | T |  | Ligation of neck artery | 0091 | 28.9999 | $1,720.94 | $348.23 | $344.19
37616 | C |  | Ligation of chest artery |  |  |  |  |
37617 | C |  | Ligation of abdomen artery |  |  |  |  |
37618 | C |  | Ligation of extremity artery |  |  |  |  |
37620 | T |  | Revision of major vein | 0091 | 28.9999 | $1,720.94 | $348.23 | $344.19
37650 | T |  | Revision of major vein | 0091 | 28.9999 | $1,720.94 | $348.23 | $344.19
37660 | C |  | Revision of major vein |  |  |  |  |
37700 | T |  | Revise leg vein | 0091 | 28.9999 | $1,720.94 | $348.23 | $344.19
37720 | T |  | Removal of leg vein | 0092 | 26.482 | $1,571.52 | $505.37 | $314.30
37730 | T |  | Removal of leg veins | 0092 | 26.482 | $1,571.52 | $505.37 | $314.30
37735 | T |  | Removal of leg veins/lesion | 0092 | 26.482 | $1,571.52 | $505.37 | $314.30
37760 | T |  | Revision of leg veins | 0091 | 28.9999 | $1,720.94 | $348.23 | $344.19
37765 | T |  | Phleb veins - extrem - to 20 | 0091 | 28.9999 | $1,720.94 | $348.23 | $344.19
37766 | T |  | Phleb veins - extrem 20+ | 0091 | 28.9999 | $1,720.94 | $348.23 | $344.19
37780 | T |  | Revision of leg vein | 0091 | 28.9999 | $1,720.94 | $348.23 | $344.19
37785 | T |  | Ligate/divide/excise vein | 0091 | 28.9999 | $1,720.94 | $348.23 | $344.19
37788 | C |  | Revascularization, penis |  |  |  |  |
37790 | T |  | Penile venous occlusion | 0181 | 30.8663 | $1,831.70 | $621.82 | $366.34
37799 | T |  | Vascular surgery procedure | 0103 | 14.7142 | $873.18 | $223.63 | $174.64
38100 | C |  | Removal of spleen, total |  |  |  |  |
38101 | C |  | Removal of spleen, partial |  |  |  |  |
38102 | C |  | Removal of spleen, total |  |  |  |  |
38115 | C |  | Repair of ruptured spleen |  |  |  |  |
38120 | T |  | Laparoscopy, splenectomy | 0131 | 43.3389 | $2,571.86 | $1,001.89 | $514.37
38129 | T |  | Laparoscope proc, spleen | 0130 | 31.9271 | $1,894.65 | $659.53 | $378.93
38200 | N |  | Injection for spleen x-ray |  |  |  |  |
38204 | E |  | Bl donor search management |  |  |  |  |
38205 | S |  | Harvest allogenic stem cells | 0111 | 12.3956 | $735.59 | $200.18 | $147.12
38206 | S |  | Harvest auto stem cells | 0111 | 12.3956 | $735.59 | $200.18 | $147.12
38207 | E |  | Cryopreserve stem cells |  |  |  |  |
38208 | E |  | Thaw preserved stem cells |  |  |  |  |
38209 | E |  | Wash harvest stem cells |  |  |  |  |
38210 | E |  | T-cell depletion of harvest |  |  |  |  |
38211 | E |  | Tumor cell deplete of harvst |  |  |  |  |
38212 | E |  | Rbc depletion of harvest |  |  |  |  |
38213 | E |  | Platelet deplete of harvest |  |  |  |  |
38214 | E |  | Volume deplete of harvest |  |  |  |  |
38215 | E |  | Harvest stem cell concentrte |  |  |  |  |
38220 | T |  | Bone marrow aspiration | 0003 | 2.653 | $157.44 |  | $31.49
38221 | T |  | Bone marrow biopsy | 0003 | 2.653 | $157.44 |  | $31.49
38230 | S |  | Bone marrow collection | 0111 | 12.3956 | $735.59 | $200.18 | $147.12
38240 | S |  | Bone marrow/stem transplant | 0123 | 22.9902 | $1,364.31 |  | $272.86
38241 | S |  | Bone marrow/stem transplant | 0123 | 22.9902 | $1,364.31 |  | $272.86
38242 | S |  | Lymphocyte infuse transplant | 0111 | 12.3956 | $735.59 | $200.18 | $147.12
38300 | T |  | Drainage, lymph node lesion | 0007 | 11.4501 | $679.48 |  | $135.90
38305 | T |  | Drainage, lymph node lesion | 0008 | 16.4989 | $979.09 |  | $195.82
38308 | T |  | Incision of lymph channels | 0113 | 21.4653 | $1,273.82 |  | $254.76
38380 | C |  | Thoracic duct procedure |  |  |  |  |
38381 | C |  | Thoracic duct procedure |  |  |  |  |
38382 | C |  | Thoracic duct procedure |  |  |  |  |
38500 | T |  | Biopsy/removal, lymph nodes | 0113 | 21.4653 | $1,273.82 |  | $254.76
38505 | T |  | Needle biopsy, lymph nodes | 0005 | 3.5994 | $213.60 | $71.59 | $42.72
38510 | T |  | Biopsy/removal, lymph nodes | 0113 | 21.4653 | $1,273.82 |  | $254.76
38520 | T |  | Biopsy/removal, lymph nodes | 0113 | 21.4653 | $1,273.82 |  | $254.76
38525 | T |  | Biopsy/removal, lymph nodes | 0113 | 21.4653 | $1,273.82 |  | $254.76
38530 | T |  | Biopsy/removal, lymph nodes | 0113 | 21.4653 | $1,273.82 |  | $254.76
38542 | T |  | Explore deep node(s), neck | 0114 | 40.7652 | $2,419.13 | $485.91 | $483.83
38550 | T |  | Removal, neck/armpit lesion | 0113 | 21.4653 | $1,273.82 |  | $254.76
38555 | T |  | Removal, neck/armpit lesion | 0113 | 21.4653 | $1,273.82 |  | $254.76
38562 | C |  | Removal, pelvic lymph nodes |  |  |  |  |
38564 | C |  | Removal, abdomen lymph nodes |  |  |  |  |
38570 | T |  | Laparoscopy, lymph node biop | 0131 | 43.3389 | $2,571.86 | $1,001.89 | $514.37
38571 | T |  | Laparoscopy, lymphadenectomy | 0132 | 62.9914 | $3,738.10 | $1,239.22 | $747.62
38572 | T |  | Laparoscopy, lymphadenectomy | 0131 | 43.3389 | $2,571.86 | $1,001.89 | $514.37
38589 | T |  | Laparoscope proc, lymphatic | 0130 | 31.9271 | $1,894.65 | $659.53 | $378.93
38700 | T |  | Removal of lymph nodes, neck | 0113 | 21.4653 | $1,273.82 |  | $254.76
38720 | T |  | Removal of lymph nodes, neck | 0113 | 21.4653 | $1,273.82 |  | $254.76
38724 | C |  | Removal of lymph nodes, neck |  |  |  |  |
38740 | T |  | Remove armpit lymph nodes | 0114 | 40.7652 | $2,419.13 | $485.91 | $483.83
38745 | T |  | Remove armpit lymph nodes | 0114 | 40.7652 | $2,419.13 | $485.91 | $483.83
38746 | C |  | Remove thoracic lymph nodes |  |  |  |  |
38747 | C |  | Remove abdominal lymph nodes |  |  |  |  |
38760 | T |  | Remove groin lymph nodes | 0113 | 21.4653 | $1,273.82 |  | $254.76
38765 | C |  | Remove groin lymph nodes |  |  |  |  |
38770 | C |  | Remove pelvis lymph nodes |  |  |  |  |
38780 | C |  | Remove abdomen lymph nodes |  |  |  |  |
38790 | N |  | Inject for lymphatic x-ray |  |  |  |  |
38792 | N |  | Identify sentinel node |  |  |  |  |
38794 | N |  | Access thoracic lymph duct |  |  |  |  |
38999 | S |  | Blood/lymph system procedure | 0110 | 3.6594 | $217.16 |  | $43.43
39000 | C |  | Exploration of chest |  |  |  |  |
39010 | C |  | Exploration of chest |  |  |  |  |
39200 | C |  | Removal chest lesion |  |  |  |  |
39220 | C |  | Removal chest lesion |  |  |  |  |
39400 | T |  | Visualization of chest | 0069 | 30.6775 | $1,820.49 | $591.64 | $364.10
39499 | C |  | Chest procedure |  |  |  |  |
39501 | C |  | Repair diaphragm laceration |  |  |  |  |
39502 | C |  | Repair paraesophageal hernia |  |  |  |  |
39503 | C |  | Repair of diaphragm hernia |  |  |  |  |
39520 | C |  | Repair of diaphragm hernia |  |  |  |  |
39530 | C |  | Repair of diaphragm hernia |  |  |  |  |
39531 | C |  | Repair of diaphragm hernia |  |  |  |  |
39540 | C |  | Repair of diaphragm hernia |  |  |  |  |
39541 | C |  | Repair of diaphragm hernia |  |  |  |  |
39545 | C |  | Revision of diaphragm |  |  |  |  |
39560 | C |  | Resect diaphragm, simple |  |  |  |  |
39561 | C |  | Resect diaphragm, complex |  |  |  |  |
39599 | C |  | Diaphragm surgery procedure |  |  |  |  |
4000F | E |  | Tobacco use txmnt counseling |  |  |  |  |
4001F | E |  | Tobacco use txmnt, pharmacol |  |  |  |  |
4002F | E |  | Statin therapy, rx |  |  |  |  |
4006F | E |  | Beta-blocker therapy, rx |  |  |  |  |
4009F | E |  | Ace inhibitor therapy, rx |  |  |  |  |
4011F | E |  | Oral antiplatelet tx, rx |  |  |  |  |
40490 | T |  | Biopsy of lip | 0251 | 2.0101 | $119.29 |  | $23.86
40500 | T |  | Partial excision of lip | 0253 | 16.1357 | $957.54 | $282.29 | $191.51
40510 | T |  | Partial excision of lip | 0254 | 23.404 | $1,388.86 | $321.35 | $277.77
40520 | T |  | Partial excision of lip | 0253 | 16.1357 | $957.54 | $282.29 | $191.51
40525 | T |  | Reconstruct lip with flap | 0254 | 23.404 | $1,388.86 | $321.35 | $277.77
40527 | T |  | Reconstruct lip with flap | 0254 | 23.404 | $1,388.86 | $321.35 | $277.77
40530 | T |  | Partial removal of lip | 0254 | 23.404 | $1,388.86 | $321.35 | $277.77
40650 | T |  | Repair lip | 0252 | 7.8673 | $466.87 | $113.41 | $93.37
40652 | T |  | Repair lip | 0252 | 7.8673 | $466.87 | $113.41 | $93.37
40654 | T |  | Repair lip | 0252 | 7.8673 | $466.87 | $113.41 | $93.37
40700 | T |  | Repair cleft lip/nasal | 0256 | 37.3204 | $2,214.70 |  | $442.94
40701 | T |  | Repair cleft lip/nasal | 0256 | 37.3204 | $2,214.70 |  | $442.94
40702 | T |  | Repair cleft lip/nasal | 0256 | 37.3204 | $2,214.70 |  | $442.94
40720 | T |  | Repair cleft lip/nasal | 0256 | 37.3204 | $2,214.70 |  | $442.94
40761 | T |  | Repair cleft lip/nasal | 0256 | 37.3204 | $2,214.70 |  | $442.94
40799 | T |  | Lip surgery procedure | 0251 | 2.0101 | $119.29 |  | $23.86
40800 | T |  | Drainage of mouth lesion | 0251 | 2.0101 | $119.29 |  | $23.86
40801 | T |  | Drainage of mouth lesion | 0252 | 7.8673 | $466.87 | $113.41 | $93.37
40804 | X |  | Removal, foreign body, mouth | 0340 | 0.6384 | $37.88 |  | $7.58
40805 | T |  | Removal, foreign body, mouth | 0252 | 7.8673 | $466.87 | $113.41 | $93.37
40806 | T |  | Incision of lip fold | 0251 | 2.0101 | $119.29 |  | $23.86
40808 | T |  | Biopsy of mouth lesion | 0251 | 2.0101 | $119.29 |  | $23.86
40810 | T |  | Excision of mouth lesion | 0253 | 16.1357 | $957.54 | $282.29 | $191.51
40812 | T |  | Excise/repair mouth lesion | 0253 | 16.1357 | $957.54 | $282.29 | $191.51
40814 | T |  | Excise/repair mouth lesion | 0253 | 16.1357 | $957.54 | $282.29 | $191.51
40816 | T |  | Excision of mouth lesion | 0254 | 23.404 | $1,388.86 | $321.35 | $277.77
40818 | T |  | Excise oral mucosa for graft | 0251 | 2.0101 | $119.29 |  | $23.86
40819 | T |  | Excise lip or cheek fold | 0252 | 7.8673 | $466.87 | $113.41 | $93.37
40820 | T |  | Treatment of mouth lesion | 0253 | 16.1357 | $957.54 | $282.29 | $191.51
40830 | T |  | Repair mouth laceration | 0251 | 2.0101 | $119.29 |  | $23.86
40831 | T |  | Repair mouth laceration | 0252 | 7.8673 | $466.87 | $113.41 | $93.37
40840 | T |  | Reconstruction of mouth | 0254 | 23.404 | $1,388.86 | $321.35 | $277.77
40842 | T |  | Reconstruction of mouth | 0254 | 23.404 | $1,388.86 | $321.35 | $277.77
40843 | T |  | Reconstruction of mouth | 0254 | 23.404 | $1,388.86 | $321.35 | $277.77
40844 | T |  | Reconstruction of mouth | 0256 | 37.3204 | $2,214.70 |  | $442.94
40845 | T |  | Reconstruction of mouth | 0256 | 37.3204 | $2,214.70 |  | $442.94
40899 | T |  | Mouth surgery procedure | 0251 | 2.0101 | $119.29 |  | $23.86
41000 | T |  | Drainage of mouth lesion | 0253 | 16.1357 | $957.54 | $282.29 | $191.51
41005 | T |  | Drainage of mouth lesion | 0251 | 2.0101 | $119.29 |  | $23.86
41006 | T |  | Drainage of mouth lesion | 0254 | 23.404 | $1,388.86 | $321.35 | $277.77
41007 | T |  | Drainage of mouth lesion | 0253 | 16.1357 | $957.54 | $282.29 | $191.51
41008 | T |  | Drainage of mouth lesion | 0253 | 16.1357 | $957.54 | $282.29 | $191.51
41009 | T |  | Drainage of mouth lesion | 0251 | 2.0101 | $119.29 |  | $23.86
41010 | T |  | Incision of tongue fold | 0252 | 7.8673 | $466.87 | $113.41 | $93.37
41015 | T |  | Drainage of mouth lesion | 0251 | 2.0101 | $119.29 |  | $23.86
41016 | T |  | Drainage of mouth lesion | 0252 | 7.8673 | $466.87 | $113.41 | $93.37
41017 | T |  | Drainage of mouth lesion | 0252 | 7.8673 | $466.87 | $113.41 | $93.37
41018 | T |  | Drainage of mouth lesion | 0252 | 7.8673 | $466.87 | $113.41 | $93.37
41100 | T |  | Biopsy of tongue | 0252 | 7.8673 | $466.87 | $113.41 | $93.37
41105 | T |  | Biopsy of tongue | 0253 | 16.1357 | $957.54 | $282.29 | $191.51
41108 | T |  | Biopsy of floor of mouth | 0252 | 7.8673 | $466.87 | $113.41 | $93.37
41110 | T |  | Excision of tongue lesion | 0253 | 16.1357 | $957.54 | $282.29 | $191.51
41112 | T |  | Excision of tongue lesion | 0253 | 16.1357 | $957.54 | $282.29 | $191.51
41113 | T |  | Excision of tongue lesion | 0253 | 16.1357 | $957.54 | $282.29 | $191.51
41114 | T |  | Excision of tongue lesion | 0254 | 23.404 | $1,388.86 | $321.35 | $277.77
41115 | T |  | Excision of tongue fold | 0252 | 7.8673 | $466.87 | $113.41 | $93.37
41116 | T |  | Excision of mouth lesion | 0253 | 16.1357 | $957.54 | $282.29 | $191.51
41120 | T |  | Partial removal of tongue | 0254 | 23.404 | $1,388.86 | $321.35 | $277.77
41130 | C |  | Partial removal of tongue |  |  |  |  |
41135 | C |  | Tongue and neck surgery |  |  |  |  |
41140 | C |  | Removal of tongue |  |  |  |  |
41145 | C |  | Tongue removal, neck surgery |  |  |  |  |
41150 | C |  | Tongue, mouth, jaw surgery |  |  |  |  |
41153 | C |  | Tongue, mouth, neck surgery |  |  |  |  |
41155 | C |  | Tongue, jaw, & neck surgery |  |  |  |  |
41250 | T |  | Repair tongue laceration | 0251 | 2.0101 | $119.29 |  | $23.86
41251 | T |  | Repair tongue laceration | 0251 | 2.0101 | $119.29 |  | $23.86
41252 | T |  | Repair tongue laceration | 0252 | 7.8673 | $466.87 | $113.41 | $93.37
41500 | T |  | Fixation of tongue | 0254 | 23.404 | $1,388.86 | $321.35 | $277.77
41510 | T |  | Tongue to lip surgery | 0253 | 16.1357 | $957.54 | $282.29 | $191.51
41520 | T |  | Reconstruction, tongue fold | 0252 | 7.8673 | $466.87 | $113.41 | $93.37
41599 | T |  | Tongue and mouth surgery | 0251 | 2.0101 | $119.29 |  | $23.86
41800 | T |  | Drainage of gum lesion | 0251 | 2.0101 | $119.29 |  | $23.86
41805 | T |  | Removal foreign body, gum | 0254 | 23.404 | $1,388.86 | $321.35 | $277.77
41806 | T |  | Removal foreign body,jawbone | 0253 | 16.1357 | $957.54 | $282.29 | $191.51
41820 | T |  | Excision, gum, each quadrant | 0252 | 7.8673 | $466.87 | $113.41 | $93.37
41821 | T |  | Excision of gum flap | 0252 | 7.8673 | $466.87 | $113.41 | $93.37
41822 | T |  | Excision of gum lesion | 0253 | 16.1357 | $957.54 | $282.29 | $191.51
41823 | T |  | Excision of gum lesion | 0254 | 23.404 | $1,388.86 | $321.35 | $277.77
41825 | T |  | Excision of gum lesion | 0253 | 16.1357 | $957.54 | $282.29 | $191.51
41826 | T |  | Excision of gum lesion | 0253 | 16.1357 | $957.54 | $282.29 | $191.51
41827 | T |  | Excision of gum lesion | 0254 | 23.404 | $1,388.86 | $321.35 | $277.77
41828 | T |  | Excision of gum lesion | 0253 | 16.1357 | $957.54 | $282.29 | $191.51
41830 | T |  | Removal of gum tissue | 0253 | 16.1357 | $957.54 | $282.29 | $191.51
41850 | T |  | Treatment of gum lesion | 0253 | 16.1357 | $957.54 | $282.29 | $191.51
41870 | T |  | Gum graft | 0254 | 23.404 | $1,388.86 | $321.35 | $277.77
41872 | T |  | Repair gum | 0253 | 16.1357 | $957.54 | $282.29 | $191.51
41874 | T |  | Repair tooth socket | 0254 | 23.404 | $1,388.86 | $321.35 | $277.77
41899 | T |  | Dental surgery procedure | 0251 | 2.0101 | $119.29 |  | $23.86
42000 | T |  | Drainage mouth roof lesion | 0251 | 2.0101 | $119.29 |  | $23.86
42100 | T |  | Biopsy roof of mouth | 0252 | 7.8673 | $466.87 | $113.41 | $93.37
42104 | T |  | Excision lesion, mouth roof | 0253 | 16.1357 | $957.54 | $282.29 | $191.51
42106 | T |  | Excision lesion, mouth roof | 0253 | 16.1357 | $957.54 | $282.29 | $191.51
42107 | T |  | Excision lesion, mouth roof | 0254 | 23.404 | $1,388.86 | $321.35 | $277.77
42120 | T |  | Remove palate/lesion | 0256 | 37.3204 | $2,214.70 |  | $442.94
42140 | T |  | Excision of uvula | 0252 | 7.8673 | $466.87 | $113.41 | $93.37
42145 | T |  | Repair palate, pharynx/uvula | 0254 | 23.404 | $1,388.86 | $321.35 | $277.77
42160 | T |  | Treatment mouth roof lesion | 0253 | 16.1357 | $957.54 | $282.29 | $191.51
42180 | T |  | Repair palate | 0251 | 2.0101 | $119.29 |  | $23.86
42182 | T |  | Repair palate | 0256 | 37.3204 | $2,214.70 |  | $442.94
42200 | T |  | Reconstruct cleft palate | 0256 | 37.3204 | $2,214.70 |  | $442.94
42205 | T |  | Reconstruct cleft palate | 0256 | 37.3204 | $2,214.70 |  | $442.94
42210 | T |  | Reconstruct cleft palate | 0256 | 37.3204 | $2,214.70 |  | $442.94
42215 | T |  | Reconstruct cleft palate | 0256 | 37.3204 | $2,214.70 |  | $442.94
42220 | T |  | Reconstruct cleft palate | 0256 | 37.3204 | $2,214.70 |  | $442.94
42225 | T |  | Reconstruct cleft palate | 0256 | 37.3204 | $2,214.70 |  | $442.94
42226 | T |  | Lengthening of palate | 0256 | 37.3204 | $2,214.70 |  | $442.94
42227 | T |  | Lengthening of palate | 0256 | 37.3204 | $2,214.70 |  | $442.94
42235 | T |  | Repair palate | 0253 | 16.1357 | $957.54 | $282.29 | $191.51
42260 | T |  | Repair nose to lip fistula | 0254 | 23.404 | $1,388.86 | $321.35 | $277.77
42280 | T |  | Preparation, palate mold | 0251 | 2.0101 | $119.29 |  | $23.86
42281 | T |  | Insertion, palate prosthesis | 0253 | 16.1357 | $957.54 | $282.29 | $191.51
42299 | T |  | Palate/uvula surgery | 0251 | 2.0101 | $119.29 |  | $23.86
42300 | T |  | Drainage of salivary gland | 0253 | 16.1357 | $957.54 | $282.29 | $191.51
42305 | T |  | Drainage of salivary gland | 0253 | 16.1357 | $957.54 | $282.29 | $191.51
42310 | T |  | Drainage of salivary gland | 0251 | 2.0101 | $119.29 |  | $23.86
42320 | T |  | Drainage of salivary gland | 0251 | 2.0101 | $119.29 |  | $23.86
42325 | T |  | Create salivary cyst drain | 0251 | 2.0101 | $119.29 |  | $23.86
42326 | T |  | Create salivary cyst drain | 0252 | 7.8673 | $466.87 | $113.41 | $93.37
42330 | T |  | Removal of salivary stone | 0253 | 16.1357 | $957.54 | $282.29 | $191.51
42335 | T |  | Removal of salivary stone | 0253 | 16.1357 | $957.54 | $282.29 | $191.51
42340 | T |  | Removal of salivary stone | 0253 | 16.1357 | $957.54 | $282.29 | $191.51
42400 | T |  | Biopsy of salivary gland | 0005 | 3.5994 | $213.60 | $71.59 | $42.72
42405 | T |  | Biopsy of salivary gland | 0253 | 16.1357 | $957.54 | $282.29 | $191.51
42408 | T |  | Excision of salivary cyst | 0253 | 16.1357 | $957.54 | $282.29 | $191.51
42409 | T |  | Drainage of salivary cyst | 0253 | 16.1357 | $957.54 | $282.29 | $191.51
42410 | T |  | Excise parotid gland/lesion | 0256 | 37.3204 | $2,214.70 |  | $442.94
42415 | T |  | Excise parotid gland/lesion | 0256 | 37.3204 | $2,214.70 |  | $442.94
42420 | T |  | Excise parotid gland/lesion | 0256 | 37.3204 | $2,214.70 |  | $442.94
42425 | T |  | Excise parotid gland/lesion | 0256 | 37.3204 | $2,214.70 |  | $442.94
42426 | C |  | Excise parotid gland/lesion |  |  |  |  |
42440 | T |  | Excise submaxillary gland | 0256 | 37.3204 | $2,214.70 |  | $442.94
42450 | T |  | Excise sublingual gland | 0254 | 23.404 | $1,388.86 | $321.35 | $277.77
42500 | T |  | Repair salivary duct | 0254 | 23.404 | $1,388.86 | $321.35 | $277.77
42505 | T |  | Repair salivary duct | 0256 | 37.3204 | $2,214.70 |  | $442.94
42507 | T |  | Parotid duct diversion | 0256 | 37.3204 | $2,214.70 |  | $442.94
42508 | T |  | Parotid duct diversion | 0256 | 37.3204 | $2,214.70 |  | $442.94
42509 | T |  | Parotid duct diversion | 0256 | 37.3204 | $2,214.70 |  | $442.94
42510 | T |  | Parotid duct diversion | 0256 | 37.3204 | $2,214.70 |  | $442.94
42550 | N |  | Injection for salivary x-ray |  |  |  |  |
42600 | T |  | Closure of salivary fistula | 0253 | 16.1357 | $957.54 | $282.29 | $191.51
42650 | T |  | Dilation of salivary duct | 0252 | 7.8673 | $466.87 | $113.41 | $93.37
42660 | T |  | Dilation of salivary duct | 0251 | 2.0101 | $119.29 |  | $23.86
42665 | T |  | Ligation of salivary duct | 0254 | 23.404 | $1,388.86 | $321.35 | $277.77
42699 | T |  | Salivary surgery procedure | 0251 | 2.0101 | $119.29 |  | $23.86
42700 | T |  | Drainage of tonsil abscess | 0251 | 2.0101 | $119.29 |  | $23.86
42720 | T |  | Drainage of throat abscess | 0253 | 16.1357 | $957.54 | $282.29 | $191.51
42725 | T |  | Drainage of throat abscess | 0256 | 37.3204 | $2,214.70 |  | $442.94
42800 | T |  | Biopsy of throat | 0253 | 16.1357 | $957.54 | $282.29 | $191.51
42802 | T |  | Biopsy of throat | 0253 | 16.1357 | $957.54 | $282.29 | $191.51
42804 | T |  | Biopsy of upper nose/throat | 0253 | 16.1357 | $957.54 | $282.29 | $191.51
42806 | T |  | Biopsy of upper nose/throat | 0254 | 23.404 | $1,388.86 | $321.35 | $277.77
42808 | T |  | Excise pharynx lesion | 0253 | 16.1357 | $957.54 | $282.29 | $191.51
42809 | X |  | Remove pharynx foreign body | 0340 | 0.6384 | $37.88 |  | $7.58
42810 | T |  | Excision of neck cyst | 0254 | 23.404 | $1,388.86 | $321.35 | $277.77
42815 | T |  | Excision of neck cyst | 0256 | 37.3204 | $2,214.70 |  | $442.94
42820 | T |  | Remove tonsils and adenoids | 0258 | 22.2466 | $1,320.18 | $437.25 | $264.04
42821 | T |  | Remove tonsils and adenoids | 0258 | 22.2466 | $1,320.18 | $437.25 | $264.04
42825 | T |  | Removal of tonsils | 0258 | 22.2466 | $1,320.18 | $437.25 | $264.04
42826 | T |  | Removal of tonsils | 0258 | 22.2466 | $1,320.18 | $437.25 | $264.04
42830 | T |  | Removal of adenoids | 0258 | 22.2466 | $1,320.18 | $437.25 | $264.04
42831 | T |  | Removal of adenoids | 0258 | 22.2466 | $1,320.18 | $437.25 | $264.04
42835 | T |  | Removal of adenoids | 0258 | 22.2466 | $1,320.18 | $437.25 | $264.04
42836 | T |  | Removal of adenoids | 0258 | 22.2466 | $1,320.18 | $437.25 | $264.04
42842 | T |  | Extensive surgery of throat | 0254 | 23.404 | $1,388.86 | $321.35 | $277.77
42844 | T |  | Extensive surgery of throat | 0256 | 37.3204 | $2,214.70 |  | $442.94
42845 | C |  | Extensive surgery of throat |  |  |  |  |
42860 | T |  | Excision of tonsil tags | 0258 | 22.2466 | $1,320.18 | $437.25 | $264.04
42870 | T |  | Excision of lingual tonsil | 0258 | 22.2466 | $1,320.18 | $437.25 | $264.04
42890 | T |  | Partial removal of pharynx | 0256 | 37.3204 | $2,214.70 |  | $442.94
42892 | T |  | Revision of pharyngeal walls | 0256 | 37.3204 | $2,214.70 |  | $442.94
42894 | C |  | Revision of pharyngeal walls |  |  |  |  |
42900 | T |  | Repair throat wound | 0252 | 7.8673 | $466.87 | $113.41 | $93.37
42950 | T |  | Reconstruction of throat | 0254 | 23.404 | $1,388.86 | $321.35 | $277.77
42953 | C |  | Repair throat, esophagus |  |  |  |  |
42955 | T |  | Surgical opening of throat | 0254 | 23.404 | $1,388.86 | $321.35 | $277.77
42960 | T |  | Control throat bleeding | 0250 | 1.2896 | $76.53 | $26.79 | $15.31
42961 | C |  | Control throat bleeding |  |  |  |  |
42962 | T |  | Control throat bleeding | 0256 | 37.3204 | $2,214.70 |  | $442.94
42970 | T |  | Control nose/throat bleeding | 0250 | 1.2896 | $76.53 | $26.79 | $15.31
42971 | C |  | Control nose/throat bleeding |  |  |  |  |
42972 | T |  | Control nose/throat bleeding | 0253 | 16.1357 | $957.54 | $282.29 | $191.51
42999 | T |  | Throat surgery procedure | 0251 | 2.0101 | $119.29 |  | $23.86
43020 | T |  | Incision of esophagus | 0252 | 7.8673 | $466.87 | $113.41 | $93.37
43030 | T |  | Throat muscle surgery | 0253 | 16.1357 | $957.54 | $282.29 | $191.51
43045 | C |  | Incision of esophagus |  |  |  |  |
43100 | C |  | Excision of esophagus lesion |  |  |  |  |
43101 | C |  | Excision of esophagus lesion |  |  |  |  |
43107 | C |  | Removal of esophagus |  |  |  |  |
43108 | C |  | Removal of esophagus |  |  |  |  |
43112 | C |  | Removal of esophagus |  |  |  |  |
43113 | C |  | Removal of esophagus |  |  |  |  |
43116 | C |  | Partial removal of esophagus |  |  |  |  |
43117 | C |  | Partial removal of esophagus |  |  |  |  |
43118 | C |  | Partial removal of esophagus |  |  |  |  |
43121 | C |  | Partial removal of esophagus |  |  |  |  |
43122 | C |  | Partial removal of esophagus |  |  |  |  |
43123 | C |  | Partial removal of esophagus |  |  |  |  |
43124 | C |  | Removal of esophagus |  |  |  |  |
43130 | T |  | Removal of esophagus pouch | 0254 | 23.404 | $1,388.86 | $321.35 | $277.77
43135 | C |  | Removal of esophagus pouch |  |  |  |  |
43200 | T |  | Esophagus endoscopy | 0141 | 8.1835 | $485.63 | $143.38 | $97.13
43201 | T |  | Esoph scope w/submucous inj | 0141 | 8.1835 | $485.63 | $143.38 | $97.13
43202 | T |  | Esophagus endoscopy, biopsy | 0141 | 8.1835 | $485.63 | $143.38 | $97.13
43204 | T |  | Esoph scope w/sclerosis inj | 0141 | 8.1835 | $485.63 | $143.38 | $97.13
43205 | T |  | Esophagus endoscopy/ligation | 0141 | 8.1835 | $485.63 | $143.38 | $97.13
43215 | T |  | Esophagus endoscopy | 0141 | 8.1835 | $485.63 | $143.38 | $97.13
43216 | T |  | Esophagus endoscopy/lesion | 0141 | 8.1835 | $485.63 | $143.38 | $97.13
43217 | T |  | Esophagus endoscopy | 0141 | 8.1835 | $485.63 | $143.38 | $97.13
43219 | T |  | Esophagus endoscopy | 0384 | 22.3392 | $1,325.68 | $287.93 | $265.14
43220 | T |  | Esoph endoscopy, dilation | 0141 | 8.1835 | $485.63 | $143.38 | $97.13
43226 | T |  | Esoph endoscopy, dilation | 0141 | 8.1835 | $485.63 | $143.38 | $97.13
43227 | T |  | Esoph endoscopy, repair | 0141 | 8.1835 | $485.63 | $143.38 | $97.13
43228 | T |  | Esoph endoscopy, ablation | 0422 | 22.9647 | $1,362.79 | $448.81 | $272.56
43231 | T |  | Esoph endoscopy w/us exam | 0141 | 8.1835 | $485.63 | $143.38 | $97.13
43232 | T |  | Esoph endoscopy w/us fn bx | 0141 | 8.1835 | $485.63 | $143.38 | $97.13
43234 | T |  | Upper GI endoscopy, exam | 0141 | 8.1835 | $485.63 | $143.38 | $97.13
43235 | T |  | Uppr gi endoscopy, diagnosis | 0141 | 8.1835 | $485.63 | $143.38 | $97.13
43236 | T |  | Uppr gi scope w/submuc inj | 0141 | 8.1835 | $485.63 | $143.38 | $97.13
43237 | T |  | Endoscopic us exam, esoph | 0141 | 8.1835 | $485.63 | $143.38 | $97.13
43238 | T |  | Uppr gi endoscopy w/us fn bx | 0141 | 8.1835 | $485.63 | $143.38 | $97.13
43239 | T |  | Upper GI endoscopy, biopsy | 0141 | 8.1835 | $485.63 | $143.38 | $97.13
43240 | T |  | Esoph endoscope w/drain cyst | 0141 | 8.1835 | $485.63 | $143.38 | $97.13
43241 | T |  | Upper GI endoscopy with tube | 0141 | 8.1835 | $485.63 | $143.38 | $97.13
43242 | T |  | Uppr gi endoscopy w/us fn bx | 0141 | 8.1835 | $485.63 | $143.38 | $97.13
43243 | T |  | Upper gi endoscopy & inject | 0141 | 8.1835 | $485.63 | $143.38 | $97.13
43244 | T |  | Upper GI endoscopy/ligation | 0141 | 8.1835 | $485.63 | $143.38 | $97.13
43245 | T |  | Uppr gi scope dilate strictr | 0141 | 8.1835 | $485.63 | $143.38 | $97.13
43246 | T |  | Place gastrostomy tube | 0141 | 8.1835 | $485.63 | $143.38 | $97.13
43247 | T |  | Operative upper GI endoscopy | 0141 | 8.1835 | $485.63 | $143.38 | $97.13
43248 | T |  | Uppr gi endoscopy/guide wire | 0141 | 8.1835 | $485.63 | $143.38 | $97.13
43249 | T |  | Esoph endoscopy, dilation | 0141 | 8.1835 | $485.63 | $143.38 | $97.13
43250 | T |  | Upper GI endoscopy/tumor | 0141 | 8.1835 | $485.63 | $143.38 | $97.13
43251 | T |  | Operative upper GI endoscopy | 0141 | 8.1835 | $485.63 | $143.38 | $97.13
43255 | T |  | Operative upper GI endoscopy | 0141 | 8.1835 | $485.63 | $143.38 | $97.13
43256 | T |  | Uppr gi endoscopy w stent | 0384 | 22.3392 | $1,325.68 | $287.93 | $265.14
43257 | T |  | Uppr gi scope w/thrml txmnt | 0422 | 22.9647 | $1,362.79 | $448.81 | $272.56
43258 | T |  | Operative upper GI endoscopy | 0141 | 8.1835 | $485.63 | $143.38 | $97.13
43259 | T |  | Endoscopic ultrasound exam | 0141 | 8.1835 | $485.63 | $143.38 | $97.13
43260 | T |  | Endo cholangiopancreatograph | 0151 | 18.7338 | $1,111.72 | $245.46 | $222.34
43261 | T |  | Endo cholangiopancreatograph | 0151 | 18.7338 | $1,111.72 | $245.46 | $222.34
43262 | T |  | Endo cholangiopancreatograph | 0151 | 18.7338 | $1,111.72 | $245.46 | $222.34
43263 | T |  | Endo cholangiopancreatograph | 0151 | 18.7338 | $1,111.72 | $245.46 | $222.34
43264 | T |  | Endo cholangiopancreatograph | 0151 | 18.7338 | $1,111.72 | $245.46 | $222.34
43265 | T |  | Endo cholangiopancreatograph | 0151 | 18.7338 | $1,111.72 | $245.46 | $222.34
43267 | T |  | Endo cholangiopancreatograph | 0151 | 18.7338 | $1,111.72 | $245.46 | $222.34
43268 | T |  | Endo cholangiopancreatograph | 0384 | 22.3392 | $1,325.68 | $287.93 | $265.14
43269 | T |  | Endo cholangiopancreatograph | 0384 | 22.3392 | $1,325.68 | $287.93 | $265.14
43271 | T |  | Endo cholangiopancreatograph | 0151 | 18.7338 | $1,111.72 | $245.46 | $222.34
43272 | T |  | Endo cholangiopancreatograph | 0151 | 18.7338 | $1,111.72 | $245.46 | $222.34
43280 | T |  | Laparoscopy, fundoplasty | 0132 | 62.9914 | $3,738.10 | $1,239.22 | $747.62
43289 | T |  | Laparoscope proc, esoph | 0130 | 31.9271 | $1,894.65 | $659.53 | $378.93
43300 | C |  | Repair of esophagus |  |  |  |  |
43305 | C |  | Repair esophagus and fistula |  |  |  |  |
43310 | C |  | Repair of esophagus |  |  |  |  |
43312 | C |  | Repair esophagus and fistula |  |  |  |  |
43313 | C |  | Esophagoplasty congenital |  |  |  |  |
43314 | C |  | Tracheo-esophagoplasty cong |  |  |  |  |
43320 | C |  | Fuse esophagus & stomach |  |  |  |  |
43324 | C |  | Revise esophagus & stomach |  |  |  |  |
43325 | C |  | Revise esophagus & stomach |  |  |  |  |
43326 | C |  | Revise esophagus & stomach |  |  |  |  |
43330 | C |  | Repair of esophagus |  |  |  |  |
43331 | C |  | Repair of esophagus |  |  |  |  |
43340 | C |  | Fuse esophagus & intestine |  |  |  |  |
43341 | C |  | Fuse esophagus & intestine |  |  |  |  |
43350 | C |  | Surgical opening, esophagus |  |  |  |  |
43351 | C |  | Surgical opening, esophagus |  |  |  |  |
43352 | C |  | Surgical opening, esophagus |  |  |  |  |
43360 | C |  | Gastrointestinal repair |  |  |  |  |
43361 | C |  | Gastrointestinal repair |  |  |  |  |
43400 | C |  | Ligate esophagus veins |  |  |  |  |
43401 | C |  | Esophagus surgery for veins |  |  |  |  |
43405 | C |  | Ligate/staple esophagus |  |  |  |  |
43410 | C |  | Repair esophagus wound |  |  |  |  |
43415 | C |  | Repair esophagus wound |  |  |  |  |
43420 | C |  | Repair esophagus opening |  |  |  |  |
43425 | C |  | Repair esophagus opening |  |  |  |  |
43450 | T |  | Dilate esophagus | 0140 | 5.4737 | $324.83 | $94.18 | $64.97
43453 | T |  | Dilate esophagus | 0140 | 5.4737 | $324.83 | $94.18 | $64.97
43456 | T |  | Dilate esophagus | 0140 | 5.4737 | $324.83 | $94.18 | $64.97
43458 | T |  | Dilate esophagus | 0140 | 5.4737 | $324.83 | $94.18 | $64.97
43460 | C |  | Pressure treatment esophagus |  |  |  |  |
43496 | C |  | Free jejunum flap, microvasc |  |  |  |  |
43499 | T |  | Esophagus surgery procedure | 0141 | 8.1835 | $485.63 | $143.38 | $97.13
43500 | C |  | Surgical opening of stomach |  |  |  |  |
43501 | C |  | Surgical repair of stomach |  |  |  |  |
43502 | C |  | Surgical repair of stomach |  |  |  |  |
43510 | T |  | Surgical opening of stomach | 0141 | 8.1835 | $485.63 | $143.38 | $97.13
43520 | C |  | Incision of pyloric muscle |  |  |  |  |
43600 | T |  | Biopsy of stomach | 0141 | 8.1835 | $485.63 | $143.38 | $97.13
43605 | C |  | Biopsy of stomach |  |  |  |  |
43610 | C |  | Excision of stomach lesion |  |  |  |  |
43611 | C |  | Excision of stomach lesion |  |  |  |  |
43620 | C |  | Removal of stomach |  |  |  |  |
43621 | C |  | Removal of stomach |  |  |  |  |
43622 | C |  | Removal of stomach |  |  |  |  |
43631 | C |  | Removal of stomach, partial |  |  |  |  |
43632 | C |  | Removal of stomach, partial |  |  |  |  |
43633 | C |  | Removal of stomach, partial |  |  |  |  |
43634 | C |  | Removal of stomach, partial |  |  |  |  |
43635 | C |  | Removal of stomach, partial |  |  |  |  |
43638 | C |  | Removal of stomach, partial |  |  |  |  |
43639 | C |  | Removal of stomach, partial |  |  |  |  |
43640 | C |  | Vagotomy & pylorus repair |  |  |  |  |
43641 | C |  | Vagotomy & pylorus repair |  |  |  |  |
43644 | C |  | Lap gastric bypass/roux-en-y |  |  |  |  |
43645 | C |  | Lap gastr bypass incl smll i |  |  |  |  |
43651 | T |  | Laparoscopy, vagus nerve | 0132 | 62.9914 | $3,738.10 | $1,239.22 | $747.62
43652 | T |  | Laparoscopy, vagus nerve | 0132 | 62.9914 | $3,738.10 | $1,239.22 | $747.62
43653 | T |  | Laparoscopy, gastrostomy | 0131 | 43.3389 | $2,571.86 | $1,001.89 | $514.37
43659 | T |  | Laparoscope proc, stom | 0130 | 31.9271 | $1,894.65 | $659.53 | $378.93
43750 | T |  | Place gastrostomy tube | 0141 | 8.1835 | $485.63 | $143.38 | $97.13
43752 | X |  | Nasal/orogastric w/stent | 0272 | 1.3801 | $81.90 | $32.76 | $16.38
43760 | T |  | Change gastrostomy tube | 0121 | 2.2766 | $135.10 | $43.80 | $27.02
43761 | T |  | Reposition gastrostomy tube | 0122 | 6.9721 | $413.75 | $84.85 | $82.75
43800 | C |  | Reconstruction of pylorus |  |  |  |  |
43810 | C |  | Fusion of stomach and bowel |  |  |  |  |
43820 | C |  | Fusion of stomach and bowel |  |  |  |  |
43825 | C |  | Fusion of stomach and bowel |  |  |  |  |
43830 | T |  | Place gastrostomy tube | 0422 | 22.9647 | $1,362.79 | $448.81 | $272.56
43831 | T |  | Place gastrostomy tube | 0141 | 8.1835 | $485.63 | $143.38 | $97.13
43832 | C |  | Place gastrostomy tube |  |  |  |  |
43840 | C |  | Repair of stomach lesion |  |  |  |  |
43842 | C |  | Gastroplasty for obesity |  |  |  |  |
43843 | C |  | Gastroplasty for obesity |  |  |  |  |
43845 | C |  | Gastroplasty duodenal switch |  |  |  |  |
43846 | C |  | Gastric bypass for obesity |  |  |  |  |
43847 | C |  | Gastric bypass for obesity |  |  |  |  |
43848 | C |  | Revision gastroplasty |  |  |  |  |
43850 | C |  | Revise stomach-bowel fusion |  |  |  |  |
43855 | C |  | Revise stomach-bowel fusion |  |  |  |  |
43860 | C |  | Revise stomach-bowel fusion |  |  |  |  |
43865 | C |  | Revise stomach-bowel fusion |  |  |  |  |
43870 | T |  | Repair stomach opening | 0141 | 8.1835 | $485.63 | $143.38 | $97.13
43880 | C |  | Repair stomach-bowel fistula |  |  |  |  |
43999 | T |  | Stomach surgery procedure | 0141 | 8.1835 | $485.63 | $143.38 | $97.13
44005 | C |  | Freeing of bowel adhesion |  |  |  |  |
44010 | C |  | Incision of small bowel |  |  |  |  |
44015 | C |  | Insert needle cath bowel |  |  |  |  |
44020 | C |  | Explore small intestine |  |  |  |  |
44021 | C |  | Decompress small bowel |  |  |  |  |
44025 | C |  | Incision of large bowel |  |  |  |  |
44050 | C |  | Reduce bowel obstruction |  |  |  |  |
44055 | C |  | Correct malrotation of bowel |  |  |  |  |
44100 | T |  | Biopsy of bowel | 0141 | 8.1835 | $485.63 | $143.38 | $97.13
44110 | C |  | Excise intestine lesion(s) |  |  |  |  |
44111 | C |  | Excision of bowel lesion(s) |  |  |  |  |
44120 | C |  | Removal of small intestine |  |  |  |  |
44121 | C |  | Removal of small intestine |  |  |  |  |
44125 | C |  | Removal of small intestine |  |  |  |  |
44126 | C |  | Enterectomy w/o taper, cong |  |  |  |  |
44127 | C |  | Enterectomy w/taper, cong |  |  |  |  |
44128 | C |  | Enterectomy cong, add-on |  |  |  |  |
44130 | C |  | Bowel to bowel fusion |  |  |  |  |
44132 | C |  | Enterectomy, cadaver donor |  |  |  |  |
44133 | C |  | Enterectomy, live donor |  |  |  |  |
44135 | C |  | Intestine transplnt, cadaver |  |  |  |  |
44136 | C |  | Intestine transplant, live |  |  |  |  |
44137 | C |  | Remove intestinal allograft |  |  |  |  |
44139 | C |  | Mobilization of colon |  |  |  |  |
44140 | C |  | Partial removal of colon |  |  |  |  |
44141 | C |  | Partial removal of colon |  |  |  |  |
44143 | C |  | Partial removal of colon |  |  |  |  |
44144 | C |  | Partial removal of colon |  |  |  |  |
44145 | C |  | Partial removal of colon |  |  |  |  |
44146 | C |  | Partial removal of colon |  |  |  |  |
44147 | C |  | Partial removal of colon |  |  |  |  |
44150 | C |  | Removal of colon |  |  |  |  |
44151 | C |  | Removal of colon/ileostomy |  |  |  |  |
44152 | C |  | Removal of colon/ileostomy |  |  |  |  |
44153 | C |  | Removal of colon/ileostomy |  |  |  |  |
44155 | C |  | Removal of colon/ileostomy |  |  |  |  |
44156 | C |  | Removal of colon/ileostomy |  |  |  |  |
44160 | C |  | Removal of colon |  |  |  |  |
44200 | T |  | Laparoscopy, enterolysis | 0131 | 43.3389 | $2,571.86 | $1,001.89 | $514.37
44201 | T |  | Laparoscopy, jejunostomy | 0131 | 43.3389 | $2,571.86 | $1,001.89 | $514.37
44202 | C |  | Lap resect s/intestine singl |  |  |  |  |
44203 | C |  | Lap resect s/intestine, addl |  |  |  |  |
44204 | C |  | Laparo partial colectomy |  |  |  |  |
44205 | C |  | Lap colectomy part w/ileum |  |  |  |  |
44206 | T |  | Lap part colectomy w/stoma | 0132 | 62.9914 | $3,738.10 | $1,239.22 | $747.62
44207 | T |  | L colectomy/coloproctostomy | 0132 | 62.9914 | $3,738.10 | $1,239.22 | $747.62
44208 | T |  | L colectomy/coloproctostomy | 0132 | 62.9914 | $3,738.10 | $1,239.22 | $747.62
44210 | C |  | Laparo total proctocolectomy |  |  |  |  |
44211 | C |  | Laparo total proctocolectomy |  |  |  |  |
44212 | C |  | Laparo total proctocolectomy |  |  |  |  |
44238 | T |  | Laparoscope proc, intestine | 0130 | 31.9271 | $1,894.65 | $659.53 | $378.93
44239 | T |  | Laparoscope proc, rectum | 0130 | 31.9271 | $1,894.65 | $659.53 | $378.93
44300 | C |  | Open bowel to skin |  |  |  |  |
44310 | C |  | Ileostomy/jejunostomy |  |  |  |  |
44312 | T |  | Revision of ileostomy | 0027 | 18.4182 | $1,092.99 | $329.72 | $218.60
44314 | C |  | Revision of ileostomy |  |  |  |  |
44316 | C |  | Devise bowel pouch |  |  |  |  |
44320 | C |  | Colostomy |  |  |  |  |
44322 | C |  | Colostomy with biopsies |  |  |  |  |
44340 | T |  | Revision of colostomy | 0027 | 18.4182 | $1,092.99 | $329.72 | $218.60
44345 | C |  | Revision of colostomy |  |  |  |  |
44346 | C |  | Revision of colostomy |  |  |  |  |
44360 | T |  | Small bowel endoscopy | 0142 | 9.3487 | $554.78 | $152.78 | $110.96
44361 | T |  | Small bowel endoscopy/biopsy | 0142 | 9.3487 | $554.78 | $152.78 | $110.96
44363 | T |  | Small bowel endoscopy | 0142 | 9.3487 | $554.78 | $152.78 | $110.96
44364 | T |  | Small bowel endoscopy | 0142 | 9.3487 | $554.78 | $152.78 | $110.96
44365 | T |  | Small bowel endoscopy | 0142 | 9.3487 | $554.78 | $152.78 | $110.96
44366 | T |  | Small bowel endoscopy | 0142 | 9.3487 | $554.78 | $152.78 | $110.96
44369 | T |  | Small bowel endoscopy | 0142 | 9.3487 | $554.78 | $152.78 | $110.96
44370 | T |  | Small bowel endoscopy/stent | 0384 | 22.3392 | $1,325.68 | $287.93 | $265.14
44372 | T |  | Small bowel endoscopy | 0142 | 9.3487 | $554.78 | $152.78 | $110.96
44373 | T |  | Small bowel endoscopy | 0142 | 9.3487 | $554.78 | $152.78 | $110.96
44376 | T |  | Small bowel endoscopy | 0142 | 9.3487 | $554.78 | $152.78 | $110.96
44377 | T |  | Small bowel endoscopy/biopsy | 0142 | 9.3487 | $554.78 | $152.78 | $110.96
44378 | T |  | Small bowel endoscopy | 0142 | 9.3487 | $554.78 | $152.78 | $110.96
44379 | T |  | S bowel endoscope w/stent | 0384 | 22.3392 | $1,325.68 | $287.93 | $265.14
44380 | T |  | Small bowel endoscopy | 0142 | 9.3487 | $554.78 | $152.78 | $110.96
44382 | T |  | Small bowel endoscopy | 0142 | 9.3487 | $554.78 | $152.78 | $110.96
44383 | T |  | Ileoscopy w/stent | 0384 | 22.3392 | $1,325.68 | $287.93 | $265.14
44385 | T |  | Endoscopy of bowel pouch | 0143 | 8.6869 | $515.51 | $186.06 | $103.10
44386 | T |  | Endoscopy, bowel pouch/biop | 0143 | 8.6869 | $515.51 | $186.06 | $103.10
44388 | T |  | Colonoscopy | 0143 | 8.6869 | $515.51 | $186.06 | $103.10
44389 | T |  | Colonoscopy with biopsy | 0143 | 8.6869 | $515.51 | $186.06 | $103.10
44390 | T |  | Colonoscopy for foreign body | 0143 | 8.6869 | $515.51 | $186.06 | $103.10
44391 | T |  | Colonoscopy for bleeding | 0143 | 8.6869 | $515.51 | $186.06 | $103.10
44392 | T |  | Colonoscopy & polypectomy | 0143 | 8.6869 | $515.51 | $186.06 | $103.10
44393 | T |  | Colonoscopy, lesion removal | 0143 | 8.6869 | $515.51 | $186.06 | $103.10
44394 | T |  | Colonoscopy w/snare | 0143 | 8.6869 | $515.51 | $186.06 | $103.10
44397 | T |  | Colonoscopy w/stent | 0384 | 22.3392 | $1,325.68 | $287.93 | $265.14
44500 | T |  | Intro, gastrointestinal tube | 0121 | 2.2766 | $135.10 | $43.80 | $27.02
44602 | C |  | Suture, small intestine |  |  |  |  |
44603 | C |  | Suture, small intestine |  |  |  |  |
44604 | C |  | Suture, large intestine |  |  |  |  |
44605 | C |  | Repair of bowel lesion |  |  |  |  |
44615 | C |  | Intestinal stricturoplasty |  |  |  |  |
44620 | C |  | Repair bowel opening |  |  |  |  |
44625 | C |  | Repair bowel opening |  |  |  |  |
44626 | C |  | Repair bowel opening |  |  |  |  |
44640 | C |  | Repair bowel-skin fistula |  |  |  |  |
44650 | C |  | Repair bowel fistula |  |  |  |  |
44660 | C |  | Repair bowel-bladder fistula |  |  |  |  |
44661 | C |  | Repair bowel-bladder fistula |  |  |  |  |
44680 | C |  | Surgical revision, intestine |  |  |  |  |
44700 | C |  | Suspend bowel w/prosthesis |  |  |  |  |
44701 | N |  | Intraop colon lavage add-on |  |  |  |  |
44715 | C |  | Prepare donor intestine |  |  |  |  |
44720 | C |  | Prep donor intestine/venous |  |  |  |  |
44721 | C |  | Prep donor intestine/artery |  |  |  |  |
44799 | T |  | Unlisted procedure intestine | 0142 | 9.3487 | $554.78 | $152.78 | $110.96
44800 | C |  | Excision of bowel pouch |  |  |  |  |
44820 | C |  | Excision of mesentery lesion |  |  |  |  |
44850 | C |  | Repair of mesentery |  |  |  |  |
44899 | C |  | Bowel surgery procedure |  |  |  |  |
44900 | C |  | Drain app abscess, open |  |  |  |  |
44901 | T |  | Drain app abscess, percut | 0037 | 9.4751 | $562.28 | $224.91 | $112.46
44950 | C |  | Appendectomy |  |  |  |  |
44955 | C |  | Appendectomy add-on |  |  |  |  |
44960 | C |  | Appendectomy |  |  |  |  |
44970 | T |  | Laparoscopy, appendectomy | 0131 | 43.3389 | $2,571.86 | $1,001.89 | $514.37
44979 | T |  | Laparoscope proc, app | 0130 | 31.9271 | $1,894.65 | $659.53 | $378.93
45000 | T |  | Drainage of pelvic abscess | 0148 | 3.7383 | $221.84 | $57.21 | $44.37
45005 | T |  | Drainage of rectal abscess | 0155 | 16.2546 | $964.60 |  | $192.92
45020 | T |  | Drainage of rectal abscess | 0155 | 16.2546 | $964.60 |  | $192.92
45100 | T |  | Biopsy of rectum | 0149 | 18.0726 | $1,072.48 | $293.06 | $214.50
45108 | T |  | Removal of anorectal lesion | 0150 | 23.8654 | $1,416.24 | $437.12 | $283.25
45110 | C |  | Removal of rectum |  |  |  |  |
45111 | C |  | Partial removal of rectum |  |  |  |  |
45112 | C |  | Removal of rectum |  |  |  |  |
45113 | C |  | Partial proctectomy |  |  |  |  |
45114 | C |  | Partial removal of rectum |  |  |  |  |
45116 | C |  | Partial removal of rectum |  |  |  |  |
45119 | C |  | Remove rectum w/reservoir |  |  |  |  |
45120 | C |  | Removal of rectum |  |  |  |  |
45121 | C |  | Removal of rectum and colon |  |  |  |  |
45123 | C |  | Partial proctectomy |  |  |  |  |
45126 | C |  | Pelvic exenteration |  |  |  |  |
45130 | C |  | Excision of rectal prolapse |  |  |  |  |
45135 | C |  | Excision of rectal prolapse |  |  |  |  |
45136 | C |  | Excise ileoanal reservior |  |  |  |  |
45150 | T |  | Excision of rectal stricture | 0149 | 18.0726 | $1,072.48 | $293.06 | $214.50
45160 | T |  | Excision of rectal lesion | 0150 | 23.8654 | $1,416.24 | $437.12 | $283.25
45170 | T |  | Excision of rectal lesion | 0150 | 23.8654 | $1,416.24 | $437.12 | $283.25
45190 | T |  | Destruction, rectal tumor | 0150 | 23.8654 | $1,416.24 | $437.12 | $283.25
45300 | T |  | Proctosigmoidoscopy dx | 0146 | 4.6374 | $275.20 | $64.40 | $55.04
45303 | T |  | Proctosigmoidoscopy dilate | 0147 | 7.9679 | $472.84 |  | $94.57
45305 | T |  | Proctosigmoidoscopy w/bx | 0147 | 7.9679 | $472.84 |  | $94.57
45307 | T |  | Proctosigmoidoscopy fb | 0428 | 19.9022 | $1,181.06 |  | $236.21
45308 | T |  | Proctosigmoidoscopy removal | 0147 | 7.9679 | $472.84 |  | $94.57
45309 | T |  | Proctosigmoidoscopy removal | 0147 | 7.9679 | $472.84 |  | $94.57
45315 | T |  | Proctosigmoidoscopy removal | 0147 | 7.9679 | $472.84 |  | $94.57
45317 | T |  | Proctosigmoidoscopy bleed | 0147 | 7.9679 | $472.84 |  | $94.57
45320 | T |  | Proctosigmoidoscopy ablate | 0428 | 19.9022 | $1,181.06 |  | $236.21
45321 | T |  | Proctosigmoidoscopy volvul | 0428 | 19.9022 | $1,181.06 |  | $236.21
45327 | T |  | Proctosigmoidoscopy w/stent | 0384 | 22.3392 | $1,325.68 | $287.93 | $265.14
45330 | T |  | Diagnostic sigmoidoscopy | 0146 | 4.6374 | $275.20 | $64.40 | $55.04
45331 | T |  | Sigmoidoscopy and biopsy | 0146 | 4.6374 | $275.20 | $64.40 | $55.04
45332 | T |  | Sigmoidoscopy w/fb removal | 0146 | 4.6374 | $275.20 | $64.40 | $55.04
45333 | T |  | Sigmoidoscopy & polypectomy | 0147 | 7.9679 | $472.84 |  | $94.57
45334 | T |  | Sigmoidoscopy for bleeding | 0147 | 7.9679 | $472.84 |  | $94.57
45335 | T |  | Sigmoidoscopy w/submuc inj | 0146 | 4.6374 | $275.20 | $64.40 | $55.04
45337 | T |  | Sigmoidoscopy & decompress | 0146 | 4.6374 | $275.20 | $64.40 | $55.04
45338 | T |  | Sigmoidoscopy w/tumr remove | 0147 | 7.9679 | $472.84 |  | $94.57
45339 | T |  | Sigmoidoscopy w/ablate tumr | 0147 | 7.9679 | $472.84 |  | $94.57
45340 | T |  | Sig w/balloon dilation | 0147 | 7.9679 | $472.84 |  | $94.57
45341 | T |  | Sigmoidoscopy w/ultrasound | 0147 | 7.9679 | $472.84 |  | $94.57
45342 | T |  | Sigmoidoscopy w/us guide bx | 0147 | 7.9679 | $472.84 |  | $94.57
45345 | T |  | Sigmoidoscopy w/stent | 0384 | 22.3392 | $1,325.68 | $287.93 | $265.14
45355 | T |  | Surgical colonoscopy | 0143 | 8.6869 | $515.51 | $186.06 | $103.10
45378 | T |  | Diagnostic colonoscopy | 0143 | 8.6869 | $515.51 | $186.06 | $103.10
45379 | T |  | Colonoscopy w/fb removal | 0143 | 8.6869 | $515.51 | $186.06 | $103.10
45380 | T |  | Colonoscopy and biopsy | 0143 | 8.6869 | $515.51 | $186.06 | $103.10
45381 | T |  | Colonoscopy, submucous inj | 0143 | 8.6869 | $515.51 | $186.06 | $103.10
45382 | T |  | Colonoscopy/control bleeding | 0143 | 8.6869 | $515.51 | $186.06 | $103.10
45383 | T |  | Lesion removal colonoscopy | 0143 | 8.6869 | $515.51 | $186.06 | $103.10
45384 | T |  | Lesion remove colonoscopy | 0143 | 8.6869 | $515.51 | $186.06 | $103.10
45385 | T |  | Lesion removal colonoscopy | 0143 | 8.6869 | $515.51 | $186.06 | $103.10
45386 | T |  | Colonoscopy dilate stricture | 0143 | 8.6869 | $515.51 | $186.06 | $103.10
45387 | T |  | Colonoscopy w/stent | 0384 | 22.3392 | $1,325.68 | $287.93 | $265.14
45391 | T |  | Colonoscopy w/endoscope us | 0143 | 8.6869 | $515.51 | $186.06 | $103.10
45392 | T |  | Colonoscopy w/endoscopic fnb | 0143 | 8.6869 | $515.51 | $186.06 | $103.10
45500 | T |  | Repair of rectum | 0149 | 18.0726 | $1,072.48 | $293.06 | $214.50
45505 | T |  | Repair of rectum | 0150 | 23.8654 | $1,416.24 | $437.12 | $283.25
45520 | T |  | Treatment of rectal prolapse | 0098 | 1.1346 | $67.33 |  | $13.47
45540 | C |  | Correct rectal prolapse |  |  |  |  |
45541 | T |  | Correct rectal prolapse | 0150 | 23.8654 | $1,416.24 | $437.12 | $283.25
45550 | C |  | Repair rectum/remove sigmoid |  |  |  |  |
45560 | T |  | Repair of rectocele | 0150 | 23.8654 | $1,416.24 | $437.12 | $283.25
45562 | C |  | Exploration/repair of rectum |  |  |  |  |
45563 | C |  | Exploration/repair of rectum |  |  |  |  |
45800 | C |  | Repair rect/bladder fistula |  |  |  |  |
45805 | C |  | Repair fistula w/colostomy |  |  |  |  |
45820 | C |  | Repair rectourethral fistula |  |  |  |  |
45825 | C |  | Repair fistula w/colostomy |  |  |  |  |
45900 | T |  | Reduction of rectal prolapse | 0148 | 3.7383 | $221.84 | $57.21 | $44.37
45905 | T |  | Dilation of anal sphincter | 0149 | 18.0726 | $1,072.48 | $293.06 | $214.50
45910 | T |  | Dilation of rectal narrowing | 0149 | 18.0726 | $1,072.48 | $293.06 | $214.50
45915 | T |  | Remove rectal obstruction | 0148 | 3.7383 | $221.84 | $57.21 | $44.37
45999 | T |  | Rectum surgery procedure | 0148 | 3.7383 | $221.84 | $57.21 | $44.37
46020 | T |  | Placement of seton | 0150 | 23.8654 | $1,416.24 | $437.12 | $283.25
46030 | T |  | Removal of rectal marker | 0148 | 3.7383 | $221.84 | $57.21 | $44.37
46040 | T |  | Incision of rectal abscess | 0149 | 18.0726 | $1,072.48 | $293.06 | $214.50
46045 | T |  | Incision of rectal abscess | 0150 | 23.8654 | $1,416.24 | $437.12 | $283.25
46050 | T |  | Incision of anal abscess | 0148 | 3.7383 | $221.84 | $57.21 | $44.37
46060 | T |  | Incision of rectal abscess | 0150 | 23.8654 | $1,416.24 | $437.12 | $283.25
46070 | T |  | Incision of anal septum | 0155 | 16.2546 | $964.60 |  | $192.92
46080 | T |  | Incision of anal sphincter | 0149 | 18.0726 | $1,072.48 | $293.06 | $214.50
46083 | T |  | Incise external hemorrhoid | 0148 | 3.7383 | $221.84 | $57.21 | $44.37
46200 | T |  | Removal of anal fissure | 0150 | 23.8654 | $1,416.24 | $437.12 | $283.25
46210 | T |  | Removal of anal crypt | 0149 | 18.0726 | $1,072.48 | $293.06 | $214.50
46211 | T |  | Removal of anal crypts | 0150 | 23.8654 | $1,416.24 | $437.12 | $283.25
46220 | T |  | Removal of anal tag | 0149 | 18.0726 | $1,072.48 | $293.06 | $214.50
46221 | T |  | Ligation of hemorrhoid(s) | 0148 | 3.7383 | $221.84 | $57.21 | $44.37
46230 | T |  | Removal of anal tags | 0149 | 18.0726 | $1,072.48 | $293.06 | $214.50
46250 | T |  | Hemorrhoidectomy | 0150 | 23.8654 | $1,416.24 | $437.12 | $283.25
46255 | T |  | Hemorrhoidectomy | 0150 | 23.8654 | $1,416.24 | $437.12 | $283.25
46257 | T |  | Remove hemorrhoids & fissure | 0150 | 23.8654 | $1,416.24 | $437.12 | $283.25
46258 | T |  | Remove hemorrhoids & fistula | 0150 | 23.8654 | $1,416.24 | $437.12 | $283.25
46260 | T |  | Hemorrhoidectomy | 0150 | 23.8654 | $1,416.24 | $437.12 | $283.25
46261 | T |  | Remove hemorrhoids & fissure | 0150 | 23.8654 | $1,416.24 | $437.12 | $283.25
46262 | T |  | Remove hemorrhoids & fistula | 0150 | 23.8654 | $1,416.24 | $437.12 | $283.25
46270 | T |  | Removal of anal fistula | 0150 | 23.8654 | $1,416.24 | $437.12 | $283.25
46275 | T |  | Removal of anal fistula | 0150 | 23.8654 | $1,416.24 | $437.12 | $283.25
46280 | T |  | Removal of anal fistula | 0150 | 23.8654 | $1,416.24 | $437.12 | $283.25
46285 | T |  | Removal of anal fistula | 0150 | 23.8654 | $1,416.24 | $437.12 | $283.25
46288 | T |  | Repair anal fistula | 0150 | 23.8654 | $1,416.24 | $437.12 | $283.25
46320 | T |  | Removal of hemorrhoid clot | 0148 | 3.7383 | $221.84 | $57.21 | $44.37
46500 | T |  | Injection into hemorrhoid(s) | 0155 | 16.2546 | $964.60 |  | $192.92
46600 | X |  | Diagnostic anoscopy | 0340 | 0.6384 | $37.88 |  | $7.58
46604 | T |  | Anoscopy and dilation | 0147 | 7.9679 | $472.84 |  | $94.57
46606 | T |  | Anoscopy and biopsy | 0146 | 4.6374 | $275.20 | $64.40 | $55.04
46608 | T |  | Anoscopy, remove for body | 0147 | 7.9679 | $472.84 |  | $94.57
46610 | T |  | Anoscopy, remove lesion | 0428 | 19.9022 | $1,181.06 |  | $236.21
46611 | T |  | Anoscopy | 0147 | 7.9679 | $472.84 |  | $94.57
46612 | T |  | Anoscopy, remove lesions | 0428 | 19.9022 | $1,181.06 |  | $236.21
46614 | T |  | Anoscopy, control bleeding | 0146 | 4.6374 | $275.20 | $64.40 | $55.04
46615 | T |  | Anoscopy | 0428 | 19.9022 | $1,181.06 |  | $236.21
46700 | T |  | Repair of anal stricture | 0150 | 23.8654 | $1,416.24 | $437.12 | $283.25
46705 | C |  | Repair of anal stricture |  |  |  |  |
46706 | T |  | Repr of anal fistula w/glue | 0150 | 23.8654 | $1,416.24 | $437.12 | $283.25
46715 | C |  | Repair of anovaginal fistula |  |  |  |  |
46716 | C |  | Repair of anovaginal fistula |  |  |  |  |
46730 | C |  | Construction of absent anus |  |  |  |  |
46735 | C |  | Construction of absent anus |  |  |  |  |
46740 | C |  | Construction of absent anus |  |  |  |  |
46742 | C |  | Repair of imperforated anus |  |  |  |  |
46744 | C |  | Repair of cloacal anomaly |  |  |  |  |
46746 | C |  | Repair of cloacal anomaly |  |  |  |  |
46748 | C |  | Repair of cloacal anomaly |  |  |  |  |
46750 | T |  | Repair of anal sphincter | 0150 | 23.8654 | $1,416.24 | $437.12 | $283.25
46751 | C |  | Repair of anal sphincter |  |  |  |  |
46753 | T |  | Reconstruction of anus | 0150 | 23.8654 | $1,416.24 | $437.12 | $283.25
46754 | T |  | Removal of suture from anus | 0149 | 18.0726 | $1,072.48 | $293.06 | $214.50
46760 | T |  | Repair of anal sphincter | 0150 | 23.8654 | $1,416.24 | $437.12 | $283.25
46761 | T |  | Repair of anal sphincter | 0150 | 23.8654 | $1,416.24 | $437.12 | $283.25
46762 | T |  | Implant artificial sphincter | 0150 | 23.8654 | $1,416.24 | $437.12 | $283.25
46900 | T |  | Destruction, anal lesion(s) | 0016 | 2.5834 | $153.31 | $33.57 | $30.66
46910 | T |  | Destruction, anal lesion(s) | 0017 | 18.4211 | $1,093.16 | $227.84 | $218.63
46916 | T |  | Cryosurgery, anal lesion(s) | 0013 | 1.1078 | $65.74 | $14.20 | $13.15
46917 | T |  | Laser surgery, anal lesions | 0695 | 20.3164 | $1,205.64 | $266.59 | $241.13
46922 | T |  | Excision of anal lesion(s) | 0695 | 20.3164 | $1,205.64 | $266.59 | $241.13
46924 | T |  | Destruction, anal lesion(s) | 0695 | 20.3164 | $1,205.64 | $266.59 | $241.13
46934 | T |  | Destruction of hemorrhoids | 0155 | 16.2546 | $964.60 |  | $192.92
46935 | T |  | Destruction of hemorrhoids | 0155 | 16.2546 | $964.60 |  | $192.92
46936 | T |  | Destruction of hemorrhoids | 0149 | 18.0726 | $1,072.48 | $293.06 | $214.50
46937 | T |  | Cryotherapy of rectal lesion | 0149 | 18.0726 | $1,072.48 | $293.06 | $214.50
46938 | T |  | Cryotherapy of rectal lesion | 0150 | 23.8654 | $1,416.24 | $437.12 | $283.25
46940 | T |  | Treatment of anal fissure | 0149 | 18.0726 | $1,072.48 | $293.06 | $214.50
46942 | T |  | Treatment of anal fissure | 0148 | 3.7383 | $221.84 | $57.21 | $44.37
46945 | T |  | Ligation of hemorrhoids | 0155 | 16.2546 | $964.60 |  | $192.92
46946 | T |  | Ligation of hemorrhoids | 0155 | 16.2546 | $964.60 |  | $192.92
46947 | T |  | Hemorrhoidopexy by stapling | 0150 | 23.8654 | $1,416.24 | $437.12 | $283.25
46999 | T |  | Anus surgery procedure | 0148 | 3.7383 | $221.84 | $57.21 | $44.37
47000 | T |  | Needle biopsy of liver | 0685 | 6.0174 | $357.09 | $115.47 | $71.42
47001 | N |  | Needle biopsy, liver add-on |  |  |  |  |
47010 | C |  | Open drainage, liver lesion |  |  |  |  |
47011 | T |  | Percut drain, liver lesion | 0037 | 9.4751 | $562.28 | $224.91 | $112.46
47015 | C |  | Inject/aspirate liver cyst |  |  |  |  |
47100 | C |  | Wedge biopsy of liver |  |  |  |  |
47120 | C |  | Partial removal of liver |  |  |  |  |
47122 | C |  | Extensive removal of liver |  |  |  |  |
47125 | C |  | Partial removal of liver |  |  |  |  |
47130 | C |  | Partial removal of liver |  |  |  |  |
47133 | C |  | Removal of donor liver |  |  |  |  |
47135 | C |  | Transplantation of liver |  |  |  |  |
47136 | C |  | Transplantation of liver |  |  |  |  |
47140 | C |  | Partial removal, donor liver |  |  |  |  |
47141 | C |  | Partial removal, donor liver |  |  |  |  |
47142 | C |  | Partial removal, donor liver |  |  |  |  |
47143 | C |  | Prep donor liver, whole |  |  |  |  |
47144 | C |  | Prep donor liver, 3-segment |  |  |  |  |
47145 | C |  | Prep donor liver, lobe split |  |  |  |  |
47146 | C |  | Prep donor liver/venous |  |  |  |  |
47147 | C |  | Prep donor liver/arterial |  |  |  |  |
47300 | C |  | Surgery for liver lesion |  |  |  |  |
47350 | C |  | Repair liver wound |  |  |  |  |
47360 | C |  | Repair liver wound |  |  |  |  |
47361 | C |  | Repair liver wound |  |  |  |  |
47362 | C |  | Repair liver wound |  |  |  |  |
47370 | T |  | Laparo ablate liver tumor rf | 0131 | 43.3389 | $2,571.86 | $1,001.89 | $514.37
47371 | T |  | Laparo ablate liver cryosurg | 0131 | 43.3389 | $2,571.86 | $1,001.89 | $514.37
47379 | T |  | Laparoscope procedure, liver | 0130 | 31.9271 | $1,894.65 | $659.53 | $378.93
47380 | C |  | Open ablate liver tumor rf |  |  |  |  |
47381 | C |  | Open ablate liver tumor cryo |  |  |  |  |
47382 | T |  | Percut ablate liver rf | 0423 | 40.2866 | $2,390.73 |  | $478.15
47399 | T |  | Liver surgery procedure | 0002 | 0.9559 | $56.73 |  | $11.35
47400 | C |  | Incision of liver duct |  |  |  |  |
47420 | C |  | Incision of bile duct |  |  |  |  |
47425 | C |  | Incision of bile duct |  |  |  |  |
47460 | C |  | Incise bile duct sphincter |  |  |  |  |
47480 | C |  | Incision of gallbladder |  |  |  |  |
47490 | T |  | Incision of gallbladder | 0152 | 12.2833 | $728.93 |  | $145.79
47500 | N |  | Injection for liver x-rays |  |  |  |  |
47505 | N |  | Injection for liver x-rays |  |  |  |  |
47510 | T |  | Insert catheter, bile duct | 0152 | 12.2833 | $728.93 |  | $145.79
47511 | T |  | Insert bile duct drain | 0152 | 12.2833 | $728.93 |  | $145.79
47525 | T |  | Change bile duct catheter | 0427 | 10.1977 | $605.16 | $124.11 | $121.03
47530 | T |  | Revise/reinsert bile tube | 0427 | 10.1977 | $605.16 | $124.11 | $121.03
47550 | C |  | Bile duct endoscopy add-on |  |  |  |  |
47552 | T |  | Biliary endoscopy thru skin | 0152 | 12.2833 | $728.93 |  | $145.79
47553 | T |  | Biliary endoscopy thru skin | 0152 | 12.2833 | $728.93 |  | $145.79
47554 | T |  | Biliary endoscopy thru skin | 0152 | 12.2833 | $728.93 |  | $145.79
47555 | T |  | Biliary endoscopy thru skin | 0152 | 12.2833 | $728.93 |  | $145.79
47556 | T |  | Biliary endoscopy thru skin | 0152 | 12.2833 | $728.93 |  | $145.79
47560 | T |  | Laparoscopy w/cholangio | 0130 | 31.9271 | $1,894.65 | $659.53 | $378.93
47561 | T |  | Laparo w/cholangio/biopsy | 0130 | 31.9271 | $1,894.65 | $659.53 | $378.93
47562 | T |  | Laparoscopic cholecystectomy | 0131 | 43.3389 | $2,571.86 | $1,001.89 | $514.37
47563 | T |  | Laparo cholecystectomy/graph | 0131 | 43.3389 | $2,571.86 | $1,001.89 | $514.37
47564 | T |  | Laparo cholecystectomy/explr | 0131 | 43.3389 | $2,571.86 | $1,001.89 | $514.37
47570 | C |  | Laparo cholecystoenterostomy |  |  |  |  |
47579 | T |  | Laparoscope proc, biliary | 0130 | 31.9271 | $1,894.65 | $659.53 | $378.93
47600 | C |  | Removal of gallbladder |  |  |  |  |
47605 | C |  | Removal of gallbladder |  |  |  |  |
47610 | C |  | Removal of gallbladder |  |  |  |  |
47612 | C |  | Removal of gallbladder |  |  |  |  |
47620 | C |  | Removal of gallbladder |  |  |  |  |
47630 | T |  | Remove bile duct stone | 0152 | 12.2833 | $728.93 |  | $145.79
47700 | C |  | Exploration of bile ducts |  |  |  |  |
47701 | C |  | Bile duct revision |  |  |  |  |
47711 | C |  | Excision of bile duct tumor |  |  |  |  |
47712 | C |  | Excision of bile duct tumor |  |  |  |  |
47715 | C |  | Excision of bile duct cyst |  |  |  |  |
47716 | C |  | Fusion of bile duct cyst |  |  |  |  |
47720 | C |  | Fuse gallbladder & bowel |  |  |  |  |
47721 | C |  | Fuse upper gi structures |  |  |  |  |
47740 | C |  | Fuse gallbladder & bowel |  |  |  |  |
47741 | C |  | Fuse gallbladder & bowel |  |  |  |  |
47760 | C |  | Fuse bile ducts and bowel |  |  |  |  |
47765 | C |  | Fuse liver ducts & bowel |  |  |  |  |
47780 | C |  | Fuse bile ducts and bowel |  |  |  |  |
47785 | C |  | Fuse bile ducts and bowel |  |  |  |  |
47800 | C |  | Reconstruction of bile ducts |  |  |  |  |
47801 | C |  | Placement, bile duct support |  |  |  |  |
47802 | C |  | Fuse liver duct & intestine |  |  |  |  |
47900 | C |  | Suture bile duct injury |  |  |  |  |
47999 | T |  | Bile tract surgery procedure | 0152 | 12.2833 | $728.93 |  | $145.79
48000 | C |  | Drainage of abdomen |  |  |  |  |
48001 | C |  | Placement of drain, pancreas |  |  |  |  |
48005 | C |  | Resect/debride pancreas |  |  |  |  |
48020 | C |  | Removal of pancreatic stone |  |  |  |  |
48100 | C |  | Biopsy of pancreas, open |  |  |  |  |
48102 | T |  | Needle biopsy, pancreas | 0685 | 6.0174 | $357.09 | $115.47 | $71.42
48120 | C |  | Removal of pancreas lesion |  |  |  |  |
48140 | C |  | Partial removal of pancreas |  |  |  |  |
48145 | C |  | Partial removal of pancreas |  |  |  |  |
48146 | C |  | Pancreatectomy |  |  |  |  |
48148 | C |  | Removal of pancreatic duct |  |  |  |  |
48150 | C |  | Partial removal of pancreas |  |  |  |  |
48152 | C |  | Pancreatectomy |  |  |  |  |
48153 | C |  | Pancreatectomy |  |  |  |  |
48154 | C |  | Pancreatectomy |  |  |  |  |
48155 | C |  | Removal of pancreas |  |  |  |  |
48160 | E |  | Pancreas removal/transplant |  |  |  |  |
48180 | C |  | Fuse pancreas and bowel |  |  |  |  |
48400 | C |  | Injection, intraop add-on |  |  |  |  |
48500 | C |  | Surgery of pancreatic cyst |  |  |  |  |
48510 | C |  | Drain pancreatic pseudocyst |  |  |  |  |
48511 | T |  | Drain pancreatic pseudocyst | 0037 | 9.4751 | $562.28 | $224.91 | $112.46
48520 | C |  | Fuse pancreas cyst and bowel |  |  |  |  |
48540 | C |  | Fuse pancreas cyst and bowel |  |  |  |  |
48545 | C |  | Pancreatorrhaphy |  |  |  |  |
48547 | C |  | Duodenal exclusion |  |  |  |  |
48550 | E |  | Donor pancreatectomy |  |  |  |  |
48551 | C |  | Prep donor pancreas |  |  |  |  |
48552 | C |  | Prep donor pancreas/venous |  |  |  |  |
48554 | E |  | Transpl allograft pancreas |  |  |  |  |
48556 | C |  | Removal, allograft pancreas |  |  |  |  |
48999 | T |  | Pancreas surgery procedure | 0004 | 1.7646 | $104.72 | $22.36 | $20.94
49000 | C |  | Exploration of abdomen |  |  |  |  |
49002 | C |  | Reopening of abdomen |  |  |  |  |
49010 | C |  | Exploration behind abdomen |  |  |  |  |
49020 | C |  | Drain abdominal abscess |  |  |  |  |
49021 | T |  | Drain abdominal abscess | 0037 | 9.4751 | $562.28 | $224.91 | $112.46
49040 | C |  | Drain, open, abdom abscess |  |  |  |  |
49041 | T |  | Drain, percut, abdom abscess | 0037 | 9.4751 | $562.28 | $224.91 | $112.46
49060 | C |  | Drain, open, retrop abscess |  |  |  |  |
49061 | T |  | Drain, percut, retroper absc | 0037 | 9.4751 | $562.28 | $224.91 | $112.46
49062 | C |  | Drain to peritoneal cavity |  |  |  |  |
49080 | T |  | Puncture, peritoneal cavity | 0070 | 3.2101 | $190.50 |  | $38.10
49081 | T |  | Removal of abdominal fluid | 0070 | 3.2101 | $190.50 |  | $38.10
49085 | T |  | Remove abdomen foreign body | 0153 | 21.6961 | $1,287.51 | $382.75 | $257.50
49180 | T |  | Biopsy, abdominal mass | 0685 | 6.0174 | $357.09 | $115.47 | $71.42
49200 | T |  | Removal of abdominal lesion | 0130 | 31.9271 | $1,894.65 | $659.53 | $378.93
49201 | C |  | Remove abdom lesion, complex |  |  |  |  |
49215 | C |  | Excise sacral spine tumor |  |  |  |  |
49220 | C |  | Multiple surgery, abdomen |  |  |  |  |
49250 | T |  | Excision of umbilicus | 0153 | 21.6961 | $1,287.51 | $382.75 | $257.50
49255 | C |  | Removal of omentum |  |  |  |  |
49320 | T |  | Diag laparo separate proc | 0130 | 31.9271 | $1,894.65 | $659.53 | $378.93
49321 | T |  | Laparoscopy, biopsy | 0130 | 31.9271 | $1,894.65 | $659.53 | $378.93
49322 | T |  | Laparoscopy, aspiration | 0130 | 31.9271 | $1,894.65 | $659.53 | $378.93
49323 | T |  | Laparo drain lymphocele | 0130 | 31.9271 | $1,894.65 | $659.53 | $378.93
49329 | T |  | Laparo proc, abdm/per/oment | 0130 | 31.9271 | $1,894.65 | $659.53 | $378.93
49400 | N |  | Air injection into abdomen |  |  |  |  |
49419 | T |  | Insrt abdom cath for chemotx | 0115 | 31.4727 | $1,867.68 | $459.35 | $373.54
49420 | T |  | Insert abdom drain, temp | 0652 | 28.8948 | $1,714.70 |  | $342.94
49421 | T |  | Insert abdom drain, perm | 0652 | 28.8948 | $1,714.70 |  | $342.94
49422 | T |  | Remove perm cannula/catheter | 0105 | 22.3685 | $1,327.41 | $370.40 | $265.48
49423 | T |  | Exchange drainage catheter | 0152 | 12.2833 | $728.93 |  | $145.79
49424 | N |  | Assess cyst, contrast inject |  |  |  |  |
49425 | C |  | Insert abdomen-venous drain |  |  |  |  |
49426 | T |  | Revise abdomen-venous shunt | 0153 | 21.6961 | $1,287.51 | $382.75 | $257.50
49427 | N |  | Injection, abdominal shunt |  |  |  |  |
49428 | C |  | Ligation of shunt |  |  |  |  |
49429 | T |  | Removal of shunt | 0105 | 22.3685 | $1,327.41 | $370.40 | $265.48
49491 | T |  | Rpr hern preemie reduc | 0154 | 28.7847 | $1,708.17 | $464.85 | $341.63
49492 | T |  | Rpr ing hern premie, blocked | 0154 | 28.7847 | $1,708.17 | $464.85 | $341.63
49495 | T |  | Rpr ing hernia baby, reduc | 0154 | 28.7847 | $1,708.17 | $464.85 | $341.63
49496 | T |  | Rpr ing hernia baby, blocked | 0154 | 28.7847 | $1,708.17 | $464.85 | $341.63
49500 | T |  | Rpr ing hernia, init, reduce | 0154 | 28.7847 | $1,708.17 | $464.85 | $341.63
49501 | T |  | Rpr ing hernia, init blocked | 0154 | 28.7847 | $1,708.17 | $464.85 | $341.63
49505 | T |  | Prp i/hern init reduc>5 yr | 0154 | 28.7847 | $1,708.17 | $464.85 | $341.63
49507 | T |  | Prp i/hern init block>5 yr | 0154 | 28.7847 | $1,708.17 | $464.85 | $341.63
49520 | T |  | Rerepair ing hernia, reduce | 0154 | 28.7847 | $1,708.17 | $464.85 | $341.63
49521 | T |  | Rerepair ing hernia, blocked | 0154 | 28.7847 | $1,708.17 | $464.85 | $341.63
49525 | T |  | Repair ing hernia, sliding | 0154 | 28.7847 | $1,708.17 | $464.85 | $341.63
49540 | T |  | Repair lumbar hernia | 0154 | 28.7847 | $1,708.17 | $464.85 | $341.63
49550 | T |  | Rpr rem hernia, init, reduce | 0154 | 28.7847 | $1,708.17 | $464.85 | $341.63
49553 | T |  | Rpr fem hernia, init blocked | 0154 | 28.7847 | $1,708.17 | $464.85 | $341.63
49555 | T |  | Rerepair fem hernia, reduce | 0154 | 28.7847 | $1,708.17 | $464.85 | $341.63
49557 | T |  | Rerepair fem hernia, blocked | 0154 | 28.7847 | $1,708.17 | $464.85 | $341.63
49560 | T |  | Rpr ventral hern init, reduc | 0154 | 28.7847 | $1,708.17 | $464.85 | $341.63
49561 | T |  | Rpr ventral hern init, block | 0154 | 28.7847 | $1,708.17 | $464.85 | $341.63
49565 | T |  | Rerepair ventrl hern, reduce | 0154 | 28.7847 | $1,708.17 | $464.85 | $341.63
49566 | T |  | Rerepair ventrl hern, block | 0154 | 28.7847 | $1,708.17 | $464.85 | $341.63
49568 | T |  | Hernia repair w/mesh | 0154 | 28.7847 | $1,708.17 | $464.85 | $341.63
49570 | T |  | Rpr epigastric hern, reduce | 0154 | 28.7847 | $1,708.17 | $464.85 | $341.63
49572 | T |  | Rpr epigastric hern, blocked | 0154 | 28.7847 | $1,708.17 | $464.85 | $341.63
49580 | T |  | Rpr umbil hern, reduc < 5 yr | 0154 | 28.7847 | $1,708.17 | $464.85 | $341.63
49582 | T |  | Rpr umbil hern, block < 5 yr | 0154 | 28.7847 | $1,708.17 | $464.85 | $341.63
49585 | T |  | Rpr umbil hern, reduc > 5 yr | 0154 | 28.7847 | $1,708.17 | $464.85 | $341.63
49587 | T |  | Rpr umbil hern, block > 5 yr | 0154 | 28.7847 | $1,708.17 | $464.85 | $341.63
49590 | T |  | Repair spigilian hernia | 0154 | 28.7847 | $1,708.17 | $464.85 | $341.63
49600 | T |  | Repair umbilical lesion | 0154 | 28.7847 | $1,708.17 | $464.85 | $341.63
49605 | C |  | Repair umbilical lesion |  |  |  |  |
49606 | C |  | Repair umbilical lesion |  |  |  |  |
49610 | C |  | Repair umbilical lesion |  |  |  |  |
49611 | C |  | Repair umbilical lesion |  |  |  |  |
49650 | T |  | Laparo hernia repair initial | 0131 | 43.3389 | $2,571.86 | $1,001.89 | $514.37
49651 | T |  | Laparo hernia repair recur | 0131 | 43.3389 | $2,571.86 | $1,001.89 | $514.37
49659 | T |  | Laparo proc, hernia repair | 0130 | 31.9271 | $1,894.65 | $659.53 | $378.93
49900 | C |  | Repair of abdominal wall |  |  |  |  |
49904 | C |  | Omental flap, extra-abdom |  |  |  |  |
49905 | C |  | Omental flap |  |  |  |  |
49906 | C |  | Free omental flap, microvasc |  |  |  |  |
49999 | T |  | Abdomen surgery procedure | 0153 | 21.6961 | $1,287.51 | $382.75 | $257.50
50010 | C |  | Exploration of kidney |  |  |  |  |
50020 | T |  | Renal abscess, open drain | 0162 | 23.3918 | $1,388.14 |  | $277.63
50021 | T |  | Renal abscess, percut drain | 0037 | 9.4751 | $562.28 | $224.91 | $112.46
50040 | C |  | Drainage of kidney |  |  |  |  |
50045 | C |  | Exploration of kidney |  |  |  |  |
50060 | C |  | Removal of kidney stone |  |  |  |  |
50065 | C |  | Incision of kidney |  |  |  |  |
50070 | C |  | Incision of kidney |  |  |  |  |
50075 | C |  | Removal of kidney stone |  |  |  |  |
50080 | T |  | Removal of kidney stone | 0429 | 42.3147 | $2,511.08 |  | $502.22
50081 | T |  | Removal of kidney stone | 0429 | 42.3147 | $2,511.08 |  | $502.22
50100 | C |  | Revise kidney blood vessels |  |  |  |  |
50120 | C |  | Exploration of kidney |  |  |  |  |
50125 | C |  | Explore and drain kidney |  |  |  |  |
50130 | C |  | Removal of kidney stone |  |  |  |  |
50135 | C |  | Exploration of kidney |  |  |  |  |
50200 | T |  | Biopsy of kidney | 0685 | 6.0174 | $357.09 | $115.47 | $71.42
50205 | C |  | Biopsy of kidney |  |  |  |  |
50220 | C |  | Remove kidney, open |  |  |  |  |
50225 | C |  | Removal kidney open, complex |  |  |  |  |
50230 | C |  | Removal kidney open, radical |  |  |  |  |
50234 | C |  | Removal of kidney & ureter |  |  |  |  |
50236 | C |  | Removal of kidney & ureter |  |  |  |  |
50240 | C |  | Partial removal of kidney |  |  |  |  |
50280 | C |  | Removal of kidney lesion |  |  |  |  |
50290 | C |  | Removal of kidney lesion |  |  |  |  |
50300 | C |  | Removal of donor kidney |  |  |  |  |
50320 | C |  | Removal of donor kidney |  |  |  |  |
50323 | C |  | Prep cadaver renal allograft |  |  |  |  |
50325 | C |  | Prep donor renal graft |  |  |  |  |
50327 | C |  | Prep renal graft/venous |  |  |  |  |
50328 | C |  | Prep renal graft/arterial |  |  |  |  |
50329 | C |  | Prep renal graft/ureteral |  |  |  |  |
50340 | C |  | Removal of kidney |  |  |  |  |
50360 | C |  | Transplantation of kidney |  |  |  |  |
50365 | C |  | Transplantation of kidney |  |  |  |  |
50370 | C |  | Remove transplanted kidney |  |  |  |  |
50380 | C |  | Reimplantation of kidney |  |  |  |  |
50390 | T |  | Drainage of kidney lesion | 0685 | 6.0174 | $357.09 | $115.47 | $71.42
50391 | T |  | Instll rx agnt into rnal tub | 0156 | 2.5751 | $152.81 | $40.52 | $30.56
50392 | T |  | Insert kidney drain | 0161 | 18.5576 | $1,101.26 | $249.36 | $220.25
50393 | T |  | Insert ureteral tube | 0161 | 18.5576 | $1,101.26 | $249.36 | $220.25
50394 | N |  | Injection for kidney x-ray |  |  |  |  |
50395 | T |  | Create passage to kidney | 0161 | 18.5576 | $1,101.26 | $249.36 | $220.25
50396 | T |  | Measure kidney pressure | 0164 | 1.1855 | $70.35 | $17.29 | $14.07
50398 | T |  | Change kidney tube | 0122 | 6.9721 | $413.75 | $84.85 | $82.75
50400 | C |  | Revision of kidney/ureter |  |  |  |  |
50405 | C |  | Revision of kidney/ureter |  |  |  |  |
50500 | C |  | Repair of kidney wound |  |  |  |  |
50520 | C |  | Close kidney-skin fistula |  |  |  |  |
50525 | C |  | Repair renal-abdomen fistula |  |  |  |  |
50526 | C |  | Repair renal-abdomen fistula |  |  |  |  |
50540 | C |  | Revision of horseshoe kidney |  |  |  |  |
50541 | T |  | Laparo ablate renal cyst | 0130 | 31.9271 | $1,894.65 | $659.53 | $378.93
50542 | T |  | Laparo ablate renal mass | 0131 | 43.3389 | $2,571.86 | $1,001.89 | $514.37
50543 | T |  | Laparo partial nephrectomy | 0131 | 43.3389 | $2,571.86 | $1,001.89 | $514.37
50544 | T |  | Laparoscopy, pyeloplasty | 0130 | 31.9271 | $1,894.65 | $659.53 | $378.93
50545 | C |  | Laparo radical nephrectomy |  |  |  |  |
50546 | C |  | Laparoscopic nephrectomy |  |  |  |  |
50547 | C |  | Laparo removal donor kidney |  |  |  |  |
50548 | C |  | Laparo remove w/ ureter |  |  |  |  |
50549 | T |  | Laparoscope proc, renal | 0130 | 31.9271 | $1,894.65 | $659.53 | $378.93
50551 | T |  | Kidney endoscopy | 0160 | 6.6753 | $396.13 | $105.06 | $79.23
50553 | T |  | Kidney endoscopy | 0161 | 18.5576 | $1,101.26 | $249.36 | $220.25
50555 | T |  | Kidney endoscopy & biopsy | 0160 | 6.6753 | $396.13 | $105.06 | $79.23
50557 | T |  | Kidney endoscopy & treatment | 0162 | 23.3918 | $1,388.14 |  | $277.63
50561 | T |  | Kidney endoscopy & treatment | 0161 | 18.5576 | $1,101.26 | $249.36 | $220.25
50562 | T |  | Renal scope w/tumor resect | 0160 | 6.6753 | $396.13 | $105.06 | $79.23
50570 | T |  | Kidney endoscopy | 0160 | 6.6753 | $396.13 | $105.06 | $79.23
50572 | T |  | Kidney endoscopy | 0160 | 6.6753 | $396.13 | $105.06 | $79.23
50574 | T |  | Kidney endoscopy & biopsy | 0160 | 6.6753 | $396.13 | $105.06 | $79.23
50575 | T |  | Kidney endoscopy | 0163 | 33.7354 | $2,001.96 |  | $400.39
50576 | T |  | Kidney endoscopy & treatment | 0161 | 18.5576 | $1,101.26 | $249.36 | $220.25
50580 | C |  | Kidney endoscopy & treatment |  |  |  |  |
50590 | T |  | Fragmenting of kidney stone | 0169 | 43.0133 | $2,552.54 | $1,021.01 | $510.51
50600 | C |  | Exploration of ureter |  |  |  |  |
50605 | C |  | Insert ureteral support |  |  |  |  |
50610 | C |  | Removal of ureter stone |  |  |  |  |
50620 | C |  | Removal of ureter stone |  |  |  |  |
50630 | C |  | Removal of ureter stone |  |  |  |  |
50650 | C |  | Removal of ureter |  |  |  |  |
50660 | C |  | Removal of ureter |  |  |  |  |
50684 | N |  | Injection for ureter x-ray |  |  |  |  |
50686 | T |  | Measure ureter pressure | 0164 | 1.1855 | $70.35 | $17.29 | $14.07
50688 | T |  | Change of ureter tube | 0122 | 6.9721 | $413.75 | $84.85 | $82.75
50690 | N |  | Injection for ureter x-ray |  |  |  |  |
50700 | C |  | Revision of ureter |  |  |  |  |
50715 | C |  | Release of ureter |  |  |  |  |
50722 | C |  | Release of ureter |  |  |  |  |
50725 | C |  | Release/revise ureter |  |  |  |  |
50727 | C |  | Revise ureter |  |  |  |  |
50728 | C |  | Revise ureter |  |  |  |  |
50740 | C |  | Fusion of ureter & kidney |  |  |  |  |
50750 | C |  | Fusion of ureter & kidney |  |  |  |  |
50760 | C |  | Fusion of ureters |  |  |  |  |
50770 | C |  | Splicing of ureters |  |  |  |  |
50780 | C |  | Reimplant ureter in bladder |  |  |  |  |
50782 | C |  | Reimplant ureter in bladder |  |  |  |  |
50783 | C |  | Reimplant ureter in bladder |  |  |  |  |
50785 | C |  | Reimplant ureter in bladder |  |  |  |  |
50800 | C |  | Implant ureter in bowel |  |  |  |  |
50810 | C |  | Fusion of ureter & bowel |  |  |  |  |
50815 | C |  | Urine shunt to intestine |  |  |  |  |
50820 | C |  | Construct bowel bladder |  |  |  |  |
50825 | C |  | Construct bowel bladder |  |  |  |  |
50830 | C |  | Revise urine flow |  |  |  |  |
50840 | C |  | Replace ureter by bowel |  |  |  |  |
50845 | C |  | Appendico-vesicostomy |  |  |  |  |
50860 | C |  | Transplant ureter to skin |  |  |  |  |
50900 | C |  | Repair of ureter |  |  |  |  |
50920 | C |  | Closure ureter/skin fistula |  |  |  |  |
50930 | C |  | Closure ureter/bowel fistula |  |  |  |  |
50940 | C |  | Release of ureter |  |  |  |  |
50945 | T |  | Laparoscopy ureterolithotomy | 0131 | 43.3389 | $2,571.86 | $1,001.89 | $514.37
50947 | T |  | Laparo new ureter/bladder | 0131 | 43.3389 | $2,571.86 | $1,001.89 | $514.37
50948 | T |  | Laparo new ureter/bladder | 0131 | 43.3389 | $2,571.86 | $1,001.89 | $514.37
50949 | T |  | Laparoscope proc, ureter | 0130 | 31.9271 | $1,894.65 | $659.53 | $378.93
50951 | T |  | Endoscopy of ureter | 0160 | 6.6753 | $396.13 | $105.06 | $79.23
50953 | T |  | Endoscopy of ureter | 0160 | 6.6753 | $396.13 | $105.06 | $79.23
50955 | T |  | Ureter endoscopy & biopsy | 0161 | 18.5576 | $1,101.26 | $249.36 | $220.25
50957 | T |  | Ureter endoscopy & treatment | 0161 | 18.5576 | $1,101.26 | $249.36 | $220.25
50961 | T |  | Ureter endoscopy & treatment | 0161 | 18.5576 | $1,101.26 | $249.36 | $220.25
50970 | T |  | Ureter endoscopy | 0160 | 6.6753 | $396.13 | $105.06 | $79.23
50972 | T |  | Ureter endoscopy & catheter | 0160 | 6.6753 | $396.13 | $105.06 | $79.23
50974 | T |  | Ureter endoscopy & biopsy | 0161 | 18.5576 | $1,101.26 | $249.36 | $220.25
50976 | T |  | Ureter endoscopy & treatment | 0161 | 18.5576 | $1,101.26 | $249.36 | $220.25
50980 | T |  | Ureter endoscopy & treatment | 0161 | 18.5576 | $1,101.26 | $249.36 | $220.25
51000 | T |  | Drainage of bladder | 0164 | 1.1855 | $70.35 | $17.29 | $14.07
51005 | T |  | Drainage of bladder | 0164 | 1.1855 | $70.35 | $17.29 | $14.07
51010 | T |  | Drainage of bladder | 0165 | 16.6689 | $989.18 |  | $197.84
51020 | T |  | Incise & treat bladder | 0162 | 23.3918 | $1,388.14 |  | $277.63
51030 | T |  | Incise & treat bladder | 0162 | 23.3918 | $1,388.14 |  | $277.63
51040 | T |  | Incise & drain bladder | 0162 | 23.3918 | $1,388.14 |  | $277.63
51045 | T |  | Incise bladder/drain ureter | 0160 | 6.6753 | $396.13 | $105.06 | $79.23
51050 | T |  | Removal of bladder stone | 0162 | 23.3918 | $1,388.14 |  | $277.63
51060 | C |  | Removal of ureter stone |  |  |  |  |
51065 | T |  | Remove ureter calculus | 0162 | 23.3918 | $1,388.14 |  | $277.63
51080 | T |  | Drainage of bladder abscess | 0008 | 16.4989 | $979.09 |  | $195.82
51500 | T |  | Removal of bladder cyst | 0154 | 28.7847 | $1,708.17 | $464.85 | $341.63
51520 | T |  | Removal of bladder lesion | 0162 | 23.3918 | $1,388.14 |  | $277.63
51525 | C |  | Removal of bladder lesion |  |  |  |  |
51530 | C |  | Removal of bladder lesion |  |  |  |  |
51535 | C |  | Repair of ureter lesion |  |  |  |  |
51550 | C |  | Partial removal of bladder |  |  |  |  |
51555 | C |  | Partial removal of bladder |  |  |  |  |
51565 | C |  | Revise bladder & ureter(s) |  |  |  |  |
51570 | C |  | Removal of bladder |  |  |  |  |
51575 | C |  | Removal of bladder & nodes |  |  |  |  |
51580 | C |  | Remove bladder/revise tract |  |  |  |  |
51585 | C |  | Removal of bladder & nodes |  |  |  |  |
51590 | C |  | Remove bladder/revise tract |  |  |  |  |
51595 | C |  | Remove bladder/revise tract |  |  |  |  |
51596 | C |  | Remove bladder/create pouch |  |  |  |  |
51597 | C |  | Removal of pelvic structures |  |  |  |  |
51600 | N |  | Injection for bladder x-ray |  |  |  |  |
51605 | N |  | Preparation for bladder xray |  |  |  |  |
51610 | N |  | Injection for bladder x-ray |  |  |  |  |
51700 | T |  | Irrigation of bladder | 0164 | 1.1855 | $70.35 | $17.29 | $14.07
51701 | X |  | Insert bladder catheter | 0340 | 0.6384 | $37.88 |  | $7.58
51702 | X |  | Insert temp bladder cath | 0340 | 0.6384 | $37.88 |  | $7.58
51703 | T |  | Insert bladder cath, complex | 0164 | 1.1855 | $70.35 | $17.29 | $14.07
51705 | T |  | Change of bladder tube | 0121 | 2.2766 | $135.10 | $43.80 | $27.02
51710 | T |  | Change of bladder tube | 0122 | 6.9721 | $413.75 | $84.85 | $82.75
51715 | T |  | Endoscopic injection/implant | 0168 | 28.2685 | $1,677.54 | $388.03 | $335.51
51720 | T |  | Treatment of bladder lesion | 0156 | 2.5751 | $152.81 | $40.52 | $30.56
51725 | T |  | Simple cystometrogram | 0156 | 2.5751 | $152.81 | $40.52 | $30.56
51726 | T |  | Complex cystometrogram | 0156 | 2.5751 | $152.81 | $40.52 | $30.56
51736 | T |  | Urine flow measurement | 0164 | 1.1855 | $70.35 | $17.29 | $14.07
51741 | T |  | Electro-uroflowmetry, first | 0164 | 1.1855 | $70.35 | $17.29 | $14.07
51772 | T |  | Urethra pressure profile | 0156 | 2.5751 | $152.81 | $40.52 | $30.56
51784 | T |  | Anal/urinary muscle study | 0164 | 1.1855 | $70.35 | $17.29 | $14.07
51785 | T |  | Anal/urinary muscle study | 0164 | 1.1855 | $70.35 | $17.29 | $14.07
51792 | T |  | Urinary reflex study | 0164 | 1.1855 | $70.35 | $17.29 | $14.07
51795 | T |  | Urine voiding pressure study | 0164 | 1.1855 | $70.35 | $17.29 | $14.07
51797 | T |  | Intraabdominal pressure test | 0164 | 1.1855 | $70.35 | $17.29 | $14.07
51798 | X |  | Us urine capacity measure | 0340 | 0.6384 | $37.88 |  | $7.58
51800 | C |  | Revision of bladder/urethra |  |  |  |  |
51820 | C |  | Revision of urinary tract |  |  |  |  |
51840 | C |  | Attach bladder/urethra |  |  |  |  |
51841 | C |  | Attach bladder/urethra |  |  |  |  |
51845 | C |  | Repair bladder neck |  |  |  |  |
51860 | C |  | Repair of bladder wound |  |  |  |  |
51865 | C |  | Repair of bladder wound |  |  |  |  |
51880 | T |  | Repair of bladder opening | 0162 | 23.3918 | $1,388.14 |  | $277.63
51900 | C |  | Repair bladder/vagina lesion |  |  |  |  |
51920 | C |  | Close bladder-uterus fistula |  |  |  |  |
51925 | C |  | Hysterectomy/bladder repair |  |  |  |  |
51940 | C |  | Correction of bladder defect |  |  |  |  |
51960 | C |  | Revision of bladder & bowel |  |  |  |  |
51980 | C |  | Construct bladder opening |  |  |  |  |
51990 | T |  | Laparo urethral suspension | 0131 | 43.3389 | $2,571.86 | $1,001.89 | $514.37
51992 | T |  | Laparo sling operation | 0132 | 62.9914 | $3,738.10 | $1,239.22 | $747.62
52000 | T |  | Cystoscopy | 0160 | 6.6753 | $396.13 | $105.06 | $79.23
52001 | T |  | Cystoscopy, removal of clots | 0160 | 6.6753 | $396.13 | $105.06 | $79.23
52005 | T |  | Cystoscopy & ureter catheter | 0161 | 18.5576 | $1,101.26 | $249.36 | $220.25
52007 | T |  | Cystoscopy and biopsy | 0161 | 18.5576 | $1,101.26 | $249.36 | $220.25
52010 | T |  | Cystoscopy & duct catheter | 0160 | 6.6753 | $396.13 | $105.06 | $79.23
52204 | T |  | Cystoscopy | 0161 | 18.5576 | $1,101.26 | $249.36 | $220.25
52214 | T |  | Cystoscopy and treatment | 0162 | 23.3918 | $1,388.14 |  | $277.63
52224 | T |  | Cystoscopy and treatment | 0162 | 23.3918 | $1,388.14 |  | $277.63
52234 | T |  | Cystoscopy and treatment | 0162 | 23.3918 | $1,388.14 |  | $277.63
52235 | T |  | Cystoscopy and treatment | 0162 | 23.3918 | $1,388.14 |  | $277.63
52240 | T |  | Cystoscopy and treatment | 0162 | 23.3918 | $1,388.14 |  | $277.63
52250 | T |  | Cystoscopy and radiotracer | 0162 | 23.3918 | $1,388.14 |  | $277.63
52260 | T |  | Cystoscopy and treatment | 0161 | 18.5576 | $1,101.26 | $249.36 | $220.25
52265 | T |  | Cystoscopy and treatment | 0160 | 6.6753 | $396.13 | $105.06 | $79.23
52270 | T |  | Cystoscopy & revise urethra | 0161 | 18.5576 | $1,101.26 | $249.36 | $220.25
52275 | T |  | Cystoscopy & revise urethra | 0161 | 18.5576 | $1,101.26 | $249.36 | $220.25
52276 | T |  | Cystoscopy and treatment | 0161 | 18.5576 | $1,101.26 | $249.36 | $220.25
52277 | T |  | Cystoscopy and treatment | 0162 | 23.3918 | $1,388.14 |  | $277.63
52281 | T |  | Cystoscopy and treatment | 0161 | 18.5576 | $1,101.26 | $249.36 | $220.25
52282 | T |  | Cystoscopy, implant stent | 0163 | 33.7354 | $2,001.96 |  | $400.39
52283 | T |  | Cystoscopy and treatment | 0161 | 18.5576 | $1,101.26 | $249.36 | $220.25
52285 | T |  | Cystoscopy and treatment | 0161 | 18.5576 | $1,101.26 | $249.36 | $220.25
52290 | T |  | Cystoscopy and treatment | 0161 | 18.5576 | $1,101.26 | $249.36 | $220.25
52300 | T |  | Cystoscopy and treatment | 0161 | 18.5576 | $1,101.26 | $249.36 | $220.25
52301 | T |  | Cystoscopy and treatment | 0161 | 18.5576 | $1,101.26 | $249.36 | $220.25
52305 | T |  | Cystoscopy and treatment | 0161 | 18.5576 | $1,101.26 | $249.36 | $220.25
52310 | T |  | Cystoscopy and treatment | 0160 | 6.6753 | $396.13 | $105.06 | $79.23
52315 | T |  | Cystoscopy and treatment | 0161 | 18.5576 | $1,101.26 | $249.36 | $220.25
52317 | T |  | Remove bladder stone | 0162 | 23.3918 | $1,388.14 |  | $277.63
52318 | T |  | Remove bladder stone | 0162 | 23.3918 | $1,388.14 |  | $277.63
52320 | T |  | Cystoscopy and treatment | 0162 | 23.3918 | $1,388.14 |  | $277.63
52325 | T |  | Cystoscopy, stone removal | 0162 | 23.3918 | $1,388.14 |  | $277.63
52327 | T |  | Cystoscopy, inject material | 0162 | 23.3918 | $1,388.14 |  | $277.63
52330 | T |  | Cystoscopy and treatment | 0162 | 23.3918 | $1,388.14 |  | $277.63
52332 | T |  | Cystoscopy and treatment | 0162 | 23.3918 | $1,388.14 |  | $277.63
52334 | T |  | Create passage to kidney | 0162 | 23.3918 | $1,388.14 |  | $277.63
52341 | T |  | Cysto w/ureter stricture tx | 0162 | 23.3918 | $1,388.14 |  | $277.63
52342 | T |  | Cysto w/up stricture tx | 0162 | 23.3918 | $1,388.14 |  | $277.63
52343 | T |  | Cysto w/renal stricture tx | 0162 | 23.3918 | $1,388.14 |  | $277.63
52344 | T |  | Cysto/uretero, stone remove | 0162 | 23.3918 | $1,388.14 |  | $277.63
52345 | T |  | Cysto/uretero w/up stricture | 0162 | 23.3918 | $1,388.14 |  | $277.63
52346 | T |  | Cystouretero w/renal strict | 0162 | 23.3918 | $1,388.14 |  | $277.63
52351 | T |  | Cystouretero & or pyeloscope | 0161 | 18.5576 | $1,101.26 | $249.36 | $220.25
52352 | T |  | Cystouretero w/stone remove | 0162 | 23.3918 | $1,388.14 |  | $277.63
52353 | T |  | Cystouretero w/lithotripsy | 0163 | 33.7354 | $2,001.96 |  | $400.39
52354 | T |  | Cystouretero w/biopsy | 0162 | 23.3918 | $1,388.14 |  | $277.63
52355 | T |  | Cystouretero w/excise tumor | 0162 | 23.3918 | $1,388.14 |  | $277.63
52400 | T |  | Cystouretero w/congen repr | 0162 | 23.3918 | $1,388.14 |  | $277.63
52402 | T |  | Cystourethro cut ejacul duct | 0162 | 23.3918 | $1,388.14 |  | $277.63
52450 | T |  | Incision of prostate | 0162 | 23.3918 | $1,388.14 |  | $277.63
52500 | T |  | Revision of bladder neck | 0162 | 23.3918 | $1,388.14 |  | $277.63
52510 | T |  | Dilation prostatic urethra | 0161 | 18.5576 | $1,101.26 | $249.36 | $220.25
52601 | T |  | Prostatectomy (TURP) | 0163 | 33.7354 | $2,001.96 |  | $400.39
52606 | T |  | Control postop bleeding | 0162 | 23.3918 | $1,388.14 |  | $277.63
52612 | T |  | Prostatectomy, first stage | 0163 | 33.7354 | $2,001.96 |  | $400.39
52614 | T |  | Prostatectomy, second stage | 0163 | 33.7354 | $2,001.96 |  | $400.39
52620 | T |  | Remove residual prostate | 0163 | 33.7354 | $2,001.96 |  | $400.39
52630 | T |  | Remove prostate regrowth | 0163 | 33.7354 | $2,001.96 |  | $400.39
52640 | T |  | Relieve bladder contracture | 0162 | 23.3918 | $1,388.14 |  | $277.63
52647 | T |  | Laser surgery of prostate | 0429 | 42.3147 | $2,511.08 |  | $502.22
52648 | T |  | Laser surgery of prostate | 0429 | 42.3147 | $2,511.08 |  | $502.22
52700 | T |  | Drainage of prostate abscess | 0162 | 23.3918 | $1,388.14 |  | $277.63
53000 | T |  | Incision of urethra | 0166 | 17.6743 | $1,048.85 | $218.73 | $209.77
53010 | T |  | Incision of urethra | 0166 | 17.6743 | $1,048.85 | $218.73 | $209.77
53020 | T |  | Incision of urethra | 0166 | 17.6743 | $1,048.85 | $218.73 | $209.77
53025 | T |  | Incision of urethra | 0166 | 17.6743 | $1,048.85 | $218.73 | $209.77
53040 | T |  | Drainage of urethra abscess | 0166 | 17.6743 | $1,048.85 | $218.73 | $209.77
53060 | T |  | Drainage of urethra abscess | 0166 | 17.6743 | $1,048.85 | $218.73 | $209.77
53080 | T |  | Drainage of urinary leakage | 0166 | 17.6743 | $1,048.85 | $218.73 | $209.77
53085 | T |  | Drainage of urinary leakage | 0166 | 17.6743 | $1,048.85 | $218.73 | $209.77
53200 | T |  | Biopsy of urethra | 0166 | 17.6743 | $1,048.85 | $218.73 | $209.77
53210 | T |  | Removal of urethra | 0168 | 28.2685 | $1,677.54 | $388.03 | $335.51
53215 | T |  | Removal of urethra | 0166 | 17.6743 | $1,048.85 | $218.73 | $209.77
53220 | T |  | Treatment of urethra lesion | 0168 | 28.2685 | $1,677.54 | $388.03 | $335.51
53230 | T |  | Removal of urethra lesion | 0168 | 28.2685 | $1,677.54 | $388.03 | $335.51
53235 | T |  | Removal of urethra lesion | 0166 | 17.6743 | $1,048.85 | $218.73 | $209.77
53240 | T |  | Surgery for urethra pouch | 0168 | 28.2685 | $1,677.54 | $388.03 | $335.51
53250 | T |  | Removal of urethra gland | 0166 | 17.6743 | $1,048.85 | $218.73 | $209.77
53260 | T |  | Treatment of urethra lesion | 0166 | 17.6743 | $1,048.85 | $218.73 | $209.77
53265 | T |  | Treatment of urethra lesion | 0166 | 17.6743 | $1,048.85 | $218.73 | $209.77
53270 | T |  | Removal of urethra gland | 0166 | 17.6743 | $1,048.85 | $218.73 | $209.77
53275 | T |  | Repair of urethra defect | 0166 | 17.6743 | $1,048.85 | $218.73 | $209.77
53400 | T |  | Revise urethra, stage 1 | 0168 | 28.2685 | $1,677.54 | $388.03 | $335.51
53405 | T |  | Revise urethra, stage 2 | 0168 | 128.2685 | $1,677.54 | $388.03 | $335.51
53410 | T |  | Reconstruction of urethra | 0168 | 28.2685 | $1,677.54 | $388.03 | $335.51
53415 | C |  | Reconstruction of urethra |  |  |  |  |
53420 | T |  | Reconstruct urethra, stage 1 | 0168 | 28.2685 | $1,677.54 | $388.03 | $335.51
53425 | T |  | Reconstruct urethra, stage 2 | 0168 | 28.2685 | $1,677.54 | $388.03 | $335.51
53430 | T |  | Reconstruction of urethra | 0168 | 28.2685 | $1,677.54 | $388.03 | $335.51
53431 | T |  | Reconstruct urethra/bladder | 0168 | 28.2685 | $1,677.54 | $388.03 | $335.51
53440 | S |  | Correct bladder function | 0385 | 75.6446 | $4,488.98 |  | $897.80
53442 | T |  | Remove perineal prosthesis | 0168 | 28.2685 | $1,677.54 | $388.03 | $335.51
53444 | S |  | Insert tandem cuff | 0385 | 75.6446 | $4,488.98 |  | $897.80
53445 | S |  | Insert uro/ves nck sphincter | 0386 | 120.1694 | $7,131.21 |  | $1,426.24
53446 | T |  | Remove uro sphincter | 0168 | 28.2685 | $1,677.54 | $388.03 | $335.51
53447 | S |  | Remove/replace ur sphincter | 0386 | 120.1694 | $7,131.21 |  | $1,426.24
53448 | C |  | Remov/replc ur sphinctr comp |  |  |  |  |
53449 | T |  | Repair uro sphincter | 0168 | 28.2685 | $1,677.54 | $388.03 | $335.51
53450 | T |  | Revision of urethra | 0168 | 28.2685 | $1,677.54 | $388.03 | $335.51
53460 | T |  | Revision of urethra | 0166 | 17.6743 | $1,048.85 | $218.73 | $209.77
53500 | T |  | Urethrlys, transvag w/ scope | 0168 | 28.2685 | $1,677.54 | $388.03 | $335.51
53502 | T |  | Repair of urethra injury | 0166 | 17.6743 | $1,048.85 | $218.73 | $209.77
53505 | T |  | Repair of urethra injury | 0168 | 28.2685 | $1,677.54 | $388.03 | $335.51
53510 | T |  | Repair of urethra injury | 0166 | 17.6743 | $1,048.85 | $218.73 | $209.77
53515 | T |  | Repair of urethra injury | 0168 | 28.2685 | $1,677.54 | $388.03 | $335.51
53520 | T |  | Repair of urethra defect | 0168 | 28.2685 | $1,677.54 | $388.03 | $335.51
53600 | T |  | Dilate urethra stricture | 0156 | 2.5751 | $152.81 | $40.52 | $30.56
53601 | T |  | Dilate urethra stricture | 0164 | 1.1855 | $70.35 | $17.29 | $14.07
53605 | T |  | Dilate urethra stricture | 0161 | 18.5576 | $1,101.26 | $249.36 | $220.25
53620 | T |  | Dilate urethra stricture | 0165 | 16.6689 | $989.18 |  | $197.84
53621 | T |  | Dilate urethra stricture | 0164 | 1.1855 | $70.35 | $17.29 | $14.07
53660 | T |  | Dilation of urethra | 0164 | 1.1855 | $70.35 | $17.29 | $14.07
53661 | T |  | Dilation of urethra | 0164 | 1.1855 | $70.35 | $17.29 | $14.07
53665 | T |  | Dilation of urethra | 0166 | 17.6743 | $1,048.85 | $218.73 | $209.77
53850 | T |  | Prostatic microwave thermotx | 0675 | 43.7329 | $2,595.24 |  | $519.05
53852 | T |  | Prostatic rf thermotx | 0675 | 43.7329 | $2,595.24 |  | $519.05
53853 | T |  | Prostatic water thermother | 0162 | 23.3918 | $1,388.14 |  | $277.63
53899 | T |  | Urology surgery procedure | 0164 | 1.1855 | $70.35 | $17.29 | $14.07
54000 | T |  | Slitting of prepuce | 0166 | 17.6743 | $1,048.85 | $218.73 | $209.77
54001 | T |  | Slitting of prepuce | 0166 | 17.6743 | $1,048.85 | $218.73 | $209.77
54015 | T |  | Drain penis lesion | 0008 | 16.4989 | $979.09 |  | $195.82
54050 | T |  | Destruction, penis lesion(s) | 0013 | 1.1078 | $65.74 | $14.20 | $13.15
54055 | T |  | Destruction, penis lesion(s) | 0017 | 18.4211 | $1,093.16 | $227.84 | $218.63
54056 | T |  | Cryosurgery, penis lesion(s) | 0012 | 0.8497 | $50.42 | $11.18 | $10.08
54057 | T |  | Laser surg, penis lesion(s) | 0017 | 18.4211 | $1,093.16 | $227.84 | $218.63
54060 | T |  | Excision of penis lesion(s) | 0017 | 18.4211 | $1,093.16 | $227.84 | $218.63
54065 | T |  | Destruction, penis lesion(s) | 0695 | 20.3164 | $1,205.64 | $266.59 | $241.13
54100 | T |  | Biopsy of penis | 0021 | 14.9776 | $888.82 | $219.48 | $177.76
54105 | T |  | Biopsy of penis | 0022 | 19.6472 | $1,165.92 | $354.45 | $233.18
54110 | T |  | Treatment of penis lesion | 0181 | 30.8663 | $1,831.70 | $621.82 | $366.34
54111 | T |  | Treat penis lesion, graft | 0181 | 30.8663 | $1,831.70 | $621.82 | $366.34
54112 | T |  | Treat penis lesion, graft | 0181 | 30.8663 | $1,831.70 | $621.82 | $366.34
54115 | T |  | Treatment of penis lesion | 0008 | 16.4989 | $979.09 |  | $195.82
54120 | T |  | Partial removal of penis | 0181 | 30.8663 | $1,831.70 | $621.82 | $366.34
54125 | C |  | Removal of penis |  |  |  |  |
54130 | C |  | Remove penis & nodes |  |  |  |  |
54135 | C |  | Remove penis & nodes |  |  |  |  |
54150 | T |  | Circumcision | 0180 | 19.8827 | $1,179.90 | $304.87 | $235.98
54152 | T |  | Circumcision | 0180 | 19.8827 | $1,179.90 | $304.87 | $235.98
54160 | T |  | Circumcision | 0180 | 19.8827 | $1,179.90 | $304.87 | $235.98
54161 | T |  | Circumcision | 0180 | 19.8827 | $1,179.90 | $304.87 | $235.98
54162 | T |  | Lysis penil circumic lesion | 0180 | 19.8827 | $1,179.90 | $304.87 | $235.98
54163 | T |  | Repair of circumcision | 0180 | 19.8827 | $1,179.90 | $304.87 | $235.98
54164 | T |  | Frenulotomy of penis | 0180 | 19.8827 | $1,179.90 | $304.87 | $235.98
54200 | T |  | Treatment of penis lesion | 0156 | 2.5751 | $152.81 | $40.52 | $30.56
54205 | T |  | Treatment of penis lesion | 0181 | 30.8663 | $1,831.70 | $621.82 | $366.34
54220 | T |  | Treatment of penis lesion | 0156 | 2.5751 | $152.81 | $40.52 | $30.56
54230 | N |  | Prepare penis study |  |  |  |  |
54231 | T |  | Dynamic cavernosometry | 0165 | 16.6689 | $989.18 |  | $197.84
54235 | T |  | Penile injection | 0164 | 1.1855 | $70.35 | $17.29 | $14.07
54240 | T |  | Penis study | 0164 | 1.1855 | $70.35 | $17.29 | $14.07
54250 | T |  | Penis study | 0164 | 1.1855 | $70.35 | $17.29 | $14.07
54300 | T |  | Revision of penis | 0181 | 30.8663 | $1,831.70 | $621.82 | $366.34
54304 | T |  | Revision of penis | 0181 | 30.8663 | $1,831.70 | $621.82 | $366.34
54308 | T |  | Reconstruction of urethra | 0181 | 30.8663 | $1,831.70 | $621.82 | $366.34
54312 | T |  | Reconstruction of urethra | 0181 | 30.8663 | $1,831.70 | $621.82 | $366.34
54316 | T |  | Reconstruction of urethra | 0181 | 30.8663 | $1,831.70 | $621.82 | $366.34
54318 | T |  | Reconstruction of urethra | 0181 | 30.8663 | $1,831.70 | $621.82 | $366.34
54322 | T |  | Reconstruction of urethra | 0181 | 30.8663 | $1,831.70 | $621.82 | $366.34
54324 | T |  | Reconstruction of urethra | 0181 | 30.8663 | $1,831.70 | $621.82 | $366.34
54326 | T |  | Reconstruction of urethra | 0181 | 30.8663 | $1,831.70 | $621.82 | $366.34
54328 | T |  | Revise penis/urethra | 0181 | 30.8663 | $1,831.70 | $621.82 | $366.34
54332 | C |  | Revise penis/urethra |  |  |  |  |
54336 | C |  | Revise penis/urethra |  |  |  |  |
54340 | T |  | Secondary urethral surgery | 0181 | 30.8663 | $1,831.70 | $621.82 | $366.34
54344 | T |  | Secondary urethral surgery | 0181 | 30.8663 | $1,831.70 | $621.82 | $366.34
54348 | T |  | Secondary urethral surgery | 0181 | 30.8663 | $1,831.70 | $621.82 | $366.34
54352 | T |  | Reconstruct urethra/penis | 0181 | 30.8663 | $1,831.70 | $621.82 | $366.34
54360 | T |  | Penis plastic surgery | 0181 | 30.8663 | $1,831.70 | $621.82 | $366.34
54380 | T |  | Repair penis | 0181 | 30.8663 | $1,831.70 | $621.82 | $366.34
54385 | T |  | Repair penis | 0181 | 30.8663 | $1,831.70 | $621.82 | $366.34
54390 | C |  | Repair penis and bladder |  |  |  |  |
54400 | S |  | Insert semi-rigid prosthesis | 0385 | 75.6446 | $4,488.98 |  | $897.80
54401 | S |  | Insert self-contd prosthesis | 0386 | 120.1694 | $7,131.21 |  | $1,426.24
54405 | S |  | Insert multi-comp penis pros | 0386 | 120.1694 | $7,131.21 |  | $1,426.24
54406 | T |  | Remove muti-comp penis pros | 0181 | 30.8663 | $1,831.70 | $621.82 | $366.34
54408 | T |  | Repair multi-comp penis pros | 0181 | 30.8663 | $1,831.70 | $621.82 | $366.34
54410 | S |  | Remove/replace penis prosth | 0386 | 120.1694 | $7,131.21 |  | $1,426.24
54411 | C |  | Remov/replc penis pros, comp |  |  |  |  |
54415 | T |  | Remove self-contd penis pros | 0181 | 30.8663 | $1,831.70 | $621.82 | $366.34
54416 | S |  | Remv/repl penis contain pros | 0386 | 120.1694 | $7,131.21 |  | $1,426.24
54417 | C |  | Remv/replc penis pros, compl |  |  |  |  |
54420 | T |  | Revision of penis | 0181 | 30.8663 | $1,831.70 | $621.82 | $366.34
54430 | C |  | Revision of penis |  |  |  |  |
54435 | T |  | Revision of penis | 0181 | 30.8663 | $1,831.70 | $621.82 | $366.34
54440 | T |  | Repair of penis | 0181 | 30.8663 | $1,831.70 | $621.82 | $366.34
54450 | T |  | Preputial stretching | 0156 | 2.5751 | $152.81 | $40.52 | $30.56
54500 | T |  | Biopsy of testis | 0037 | 9.4751 | $562.28 | $224.91 | $112.46
54505 | T |  | Biopsy of testis | 0183 | 23.6415 | $1,402.96 |  | $280.59
54512 | T |  | Excise lesion testis | 0183 | 23.6415 | $1,402.96 |  | $280.59
54520 | T |  | Removal of testis | 0183 | 23.6415 | $1,402.96 |  | $280.59
54522 | T |  | Orchiectomy, partial | 0183 | 23.6415 | $1,402.96 |  | $280.59
54530 | T |  | Removal of testis | 0154 | 28.7847 | $1,708.17 | $464.85 | $341.63
54535 | C |  | Extensive testis surgery |  |  |  |  |
54550 | T |  | Exploration for testis | 0154 | 28.7847 | $1,708.17 | $464.85 | $341.63
54560 | T |  | Exploration for testis | 0183 | 23.6415 | $1,402.96 |  | $280.59
54600 | T |  | Reduce testis torsion | 0183 | 23.6415 | $1,402.96 |  | $280.59
54620 | T |  | Suspension of testis | 0183 | 23.6415 | $1,402.96 |  | $280.59
54640 | T |  | Suspension of testis | 0154 | 28.7847 | $1,708.17 | $464.85 | $341.63
54650 | C |  | Orchiopexy (Fowler-Stephens) |  |  |  |  |
54660 | T |  | Revision of testis | 0183 | 23.6415 | $1,402.96 |  | $280.59
54670 | T |  | Repair testis injury | 0183 | 23.6415 | $1,402.96 |  | $280.59
54680 | T |  | Relocation of testis(es) | 0183 | 23.6415 | $1,402.96 |  | $280.59
54690 | T |  | Laparoscopy, orchiectomy | 0131 | 43.3389 | $2,571.86 | $1,001.89 | $514.37
54692 | T |  | Laparoscopy, orchiopexy | 0132 | 62.9914 | $3,738.10 | $1,239.22 | $747.62
54699 | T |  | Laparoscope proc, testis | 0130 | 31.9271 | $1,894.65 | $659.53 | $378.93
54700 | T |  | Drainage of scrotum | 0183 | 23.6415 | $1,402.96 |  | $280.59
54800 | T |  | Biopsy of epididymis | 0004 | 1.7646 | $104.72 | $22.36 | $20.94
54820 | T |  | Exploration of epididymis | 0183 | 23.6415 | $1,402.96 |  | $280.59
54830 | T |  | Remove epididymis lesion | 0183 | 23.6415 | $1,402.96 |  | $280.59
54840 | T |  | Remove epididymis lesion | 0183 | 23.6415 | $1,402.96 |  | $280.59
54860 | T |  | Removal of epididymis | 0183 | 23.6415 | $1,402.96 |  | $280.59
54861 | T |  | Removal of epididymis | 0183 | 23.6415 | $1,402.96 |  | $280.59
54900 | T |  | Fusion of spermatic ducts | 0183 | 23.6415 | $1,402.96 |  | $280.59
54901 | T |  | Fusion of spermatic ducts | 0183 | 23.6415 | $1,402.96 |  | $280.59
55000 | T |  | Drainage of hydrocele | 0004 | 1.7646 | $104.72 | $22.36 | $20.94
55040 | T |  | Removal of hydrocele | 0154 | 28.7847 | $1,708.17 | $464.85 | $341.63
55041 | T |  | Removal of hydroceles | 0154 | 28.7847 | $1,708.17 | $464.85 | $341.63
55060 | T |  | Repair of hydrocele | 0183 | 23.6415 | $1,402.96 |  | $280.59
55100 | T |  | Drainage of scrotum abscess | 0008 | 16.4989 | $979.09 |  | $195.82
55110 | T |  | Explore scrotum | 0183 | 23.6415 | $1,402.96 |  | $280.59
55120 | T |  | Removal of scrotum lesion | 0183 | 23.6415 | $1,402.96 |  | $280.59
55150 | T |  | Removal of scrotum | 0183 | 23.6415 | $1,402.96 |  | $280.59
55175 | T |  | Revision of scrotum | 0183 | 23.6415 | $1,402.96 |  | $280.59
55180 | T |  | Revision of scrotum | 0183 | 23.6415 | $1,402.96 |  | $280.59
55200 | T |  | Incision of sperm duct | 0183 | 23.6415 | $1,402.96 |  | $280.59
55250 | T |  | Removal of sperm duct(s) | 0183 | 23.6415 | $1,402.96 |  | $280.59
55300 | N |  | Prepare, sperm duct x-ray |  |  |  |  |
55400 | T |  | Repair of sperm duct | 0183 | 23.6415 | $1,402.96 |  | $280.59
55450 | T |  | Ligation of sperm duct | 0183 | 23.6415 | $1,402.96 |  | $280.59
55500 | T |  | Removal of hydrocele | 0183 | 23.6415 | $1,402.96 |  | $280.59
55520 | T |  | Removal of sperm cord lesion | 0183 | 23.6415 | $1,402.96 |  | $280.59
55530 | T |  | Revise spermatic cord veins | 0183 | 23.6415 | $1,402.96 |  | $280.59
55535 | T |  | Revise spermatic cord veins | 0154 | 28.7847 | $1,708.17 | $464.85 | $341.63
55540 | T |  | Revise hernia & sperm veins | 0154 | 28.7847 | $1,708.17 | $464.85 | $341.63
55550 | T |  | Laparo ligate spermatic vein | 0131 | 43.3389 | $2,571.86 | $1,001.89 | $514.37
55559 | T |  | Laparo proc, spermatic cord | 0130 | 31.9271 | $1,894.65 | $659.53 | $378.93
55600 | T |  | Incise sperm duct pouch | 0183 | 23.6415 | $1,402.96 |  | $280.59
55605 | C |  | Incise sperm duct pouch |  |  |  |  |
55650 | C |  | Remove sperm duct pouch |  |  |  |  |
55680 | T |  | Remove sperm pouch lesion | 0183 | 23.6415 | $1,402.96 |  | $280.59
55700 | T |  | Biopsy of prostate | 0184 | 4.3566 | $258.53 | $96.27 | $51.71
55705 | T |  | Biopsy of prostate | 0184 | 4.3566 | $258.53 | $96.27 | $51.71
55720 | T |  | Drainage of prostate abscess | 0162 | 23.3918 | $1,388.14 |  | $277.63
55725 | T |  | Drainage of prostate abscess | 0162 | 23.3918 | $1,388.14 |  | $277.63
55801 | C |  | Removal of prostate |  |  |  |  |
55810 | C |  | Extensive prostate surgery |  |  |  |  |
55812 | C |  | Extensive prostate surgery |  |  |  |  |
55815 | C |  | Extensive prostate surgery |  |  |  |  |
55821 | C |  | Removal of prostate |  |  |  |  |
55831 | C |  | Removal of prostate |  |  |  |  |
55840 | C |  | Extensive prostate surgery |  |  |  |  |
55842 | C |  | Extensive prostate surgery |  |  |  |  |
55845 | C |  | Extensive prostate surgery |  |  |  |  |
55859 | T |  | Percut/needle insert, pros | 0163 | 33.7354 | $2,001.96 |  | $400.39
55860 | T |  | Surgical exposure, prostate | 0165 | 16.6689 | $989.18 |  | $197.84
55862 | C |  | Extensive prostate surgery |  |  |  |  |
55865 | C |  | Extensive prostate surgery |  |  |  |  |
55866 | C |  | Laparo radical prostatectomy |  |  |  |  |
55870 | T |  | Electroejaculation | 0197 | 2.3572 | $139.88 |  | $27.98
55873 | T |  | Cryoablate prostate | 0674 | 95.7856 | $5,684.20 |  | $1,136.84
55899 | T |  | Genital surgery procedure | 0164 | 1.1855 | $70.35 | $17.29 | $14.07
55970 | E |  | Sex transformation, M to F |  |  |  |  |
55980 | E |  | Sex transformation, F to M |  |  |  |  |
56405 | T |  | I & D of vulva/perineum | 0189 | 2.371 | $140.70 |  | $28.14
56420 | T |  | Drainage of gland abscess | 0189 | 2.371 | $140.70 |  | $28.14
56440 | T |  | Surgery for vulva lesion | 0194 | 20.7525 | $1,231.52 | $397.84 | $246.30
56441 | T |  | Lysis of labial lesion(s) | 0193 | 14.5843 | $865.48 |  | $173.10
56501 | T |  | Destroy, vulva lesions, sim | 0017 | 18.4211 | $1,093.16 | $227.84 | $218.63
56515 | T |  | Destroy vulva lesion/s compl | 0695 | 20.3164 | $1,205.64 | $266.59 | $241.13
56605 | T |  | Biopsy of vulva/perineum | 0019 | 4.0547 | $240.62 | $71.87 | $48.12
56606 | T |  | Biopsy of vulva/perineum | 0019 | 4.0547 | $240.62 | $71.87 | $48.12
56620 | T |  | Partial removal of vulva | 0195 | 26.6791 | $1,583.22 | $483.80 | $316.64
56625 | T |  | Complete removal of vulva | 0195 | 26.6791 | $1,583.22 | $483.80 | $316.64
56630 | C |  | Extensive vulva surgery |  |  |  |  |
56631 | C |  | Extensive vulva surgery |  |  |  |  |
56632 | C |  | Extensive vulva surgery |  |  |  |  |
56633 | C |  | Extensive vulva surgery |  |  |  |  |
56634 | C |  | Extensive vulva surgery |  |  |  |  |
56637 | C |  | Extensive vulva surgery |  |  |  |  |
56640 | C |  | Extensive vulva surgery |  |  |  |  |
56700 | T |  | Partial removal of hymen | 0194 | 20.7525 | $1,231.52 | $397.84 | $246.30
56720 | T |  | Incision of hymen | 0193 | 14.5843 | $865.48 |  | $173.10
56740 | T |  | Remove vagina gland lesion | 0194 | 20.7525 | $1,231.52 | $397.84 | $246.30
56800 | T |  | Repair of vagina | 0194 | 20.7525 | $1,231.52 | $397.84 | $246.30
56805 | T |  | Repair clitoris | 0193 | 14.5843 | $865.48 |  | $173.10
56810 | T |  | Repair of perineum | 0194 | 20.7525 | $1,231.52 | $397.84 | $246.30
56820 | T |  | Exam of vulva w/scope | 0188 | 1.14 | $67.65 |  | $13.53
56821 | T |  | Exam/biopsy of vulva w/scope | 0189 | 2.371 | $140.70 |  | $28.14
57000 | T |  | Exploration of vagina | 0193 | 14.5843 | $865.48 |  | $173.10
57010 | T |  | Drainage of pelvic abscess | 0193 | 14.5843 | $865.48 |  | $173.10
57020 | T |  | Drainage of pelvic fluid | 0192 | 4.3082 | $255.66 |  | $51.13
57022 | T |  | I & d vaginal hematoma, pp | 0007 | 11.4501 | $679.48 |  | $135.90
57023 | T |  | I & d vag hematoma, non-ob | 0008 | 16.4989 | $979.09 |  | $195.82
57061 | T |  | Destroy vag lesions, simple | 0194 | 20.7525 | $1,231.52 | $397.84 | $246.30
57065 | T |  | Destroy vag lesions, complex | 0194 | 20.7525 | $1,231.52 | $397.84 | $246.30
57100 | T |  | Biopsy of vagina | 0192 | 4.3082 | $255.66 |  | $51.13
57105 | T |  | Biopsy of vagina | 0194 | 20.7525 | $1,231.52 | $397.84 | $246.30
57106 | T |  | Remove vagina wall, partial | 0194 | 20.7525 | $1,231.52 | $397.84 | $246.30
57107 | T |  | Remove vagina tissue, part | 0195 | 26.6791 | $1,583.22 | $483.80 | $316.64
57109 | T |  | Vaginectomy partial w/nodes | 0195 | 26.6791 | $1,583.22 | $483.80 | $316.64
57110 | C |  | Remove vagina wall, complete |  |  |  |  |
57111 | C |  | Remove vagina tissue, compl |  |  |  |  |
57112 | C |  | Vaginectomy w/nodes, compl |  |  |  |  |
57120 | T |  | Closure of vagina | 0195 | 26.6791 | $1,583.22 | $483.80 | $316.64
57130 | T |  | Remove vagina lesion | 0194 | 20.7525 | $1,231.52 | $397.84 | $246.30
57135 | T |  | Remove vagina lesion | 0194 | 20.7525 | $1,231.52 | $397.84 | $246.30
57150 | T |  | Treat vagina infection | 0191 | 0.167 | $9.91 | $2.78 | $1.98
57155 | T |  | Insert uteri tandems/ovoids | 0192 | 4.3082 | $255.66 |  | $51.13
57160 | T |  | Insert pessary/other device | 0188 | 1.14 | $67.65 |  | $13.53
57170 | T |  | Fitting of diaphragm/cap | 0191 | 0.167 | $9.91 | $2.78 | $1.98
57180 | T |  | Treat vaginal bleeding | 0189 | 2.371 | $140.70 |  | $28.14
57200 | T |  | Repair of vagina | 0194 | 20.7525 | $1,231.52 | $397.84 | $246.30
57210 | T |  | Repair vagina/perineum | 0194 | 20.7525 | $1,231.52 | $397.84 | $246.30
57220 | T |  | Revision of urethra | 0202 | 40.3866 | $2,396.66 | $958.66 | $479.33
57230 | T |  | Repair of urethral lesion | 0195 | 26.6791 | $1,583.22 | $483.80 | $316.64
57240 | T |  | Repair bladder & vagina | 0195 | 26.6791 | $1,583.22 | $483.80 | $316.64
57250 | T |  | Repair rectum & vagina | 0195 | 26.6791 | $1,583.22 | $483.80 | $316.64
57260 | T |  | Repair of vagina | 0195 | 26.6791 | $1,583.22 | $483.80 | $316.64
57265 | T |  | Extensive repair of vagina | 0202 | 40.3866 | $2,396.66 | $958.66 | $479.33
57267 | T |  | Insert mesh/pelvic flr addon | 0154 | 28.7847 | $1,708.17 | $464.85 | $341.63
57268 | T |  | Repair of bowel bulge | 0195 | 26.6791 | $1,583.22 | $483.80 | $316.64
57270 | C |  | Repair of bowel pouch |  |  |  |  |
57280 | C |  | Suspension of vagina |  |  |  |  |
57282 | C |  | Repair of vaginal prolapse |  |  |  |  |
57283 | C |  | Colpopexy, intraperitoneal |  |  |  |  |
57284 | T |  | Repair paravaginal defect | 0202 | 40.3866 | $2,396.66 | $958.66 | $479.33
57287 | T |  | Revise/remove sling repair | 0202 | 40.3866 | $2,396.66 | $958.66 | $479.33
57288 | T |  | Repair bladder defect | 0202 | 40.3866 | $2,396.66 | $958.66 | $479.33
57289 | T |  | Repair bladder & vagina | 0195 | 26.6791 | $1,583.22 | $483.80 | $316.64
57291 | T |  | Construction of vagina | 0195 | 26.6791 | $1,583.22 | $483.80 | $316.64
57292 | C |  | Construct vagina with graft |  |  |  |  |
57300 | T |  | Repair rectum-vagina fistula | 0195 | 26.6791 | $1,583.22 | $483.80 | $316.64
57305 | C |  | Repair rectum-vagina fistula |  |  |  |  |
57307 | C |  | Fistula repair & colostomy |  |  |  |  |
57308 | C |  | Fistula repair, transperine |  |  |  |  |
57310 | T |  | Repair urethrovaginal lesion | 0202 | 40.3866 | $2,396.66 | $958.66 | $479.33
57311 | C |  | Repair urethrovaginal lesion |  |  |  |  |
57320 | T |  | Repair bladder-vagina lesion | 0195 | 26.6791 | $1,583.22 | $483.80 | $316.64
57330 | T |  | Repair bladder-vagina lesion | 0195 | 26.6791 | $1,583.22 | $483.80 | $316.64
57335 | C |  | Repair vagina |  |  |  |  |
57400 | T |  | Dilation of vagina | 0194 | 20.7525 | $1,231.52 | $397.84 | $246.30
57410 | T |  | Pelvic examination | 0193 | 14.5843 | $865.48 |  | $173.10
57415 | T |  | Remove vaginal foreign body | 0194 | 20.7525 | $1,231.52 | $397.84 | $246.30
57420 | T |  | Exam of vagina w/scope | 0189 | 2.371 | $140.70 |  | $28.14
57421 | T |  | Exam/biopsy of vag w/scope | 0189 | 2.371 | $140.70 |  | $28.14
57425 | T |  | Laparoscopy, surg, colpopexy | 0130 | 31.9271 | $1,894.65 | $659.53 | $378.93
57452 | T |  | Examination of vagina | 0189 | 2.371 | $140.70 |  | $28.14
57454 | T |  | Vagina examination & biopsy | 0189 | 2.371 | $140.70 |  | $28.14
57455 | T |  | Biopsy of cervix w/scope | 0189 | 2.371 | $140.70 |  | $28.14
57456 | T |  | Endocerv curettage w/scope | 0189 | 2.371 | $140.70 |  | $28.14
57460 | T |  | Cervix excision | 0193 | 14.5843 | $865.48 |  | $173.10
57461 | T |  | Conz of cervix w/scope, leep | 0194 | 20.7525 | $1,231.52 | $397.84 | $246.30
57500 | T |  | Biopsy of cervix | 0192 | 4.3082 | $255.66 |  | $51.13
57505 | T |  | Endocervical curettage | 0189 | 2.371 | $140.70 |  | $28.14
57510 | T |  | Cauterization of cervix | 0193 | 14.5843 | $865.48 |  | $173.10
57511 | T |  | Cryocautery of cervix | 0189 | 2.371 | $140.70 |  | $28.14
57513 | T |  | Laser surgery of cervix | 0193 | 14.5843 | $865.48 |  | $173.10
57520 | T |  | Conization of cervix | 0194 | 20.7525 | $1,231.52 | $397.84 | $246.30
57522 | T |  | Conization of cervix | 0195 | 26.6791 | $1,583.22 | $483.80 | $316.64
57530 | T |  | Removal of cervix | 0195 | 26.6791 | $1,583.22 | $483.80 | $316.64
57531 | C |  | Removal of cervix, radical |  |  |  |  |
57540 | C |  | Removal of residual cervix |  |  |  |  |
57545 | C |  | Remove cervix/repair pelvis |  |  |  |  |
57550 | T |  | Removal of residual cervix | 0195 | 26.6791 | $1,583.22 | $483.80 | $316.64
57555 | T |  | Remove cervix/repair vagina | 0195 | 26.6791 | $1,583.22 | $483.80 | $316.64
57556 | T |  | Remove cervix, repair bowel | 0202 | 40.3866 | $2,396.66 | $958.66 | $479.33
57700 | T |  | Revision of cervix | 0194 | 20.7525 | $1,231.52 | $397.84 | $246.30
57720 | T |  | Revision of cervix | 0194 | 20.7525 | $1,231.52 | $397.84 | $246.30
57800 | T |  | Dilation of cervical canal | 0193 | 14.5843 | $865.48 |  | $173.10
57820 | T |  | D & c of residual cervix | 0196 | 17.0974 | $1,014.61 | $338.23 | $202.92
58100 | T |  | Biopsy of uterus lining | 0188 | 1.14 | $67.65 |  | $13.53
58120 | T |  | Dilation and curettage | 0196 | 17.0974 | $1,014.61 | $338.23 | $202.92
58140 | C |  | Removal of uterus lesion |  |  |  |  |
58145 | T |  | Myomectomy vag method | 0195 | 26.6791 | $1,583.22 | $483.80 | $316.64
58146 | C |  | Myomectomy abdom complex |  |  |  |  |
58150 | C |  | Total hysterectomy |  |  |  |  |
58152 | C |  | Total hysterectomy |  |  |  |  |
58180 | C |  | Partial hysterectomy |  |  |  |  |
58200 | C |  | Extensive hysterectomy |  |  |  |  |
58210 | C |  | Extensive hysterectomy |  |  |  |  |
58240 | C |  | Removal of pelvis contents |  |  |  |  |
58260 | C |  | Vaginal hysterectomy |  |  |  |  |
58262 | C |  | Vag hyst including t/o |  |  |  |  |
58263 | C |  | Vag hyst w/t/o & vag repair |  |  |  |  |
58267 | C |  | Vag hyst w/urinary repair |  |  |  |  |
58270 | C |  | Vag hyst w/enterocele repair |  |  |  |  |
58275 | C |  | Hysterectomy/revise vagina |  |  |  |  |
58280 | C |  | Hysterectomy/revise vagina |  |  |  |  |
58285 | C |  | Extensive hysterectomy |  |  |  |  |
58290 | C |  | Vag hyst complex |  |  |  |  |
58291 | C |  | Vag hyst incl t/o, complex |  |  |  |  |
58292 | C |  | Vag hyst t/o & repair, compl |  |  |  |  |
58293 | C |  | Vag hyst w/uro repair, compl |  |  |  |  |
58294 | C |  | Vag hyst w/enterocele, compl |  |  |  |  |
58300 | E |  | Insert intrauterine device |  |  |  |  |
58301 | T |  | Remove intrauterine device | 0189 | 2.371 | $140.70 |  | $28.14
58321 | T |  | Artificial insemination | 0197 | 2.3572 | $139.88 |  | $27.98
58322 | T |  | Artificial insemination | 0197 | 2.3572 | $139.88 |  | $27.98
58323 | T |  | Sperm washing | 0197 | 2.3572 | $139.88 |  | $27.98
58340 | N |  | Catheter for hysterography |  |  |  |  |
58345 | T |  | Reopen fallopian tube | 0193 | 14.5843 | $865.48 |  | $173.10
58346 | T |  | Insert heyman uteri capsule | 0193 | 14.5843 | $865.48 |  | $173.10
58350 | T |  | Reopen fallopian tube | 0195 | 26.6791 | $1,583.22 | $483.80 | $316.64
58353 | T |  | Endometr ablate, thermal | 0195 | 26.6791 | $1,583.22 | $483.80 | $316.64
58356 | T |  | Endometrial cryoablation | 0202 | 40.3866 | $2,396.66 | $958.66 | $479.33
58400 | C |  | Suspension of uterus |  |  |  |  |
58410 | C |  | Suspension of uterus |  |  |  |  |
58520 | C |  | Repair of ruptured uterus |  |  |  |  |
58540 | C |  | Revision of uterus |  |  |  |  |
58545 | T |  | Laparoscopic myomectomy | 0130 | 31.9271 | $1,894.65 | $659.53 | $378.93
58546 | T |  | Laparo-myomectomy, complex | 0131 | 43.3389 | $2,571.86 | $1,001.89 | $514.37
58550 | T |  | Laparo-asst vag hysterectomy | 0132 | 62.9914 | $3,738.10 | $1,239.22 | $747.62
58552 | T |  | Laparo-vag hyst incl t/o | 0131 | 43.3389 | $2,571.86 | $1,001.89 | $514.37
58553 | T |  | Laparo-vag hyst, complex | 0131 | 43.3389 | $2,571.86 | $1,001.89 | $514.37
58554 | T |  | Laparo-vag hyst w/t/o, compl | 0131 | 43.3389 | $2,571.86 | $1,001.89 | $514.37
58555 | T |  | Hysteroscopy, dx, sep proc | 0190 | 21.0653 | $1,250.08 | $424.28 | $250.02
58558 | T |  | Hysteroscopy, biopsy | 0190 | 21.0653 | $1,250.08 | $424.28 | $250.02
58559 | T |  | Hysteroscopy, lysis | 0190 | 21.0653 | $1,250.08 | $424.28 | $250.02
58560 | T |  | Hysteroscopy, resect septum | 0387 | 32.5445 | $1,931.29 | $655.55 | $386.26
58561 | T |  | Hysteroscopy, remove myoma | 0387 | 32.5445 | $1,931.29 | $655.55 | $386.26
58562 | T |  | Hysteroscopy, remove fb | 0190 | 21.0653 | $1,250.08 | $424.28 | $250.02
58563 | T |  | Hysteroscopy, ablation | 0387 | 32.5445 | $1,931.29 | $655.55 | $386.26
58565 | T |  | Hysteroscopy, sterilization | 0202 | 40.3866 | $2,396.66 | $958.66 | $479.33
58578 | T |  | Laparo proc, uterus | 0130 | 31.9271 | $1,894.65 | $659.53 | $378.93
58579 | T |  | Hysteroscope procedure | 0190 | 21.0653 | $1,250.08 | $424.28 | $250.02
58600 | T |  | Division of fallopian tube | 0195 | 26.6791 | $1,583.22 | $483.80 | $316.64
58605 | C |  | Division of fallopian tube |  |  |  |  |
58611 | C |  | Ligate oviduct(s) add-on |  |  |  |  |
58615 | T |  | Occlude fallopian tube(s) | 0194 | 20.7525 | $1,231.52 | $397.84 | $246.30
58660 | T |  | Laparoscopy, lysis | 0131 | 43.3389 | $2,571.86 | $1,001.89 | $514.37
58661 | T |  | Laparoscopy, remove adnexa | 0131 | 43.3389 | $2,571.86 | $1,001.89 | $514.37
58662 | T |  | Laparoscopy, excise lesions | 0131 | 43.3389 | $2,571.86 | $1,001.89 | $514.37
58670 | T |  | Laparoscopy, tubal cautery | 0131 | 43.3389 | $2,571.86 | $1,001.89 | $514.37
58671 | T |  | Laparoscopy, tubal block | 0131 | 43.3389 | $2,571.86 | $1,001.89 | $514.37
58672 | T |  | Laparoscopy, fimbrioplasty | 0131 | 43.3389 | $2,571.86 | $1,001.89 | $514.37
58673 | T |  | Laparoscopy, salpingostomy | 0131 | 43.3389 | $2,571.86 | $1,001.89 | $514.37
58679 | T |  | Laparo proc, oviduct-ovary | 0130 | 31.9271 | $1,894.65 | $659.53 | $378.93
58700 | C |  | Removal of fallopian tube |  |  |  |  |
58720 | C |  | Removal of ovary/tube(s) |  |  |  |  |
58740 | C |  | Revise fallopian tube(s) |  |  |  |  |
58750 | C |  | Repair oviduct |  |  |  |  |
58752 | C |  | Revise ovarian tube(s) |  |  |  |  |
58760 | C |  | Remove tubal obstruction |  |  |  |  |
58770 | T |  | Create new tubal opening | 0195 | 26.6791 | $1,583.22 | $483.80 | $316.64
58800 | T |  | Drainage of ovarian cyst(s) | 0193 | 14.5843 | $865.48 |  | $173.10
58805 | C |  | Drainage of ovarian cyst(s) |  |  |  |  |
58820 | T |  | Drain ovary abscess, open | 0195 | 26.6791 | $1,583.22 | $483.80 | $316.64
58822 | C |  | Drain ovary abscess, percut |  |  |  |  |
58823 | T |  | Drain pelvic abscess, percut | 0193 | 14.5843 | $865.48 |  | $173.10
58825 | C |  | Transposition, ovary(s) |  |  |  |  |
58900 | T |  | Biopsy of ovary(s) | 0193 | 14.5843 | $865.48 |  | $173.10
58920 | T |  | Partial removal of ovary(s) | 0195 | 26.6791 | $1,583.22 | $483.80 | $316.64
58925 | T |  | Removal of ovarian cyst(s) | 0195 | 26.6791 | $1,583.22 | $483.80 | $316.64
58940 | C |  | Removal of ovary(s) |  |  |  |  |
58943 | C |  | Removal of ovary(s) |  |  |  |  |
58950 | C |  | Resect ovarian malignancy |  |  |  |  |
58951 | C |  | Resect ovarian malignancy |  |  |  |  |
58952 | C |  | Resect ovarian malignancy |  |  |  |  |
58953 | C |  | Tah, rad dissect for debulk |  |  |  |  |
58954 | C |  | Tah rad debulk/lymph remove |  |  |  |  |
58956 | C |  | Bso, omentectomy w/tah |  |  |  |  |
58960 | C |  | Exploration of abdomen |  |  |  |  |
58970 | T |  | Retrieval of oocyte | 0197 | 2.3572 | $139.88 |  | $27.98
58974 | T |  | Transfer of embryo | 0197 | 2.3572 | $139.88 |  | $27.98
58976 | T |  | Transfer of embryo | 0197 | 2.3572 | $139.88 |  | $27.98
58999 | T |  | Genital surgery procedure | 0191 | 0.167 | $9.91 | $2.78 | $1.98
59000 | T |  | Amniocentesis, diagnostic | 0198 | 1.3683 | $81.20 | $32.19 | $16.24
59001 | T |  | Amniocentesis, therapeutic | 0192 | 4.3082 | $255.66 |  | $51.13
59012 | T |  | Fetal cord puncture,prenatal | 0198 | 1.3683 | $81.20 | $32.19 | $16.24
59015 | T |  | Chorion biopsy | 0198 | 1.3683 | $81.20 | $32.19 | $16.24
59020 | T |  | Fetal contract stress test | 0192 | 4.3082 | $255.66 |  | $51.13
59025 | T |  | Fetal non-stress test | 0198 | 1.3683 | $81.20 | $32.19 | $16.24
59030 | T |  | Fetal scalp blood sample | 0198 | 1.3683 | $81.20 | $32.19 | $16.24
59050 | E |  | Fetal monitor w/report |  |  |  |  |
59051 | B |  | Fetal monitor/interpret only |  |  |  |  |
59070 | T |  | Transabdom amnioinfus w/ us | 0198 | 1.3683 | $81.20 | $32.19 | $16.24
59072 | T |  | Umbilical cord occlud w/ us | 0198 | 1.3683 | $81.20 | $32.19 | $16.24
59074 | T |  | Fetal fluid drainage w/ us | 0198 | 1.3683 | $81.20 | $32.19 | $16.24
59076 | T |  | Fetal shunt placement, w/ us | 0198 | 1.3683 | $81.20 | $32.19 | $16.24
59100 | T |  | Remove uterus lesion | 0195 | 26.6791 | $1,583.22 | $483.80 | $316.64
59120 | C |  | Treat ectopic pregnancy |  |  |  |  |
59121 | C |  | Treat ectopic pregnancy |  |  |  |  |
59130 | C |  | Treat ectopic pregnancy |  |  |  |  |
59135 | C |  | Treat ectopic pregnancy |  |  |  |  |
59136 | C |  | Treat ectopic pregnancy |  |  |  |  |
59140 | C |  | Treat ectopic pregnancy |  |  |  |  |
59150 | T |  | Treat ectopic pregnancy | 0131 | 43.3389 | $2,571.86 | $1,001.89 | $514.37
59151 | T |  | Treat ectopic pregnancy | 0131 | 43.3389 | $2,571.86 | $1,001.89 | $514.37
59160 | T |  | D & c after delivery | 0196 | 17.0974 | $1,014.61 | $338.23 | $202.92
59200 | T |  | Insert cervical dilator | 0189 | 2.371 | $140.70 |  | $28.14
59300 | T |  | Episiotomy or vaginal repair | 0193 | 14.5843 | $865.48 |  | $173.10
59320 | T |  | Revision of cervix | 0194 | 20.7525 | $1,231.52 | $397.84 | $246.30
59325 | C |  | Revision of cervix |  |  |  |  |
59350 | C |  | Repair of uterus |  |  |  |  |
59400 | B |  | Obstetrical care |  |  |  |  |
59409 | T |  | Obstetrical care | 0194 | 20.7525 | $1,231.52 | $397.84 | $246.30
59410 | B |  | Obstetrical care |  |  |  |  |
59412 | T |  | Antepartum manipulation | 0700 | 5.3614 | $318.16 |  | $63.63
59414 | T |  | Deliver placenta | 0193 | 14.5843 | $865.48 |  | $173.10
59425 | B |  | Antepartum care only |  |  |  |  |
59426 | B |  | Antepartum care only |  |  |  |  |
59430 | B |  | Care after delivery |  |  |  |  |
59510 | E |  | Cesarean delivery |  |  |  |  |
59514 | C |  | Cesarean delivery only |  |  |  |  |
59515 | E |  | Cesarean delivery |  |  |  |  |
59525 | C |  | Remove uterus after cesarean |  |  |  |  |
59610 | E |  | Vbac delivery |  |  |  |  |
59612 | T |  | Vbac delivery only | 0194 | 20.7525 | $1,231.52 | $397.84 | $246.30
59614 | E |  | Vbac care after delivery |  |  |  |  |
59618 | E |  | Attempted vbac delivery |  |  |  |  |
59620 | C |  | Attempted vbac delivery only |  |  |  |  |
59622 | E |  | Attempted vbac after care |  |  |  |  |
59812 | T |  | Treatment of miscarriage | 0201 | 17.6047 | $1,044.72 | $329.65 | $208.94
59820 | T |  | Care of miscarriage | 0201 | 17.6047 | $1,044.72 | $329.65 | $208.94
59821 | T |  | Treatment of miscarriage | 0201 | 17.6047 | $1,044.72 | $329.65 | $208.94
59830 | C |  | Treat uterus infection |  |  |  |  |
59840 | T |  | Abortion | 0200 | 17.8728 | $1,060.63 | $263.69 | $212.13
59841 | T |  | Abortion | 0200 | 17.8728 | $1,060.63 | $263.69 | $212.13
59850 | C |  | Abortion |  |  |  |  |
59851 | C |  | Abortion |  |  |  |  |
59852 | C |  | Abortion |  |  |  |  |
59855 | C |  | Abortion |  |  |  |  |
59856 | C |  | Abortion |  |  |  |  |
59857 | C |  | Abortion |  |  |  |  |
59866 | T |  | Abortion (mpr) | 0198 | 1.3683 | $81.20 | $32.19 | $16.24
59870 | T |  | Evacuate mole of uterus | 0201 | 17.6047 | $1,044.72 | $329.65 | $208.94
59871 | T |  | Remove cerclage suture | 0194 | 20.7525 | $1,231.52 | $397.84 | $246.30
59897 | T |  | Fetal invas px w/ us | 0198 | 1.3683 | $81.20 | $32.19 | $16.24
59898 | T |  | Laparo proc, ob care/deliver | 0130 | 31.9271 | $1,894.65 | $659.53 | $378.93
59899 | T |  | Maternity care procedure | 0198 | 1.3683 | $81.20 | $32.19 | $16.24
60000 | T |  | Drain thyroid/tongue cyst | 0252 | 7.8673 | $466.87 | $113.41 | $93.37
60001 | T |  | Aspirate/inject thyriod cyst | 0004 | 1.7646 | $104.72 | $22.36 | $20.94
60100 | T |  | Biopsy of thyroid | 0004 | 1.7646 | $104.72 | $22.36 | $20.94
60200 | T |  | Remove thyroid lesion | 0114 | 40.7652 | $2,419.13 | $485.91 | $483.83
60210 | T |  | Partial thyroid excision | 0114 | 40.7652 | $2,419.13 | $485.91 | $483.83
60212 | T |  | Partial thyroid excision | 0114 | 40.7652 | $2,419.13 | $485.91 | $483.83
60220 | T |  | Partial removal of thyroid | 0114 | 40.7652 | $2,419.13 | $485.91 | $483.83
60225 | T |  | Partial removal of thyroid | 0114 | 40.7652 | $2,419.13 | $485.91 | $483.83
60240 | T |  | Removal of thyroid | 0114 | 40.7652 | $2,419.13 | $485.91 | $483.83
60252 | T |  | Removal of thyroid | 0256 | 37.3204 | $2,214.70 |  | $442.94
60254 | C |  | Extensive thyroid surgery |  |  |  |  |
60260 | T |  | Repeat thyroid surgery | 0256 | 37.3204 | $2,214.70 |  | $442.94
60270 | C |  | Removal of thyroid |  |  |  |  |
60271 | C |  | Removal of thyroid |  |  |  |  |
60280 | T |  | Remove thyroid duct lesion | 0114 | 40.7652 | $2,419.13 | $485.91 | $483.83
60281 | T |  | Remove thyroid duct lesion | 0114 | 40.7652 | $2,419.13 | $485.91 | $483.83
60500 | T |  | Explore parathyroid glands | 0256 | 37.3204 | $2,214.70 |  | $442.94
60502 | C |  | Re-explore parathyroids |  |  |  |  |
60505 | C |  | Explore parathyroid glands |  |  |  |  |
60512 | T |  | Autotransplant parathyroid | 0022 | 19.6472 | $1,165.92 | $354.45 | $233.18
60520 | C |  | Removal of thymus gland |  |  |  |  |
60521 | C |  | Removal of thymus gland |  |  |  |  |
60522 | C |  | Removal of thymus gland |  |  |  |  |
60540 | C |  | Explore adrenal gland |  |  |  |  |
60545 | C |  | Explore adrenal gland |  |  |  |  |
60600 | C |  | Remove carotid body lesion |  |  |  |  |
60605 | C |  | Remove carotid body lesion |  |  |  |  |
60650 | C |  | Laparoscopy adrenalectomy |  |  |  |  |
60659 | T |  | Laparo proc, endocrine | 0130 | 31.9271 | $1,894.65 | $659.53 | $378.93
60699 | T |  | Endocrine surgery procedure | 0114 | 40.7652 | $2,419.13 | $485.91 | $483.83
61000 | T |  | Remove cranial cavity fluid | 0212 | 2.974 | $176.49 | $70.59 | $35.30
61001 | T |  | Remove cranial cavity fluid | 0212 | 2.974 | $176.49 | $70.59 | $35.30
61020 | T |  | Remove brain cavity fluid | 0212 | 2.974 | $176.49 | $70.59 | $35.30
61026 | T |  | Injection into brain canal | 0212 | 2.974 | $176.49 | $70.59 | $35.30
61050 | T |  | Remove brain canal fluid | 0212 | 2.974 | $176.49 | $70.59 | $35.30
61055 | T |  | Injection into brain canal | 0212 | 2.974 | $176.49 | $70.59 | $35.30
61070 | T |  | Brain canal shunt procedure | 0212 | 2.974 | $176.49 | $70.59 | $35.30
61105 | C |  | Twist drill hole |  |  |  |  |
61107 | C |  | Drill skull for implantation |  |  |  |  |
61108 | C |  | Drill skull for drainage |  |  |  |  |
61120 | C |  | Burr hole for puncture |  |  |  |  |
61140 | C |  | Pierce skull for biopsy |  |  |  |  |
61150 | C |  | Pierce skull for drainage |  |  |  |  |
61151 | C |  | Pierce skull for drainage |  |  |  |  |
61154 | C |  | Pierce skull & remove clot |  |  |  |  |
61156 | C |  | Pierce skull for drainage |  |  |  |  |
61210 | C |  | Pierce skull, implant device |  |  |  |  |
61215 | T |  | Insert brain-fluid device | 0224 | 40.6455 | $2,412.03 |  | $482.41
61250 | C |  | Pierce skull & explore |  |  |  |  |
61253 | C |  | Pierce skull & explore |  |  |  |  |
61304 | C |  | Open skull for exploration |  |  |  |  |
61305 | C |  | Open skull for exploration |  |  |  |  |
61312 | C |  | Open skull for drainage |  |  |  |  |
61313 | C |  | Open skull for drainage |  |  |  |  |
61314 | C |  | Open skull for drainage |  |  |  |  |
61315 | C |  | Open skull for drainage |  |  |  |  |
61316 | C |  | Implt cran bone flap to abdo |  |  |  |  |
61320 | C |  | Open skull for drainage |  |  |  |  |
61321 | C |  | Open skull for drainage |  |  |  |  |
61322 | C |  | Decompressive craniotomy |  |  |  |  |
61323 | C |  | Decompressive lobectomy |  |  |  |  |
61330 | T |  | Decompress eye socket | 0256 | 37.3204 | $2,214.70 |  | $442.94
61332 | C |  | Explore/biopsy eye socket |  |  |  |  |
61333 | C |  | Explore orbit/remove lesion |  |  |  |  |
61334 | T |  | Explore orbit/remove object | 0256 | 37.3204 | $2,214.70 |  | $442.94
61340 | C |  | Relieve cranial pressure |  |  |  |  |
61343 | C |  | Incise skull (press relief) |  |  |  |  |
61345 | C |  | Relieve cranial pressure |  |  |  |  |
61440 | C |  | Incise skull for surgery |  |  |  |  |
61450 | C |  | Incise skull for surgery |  |  |  |  |
61458 | C |  | Incise skull for brain wound |  |  |  |  |
61460 | C |  | Incise skull for surgery |  |  |  |  |
61470 | C |  | Incise skull for surgery |  |  |  |  |
61480 | C |  | Incise skull for surgery |  |  |  |  |
61490 | C |  | Incise skull for surgery |  |  |  |  |
61500 | C |  | Removal of skull lesion |  |  |  |  |
61501 | C |  | Remove infected skull bone |  |  |  |  |
61510 | C |  | Removal of brain lesion |  |  |  |  |
61512 | C |  | Remove brain lining lesion |  |  |  |  |
61514 | C |  | Removal of brain abscess |  |  |  |  |
61516 | C |  | Removal of brain lesion |  |  |  |  |
61517 | C |  | Implt brain chemotx add-on |  |  |  |  |
61518 | C |  | Removal of brain lesion |  |  |  |  |
61519 | C |  | Remove brain lining lesion |  |  |  |  |
61520 | C |  | Removal of brain lesion |  |  |  |  |
61521 | C |  | Removal of brain lesion |  |  |  |  |
61522 | C |  | Removal of brain abscess |  |  |  |  |
61524 | C |  | Removal of brain lesion |  |  |  |  |
61526 | C |  | Removal of brain lesion |  |  |  |  |
61530 | C |  | Removal of brain lesion |  |  |  |  |
61531 | C |  | Implant brain electrodes |  |  |  |  |
61533 | C |  | Implant brain electrodes |  |  |  |  |
61534 | C |  | Removal of brain lesion |  |  |  |  |
61535 | C |  | Remove brain electrodes |  |  |  |  |
61536 | C |  | Removal of brain lesion |  |  |  |  |
61537 | C |  | Removal of brain tissue |  |  |  |  |
61538 | C |  | Removal of brain tissue |  |  |  |  |
61539 | C |  | Removal of brain tissue |  |  |  |  |
61540 | C |  | Removal of brain tissue |  |  |  |  |
61541 | C |  | Incision of brain tissue |  |  |  |  |
61542 | C |  | Removal of brain tissue |  |  |  |  |
61543 | C |  | Removal of brain tissue |  |  |  |  |
61544 | C |  | Remove & treat brain lesion |  |  |  |  |
61545 | C |  | Excision of brain tumor |  |  |  |  |
61546 | C |  | Removal of pituitary gland |  |  |  |  |
61548 | C |  | Removal of pituitary gland |  |  |  |  |
61550 | C |  | Release of skull seams |  |  |  |  |
61552 | C |  | Release of skull seams |  |  |  |  |
61556 | C |  | Incise skull/sutures |  |  |  |  |
61557 | C |  | Incise skull/sutures |  |  |  |  |
61558 | C |  | Excision of skull/sutures |  |  |  |  |
61559 | C |  | Excision of skull/sutures |  |  |  |  |
61563 | C |  | Excision of skull tumor |  |  |  |  |
61564 | C |  | Excision of skull tumor |  |  |  |  |
61566 | C |  | Removal of brain tissue |  |  |  |  |
61567 | C |  | Incision of brain tissue |  |  |  |  |
61570 | C |  | Remove foreign body, brain |  |  |  |  |
61571 | C |  | Incise skull for brain wound |  |  |  |  |
61575 | C |  | Skull base/brainstem surgery |  |  |  |  |
61576 | C |  | Skull base/brainstem surgery |  |  |  |  |
61580 | C |  | Craniofacial approach, skull |  |  |  |  |
61581 | C |  | Craniofacial approach, skull |  |  |  |  |
61582 | C |  | Craniofacial approach, skull |  |  |  |  |
61583 | C |  | Craniofacial approach, skull |  |  |  |  |
61584 | C |  | Orbitocranial approach/skull |  |  |  |  |
61585 | C |  | Orbitocranial approach/skull |  |  |  |  |
61586 | C |  | Resect nasopharynx, skull |  |  |  |  |
61590 | C |  | Infratemporal approach/skull |  |  |  |  |
61591 | C |  | Infratemporal approach/skull |  |  |  |  |
61592 | C |  | Orbitocranial approach/skull |  |  |  |  |
61595 | C |  | Transtemporal approach/skull |  |  |  |  |
61596 | C |  | Transcochlear approach/skull |  |  |  |  |
61597 | C |  | Transcondylar approach/skull |  |  |  |  |
61598 | C |  | Transpetrosal approach/skull |  |  |  |  |
61600 | C |  | Resect/excise cranial lesion |  |  |  |  |
61601 | C |  | Resect/excise cranial lesion |  |  |  |  |
61605 | C |  | Resect/excise cranial lesion |  |  |  |  |
61606 | C |  | Resect/excise cranial lesion |  |  |  |  |
61607 | C |  | Resect/excise cranial lesion |  |  |  |  |
61608 | C |  | Resect/excise cranial lesion |  |  |  |  |
61609 | C |  | Transect artery, sinus |  |  |  |  |
61610 | C |  | Transect artery, sinus |  |  |  |  |
61611 | C |  | Transect artery, sinus |  |  |  |  |
61612 | C |  | Transect artery, sinus |  |  |  |  |
61613 | C |  | Remove aneurysm, sinus |  |  |  |  |
61615 | C |  | Resect/excise lesion, skull |  |  |  |  |
61616 | C |  | Resect/excise lesion, skull |  |  |  |  |
61618 | C |  | Repair dura |  |  |  |  |
61619 | C |  | Repair dura |  |  |  |  |
61623 | T |  | Endovasc tempory vessel occl | 0081 | 34.4473 | $2,044.21 |  | $408.84
61624 | C |  | Occlusion/embolization cath |  |  |  |  |
61626 | T |  | Transcath occlusion, non-cns | 0081 | 34.4473 | $2,044.21 |  | $408.84
61680 | C |  | Intracranial vessel surgery |  |  |  |  |
61682 | C |  | Intracranial vessel surgery |  |  |  |  |
61684 | C |  | Intracranial vessel surgery |  |  |  |  |
61686 | C |  | Intracranial vessel surgery |  |  |  |  |
61690 | C |  | Intracranial vessel surgery |  |  |  |  |
61692 | C |  | Intracranial vessel surgery |  |  |  |  |
61697 | C |  | Brain aneurysm repr, complx |  |  |  |  |
61698 | C |  | Brain aneurysm repr, complx |  |  |  |  |
61700 | C |  | Brain aneurysm repr, simple |  |  |  |  |
61702 | C |  | Inner skull vessel surgery |  |  |  |  |
61703 | C |  | Clamp neck artery |  |  |  |  |
61705 | C |  | Revise circulation to head |  |  |  |  |
61708 | C |  | Revise circulation to head |  |  |  |  |
61710 | C |  | Revise circulation to head |  |  |  |  |
61711 | C |  | Fusion of skull arteries |  |  |  |  |
61720 | C |  | Incise skull/brain surgery |  |  |  |  |
61735 | C |  | Incise skull/brain surgery |  |  |  |  |
61750 | C |  | Incise skull/brain biopsy |  |  |  |  |
61751 | C |  | Brain biopsy w/ ct/mr guide |  |  |  |  |
61760 | C |  | Implant brain electrodes |  |  |  |  |
61770 | C |  | Incise skull for treatment |  |  |  |  |
61790 | T |  | Treat trigeminal nerve | 0220 | 17.3586 | $1,030.11 |  | $206.02
61791 | T |  | Treat trigeminal tract | 0206 | 5.492 | $325.91 | $75.55 | $65.18
61793 | E |  | Focus radiation beam |  |  |  |  |
61795 | S |  | Brain surgery using computer | 0302 | 4.6145 | $273.84 | $103.74 | $54.77
61850 | C |  | Implant neuroelectrodes |  |  |  |  |
61860 | C |  | Implant neuroelectrodes |  |  |  |  |
61863 | C |  | Implant neuroelectrode |  |  |  |  |
61864 | C |  | Implant neuroelectrde, add'l |  |  |  |  |
61867 | C |  | Implant neuroelectrode |  |  |  |  |
61868 | C |  | Implant neuroelectrde, add'l |  |  |  |  |
61870 | C |  | Implant neuroelectrodes |  |  |  |  |
61875 | C |  | Implant neuroelectrodes |  |  |  |  |
61880 | T |  | Revise/remove neuroelectrode | 0687 | 19.2347 | $1,141.44 | $456.57 | $228.29
61885 | S |  | Implant neurostim one array | 0039 | 181.4 | $10,764.82 |  | $2,152.96
61886 | T |  | Implant neurostim arrays | 0315 | 290.647 | $17,247.86 |  | $3,449.57
61888 | T |  | Revise/remove neuroreceiver | 0688 | 43.0444 | $2,554.38 | $1,021.75 | $510.88
62000 | C |  | Treat skull fracture |  |  |  |  |
62005 | C |  | Treat skull fracture |  |  |  |  |
62010 | C |  | Treatment of head injury |  |  |  |  |
62100 | C |  | Repair brain fluid leakage |  |  |  |  |
62115 | C |  | Reduction of skull defect |  |  |  |  |
62116 | C |  | Reduction of skull defect |  |  |  |  |
62117 | C |  | Reduction of skull defect |  |  |  |  |
62120 | C |  | Repair skull cavity lesion |  |  |  |  |
62121 | C |  | Incise skull repair |  |  |  |  |
62140 | C |  | Repair of skull defect |  |  |  |  |
62141 | C |  | Repair of skull defect |  |  |  |  |
62142 | C |  | Remove skull plate/flap |  |  |  |  |
62143 | C |  | Replace skull plate/flap |  |  |  |  |
62145 | C |  | Repair of skull & brain |  |  |  |  |
62146 | C |  | Repair of skull with graft |  |  |  |  |
62147 | C |  | Repair of skull with graft |  |  |  |  |
62148 | C |  | Retr bone flap to fix skull |  |  |  |  |
62160 | T |  | Neuroendoscopy add-on | 0122 | 6.9721 | $413.75 | $84.85 | $82.75
62161 | C |  | Dissect brain w/scope |  |  |  |  |
62162 | C |  | Remove colloid cyst w/scope |  |  |  |  |
62163 | C |  | Neuroendoscopy w/fb removal |  |  |  |  |
62164 | C |  | Remove brain tumor w/scope |  |  |  |  |
62165 | C |  | Remove pituit tumor w/scope |  |  |  |  |
62180 | C |  | Establish brain cavity shunt |  |  |  |  |
62190 | C |  | Establish brain cavity shunt |  |  |  |  |
62192 | C |  | Establish brain cavity shunt |  |  |  |  |
62194 | T |  | Replace/irrigate catheter | 0427 | 10.1977 | $605.16 | $124.11 | $121.03
62200 | C |  | Establish brain cavity shunt |  |  |  |  |
62201 | C |  | Establish brain cavity shunt |  |  |  |  |
62220 | C |  | Establish brain cavity shunt |  |  |  |  |
62223 | C |  | Establish brain cavity shunt |  |  |  |  |
62225 | T |  | Replace/irrigate catheter | 0427 | 10.1977 | $605.16 | $124.11 | $121.03
62230 | T |  | Replace/revise brain shunt | 0224 | 40.6455 | $2,412.03 |  | $482.41
62252 | S |  | Csf shunt reprogram | 0691 | 2.5252 | $149.85 | $59.94 | $29.97
62256 | C |  | Remove brain cavity shunt |  |  |  |  |
62258 | C |  | Replace brain cavity shunt |  |  |  |  |
62263 | T |  | Lysis epidural adhesions | 0203 | 10.4015 | $617.26 | $246.90 | $123.45
62264 | T |  | Epidural lysis on single day | 0203 | 10.4015 | $617.26 | $246.90 | $123.45
62268 | T |  | Drain spinal cord cyst | 0212 | 2.974 | $176.49 | $70.59 | $35.30
62269 | T |  | Needle biopsy, spinal cord | 0685 | 6.0174 | $357.09 | $115.47 | $71.42
62270 | T |  | Spinal fluid tap, diagnostic | 0204 | 2.191 | $130.02 | $40.13 | $26.00
62272 | T |  | Drain cerebro spinal fluid | 0204 | 2.191 | $130.02 | $40.13 | $26.00
62273 | T |  | Treat epidural spine lesion | 0206 | 5.492 | $325.91 | $75.55 | $65.18
62280 | T |  | Treat spinal cord lesion | 0207 | 6.0109 | $356.70 | $86.92 | $71.34
62281 | T |  | Treat spinal cord lesion | 0207 | 6.0109 | $356.70 | $86.92 | $71.34
62282 | T |  | Treat spinal canal lesion | 0207 | 6.0109 | $356.70 | $86.92 | $71.34
62284 | N |  | Injection for myelogram |  |  |  |  |
62287 | T |  | Percutaneous diskectomy | 0221 | 29.9209 | $1,775.60 | $463.62 | $355.12
62290 | N |  | Inject for spine disk x-ray |  |  |  |  |
62291 | N |  | Inject for spine disk x-ray |  |  |  |  |
62292 | T |  | Injection into disk lesion | 0212 | 2.974 | $176.49 | $70.59 | $35.30
62294 | T |  | Injection into spinal artery | 0212 | 2.974 | $176.49 | $70.59 | $35.30
62310 | T |  | Inject spine c/t | 0207 | 6.0109 | $356.70 | $86.92 | $71.34
62311 | T |  | Inject spine l/s (cd) | 0207 | 6.0109 | $356.70 | $86.92 | $71.34
62318 | T |  | Inject spine w/cath, c/t | 0207 | 6.0109 | $356.70 | $86.92 | $71.34
62319 | T |  | Inject spine w/cath l/s (cd) | 0207 | 6.0109 | $356.70 | $86.92 | $71.34
62350 | T |  | Implant spinal canal cath | 0223 | 28.123 | $1,668.90 |  | $333.78
62351 | T |  | Implant spinal canal cath | 0208 | 42.3409 | $2,512.64 |  | $502.53
62355 | T |  | Remove spinal canal catheter | 0203 | 10.4015 | $617.26 | $246.90 | $123.45
62360 | T |  | Insert spine infusion device | 0226 | 138.8695 | $8,240.93 |  | $1,648.19
62361 | T |  | Implant spine infusion pump | 0227 | 136.4922 | $8,099.86 |  | $1,619.97
62362 | T |  | Implant spine infusion pump | 0227 | 136.4922 | $8,099.86 |  | $1,619.97
62365 | T |  | Remove spine infusion device | 0221 | 29.9209 | $1,775.60 | $463.62 | $355.12
62367 | S |  | Analyze spine infusion pump | 0691 | 2.5252 | $149.85 | $59.94 | $29.97
62368 | S |  | Analyze spine infusion pump | 0691 | 2.5252 | $149.85 | $59.94 | $29.97
63001 | T |  | Removal of spinal lamina | 0208 | 42.3409 | $2,512.64 |  | $502.53
63003 | T |  | Removal of spinal lamina | 0208 | 42.3409 | $2,512.64 |  | $502.53
63005 | T |  | Removal of spinal lamina | 0208 | 42.3409 | $2,512.64 |  | $502.53
63011 | T |  | Removal of spinal lamina | 0208 | 42.3409 | $2,512.64 |  | $502.53
63012 | T |  | Removal of spinal lamina | 0208 | 42.3409 | $2,512.64 |  | $502.53
63015 | T |  | Removal of spinal lamina | 0208 | 42.3409 | $2,512.64 |  | $502.53
63016 | T |  | Removal of spinal lamina | 0208 | 42.3409 | $2,512.64 |  | $502.53
63017 | T |  | Removal of spinal lamina | 0208 | 42.3409 | $2,512.64 |  | $502.53
63020 | T |  | Neck spine disk surgery | 0208 | 42.3409 | $2,512.64 |  | $502.53
63030 | T |  | Low back disk surgery | 0208 | 42.3409 | $2,512.64 |  | $502.53
63035 | T |  | Spinal disk surgery add-on | 0208 | 42.3409 | $2,512.64 |  | $502.53
63040 | T |  | Laminotomy, single cervical | 0208 | 42.3409 | $2,512.64 |  | $502.53
63042 | T |  | Laminotomy, single lumbar | 0208 | 42.3409 | $2,512.64 |  | $502.53
63043 | C |  | Laminotomy, add'l cervical |  |  |  |  |
63044 | C |  | Laminotomy, add'l lumbar |  |  |  |  |
63045 | T |  | Removal of spinal lamina | 0208 | 42.3409 | $2,512.64 |  | $502.53
63046 | T |  | Removal of spinal lamina | 0208 | 42.3409 | $2,512.64 |  | $502.53
63047 | T |  | Removal of spinal lamina | 0208 | 42.3409 | $2,512.64 |  | $502.53
63048 | T |  | Remove spinal lamina add-on | 0208 | 42.3409 | $2,512.64 |  | $502.53
63050 | C |  | Cervical laminoplasty |  |  |  |  |
63051 | C |  | C-laminoplasty w/graft/plate |  |  |  |  |
63055 | T |  | Decompress spinal cord | 0208 | 42.3409 | $2,512.64 |  | $502.53
63056 | T |  | Decompress spinal cord | 0208 | 42.3409 | $2,512.64 |  | $502.53
63057 | T |  | Decompress spine cord add-on | 0208 | 42.3409 | $2,512.64 |  | $502.53
63064 | T |  | Decompress spinal cord | 0208 | 42.3409 | $2,512.64 |  | $502.53
63066 | T |  | Decompress spine cord add-on | 0208 | 42.3409 | $2,512.64 |  | $502.53
63075 | C |  | Neck spine disk surgery |  |  |  |  |
63076 | C |  | Neck spine disk surgery |  |  |  |  |
63077 | C |  | Spine disk surgery, thorax |  |  |  |  |
63078 | C |  | Spine disk surgery, thorax |  |  |  |  |
63081 | C |  | Removal of vertebral body |  |  |  |  |
63082 | C |  | Remove vertebral body add-on |  |  |  |  |
63085 | C |  | Removal of vertebral body |  |  |  |  |
63086 | C |  | Remove vertebral body add-on |  |  |  |  |
63087 | C |  | Removal of vertebral body |  |  |  |  |
63088 | C |  | Remove vertebral body add-on |  |  |  |  |
63090 | C |  | Removal of vertebral body |  |  |  |  |
63091 | C |  | Remove vertebral body add-on |  |  |  |  |
63101 | C |  | Removal of vertebral body |  |  |  |  |
63102 | C |  | Removal of vertebral body |  |  |  |  |
63103 | C |  | Remove vertebral body add-on |  |  |  |  |
63170 | C |  | Incise spinal cord tract(s) |  |  |  |  |
63172 | C |  | Drainage of spinal cyst |  |  |  |  |
63173 | C |  | Drainage of spinal cyst |  |  |  |
63180 | C |  | Revise spinal cord ligaments |  |  |  |  |
63182 | C |  | Revise spinal cord ligaments |  |  |  |  |
63185 | C |  | Incise spinal column/nerves |  |  |  |  |
63190 | C |  | Incise spinal column/nerves |  |  |  |  |
63191 | C |  | Incise spinal column/nerves |  |  |  |  |
63194 | C |  | Incise spinal column & cord |  |  |  |  |
63195 | C |  | Incise spinal column & cord |  |  |  |  |
63196 | C |  | Incise spinal column & cord |  |  |  |  |
63197 | C |  | Incise spinal column & cord |  |  |  |  |
63198 | C |  | Incise spinal column & cord |  |  |  |  |
63199 | C |  | Incise spinal column & cord |  |  |  |  |
63200 | C |  | Release of spinal cord |  |  |  |  |
63250 | C |  | Revise spinal cord vessels |  |  |  |  |
63251 | C |  | Revise spinal cord vessels |  |  |  |  |
63252 | C |  | Revise spinal cord vessels |  |  |  |  |
63265 | C |  | Excise intraspinal lesion |  |  |  |  |
63266 | C |  | Excise intraspinal lesion |  |  |  |  |
63267 | C |  | Excise intraspinal lesion |  |  |  |  |
63268 | C |  | Excise intraspinal lesion |  |  |  |  |
63270 | C |  | Excise intraspinal lesion |  |  |  |  |
63271 | C |  | Excise intraspinal lesion |  |  |  |  |
63272 | C |  | Excise intraspinal lesion |  |  |  |  |
63273 | C |  | Excise intraspinal lesion |  |  |  |  |
63275 | C |  | Biopsy/excise spinal tumor |  |  |  |  |
63276 | C |  | Biopsy/excise spinal tumor |  |  |  |  |
63277 | C |  | Biopsy/excise spinal tumor |  |  |  |  |
63278 | C |  | Biopsy/excise spinal tumor |  |  |  |  |
63280 | C |  | Biopsy/excise spinal tumor |  |  |  |  |
63281 | C |  | Biopsy/excise spinal tumor |  |  |  |  |
63282 | C |  | Biopsy/excise spinal tumor |  |  |  |  |
63283 | C |  | Biopsy/excise spinal tumor |  |  |  |  |
63285 | C |  | Biopsy/excise spinal tumor |  |  |  |  |
63286 | C |  | Biopsy/excise spinal tumor |  |  |  |  |
63287 | C |  | Biopsy/excise spinal tumor |  |  |  |  |
63290 | C |  | Biopsy/excise spinal tumor |  |  |  |  |
63295 | C |  | Repair of laminectomy defect |  |  |  |  |
63300 | C |  | Removal of vertebral body |  |  |  |  |
63301 | C |  | Removal of vertebral body |  |  |  |  |
63302 | C |  | Removal of vertebral body |  |  |  |  |
63303 | C |  | Removal of vertebral body |  |  |  |  |
63304 | C |  | Removal of vertebral body |  |  |  |  |
63305 | C |  | Removal of vertebral body |  |  |  |  |
63306 | C |  | Removal of vertebral body |  |  |  |  |
63307 | C |  | Removal of vertebral body |  |  |  |  |
63308 | C |  | Remove vertebral body add-on |  |  |  |  |
63600 | T |  | Remove spinal cord lesion | 0220 | 17.3586 | $1,030.11 |  | $206.02
63610 | T |  | Stimulation of spinal cord | 0220 | 17.3586 | $1,030.11 |  | $206.02
63615 | T |  | Remove lesion of spinal cord | 0220 | 17.3586 | $1,030.11 |  | $206.02
63650 | S |  | Implant neuroelectrodes | 0040 | 55.3297 | $3,283.43 |  | $656.69
63655 | S |  | Implant neuroelectrodes | 0040 | 55.3297 | $3,283.43 |  | $656.69
63660 | T |  | Revise/remove neuroelectrode | 0687 | 19.2347 | $1,141.44 | $456.57 | $228.29
63685 | T |  | Implant neuroreceiver | 0222 | 179.0982 | $10,628.22 |  | $2,125.64
63688 | T |  | Revise/remove neuroreceiver | 0688 | 43.0444 | $2,554.38 | $1,021.75 | $510.88
63700 | C |  | Repair of spinal herniation |  |  |  |  |
63702 | C |  | Repair of spinal herniation |  |  |  |  |
63704 | C |  | Repair of spinal herniation |  |  |  |  |
63706 | C |  | Repair of spinal herniation |  |  |  |  |
63707 | C |  | Repair spinal fluid leakage |  |  |  |  |
63709 | C |  | Repair spinal fluid leakage |  |  |  |  |
63710 | C |  | Graft repair of spine defect |  |  |  |  |
63740 | C |  | Install spinal shunt |  |  |  |  |
63741 | T |  | Install spinal shunt | 0228 | 51.7258 | $3,069.56 |  | $613.91
63744 | T |  | Revision of spinal shunt | 0228 | 51.7258 | $3,069.56 |  | $613.91
63746 | T |  | Removal of spinal shunt | 0109 | 11.0433 | $655.34 | $131.49 | $131.07
64400 | T |  | N block inj, trigeminal | 0204 | 2.191 | $130.02 | $40.13 | $26.00
64402 | T |  | N block inj, facial | 0204 | 2.191 | $130.02 | $40.13 | $26.00
64405 | T |  | N block inj, occipital | 0204 | 2.191 | $130.02 | $40.13 | $26.00
64408 | T |  | N block inj, vagus | 0204 | 2.191 | $130.02 | $40.13 | $26.00
64410 | T |  | N block inj, phrenic | 0206 | 5.492 | $325.91 | $75.55 | $65.18
64412 | T |  | N block inj, spinal accessor | 0206 | 5.492 | $325.91 | $75.55 | $65.18
64413 | T |  | N block inj, cervical plexus | 0204 | 2.191 | $130.02 | $40.13 | $26.00
64415 | T |  | Injection for nerve block | 0204 | 2.191 | $130.02 | $40.13 | $26.00
64416 | T |  | N block cont infuse, b plex | 0204 | 2.191 | $130.02 | $40.13 | $26.00
64417 | T |  | N block inj, axillary | 0204 | 2.191 | $130.02 | $40.13 | $26.00
64418 | T |  | N block inj, suprascapular | 0204 | 2.191 | $130.02 | $40.13 | $26.00
64420 | T |  | N block inj, intercost, sng | 0204 | 2.191 | $130.02 | $40.13 | $26.00
64421 | T |  | N block inj, intercost, mlt | 0206 | 5.492 | $325.91 | $75.55 | $65.18
64425 | T |  | N block inj ilio-ing/hypogi | 0204 | 2.191 | $130.02 | $40.13 | $26.00
64430 | T |  | N block inj, pudendal | 0204 | 2.191 | $130.02 | $40.13 | $26.00
64435 | T |  | N block inj, paracervical | 0204 | 2.191 | $130.02 | $40.13 | $26.00
64445 | T |  | Injection for nerve block | 0204 | 2.191 | $130.02 | $40.13 | $26.00
64446 | T |  | N blk inj, sciatic, cont inf | 0206 | 5.492 | $325.91 | $75.55 | $65.18
64447 | T |  | N block inj fem, single | 0204 | 2.191 | $130.02 | $40.13 | $26.00
64448 | T |  | N block inj fem, cont inf | 0204 | 2.191 | $130.02 | $40.13 | $26.00
64449 | T |  | N block inj, lumbar plexus | 0204 | 2.191 | $130.02 | $40.13 | $26.00
64450 | T |  | N block, other peripheral | 0204 | 2.191 | $130.02 | $40.13 | $26.00
64470 | T |  | Inj paravertebral c/t | 0207 | 6.0109 | $356.70 | $86.92 | $71.34
64472 | T |  | Inj paravertebral c/t add-on | 0206 | 5.492 | $325.91 | $75.55 | $65.18
64475 | T |  | Inj paravertebral l/s | 0207 | 6.0109 | $356.70 | $86.92 | $71.34
64476 | T |  | Inj paravertebral l/s add-on | 0206 | 5.492 | $325.91 | $75.55 | $65.18
64479 | T |  | Inj foramen epidural c/t | 0207 | 6.0109 | $356.70 | $86.92 | $71.34
64480 | T |  | Inj foramen epidural add-on | 0207 | 6.0109 | $356.70 | $86.92 | $71.34
64483 | T |  | Inj foramen epidural l/s | 0207 | 6.0109 | $356.70 | $86.92 | $71.34
64484 | T |  | Inj foramen epidural add-on | 0207 | 6.0109 | $356.70 | $86.92 | $71.34
64505 | T |  | N block, spenopalatine gangl | 0204 | 2.191 | $130.02 | $40.13 | $26.00
64508 | T |  | N block, carotid sinus s/p | 0204 | 2.191 | $130.02 | $40.13 | $26.00
64510 | T |  | N block, stellate ganglion | 0207 | 6.0109 | $356.70 | $86.92 | $71.34
64517 | T |  | N block inj, hypogas plxs | 0204 | 2.191 | $130.02 | $40.13 | $26.00
64520 | T |  | N block, lumbar/thoracic | 0207 | 6.0109 | $356.70 | $86.92 | $71.34
64530 | T |  | N block inj, celiac pelus | 0207 | 6.0109 | $356.70 | $86.92 | $71.34
64550 | A |  | Apply neurostimulator |  |  |  |  |
64553 | S |  | Implant neuroelectrodes | 0225 | 234.6925 | $13,927.36 |  | $2,785.47
64555 | S |  | Implant neuroelectrodes | 0040 | 55.3297 | $3,283.43 |  | $656.69
64560 | S |  | Implant neuroelectrodes | 0040 | 55.3297 | $3,283.43 |  | $656.69
64561 | S |  | Implant neuroelectrodes | 0040 | 55.3297 | $3,283.43 |  | $656.69
64565 | S |  | Implant neuroelectrodes | 0040 | 55.3297 | $3,283.43 |  | $656.69
64573 | S |  | Implant neuroelectrodes | 0225 | 234.6925 | $13,927.36 |  | $2,785.47
64575 | S |  | Implant neuroelectrodes | 0040 | 55.3297 | $3,283.43 |  | $656.69
64577 | S |  | Implant neuroelectrodes | 0225 | 234.6925 | $13,927.36 |  | $2,785.47
64580 | S |  | Implant neuroelectrodes | 0040 | 55.3297 | $3,283.43 |  | $656.69
64581 | S |  | Implant neuroelectrodes | 0040 | 55.3297 | $3,283.43 |  | $656.69
64585 | T |  | Revise/remove neuroelectrode | 0687 | 19.2347 | $1,141.44 | $456.57 | $228.29
64590 | T |  | Implant neuroreceiver | 0222 | 179.0982 | $10,628.22 |  | $2,125.64
64595 | T |  | Revise/remove neuroreceiver | 0688 | 43.0444 | $2,554.38 | $1,021.75 | $510.88
64600 | T |  | Injection treatment of nerve | 0203 | 10.4015 | $617.26 | $246.90 | $123.45
64605 | T |  | Injection treatment of nerve | 0203 | 10.4015 | $617.26 | $246.90 | $123.45
64610 | T |  | Injection treatment of nerve | 0203 | 10.4015 | $617.26 | $246.90 | $123.45
64612 | T |  | Destroy nerve, face muscle | 0204 | 2.191 | $130.02 | $40.13 | $26.00
64613 | T |  | Destroy nerve, spine muscle | 0204 | 2.191 | $130.02 | $40.13 | $26.00
64614 | T |  | Destroy nerve, extrem musc | 0204 | 2.191 | $130.02 | $40.13 | $26.00
64620 | T |  | Injection treatment of nerve | 0203 | 10.4015 | $617.26 | $246.90 | $123.45
64622 | T |  | Destr paravertebrl nerve l/s | 0203 | 10.4015 | $617.26 | $246.90 | $123.45
64623 | T |  | Destr paravertebral n add-on | 0207 | 6.0109 | $356.70 | $86.92 | $71.34
64626 | T |  | Destr paravertebrl nerve c/t | 0203 | 10.4015 | $617.26 | $246.90 | $123.45
64627 | T |  | Destr paravertebral n add-on | 0207 | 6.0109 | $356.70 | $86.92 | $71.34
64630 | T |  | Injection treatment of nerve | 0206 | 5.492 | $325.91 | $75.55 | $65.18
64640 | T |  | Injection treatment of nerve | 0206 | 5.492 | $325.91 | $75.55 | $65.18
64680 | T |  | Injection treatment of nerve | 0207 | 6.0109 | $356.70 | $86.92 | $71.34
64681 | T |  | Injection treatment of nerve | 0203 | 10.4015 | $617.26 | $246.90 | $123.45
64702 | T |  | Revise finger/toe nerve | 0220 | 17.3586 | $1,030.11 |  | $206.02
64704 | T |  | Revise hand/foot nerve | 0220 | 17.3586 | $1,030.11 |  | $206.02
64708 | T |  | Revise arm/leg nerve | 0220 | 17.3586 | $1,030.11 |  | $206.02
64712 | T |  | Revision of sciatic nerve | 0220 | 17.3586 | $1,030.11 |  | $206.02
64713 | T |  | Revision of arm nerve(s) | 0220 | 17.3586 | $1,030.11 |  | $206.02
64714 | T |  | Revise low back nerve(s) | 0220 | 17.3586 | $1,030.11 |  | $206.02
64716 | T |  | Revision of cranial nerve | 0220 | 17.3586 | $1,030.11 |  | $206.02
64718 | T |  | Revise ulnar nerve at elbow | 0220 | 17.3586 | $1,030.11 |  | $206.02
64719 | T |  | Revise ulnar nerve at wrist | 0220 | 17.3586 | $1,030.11 |  | $206.02
64721 | T |  | Carpal tunnel surgery | 0220 | 17.3586 | $1,030.11 |  | $206.02
64722 | T |  | Relieve pressure on nerve(s) | 0220 | 17.3586 | $1,030.11 |  | $206.02
64726 | T |  | Release foot/toe nerve | 0220 | 17.3586 | $1,030.11 |  | $206.02
64727 | T |  | Internal nerve revision | 0220 | 17.3586 | $1,030.11 |  | $206.02
64732 | T |  | Incision of brow nerve | 0220 | 17.3586 | $1,030.11 |  | $206.02
64734 | T |  | Incision of cheek nerve | 0220 | 17.3586 | $1,030.11 |  | $206.02
64736 | T |  | Incision of chin nerve | 0220 | 17.3586 | $1,030.11 |  | $206.02
64738 | T |  | Incision of jaw nerve | 0220 | 17.3586 | $1,030.11 |  | $206.02
64740 | T |  | Incision of tongue nerve | 0220 | 17.3586 | $1,030.11 |  | $206.02
64742 | T |  | Incision of facial nerve | 0220 | 17.3586 | $1,030.11 |  | $206.02
64744 | T |  | Incise nerve, back of head | 0220 | 17.3586 | $1,030.11 |  | $206.02
64746 | T |  | Incise diaphragm nerve | 0220 | 17.3586 | $1,030.11 |  | $206.02
64752 | C |  | Incision of vagus nerve |  |  |  |  |
64755 | C |  | Incision of stomach nerves |  |  |  |  |
64760 | C |  | Incision of vagus nerve |  |  |  |  |
64761 | T |  | Incision of pelvis nerve | 0220 | 17.3586 | $1,030.11 |  | $206.02
64763 | T |  | Incise hip/thigh nerve | 0220 | 17.3586 | $1,030.11 |  | $206.02
64766 | T |  | Incise hip/thigh nerve | 0221 | 29.9209 | $1,775.60 | $463.62 | $355.12
64771 | T |  | Sever cranial nerve | 0220 | 17.3586 | $1,030.11 |  | $206.02
64772 | T |  | Incision of spinal nerve | 0220 | 17.3586 | $1,030.11 |  | $206.02
64774 | T |  | Remove skin nerve lesion | 0220 | 17.3586 | $1,030.11 |  | $206.02
64776 | T |  | Remove digit nerve lesion | 0220 | 17.3586 | $1,030.11 |  | $206.02
64778 | T |  | Digit nerve surgery add-on | 0220 | 17.3586 | $1,030.11 |  | $206.02
64782 | T |  | Remove limb nerve lesion | 0220 | 17.3586 | $1,030.11 |  | $206.02
64783 | T |  | Limb nerve surgery add-on | 0220 | 17.3586 | $1,030.11 |  | $206.02
64784 | T |  | Remove nerve lesion | 0220 | 17.3586 | $1,030.11 |  | $206.02
64786 | T |  | Remove sciatic nerve lesion | 0221 | 29.9209 | $1,775.60 | $463.62 | $355.12
64787 | T |  | Implant nerve end | 0220 | 17.3586 | $1,030.11 |  | $206.02
64788 | T |  | Remove skin nerve lesion | 0220 | 17.3586 | $1,030.11 |  | $206.02
64790 | T |  | Removal of nerve lesion | 0220 | 17.3586 | $1,030.11 |  | $206.02
64792 | T |  | Removal of nerve lesion | 0221 | 29.9209 | $1,775.60 | $463.62 | $355.12
64795 | T |  | Biopsy of nerve | 0220 | 17.3586 | $1,030.11 |  | $206.02
64802 | T |  | Remove sympathetic nerves | 0220 | 17.3586 | $1,030.11 |  | $206.02
64804 | C |  | Remove sympathetic nerves |  |  |  |  |
64809 | C |  | Remove sympathetic nerves |  |  |  |  |
64818 | C |  | Remove sympathetic nerves |  |  |  |  |
64820 | T |  | Remove sympathetic nerves | 0220 | 17.3586 | $1,030.11 |  | $206.02
64821 | T |  | Remove sympathetic nerves | 0054 | 25.3711 | $1,505.60 |  | $301.12
64822 | T |  | Remove sympathetic nerves | 0054 | 25.3711 | $1,505.60 |  | $301.12
64823 | T |  | Remove sympathetic nerves | 0054 | 25.3711 | $1,505.60 |  | $301.12
64831 | T |  | Repair of digit nerve | 0221 | 29.9209 | $1,775.60 | $463.62 | $355.12
64832 | T |  | Repair nerve add-on | 0221 | 29.9209 | $1,775.60 | $463.62 | $355.12
64834 | T |  | Repair of hand or foot nerve | 0221 | 29.9209 | $1,775.60 | $463.62 | $355.12
64835 | T |  | Repair of hand or foot nerve | 0221 | 29.9209 | $1,775.60 | $463.62 | $355.12
64836 | T |  | Repair of hand or foot nerve | 0221 | 29.9209 | $1,775.60 | $463.62 | $355.12
64837 | T |  | Repair nerve add-on | 0221 | 29.9209 | $1,775.60 | $463.62 | $355.12
64840 | T |  | Repair of leg nerve | 0221 | 29.9209 | $1,775.60 | $463.62 | $355.12
64856 | T |  | Repair/transpose nerve | 0221 | 29.9209 | $1,775.60 | $463.62 | $355.12
64857 | T |  | Repair arm/leg nerve | 0221 | 29.9209 | $1,775.60 | $463.62 | $355.12
64858 | T |  | Repair sciatic nerve | 0221 | 29.9209 | $1,775.60 | $463.62 | $355.12
64859 | T |  | Nerve surgery | 0221 | 29.9209 | $1,775.60 | $463.62 | $355.12
64861 | T |  | Repair of arm nerves | 0221 | 29.9209 | $1,775.60 | $463.62 | $355.12
64862 | T |  | Repair of low back nerves | 0221 | 29.9209 | $1,775.60 | $463.62 | $355.12
64864 | T |  | Repair of facial nerve | 0221 | 29.9209 | $1,775.60 | $463.62 | $355.12
64865 | T |  | Repair of facial nerve | 0221 | 29.9209 | $1,775.60 | $463.62 | $355.12
64866 | C |  | Fusion of facial/other nerve |  |  |  |  |
64868 | C |  | Fusion of facial/other nerve |  |  |  |  |
64870 | T |  | Fusion of facial/other nerve | 0221 | 29.9209 | $1,775.60 | $463.62 | $355.12
64872 | T |  | Subsequent repair of nerve | 0221 | 29.9209 | $1,775.60 | $463.62 | $355.12
64874 | T |  | Repair & revise nerve add-on | 0221 | 29.9209 | $1,775.60 | $463.62 | $355.12
64876 | T |  | Repair nerve/shorten bone | 0221 | 29.9209 | $1,775.60 | $463.62 | $355.12
64885 | T |  | Nerve graft, head or neck | 0221 | 29.9209 | $1,775.60 | $463.62 | $355.12
64886 | T |  | Nerve graft, head or neck | 0221 | 29.9209 | $1,775.60 | $463.62 | $355.12
64890 | T |  | Nerve graft, hand or foot | 0221 | 29.9209 | $1,775.60 | $463.62 | $355.12
64891 | T |  | Nerve graft, hand or foot | 0221 | 29.9209 | $1,775.60 | $463.62 | $355.12
64892 | T |  | Nerve graft, arm or leg | 0221 | 29.9209 | $1,775.60 | $463.62 | $355.12
64893 | T |  | Nerve graft, arm or leg | 0221 | 29.9209 | $1,775.60 | $463.62 | $355.12
64895 | T |  | Nerve graft, hand or foot | 0221 | 29.9209 | $1,775.60 | $463.62 | $355.12
64896 | T |  | Nerve graft, hand or foot | 0221 | 29.9209 | $1,775.60 | $463.62 | $355.12
64897 | T |  | Nerve graft, arm or leg | 0221 | 29.9209 | $1,775.60 | $463.62 | $355.12
64898 | T |  | Nerve graft, arm or leg | 0221 | 29.9209 | $1,775.60 | $463.62 | $355.12
64901 | T |  | Nerve graft add-on | 0221 | 29.9209 | $1,775.60 | $463.62 | $355.12
64902 | T |  | Nerve graft add-on | 0221 | 29.9209 | $1,775.60 | $463.62 | $355.12
64905 | T |  | Nerve pedicle transfer | 0221 | 29.9209 | $1,775.60 | $463.62 | $355.12
64907 | T |  | Nerve pedicle transfer | 0221 | 29.9209 | $1,775.60 | $463.62 | $355.12
64999 | T |  | Nervous system surgery | 0204 | 2.191 | $130.02 | $40.13 | $26.00
65091 | T |  | Revise eye | 0242 | 30.5464 | $1,812.72 | $597.36 | $362.54
65093 | T |  | Revise eye with implant | 0241 | 23.3036 | $1,382.91 | $384.47 | $276.58
65101 | T |  | Removal of eye | 0242 | 30.5464 | $1,812.72 | $597.36 | $362.54
65103 | T |  | Remove eye/insert implant | 0242 | 30.5464 | $1,812.72 | $597.36 | $362.54
65105 | T |  | Remove eye/attach implant | 0242 | 30.5464 | $1,812.72 | $597.36 | $362.54
65110 | T |  | Removal of eye | 0242 | 30.5464 | $1,812.72 | $597.36 | $362.54
65112 | T |  | Remove eye/revise socket | 0242 | 30.5464 | $1,812.72 | $597.36 | $362.54
65114 | T |  | Remove eye/revise socket | 0242 | 30.5464 | $1,812.72 | $597.36 | $362.54
65125 | T |  | Revise ocular implant | 0240 | 18.1508 | $1,077.12 | $315.31 | $215.42
65130 | T |  | Insert ocular implant | 0241 | 23.3036 | $1,382.91 | $384.47 | $276.58
65135 | T |  | Insert ocular implant | 0241 | 23.3036 | $1,382.91 | $384.47 | $276.58
65140 | T |  | Attach ocular implant | 0242 | 30.5464 | $1,812.72 | $597.36 | $362.54
65150 | T |  | Revise ocular implant | 0241 | 23.3036 | $1,382.91 | $384.47 | $276.58
65155 | T |  | Reinsert ocular implant | 0242 | 30.5464 | $1,812.72 | $597.36 | $362.54
65175 | T |  | Removal of ocular implant | 0240 | 18.1508 | $1,077.12 | $315.31 | $215.42
65205 | S |  | Remove foreign body from eye | 0698 | 1.2438 | $73.81 | $16.55 | $14.76
65210 | S |  | Remove foreign body from eye | 0698 | 1.2438 | $73.81 | $16.55 | $14.76
65220 | S |  | Remove foreign body from eye | 0698 | 1.2438 | $73.81 | $16.55 | $14.76
65222 | S |  | Remove foreign body from eye | 0698 | 1.2438 | $73.81 | $16.55 | $14.76
65235 | T |  | Remove foreign body from eye | 0233 | 14.9673 | $888.20 | $266.33 | $177.64
65260 | T |  | Remove foreign body from eye | 0236 | 17.0229 | $1,010.19 |  | $202.04
65265 | T |  | Remove foreign body from eye | 0237 | 28.9401 | $1,717.39 |  | $343.48
65270 | T |  | Repair of eye wound | 0240 | 18.1508 | $1,077.12 | $315.31 | $215.42
65272 | T |  | Repair of eye wound | 0234 | 21.9741 | $1,304.01 | $511.31 | $260.80
65273 | C |  | Repair of eye wound |  |  |  |  |
65275 | T |  | Repair of eye wound | 0234 | 21.9741 | $1,304.01 | $511.31 | $260.80
65280 | T |  | Repair of eye wound | 0236 | 17.0229 | $1,010.19 |  | $202.04
65285 | T |  | Repair of eye wound | 0672 | 36.9284 | $2,191.44 |  | $438.29
65286 | T |  | Repair of eye wound | 0232 | 6.6732 | $396.01 | $103.17 | $79.20
65290 | T |  | Repair of eye socket wound | 0243 | 22.1671 | $1,315.46 | $431.39 | $263.09
65400 | T |  | Removal of eye lesion | 0233 | 14.9673 | $888.20 | $266.33 | $177.64
65410 | T |  | Biopsy of cornea | 0233 | 14.9673 | $888.20 | $266.33 | $177.64
65420 | T |  | Removal of eye lesion | 0233 | 14.9673 | $888.20 | $266.33 | $177.64
65426 | T |  | Removal of eye lesion | 0234 | 21.9741 | $1,304.01 | $511.31 | $260.80
65430 | S |  | Corneal smear | 0698 | 1.2438 | $73.81 | $16.55 | $14.76
65435 | T |  | Curette/treat cornea | 0239 | 6.9097 | $410.04 |  | $82.01
65436 | T |  | Curette/treat cornea | 0233 | 14.9673 | $888.20 | $266.33 | $177.64
65450 | S |  | Treatment of corneal lesion | 0231 | 1.9278 | $114.40 | $44.61 | $22.88
65600 | T |  | Revision of cornea | 0240 | 18.1508 | $1,077.12 | $315.31 | $215.42
65710 | T |  | Corneal transplant | 0244 | 38.3723 | $2,277.13 | $803.26 | $455.43
65730 | T |  | Corneal transplant | 0244 | 38.3723 | $2,277.13 | $803.26 | $455.43
65750 | T |  | Corneal transplant | 0244 | 38.3723 | $2,277.13 | $803.26 | $455.43
65755 | T |  | Corneal transplant | 0244 | 38.3723 | $2,277.13 | $803.26 | $455.43
65760 | E |  | Revision of cornea |  |  |  |  |
65765 | E |  | Revision of cornea |  |  |  |  |
65767 | E |  | Corneal tissue transplant |  |  |  |  |
65770 | T |  | Revise cornea with implant | 0244 | 38.3723 | $2,277.13 | $803.26 | $455.43
65771 | E |  | Radial keratotomy |  |  |  |  |
65772 | T |  | Correction of astigmatism | 0233 | 14.9673 | $888.20 | $266.33 | $177.64
65775 | T |  | Correction of astigmatism | 0233 | 14.9673 | $888.20 | $266.33 | $177.64
65780 | T |  | Ocular reconst, transplant | 0244 | 38.3723 | $2,277.13 | $803.26 | $455.43
65781 | T |  | Ocular reconst, transplant | 0244 | 38.3723 | $2,277.13 | $803.26 | $455.43
65782 | T |  | Ocular reconst, transplant | 0244 | 38.3723 | $2,277.13 | $803.26 | $455.43
65800 | T |  | Drainage of eye | 0233 | 14.9673 | $888.20 | $266.33 | $177.64
65805 | T |  | Drainage of eye | 0233 | 14.9673 | $888.20 | $266.33 | $177.64
65810 | T |  | Drainage of eye | 0234 | 21.9741 | $1,304.01 | $511.31 | $260.80
65815 | T |  | Drainage of eye | 0234 | 21.9741 | $1,304.01 | $511.31 | $260.80
65820 | T |  | Relieve inner eye pressure | 0232 | 6.6732 | $396.01 | $103.17 | $79.20
65850 | T |  | Incision of eye | 0234 | 21.9741 | $1,304.01 | $511.31 | $260.80
65855 | T |  | Laser surgery of eye | 0247 | 5.033 | $298.67 | $104.31 | $59.73
65860 | T |  | Incise inner eye adhesions | 0247 | 5.033 | $298.67 | $104.31 | $59.73
65865 | T |  | Incise inner eye adhesions | 0233 | 14.9673 | $888.20 | $266.33 | $177.64
65870 | T |  | Incise inner eye adhesions | 0234 | 21.9741 | $1,304.01 | $511.31 | $260.80
65875 | T |  | Incise inner eye adhesions | 0234 | 21.9741 | $1,304.01 | $511.31 | $260.80
65880 | T |  | Incise inner eye adhesions | 0233 | 14.9673 | $888.20 | $266.33 | $177.64
65900 | T |  | Remove eye lesion | 0233 | 14.9673 | $888.20 | $266.33 | $177.64
65920 | T |  | Remove implant of eye | 0234 | 21.9741 | $1,304.01 | $511.31 | $260.80
65930 | T |  | Remove blood clot from eye | 0234 | 21.9741 | $1,304.01 | $511.31 | $260.80
66020 | T |  | Injection treatment of eye | 0233 | 14.9673 | $888.20 | $266.33 | $177.64
66030 | T |  | Injection treatment of eye | 0232 | 6.6732 | $396.01 | $103.17 | $79.20
66130 | T |  | Remove eye lesion | 0234 | 21.9741 | $1,304.01 | $511.31 | $260.80
66150 | T |  | Glaucoma surgery | 0234 | 21.9741 | $1,304.01 | $511.31 | $260.80
66155 | T |  | Glaucoma surgery | 0234 | 21.9741 | $1,304.01 | $511.31 | $260.80
66160 | T |  | Glaucoma surgery | 0234 | 21.9741 | $1,304.01 | $511.31 | $260.80
66165 | T |  | Glaucoma surgery | 0234 | 21.9741 | $1,304.01 | $511.31 | $260.80
66170 | T |  | Glaucoma surgery | 0234 | 21.9741 | $1,304.01 | $511.31 | $260.80
66172 | T |  | Incision of eye | 0673 | 29.2582 | $1,736.27 | $649.56 | $347.25
66180 | T |  | Implant eye shunt | 0673 | 29.2582 | $1,736.27 | $649.56 | $347.25
66185 | T |  | Revise eye shunt | 0673 | 29.2582 | $1,736.27 | $649.56 | $347.25
66220 | T |  | Repair eye lesion | 0672 | 36.9284 | $2,191.44 |  | $438.29
66225 | T |  | Repair/graft eye lesion | 0673 | 29.2582 | $1,736.27 | $649.56 | $347.25
66250 | T |  | Follow-up surgery of eye | 0233 | 14.9673 | $888.20 | $266.33 | $177.64
66500 | T |  | Incision of iris | 0232 | 6.6732 | $396.01 | $103.17 | $79.20
66505 | T |  | Incision of iris | 0232 | 6.6732 | $396.01 | $103.17 | $79.20
66600 | T |  | Remove iris and lesion | 0234 | 21.9741 | $1,304.01 | $511.31 | $260.80
66605 | T |  | Removal of iris | 0234 | 21.9741 | $1,304.01 | $511.31 | $260.80
66625 | T |  | Removal of iris | 0232 | 6.6732 | $396.01 | $103.17 | $79.20
66630 | T |  | Removal of iris | 0234 | 21.9741 | $1,304.01 | $511.31 | $260.80
66635 | T |  | Removal of iris | 0234 | 21.9741 | $1,304.01 | $511.31 | $260.80
66680 | T |  | Repair iris & ciliary body | 0234 | 21.9741 | $1,304.01 | $511.31 | $260.80
66682 | T |  | Repair iris & ciliary body | 0234 | 21.9741 | $1,304.01 | $511.31 | $260.80
66700 | T |  | Destruction, ciliary body | 0233 | 14.9673 | $888.20 | $266.33 | $177.64
66710 | T |  | Destruction, ciliary body | 0233 | 14.9673 | $888.20 | $266.33 | $177.64
66711 | T |  | Ciliary endoscopic ablation | 0233 | 14.9673 | $888.20 | $266.33 | $177.64
66720 | T |  | Destruction, ciliary body | 0233 | 14.9673 | $888.20 | $266.33 | $177.64
66740 | T |  | Destruction, ciliary body | 0234 | 21.9741 | $1,304.01 | $511.31 | $260.80
66761 | T |  | Revision of iris | 0247 | 5.033 | $298.67 | $104.31 | $59.73
66762 | T |  | Revision of iris | 0247 | 5.033 | $298.67 | $104.31 | $59.73
66770 | T |  | Removal of inner eye lesion | 0247 | 5.033 | $298.67 | $104.31 | $59.73
66820 | T |  | Incision, secondary cataract | 0232 | 6.6732 | $396.01 | $103.17 | $79.20
66821 | T |  | After cataract laser surgery | 0247 | 5.033 | $298.67 | $104.31 | $59.73
66825 | T |  | Reposition intraocular lens | 0234 | 21.9741 | $1,304.01 | $511.31 | $260.80
66830 | T |  | Removal of lens lesion | 0232 | 6.6732 | $396.01 | $103.17 | $79.20
66840 | T |  | Removal of lens material | 0245 | 13.3625 | $792.97 | $221.89 | $158.59
66850 | T |  | Removal of lens material | 0249 | 27.9369 | $1,657.86 | $524.67 | $331.57
66852 | T |  | Removal of lens material | 0249 | 27.9369 | $1,657.86 | $524.67 | $331.57
66920 | T |  | Extraction of lens | 0249 | 27.9369 | $1,657.86 | $524.67 | $331.57
66930 | T |  | Extraction of lens | 0249 | 27.9369 | $1,657.86 | $524.67 | $331.57
66940 | T |  | Extraction of lens | 0245 | 13.3625 | $792.97 | $221.89 | $158.59
66982 | T |  | Cataract surgery, complex | 0246 | 23.4597 | $1,392.17 | $495.96 | $278.43
66983 | T |  | Cataract surg w/iol, 1 stage | 0246 | 23.4597 | $1,392.17 | $495.96 | $278.43
66984 | T |  | Cataract surg w/iol, 1 stage | 0246 | 23.4597 | $1,392.17 | $495.96 | $278.43
66985 | T |  | Insert lens prosthesis | 0246 | 23.4597 | $1,392.17 | $495.96 | $278.43
66986 | T |  | Exchange lens prosthesis | 0246 | 23.4597 | $1,392.17 | $495.96 | $278.43
66990 | N |  | Ophthalmic endoscope add-on |  |  |  |  |
66999 | T |  | Eye surgery procedure | 0232 | 6.6732 | $396.01 | $103.17 | $79.20
67005 | T |  | Partial removal of eye fluid | 0237 | 28.9401 | $1,717.39 |  | $343.48
67010 | T |  | Partial removal of eye fluid | 0237 | 28.9401 | $1,717.39 |  | $343.48
67015 | T |  | Release of eye fluid | 0237 | 28.9401 | $1,717.39 |  | $343.48
67025 | T |  | Replace eye fluid | 0237 | 28.9401 | $1,717.39 |  | $343.48
67027 | T |  | Implant eye drug system | 0672 | 36.9284 | $2,191.44 |  | $438.29
67028 | T |  | Injection eye drug | 0235 | 4.6593 | $276.50 | $67.40 | $55.30
67030 | T |  | Incise inner eye strands | 0236 | 17.0229 | $1,010.19 |  | $202.04
67031 | T |  | Laser surgery, eye strands | 0247 | 5.033 | $298.67 | $104.31 | $59.73
67036 | T |  | Removal of inner eye fluid | 0672 | 36.9284 | $2,191.44 |  | $438.29
67038 | T |  | Strip retinal membrane | 0672 | 36.9284 | $2,191.44 |  | $438.29
67039 | T |  | Laser treatment of retina | 0672 | 36.9284 | $2,191.44 |  | $438.29
67040 | T |  | Laser treatment of retina | 0672 | 36.9284 | $2,191.44 |  | $438.29
67101 | T |  | Repair detached retina | 0236 | 17.0229 | $1,010.19 |  | $202.04
67105 | T |  | Repair detached retina | 0248 | 4.6769 | $277.54 | $93.98 | $55.51
67107 | T |  | Repair detached retina | 0672 | 36.9284 | $2,191.44 |  | $438.29
67108 | T |  | Repair detached retina | 0672 | 36.9284 | $2,191.44 |  | $438.29
67110 | T |  | Repair detached retina | 0236 | 17.0229 | $1,010.19 |  | $202.04
67112 | T |  | Rerepair detached retina | 0672 | 36.9284 | $2,191.44 |  | $438.29
67115 | T |  | Release encircling material | 0236 | 17.0229 | $1,010.19 |  | $202.04
67120 | T |  | Remove eye implant material | 0236 | 17.0229 | $1,010.19 |  | $202.04
67121 | T |  | Remove eye implant material | 0237 | 28.9401 | $1,717.39 |  | $343.48
67141 | T |  | Treatment of retina | 0235 | 4.6593 | $276.50 | $67.40 | $55.30
67145 | T |  | Treatment of retina | 0248 | 4.6769 | $277.54 | $93.98 | $55.51
67208 | T |  | Treatment of retinal lesion | 0236 | 17.0229 | $1,010.19 |  | $202.04
67210 | T |  | Treatment of retinal lesion | 0248 | 4.6769 | $277.54 | $93.98 | $55.51
67218 | T |  | Treatment of retinal lesion | 0236 | 17.0229 | $1,010.19 |  | $202.04
67220 | T |  | Treatment of choroid lesion | 0235 | 4.6593 | $276.50 | $67.40 | $55.30
67221 | T |  | Ocular photodynamic ther | 0235 | 4.6593 | $276.50 | $67.40 | $55.30
67225 | T |  | Eye photodynamic ther add-on | 0235 | 4.6593 | $276.50 | $67.40 | $55.30
67227 | T |  | Treatment of retinal lesion | 0236 | 17.0229 | $1,010.19 |  | $202.04
67228 | T |  | Treatment of retinal lesion | 0248 | 4.6769 | $277.54 | $93.98 | $55.51
67250 | T |  | Reinforce eye wall | 0240 | 18.1508 | $1,077.12 | $315.31 | $215.42
67255 | T |  | Reinforce/graft eye wall | 0237 | 28.9401 | $1,717.39 |  | $343.48
67299 | T |  | Eye surgery procedure | 0235 | 4.6593 | $276.50 | $67.40 | $55.30
67311 | T |  | Revise eye muscle | 0243 | 22.1671 | $1,315.46 | $431.39 | $263.09
67312 | T |  | Revise two eye muscles | 0243 | 22.1671 | $1,315.46 | $431.39 | $263.09
67314 | T |  | Revise eye muscle | 0243 | 22.1671 | $1,315.46 | $431.39 | $263.09
67316 | T |  | Revise two eye muscles | 0243 | 22.1671 | $1,315.46 | $431.39 | $263.09
67318 | T |  | Revise eye muscle(s) | 0243 | 22.1671 | $1,315.46 | $431.39 | $263.09
67320 | T |  | Revise eye muscle(s) add-on | 0243 | 22.1671 | $1,315.46 | $431.39 | $263.09
67331 | T |  | Eye surgery follow-up add-on | 0243 | 22.1671 | $1,315.46 | $431.39 | $263.09
67332 | T |  | Rerevise eye muscles add-on | 0243 | 22.1671 | $1,315.46 | $431.39 | $263.09
67334 | T |  | Revise eye muscle w/suture | 0243 | 22.1671 | $1,315.46 | $431.39 | $263.09
67335 | T |  | Eye suture during surgery | 0243 | 22.1671 | $1,315.46 | $431.39 | $263.09
67340 | T |  | Revise eye muscle add-on | 0243 | 22.1671 | $1,315.46 | $431.39 | $263.09
67343 | T |  | Release eye tissue | 0243 | 22.1671 | $1,315.46 | $431.39 | $263.09
67345 | T |  | Destroy nerve of eye muscle | 0238 | 2.5933 | $153.89 |  | $30.78
67350 | T |  | Biopsy eye muscle | 0699 | 10.0177 | $594.48 |  | $118.90
67399 | T |  | Eye muscle surgery procedure | 0243 | 22.1671 | $1,315.46 | $431.39 | $263.09
67400 | T |  | Explore/biopsy eye socket | 0241 | 23.3036 | $1,382.91 | $384.47 | $276.58
67405 | T |  | Explore/drain eye socket | 0241 | 23.3036 | $1,382.91 | $384.47 | $276.58
67412 | T |  | Explore/treat eye socket | 0241 | 23.3036 | $1,382.91 | $384.47 | $276.58
67413 | T |  | Explore/treat eye socket | 0241 | 23.3036 | $1,382.91 | $384.47 | $276.58
67414 | T |  | Explr/decompress eye socket | 0242 | 30.5464 | $1,812.72 | $597.36 | $362.54
67415 | T |  | Aspiration, orbital contents | 0240 | 18.1508 | $1,077.12 | $315.31 | $215.42
67420 | T |  | Explore/treat eye socket | 0242 | 30.5464 | $1,812.72 | $597.36 | $362.54
67430 | T |  | Explore/treat eye socket | 0242 | 30.5464 | $1,812.72 | $597.36 | $362.54
67440 | T |  | Explore/drain eye socket | 0242 | 30.5464 | $1,812.72 | $597.36 | $362.54
67445 | T |  | Explr/decompress eye socket | 0242 | 30.5464 | $1,812.72 | $597.36 | $362.54
67450 | T |  | Explore/biopsy eye socket | 0242 | 30.5464 | $1,812.72 | $597.36 | $362.54
67500 | S |  | Inject/treat eye socket | 0231 | 1.9278 | $114.40 | $44.61 | $22.88
67505 | T |  | Inject/treat eye socket | 0238 | 2.5933 | $153.89 |  | $30.78
67515 | T |  | Inject/treat eye socket | 0238 | 2.5933 | $153.89 |  | $30.78
67550 | T |  | Insert eye socket implant | 0242 | 30.5464 | $1,812.72 | $597.36 | $362.54
67560 | T |  | Revise eye socket implant | 0241 | 23.3036 | $1,382.91 | $384.47 | $276.58
67570 | T |  | Decompress optic nerve | 0242 | 30.5464 | $1,812.72 | $597.36 | $362.54
67599 | T |  | Orbit surgery procedure | 0238 | 2.5933 | $153.89 |  | $30.78
67700 | T |  | Drainage of eyelid abscess | 0238 | 2.5933 | $153.89 |  | $30.78
67710 | T |  | Incision of eyelid | 0239 | 6.9097 | $410.04 |  | $82.01
67715 | T |  | Incision of eyelid fold | 0240 | 18.1508 | $1,077.12 | $315.31 | $215.42
67800 | T |  | Remove eyelid lesion | 0238 | 2.5933 | $153.89 |  | $30.78
67801 | T |  | Remove eyelid lesions | 0239 | 6.9097 | $410.04 |  | $82.01
67805 | T |  | Remove eyelid lesions | 0238 | 2.5933 | $153.89 |  | $30.78
67808 | T |  | Remove eyelid lesion(s) | 0240 | 18.1508 | $1,077.12 | $315.31 | $215.42
67810 | T |  | Biopsy of eyelid | 0238 | 2.5933 | $153.89 |  | $30.78
67820 | S |  | Revise eyelashes | 0698 | 1.2438 | $73.81 | $16.55 | $14.76
67825 | T |  | Revise eyelashes | 0238 | 2.5933 | $153.89 |  | $30.78
67830 | T |  | Revise eyelashes | 0239 | 6.9097 | $410.04 |  | $82.01
67835 | T |  | Revise eyelashes | 0240 | 18.1508 | $1,077.12 | $315.31 | $215.42
67840 | T |  | Remove eyelid lesion | 0239 | 6.9097 | $410.04 |  | $82.01
67850 | T |  | Treat eyelid lesion | 0239 | 6.9097 | $410.04 |  | $82.01
67875 | T |  | Closure of eyelid by suture | 0239 | 6.9097 | $410.04 |  | $82.01
67880 | T |  | Revision of eyelid | 0233 | 14.9673 | $888.20 | $266.33 | $177.64
67882 | T |  | Revision of eyelid | 0240 | 18.1508 | $1,077.12 | $315.31 | $215.42
67900 | T |  | Repair brow defect | 0240 | 18.1508 | $1,077.12 | $315.31 | $215.42
67901 | T |  | Repair eyelid defect | 0240 | 18.1508 | $1,077.12 | $315.31 | $215.42
67902 | T |  | Repair eyelid defect | 0240 | 18.1508 | $1,077.12 | $315.31 | $215.42
67903 | T |  | Repair eyelid defect | 0240 | 18.1508 | $1,077.12 | $315.31 | $215.42
67904 | T |  | Repair eyelid defect | 0240 | 18.1508 | $1,077.12 | $315.31 | $215.42
67906 | T |  | Repair eyelid defect | 0240 | 18.1508 | $1,077.12 | $315.31 | $215.42
67908 | T |  | Repair eyelid defect | 0240 | 18.1508 | $1,077.12 | $315.31 | $215.42
67909 | T |  | Revise eyelid defect | 0240 | 18.1508 | $1,077.12 | $315.31 | $215.42
67911 | T |  | Revise eyelid defect | 0240 | 18.1508 | $1,077.12 | $315.31 | $215.42
67912 | T |  | Correction eyelid w/ implant | 0240 | 18.1508 | $1,077.12 | $315.31 | $215.42
67914 | T |  | Repair eyelid defect | 0240 | 18.1508 | $1,077.12 | $315.31 | $215.42
67915 | T |  | Repair eyelid defect | 0240 | 18.1508 | $1,077.12 | $315.31 | $215.42
67916 | T |  | Repair eyelid defect | 0240 | 18.1508 | $1,077.12 | $315.31 | $215.42
67917 | T |  | Repair eyelid defect | 0240 | 18.1508 | $1,077.12 | $315.31 | $215.42
67921 | T |  | Repair eyelid defect | 0240 | 18.1508 | $1,077.12 | $315.31 | $215.42
67922 | T |  | Repair eyelid defect | 0240 | 18.1508 | $1,077.12 | $315.31 | $215.42
67923 | T |  | Repair eyelid defect | 0240 | 18.1508 | $1,077.12 | $315.31 | $215.42
67924 | T |  | Repair eyelid defect | 0240 | 18.1508 | $1,077.12 | $315.31 | $215.42
67930 | T |  | Repair eyelid wound | 0240 | 18.1508 | $1,077.12 | $315.31 | $215.42
67935 | T |  | Repair eyelid wound | 0240 | 18.1508 | $1,077.12 | $315.31 | $215.42
67938 | S |  | Remove eyelid foreign body | 0698 | 1.2438 | $73.81 | $16.55 | $14.76
67950 | T |  | Revision of eyelid | 0240 | 18.1508 | $1,077.12 | $315.31 | $215.42
67961 | T |  | Revision of eyelid | 0240 | 18.1508 | $1,077.12 | $315.31 | $215.42
67966 | T |  | Revision of eyelid | 0240 | 18.1508 | $1,077.12 | $315.31 | $215.42
67971 | T |  | Reconstruction of eyelid | 0241 | 23.3036 | $1,382.91 | $384.47 | $276.58
67973 | T |  | Reconstruction of eyelid | 0241 | 23.3036 | $1,382.91 | $384.47 | $276.58
67974 | T |  | Reconstruction of eyelid | 0241 | 23.3036 | $1,382.91 | $384.47 | $276.58
67975 | T |  | Reconstruction of eyelid | 0240 | 18.1508 | $1,077.12 | $315.31 | $215.42
67999 | T |  | Revision of eyelid | 0238 | 2.5933 | $153.89 |  | $30.78
68020 | T |  | Incise/drain eyelid lining | 0240 | 18.1508 | $1,077.12 | $315.31 | $215.42
68040 | S |  | Treatment of eyelid lesions | 0698 | 1.2438 | $73.81 | $16.55 | $14.76
68100 | T |  | Biopsy of eyelid lining | 0232 | 6.6732 | $396.01 | $103.17 | $79.20
68110 | T |  | Remove eyelid lining lesion | 0699 | 10.0177 | $594.48 |  | $118.90
68115 | T |  | Remove eyelid lining lesion | 0240 | 18.1508 | $1,077.12 | $315.31 | $215.42
68130 | T |  | Remove eyelid lining lesion | 0233 | 14.9673 | $888.20 | $266.33 | $177.64
68135 | T |  | Remove eyelid lining lesion | 0239 | 6.9097 | $410.04 |  | $82.01
68200 | S |  | Treat eyelid by injection | 0230 | 0.7858 | $46.63 | $14.97 | $9.33
68320 | T |  | Revise/graft eyelid lining | 0240 | 18.1508 | $1,077.12 | $315.31 | $215.42
68325 | T |  | Revise/graft eyelid lining | 0242 | 30.5464 | $1,812.72 | $597.36 | $362.54
68326 | T |  | Revise/graft eyelid lining | 0241 | 23.3036 | $1,382.91 | $384.47 | $276.58
68328 | T |  | Revise/graft eyelid lining | 0241 | 23.3036 | $1,382.91 | $384.47 | $276.58
68330 | T |  | Revise eyelid lining | 0234 | 21.9741 | $1,304.01 | $511.31 | $260.80
68335 | T |  | Revise/graft eyelid lining | 0241 | 23.3036 | $1,382.91 | $384.47 | $276.58
68340 | T |  | Separate eyelid adhesions | 0240 | 18.1508 | $1,077.12 | $315.31 | $215.42
68360 | T |  | Revise eyelid lining | 0234 | 21.9741 | $1,304.01 | $511.31 | $260.80
68362 | T |  | Revise eyelid lining | 0234 | 21.9741 | $1,304.01 | $511.31 | $260.80
68371 | T |  | Harvest eye tissue, alograft | 0233 | 14.9673 | $888.20 | $266.33 | $177.64
68399 | T |  | Eyelid lining surgery | 0238 | 2.5933 | $153.89 |  | $30.78
68400 | T |  | Incise/drain tear gland | 0238 | 2.5933 | $153.89 |  | $30.78
68420 | T |  | Incise/drain tear sac | 0240 | 18.1508 | $1,077.12 | $315.31 | $215.42
68440 | T |  | Incise tear duct opening | 0238 | 2.5933 | $153.89 |  | $30.78
68500 | T |  | Removal of tear gland | 0241 | 23.3036 | $1,382.91 | $384.47 | $276.58
68505 | T |  | Partial removal, tear gland | 0241 | 23.3036 | $1,382.91 | $384.47 | $276.58
68510 | T |  | Biopsy of tear gland | 0240 | 18.1508 | $1,077.12 | $315.31 | $215.42
68520 | T |  | Removal of tear sac | 0241 | 23.3036 | $1,382.91 | $384.47 | $276.58
68525 | T |  | Biopsy of tear sac | 0240 | 18.1508 | $1,077.12 | $315.31 | $215.42
68530 | T |  | Clearance of tear duct | 0240 | 18.1508 | $1,077.12 | $315.31 | $215.42
68540 | T |  | Remove tear gland lesion | 0241 | 23.3036 | $1,382.91 | $384.47 | $276.58
68550 | T |  | Remove tear gland lesion | 0242 | 30.5464 | $1,812.72 | $597.36 | $362.54
68700 | T |  | Repair tear ducts | 0241 | 23.3036 | $1,382.91 | $384.47 | $276.58
68705 | T |  | Revise tear duct opening | 0238 | 2.5933 | $153.89 |  | $30.78
68720 | T |  | Create tear sac drain | 0242 | 30.5464 | $1,812.72 | $597.36 | $362.54
68745 | T |  | Create tear duct drain | 0241 | 23.3036 | $1,382.91 | $384.47 | $276.58
68750 | T |  | Create tear duct drain | 0242 | 30.5464 | $1,812.72 | $597.36 | $362.54
68760 | S |  | Close tear duct opening | 0698 | 1.2438 | $73.81 | $16.55 | $14.76
68761 | S |  | Close tear duct opening | 0231 | 1.9278 | $114.40 | $44.61 | $22.88
68770 | T |  | Close tear system fistula | 0240 | 18.1508 | $1,077.12 | $315.31 | $215.42
68801 | S |  | Dilate tear duct opening | 0698 | 1.2438 | $73.81 | $16.55 | $14.76
68810 | S |  | Probe nasolacrimal duct | 0231 | 1.9278 | $114.40 | $44.61 | $22.88
68811 | T |  | Probe nasolacrimal duct | 0240 | 18.1508 | $1,077.12 | $315.31 | $215.42
68815 | T |  | Probe nasolacrimal duct | 0240 | 18.1508 | $1,077.12 | $315.31 | $215.42
68840 | S |  | Explore/irrigate tear ducts | 0231 | 1.9278 | $114.40 | $44.61 | $22.88
68850 | N |  | Injection for tear sac x-ray |  |  |  |  |
68899 | S |  | Tear duct system surgery | 0230 | 0.7858 | $46.63 | $14.97 | $9.33
69000 | T |  | Drain external ear lesion | 0006 | 1.55 | $91.98 | $22.28 | $18.40
69005 | T |  | Drain external ear lesion | 0008 | 16.4989 | $979.09 |  | $195.82
69020 | T |  | Drain outer ear canal lesion | 0006 | 1.55 | $91.98 | $22.28 | $18.40
69090 | E |  | Pierce earlobes |  |  |  |  |
69100 | T |  | Biopsy of external ear | 0019 | 4.0547 | $240.62 | $71.87 | $48.12
69105 | T |  | Biopsy of external ear canal | 0253 | 16.1357 | $957.54 | $282.29 | $191.51
69110 | T |  | Remove external ear, partial | 0021 | 14.9776 | $888.82 | $219.48 | $177.76
69120 | T |  | Removal of external ear | 0254 | 23.404 | $1,388.86 | $321.35 | $277.77
69140 | T |  | Remove ear canal lesion(s) | 0254 | 23.404 | $1,388.86 | $321.35 | $277.77
69145 | T |  | Remove ear canal lesion(s) | 0021 | 14.9776 | $888.82 | $219.48 | $177.76
69150 | T |  | Extensive ear canal surgery | 0252 | 7.8673 | $466.87 | $113.41 | $93.37
69155 | C |  | Extensive ear/neck surgery |  |  |  |  |
69200 | X |  | Clear outer ear canal | 0340 | 0.6384 | $37.88 |  | $7.58
69205 | T |  | Clear outer ear canal | 0022 | 19.6472 | $1,165.92 | $354.45 | $233.18
69210 | X |  | Remove impacted ear wax | 0340 | 0.6384 | $37.88 |  | $7.58
69220 | T |  | Clean out mastoid cavity | 0012 | 0.8497 | $50.42 | $11.18 | $10.08
69222 | T |  | Clean out mastoid cavity | 0253 | 16.1357 | $957.54 | $282.29 | $191.51
69300 | T |  | Revise external ear | 0254 | 23.404 | $1,388.86 | $321.35 | $277.77
69310 | T |  | Rebuild outer ear canal | 0256 | 37.3204 | $2,214.70 |  | $442.94
69320 | T |  | Rebuild outer ear canal | 0256 | 37.3204 | $2,214.70 |  | $442.94
69399 | T |  | Outer ear surgery procedure | 0251 | 2.0101 | $119.29 |  | $23.86
69400 | T |  | Inflate middle ear canal | 0251 | 2.0101 | $119.29 |  | $23.86
69401 | T |  | Inflate middle ear canal | 0251 | 2.0101 | $119.29 |  | $23.86
69405 | T |  | Catheterize middle ear canal | 0252 | 7.8673 | $466.87 | $113.41 | $93.37
69410 | T |  | Inset middle ear (baffle) | 0251 | 2.0101 | $119.29 |  | $23.86
69420 | T |  | Incision of eardrum | 0251 | 2.0101 | $119.29 |  | $23.86
69421 | T |  | Incision of eardrum | 0253 | 16.1357 | $957.54 | $282.29 | $191.51
69424 | T |  | Remove ventilating tube | 0252 | 7.8673 | $466.87 | $113.41 | $93.37
69433 | T |  | Create eardrum opening | 0252 | 7.8673 | $466.87 | $113.41 | $93.37
69436 | T |  | Create eardrum opening | 0253 | 16.1357 | $957.54 | $282.29 | $191.51
69440 | T |  | Exploration of middle ear | 0254 | 23.404 | $1,388.86 | $321.35 | $277.77
69450 | T |  | Eardrum revision | 0256 | 37.3204 | $2,214.70 |  | $442.94
69501 | T |  | Mastoidectomy | 0256 | 37.3204 | $2,214.70 |  | $442.94
69502 | T |  | Mastoidectomy | 0254 | 23.404 | $1,388.86 | $321.35 | $277.77
69505 | T |  | Remove mastoid structures | 0256 | 37.3204 | $2,214.70 |  | $442.94
69511 | T |  | Extensive mastoid surgery | 0256 | 37.3204 | $2,214.70 |  | $442.94
69530 | T |  | Extensive mastoid surgery | 0256 | 37.3204 | $2,214.70 |  | $442.94
69535 | C |  | Remove part of temporal bone |  |  |  |  |
69540 | T |  | Remove ear lesion | 0253 | 16.1357 | $957.54 | $282.29 | $191.51
69550 | T |  | Remove ear lesion | 0256 | 37.3204 | $2,214.70 |  | $442.94
69552 | T |  | Remove ear lesion | 0256 | 37.3204 | $2,214.70 |  | $442.94
69554 | C |  | Remove ear lesion |  |  |  |  |
69601 | T |  | Mastoid surgery revision | 0256 | 37.3204 | $2,214.70 |  | $442.94
69602 | T |  | Mastoid surgery revision | 0256 | 37.3204 | $2,214.70 |  | $442.94
69603 | T |  | Mastoid surgery revision | 0256 | 37.3204 | $2,214.70 |  | $442.94
69604 | T |  | Mastoid surgery revision | 0256 | 37.3204 | $2,214.70 |  | $442.94
69605 | T |  | Mastoid surgery revision | 0256 | 37.3204 | $2,214.70 |  | $442.94
69610 | T |  | Repair of eardrum | 0254 | 23.404 | $1,388.86 | $321.35 | $277.77
69620 | T |  | Repair of eardrum | 0254 | 23.404 | $1,388.86 | $321.35 | $277.77
69631 | T |  | Repair eardrum structures | 0256 | 37.3204 | $2,214.70 |  | $442.94
69632 | T |  | Rebuild eardrum structures | 0256 | 37.3204 | $2,214.70 |  | $442.94
69633 | T |  | Rebuild eardrum structures | 0256 | 37.3204 | $2,214.70 |  | $442.94
69635 | T |  | Repair eardrum structures | 0256 | 37.3204 | $2,214.70 |  | $442.94
69636 | T |  | Rebuild eardrum structures | 0256 | 37.3204 | $2,214.70 |  | $442.94
69637 | T |  | Rebuild eardrum structures | 0256 | 37.3204 | $2,214.70 |  | $442.94
69641 | T |  | Revise middle ear & mastoid | 0256 | 37.3204 | $2,214.70 |  | $442.94
69642 | T |  | Revise middle ear & mastoid | 0256 | 37.3204 | $2,214.70 |  | $442.94
69643 | T |  | Revise middle ear & mastoid | 0256 | 37.3204 | $2,214.70 |  | $442.94
69644 | T |  | Revise middle ear & mastoid | 0256 | 37.3204 | $2,214.70 |  | $442.94
69645 | T |  | Revise middle ear & mastoid | 0256 | 37.3204 | $2,214.70 |  | $442.94
69646 | T |  | Revise middle ear & mastoid | 0256 | 37.3204 | $2,214.70 |  | $442.94
69650 | T |  | Release middle ear bone | 0254 | 23.404 | $1,388.86 | $321.35 | $277.77
69660 | T |  | Revise middle ear bone | 0256 | 37.3204 | $2,214.70 |  | $442.94
69661 | T |  | Revise middle ear bone | 0256 | 37.3204 | $2,214.70 |  | $442.94
69662 | T |  | Revise middle ear bone | 0256 | 37.3204 | $2,214.70 |  | $442.94
69666 | T |  | Repair middle ear structures | 0256 | 37.3204 | $2,214.70 |  | $442.94
69667 | T |  | Repair middle ear structures | 0256 | 37.3204 | $2,214.70 |  | $442.94
69670 | T |  | Remove mastoid air cells | 0256 | 37.3204 | $2,214.70 |  | $442.94
69676 | T |  | Remove middle ear nerve | 0256 | 37.3204 | $2,214.70 |  | $442.94
69700 | T |  | Close mastoid fistula | 0256 | 37.3204 | $2,214.70 |  | $442.94
69710 | E |  | Implant/replace hearing aid |  |  |  |  |
69711 | T |  | Remove/repair hearing aid | 0256 | 37.3204 | $2,214.70 |  | $442.94
69714 | T |  | Implant temple bone w/stimul | 0256 | 37.3204 | $2,214.70 |  | $442.94
69715 | T |  | Temple bne implnt w/stimulat | 0256 | 37.3204 | $2,214.70 |  | $442.94
69717 | T |  | Temple bone implant revision | 0256 | 37.3204 | $2,214.70 |  | $442.94
69718 | T |  | Revise temple bone implant | 0256 | 37.3204 | $2,214.70 |  | $442.94
69720 | T |  | Release facial nerve | 0256 | 37.3204 | $2,214.70 |  | $442.94
69725 | T |  | Release facial nerve | 0256 | 37.3204 | $2,214.70 |  | $442.94
69740 | T |  | Repair facial nerve | 0256 | 37.3204 | $2,214.70 |  | $442.94
69745 | T |  | Repair facial nerve | 0256 | 37.3204 | $2,214.70 |  | $442.94
69799 | T |  | Middle ear surgery procedure | 0251 | 2.0101 | $119.29 |  | $23.86
69801 | T |  | Incise inner ear | 0256 | 37.3204 | $2,214.70 |  | $442.94
69802 | T |  | Incise inner ear | 0256 | 37.3204 | $2,214.70 |  | $442.94
69805 | T |  | Explore inner ear | 0256 | 37.3204 | $2,214.70 |  | $442.94
69806 | T |  | Explore inner ear | 0256 | 37.3204 | $2,214.70 |  | $442.94
69820 | T |  | Establish inner ear window | 0256 | 37.3204 | $2,214.70 |  | $442.94
69840 | T |  | Revise inner ear window | 0256 | 37.3204 | $2,214.70 |  | $442.94
69905 | T |  | Remove inner ear | 0256 | 37.3204 | $2,214.70 |  | $442.94
69910 | T |  | Remove inner ear & mastoid | 0256 | 37.3204 | $2,214.70 |  | $442.94
69915 | T |  | Incise inner ear nerve | 0256 | 37.3204 | $2,214.70 |  | $442.94
69930 | T |  | Implant cochlear device | 0259 | 366.3317 | $21,739.22 | $8,070.21 | $4,347.84
69949 | T |  | Inner ear surgery procedure | 0251 | 2.0101 | $119.29 |  | $23.86
69950 | C |  | Incise inner ear nerve |  |  |  |  |
69955 | T |  | Release facial nerve | 0256 | 37.3204 | $2,214.70 |  | $442.94
69960 | T |  | Release inner ear canal | 0256 | 37.3204 | $2,214.70 |  | $442.94
69970 | C |  | Remove inner ear lesion |  |  |  |  |
69979 | T |  | Temporal bone surgery | 0251 | 2.0101 | $119.29 |  | $23.86
69990 | N |  | Microsurgery add-on |  |  |  |  |
70010 | S |  | Contrast x-ray of brain | 0274 | 3.0413 | $180.48 | $72.19 | $36.10
70015 | S |  | Contrast x-ray of brain | 0274 | 3.0413 | $180.48 | $72.19 | $36.10
70030 | X |  | X-ray eye for foreign body | 0260 | 0.7555 | $44.83 | $17.93 | $8.97
70100 | X |  | X-ray exam of jaw | 0260 | 0.7555 | $44.83 | $17.93 | $8.97
70110 | X |  | X-ray exam of jaw | 0260 | 0.7555 | $44.83 | $17.93 | $8.97
70120 | X |  | X-ray exam of mastoids | 0260 | 0.7555 | $44.83 | $17.93 | $8.97
70130 | X |  | X-ray exam of mastoids | 0260 | 0.7555 | $44.83 | $17.93 | $8.97
70134 | X |  | X-ray exam of middle ear | 0261 | 1.2901 | $76.56 |  | $15.31
70140 | X |  | X-ray exam of facial bones | 0260 | 0.7555 | $44.83 | $17.93 | $8.97
70150 | X |  | X-ray exam of facial bones | 0260 | 0.7555 | $44.83 | $17.93 | $8.97
70160 | X |  | X-ray exam of nasal bones | 0260 | 0.7555 | $44.83 | $17.93 | $8.97
70170 | X |  | X-ray exam of tear duct | 0264 | 3.524 | $209.12 | $79.41 | $41.82
70190 | X |  | X-ray exam of eye sockets | 0260 | 0.7555 | $44.83 | $17.93 | $8.97
70200 | X |  | X-ray exam of eye sockets | 0260 | 0.7555 | $44.83 | $17.93 | $8.97
70210 | X |  | X-ray exam of sinuses | 0260 | 0.7555 | $44.83 | $17.93 | $8.97
70220 | X |  | X-ray exam of sinuses | 0260 | 0.7555 | $44.83 | $17.93 | $8.97
70240 | X |  | X-ray exam, pituitary saddle | 0260 | 0.7555 | $44.83 | $17.93 | $8.97
70250 | X |  | X-ray exam of skull | 0260 | 0.7555 | $44.83 | $17.93 | $8.97
70260 | X |  | X-ray exam of skull | 0261 | 1.2901 | $76.56 |  | $15.31
70300 | X |  | X-ray exam of teeth | 0262 | 0.9228 | $54.76 |  | $10.95
70310 | X |  | X-ray exam of teeth | 0262 | 0.9228 | $54.76 |  | $10.95
70320 | X |  | Full mouth x-ray of teeth | 0262 | 0.9228 | $54.76 |  | $10.95
70328 | X |  | X-ray exam of jaw joint | 0260 | 0.7555 | $44.83 | $17.93 | $8.97
70330 | X |  | X-ray exam of jaw joints | 0260 | 0.7555 | $44.83 | $17.93 | $8.97
70332 | S |  | X-ray exam of jaw joint | 0275 | 3.5779 | $212.32 | $69.09 | $42.46
70336 | S |  | Magnetic image, jaw joint | 0335 | 5.1581 | $306.10 | $122.43 | $61.22
70350 | X |  | X-ray head for orthodontia | 0260 | 0.7555 | $44.83 | $17.93 | $8.97
70355 | X |  | Panoramic x-ray of jaws | 0260 | 0.7555 | $44.83 | $17.93 | $8.97
70360 | X |  | X-ray exam of neck | 0260 | 0.7555 | $44.83 | $17.93 | $8.97
70370 | X |  | Throat x-ray & fluoroscopy | 0272 | 1.3801 | $81.90 | $32.76 | $16.38
70371 | X |  | Speech evaluation, complex | 0272 | 1.3801 | $81.90 | $32.76 | $16.38
70373 | X |  | Contrast x-ray of larynx | 0263 | 1.7476 | $103.71 | $24.40 | $20.74
70380 | X |  | X-ray exam of salivary gland | 0260 | 0.7555 | $44.83 | $17.93 | $8.97
70390 | X |  | X-ray exam of salivary duct | 0263 | 1.7476 | $103.71 | $24.40 | $20.74
70450* | S |  | Ct head/brain w/o dye | 0332 | 3.2694 | $194.02 | $77.60 | $38.80
70460* | S |  | Ct head/brain w/dye | 0283 | 4.4253 | $262.61 | $105.04 | $52.52
70470* | S |  | Ct head/brain w/o & w/ dye | 0333 | 5.2836 | $313.54 | $125.41 | $62.71
70480* | S |  | Ct orbit/ear/fossa w/o dye | 0332 | 3.2694 | $194.02 | $77.60 | $38.80
70481* | S |  | Ct orbit/ear/fossa w/dye | 0283 | 4.4253 | $262.61 | $105.04 | $52.52
70482* | S |  | Ct orbit/ear/fossa w/o&w dye | 0333 | 5.2836 | $313.54 | $125.41 | $62.71
70486* | S |  | Ct maxillofacial w/o dye | 0332 | 3.2694 | $194.02 | $77.60 | $38.80
70487* | S |  | Ct maxillofacial w/dye | 0283 | 4.4253 | $262.61 | $105.04 | $52.52
70488* | S |  | Ct maxillofacial w/o & w dye | 0333 | 5.2836 | $313.54 | $125.41 | $62.71
70490* | S |  | Ct soft tissue neck w/o dye | 0332 | 3.2694 | $194.02 | $77.60 | $38.80
70491* | S |  | Ct soft tissue neck w/dye | 0283 | 4.4253 | $262.61 | $105.04 | $52.52
70492* | S |  | Ct sft tsue nck w/o & w/dye | 0333 | 5.2836 | $313.54 | $125.41 | $62.71
70496* | S |  | Ct angiography, head | 0662 | 5.1621 | $306.33 | $122.53 | $61.27
70498* | S |  | Ct angiography, neck | 0662 | 5.1621 | $306.33 | $122.53 | $61.27
70540* | S |  | Mri orbit/face/neck w/o dye | 0336 | 6.0742 | $360.46 | $144.18 | $72.09
70542* | S |  | Mri orbit/face/neck w/dye | 0284 | 6.4201 | $380.99 | $152.39 | $76.20
70543* | S |  | Mri orbt/fac/nck w/o & w dye | 0337 | 8.7945 | $521.89 | $208.75 | $104.38
70544* | S |  | Mr angiography head w/o dye | 0336 | 6.0742 | $360.46 | $144.18 | $72.09
70545* | S |  | Mr angiography head w/dye | 0284 | 6.4201 | $380.99 | $152.39 | $76.20
70546* | S |  | Mr angiograph head w/o&w dye | 0337 | 8.7945 | $521.89 | $208.75 | $104.38
70547* | S |  | Mr angiography neck w/o dye | 0336 | 6.0742 | $360.46 | $144.18 | $72.09
70548* | S |  | Mr angiography neck w/dye | 0284 | 6.4201 | $380.99 | $152.39 | $76.20
70549* | S |  | Mr angiograph neck w/o&w dye | 0337 | 8.7945 | $521.89 | $208.75 | $104.38
70551* | S |  | Mri brain w/o dye | 0336 | 6.0742 | $360.46 | $144.18 | $72.09
70552* | S |  | Mri brain w/ dye | 0284 | 6.4201 | $380.99 | $152.39 | $76.20
70553* | S |  | Mri brain w/o & w/ dye | 0337 | 8.7945 | $521.89 | $208.75 | $104.38
70557 | S |  | Mri brain w/o dye | 0336 | 6.0742 | $360.46 | $144.18 | $72.09
70558 | S |  | Mri brain w/ dye | 0284 | 6.4201 | $380.99 | $152.39 | $76.20
70559 | S |  | Mri brain w/o & w/ dye | 0337 | 8.7945 | $521.89 | $208.75 | $104.38
71010 | X |  | Chest x-ray | 0260 | 0.7555 | $44.83 | $17.93 | $8.97
71015 | X |  | Chest x-ray | 0260 | 0.7555 | $44.83 | $17.93 | $8.97
71020 | X |  | Chest x-ray | 0260 | 0.7555 | $44.83 | $17.93 | $8.97
71021 | X |  | Chest x-ray | 0260 | 0.7555 | $44.83 | $17.93 | $8.97
71022 | X |  | Chest x-ray | 0260 | 0.7555 | $44.83 | $17.93 | $8.97
71023 | X |  | Chest x-ray and fluoroscopy | 0272 | 1.3801 | $81.90 | $32.76 | $16.38
71030 | X |  | Chest x-ray | 0260 | 0.7555 | $44.83 | $17.93 | $8.97
71034 | X |  | Chest x-ray and fluoroscopy | 0272 | 1.3801 | $81.90 | $32.76 | $16.38
71035 | X |  | Chest x-ray | 0260 | 0.7555 | $44.83 | $17.93 | $8.97
71040 | X |  | Contrast x-ray of bronchi | 0263 | 1.7476 | $103.71 | $24.40 | $20.74
71060 | X |  | Contrast x-ray of bronchi | 0263 | 1.7476 | $103.71 | $24.40 | $20.74
71090 | X |  | X-ray & pacemaker insertion | 0272 | 1.3801 | $81.90 | $32.76 | $16.38
71100 | X |  | X-ray exam of ribs | 0260 | 0.7555 | $44.83 | $17.93 | $8.97
71101 | X |  | X-ray exam of ribs/chest | 0260 | 0.7555 | $44.83 | $17.93 | $8.97
71110 | X |  | X-ray exam of ribs | 0260 | 0.7555 | $44.83 | $17.93 | $8.97
71111 | X |  | X-ray exam of ribs/ chest | 0261 | 1.2901 | $76.56 |  | $15.31
71120 | X |  | X-ray exam of breastbone | 0260 | 0.7555 | $44.83 | $17.93 | $8.97
71130 | X |  | X-ray exam of breastbone | 0260 | 0.7555 | $44.83 | $17.93 | $8.97
71250* | S |  | Ct thorax w/o dye | 0332 | 3.2694 | $194.02 | $77.60 | $38.80
71260* | S |  | Ct thorax w/dye | 0283 | 4.4253 | $262.61 | $105.04 | $52.52
71270* | S |  | Ct thorax w/o & w/ dye | 0333 | 5.2836 | $313.54 | $125.41 | $62.71
71275* | S |  | Ct angiography, chest | 0662 | 5.1621 | $306.33 | $122.53 | $61.27
71550* | S |  | Mri chest w/o dye | 0336 | 6.0742 | $360.46 | $144.18 | $72.09
71551* | S |  | Mri chest w/dye | 0284 | 6.4201 | $380.99 | $152.39 | $76.20
71552* | S |  | Mri chest w/o & w/dye | 0337 | 8.7945 | $521.89 | $208.75 | $104.38
71555 | B |  | Mri angio chest w or w/o dye |  |  |  |  |
72010 | X |  | X-ray exam of spine | 0260 | 0.7555 | $44.83 | $17.93 | $8.97
72020 | X |  | X-ray exam of spine | 0260 | 0.7555 | $44.83 | $17.93 | $8.97
72040 | X |  | X-ray exam of neck spine | 0260 | 0.7555 | $44.83 | $17.93 | $8.97
72050 | X |  | X-ray exam of neck spine | 0261 | 1.2901 | $76.56 |  | $15.31
72052 | X |  | X-ray exam of neck spine | 0261 | 1.2901 | $76.56 |  | $15.31
72069 | X |  | X-ray exam of trunk spine | 0260 | 0.7555 | $44.83 | $17.93 | $8.97
72070 | X |  | X-ray exam of thoracic spine | 0260 | 0.7555 | $44.83 | $17.93 | $8.97
72072 | X |  | X-ray exam of thoracic spine | 0260 | 0.7555 | $44.83 | $17.93 | $8.97
72074 | X |  | X-ray exam of thoracic spine | 0260 | 0.7555 | $44.83 | $17.93 | $8.97
72080 | X |  | X-ray exam of trunk spine | 0260 | 0.7555 | $44.83 | $17.93 | $8.97
72090 | X |  | X-ray exam of trunk spine | 0261 | 1.2901 | $76.56 |  | $15.31
72100 | X |  | X-ray exam of lower spine | 0260 | 0.7555 | $44.83 | $17.93 | $8.97
72110 | X |  | X-ray exam of lower spine | 0261 | 1.2901 | $76.56 |  | $15.31
72114 | X |  | X-ray exam of lower spine | 0261 | 1.2901 | $76.56 |  | $15.31
72120 | X |  | X-ray exam of lower spine | 0261 | 1.2901 | $76.56 |  | $15.31
72125* | S |  | Ct neck spine w/o dye | 0332 | 3.2694 | $194.02 | $77.60 | $38.80
72126* | S |  | Ct neck spine w/dye | 0283 | 4.4253 | $262.61 | $105.04 | $52.52
72127* | S |  | Ct neck spine w/o & w/dye | 0333 | 5.2836 | $313.54 | $125.41 | $62.71
72128* | S |  | Ct chest spine w/o dye | 0332 | 3.2694 | $194.02 | $77.60 | $38.80
72129* | S |  | Ct chest spine w/dye | 0283 | 4.4253 | $262.61 | $105.04 | $52.52
72130* | S |  | Ct chest spine w/o & w/dye | 0333 | 5.2836 | $313.54 | $125.41 | $62.71
72131* | S |  | Ct lumbar spine w/o dye | 0332 | 3.2694 | $194.02 | $77.60 | $38.80
72132* | S |  | Ct lumbar spine w/dye | 0283 | 4.4253 | $262.61 | $105.04 | $52.52
72133* | S |  | Ct lumbar spine w/o & w/dye | 0333 | 5.2836 | $313.54 | $125.41 | $62.71
72141* | S |  | Mri neck spine w/o dye | 0336 | 6.0742 | $360.46 | $144.18 | $72.09
72142* | S |  | Mri neck spine w/dye | 0284 | 6.4201 | $380.99 | $152.39 | $76.20
72146* | S |  | Mri chest spine w/o dye | 0336 | 6.0742 | $360.46 | $144.18 | $72.09
72147* | S |  | Mri chest spine w/dye | 0284 | 6.4201 | $380.99 | $152.39 | $76.20
72148* | S |  | Mri lumbar spine w/o dye | 0336 | 6.0742 | $360.46 | $144.18 | $72.09
72149* | S |  | Mri lumbar spine w/dye | 0284 | 6.4201 | $380.99 | $152.39 | $76.20
72156* | S |  | Mri neck spine w/o & w/dye | 0337 | 8.7945 | $521.89 | $208.75 | $104.38
72157* | S |  | Mri chest spine w/o & w/dye | 0337 | 8.7945 | $521.89 | $208.75 | $104.38
72158* | S |  | Mri lumbar spine w/o & w/dye | 0337 | 8.7945 | $521.89 | $208.75 | $104.38
72159 | E |  | Mr angio spine w/o&w/dye |  |  |  |  |
72170 | X |  | X-ray exam of pelvis | 0260 | 0.7555 | $44.83 | $17.93 | $8.97
72190 | X |  | X-ray exam of pelvis | 0260 | 0.7555 | $44.83 | $17.93 | $8.97
72191* | S |  | Ct angiograph pelv w/o&w/dye | 0662 | 5.1621 | $306.33 | $122.53 | $61.27
72192* | S |  | Ct pelvis w/o dye | 0332 | 3.2694 | $194.02 | $77.60 | $38.80
72193* | S |  | Ct pelvis w/dye | 0283 | 4.4253 | $262.61 | $105.04 | $52.52
72194* | S |  | Ct pelvis w/o & w/dye | 0333 | 5.2836 | $313.54 | $125.41 | $62.71
72195* | S |  | Mri pelvis w/o dye | 0336 | 6.0742 | $360.46 | $144.18 | $72.09
72196* | S |  | Mri pelvis w/dye | 0284 | 6.4201 | $380.99 | $152.39 | $76.20
72197* | S |  | Mri pelvis w/o & w/dye | 0337 | 8.7945 | $521.89 | $208.75 | $104.38
72198 | B |  | Mr angio pelvis w/o & w/dye |  |  |  |  |
72200 | X |  | X-ray exam sacroiliac joints | 0260 | 0.7555 | $44.83 | $17.93 | $8.97
72202 | X |  | X-ray exam sacroiliac joints | 0260 | 0.7555 | $44.83 | $17.93 | $8.97
72220 | X |  | X-ray exam of tailbone | 0260 | 0.7555 | $44.83 | $17.93 | $8.97
72240 | S |  | Contrast x-ray of neck spine | 0274 | 3.0413 | $180.48 | $72.19 | $36.10
72255 | S |  | Contrast x-ray, thorax spine | 0274 | 3.0413 | $180.48 | $72.19 | $36.10
72265 | S |  | Contrast x-ray, lower spine | 0274 | 3.0413 | $180.48 | $72.19 | $36.10
72270 | S |  | Contrast x-ray, spine | 0274 | 3.0413 | $180.48 | $72.19 | $36.10
72275 | S |  | Epidurography | 0274 | 3.0413 | $180.48 | $72.19 | $36.10
72285 | S |  | X-ray c/t spine disk | 0388 | 12.3294 | $731.66 | $292.66 | $146.33
72295 | S |  | X-ray of lower spine disk | 0388 | 12.3294 | $731.66 | $292.66 | $146.33
73000 | X |  | X-ray exam of collar bone | 0260 | 0.7555 | $44.83 | $17.93 | $8.97
73010 | X |  | X-ray exam of shoulder blade | 0260 | 0.7555 | $44.83 | $17.93 | $8.97
73020 | X |  | X-ray exam of shoulder | 0260 | 0.7555 | $44.83 | $17.93 | $8.97
73030 | X |  | X-ray exam of shoulder | 0260 | 0.7555 | $44.83 | $17.93 | $8.97
73040 | S |  | Contrast x-ray of shoulder | 0275 | 3.5779 | $212.32 | $69.09 | $42.46
73050 | X |  | X-ray exam of shoulders | 0260 | 0.7555 | $44.83 | $17.93 | $8.97
73060 | X |  | X-ray exam of humerus | 0260 | 0.7555 | $44.83 | $17.93 | $8.97
73070 | X |  | X-ray exam of elbow | 0260 | 0.7555 | $44.83 | $17.93 | $8.97
73080 | X |  | X-ray exam of elbow | 0260 | 0.7555 | $44.83 | $17.93 | $8.97
73085 | S |  | Contrast x-ray of elbow | 0275 | 3.5779 | $212.32 | $69.09 | $42.46
73090 | X |  | X-ray exam of forearm | 0260 | 0.7555 | $44.83 | $17.93 | $8.97
73092 | X |  | X-ray exam of arm, infant | 0260 | 0.7555 | $44.83 | $17.93 | $8.97
73100 | X |  | X-ray exam of wrist | 0260 | 0.7555 | $44.83 | $17.93 | $8.97
73110 | X |  | X-ray exam of wrist | 0260 | 0.7555 | $44.83 | $17.93 | $8.97
73115 | S |  | Contrast x-ray of wrist | 0275 | 3.5779 | $212.32 | $69.09 | $42.46
73120 | X |  | X-ray exam of hand | 0260 | 0.7555 | $44.83 | $17.93 | $8.97
73130 | X |  | X-ray exam of hand | 0260 | 0.7555 | $44.83 | $17.93 | $8.97
73140 | X |  | X-ray exam of finger(s) | 0260 | 0.7555 | $44.83 | $17.93 | $8.97
73200* | S |  | Ct upper extremity w/o dye | 0332 | 3.2694 | $194.02 | $77.60 | $38.80
73201* | S |  | Ct upper extremity w/dye | 0283 | 4.4253 | $262.61 | $105.04 | $52.52
73202* | S |  | Ct uppr extremity w/o&w/dye | 0333 | 5.2836 | $313.54 | $125.41 | $62.71
73206* | S |  | Ct angio upr extrm w/o&w/dye | 0662 | 5.1621 | $306.33 | $122.53 | $61.27
73218* | S |  | Mri upper extremity w/o dye | 0336 | 6.0742 | $360.46 | $144.18 | $72.09
73219* | S |  | Mri upper extremity w/dye | 0284 | 6.4201 | $380.99 | $152.39 | $76.20
73220* | S |  | Mri uppr extremity w/o&w/dye | 0337 | 8.7945 | $521.89 | $208.75 | $104.38
73221* | S |  | Mri joint upr extrem w/o dye | 0336 | 6.0742 | $360.46 | $144.18 | $72.09
73222* | S |  | Mri joint upr extrem w/dye | 0284 | 6.4201 | $380.99 | $152.39 | $76.20
73223* | S |  | Mri joint upr extr w/o&w/dye | 0337 | 8.7945 | $521.89 | $208.75 | $104.38
73225 | E |  | Mr angio upr extr w/o&w/dye |  |  |  |  |
73500 | X |  | X-ray exam of hip | 0260 | 0.7555 | $44.83 | $17.93 | $8.97
73510 | X |  | X-ray exam of hip | 0260 | 0.7555 | $44.83 | $17.93 | $8.97
73520 | X |  | X-ray exam of hips | 0261 | 1.2901 | $76.56 |  | $15.31
73525 | S |  | Contrast x-ray of hip | 0275 | 3.5779 | $212.32 | $69.09 | $42.46
73530 | X |  | X-ray exam of hip | 0261 | 1.2901 | $76.56 |  | $15.31
73540 | X |  | X-ray exam of pelvis & hips | 0260 | 0.7555 | $44.83 | $17.93 | $8.97
73542 | S |  | X-ray exam, sacroiliac joint | 0275 | 3.5779 | $212.32 | $69.09 | $42.46
73550 | X |  | X-ray exam of thigh | 0260 | 0.7555 | $44.83 | $17.93 | $8.97
73560 | X |  | X-ray exam of knee, 1 or 2 | 0260 | 0.7555 | $44.83 | $17.93 | $8.97
73562 | X |  | X-ray exam of knee, 3 | 0260 | 0.7555 | $44.83 | $17.93 | $8.97
73564 | X |  | X-ray exam, knee, 4 or more | 0260 | 0.7555 | $44.83 | $17.93 | $8.97
73565 | X |  | X-ray exam of knees | 0260 | 0.7555 | $44.83 | $17.93 | $8.97
73580 | S |  | Contrast x-ray of knee joint | 0275 | 3.5779 | $212.32 | $69.09 | $42.46
73590 | X |  | X-ray exam of lower leg | 0260 | 0.7555 | $44.83 | $17.93 | $8.97
73592 | X |  | X-ray exam of leg, infant | 0260 | 0.7555 | $44.83 | $17.93 | $8.97
73600 | X |  | X-ray exam of ankle | 0260 | 0.7555 | $44.83 | $17.93 | $8.97
73610 | X |  | X-ray exam of ankle | 0260 | 0.7555 | $44.83 | $17.93 | $8.97
73615 | S |  | Contrast x-ray of ankle | 0275 | 3.5779 | $212.32 | $69.09 | $42.46
73620 | X |  | X-ray exam of foot | 0260 | 0.7555 | $44.83 | $17.93 | $8.97
73630 | X |  | X-ray exam of foot | 0260 | 0.7555 | $44.83 | $17.93 | $8.97
73650 | X |  | X-ray exam of heel | 0260 | 0.7555 | $44.83 | $17.93 | $8.97
73660 | X |  | X-ray exam of toe(s) | 0260 | 0.7555 | $44.83 | $17.93 | $8.97
73700* | S |  | Ct lower extremity w/o dye | 0332 | 3.2694 | $194.02 | $77.60 | $38.80
73701* | S |  | Ct lower extremity w/dye | 0283 | 4.4253 | $262.61 | $105.04 | $52.52
73702* | S |  | Ct lwr extremity w/o&w/dye | 0333 | 5.2836 | $313.54 | $125.41 | $62.71
73706* | S |  | Ct angio lwr extr w/o&w/dye | 0662 | 5.1621 | $306.33 | $122.53 | $61.27
73718* | S |  | Mri lower extremity w/o dye | 0336 | 6.0742 | $360.46 | $144.18 | $72.09
73719* | S |  | Mri lower extremity w/dye | 0284 | 6.4201 | $380.99 | $152.39 | $76.20
73720* | S |  | Mri lwr extremity w/o&w/dye | 0337 | 8.7945 | $521.89 | $208.75 | $104.38
73721* | S |  | Mri jnt of lwr extre w/o dye | 0336 | 6.0742 | $360.46 | $144.18 | $72.09
73722* | S |  | Mri joint of lwr extr w/dye | 0284 | 6.4201 | $380.99 | $152.39 | $76.20
73723* | S |  | Mri joint lwr extr w/o&w/dye | 0337 | 8.7945 | $521.89 | $208.75 | $104.38
73725 | B |  | Mr ang lwr ext w or w/o dye |  |  |  |  |
74000 | X |  | X-ray exam of abdomen | 0260 | 0.7555 | $44.83 | $17.93 | $8.97
74010 | X |  | X-ray exam of abdomen | 0260 | 0.7555 | $44.83 | $17.93 | $8.97
74020 | X |  | X-ray exam of abdomen | 0260 | 0.7555 | $44.83 | $17.93 | $8.97
74022 | X |  | X-ray exam series, abdomen | 0261 | 1.2901 | $76.56 |  | $15.31
74150* | S |  | Ct abdomen w/o dye | 0332 | 3.2694 | $194.02 | $77.60 | $38.80
74160* | S |  | Ct abdomen w/dye | 0283 | 4.4253 | $262.61 | $105.04 | $52.52
74170* | S |  | Ct abdomen w/o &w /dye | 0333 | 5.2836 | $313.54 | $125.41 | $62.71
74175* | S |  | Ct angio abdom w/o & w/dye | 0662 | 5.1621 | $306.33 | $122.53 | $61.27
74181* | S |  | Mri abdomen w/o dye | 0336 | 6.0742 | $360.46 | $144.18 | $72.09
74182* | S |  | Mri abdomen w/dye | 0284 | 6.4201 | $380.99 | $152.39 | $76.20
74183* | S |  | Mri abdomen w/o & w/dye | 0337 | 8.7945 | $521.89 | $208.75 | $104.38
74185 | B |  | Mri angio, abdom w orw/o dye |  |  |  |  |
74190 | X |  | X-ray exam of peritoneum | 0264 | 3.524 | $209.12 | $79.41 | $41.82
74210 | S |  | Contrst x-ray exam of throat | 0276 | 1.5319 | $90.91 | $36.36 | $18.18
74220 | S |  | Contrast x-ray, esophagus | 0276 | 1.5319 | $90.91 | $36.36 | $18.18
74230 | S |  | Cine/vid x-ray, throat/esoph | 0276 | 1.5319 | $90.91 | $36.36 | $18.18
74235 | S |  | Remove esophagus obstruction | 0296 | 2.2452 | $133.24 | $53.29 | $26.65
74240 | S |  | X-ray exam, upper gi tract | 0276 | 1.5319 | $90.91 | $36.36 | $18.18
74241 | S |  | X-ray exam, upper gi tract | 0276 | 1.5319 | $90.91 | $36.36 | $18.18
74245 | S |  | X-ray exam, upper gi tract | 0277 | 2.3852 | $141.54 | $56.61 | $28.31
74246 | S |  | Contrst x-ray uppr gi tract | 0276 | 1.5319 | $90.91 | $36.36 | $18.18
74247 | S |  | Contrst x-ray uppr gi tract | 0276 | 1.5319 | $90.91 | $36.36 | $18.18
74249 | S |  | Contrst x-ray uppr gi tract | 0277 | 2.3852 | $141.54 | $56.61 | $28.31
74250 | S |  | X-ray exam of small bowel | 0276 | 1.5319 | $90.91 | $36.36 | $18.18
74251 | S |  | X-ray exam of small bowel | 0277 | 2.3852 | $141.54 | $56.61 | $28.31
74260 | S |  | X-ray exam of small bowel | 0277 | 2.3852 | $141.54 | $56.61 | $28.31
74270 | S |  | Contrast x-ray exam of colon | 0276 | 1.5319 | $90.91 | $36.36 | $18.18
74280 | S |  | Contrast x-ray exam of colon | 0277 | 2.3852 | $141.54 | $56.61 | $28.31
74283 | S |  | Contrast x-ray exam of colon | 0276 | 1.5319 | $90.91 | $36.36 | $18.18
74290 | S |  | Contrast x-ray, gallbladder | 0276 | 1.5319 | $90.91 | $36.36 | $18.18
74291 | S |  | Contrast x-rays, gallbladder | 0276 | 1.5319 | $90.91 | $36.36 | $18.18
74300 | X |  | X-ray bile ducts/pancreas | 0263 | 1.7476 | $103.71 | $24.40 | $20.74
74301 | X |  | X-rays at surgery add-on | 0263 | 1.7476 | $103.71 | $24.40 | $20.74
74305 | X |  | X-ray bile ducts/pancreas | 0263 | 1.7476 | $103.71 | $24.40 | $20.74
74320 | X |  | Contrast x-ray of bile ducts | 0264 | 3.524 | $209.12 | $79.41 | $41.82
74327 | S |  | X-ray bile stone removal | 0296 | 2.2452 | $133.24 | $53.29 | $26.65
74328 | N |  | X-ray bile duct endoscopy |  |  |  |  |
74329 | N |  | X-ray for pancreas endoscopy |  |  |  |  |
74330 | N |  | X-ray bile/panc endoscopy |  |  |  |  |
74340 | X |  | X-ray guide for GI tube | 0272 | 1.3801 | $81.90 | $32.76 | $16.38
74350 | X |  | X-ray guide, stomach tube | 0263 | 1.7476 | $103.71 | $24.40 | $20.74
74355 | X |  | X-ray guide, intestinal tube | 0263 | 1.7476 | $103.71 | $24.40 | $20.74
74360 | S |  | X-ray guide, GI dilation | 0296 | 2.2452 | $133.24 | $53.29 | $26.65
74363 | S |  | X-ray, bile duct dilation | 0297 | 5.253 | $311.73 | $122.13 | $62.35
74400 | S |  | Contrst x-ray, urinary tract | 0278 | 2.6434 | $156.87 | $62.74 | $31.37
74410 | S |  | Contrst x-ray, urinary tract | 0278 | 2.6434 | $156.87 | $62.74 | $31.37
74415 | S |  | Contrst x-ray, urinary tract | 0278 | 2.6434 | $156.87 | $62.74 | $31.37
74420 | S |  | Contrst x-ray, urinary tract | 0278 | 2.6434 | $156.87 | $62.74 | $31.37
74425 | S |  | Contrst x-ray, urinary tract | 0278 | 2.6434 | $156.87 | $62.74 | $31.37
74430 | S |  | Contrast x-ray, bladder | 0278 | 2.6434 | $156.87 | $62.74 | $31.37
74440 | S |  | X-ray, male genital tract | 0278 | 2.6434 | $156.87 | $62.74 | $31.37
74445 | S |  | X-ray exam of penis | 0278 | 2.6434 | $156.87 | $62.74 | $31.37
74450 | S |  | X-ray, urethra/bladder | 0278 | 2.6434 | $156.87 | $62.74 | $31.37
74455 | S |  | X-ray, urethra/bladder | 0278 | 2.6434 | $156.87 | $62.74 | $31.37
74470 | X |  | X-ray exam of kidney lesion | 0263 | 1.7476 | $103.71 | $24.40 | $20.74
74475 | S |  | X-ray control, cath insert | 0297 | 5.253 | $311.73 | $122.13 | $62.35
74480 | S |  | X-ray control, cath insert | 0296 | 2.2452 | $133.24 | $53.29 | $26.65
74485 | S |  | X-ray guide, GU dilation | 0296 | 2.2452 | $133.24 | $53.29 | $26.65
74710 | X |  | X-ray measurement of pelvis | 0261 | 1.2901 | $76.56 |  | $15.31
74740 | X |  | X-ray, female genital tract | 0264 | 3.524 | $209.12 | $79.41 | $41.82
74742 | X |  | X-ray, fallopian tube | 0264 | 3.524 | $209.12 | $79.41 | $41.82
74775 | S |  | X-ray exam of perineum | 0278 | 2.6434 | $156.87 | $62.74 | $31.37
75552 | S |  | Heart mri for morph w/o dye | 0336 | 6.0742 | $360.46 | $144.18 | $72.09
75553 | S |  | Heart mri for morph w/dye | 0284 | 6.4201 | $380.99 | $152.39 | $76.20
75554 | S |  | Cardiac MRI/function | 0336 | 6.0742 | $360.46 | $144.18 | $72.09
75555 | S |  | Cardiac MRI/limited study | 0336 | 6.0742 | $360.46 | $144.18 | $72.09
75556 | E |  | Cardiac MRI/flow mapping |  |  |  |  |
75600 | S |  | Contrast x-ray exam of aorta | 0280 | 20.7902 | $1,233.75 | $353.85 | $246.75
75605 | S |  | Contrast x-ray exam of aorta | 0280 | 20.7902 | $1,233.75 | $353.85 | $246.75
75625 | S |  | Contrast x-ray exam of aorta | 0280 | 20.7902 | $1,233.75 | $353.85 | $246.75
75630 | S |  | X-ray aorta, leg arteries | 0280 | 20.7902 | $1,233.75 | $353.85 | $246.75
75635* | S |  | Ct angio abdominal arteries | 0662 | 5.1621 | $306.33 | $122.53 | $61.27
75650 | S |  | Artery x-rays, head & neck | 0280 | 20.7902 | $1,233.75 | $353.85 | $246.75
75658 | S |  | Artery x-rays, arm | 0279 | 8.9319 | $530.05 | $150.03 | $106.01
75660 | S |  | Artery x-rays, head & neck | 0668 | 6.5024 | $385.87 | $114.67 | $77.17
75662 | S |  | Artery x-rays, head & neck | 0280 | 20.7902 | $1,233.75 | $353.85 | $246.75
75665 | S |  | Artery x-rays, head & neck | 0280 | 20.7902 | $1,233.75 | $353.85 | $246.75
75671 | S |  | Artery x-rays, head & neck | 0280 | 20.7902 | $1,233.75 | $353.85 | $246.75
75676 | S |  | Artery x-rays, neck | 0280 | 20.7902 | $1,233.75 | $353.85 | $246.75
75680 | S |  | Artery x-rays, neck | 0280 | 20.7902 | $1,233.75 | $353.85 | $246.75
75685 | S |  | Artery x-rays, spine | 0280 | 20.7902 | $1,233.75 | $353.85 | $246.75
75705 | S |  | Artery x-rays, spine | 0668 | 6.5024 | $385.87 | $114.67 | $77.17
75710 | S |  | Artery x-rays, arm/leg | 0280 | 20.7902 | $1,233.75 | $353.85 | $246.75
75716 | S |  | Artery x-rays, arms/legs | 0280 | 20.7902 | $1,233.75 | $353.85 | $246.75
75722 | S |  | Artery x-rays, kidney | 0280 | 20.7902 | $1,233.75 | $353.85 | $246.75
75724 | S |  | Artery x-rays, kidneys | 0280 | 20.7902 | $1,233.75 | $353.85 | $246.75
75726 | S |  | Artery x-rays, abdomen | 0280 | 20.7902 | $1,233.75 | $353.85 | $246.75
75731 | S |  | Artery x-rays, adrenal gland | 0280 | 20.7902 | $1,233.75 | $353.85 | $246.75
75733 | S |  | Artery x-rays, adrenals | 0668 | 6.5024 | $385.87 | $114.67 | $77.17
75736 | S |  | Artery x-rays, pelvis | 0280 | 20.7902 | $1,233.75 | $353.85 | $246.75
75741 | S |  | Artery x-rays, lung | 0279 | 8.9319 | $530.05 | $150.03 | $106.01
75743 | S |  | Artery x-rays, lungs | 0280 | 20.7902 | $1,233.75 | $353.85 | $246.75
75746 | S |  | Artery x-rays, lung | 0279 | 8.9319 | $530.05 | $150.03 | $106.01
75756 | S |  | Artery x-rays, chest | 0279 | 8.9319 | $530.05 | $150.03 | $106.01
75774 | S |  | Artery x-ray, each vessel | 0279 | 8.9319 | $530.05 | $150.03 | $106.01
75790 | S |  | Visualize A-V shunt | 0279 | 8.9319 | $530.05 | $150.03 | $106.01
75801 | X |  | Lymph vessel x-ray, arm/leg | 0264 | 3.524 | $209.12 | $79.41 | $41.82
75803 | X |  | Lymph vessel x-ray,arms/legs | 0264 | 3.524 | $209.12 | $79.41 | $41.82
75805 | X |  | Lymph vessel x-ray, trunk | 0264 | 3.524 | $209.12 | $79.41 | $41.82
75807 | X |  | Lymph vessel x-ray, trunk | 0264 | 3.524 | $209.12 | $79.41 | $41.82
75809 | X |  | Nonvascular shunt, x-ray | 0263 | 1.7476 | $103.71 | $24.40 | $20.74
75810 | S |  | Vein x-ray, spleen/liver | 0279 | 8.9319 | $530.05 | $150.03 | $106.01
75820 | S |  | Vein x-ray, arm/leg | 0668 | 6.5024 | $385.87 | $114.67 | $77.17
75822 | S |  | Vein x-ray, arms/legs | 0668 | 6.5024 | $385.87 | $114.67 | $77.17
75825 | S |  | Vein x-ray, trunk | 0279 | 8.9319 | $530.05 | $150.03 | $106.01
75827 | S |  | Vein x-ray, chest | 0279 | 8.9319 | $530.05 | $150.03 | $106.01
75831 | S |  | Vein x-ray, kidney | 0279 | 8.9319 | $530.05 | $150.03 | $106.01
75833 | S |  | Vein x-ray, kidneys | 0279 | 8.9319 | $530.05 | $150.03 | $106.01
75840 | S |  | Vein x-ray, adrenal gland | 0280 | 20.7902 | $1,233.75 | $353.85 | $246.75
75842 | S |  | Vein x-ray, adrenal glands | 0280 | 20.7902 | $1,233.75 | $353.85 | $246.75
75860 | S |  | Vein x-ray, neck | 0668 | 6.5024 | $385.87 | $114.67 | $77.17
75870 | S |  | Vein x-ray, skull | 0668 | 6.5024 | $385.87 | $114.67 | $77.17
75872 | S |  | Vein x-ray, skull | 0279 | 8.9319 | $530.05 | $150.03 | $106.01
75880 | S |  | Vein x-ray, eye socket | 0668 | 6.5024 | $385.87 | $114.67 | $77.17
75885 | S |  | Vein x-ray, liver | 0280 | 20.7902 | $1,233.75 | $353.85 | $246.75
75887 | S |  | Vein x-ray, liver | 0279 | 8.9319 | $530.05 | $150.03 | $106.01
75889 | S |  | Vein x-ray, liver | 0280 | 20.7902 | $1,233.75 | $353.85 | $246.75
75891 | S |  | Vein x-ray, liver | 0279 | 8.9319 | $530.05 | $150.03 | $106.01
75893 | N |  | Venous sampling by catheter |  |  |  |  |
75894 | S |  | X-rays, transcath therapy | 0297 | 5.253 | $311.73 | $122.13 | $62.35
75896 | S |  | X-rays, transcath therapy | 0297 | 5.253 | $311.73 | $122.13 | $62.35
75898 | X |  | Follow-up angiography | 0263 | 1.7476 | $103.71 | $24.40 | $20.74
75900 | C |  | Arterial catheter exchange |  |  |  |  |
75901 | X |  | Remove cva device obstruct | 0263 | 1.7476 | $103.71 | $24.40 | $20.74
75902 | X |  | Remove cva lumen obstruct | 0263 | 1.7476 | $103.71 | $24.40 | $20.74
75940 | S |  | X-ray placement, vein filter | 0297 | 5.253 | $311.73 | $122.13 | $62.35
75945 | S |  | Intravascular us | 0267 | 2.6327 | $156.23 | $62.18 | $31.25
75946 | S |  | Intravascular us add-on | 0266 | 1.6393 | $97.28 | $38.91 | $19.46
75952 | C |  | Endovasc repair abdom aorta |  |  |  |  |
75953 | C |  | Abdom aneurysm endovas rpr |  |  |  |  |
75954 | C |  | Iliac aneurysm endovas rpr |  |  |  |  |
75960 | S |  | Transcatheter intro, stent | 0668 | 6.5024 | $385.87 | $114.67 | $77.17
75961 | S |  | Retrieval, broken catheter | 0668 | 6.5024 | $385.87 | $114.67 | $77.17
75962 | S |  | Repair arterial blockage | 0668 | 6.5024 | $385.87 | $114.67 | $77.17
75964 | S |  | Repair artery blockage, each | 0668 | 6.5024 | $385.87 | $114.67 | $77.17
75966 | S |  | Repair arterial blockage | 0668 | 6.5024 | $385.87 | $114.67 | $77.17
75968 | S |  | Repair artery blockage, each | 0668 | 6.5024 | $385.87 | $114.67 | $77.17
75970 | S |  | Vascular biopsy | 0668 | 6.5024 | $385.87 | $114.67 | $77.17
75978 | S |  | Repair venous blockage | 0668 | 6.5024 | $385.87 | $114.67 | $77.17
75980 | S |  | Contrast xray exam bile duct | 0297 | 5.253 | $311.73 | $122.13 | $62.35
75982 | S |  | Contrast xray exam bile duct | 0297 | 5.253 | $311.73 | $122.13 | $62.35
75984 | X |  | Xray control catheter change | 0263 | 1.7476 | $103.71 | $24.40 | $20.74
75989 | N |  | Abscess drainage under x-ray |  |  |  |  |
75992 | S |  | Atherectomy, x-ray exam | 0279 | 8.9319 | $530.05 | $150.03 | $106.01
75993 | S |  | Atherectomy, x-ray exam | 0279 | 8.9319 | $530.05 | $150.03 | $106.01
75994 | S |  | Atherectomy, x-ray exam | 0279 | 8.9319 | $530.05 | $150.03 | $106.01
75995 | S |  | Atherectomy, x-ray exam | 0279 | 8.9319 | $530.05 | $150.03 | $106.01
75996 | S |  | Atherectomy, x-ray exam | 0279 | 8.9319 | $530.05 | $150.03 | $106.01
75998 | N |  | Fluoroguide for vein device |  |  |  |  |
76000 | X |  | Fluoroscope examination | 0272 | 1.3801 | $81.90 | $32.76 | $16.38
76001 | N |  | Fluoroscope exam, extensive |  |  |  |  |
76003 | N |  | Needle localization by x-ray |  |  |  |  |
76005 | N |  | Fluoroguide for spine inject |  |  |  |  |
76006 | X |  | X-ray stress view | 0260 | 0.7555 | $44.83 | $17.93 | $8.97
76010 | X |  | X-ray, nose to rectum | 0260 | 0.7555 | $44.83 | $17.93 | $8.97
76012 | S |  | Percut vertebroplasty fluor | 0274 | 3.0413 | $180.48 | $72.19 | $36.10
76013 | S |  | Percut vertebroplasty, ct | 0274 | 3.0413 | $180.48 | $72.19 | $36.10
76020 | X |  | X-rays for bone age | 0260 | 0.7555 | $44.83 | $17.93 | $8.97
76040 | X |  | X-rays, bone evaluation | 0261 | 1.2901 | $76.56 |  | $15.31
76061 | X |  | X-rays, bone survey | 0261 | 1.2901 | $76.56 |  | $15.31
76062 | X |  | X-rays, bone survey | 0261 | 1.2901 | $76.56 |  | $15.31
76065 | X |  | X-rays, bone evaluation | 0261 | 1.2901 | $76.56 |  | $15.31
76066 | X |  | Joint survey, single view | 0260 | 0.7555 | $44.83 | $17.93 | $8.97
76070 | S |  | CT scan, bone density study | 0288 | 1.2568 | $74.58 |  | $14.92
76071 | S |  | Ct bone density, peripheral | 0282 | 1.6542 | $98.17 | $39.26 | $19.63
76075 | S |  | Dexa, axial skeleton study | 0288 | 1.2568 | $74.58 |  | $14.92
76076 | S |  | Dexa, peripheral study | 0665 | 0.6464 | $38.36 |  | $7.67
76077 | X |  | Dxa bone density/v-fracture | 0260 | 0.7555 | $44.83 | $17.93 | $8.97
76078 | X |  | Radiographic absorptiometry | 0260 | 0.7555 | $44.83 | $17.93 | $8.97
76080 | X |  | X-ray exam of fistula | 0263 | 1.7476 | $103.71 | $24.40 | $20.74
76082 | A |  | Computer mammogram add-on |  |  |  |  |
76083 | A |  | Computer mammogram add-on |  |  |  |  |
76086 | X |  | X-ray of mammary duct | 0263 | 1.7476 | $103.71 | $24.40 | $20.74
76088 | X |  | X-ray of mammary ducts | 0263 | 1.7476 | $103.71 | $24.40 | $20.74
76090 | A |  | Mammogram, one breast |  |  |  |  |
76091 | A |  | Mammogram, both breasts |  |  |  |  |
76092 | A |  | Mammogram, screening |  |  |  |  |
76093 | E |  | Magnetic image, breast |  |  |  |  |
76094 | E |  | Magnetic image, both breasts |  |  |  |  |
76095 | X |  | Stereotactic breast biopsy | 0264 | 3.524 | $209.12 | $79.41 | $41.82
76096 | X |  | X-ray of needle wire, breast | 0263 | 1.7476 | $103.71 | $24.40 | $20.74
76098 | X |  | X-ray exam, breast specimen | 0260 | 0.7555 | $44.83 | $17.93 | $8.97
76100 | X |  | X-ray exam of body section | 0261 | 1.2901 | $76.56 |  | $15.31
76101 | X |  | Complex body section x-ray | 0263 | 1.7476 | $103.71 | $24.40 | $20.74
76102 | X |  | Complex body section x-rays | 0264 | 3.524 | $209.12 | $79.41 | $41.82
76120 | X |  | Cine/video x-rays | 0272 | 1.3801 | $81.90 | $32.76 | $16.38
76125 | X |  | Cine/video x-rays add-on | 0260 | 0.7555 | $44.83 | $17.93 | $8.97
76140 | E |  | X-ray consultation |  |  |  |  |
76150 | X |  | X-ray exam, dry process | 0260 | 0.7555 | $44.83 | $17.93 | $8.97
76350 | N |  | Special x-ray contrast study |  |  |  |  |
76355 | S |  | Ct scan for localization | 0283 | 4.4253 | $262.61 | $105.04 | $52.52
76360 | S |  | Ct scan for needle biopsy | 0283 | 4.4253 | $262.61 | $105.04 | $52.52
76362 | S |  | Ct guide for tissue ablation | 0332 | 3.2694 | $194.02 | $77.60 | $38.80
76370 | S |  | Ct scan for therapy guide | 0282 | 1.6542 | $98.17 | $39.26 | $19.63
76375 | S |  | 3d/holograph reconstr add-on | 0282 | 1.6542 | $98.17 | $39.26 | $19.63
76380 | S |  | CAT scan follow-up study | 0282 | 1.6542 | $98.17 | $39.26 | $19.63
76390 | E |  | Mr spectroscopy |  |  |  |  |
76393 | S |  | Mr guidance for needle place | 0335 | 5.1581 | $306.10 | $122.43 | $61.22
76394 | S |  | Mri for tissue ablation | 0335 | 5.1581 | $306.10 | $122.43 | $61.22
76400 | S |  | Magnetic image, bone marrow | 0335 | 5.1581 | $306.10 | $122.43 | $61.22
76496 | X |  | Fluoroscopic procedure | 0272 | 1.3801 | $81.90 | $32.76 | $16.38
76497 | S |  | Ct procedure | 0282 | 1.6542 | $98.17 | $39.26 | $19.63
76498 | S |  | Mri procedure | 0335 | 5.1581 | $306.10 | $122.43 | $61.22
76499 | X |  | Radiographic procedure | 0260 | 0.7555 | $44.83 | $17.93 | $8.97
76506 | S |  | Echo exam of head | 0265 | 1.0213 | $60.61 | $24.24 | $12.12
76510 | S |  | Ophth us, b & quant a | 0266 | 1.6393 | $97.28 | $38.91 | $19.46
76511 | S |  | Echo exam of eye | 0266 | 1.6393 | $97.28 | $38.91 | $19.46
76512 | S |  | Echo exam of eye | 0266 | 1.6393 | $97.28 | $38.91 | $19.46
76513 | S |  | Echo exam of eye, water bath | 0266 | 1.6393 | $97.28 | $38.91 | $19.46
76514 | X |  | Echo exam of eye, thickness | 0340 | 0.6384 | $37.88 |  | $7.58
76516 | S |  | Echo exam of eye | 0265 | 1.0213 | $60.61 | $24.24 | $12.12
76519 | S |  | Echo exam of eye | 0266 | 1.6393 | $97.28 | $38.91 | $19.46
76529 | S |  | Echo exam of eye | 0265 | 1.0213 | $60.61 | $24.24 | $12.12
76536 | S |  | Us exam of head and neck | 0266 | 1.6393 | $97.28 | $38.91 | $19.46
76604* | S |  | Us exam, chest, b-scan | 0266 | 1.6393 | $97.28 | $38.91 | $19.46
76645* | S |  | Us exam, breast(s) | 0265 | 1.0213 | $60.61 | $24.24 | $12.12
76700* | S |  | Us exam, abdom, complete | 0266 | 1.6393 | $97.28 | $38.91 | $19.46
76705* | S |  | Echo exam of abdomen | 0266 | 1.6393 | $97.28 | $38.91 | $19.46
76770* | S |  | Us exam abdo back wall, comp | 0266 | 1.6393 | $97.28 | $38.91 | $19.46
76775* | S |  | Us exam abdo back wall, lim | 0266 | 1.6393 | $97.28 | $38.91 | $19.46
76778* | S |  | Us exam kidney transplant | 0266 | 1.6393 | $97.28 | $38.91 | $19.46
76800 | S |  | Us exam, spinal canal | 0266 | 1.6393 | $97.28 | $38.91 | $19.46
76801 | S |  | Ob us < 14 wks, single fetus | 0266 | 1.6393 | $97.28 | $38.91 | $19.46
76802 | S |  | Ob us < 14 wks, add'l fetus | 0265 | 1.0213 | $60.61 | $24.24 | $12.12
76805 | S |  | Us exam, pg uterus, compl | 0266 | 1.6393 | $97.28 | $38.91 | $19.46
76810 | S |  | Us exam, pg uterus, mult | 0266 | 1.6393 | $97.28 | $38.91 | $19.46
76811 | S |  | Ob us, detailed, sngl fetus | 0267 | 2.6327 | $156.23 | $62.18 | $31.25
76812 | S |  | Ob us, detailed, addl fetus | 0266 | 1.6393 | $97.28 | $38.91 | $19.46
76815 | S |  | Us exam, pg uterus limit | 0265 | 1.0213 | $60.61 | $24.24 | $12.12
76816 | S |  | Us exam pg uterus repeat | 0265 | 1.0213 | $60.61 | $24.24 | $12.12
76817 | S |  | Transvaginal us, obstetric | 0266 | 1.6393 | $97.28 | $38.91 | $19.46
76818 | S |  | Fetal biophys profile w/nst | 0266 | 1.6393 | $97.28 | $38.91 | $19.46
76819 | S |  | Fetal biophys profil w/o nst | 0266 | 1.6393 | $97.28 | $38.91 | $19.46
76820 | S |  | Umbilical artery echo | 0096 | 1.6307 | $96.77 | $38.70 | $19.35
76821 | S |  | Middle cerebral artery echo | 0096 | 1.6307 | $96.77 | $38.70 | $19.35
76825 | S |  | Echo exam of fetal heart | 0671 | 1.7028 | $101.05 | $40.42 | $20.21
76826 | S |  | Echo exam of fetal heart | 0697 | 1.5357 | $91.13 | $36.45 | $18.23
76827 | S |  | Echo exam of fetal heart | 0671 | 1.7028 | $101.05 | $40.42 | $20.21
76828 | S |  | Echo exam of fetal heart | 0697 | 1.5357 | $91.13 | $36.45 | $18.23
76830* | S |  | Transvaginal us, non-ob | 0266 | 1.6393 | $97.28 | $38.91 | $19.46
76831* | S |  | Echo exam, uterus | 0267 | 2.6327 | $156.23 | $62.18 | $31.25
76856* | S |  | Us exam, pelvic, complete | 0266 | 1.6393 | $97.28 | $38.91 | $19.46
76857* | S |  | Us exam, pelvic, limited | 0265 | 1.0213 | $60.61 | $24.24 | $12.12
76870 | S |  | Us exam, scrotum | 0266 | 1.6393 | $97.28 | $38.91 | $19.46
76872 | S |  | Us, transrectal | 0266 | 1.6393 | $97.28 | $38.91 | $19.46
76873 | S |  | Echograp trans r, pros study | 0266 | 1.6393 | $97.28 | $38.91 | $19.46
76880 | S |  | Us exam, extremity | 0266 | 1.6393 | $97.28 | $38.91 | $19.46
76885 | S |  | Us exam infant hips, dynamic | 0265 | 1.0213 | $60.61 | $24.24 | $12.12
76886 | S |  | Us exam infant hips, static | 0266 | 1.6393 | $97.28 | $38.91 | $19.46
76930 | S |  | Echo guide, cardiocentesis | 0268 | 1.061 | $62.96 |  | $12.59
76932 | S |  | Echo guide for heart biopsy | 0268 | 1.061 | $62.96 |  | $12.59
76936 | S |  | Echo guide for artery repair | 0268 | 1.061 | $62.96 |  | $12.59
76937 | N |  | Us guide, vascular access |  |  |  |  |
76940 | S |  | Us guide, tissue ablation | 0268 | 1.061 | $62.96 |  | $12.59
76941 | S |  | Echo guide for transfusion | 0268 | 1.061 | $62.96 |  | $12.59
76942 | S |  | Echo guide for biopsy | 0268 | 1.061 | $62.96 |  | $12.59
76945 | S |  | Echo guide, villus sampling | 0268 | 1.061 | $62.96 |  | $12.59
76946 | S |  | Echo guide for amniocentesis | 0268 | 1.061 | $62.96 |  | $12.59
76948 | S |  | Echo guide, ova aspiration | 0268 | 1.061 | $62.96 |  | $12.59
76950 | S |  | Echo guidance radiotherapy | 0268 | 1.061 | $62.96 |  | $12.59
76965 | S |  | Echo guidance radiotherapy | 0268 | 1.061 | $62.96 |  | $12.59
76970 | S |  | Ultrasound exam follow-up | 0265 | 1.0213 | $60.61 | $24.24 | $12.12
76975 | S |  | GI endoscopic ultrasound | 0266 | 1.6393 | $97.28 | $38.91 | $19.46
76977 | X |  | Us bone density measure | 0340 | 0.6384 | $37.88 |  | $7.58
76986 | S |  | Ultrasound guide intraoper | 0266 | 1.6393 | $97.28 | $38.91 | $19.46
76999 | S |  | Echo examination procedure | 0265 | 1.0213 | $60.61 | $24.24 | $12.12
77261 | E |  | Radiation therapy planning |  |  |  |  |
77262 | E |  | Radiation therapy planning |  |  |  |  |
77263 | E |  | Radiation therapy planning |  |  |  |  |
77280 | X |  | Set radiation therapy field | 0304 | 1.7738 | $105.26 | $41.52 | $21.05
77285 | X |  | Set radiation therapy field | 0305 | 4.0036 | $237.59 | $91.38 | $47.52
77290 | X |  | Set radiation therapy field | 0305 | 4.0036 | $237.59 | $91.38 | $47.52
77295 | X |  | Set radiation therapy field | 0310 | 13.949 | $827.78 | $325.27 | $165.56
77299 | E |  | Radiation therapy planning |  |  |  |  |
77300 | X |  | Radiation therapy dose plan | 0304 | 1.7738 | $105.26 | $41.52 | $21.05
77301 | X |  | Radiotherapy dose plan, imrt | 0310 | 13.949 | $827.78 | $325.27 | $165.56
77305 | X |  | Teletx isodose plan simple | 0304 | 1.7738 | $105.26 | $41.52 | $21.05
77310 | X |  | Teletx isodose plan intermed | 0305 | 4.0036 | $237.59 | $91.38 | $47.52
77315 | X |  | Teletx isodose plan complex | 0305 | 4.0036 | $237.59 | $91.38 | $47.52
77321 | X |  | Special teletx port plan | 0305 | 4.0036 | $237.59 | $91.38 | $47.52
77326 | X |  | Radiation therapy dose plan | 0304 | 1.7738 | $105.26 | $41.52 | $21.05
77327 | X |  | Brachytx isodose calc interm | 0305 | 4.0036 | $237.59 | $91.38 | $47.52
77328 | X |  | Brachytx isodose plan compl | 0305 | 4.0036 | $237.59 | $91.38 | $47.52
77331 | X |  | Special radiation dosimetry | 0304 | 1.7738 | $105.26 | $41.52 | $21.05
77332 | X |  | Radiation treatment aid(s) | 0303 | 2.8356 | $168.27 | $66.95 | $33.65
77333 | X |  | Radiation treatment aid(s) | 0303 | 2.8356 | $168.27 | $66.95 | $33.65
77334 | X |  | Radiation treatment aid(s) | 0303 | 2.8356 | $168.27 | $66.95 | $33.65
77336 | X |  | Radiation physics consult | 0304 | 1.7738 | $105.26 | $41.52 | $21.05
77370 | X |  | Radiation physics consult | 0304 | 1.7738 | $105.26 | $41.52 | $21.05
77399 | X |  | External radiation dosimetry | 0304 | 1.7738 | $105.26 | $41.52 | $21.05
77401 | S |  | Radiation treatment delivery | 0300 | 1.5198 | $90.19 |  | $18.04
77402 | S |  | Radiation treatment delivery | 0300 | 1.5198 | $90.19 |  | $18.04
77403 | S |  | Radiation treatment delivery | 0300 | 1.5198 | $90.19 |  | $18.04
77404 | S |  | Radiation treatment delivery | 0300 | 1.5198 | $90.19 |  | $18.04
77406 | S |  | Radiation treatment delivery | 0300 | 1.5198 | $90.19 |  | $18.04
77407 | S |  | Radiation treatment delivery | 0300 | 1.5198 | $90.19 |  | $18.04
77408 | S |  | Radiation treatment delivery | 0300 | 1.5198 | $90.19 |  | $18.04
77409 | S |  | Radiation treatment delivery | 0300 | 1.5198 | $90.19 |  | $18.04
77411 | S |  | Radiation treatment delivery | 0301 | 2.2195 | $131.71 |  | $26.34
77412 | S |  | Radiation treatment delivery | 0301 | 2.2195 | $131.71 |  | $26.34
77413 | S |  | Radiation treatment delivery | 0301 | 2.2195 | $131.71 |  | $26.34
77414 | S |  | Radiation treatment delivery | 0301 | 2.2195 | $131.71 |  | $26.34
77416 | S |  | Radiation treatment delivery | 0301 | 2.2195 | $131.71 |  | $26.34
77417 | X |  | Radiology port film(s) | 0260 | 0.7555 | $44.83 | $17.93 | $8.97
77418 | S |  | Radiation tx delivery, imrt | 0412 | 5.3643 | $318.33 |  | $63.67
77427 | E |  | Radiation tx management, x5 |  |  |  |  |
77431 | E |  | Radiation therapy management |  |  |  |  |
77432 | E |  | Stereotactic radiation trmt |  |  |  |  |
77470 | S |  | Special radiation treatment | 0299 | 5.8482 | $347.05 |  | $69.41
77499 | E |  | Radiation therapy management |  |  |  |  |
77520 | S |  | Proton trmt, simple w/o comp | 0664 | 12.9439 | $768.13 |  | $153.63
77522 | S |  | Proton trmt, simple w/comp | 0664 | 12.9439 | $768.13 |  | $153.63
77523 | S |  | Proton trmt, intermediate | 0667 | 15.4857 | $918.97 |  | $183.79
77525 | S |  | Proton treatment, complex | 0667 | 15.4857 | $918.97 |  | $183.79
77600 | S |  | Hyperthermia treatment | 0314 | 5.9945 | $355.73 | $98.36 | $71.15
77605 | S |  | Hyperthermia treatment | 0314 | 5.9945 | $355.73 | $98.36 | $71.15
77610 | S |  | Hyperthermia treatment | 0314 | 5.9945 | $355.73 | $98.36 | $71.15
77615 | S |  | Hyperthermia treatment | 0314 | 5.9945 | $355.73 | $98.36 | $71.15
77620 | S |  | Hyperthermia treatment | 0314 | 5.9945 | $355.73 | $98.36 | $71.15
77750 | S |  | Infuse radioactive materials | 0301 | 2.2195 | $131.71 |  | $26.34
77761 | S |  | Apply intrcav radiat simple | 0312 | 5.0032 | $296.90 |  | $59.38
77762 | S |  | Apply intrcav radiat interm | 0312 | 5.0032 | $296.90 |  | $59.38
77763 | S |  | Apply intrcav radiat compl | 0312 | 5.0032 | $296.90 |  | $59.38
77776 | S |  | Apply interstit radiat simpl | 0312 | 5.0032 | $296.90 |  | $59.38
77777 | S |  | Apply interstit radiat inter | 0312 | 5.0032 | $296.90 |  | $59.38
77778 | S |  | Apply interstit radiat compl | 0651 | 12.1448 | $720.71 |  | $144.14
77781 | S |  | High intensity brachytherapy | 0313 | 12.8655 | $763.48 |  | $152.70
77782 | S |  | High intensity brachytherapy | 0313 | 12.8655 | $763.48 |  | $152.70
77783 | S |  | High intensity brachytherapy | 0313 | 12.8655 | $763.48 |  | $152.70
77784 | S |  | High intensity brachytherapy | 0313 | 12.8655 | $763.48 |  | $152.70
77789 | S |  | Apply surface radiation | 0300 | 1.5198 | $90.19 |  | $18.04
77790 | N |  | Radiation handling |  |  |  |  |
77799 | S |  | Radium/radioisotope therapy | 0313 | 12.8655 | $763.48 |  | $152.70
78000 | S |  | Thyroid, single uptake | 0389 | 1.4976 | $88.87 | $35.54 | $17.77
78001 | S |  | Thyroid, multiple uptakes | 0389 | 1.4976 | $88.87 | $35.54 | $17.77
78003 | S |  | Thyroid suppress/stimul | 0389 | 1.4976 | $88.87 | $35.54 | $17.77
78006 | S |  | Thyroid imaging with uptake | 0390 | 2.5562 | $151.69 | $60.67 | $30.34
78007 | S |  | Thyroid image, mult uptakes | 0391 | 2.8774 | $170.75 | $68.30 | $34.15
78010 | S |  | Thyroid imaging | 0390 | 2.5562 | $151.69 | $60.67 | $30.34
78011 | S |  | Thyroid imaging with flow | 0390 | 2.5562 | $151.69 | $60.67 | $30.34
78015 | S |  | Thyroid met imaging | 0406 | 4.3035 | $255.38 | $102.15 | $51.08
78016 | S |  | Thyroid met imaging/studies | 0406 | 4.3035 | $255.38 | $102.15 | $51.08
78018 | S |  | Thyroid met imaging, body | 0406 | 4.3035 | $255.38 | $102.15 | $51.08
78020 | S |  | Thyroid met uptake | 0399 | 1.5192 | $90.15 | $36.06 | $18.03
78070 | S |  | Parathyroid nuclear imaging | 0391 | 2.8774 | $170.75 | $68.30 | $34.15
78075 | S |  | Adrenal nuclear imaging | 0391 | 2.8774 | $170.75 | $68.30 | $34.15
78099 | S |  | Endocrine nuclear procedure | 0390 | 2.5562 | $151.69 | $60.67 | $30.34
78102 | S |  | Bone marrow imaging, ltd | 0400 | 4.1335 | $245.29 | $98.11 | $49.06
78103 | S |  | Bone marrow imaging, mult | 0400 | 4.1335 | $245.29 | $98.11 | $49.06
78104 | S |  | Bone marrow imaging, body | 0400 | 4.1335 | $245.29 | $98.11 | $49.06
78110 | S |  | Plasma volume, single | 0393 | 3.4438 | $204.37 | $81.74 | $40.87
78111 | S |  | Plasma volume, multiple | 0393 | 3.4438 | $204.37 | $81.74 | $40.87
78120 | S |  | Red cell mass, single | 0393 | 3.4438 | $204.37 | $81.74 | $40.87
78121 | S |  | Red cell mass, multiple | 0393 | 3.4438 | $204.37 | $81.74 | $40.87
78122 | S |  | Blood volume | 0393 | 3.4438 | $204.37 | $81.74 | $40.87
78130 | S |  | Red cell survival study | 0393 | 3.4438 | $204.37 | $81.74 | $40.87
78135 | S |  | Red cell survival kinetics | 0393 | 3.4438 | $204.37 | $81.74 | $40.87
78140 | S |  | Red cell sequestration | 0393 | 3.4438 | $204.37 | $81.74 | $40.87
78160 | S |  | Plasma iron turnover | 0393 | 3.4438 | $204.37 | $81.74 | $40.87
78162 | S |  | Radioiron absorption exam | 0393 | 3.4438 | $204.37 | $81.74 | $40.87
78170 | S |  | Red cell iron utilization | 0393 | 3.4438 | $204.37 | $81.74 | $40.87
78172 | S |  | Total body iron estimation | 0393 | 3.4438 | $204.37 | $81.74 | $40.87
78185 | S |  | Spleen imaging | 0400 | 4.1335 | $245.29 | $98.11 | $49.06
78190 | S |  | Platelet survival, kinetics | 0389 | 1.4976 | $88.87 | $35.54 | $17.77
78191 | S |  | Platelet survival | 0389 | 1.4976 | $88.87 | $35.54 | $17.77
78195 | S |  | Lymph system imaging | 0400 | 4.1335 | $245.29 | $98.11 | $49.06
78199 | S |  | Blood/lymph nuclear exam | 0400 | 4.1335 | $245.29 | $98.11 | $49.06
78201 | S |  | Liver imaging | 0394 | 4.463 | $264.85 | $105.93 | $52.97
78202 | S |  | Liver imaging with flow | 0394 | 4.463 | $264.85 | $105.93 | $52.97
78205 | S |  | Liver imaging (3D) | 0394 | 4.463 | $264.85 | $105.93 | $52.97
78206 | S |  | Liver image (3d) with flow | 0394 | 4.463 | $264.85 | $105.93 | $52.97
78215 | S |  | Liver and spleen imaging | 0394 | 4.463 | $264.85 | $105.93 | $52.97
78216 | S |  | Liver & spleen image/flow | 0394 | 4.463 | $264.85 | $105.93 | $52.97
78220 | S |  | Liver function study | 0394 | 4.463 | $264.85 | $105.93 | $52.97
78223 | S |  | Hepatobiliary imaging | 0394 | 4.463 | $264.85 | $105.93 | $52.97
78230 | S |  | Salivary gland imaging | 0395 | 3.8699 | $229.65 | $91.86 | $45.93
78231 | S |  | Serial salivary imaging | 0395 | 3.8699 | $229.65 | $91.86 | $45.93
78232 | S |  | Salivary gland function exam | 0395 | 3.8699 | $229.65 | $91.86 | $45.93
78258 | S |  | Esophageal motility study | 0395 | 3.8699 | $229.65 | $91.86 | $45.93
78261 | S |  | Gastric mucosa imaging | 0395 | 3.8699 | $229.65 | $91.86 | $45.93
78262 | S |  | Gastroesophageal reflux exam | 0395 | 3.8699 | $229.65 | $91.86 | $45.93
78264 | S |  | Gastric emptying study | 0395 | 3.8699 | $229.65 | $91.86 | $45.93
78267 | A |  | Breath tst attain/anal c-14 |  |  |  |  |
78268 | A |  | Breath test analysis, c-14 |  |  |  |  |
78270 | S |  | Vit B-12 absorption exam | 0389 | 1.4976 | $88.87 | $35.54 | $17.77
78271 | S |  | Vit b-12 absrp exam, int fac | 0389 | 1.4976 | $88.87 | $35.54 | $17.77
78272 | S |  | Vit B-12 absorp, combined | 0389 | 1.4976 | $88.87 | $35.54 | $17.77
78278 | S |  | Acute GI blood loss imaging | 0395 | 3.8699 | $229.65 | $91.86 | $45.93
78282 | S |  | GI protein loss exam | 0395 | 3.8699 | $229.65 | $91.86 | $45.93
78290 | S |  | Meckel's divert exam | 0395 | 3.8699 | $229.65 | $91.86 | $45.93
78291 | S |  | Leveen/shunt patency exam | 0395 | 3.8699 | $229.65 | $91.86 | $45.93
78299 | S |  | GI nuclear procedure | 0395 | 3.8699 | $229.65 | $91.86 | $45.93
78300 | S |  | Bone imaging, limited area | 0396 | 4.1426 | $245.83 | $98.33 | $49.17
78305 | S |  | Bone imaging, multiple areas | 0396 | 4.1426 | $245.83 | $98.33 | $49.17
78306 | S |  | Bone imaging, whole body | 0396 | 4.1426 | $245.83 | $98.33 | $49.17
78315 | S |  | Bone imaging, 3 phase | 0396 | 4.1426 | $245.83 | $98.33 | $49.17
78320 | S |  | Bone imaging (3D) | 0396 | 4.1426 | $245.83 | $98.33 | $49.17
78350 | X |  | Bone mineral, single photon | 0260 | 0.7555 | $44.83 | $17.93 | $8.97
78351 | E |  | Bone mineral, dual photon |  |  |  |  |
78399 | S |  | Musculoskeletal nuclear exam | 0396 | 4.1426 | $245.83 | $98.33 | $49.17
78414 | S |  | Non-imaging heart function | 0398 | 4.3093 | $255.73 | $102.29 | $51.15
78428 | S |  | Cardiac shunt imaging | 0398 | 4.3093 | $255.73 | $102.29 | $51.15
78445 | S |  | Vascular flow imaging | 0397 | 2.2646 | $134.39 | $53.75 | $26.88
78455 | S |  | Venous thrombosis study | 0397 | 2.2646 | $134.39 | $53.75 | $26.88
78456 | S |  | Acute venous thrombus image | 0397 | 2.2646 | $134.39 | $53.75 | $26.88
78457 | S |  | Venous thrombosis imaging | 0397 | 2.2646 | $134.39 | $53.75 | $26.88
78458 | S |  | Ven thrombosis images, bilat | 0397 | 2.2646 | $134.39 | $53.75 | $26.88
78459 | S |  | Heart muscle imaging (PET) | 0285 | 17.1798 | $1,019.50 | $318.72 | $203.90
78460 | S |  | Heart muscle blood, single | 0398 | 4.3093 | $255.73 | $102.29 | $51.15
78461 | S |  | Heart muscle blood, multiple | 0377 | 6.8344 | $405.57 | $162.22 | $81.11
78464 | S |  | Heart image (3d), single | 0398 | 4.3093 | $255.73 | $102.29 | $51.15
78465 | S |  | Heart image (3d), multiple | 0377 | 6.8344 | $405.57 | $162.22 | $81.11
78466 | S |  | Heart infarct image | 0398 | 4.3093 | $255.73 | $102.29 | $51.15
78468 | S |  | Heart infarct image (ef) | 0398 | 4.3093 | $255.73 | $102.29 | $51.15
78469 | S |  | Heart infarct image (3D) | 0398 | 4.3093 | $255.73 | $102.29 | $51.15
78472 | S |  | Gated heart, planar, single | 0398 | 4.3093 | $255.73 | $102.29 | $51.15
78473 | S |  | Gated heart, multiple | 0376 | 5.1975 | $308.44 | $121.42 | $61.69
78478 | S |  | Heart wall motion add-on | 0399 | 1.5192 | $90.15 | $36.06 | $18.03
78480 | S |  | Heart function add-on | 0399 | 1.5192 | $90.15 | $36.06 | $18.03
78481 | S |  | Heart first pass, single | 0398 | 4.3093 | $255.73 | $102.29 | $51.15
78483 | S |  | Heart first pass, multiple | 0376 | 5.1975 | $308.44 | $121.42 | $61.69
78491 | S |  | Heart image (pet), single | 0285 | 17.1798 | $1,019.50 | $318.72 | $203.90
78492 | S |  | Heart image (pet), multiple | 0285 | 17.1798 | $1,019.50 | $318.72 | $203.90
78494 | S |  | Heart image, spect | 0398 | 4.3093 | $255.73 | $102.29 | $51.15
78496 | S |  | Heart first pass add-on | 0399 | 1.5192 | $90.15 | $36.06 | $18.03
78499 | S |  | Cardiovascular nuclear exam | 0398 | 4.3093 | $255.73 | $102.29 | $51.15
78580 | S |  | Lung perfusion imaging | 0401 | 3.415 | $202.66 | $81.06 | $40.53
78584 | S |  | Lung V/Q image single breath | 0378 | 5.4997 | $326.37 | $130.54 | $65.27
78585 | S |  | Lung V/Q imaging | 0378 | 5.4997 | $326.37 | $130.54 | $65.27
78586 | S |  | Aerosol lung image, single | 0401 | 3.415 | $202.66 | $81.06 | $40.53
78587 | S |  | Aerosol lung image, multiple | 0401 | 3.415 | $202.66 | $81.06 | $40.53
78588 | S |  | Perfusion lung image | 0378 | 5.4997 | $326.37 | $130.54 | $65.27
78591 | S |  | Vent image, 1 breath, 1 proj | 0401 | 3.415 | $202.66 | $81.06 | $40.53
78593 | S |  | Vent image, 1 proj, gas | 0401 | 3.415 | $202.66 | $81.06 | $40.53
78594 | S |  | Vent image, mult proj, gas | 0401 | 3.415 | $202.66 | $81.06 | $40.53
78596 | S |  | Lung differential function | 0378 | 5.4997 | $326.37 | $130.54 | $65.27
78599 | S |  | Respiratory nuclear exam | 0401 | 3.415 | $202.66 | $81.06 | $40.53
78600 | S |  | Brain imaging, ltd static | 0402 | 5.1847 | $307.68 | $123.07 | $61.54
78601 | S |  | Brain imaging, ltd w/flow | 0402 | 5.1847 | $307.68 | $123.07 | $61.54
78605 | S |  | Brain imaging, complete | 0402 | 5.1847 | $307.68 | $123.07 | $61.54
78606 | S |  | Brain imaging, compl w/flow | 0402 | 5.1847 | $307.68 | $123.07 | $61.54
78607 | S |  | Brain imaging (3D) | 0402 | 5.1847 | $307.68 | $123.07 | $61.54
78608 | S |  | Brain imaging (PET) | 1513 |  | $1,150.00 |  | $230.00
78609 | S |  | Brain imaging (PET) | 1513 |  | $1,150.00 |  | $230.00
78610 | S |  | Brain flow imaging only | 0402 | 5.1847 | $307.68 | $123.07 | $61.54
78615 | S |  | Cerebral vascular flow image | 0402 | 5.1847 | $307.68 | $123.07 | $61.54
78630 | S |  | Cerebrospinal fluid scan | 0403 | 3.6138 | $214.45 | $85.78 | $42.89
78635 | S |  | CSF ventriculography | 0403 | 3.6138 | $214.45 | $85.78 | $42.89
78645 | S |  | CSF shunt evaluation | 0403 | 3.6138 | $214.45 | $85.78 | $42.89
78647 | S |  | Cerebrospinal fluid scan | 0403 | 3.6138 | $214.45 | $85.78 | $42.89
78650 | S |  | CSF leakage imaging | 0403 | 3.6138 | $214.45 | $85.78 | $42.89
78660 | S |  | Nuclear exam of tear flow | 0403 | 3.6138 | $214.45 | $85.78 | $42.89
78699 | S |  | Nervous system nuclear exam | 0402 | 5.1847 | $307.68 | $123.07 | $61.54
78700 | S |  | Kidney imaging, static | 0267 | 2.6327 | $156.23 | $62.18 | $31.25
78701 | S |  | Kidney imaging with flow | 0404 | 3.8559 | $228.82 | $91.52 | $45.76
78704 | S |  | Imaging renogram | 0404 | 3.8559 | $228.82 | $91.52 | $45.76
78707 | S |  | Kidney flow/function image | 0404 | 3.8559 | $228.82 | $91.52 | $45.76
78708 | S |  | Kidney flow/function image | 0405 | 4.2674 | $253.24 | $101.29 | $50.65
78709 | S |  | Kidney flow/function image | 0405 | 4.2674 | $253.24 | $101.29 | $50.65
78710 | S |  | Kidney imaging (3D) | 0404 | 3.8559 | $228.82 | $91.52 | $45.76
78715 | S |  | Renal vascular flow exam | 0404 | 3.8559 | $228.82 | $91.52 | $45.76
78725 | S |  | Kidney function study | 0389 | 1.4976 | $88.87 | $35.54 | $17.77
78730 | X |  | Urinary bladder retention | 0340 | 0.6384 | $37.88 |  | $7.58
78740 | S |  | Ureteral reflux study | 0404 | 3.8559 | $228.82 | $91.52 | $45.76
78760 | S |  | Testicular imaging | 0404 | 3.8559 | $228.82 | $91.52 | $45.76
78761 | S |  | Testicular imaging/flow | 0404 | 3.8559 | $228.82 | $91.52 | $45.76
78799 | S |  | Genitourinary nuclear exam | 0404 | 3.8559 | $228.82 | $91.52 | $45.76
78800 | S |  | Tumor imaging, limited area | 0406 | 4.3035 | $255.38 | $102.15 | $51.08
78801 | S |  | Tumor imaging, mult areas | 0406 | 4.3035 | $255.38 | $102.15 | $51.08
78802 | S |  | Tumor imaging, whole body | 0406 | 4.3035 | $255.38 | $102.15 | $51.08
78803 | S |  | Tumor imaging (3D) | 0406 | 4.3035 | $255.38 | $102.15 | $51.08
78804 | S |  | Tumor imaging, whole body | 1508 |  | $650.00 |  | $130.00
78805 | S |  | Abscess imaging, ltd area | 0406 | 4.3035 | $255.38 | $102.15 | $51.08
78806 | S |  | Abscess imaging, whole body | 0406 | 4.3035 | $255.38 | $102.15 | $51.08
78807 | S |  | Nuclear localization/abscess | 0406 | 4.3035 | $255.38 | $102.15 | $51.08
78811 | S |  | Tumor imaging (pet), limited | 1513 |  | $1,150.00 |  | $230.00
78812 | S |  | Tumor image (pet)/skul-thigh | 1513 |  | $1,150.00 |  | $230.00
78813 | S |  | Tumor image (pet) full body | 1513 |  | $1,150.00 |  | $230.00
78814 | S |  | Tumor image pet/ct, limited | 1514 |  | $1,250.00 |  | $250.00
78815 | S |  | Tumorimage pet/ct skul-thigh | 1514 |  | $1,250.00 |  | $250.00
78816 | S |  | Tumor image pet/ct full body | 1514 |  | $1,250.00 |  | $250.00
78890 | N |  | Nuclear medicine data proc |  |  |  |  |
78891 | N |  | Nuclear med data proc |  |  |  |  |
78999 | S |  | Nuclear diagnostic exam | 0389 | 1.4976 | $88.87 | $35.54 | $17.77
79005 | S |  | Nuclear rx, oral admin | 0407 | 3.9839 | $236.42 | $94.56 | $47.28
79101 | S |  | Nuclear rx, iv admin | 0407 | 3.9839 | $236.42 | $94.56 | $47.28
79200 | S |  | Intracavitary nuclear trmt | 0407 | 3.9839 | $236.42 | $94.56 | $47.28
79300 | S |  | Interstitial nuclear therapy | 0407 | 3.9839 | $236.42 | $94.56 | $47.28
79403 | S |  | Hematopoetic nuclear therapy | 1507 |  | $550.00 |  | $110.00
79440 | S |  | Nuclear joint therapy | 0407 | 3.9839 | $236.42 | $94.56 | $47.28
79445 | S |  | Nuclear rx, intra-arterial | 0407 | 3.9839 | $236.42 | $94.56 | $47.28
79999 | S |  | Nuclear medicine therapy | 0407 | 3.9839 | $236.42 | $94.56 | $47.28
80048 | A |  | Basic metabolic panel |  |  |  |  |
80050 | E |  | General health panel |  |  |  |  |
80051 | A |  | Electrolyte panel |  |  |  |  |
80053 | A |  | Comprehen metabolic panel |  |  |  |  |
80055 | E |  | Obstetric panel |  |  |  |  |
80061 | A |  | Lipid panel |  |  |  |  |
80069 | A |  | Renal function panel |  |  |  |  |
80074 | A |  | Acute hepatitis panel |  |  |  |  |
80076 | A |  | Hepatic function panel |  |  |  |  |
80100 | A |  | Drug screen, qualitate/multi |  |  |  |  |
80101 | A |  | Drug screen, single |  |  |  |  |
80102 | A |  | Drug confirmation |  |  |  |  |
80103 | N |  | Drug analysis, tissue prep |  |  |  |  |
80150 | A |  | Assay of amikacin |  |  |  |  |
80152 | A |  | Assay of amitriptyline |  |  |  |  |
80154 | A |  | Assay of benzodiazepines |  |  |  |  |
80156 | A |  | Assay, carbamazepine, total |  |  |  |  |
80157 | A |  | Assay, carbamazepine, free |  |  |  |  |
80158 | A |  | Assay of cyclosporine |  |  |  |  |
80160 | A |  | Assay of desipramine |  |  |  |  |
80162 | A |  | Assay of digoxin |  |  |  |  |
80164 | A |  | Assay, dipropylacetic acid |  |  |  |  |
80166 | A |  | Assay of doxepin |  |  |  |  |
80168 | A |  | Assay of ethosuximide |  |  |  |  |
80170 | A |  | Assay of gentamicin |  |  |  |  |
80172 | A |  | Assay of gold |  |  |  |  |
80173 | A |  | Assay of haloperidol |  |  |  |  |
80174 | A |  | Assay of imipramine |  |  |  |  |
80176 | A |  | Assay of lidocaine |  |  |  |  |
80178 | A |  | Assay of lithium |  |  |  |  |
80182 | A |  | Assay of nortriptyline |  |  |  |  |
80184 | A |  | Assay of phenobarbital |  |  |  |  |
80185 | A |  | Assay of phenytoin, total |  |  |  |  |
80186 | A |  | Assay of phenytoin, free |  |  |  |  |
80188 | A |  | Assay of primidone |  |  |  |  |
80190 | A |  | Assay of procainamide |  |  |  |  |
80192 | A |  | Assay of procainamide |  |  |  |  |
80194 | A |  | Assay of quinidine |  |  |  |  |
80196 | A |  | Assay of salicylate |  |  |  |  |
80197 | A |  | Assay of tacrolimus |  |  |  |  |
80198 | A |  | Assay of theophylline |  |  |  |  |
80200 | A |  | Assay of tobramycin |  |  |  |  |
80201 | A |  | Assay of topiramate |  |  |  |  |
80202 | A |  | Assay of vancomycin |  |  |  |  |
80299 | A |  | Quantitative assay, drug |  |  |  |  |
80400 | A |  | Acth stimulation panel |  |  |  |  |
80402 | A |  | Acth stimulation panel |  |  |  |  |
80406 | A |  | Acth stimulation panel |  |  |  |  |
80408 | A |  | Aldosterone suppression eval |  |  |  |  |
80410 | A |  | Calcitonin stimul panel |  |  |  |  |
80412 | A |  | CRH stimulation panel |  |  |  |  |
80414 | A |  | Testosterone response |  |  |  |  |
80415 | A |  | Estradiol response panel |  |  |  |  |
80416 | A |  | Renin stimulation panel |  |  |  |  |
80417 | A |  | Renin stimulation panel |  |  |  |  |
80418 | A |  | Pituitary evaluation panel |  |  |  |  |
80420 | A |  | Dexamethasone panel |  |  |  |  |
80422 | A |  | Glucagon tolerance panel |  |  |  |  |
80424 | A |  | Glucagon tolerance panel |  |  |  |  |
80426 | A |  | Gonadotropin hormone panel |  |  |  |  |
80428 | A |  | Growth hormone panel |  |  |  |  |
80430 | A |  | Growth hormone panel |  |  |  |  |
80432 | A |  | Insulin suppression panel |  |  |  |  |
80434 | A |  | Insulin tolerance panel |  |  |  |  |
80435 | A |  | Insulin tolerance panel |  |  |  |  |
80436 | A |  | Metyrapone panel |  |  |  |  |
80438 | A |  | TRH stimulation panel |  |  |  |  |
80439 | A |  | TRH stimulation panel |  |  |  |  |
80440 | A |  | TRH stimulation panel |  |  |  |  |
80500 | X |  | Lab pathology consultation | 0433 | 0.2581 | $15.32 | $6.12 | $3.06
80502 | X |  | Lab pathology consultation | 0342 | 0.156 | $9.26 | $3.70 | $1.85
81000 | A |  | Urinalysis, nonauto w/scope |  |  |  |  |
81001 | A |  | Urinalysis, auto w/scope |  |  |  |  |
81002 | A |  | Urinalysis nonauto w/o scope |  |  |  |  |
81003 | A |  | Urinalysis, auto, w/o scope |  |  |  |  |
81005 | A |  | Urinalysis |  |  |  |  |
81007 | A |  | Urine screen for bacteria |  |  |  |  |
81015 | A |  | Microscopic exam of urine |  |  |  |  |
81020 | A |  | Urinalysis, glass test |  |  |  |  |
81025 | A |  | Urine pregnancy test |  |  |  |  |
81050 | A |  | Urinalysis, volume measure |  |  |  |  |
81099 | A |  | Urinalysis test procedure |  |  |  |  |
82000 | A |  | Assay of blood acetaldehyde |  |  |  |  |
82003 | A |  | Assay of acetaminophen |  |  |  |  |
82009 | A |  | Test for acetone/ketones |  |  |  |  |
82010 | A |  | Acetone assay |  |  |  |  |
82013 | A |  | Acetylcholinesterase assay |  |  |  |  |
82016 | A |  | Acylcarnitines, qual |  |  |  |  |
82017 | A |  | Acylcarnitines, quant |  |  |  |  |
82024 | A |  | Assay of acth |  |  |  |  |
82030 | A |  | Assay of adp & amp |  |  |  |  |
82040 | A |  | Assay of serum albumin |  |  |  |  |
82042 | A |  | Assay of urine albumin |  |  |  |  |
82043 | A |  | Microalbumin, quantitative |  |  |  |  |
82044 | A |  | Microalbumin, semiquant |  |  |  |  |
82045 | A |  | Albumin, ischemia modified |  |  |  |  |
82055 | A |  | Assay of ethanol |  |  |  |  |
82075 | A |  | Assay of breath ethanol |  |  |  |  |
82085 | A |  | Assay of aldolase |  |  |  |  |
82088 | A |  | Assay of aldosterone |  |  |  |  |
82101 | A |  | Assay of urine alkaloids |  |  |  |  |
82103 | A |  | Alpha-1-antitrypsin, total |  |  |  |  |
82104 | A |  | Alpha-1-antitrypsin, pheno |  |  |  |  |
82105 | A |  | Alpha-fetoprotein, serum |  |  |  |  |
82106 | A |  | Alpha-fetoprotein, amniotic |  |  |  |  |
82108 | A |  | Assay of aluminum |  |  |  |  |
82120 | A |  | Amines, vaginal fluid qual |  |  |  |  |
82127 | A |  | Amino acid, single qual |  |  |  |  |
82128 | A |  | Amino acids, mult qual |  |  |  |  |
82131 | A |  | Amino acids, single quant |  |  |  |  |
82135 | A |  | Assay, aminolevulinic acid |  |  |  |  |
82136 | A |  | Amino acids, quant, 2-5 |  |  |  |  |
82139 | A |  | Amino acids, quan, 6 or more |  |  |  |  |
82140 | A |  | Assay of ammonia |  |  |  |  |
82143 | A |  | Amniotic fluid scan |  |  |  |  |
82145 | A |  | Assay of amphetamines |  |  |  |  |
82150 | A |  | Assay of amylase |  |  |  |  |
82154 | A |  | Androstanediol glucuronide |  |  |  |  |
82157 | A |  | Assay of androstenedione |  |  |  |  |
82160 | A |  | Assay of androsterone |  |  |  |  |
82163 | A |  | Assay of angiotensin II |  |  |  |  |
82164 | A |  | Angiotensin I enzyme test |  |  |  |  |
82172 | A |  | Assay of apolipoprotein |  |  |  |  |
82175 | A |  | Assay of arsenic |  |  |  |  |
82180 | A |  | Assay of ascorbic acid |  |  |  |  |
82190 | A |  | Atomic absorption |  |  |  |  |
82205 | A |  | Assay of barbiturates |  |  |  |  |
82232 | A |  | Assay of beta-2 protein |  |  |  |  |
82239 | A |  | Bile acids, total |  |  |  |  |
82240 | A |  | Bile acids, cholylglycine |  |  |  |  |
82247 | A |  | Bilirubin, total |  |  |  |  |
82248 | A |  | Bilirubin, direct |  |  |  |  |
82252 | A |  | Fecal bilirubin test |  |  |  |  |
82261 | A |  | Assay of biotinidase |  |  |  |  |
82270 | A |  | Test for blood, feces |  |  |  |  |
82273 | A |  | Test for blood, other source |  |  |  |  |
82274 | A |  | Assay test for blood, fecal |  |  |  |  |
82286 | A |  | Assay of bradykinin |  |  |  |  |
82300 | A |  | Assay of cadmium |  |  |  |  |
82306 | A |  | Assay of vitamin D |  |  |  |  |
82307 | A |  | Assay of vitamin D |  |  |  |  |
82308 | A |  | Assay of calcitonin |  |  |  |  |
82310 | A |  | Assay of calcium |  |  |  |  |
82330 | A |  | Assay of calcium |  |  |  |  |
82331 | A |  | Calcium infusion test |  |  |  |  |
82340 | A |  | Assay of calcium in urine |  |  |  |  |
82355 | A |  | Calculus analysis, qual |  |  |  |  |
82360 | A |  | Calculus assay, quant |  |  |  |  |
82365 | A |  | Calculus spectroscopy |  |  |  |  |
82370 | A |  | X-ray assay, calculus |  |  |  |  |
82373 | A |  | Assay, c-d transfer measure |  |  |  |  |
82374 | A |  | Assay, blood carbon dioxide |  |  |  |  |
82375 | A |  | Assay, blood carbon monoxide |  |  |  |  |
82376 | A |  | Test for carbon monoxide |  |  |  |  |
82378 | A |  | Carcinoembryonic antigen |  |  |  |  |
82379 | A |  | Assay of carnitine |  |  |  |  |
82380 | A |  | Assay of carotene |  |  |  |  |
82382 | A |  | Assay, urine catecholamines |  |  |  |  |
82383 | A |  | Assay, blood catecholamines |  |  |  |  |
82384 | A |  | Assay, three catecholamines |  |  |  |  |
82387 | A |  | Assay of cathepsin-d |  |  |  |  |
82390 | A |  | Assay of ceruloplasmin |  |  |  |  |
82397 | A |  | Chemiluminescent assay |  |  |  |  |
82415 | A |  | Assay of chloramphenicol |  |  |  |  |
82435 | A |  | Assay of blood chloride |  |  |  |  |
82436 | A |  | Assay of urine chloride |  |  |  |  |
82438 | A |  | Assay, other fluid chlorides |  |  |  |  |
82441 | A |  | Test for chlorohydrocarbons |  |  |  |  |
82465 | A |  | Assay, bld/serum cholesterol |  |  |  |  |
82480 | A |  | Assay, serum cholinesterase |  |  |  |  |
82482 | A |  | Assay, rbc cholinesterase |  |  |  |  |
82485 | A |  | Assay, chondroitin sulfate |  |  |  |  |
82486 | A |  | Gas/liquid chromatography |  |  |  |  |
82487 | A |  | Paper chromatography |  |  |  |  |
82488 | A |  | Paper chromatography |  |  |  |  |
82489 | A |  | Thin layer chromatography |  |  |  |  |
82491 | A |  | Chromotography, quant, sing |  |  |  |  |
82492 | A |  | Chromotography, quant, mult |  |  |  |  |
82495 | A |  | Assay of chromium |  |  |  |  |
82507 | A |  | Assay of citrate |  |  |  |  |
82520 | A |  | Assay of cocaine |  |  |  |  |
82523 | A |  | Collagen crosslinks |  |  |  |  |
82525 | A |  | Assay of copper |  |  |  |  |
82528 | A |  | Assay of corticosterone |  |  |  |  |
82530 | A |  | Cortisol, free |  |  |  |  |
82533 | A |  | Total cortisol |  |  |  |  |
82540 | A |  | Assay of creatine |  |  |  |  |
82541 | A |  | Column chromotography, qual |  |  |  |  |
82542 | A |  | Column chromotography, quant |  |  |  |  |
82543 | A |  | Column chromotograph/isotope |  |  |  |  |
82544 | A |  | Column chromotograph/isotope |  |  |  |  |
82550 | A |  | Assay of ck (cpk) |  |  |  |  |
82552 | A |  | Assay of cpk in blood |  |  |  |  |
82553 | A |  | Creatine, MB fraction |  |  |  |  |
82554 | A |  | Creatine, isoforms |  |  |  |  |
82565 | A |  | Assay of creatinine |  |  |  |  |
82570 | A |  | Assay of urine creatinine |  |  |  |  |
82575 | A |  | Creatinine clearance test |  |  |  |  |
82585 | A |  | Assay of cryofibrinogen |  |  |  |  |
82595 | A |  | Assay of cryoglobulin |  |  |  |  |
82600 | A |  | Assay of cyanide |  |  |  |  |
82607 | A |  | Vitamin B-12 |  |  |  |  |
82608 | A |  | B-12 binding capacity |  |  |  |  |
82615 | A |  | Test for urine cystines |  |  |  |  |
82626 | A |  | Dehydroepiandrosterone |  |  |  |  |
82627 | A |  | Dehydroepiandrosterone |  |  |  |  |
82633 | A |  | Desoxycorticosterone |  |  |  |  |
82634 | A |  | Deoxycortisol |  |  |  |  |
82638 | A |  | Assay of dibucaine number |  |  |  |  |
82646 | A |  | Assay of dihydrocodeinone |  |  |  |  |
82649 | A |  | Assay of dihydromorphinone |  |  |  |  |
82651 | A |  | Assay of dihydrotestosterone |  |  |  |  |
82652 | A |  | Assay of dihydroxyvitamin d |  |  |  |  |
82654 | A |  | Assay of dimethadione |  |  |  |  |
82656 | A |  | Pancreatic elastase, fecal |  |  |  |  |
82657 | A |  | Enzyme cell activity |  |  |  |  |
82658 | A |  | Enzyme cell activity, ra |  |  |  |  |
82664 | A |  | Electrophoretic test |  |  |  |  |
82666 | A |  | Assay of epiandrosterone |  |  |  |  |
82668 | A |  | Assay of erythropoietin |  |  |  |  |
82670 | A |  | Assay of estradiol |  |  |  |  |
82671 | A |  | Assay of estrogens |  |  |  |  |
82672 | A |  | Assay of estrogen |  |  |  |  |
82677 | A |  | Assay of estriol |  |  |  |  |
82679 | A |  | Assay of estrone |  |  |  |  |
82690 | A |  | Assay of ethchlorvynol |  |  |  |  |
82693 | A |  | Assay of ethylene glycol |  |  |  |  |
82696 | A |  | Assay of etiocholanolone |  |  |  |  |
82705 | A |  | Fats/lipids, feces, qual |  |  |  |  |
82710 | A |  | Fats/lipids, feces, quant |  |  |  |  |
82715 | A |  | Assay of fecal fat |  |  |  |  |
82725 | A |  | Assay of blood fatty acids |  |  |  |  |
82726 | A |  | Long chain fatty acids |  |  |  |  |
82728 | A |  | Assay of ferritin |  |  |  |  |
82731 | A |  | Assay of fetal fibronectin |  |  |  |  |
82735 | A |  | Assay of fluoride |  |  |  |  |
82742 | A |  | Assay of flurazepam |  |  |  |  |
82746 | A |  | Blood folic acid serum |  |  |  |  |
82747 | A |  | Assay of folic acid, rbc |  |  |  |  |
82757 | A |  | Assay of semen fructose |  |  |  |  |
82759 | A |  | Assay of rbc galactokinase |  |  |  |  |
82760 | A |  | Assay of galactose |  |  |  |  |
82775 | A |  | Assay galactose transferase |  |  |  |  |
82776 | A |  | Galactose transferase test |  |  |  |  |
82784 | A |  | Assay of gammaglobulin igm |  |  |  |  |
82785 | A |  | Assay of gammaglobulin ige |  |  |  |  |
82787 | A |  | Igg 1, 2, 3 or 4, each |  |  |  |  |
82800 | A |  | Blood pH |  |  |  |  |
82803 | A |  | Blood gases pH, pO2 & pCO2 |  |  |  |  |
82805 | A |  | Blood gases W/02 saturation |  |  |  |  |
82810 | A |  | Blood gases, O2 sat only |  |  |  |  |
82820 | A |  | Hemoglobin-oxygen affinity |  |  |  |  |
82926 | A |  | Assay of gastric acid |  |  |  |  |
82928 | A |  | Assay of gastric acid |  |  |  |  |
82938 | A |  | Gastrin test |  |  |  |  |
82941 | A |  | Assay of gastrin |  |  |  |  |
82943 | A |  | Assay of glucagon |  |  |  |  |
82945 | A |  | Glucose other fluid |  |  |  |  |
82946 | A |  | Glucagon tolerance test |  |  |  |  |
82947 | A |  | Assay, glucose, blood quant |  |  |  |  |
82948 | A |  | Reagent strip/blood glucose |  |  |  |  |
82950 | A |  | Glucose test |  |  |  |  |
82951 | A |  | Glucose tolerance test (GTT) |  |  |  |  |
82952 | A |  | GTT-added samples |  |  |  |  |
82953 | A |  | Glucose-tolbutamide test |  |  |  |  |
82955 | A |  | Assay of g6pd enzyme |  |  |  |  |
82960 | A |  | Test for G6PD enzyme |  |  |  |  |
82962 | A |  | Glucose blood test |  |  |  |  |
82963 | A |  | Assay of glucosidase |  |  |  |  |
82965 | A |  | Assay of gdh enzyme |  |  |  |  |
82975 | A |  | Assay of glutamine |  |  |  |  |
82977 | A |  | Assay of GGT |  |  |  |  |
82978 | A |  | Assay of glutathione |  |  |  |  |
82979 | A |  | Assay, rbc glutathione |  |  |  |  |
82980 | A |  | Assay of glutethimide |  |  |  |  |
82985 | A |  | Glycated protein |  |  |  |  |
83001 | A |  | Gonadotropin (FSH) |  |  |  |  |
83002 | A |  | Gonadotropin (LH) |  |  |  |  |
83003 | A |  | Assay, growth hormone (hgh) |  |  |  |  |
83008 | A |  | Assay of guanosine |  |  |  |  |
83009 | A |  | H pylori (c-13), blood |  |  |  |  |
83010 | A |  | Assay of haptoglobin, quant |  |  |  |  |
83012 | A |  | Assay of haptoglobins |  |  |  |  |
83013 | A |  | H pylori analysis |  |  |  |  |
83014 | A |  | H pylori drug admin/collect |  |  |  |  |
83015 | A |  | Heavy metal screen |  |  |  |  |
83018 | A |  | Quantitative screen, metals |  |  |  |  |
83020 | A |  | Hemoglobin electrophoresis |  |  |  |  |
83021 | A |  | Hemoglobin chromotography |  |  |  |  |
83026 | A |  | Hemoglobin, copper sulfate |  |  |  |  |
83030 | A |  | Fetal hemoglobin, chemical |  |  |  |  |
83033 | A |  | Fetal hemoglobin assay, qual |  |  |  |  |
83036 | A |  | Glycated hemoglobin test |  |  |  |  |
83045 | A |  | Blood methemoglobin test |  |  |  |  |
83050 | A |  | Blood methemoglobin assay |  |  |  |  |
83051 | A |  | Assay of plasma hemoglobin |  |  |  |  |
83055 | A |  | Blood sulfhemoglobin test |  |  |  |  |
83060 | A |  | Blood sulfhemoglobin assay |  |  |  |  |
83065 | A |  | Assay of hemoglobin heat |  |  |  |  |
83068 | A |  | Hemoglobin stability screen |  |  |  |  |
83069 | A |  | Assay of urine hemoglobin |  |  |  |  |
83070 | A |  | Assay of hemosiderin, qual |  |  |  |  |
83071 | A |  | Assay of hemosiderin, quant |  |  |  |  |
83080 | A |  | Assay of b hexosaminidase |  |  |  |  |
83088 | A |  | Assay of histamine |  |  |  |  |
83090 | A |  | Assay of homocystine |  |  |  |  |
83150 | A |  | Assay of for hva |  |  |  |  |
83491 | A |  | Assay of corticosteroids |  |  |  |  |
83497 | A |  | Assay of 5-hiaa |  |  |  |  |
83498 | A |  | Assay of progesterone |  |  |  |  |
83499 | A |  | Assay of progesterone |  |  |  |  |
83500 | A |  | Assay, free hydroxyproline |  |  |  |  |
83505 | A |  | Assay, total hydroxyproline |  |  |  |  |
83516 | A |  | Immunoassay, nonantibody |  |  |  |  |
83518 | A |  | Immunoassay, dipstick |  |  |  |  |
83519 | A |  | Immunoassay, nonantibody |  |  |  |  |
83520 | A |  | Immunoassay, RIA |  |  |  |  |
83525 | A |  | Assay of insulin |  |  |  |  |
83527 | A |  | Assay of insulin |  |  |  |  |
83528 | A |  | Assay of intrinsic factor |  |  |  |  |
83540 | A |  | Assay of iron |  |  |  |  |
83550 | A |  | Iron binding test |  |  |  |  |
83570 | A |  | Assay of idh enzyme |  |  |  |  |
83582 | A |  | Assay of ketogenic steroids |  |  |  |  |
83586 | A |  | Assay 17- ketosteroids |  |  |  |  |
83593 | A |  | Fractionation, ketosteroids |  |  |  |  |
83605 | A |  | Assay of lactic acid |  |  |  |  |
83615 | A |  | Lactate (LD) (LDH) enzyme |  |  |  |  |
83625 | A |  | Assay of ldh enzymes |  |  |  |  |
83630 | A |  | Lactoferrin, fecal (qual) |  |  |  |  |
83632 | A |  | Placental lactogen |  |  |  |  |
83633 | A |  | Test urine for lactose |  |  |  |  |
83634 | A |  | Assay of urine for lactose |  |  |  |  |
83655 | A |  | Assay of lead |  |  |  |  |
83661 | A |  | L/s ratio, fetal lung |  |  |  |  |
83662 | A |  | Foam stability, fetal lung |  |  |  |  |
83663 | A |  | Fluoro polarize, fetal lung |  |  |  |  |
83664 | A |  | Lamellar bdy, fetal lung |  |  |  |  |
83670 | A |  | Assay of lap enzyme |  |  |  |  |
83690 | A |  | Assay of lipase |  |  |  |  |
83715 | A |  | Assay of blood lipoproteins |  |  |  |  |
83716 | A |  | Assay of blood lipoproteins |  |  |  |  |
83718 | A |  | Assay of lipoprotein |  |  |  |  |
83719 | A |  | Assay of blood lipoprotein |  |  |  |  |
83721 | A |  | Assay of blood lipoprotein |  |  |  |  |
83727 | A |  | Assay of lrh hormone |  |  |  |  |
83735 | A |  | Assay of magnesium |  |  |  |  |
83775 | A |  | Assay of md enzyme |  |  |  |  |
83785 | A |  | Assay of manganese |  |  |  |  |
83788 | A |  | Mass spectrometry qual |  |  |  |  |
83789 | A |  | Mass spectrometry quant |  |  |  |  |
83805 | A |  | Assay of meprobamate |  |  |  |  |
83825 | A |  | Assay of mercury |  |  |  |  |
83835 | A |  | Assay of metanephrines |  |  |  |  |
83840 | A |  | Assay of methadone |  |  |  |  |
83857 | A |  | Assay of methemalbumin |  |  |  |  |
83858 | A |  | Assay of methsuximide |  |  |  |  |
83864 | A |  | Mucopolysaccharides |  |  |  |  |
83866 | A |  | Mucopolysaccharides screen |  |  |  |  |
83872 | A |  | Assay synovial fluid mucin |  |  |  |  |
83873 | A |  | Assay of csf protein |  |  |  |  |
83874 | A |  | Assay of myoglobin |  |  |  |  |
83880 | A |  | Natriuretic peptide |  |  |  |  |
83883 | A |  | Assay, nephelometry not spec |  |  |  |  |
83885 | A |  | Assay of nickel |  |  |  |  |
83887 | A |  | Assay of nicotine |  |  |  |  |
83890 | A |  | Molecule isolate |  |  |  |  |
83891 | A |  | Molecule isolate nucleic |  |  |  |  |
83892 | A |  | Molecular diagnostics |  |  |  |  |
83893 | A |  | Molecule dot/slot/blot |  |  |  |  |
83894 | A |  | Molecule gel electrophor |  |  |  |  |
83896 | A |  | Molecular diagnostics |  |  |  |  |
83897 | A |  | Molecule nucleic transfer |  |  |  |  |
83898 | A |  | Molecule nucleic ampli |  |  |  |  |
83901 | A |  | Molecule nucleic ampli |  |  |  |  |
83902 | A |  | Molecular diagnostics |  |  |  |  |
83903 | A |  | Molecule mutation scan |  |  |  |  |
83904 | A |  | Molecule mutation identify |  |  |  |  |
83905 | A |  | Molecule mutation identify |  |  |  |  |
83906 | A |  | Molecule mutation identify |  |  |  |  |
83912 | A |  | Genetic examination |  |  |  |  |
83915 | A |  | Assay of nucleotidase |  |  |  |  |
83916 | A |  | Oligoclonal bands |  |  |  |  |
83918 | A |  | Organic acids, total, quant |  |  |  |  |
83919 | A |  | Organic acids, qual, each |  |  |  |  |
83921 | A |  | Organic acid, single, quant |  |  |  |  |
83925 | A |  | Assay of opiates |  |  |  |  |
83930 | A |  | Assay of blood osmolality |  |  |  |  |
83935 | A |  | Assay of urine osmolality |  |  |  |  |
83937 | A |  | Assay of osteocalcin |  |  |  |  |
83945 | A |  | Assay of oxalate |  |  |  |  |
83950 | A |  | Oncoprotein, her-2/neu |  |  |  |  |
83970 | A |  | Assay of parathormone |  |  |  |  |
83986 | A |  | Assay of body fluid acidity |  |  |  |  |
83992 | A |  | Assay for phencyclidine |  |  |  |  |
84022 | A |  | Assay of phenothiazine |  |  |  |  |
84030 | A |  | Assay of blood pku |  |  |  |  |
84035 | A |  | Assay of phenylketones |  |  |  |  |
84060 | A |  | Assay acid phosphatase |  |  |  |  |
84061 | A |  | Phosphatase, forensic exam |  |  |  |  |
84066 | A |  | Assay prostate phosphatase |  |  |  |  |
84075 | A |  | Assay alkaline phosphatase |  |  |  |  |
84078 | A |  | Assay alkaline phosphatase |  |  |  |  |
84080 | A |  | Assay alkaline phosphatases |  |  |  |  |
84081 | A |  | Amniotic fluid enzyme test |  |  |  |  |
84085 | A |  | Assay of rbc pg6d enzyme |  |  |  |  |
84087 | A |  | Assay phosphohexose enzymes |  |  |  |  |
84100 | A |  | Assay of phosphorus |  |  |  |  |
84105 | A |  | Assay of urine phosphorus |  |  |  |  |
84106 | A |  | Test for porphobilinogen |  |  |  |  |
84110 | A |  | Assay of porphobilinogen |  |  |  |  |
84119 | A |  | Test urine for porphyrins |  |  |  |  |
84120 | A |  | Assay of urine porphyrins |  |  |  |  |
84126 | A |  | Assay of feces porphyrins |  |  |  |  |
84127 | A |  | Assay of feces porphyrins |  |  |  |  |
84132 | A |  | Assay of serum potassium |  |  |  |  |
84133 | A |  | Assay of urine potassium |  |  |  |  |
84134 | A |  | Assay of prealbumin |  |  |  |  |
84135 | A |  | Assay of pregnanediol |  |  |  |  |
84138 | A |  | Assay of pregnanetriol |  |  |  |  |
84140 | A |  | Assay of pregnenolone |  |  |  |  |
84143 | A |  | Assay of 17-hydroxypregneno |  |  |  |  |
84144 | A |  | Assay of progesterone |  |  |  |  |
84146 | A |  | Assay of prolactin |  |  |  |  |
84150 | A |  | Assay of prostaglandin |  |  |  |  |
84152 | A |  | Assay of psa, complexed |  |  |  |  |
84153 | A |  | Assay of psa, total |  |  |  |  |
84154 | A |  | Assay of psa, free |  |  |  |  |
84155 | A |  | Assay of protein, serum |  |  |  |  |
84156 | A |  | Assay of protein, urine |  |  |  |  |
84157 | A |  | Assay of protein, other |  |  |  |  |
84160 | A |  | Assay of protein, any source |  |  |  |  |
84163 | A |  | Pappa, serum |  |  |  |  |
84165 | A |  | Electrophoreisis of proteins |  |  |  |  |
84166 | A |  | Protein e-phoresis/urine/csf |  |  |  |  |
84181 | A |  | Western blot test |  |  |  |  |
84182 | A |  | Protein, western blot test |  |  |  |  |
84202 | A |  | Assay RBC protoporphyrin |  |  |  |  |
84203 | A |  | Test RBC protoporphyrin |  |  |  |  |
84206 | A |  | Assay of proinsulin |  |  |  |  |
84207 | A |  | Assay of vitamin b-6 |  |  |  |  |
84210 | A |  | Assay of pyruvate |  |  |  |  |
84220 | A |  | Assay of pyruvate kinase |  |  |  |  |
84228 | A |  | Assay of quinine |  |  |  |  |
84233 | A |  | Assay of estrogen |  |  |  |  |
84234 | A |  | Assay of progesterone |  |  |  |  |
84235 | A |  | Assay of endocrine hormone |  |  |  |  |
84238 | A |  | Assay, nonendocrine receptor |  |  |  |  |
84244 | A |  | Assay of renin |  |  |  |  |
84252 | A |  | Assay of vitamin b-2 |  |  |  |  |
84255 | A |  | Assay of selenium |  |  |  |  |
84260 | A |  | Assay of serotonin |  |  |  |  |
84270 | A |  | Assay of sex hormone globul |  |  |  |  |
84275 | A |  | Assay of sialic acid |  |  |  |  |
84285 | A |  | Assay of silica |  |  |  |  |
84295 | A |  | Assay of serum sodium |  |  |  |  |
84300 | A |  | Assay of urine sodium |  |  |  |  |
84302 | A |  | Assay of sweat sodium |  |  |  |  |
84305 | A |  | Assay of somatomedin |  |  |  |  |
84307 | A |  | Assay of somatostatin |  |  |  |  |
84311 | A |  | Spectrophotometry |  |  |  |  |
84315 | A |  | Body fluid specific gravity |  |  |  |  |
84375 | A |  | Chromatogram assay, sugars |  |  |  |  |
84376 | A |  | Sugars, single, qual |  |  |  |  |
84377 | A |  | Sugars, multiple, qual |  |  |  |  |
84378 | A |  | Sugars, single, quant |  |  |  |  |
84379 | A |  | Sugars multiple quant |  |  |  |  |
84392 | A |  | Assay of urine sulfate |  |  |  |  |
84402 | A |  | Assay of testosterone |  |  |  |  |
84403 | A |  | Assay of total testosterone |  |  |  |  |
84425 | A |  | Assay of vitamin b-1 |  |  |  |  |
84430 | A |  | Assay of thiocyanate |  |  |  |  |
84432 | A |  | Assay of thyroglobulin |  |  |  |  |
84436 | A |  | Assay of total thyroxine |  |  |  |  |
84437 | A |  | Assay of neonatal thyroxine |  |  |  |  |
84439 | A |  | Assay of free thyroxine |  |  |  |  |
84442 | A |  | Assay of thyroid activity |  |  |  |  |
84443 | A |  | Assay thyroid stim hormone |  |  |  |  |
84445 | A |  | Assay of tsi |  |  |  |  |
84446 | A |  | Assay of vitamin e |  |  |  |  |
84449 | A |  | Assay of transcortin |  |  |  |  |
84450 | A |  | Transferase (AST) (SGOT) |  |  |  |  |
84460 | A |  | Alanine amino (ALT) (SGPT) |  |  |  |  |
84466 | A |  | Assay of transferrin |  |  |  |  |
84478 | A |  | Assay of triglycerides |  |  |  |  |
84479 | A |  | Assay of thyroid (t3 or t4) |  |  |  |  |
84480 | A |  | Assay, triiodothyronine (t3) |  |  |  |  |
84481 | A |  | Free assay (FT-3) |  |  |  |  |
84482 | A |  | T3 reverse |  |  |  |  |
84484 | A |  | Assay of troponin, quant |  |  |  |  |
84485 | A |  | Assay duodenal fluid trypsin |  |  |  |  |
84488 | A |  | Test feces for trypsin |  |  |  |  |
84490 | A |  | Assay of feces for trypsin |  |  |  |  |
84510 | A |  | Assay of tyrosine |  |  |  |  |
84512 | A |  | Assay of troponin, qual |  |  |  |  |
84520 | A |  | Assay of urea nitrogen |  |  |  |  |
84525 | A |  | Urea nitrogen semi-quant |  |  |  |  |
84540 | A |  | Assay of urine/urea-n |  |  |  |  |
84545 | A |  | Urea-N clearance test |  |  |  |  |
84550 | A |  | Assay of blood/uric acid |  |  |  |  |
84560 | A |  | Assay of urine/uric acid |  |  |  |  |
84577 | A |  | Assay of feces/urobilinogen |  |  |  |  |
84578 | A |  | Test urine urobilinogen |  |  |  |  |
84580 | A |  | Assay of urine urobilinogen |  |  |  |  |
84583 | A |  | Assay of urine urobilinogen |  |  |  |  |
84585 | A |  | Assay of urine vma |  |  |  |  |
84586 | A |  | Assay of vip |  |  |  |  |
84588 | A |  | Assay of vasopressin |  |  |  |  |
84590 | A |  | Assay of vitamin a |  |  |  |  |
84591 | A |  | Assay of nos vitamin |  |  |  |  |
84597 | A |  | Assay of vitamin k |  |  |  |  |
84600 | A |  | Assay of volatiles |  |  |  |  |
84620 | A |  | Xylose tolerance test |  |  |  |  |
84630 | A |  | Assay of zinc |  |  |  |  |
84681 | A |  | Assay of c-peptide |  |  |  |  |
84702 | A |  | Chorionic gonadotropin test |  |  |  |  |
84703 | A |  | Chorionic gonadotropin assay |  |  |  |  |
84830 | A |  | Ovulation tests |  |  |  |  |
84999 | A |  | Clinical chemistry test |  |  |  |  |
85002 | A |  | Bleeding time test |  |  |  |  |
85004 | A |  | Automated diff wbc count |  |  |  |  |
85007 | A |  | Differential WBC count |  |  |  |  |
85008 | A |  | Nondifferential WBC count |  |  |  |  |
85009 | A |  | Differential WBC count |  |  |  |  |
85013 | A |  | Spun microhematocrit |  |  |  |  |
85014 | A |  | Hematocrit |  |  |  |  |
85018 | A |  | Hemoglobin |  |  |  |  |
85025 | A |  | Automated hemogram |  |  |  |  |
85027 | A |  | Automated hemogram |  |  |  |  |
85032 | A |  | Manual cell count, each |  |  |  |  |
85041 | A |  | Red blood cell (RBC) count |  |  |  |  |
85044 | A |  | Reticulocyte count |  |  |  |  |
85045 | A |  | Reticulocyte count |  |  |  |  |
85046 | A |  | Reticyte/hgb concentrate |  |  |  |  |
85048 | A |  | White blood cell (WBC) count |  |  |  |  |
85049 | A |  | Automated platelet count |  |  |  |  |
85055 | A |  | Reticulated platelet assay |  |  |  |  |
85060 | B |  | Blood smear interpretation |  |  |  |  |
85097 | X |  | Bone marrow interpretation | 0343 | 0.4786 | $28.40 | $11.10 | $5.68
85130 | A |  | Chromogenic substrate assay |  |  |  |  |
85170 | A |  | Blood clot retraction |  |  |  |  |
85175 | A |  | Blood clot lysis time |  |  |  |  |
85210 | A |  | Blood clot factor II test |  |  |  |  |
85220 | A |  | Blood clot factor V test |  |  |  |  |
85230 | A |  | Blood clot factor VII test |  |  |  |  |
85240 | A |  | Blood clot factor VIII test |  |  |  |  |
85244 | A |  | Blood clot factor VIII test |  |  |  |  |
85245 | A |  | Blood clot factor VIII test |  |  |  |  |
85246 | A |  | Blood clot factor VIII test |  |  |  |  |
85247 | A |  | Blood clot factor VIII test |  |  |  |  |
85250 | A |  | Blood clot factor IX test |  |  |  |  |
85260 | A |  | Blood clot factor X test |  |  |  |  |
85270 | A |  | Blood clot factor XI test |  |  |  |  |
85280 | A |  | Blood clot factor XII test |  |  |  |  |
85290 | A |  | Blood clot factor XIII test |  |  |  |  |
85291 | A |  | Blood clot factor XIII test |  |  |  |  |
85292 | A |  | Blood clot factor assay |  |  |  |  |
85293 | A |  | Blood clot factor assay |  |  |  |  |
85300 | A |  | Antithrombin III test |  |  |  |  |
85301 | A |  | Antithrombin III test |  |  |  |  |
85302 | A |  | Blood clot inhibitor antigen |  |  |  |  |
85303 | A |  | Blood clot inhibitor test |  |  |  |  |
85305 | A |  | Blood clot inhibitor assay |  |  |  |  |
85306 | A |  | Blood clot inhibitor test |  |  |  |  |
85307 | A |  | Assay activated protein c |  |  |  |  |
85335 | A |  | Factor inhibitor test |  |  |  |  |
85337 | A |  | Thrombomodulin |  |  |  |  |
85345 | A |  | Coagulation time |  |  |  |  |
85347 | A |  | Coagulation time |  |  |  |  |
85348 | A |  | Coagulation time |  |  |  |  |
85360 | A |  | Euglobulin lysis |  |  |  |  |
85362 | A |  | Fibrin degradation products |  |  |  |  |
85366 | A |  | Fibrinogen test |  |  |  |  |
85370 | A |  | Fibrinogen test |  |  |  |  |
85378 | A |  | Fibrin degradation |  |  |  |  |
85379 | A |  | Fibrin degradation, quant |  |  |  |  |
85380 | A |  | Fibrin degradation, vte |  |  |  |  |
85384 | A |  | Fibrinogen |  |  |  |  |
85385 | A |  | Fibrinogen |  |  |  |  |
85390 | A |  | Fibrinolysins screen |  |  |  |  |
85396 | N |  | Clotting assay, whole blood |  |  |  |  |
85400 | A |  | Fibrinolytic plasmin |  |  |  |  |
85410 | A |  | Fibrinolytic antiplasmin |  |  |  |  |
85415 | A |  | Fibrinolytic plasminogen |  |  |  |  |
85420 | A |  | Fibrinolytic plasminogen |  |  |  |  |
85421 | A |  | Fibrinolytic plasminogen |  |  |  |  |
85441 | A |  | Heinz bodies, direct |  |  |  |  |
85445 | A |  | Heinz bodies, induced |  |  |  |  |
85460 | A |  | Hemoglobin, fetal |  |  |  |  |
85461 | A |  | Hemoglobin, fetal |  |  |  |  |
85475 | A |  | Hemolysin |  |  |  |  |
85520 | A |  | Heparin assay |  |  |  |  |
85525 | A |  | Heparin neutralization |  |  |  |  |
85530 | A |  | Heparin-protamine tolerance |  |  |  |  |
85536 | A |  | Iron stain peripheral blood |  |  |  |  |
85540 | A |  | Wbc alkaline phosphatase |  |  |  |  |
85547 | A |  | RBC mechanical fragility |  |  |  |  |
85549 | A |  | Muramidase |  |  |  |  |
85555 | A |  | RBC osmotic fragility |  |  |  |  |
85557 | A |  | RBC osmotic fragility |  |  |  |  |
85576 | A |  | Blood platelet aggregation |  |  |  |  |
85597 | A |  | Platelet neutralization |  |  |  |  |
85610 | A |  | Prothrombin time |  |  |  |  |
85611 | A |  | Prothrombin test |  |  |  |  |
85612 | A |  | Viper venom prothrombin time |  |  |  |  |
85613 | A |  | Russell viper venom, diluted |  |  |  |  |
85635 | A |  | Reptilase test |  |  |  |  |
85651 | A |  | Rbc sed rate, nonautomated |  |  |  |  |
85652 | A |  | Rbc sed rate, automated |  |  |  |  |
85660 | A |  | RBC sickle cell test |  |  |  |  |
85670 | A |  | Thrombin time, plasma |  |  |  |  |
85675 | A |  | Thrombin time, titer |  |  |  |  |
85705 | A |  | Thromboplastin inhibition |  |  |  |  |
85730 | A |  | Thromboplastin time, partial |  |  |  |  |
85732 | A |  | Thromboplastin time, partial |  |  |  |  |
85810 | A |  | Blood viscosity examination |  |  |  |  |
85999 | A |  | Hematology procedure |  |  |  |  |
86000 | A |  | Agglutinins, febrile |  |  |  |  |
86001 | A |  | Allergen specific igg |  |  |  |  |
86003 | A |  | Allergen specific IgE |  |  |  |  |
86005 | A |  | Allergen specific IgE |  |  |  |  |
86021 | A |  | WBC antibody identification |  |  |  |  |
86022 | A |  | Platelet antibodies |  |  |  |  |
86023 | A |  | Immunoglobulin assay |  |  |  |  |
86038 | A |  | Antinuclear antibodies |  |  |  |  |
86039 | A |  | Antinuclear antibodies (ANA) |  |  |  |  |
86060 | A |  | Antistreptolysin o, titer |  |  |  |  |
86063 | A |  | Antistreptolysin o, screen |  |  |  |  |
86064 | A |  | B cells, total count |  |  |  |  |
86077 | X |  | Physician blood bank service | 0433 | 0.2581 | $15.32 | $6.12 | $3.06
86078 | X |  | Physician blood bank service | 0343 | 0.4786 | $28.40 | $11.10 | $5.68
86079 | X |  | Physician blood bank service | 0433 | 0.2581 | $15.32 | $6.12 | $3.06
86140 | A |  | C-reactive protein |  |  |  |  |
86141 | A |  | C-reactive protein, hs |  |  |  |  |
86146 | A |  | Glycoprotein antibody |  |  |  |  |
86147 | A |  | Cardiolipin antibody |  |  |  |  |
86148 | A |  | Phospholipid antibody |  |  |  |  |
86155 | A |  | Chemotaxis assay |  |  |  |  |
86156 | A |  | Cold agglutinin, screen |  |  |  |  |
86157 | A |  | Cold agglutinin, titer |  |  |  |  |
86160 | A |  | Complement, antigen |  |  |  |  |
86161 | A |  | Complement/function activity |  |  |  |  |
86162 | A |  | Complement, total (CH50) |  |  |  |  |
86171 | A |  | Complement fixation, each |  |  |  |  |
86185 | A |  | Counterimmunoelectrophoresis |  |  |  |  |
86215 | A |  | Deoxyribonuclease, antibody |  |  |  |  |
86225 | A |  | DNA antibody |  |  |  |  |
86226 | A |  | DNA antibody, single strand |  |  |  |  |
86235 | A |  | Nuclear antigen antibody |  |  |  |  |
86243 | A |  | Fc receptor |  |  |  |  |
86255 | A |  | Fluorescent antibody, screen |  |  |  |  |
86256 | A |  | Fluorescent antibody, titer |  |  |  |  |
86277 | A |  | Growth hormone antibody |  |  |  |  |
86280 | A |  | Hemagglutination inhibition |  |  |  |  |
86294 | A |  | Immunoassay, tumor, qual |  |  |  |  |
86300 | A |  | Immunoassay, tumor, ca 15-3 |  |  |  |  |
86301 | A |  | Immunoassay, tumor, ca 19-9 |  |  |  |  |
86304 | A |  | Immunoassay, tumor, ca 125 |  |  |  |  |
86308 | A |  | Heterophile antibodies |  |  |  |  |
86309 | A |  | Heterophile antibodies |  |  |  |  |
86310 | A |  | Heterophile antibodies |  |  |  |  |
86316 | A |  | Immunoassay, tumor other |  |  |  |  |
86317 | A |  | Immunoassay,infectious agent |  |  |  |  |
86318 | A |  | Immunoassay,infectious agent |  |  |  |  |
86320 | A |  | Serum immunoelectrophoresis |  |  |  |  |
86325 | A |  | Other immunoelectrophoresis |  |  |  |  |
86327 | A |  | Immunoelectrophoresis assay |  |  |  |  |
86329 | A |  | Immunodiffusion |  |  |  |  |
86331 | A |  | Immunodiffusion ouchterlony |  |  |  |  |
86332 | A |  | Immune complex assay |  |  |  |  |
86334 | A |  | Immunofixation procedure |  |  |  |  |
86335 | A |  | Immunfix e-phorsis/urine/csf |  |  |  |  |
86336 | A |  | Inhibin A |  |  |  |  |
86337 | A |  | Insulin antibodies |  |  |  |  |
86340 | A |  | Intrinsic factor antibody |  |  |  |  |
86341 | A |  | Islet cell antibody |  |  |  |  |
86343 | A |  | Leukocyte histamine release |  |  |  |  |
86344 | A |  | Leukocyte phagocytosis |  |  |  |  |
86353 | A |  | Lymphocyte transformation |  |  |  |  |
86359 | A |  | T cells, total count |  |  |  |  |
86360 | A |  | T cell, absolute count/ratio |  |  |  |  |
86361 | A |  | T cell, absolute count |  |  |  |  |
86376 | A |  | Microsomal antibody |  |  |  |  |
86378 | A |  | Migration inhibitory factor |  |  |  |  |
86379 | A |  | Nk cells, total count |  |  |  |  |
86382 | A |  | Neutralization test, viral |  |  |  |  |
86384 | A |  | nitroblue tetrazolium dye |  |  |  |  |
86403 | A |  | Particle agglutination test |  |  |  |  |
86406 | A |  | Particle agglutination test |  |  |  |  |
86430 | A |  | Rheumatoid factor test |  |  |  |  |
86431 | A |  | Rheumatoid factor, quant |  |  |  |  |
86485 | X |  | Skin test, candida | 0341 | 0.1112 | $6.60 | $2.62 | $1.32
86490 | X |  | Coccidioidomycosis skin test | 0341 | 0.1112 | $6.60 | $2.62 | $1.32
86510 | X |  | Histoplasmosis skin test | 0341 | 0.1112 | $6.60 | $2.62 | $1.32
86580 | X |  | TB intradermal test | 0341 | 0.1112 | $6.60 | $2.62 | $1.32
86585 | X |  | TB tine test | 0341 | 0.1112 | $6.60 | $2.62 | $1.32
86586 | X |  | Skin test, unlisted | 0341 | 0.1112 | $6.60 | $2.62 | $1.32
86587 | A |  | Stem cells, total count |  |  |  |  |
86590 | A |  | Streptokinase, antibody |  |  |  |  |
86592 | A |  | Blood serology, qualitative |  |  |  |  |
86593 | A |  | Blood serology, quantitative |  |  |  |  |
86602 | A |  | Antinomyces antibody |  |  |  |  |
86603 | A |  | Adenovirus antibody |  |  |  |  |
86606 | A |  | Aspergillus antibody |  |  |  |  |
86609 | A |  | Bacterium antibody |  |  |  |  |
86611 | A |  | Bartonella antibody |  |  |  |  |
86612 | A |  | Blastomyces antibody |  |  |  |  |
86615 | A |  | Bordetella antibody |  |  |  |  |
86617 | A |  | Lyme disease antibody |  |  |  |  |
86618 | A |  | Lyme disease antibody |  |  |  |  |
86619 | A |  | Borrelia antibody |  |  |  |  |
86622 | A |  | Brucella antibody |  |  |  |  |
86625 | A |  | Campylobacter antibody |  |  |  |  |
86628 | A |  | Candida antibody |  |  |  |  |
86631 | A |  | Chlamydia antibody |  |  |  |  |
86632 | A |  | Chlamydia igm antibody |  |  |  |  |
86635 | A |  | Coccidioides antibody |  |  |  |  |
86638 | A |  | Q fever antibody |  |  |  |  |
86641 | A |  | Cryptococcus antibody |  |  |  |  |
86644 | A |  | CMV antibody |  |  |  |  |
86645 | A |  | CMV antibody, IgM |  |  |  |  |
86648 | A |  | Diphtheria antibody |  |  |  |  |
86651 | A |  | Encephalitis antibody |  |  |  |  |
86652 | A |  | Encephalitis antibody |  |  |  |  |
86653 | A |  | Encephalitis antibody |  |  |  |  |
86654 | A |  | Encephalitis antibody |  |  |  |  |
86658 | A |  | Enterovirus antibody |  |  |  |  |
86663 | A |  | Epstein-barr antibody |  |  |  |  |
86664 | A |  | Epstein-barr antibody |  |  |  |  |
86665 | A |  | Epstein-barr antibody |  |  |  |  |
86666 | A |  | Ehrlichia antibody |  |  |  |  |
86668 | A |  | Francisella tularensis |  |  |  |  |
86671 | A |  | Fungus antibody |  |  |  |  |
86674 | A |  | Giardia lamblia antibody |  |  |  |  |
86677 | A |  | Helicobacter pylori |  |  |  |  |
86682 | A |  | Helminth antibody |  |  |  |  |
86684 | A |  | Hemophilus influenza |  |  |  |  |
86687 | A |  | Htlv-i antibody |  |  |  |  |
86688 | A |  | Htlv-ii antibody |  |  |  |  |
86689 | A |  | HTLV/HIV confirmatory test |  |  |  |  |
86692 | A |  | Hepatitis, delta agent |  |  |  |  |
86694 | A |  | Herpes simplex test |  |  |  |  |
86695 | A |  | Herpes simplex test |  |  |  |  |
86696 | A |  | Herpes simplex type 2 |  |  |  |  |
86698 | A |  | Histoplasma |  |  |  |  |
86701 | A |  | HIV-1 |  |  |  |  |
86702 | A |  | HIV-2 |  |  |  |  |
86703 | A |  | HIV-1/HIV-2, single assay |  |  |  |  |
86704 | A |  | Hep b core antibody, total |  |  |  |  |
86705 | A |  | Hep b core antibody, igm |  |  |  |  |
86706 | A |  | Hep b surface antibody |  |  |  |  |
86707 | A |  | Hep be antibody |  |  |  |  |
86708 | A |  | Hep a antibody, total |  |  |  |  |
86709 | A |  | Hep a antibody, igm |  |  |  |  |
86710 | A |  | Influenza virus antibody |  |  |  |  |
86713 | A |  | Legionella antibody |  |  |  |  |
86717 | A |  | Leishmania antibody |  |  |  |  |
86720 | A |  | Leptospira antibody |  |  |  |  |
86723 | A |  | Listeria monocytogenes ab |  |  |  |  |
86727 | A |  | Lymph choriomeningitis ab |  |  |  |  |
86729 | A |  | Lympho venereum antibody |  |  |  |  |
86732 | A |  | Mucormycosis antibody |  |  |  |  |
86735 | A |  | Mumps antibody |  |  |  |  |
86738 | A |  | Mycoplasma antibody |  |  |  |  |
86741 | A |  | Neisseria meningitidis |  |  |  |  |
86744 | A |  | Nocardia antibody |  |  |  |  |
86747 | A |  | Parvovirus antibody |  |  |  |  |
86750 | A |  | Malaria antibody |  |  |  |  |
86753 | A |  | Protozoa antibody nos |  |  |  |  |
86756 | A |  | Respiratory virus antibody |  |  |  |  |
86757 | A |  | Rickettsia antibody |  |  |  |  |
86759 | A |  | Rotavirus antibody |  |  |  |  |
86762 | A |  | Rubella antibody |  |  |  |  |
86765 | A |  | Rubeola antibody |  |  |  |  |
86768 | A |  | Salmonella antibody |  |  |  |  |
86771 | A |  | Shigella antibody |  |  |  |  |
86774 | A |  | Tetanus antibody |  |  |  |  |
86777 | A |  | Toxoplasma antibody |  |  |  |  |
86778 | A |  | Toxoplasma antibody, igm |  |  |  |  |
86781 | A |  | Treponema pallidum, confirm |  |  |  |  |
86784 | A |  | Trichinella antibody |  |  |  |  |
86787 | A |  | Varicella-zoster antibody |  |  |  |  |
86790 | A |  | Virus antibody nos |  |  |  |  |
86793 | A |  | Yersinia antibody |  |  |  |  |
86800 | A |  | Thyroglobulin antibody |  |  |  |  |
86803 | A |  | Hepatitis c ab test |  |  |  |  |
86804 | A |  | Hep c ab test, confirm |  |  |  |  |
86805 | A |  | Lymphocytotoxicity assay |  |  |  |  |
86806 | A |  | Lymphocytotoxicity assay |  |  |  |  |
86807 | A |  | Cytotoxic antibody screening |  |  |  |  |
86808 | A |  | Cytotoxic antibody screening |  |  |  |  |
86812 | A |  | HLA typing, A, B, or C |  |  |  |  |
86813 | A |  | HLA typing, A, B, or C |  |  |  |  |
86816 | A |  | HLA typing, DR/DQ |  |  |  |  |
86817 | A |  | HLA typing, DR/DQ |  |  |  |  |
86821 | A |  | Lymphocyte culture, mixed |  |  |  |  |
86822 | A |  | Lymphocyte culture, primed |  |  |  |  |
86849 | A |  | Immunology procedure |  |  |  |  |
86850 | X |  | RBC antibody screen | 0345 | 0.2277 | $13.51 | $3.01 | $2.70
86860 | X |  | RBC antibody elution | 0346 | 0.3434 | $20.38 | $4.54 | $4.08
86870 | X |  | RBC antibody identification | 0346 | 0.3434 | $20.38 | $4.54 | $4.08
86880 | X |  | Coombs test, direct | 0409 | 0.1258 | $7.47 | $2.22 | $1.49
86885 | X |  | Coombs test, indirect, qual | 0409 | 0.1258 | $7.47 | $2.22 | $1.49
86886 | X |  | Coombs test, indirect, titer | 0409 | 0.1258 | $7.47 | $2.22 | $1.49
86890 | X |  | Autologous blood process | 0347 | 0.8434 | $50.05 | $12.35 | $10.01
86891 | X |  | Autologous blood, op salvage | 0346 | 0.3434 | $20.38 | $4.54 | $4.08
86900 | X |  | Blood typing, ABO | 0409 | 0.1258 | $7.47 | $2.22 | $1.49
86901 | X |  | Blood typing, Rh (D) | 0409 | 0.1258 | $7.47 | $2.22 | $1.49
86903 | X |  | Blood typing, antigen screen | 0345 | 0.2277 | $13.51 | $3.01 | $2.70
86904 | X |  | Blood typing, patient serum | 0346 | 0.3434 | $20.38 | $4.54 | $4.08
86905 | X |  | Blood typing, RBC antigens | 0345 | 0.2277 | $13.51 | $3.01 | $2.70
86906 | X |  | Blood typing, Rh phenotype | 0345 | 0.2277 | $13.51 | $3.01 | $2.70
86910 | E |  | Blood typing, paternity test |  |  |  |  |
86911 | E |  | Blood typing, antigen system |  |  |  |  |
86920 | X |  | Compatibility test | 0346 | 0.3434 | $20.38 | $4.54 | $4.08
86921 | X |  | Compatibility test | 0345 | 0.2277 | $13.51 | $3.01 | $2.70
86922 | X |  | Compatibility test | 0346 | 0.3434 | $20.38 | $4.54 | $4.08
86927 | X |  | Plasma, fresh frozen | 0345 | 0.2277 | $13.51 | $3.01 | $2.70
86930 | X |  | Frozen blood prep | 0347 | 0.8434 | $50.05 | $12.35 | $10.01
86931 | X |  | Frozen blood thaw | 0347 | 0.8434 | $50.05 | $12.35 | $10.01
86932 | X |  | Frozen blood freeze/thaw | 0347 | 0.8434 | $50.05 | $12.35 | $10.01
86940 | A |  | Hemolysins/agglutinins, auto |  |  |  |  |
86941 | A |  | Hemolysins/agglutinins |  |  |  |  |
86945 | X |  | Blood product/irradiation | 0345 | 0.2277 | $13.51 | $3.01 | $2.70
86950 | X |  | Leukacyte transfusion | 0345 | 0.2277 | $13.51 | $3.01 | $2.70
86965 | X |  | Pooling blood platelets | 0345 | 0.2277 | $13.51 | $3.01 | $2.70
86970 | X |  | RBC pretreatment | 0345 | 0.2277 | $13.51 | $3.01 | $2.70
86971 | X |  | RBC pretreatment | 0345 | 0.2277 | $13.51 | $3.01 | $2.70
86972 | X |  | RBC pretreatment | 0346 | 0.3434 | $20.38 | $4.54 | $4.08
86975 | X |  | RBC pretreatment, serum | 0345 | 0.2277 | $13.51 | $3.01 | $2.70
86976 | X |  | RBC pretreatment, serum | 0345 | 0.2277 | $13.51 | $3.01 | $2.70
86977 | X |  | RBC pretreatment, serum | 0345 | 0.2277 | $13.51 | $3.01 | $2.70
86978 | X |  | RBC pretreatment, serum | 0345 | 0.2277 | $13.51 | $3.01 | $2.70
86985 | X |  | Split blood or products | 0345 | 0.2277 | $13.51 | $3.01 | $2.70
86999 | X |  | Transfusion procedure | 0345 | 0.2277 | $13.51 | $3.01 | $2.70
87001 | A |  | Small animal inoculation |  |  |  |  |
87003 | A |  | Small animal inoculation |  |  |  |  |
87015 | A |  | Specimen concentration |  |  |  |  |
87040 | A |  | Blood culture for bacteria |  |  |  |  |
87045 | A |  | Feces culture, bacteria |  |  |  |  |
87046 | A |  | Stool cultr, bacteria, each |  |  |  |  |
87070 | A |  | Culture, bacteria, other |  |  |  |  |
87071 | A |  | Culture bacteri aerobic othr |  |  |  |  |
87073 | A |  | Culture bacteria anaerobic |  |  |  |  |
87075 | A |  | Cultr bacteria, except blood |  |  |  |  |
87076 | A |  | Culture anaerobe ident, each |  |  |  |  |
87077 | A |  | Culture aerobic identify |  |  |  |  |
87081 | A |  | Culture screen only |  |  |  |  |
87084 | A |  | Culture of specimen by kit |  |  |  |  |
87086 | A |  | Urine culture/colony count |  |  |  |  |
87088 | A |  | Urine bacteria culture |  |  |  |  |
87101 | A |  | Skin fungi culture |  |  |  |  |
87102 | A |  | Fungus isolation culture |  |  |  |  |
87103 | A |  | Blood fungus culture |  |  |  |  |
87106 | A |  | Fungi identification, yeast |  |  |  |  |
87107 | A |  | Fungi identification, mold |  |  |  |  |
87109 | A |  | Mycoplasma |  |  |  |  |
87110 | A |  | Chlamydia culture |  |  |  |  |
87116 | A |  | Mycobacteria culture |  |  |  |  |
87118 | A |  | Mycobacteric identification |  |  |  |  |
87140 | A |  | Culture type immunofluoresc |  |  |  |  |
87143 | A |  | Culture typing, glc/hplc |  |  |  |  |
87147 | A |  | Culture type, immunologic |  |  |  |  |
87149 | A |  | Culture type, nucleic acid |  |  |  |  |
87152 | A |  | Culture type pulse field gel |  |  |  |  |
87158 | A |  | Culture typing, added method |  |  |  |  |
87164 | A |  | Dark field examination |  |  |  |  |
87166 | A |  | Dark field examination |  |  |  |  |
87168 | A |  | Macroscopic exam arthropod |  |  |  |  |
87169 | A |  | Macroscopic exam parasite |  |  |  |  |
87172 | A |  | Pinworm exam |  |  |  |  |
87176 | A |  | Tissue homogenization, cultr |  |  |  |  |
87177 | A |  | Ova and parasites smears |  |  |  |  |
87181 | A |  | Microbe susceptible, diffuse |  |  |  |  |
87184 | A |  | Microbe susceptible, disk |  |  |  |  |
87185 | A |  | Microbe susceptible, enzyme |  |  |  |  |
87186 | A |  | Microbe susceptible, mic |  |  |  |  |
87187 | A |  | Microbe susceptible, mlc |  |  |  |  |
87188 | A |  | Microbe suscept, macrobroth |  |  |  |  |
87190 | A |  | Microbe suscept, mycobacteri |  |  |  |  |
87197 | A |  | Bactericidal level, serum |  |  |  |  |
87205 | A |  | Smear, gram stain |  |  |  |  |
87206 | A |  | Smear, fluorescent/acid stai |  |  |  |  |
87207 | A |  | Smear, special stain |  |  |  |  |
87210 | A |  | Smear, wet mount, saline/ink |  |  |  |  |
87220 | A |  | Tissue exam for fungi |  |  |  |  |
87230 | A |  | Assay, toxin or antitoxin |  |  |  |  |
87250 | A |  | Virus inoculate, eggs/animal |  |  |  |  |
87252 | A |  | Virus inoculation, tissue |  |  |  |  |
87253 | A |  | Virus inoculate tissue, addl |  |  |  |  |
87254 | A |  | Virus inoculation, shell via |  |  |  |  |
87255 | A |  | Genet virus isolate, hsv |  |  |  |  |
87260 | A |  | Adenovirus ag, if |  |  |  |  |
87265 | A |  | Pertussis ag, if |  |  |  |  |
87267 | A |  | Enterovirus antibody, dfa |  |  |  |  |
87269 | A |  | Giardia ag, if |  |  |  |  |
87270 | A |  | Chlamydia trachomatis ag, if |  |  |  |  |
87271 | A |  | Cryptosporidum/gardia ag, if |  |  |  |  |
87272 | A |  | Cryptosporidium ag, if |  |  |  |  |
87273 | A |  | Herpes simplex 2, ag, if |  |  |  |  |
87274 | A |  | Herpes simplex 1, ag, if |  |  |  |  |
87275 | A |  | Influenza b, ag, if |  |  |  |  |
87276 | A |  | Influenza a, ag, if |  |  |  |  |
87277 | A |  | Legionella micdadei, ag, if |  |  |  |  |
87278 | A |  | Legion pneumophilia ag, if |  |  |  |  |
87279 | A |  | Parainfluenza, ag, if |  |  |  |  |
87280 | A |  | Respiratory syncytial ag, if |  |  |  |  |
87281 | A |  | Pneumocystis carinii, ag, if |  |  |  |  |
87283 | A |  | Rubeola, ag, if |  |  |  |  |
87285 | A |  | Treponema pallidum, ag, if |  |  |  |  |
87290 | A |  | Varicella zoster, ag, if |  |  |  |  |
87299 | A |  | Antibody detection, nos, if |  |  |  |  |
87300 | A |  | Ag detection, polyval, if |  |  |  |  |
87301 | A |  | Adenovirus ag, eia |  |  |  |  |
87320 | A |  | Chylmd trach ag, eia |  |  |  |  |
87324 | A |  | Clostridium ag, eia |  |  |  |  |
87327 | A |  | Cryptococcus neoform ag, eia |  |  |  |  |
87328 | A |  | Cryptosporidium ag, eia |  |  |  |  |
87329 | A |  | Giardia ag, eia |  |  |  |  |
87332 | A |  | Cytomegalovirus ag, eia |  |  |  |  |
87335 | A |  | E coli 0157 ag, eia |  |  |  |  |
87336 | A |  | Entamoeb hist dispr, ag, eia |  |  |  |  |
87337 | A |  | Entamoeb hist group, ag, eia |  |  |  |  |
87338 | A |  | Hpylori, stool, eia |  |  |  |  |
87339 | A |  | H pylori ag, eia |  |  |  |  |
87340 | A |  | Hepatitis b surface ag, eia |  |  |  |  |
87341 | A |  | Hepatitis b surface, ag, eia |  |  |  |  |
87350 | A |  | Hepatitis be ag, eia |  |  |  |  |
87380 | A |  | Hepatitis delta ag, eia |  |  |  |  |
87385 | A |  | Histoplasma capsul ag, eia |  |  |  |  |
87390 | A |  | Hiv-1 ag, eia |  |  |  |  |
87391 | A |  | Hiv-2 ag, eia |  |  |  |  |
87400 | A |  | Influenza a/b, ag, eia |  |  |  |  |
87420 | A |  | Resp syncytial ag, eia |  |  |  |  |
87425 | A |  | Rotavirus ag, eia |  |  |  |  |
87427 | A |  | Shiga-like toxin ag, eia |  |  |  |  |
87430 | A |  | Strep a ag, eia |  |  |  |  |
87449 | A |  | Ag detect nos, eia, mult |  |  |  |  |
87450 | A |  | Ag detect nos, eia, single |  |  |  |  |
87451 | A |  | Ag detect polyval, eia, mult |  |  |  |  |
87470 | A |  | Bartonella, dna, dir probe |  |  |  |  |
87471 | A |  | Bartonella, dna, amp probe |  |  |  |  |
87472 | A |  | Bartonella, dna, quant |  |  |  |  |
87475 | A |  | Lyme dis, dna, dir probe |  |  |  |  |
87476 | A |  | Lyme dis, dna, amp probe |  |  |  |  |
87477 | A |  | Lyme dis, dna, quant |  |  |  |  |
87480 | A |  | Candida, dna, dir probe |  |  |  |  |
87481 | A |  | Candida, dna, amp probe |  |  |  |  |
87482 | A |  | Candida, dna, quant |  |  |  |  |
87485 | A |  | Chylmd pneum, dna, dir probe |  |  |  |  |
87486 | A |  | Chylmd pneum, dna, amp probe |  |  |  |  |
87487 | A |  | Chylmd pneum, dna, quant |  |  |  |  |
87490 | A |  | Chylmd trach, dna, dir probe |  |  |  |  |
87491 | A |  | Chylmd trach, dna, amp probe |  |  |  |  |
87492 | A |  | Chylmd trach, dna, quant |  |  |  |  |
87495 | A |  | Cytomeg, dna, dir probe |  |  |  |  |
87496 | A |  | Cytomeg, dna, amp probe |  |  |  |  |
87497 | A |  | Cytomeg, dna, quant |  |  |  |  |
87510 | A |  | Gardner vag, dna, dir probe |  |  |  |  |
87511 | A |  | Gardner vag, dna, amp probe |  |  |  |  |
87512 | A |  | Gardner vag, dna, quant |  |  |  |  |
87515 | A |  | Hepatitis b, dna, dir probe |  |  |  |  |
87516 | A |  | Hepatitis b, dna, amp probe |  |  |  |  |
87517 | A |  | Hepatitis b, dna, quant |  |  |  |  |
87520 | A |  | Hepatitis c, rna, dir probe |  |  |  |  |
87521 | A |  | Hepatitis c, rna, amp probe |  |  |  |  |
87522 | A |  | Hepatitis c, rna, quant |  |  |  |  |
87525 | A |  | Hepatitis g, dna, dir probe |  |  |  |  |
87526 | A |  | Hepatitis g, dna, amp probe |  |  |  |  |
87527 | A |  | Hepatitis g, dna, quant |  |  |  |  |
87528 | A |  | Hsv, dna, dir probe |  |  |  |  |
87529 | A |  | Hsv, dna, amp probe |  |  |  |  |
87530 | A |  | Hsv, dna, quant |  |  |  |  |
87531 | A |  | Hhv-6, dna, dir probe |  |  |  |  |
87532 | A |  | Hhv-6, dna, amp probe |  |  |  |  |
87533 | A |  | Hhv-6, dna, quant |  |  |  |  |
87534 | A |  | Hiv-1, dna, dir probe |  |  |  |  |
87535 | A |  | Hiv-1, dna, amp probe |  |  |  |  |
87536 | A |  | Hiv-1, dna, quant |  |  |  |  |
87537 | A |  | Hiv-2, dna, dir probe |  |  |  |  |
87538 | A |  | Hiv-2, dna, amp probe |  |  |  |  |
87539 | A |  | Hiv-2, dna, quant |  |  |  |  |
87540 | A |  | Legion pneumo, dna, dir prob |  |  |  |  |
87541 | A |  | Legion pneumo, dna, amp prob |  |  |  |  |
87542 | A |  | Legion pneumo, dna, quant |  |  |  |  |
87550 | A |  | Mycobacteria, dna, dir probe |  |  |  |  |
87551 | A |  | Mycobacteria, dna, amp probe |  |  |  |  |
87552 | A |  | Mycobacteria, dna, quant |  |  |  |  |
87555 | A |  | M.tuberculo, dna, dir probe |  |  |  |  |
87556 | A |  | M.tuberculo, dna, amp probe |  |  |  |  |
87557 | A |  | M.tuberculo, dna, quant |  |  |  |  |
87560 | A |  | M.avium-intra, dna, dir prob |  |  |  |  |
87561 | A |  | M.avium-intra, dna, amp prob |  |  |  |  |
87562 | A |  | M.avium-intra, dna, quant |  |  |  |  |
87580 | A |  | M.pneumon, dna, dir probe |  |  |  |  |
87581 | A |  | M.pneumon, dna, amp probe |  |  |  |  |
87582 | A |  | M.pneumon, dna, quant |  |  |  |  |
87590 | A |  | N.gonorrhoeae, dna, dir prob |  |  |  |  |
87591 | A |  | N.gonorrhoeae, dna, amp prob |  |  |  |  |
87592 | A |  | N.gonorrhoeae, dna, quant |  |  |  |  |
87620 | A |  | Hpv, dna, dir probe |  |  |  |  |
87621 | A |  | Hpv, dna, amp probe |  |  |  |  |
87622 | A |  | Hpv, dna, quant |  |  |  |  |
87650 | A |  | Strep a, dna, dir probe |  |  |  |  |
87651 | A |  | Strep a, dna, amp probe |  |  |  |  |
87652 | A |  | Strep a, dna, quant |  |  |  |  |
87660 | A |  | Trichomonas vagin, dir probe |  |  |  |  |
87797 | A |  | Detect agent nos, dna, dir |  |  |  |  |
87798 | A |  | Detect agent nos, dna, amp |  |  |  |  |
87799 | A |  | Detect agent nos, dna, quant |  |  |  |  |
87800 | A |  | Detect agnt mult, dna, direc |  |  |  |  |
87801 | A |  | Detect agnt mult, dna, ampli |  |  |  |  |
87802 | A |  | Strep b assay w/optic |  |  |  |  |
87803 | A |  | Clostridium toxin a w/optic |  |  |  |  |
87804 | A |  | Influenza assay w/optic |  |  |  |  |
87807 | A |  | Rsv assay w/optic |  |  |  |  |
87810 | A |  | Chylmd trach assay w/optic |  |  |  |  |
87850 | A |  | N. gonorrhoeae assay w/optic |  |  |  |  |
87880 | A |  | Strep a assay w/optic |  |  |  |  |
87899 | A |  | Agent nos assay w/optic |  |  |  |  |
87901 | A |  | Genotype, dna, hiv reverse t |  |  |  |  |
87902 | A |  | Genotype, dna, hepatitis C |  |  |  |  |
87903 | A |  | Phenotype, dna hiv w/culture |  |  |  |  |
87904 | A |  | Phenotype, dna hiv w/clt add |  |  |  |  |
87999 | A |  | Microbiology procedure |  |  |  |  |
88000 | E |  | Autopsy (necropsy), gross |  |  |  |  |
88005 | E |  | Autopsy (necropsy), gross |  |  |  |  |
88007 | E |  | Autopsy (necropsy), gross |  |  |  |  |
88012 | E |  | Autopsy (necropsy), gross |  |  |  |  |
88014 | E |  | Autopsy (necropsy), gross |  |  |  |  |
88016 | E |  | Autopsy (necropsy), gross |  |  |  |  |
88020 | E |  | Autopsy (necropsy), complete |  |  |  |  |
88025 | E |  | Autopsy (necropsy), complete |  |  |  |  |
88027 | E |  | Autopsy (necropsy), complete |  |  |  |  |
88028 | E |  | Autopsy (necropsy), complete |  |  |  |  |
88029 | E |  | Autopsy (necropsy), complete |  |  |  |  |
88036 | E |  | Limited autopsy |  |  |  |  |
88037 | E |  | Limited autopsy |  |  |  |  |
88040 | E |  | Forensic autopsy (necropsy) |  |  |  |  |
88045 | E |  | Coroner's autopsy (necropsy) |  |  |  |  |
88099 | E |  | Necropsy (autopsy) procedure |  |  |  |  |
88104 | X |  | Cytopathology, fluids | 0433 | 0.2581 | $15.32 | $6.12 | $3.06
88106 | X |  | Cytopathology, fluids | 0433 | 0.2581 | $15.32 | $6.12 | $3.06
88107 | X |  | Cytopathology, fluids | 0433 | 0.2581 | $15.32 | $6.12 | $3.06
88108 | X |  | Cytopath, concentrate tech | 0433 | 0.2581 | $15.32 | $6.12 | $3.06
88112 | X |  | Cytopath, cell enhance tech | 0343 | 0.4786 | $28.40 | $11.10 | $5.68
88125 | X |  | Forensic cytopathology | 0342 | 0.156 | $9.26 | $3.70 | $1.85
88130 | A |  | Sex chromatin identification |  |  |  |  |
88140 | A |  | Sex chromatin identification |  |  |  |  |
88141 | N |  | Cytopath, c/v, interpret |  |  |  |  |
88142 | A |  | Cytopath, c/v, thin layer |  |  |  |  |
88143 | A |  | Cytopath c/v thin layer redo |  |  |  |  |
88147 | A |  | Cytopath, c/v, automated |  |  |  |  |
88148 | A |  | Cytopath, c/v, auto rescreen |  |  |  |  |
88150 | A |  | Cytopath, c/v, manual |  |  |  |  |
88152 | A |  | Cytopath, c/v, auto redo |  |  |  |  |
88153 | A |  | Cytopath, c/v, redo |  |  |  |  |
88154 | A |  | Cytopath, c/v, select |  |  |  |  |
88155 | A |  | Cytopath, c/v, index add-on |  |  |  |  |
88160 | X |  | Cytopath smear, other source | 0433 | 0.2581 | $15.32 | $6.12 | $3.06
88161 | X |  | Cytopath smear, other source | 0433 | 0.2581 | $15.32 | $6.12 | $3.06
88162 | X |  | Cytopath smear, other source | 0433 | 0.2581 | $15.32 | $6.12 | $3.06
88164 | A |  | Cytopath tbs, c/v, manual |  |  |  |  |
88165 | A |  | Cytopath tbs, c/v, redo |  |  |  |  |
88166 | A |  | Cytopath tbs, c/v, auto redo |  |  |  |  |
88167 | A |  | Cytopath tbs, c/v, select |  |  |  |  |
88172 | X |  | Cytopathology eval of fna | 0343 | 0.4786 | $28.40 | $11.10 | $5.68
88173 | X |  | Cytopath eval, fna, report | 0343 | 0.4786 | $28.40 | $11.10 | $5.68
88174 | A |  | Cytopath, c/v auto, in fluid |  |  |  |  |
88175 | A |  | Cytopath c/v auto fluid redo |  |  |  |  |
88182 | X |  | Cell marker study | 0344 | 0.7996 | $47.45 | $15.66 | $9.49
88184 | X |  | Flowcytometry/ tc, 1 marker | 0344 | 0.7996 | $47.45 | $15.66 | $9.49
88185 | X |  | Flowcytometry/tc, add-on | 0343 | 0.4786 | $28.40 | $11.10 | $5.68
88187 | X |  | Flowcytometry/read, 2-8 | 0433 | 0.2581 | $15.32 | $6.12 | $3.06
88188 | X |  | Flowcytometry/read, 9-15 | 0433 | 0.2581 | $15.32 | $6.12 | $3.06
88189 | X |  | Flowcytometry/read, 16 & > | 0343 | 0.4786 | $28.40 | $11.10 | $5.68
88199 | A |  | Cytopathology procedure |  |  |  |  |
88230 | A |  | Tissue culture, lymphocyte |  |  |  |  |
88233 | A |  | Tissue culture, skin/biopsy |  |  |  |  |
88235 | A |  | Tissue culture, placenta |  |  |  |  |
88237 | A |  | Tissue culture, bone marrow |  |  |  |  |
88239 | A |  | Tissue culture, tumor |  |  |  |  |
88240 | A |  | Cell cryopreserve/storage |  |  |  |  |
88241 | A |  | Frozen cell preparation |  |  |  |  |
88245 | A |  | Chromosome analysis, 20-25 |  |  |  |  |
88248 | A |  | Chromosome analysis, 50-100 |  |  |  |  |
88249 | A |  | Chromosome analysis, 100 |  |  |  |  |
88261 | A |  | Chromosome analysis, 5 |  |  |  |  |
88262 | A |  | Chromosome analysis, 15-20 |  |  |  |  |
88263 | A |  | Chromosome analysis, 45 |  |  |  |  |
88264 | A |  | Chromosome analysis, 20-25 |  |  |  |  |
88267 | A |  | Chromosome analys, placenta |  |  |  |  |
88269 | A |  | Chromosome analys, amniotic |  |  |  |  |
88271 | A |  | Cytogenetics, dna probe |  |  |  |  |
88272 | A |  | Cytogenetics, 3-5 |  |  |  |  |
88273 | A |  | Cytogenetics, 10-30 |  |  |  |  |
88274 | A |  | Cytogenetics, 25-99 |  |  |  |  |
88275 | A |  | Cytogenetics, 100-300 |  |  |  |  |
88280 | A |  | Chromosome karyotype study |  |  |  |  |
88283 | A |  | Chromosome banding study |  |  |  |  |
88285 | A |  | Chromosome count, additional |  |  |  |  |
88289 | A |  | Chromosome study, additional |  |  |  |  |
88291 | A |  | Cyto/molecular report |  |  |  |  |
88299 | X |  | Cytogenetic study | 0342 | 0.156 | $9.26 | $3.70 | $1.85
88300 | X |  | Surgical path, gross | 0433 | 0.2581 | $15.32 | $6.12 | $3.06
88302 | X |  | Tissue exam by pathologist | 0433 | 0.2581 | $15.32 | $6.12 | $3.06
88304 | X |  | Tissue exam by pathologist | 0343 | 0.4786 | $28.40 | $11.10 | $5.68
88305 | X |  | Tissue exam by pathologist | 0343 | 0.4786 | $28.40 | $11.10 | $5.68
88307 | X |  | Tissue exam by pathologist | 0344 | 0.7996 | $47.45 | $15.66 | $9.49
88309 | X |  | Tissue exam by pathologist | 0344 | 0.7996 | $47.45 | $15.66 | $9.49
88311 | X |  | Decalcify tissue | 0342 | 0.156 | $9.26 | $3.70 | $1.85
88312 | X |  | Special stains | 0433 | 0.2581 | $15.32 | $6.12 | $3.06
88313 | X |  | Special stains | 0433 | 0.2581 | $15.32 | $6.12 | $3.06
88314 | X |  | Histochemical stain | 0342 | 0.156 | $9.26 | $3.70 | $1.85
88318 | X |  | Chemical histochemistry | 0433 | 0.2581 | $15.32 | $6.12 | $3.06
88319 | X |  | Enzyme histochemistry | 0343 | 0.4786 | $28.40 | $11.10 | $5.68
88321 | X |  | Microslide consultation | 0433 | 0.2581 | $15.32 | $6.12 | $3.06
88323 | X |  | Microslide consultation | 0343 | 0.4786 | $28.40 | $11.10 | $5.68
88325 | X |  | Comprehensive review of data | 0344 | 0.7996 | $47.45 | $15.66 | $9.49
88329 | X |  | Path consult introp | 0433 | 0.2581 | $15.32 | $6.12 | $3.06
88331 | X |  | Path consult intraop, 1 bloc | 0343 | 0.4786 | $28.40 | $11.10 | $5.68
88332 | X |  | Path consult intraop, add'l | 0433 | 0.2581 | $15.32 | $6.12 | $3.06
88342 | X |  | Immunohistochemistry | 0343 | 0.4786 | $28.40 | $11.10 | $5.68
88346 | X |  | Immunofluorescent study | 0343 | 0.4786 | $28.40 | $11.10 | $5.68
88347 | X |  | Immunofluorescent study | 0343 | 0.4786 | $28.40 | $11.10 | $5.68
88348 | X |  | Electron microscopy | 0661 | 3.3775 | $200.43 | $80.17 | $40.09
88349 | X |  | Scanning electron microscopy | 0661 | 3.3775 | $200.43 | $80.17 | $40.09
88355 | X |  | Analysis, skeletal muscle | 0343 | 0.4786 | $28.40 | $11.10 | $5.68
88356 | X |  | Analysis, nerve | 0344 | 0.7996 | $47.45 | $15.66 | $9.49
88358 | X |  | Analysis, tumor | 0344 | 0.7996 | $47.45 | $15.66 | $9.49
88360 | X |  | Tumor immunohistochem/manual | 0344 | 0.7996 | $47.45 | $15.66 | $9.49
88361 | X |  | Immunohistochemistry, tumor | 0344 | 0.7996 | $47.45 | $15.66 | $9.49
88362 | X |  | Nerve teasing preparations | 0344 | 0.7996 | $47.45 | $15.66 | $9.49
88365 | X |  | Tissue hybridization | 0344 | 0.7996 | $47.45 | $15.66 | $9.49
88367 | X |  | Insitu hybridization, auto | 0344 | 0.7996 | $47.45 | $15.66 | $9.49
88368 | X |  | Insitu hybridization, manual | 0344 | 0.7996 | $47.45 | $15.66 | $9.49
88371 | A |  | Protein, western blot tissue |  |  |  |  |
88372 | A |  | Protein analysis w/probe |  |  |  |  |
88380 | A |  | Microdissection |  |  |  |  |
88399 | A |  | Surgical pathology procedure |  |  |  |  |
88400 | A |  | Bilirubin total transcut |  |  |  |  |
89050 | A |  | Body fluid cell count |  |  |  |  |
89051 | A |  | Body fluid cell count |  |  |  |  |
89055 | A |  | Leukocyte assessment, fecal |  |  |  |  |
89060 | A |  | Exam,synovial fluid crystals |  |  |  |  |
89100 | X |  | Sample intestinal contents | 0360 | 1.4739 | $87.47 | $34.98 | $17.49
89105 | X |  | Sample intestinal contents | 0360 | 1.4739 | $87.47 | $34.98 | $17.49
89125 | A |  | Specimen fat stain |  |  |  |  |
89130 | X |  | Sample stomach contents | 0360 | 1.4739 | $87.47 | $34.98 | $17.49
89132 | X |  | Sample stomach contents | 0360 | 1.4739 | $87.47 | $34.98 | $17.49
89135 | X |  | Sample stomach contents | 0360 | 1.4739 | $87.47 | $34.98 | $17.49
89136 | X |  | Sample stomach contents | 0360 | 1.4739 | $87.47 | $34.98 | $17.49
89140 | X |  | Sample stomach contents | 0360 | 1.4739 | $87.47 | $34.98 | $17.49
89141 | X |  | Sample stomach contents | 0360 | 1.4739 | $87.47 | $34.98 | $17.49
89160 | A |  | Exam feces for meat fibers |  |  |  |  |
89190 | A |  | Nasal smear for eosinophils |  |  |  |  |
89220 | X |  | Sputum specimen collection | 0343 | 0.4786 | $28.40 | $11.10 | $5.68
89225 | A |  | Starch granules, feces |  |  |  |  |
89230 | X |  | Collect sweat for test | 0433 | 0.2581 | $15.32 | $6.12 | $3.06
89235 | A |  | Water load test |  |  |  |  |
89240 | A |  | Pathology lab procedure |  |  |  |  |
89250 | X |  | Cultr oocyte/embryo <4 days | 0348 | 0.7927 | $47.04 |  | $9.41
89251 | X |  | Cultr oocyte/embryo <4 days | 0348 | 0.7927 | $47.04 |  | $9.41
89253 | X |  | Embryo hatching | 0348 | 0.7927 | $47.04 |  | $9.41
89254 | X |  | Oocyte identification | 0348 | 0.7927 | $47.04 |  | $9.41
89255 | X |  | Prepare embryo for transfer | 0348 | 0.7927 | $47.04 |  | $9.41
89257 | X |  | Sperm identification | 0348 | 0.7927 | $47.04 |  | $9.41
89258 | X |  | Cryopreservation embryo(s) | 0348 | 0.7927 | $47.04 |  | $9.41
89259 | X |  | Cryopreservation, sperm | 0348 | 0.7927 | $47.04 |  | $9.41
89260 | X |  | Sperm isolation, simple | 0348 | 0.7927 | $47.04 |  | $9.41
89261 | X |  | Sperm isolation, complex | 0348 | 0.7927 | $47.04 |  | $9.41
89264 | X |  | Identify sperm tissue | 0348 | 0.7927 | $47.04 |  | $9.41
89268 | X |  | Insemination of oocytes | 0348 | 0.7927 | $47.04 |  | $9.41
89272 | X |  | Extended culture of oocytes | 0348 | 0.7927 | $47.04 |  | $9.41
89280 | X |  | Assist oocyte fertilization | 0348 | 0.7927 | $47.04 |  | $9.41
89281 | X |  | Assist oocyte fertilization | 0348 | 0.7927 | $47.04 |  | $9.41
89290 | X |  | Biopsy, oocyte polar body | 0348 | 0.7927 | $47.04 |  | $9.41
89291 | X |  | Biopsy, oocyte polar body | 0348 | 0.7927 | $47.04 |  | $9.41
89300 | A |  | Semen analysis w/huhner |  |  |  |  |
89310 | A |  | Semen analysis |  |  |  |  |
89320 | A |  | Semen analysis, complete |  |  |  |  |
89321 | A |  | Semen analysis & motility |  |  |  |  |
89325 | A |  | Sperm antibody test |  |  |  |  |
89329 | A |  | Sperm evaluation test |  |  |  |  |
89330 | A |  | Evaluation, cervical mucus |  |  |  |  |
89335 | X |  | Cryopreserve testicular tiss | 0348 | 0.7927 | $47.04 |  | $9.41
89342 | X |  | Storage/year embryo(s) | 0348 | 0.7927 | $47.04 |  | $9.41
89343 | X |  | Storage/year sperm/semen | 0348 | 0.7927 | $47.04 |  | $9.41
89344 | X |  | Storage/year reprod tissue | 0348 | 0.7927 | $47.04 |  | $9.41
89346 | X |  | Storage/year oocyte | 0348 | 0.7927 | $47.04 |  | $9.41
89352 | X |  | Thawing cryopresrved embryo | 0348 | 0.7927 | $47.04 |  | $9.41
89353 | X |  | Thawing cryopresrved sperm | 0348 | 0.7927 | $47.04 |  | $9.41
89354 | X |  | Thaw cryoprsvrd reprod tiss | 0348 | 0.7927 | $47.04 |  | $9.41
89356 | X |  | Thawing cryopresrved oocyte | 0348 | 0.7927 | $47.04 |  | $9.41
90281 | E |  | Human ig, im |  |  |  |  |
90283 | E |  | Human ig, iv |  |  |  |  |
90287 | E |  | Botulinum antitoxin |  |  |  |  |
90288 | E |  | Botulism ig, iv |  |  |  |  |
90291 | E |  | Cmv ig, iv |  |  |  |  |
90296 | N |  | Diphtheria antitoxin |  |  |  |  |
90371 | E |  | Hep b ig, im |  |  |  |  |
90375 | K |  | Rabies ig, im/sc | 9133 |  | $64.56 |  | $12.91
90376 | K |  | Rabies ig, heat treated | 9134 |  | $69.79 |  | $13.96
90378 | E |  | Rsv ig, im, 50mg |  |  |  |  |
90379 | E |  | Rsv ig, iv |  |  |  |  |
90384 | E |  | Rh ig, full-dose, im |  |  |  |  |
90385 | N |  | Rh ig, minidose, im |  |  |  |  |
90386 | E |  | Rh ig, iv |  |  |  |  |
90389 | E |  | Tetanus ig, im |  |  |  |  |
90393 | N |  | Vaccina ig, im |  |  |  |  |
90396 | K |  | Varicella-zoster ig, im | 9135 |  | $96.58 |  | $19.32
90399 | E |  | Immune globulin |  |  |  |  |
90465 | B |  | Immune admin 1 inj, < 8 yrs |  |  |  |  |
90466 | B |  | Immune admin addl inj, < 8 y |  |  |  |  |
90467 | B |  | Immune admin o or n, < 8 yrs |  |  |  |  |
90468 | B |  | Immune admin o/n, addl < 8 y |  |  |  |  |
90471 | X |  | Immunization admin | 0353 | 0.3954 | $23.46 |  | $4.69
90472 | X |  | Immunization admin, each add | 0353 | 0.3954 | $23.46 |  | $4.69
90473 | S |  | Immune admin oral/nasal | 1491 |  | $5.00 |  | $1.00
90474 | S |  | Immune admin oral/nasal addl | 1491 |  | $5.00 |  | $1.00
90476 | K |  | Adenovirus vaccine, type 4 | 9136 | 0.9499 | $56.37 |  | $11.27
90477 | N |  | Adenovirus vaccine, type 7 |  |  |  |  |
90581 | K |  | Anthrax vaccine, sc | 9169 |  | $128.95 |  | $25.79
90585 | K |  | Bcg vaccine, percut | 9137 |  | $124.54 |  | $24.91
90586 | B |  | Bcg vaccine, intravesical |  |  |  |  |
90632 | N |  | Hep a vaccine, adult im |  |  |  |  |
90633 | N |  | Hep a vacc, ped/adol, 2 dose |  |  |  |  |
90634 | N |  | Hep a vacc, ped/adol, 3 dose |  |  |  |  |
90636 | K |  | Hep a/hep b vacc, adult im | 9138 | 0.9674 | $57.41 |  | $11.48
90645 | N |  | Hib vaccine, hboc, im |  |  |  |  |
90646 | N |  | Hib vaccine, prp-d, im |  |  |  |  |
90647 | N |  | Hib vaccine, prp-omp, im |  |  |  |  |
90648 | N |  | Hib vaccine, prp-t, im |  |  |  |  |
90655 | L |  | Flu vaccine, 6-35 mo, im |  |  |  |  |
90656 | L |  | Flu vaccine no preserv 3 & > |  |  |  |  |
90657 | L |  | Flu vaccine, 6-35 mo, im |  |  |  |  |
90658 | L |  | Flu vaccine, 3 yrs, im |  |  |  |  |
90660 | E |  | Flu vaccine, nasal |  |  |  |  |
90665 | N |  | Lyme disease vaccine, im |  |  |  |  |
90669 | E |  | Pneumococcal vacc, ped <5 |  |  |  |  |
90675 | K |  | Rabies vaccine, im | 9139 |  | $128.04 |  | $25.61
90676 | K |  | Rabies vaccine, id | 9140 | 1.4959 | $88.77 |  | $17.75
90680 | N |  | Rotovirus vaccine, oral |  |  |  |  |
90690 | N |  | Typhoid vaccine, oral |  |  |  |  |
90691 | N |  | Typhoid vaccine, im |  |  |  |  |
90692 | N |  | Typhoid vaccine, h-p, sc/id |  |  |  |  |
90693 | N |  | Typhoid vaccine, akd, sc |  |  |  |  |
90698 | N |  | Dtap-hib-ip vaccine, im |  |  |  |  |
90700 | N |  | Dtap vaccine, im |  |  |  |  |
90701 | N |  | Dtp vaccine, im |  |  |  |  |
90702 | N |  | Dt vaccine < 7, im |  |  |  |  |
90703 | N |  | Tetanus vaccine, im |  |  |  |  |
90704 | N |  | Mumps vaccine, sc |  |  |  |  |
90705 | N |  | Measles vaccine, sc |  |  |  |  |
90706 | N |  | Rubella vaccine, sc |  |  |  |  |
90707 | N |  | Mmr vaccine, sc |  |  |  |  |
90708 | K |  | Measles-rubella vaccine, sc | 9141 | 0.9467 | $56.18 |  | $11.24
90710 | N |  | Mmrv vaccine, sc |  |  |  |  |
90712 | N |  | Oral poliovirus vaccine |  |  |  |  |
90713 | N |  | Poliovirus, ipv, sc |  |  |  |  |
90715 | N |  | Tdap vaccine >7 im |  |  |  |  |
90716 | K |  | Chicken pox vaccine, sc | 9142 |  | $64.29 |  | $12.86
90717 | N |  | Yellow fever vaccine, sc |  |  |  |  |
90718 | N |  | Td vaccine > 7, im |  |  |  |  |
90719 | N |  | Diphtheria vaccine, im |  |  |  |  |
90720 | N |  | Dtp/hib vaccine, im |  |  |  |  |
90721 | N |  | Dtap/hib vaccine, im |  |  |  |  |
90723 | E |  | Dtap-hep b-ipv vaccine, im |  |  |  |  |
90725 | N |  | Cholera vaccine, injectable |  |  |  |  |
90727 | N |  | Plague vaccine, im |  |  |  |  |
90732 | L |  | Pneumococcal vaccine |  |  |  |  |
90733 | K |  | Meningococcal vaccine, sc | 9143 |  | $56.75 |  | $11.35
90734 | K |  | Meningococcal vaccine, im | 9145 | 0.8948 | $53.10 |  | $10.62
90735 | K |  | Encephalitis vaccine, sc | 9144 |  | $67.73 |  | $13.55
90740 | F |  | Hepb vacc, ill pat 3 dose im |  |  |  |  |
90743 | F |  | Hep b vacc, adol, 2 dose, im |  |  |  |  |
90744 | F |  | Hepb vacc ped/adol 3 dose im |  |  |  |  |
90746 | F |  | Hep b vaccine, adult, im |  |  |  |  |
90747 | F |  | Hepb vacc, ill pat 4 dose im |  |  |  |  |
90748 | E |  | Hep b/hib vaccine, im |  |  |  |  |
90749 | N |  | Vaccine toxoid |  |  |  |  |
90780 | S |  | IV infusion therapy, 1 hour | 0120 | 2.0193 | $119.83 | $28.21 | $23.97
90781 | N |  | IV infusion, additional hour |  |  |  |  |
90782 | X |  | Injection, sc/im | 0353 | 0.3954 | $23.46 |  | $4.69
90783 | X |  | Injection, ia | 0359 | 0.8312 | $49.33 |  | $9.87
90784 | X |  | Injection, iv | 0359 | 0.8312 | $49.33 |  | $9.87
90788 | X |  | Injection of antibiotic | 0359 | 0.8312 | $49.33 |  | $9.87
90799 | X |  | Ther/prophylactic/dx inject | 0352 | 0.1413 | $8.39 |  | $1.68
90801 | S |  | Psy dx interview | 0323 | 1.6227 | $96.30 | $20.08 | $19.26
90802 | S |  | Intac psy dx interview | 0323 | 1.6227 | $96.30 | $20.08 | $19.26
90804 | S |  | Psytx, office, 20-30 min | 0322 | 1.2319 | $73.10 |  | $14.62
90805 | S |  | Psytx, off, 20-30 min w/e&m | 0322 | 1.2319 | $73.10 |  | $14.62
90806 | S |  | Psytx, off, 45-50 min | 0323 | 1.6227 | $96.30 | $20.08 | $19.26
90807 | S |  | Psytx, off, 45-50 min w/e&m | 0323 | 1.6227 | $96.30 | $20.08 | $19.26
90808 | S |  | Psytx, office, 75-80 min | 0323 | 1.6227 | $96.30 | $20.08 | $19.26
90809 | S |  | Psytx, off, 75-80, w/e&m | 0323 | 1.6227 | $96.30 | $20.08 | $19.26
90810 | S |  | Intac psytx, off, 20-30 min | 0322 | 1.2319 | $73.10 |  | $14.62
90811 | S |  | Intac psytx, 20-30, w/e&m | 0322 | 1.2319 | $73.10 |  | $14.62
90812 | S |  | Intac psytx, off, 45-50 min | 0323 | 1.6227 | $96.30 | $20.08 | $19.26
90813 | S |  | Intac psytx, 45-50 min w/e&m | 0323 | 1.6227 | $96.30 | $20.08 | $19.26
90814 | S |  | Intac psytx, off, 75-80 min | 0323 | 1.6227 | $96.30 | $20.08 | $19.26
90815 | S |  | Intac psytx, 75-80 w/e&m | 0323 | 1.6227 | $96.30 | $20.08 | $19.26
90816 | S |  | Psytx, hosp, 20-30 min | 0322 | 1.2319 | $73.10 |  | $14.62
90817 | S |  | Psytx, hosp, 20-30 min w/e&m | 0322 | 1.2319 | $73.10 |  | $14.62
90818 | S |  | Psytx, hosp, 45-50 min | 0323 | 1.6227 | $96.30 | $20.08 | $19.26
90819 | S |  | Psytx, hosp, 45-50 min w/e&m | 0323 | 1.6227 | $96.30 | $20.08 | $19.26
90821 | S |  | Psytx, hosp, 75-80 min | 0323 | 1.6227 | $96.30 | $20.08 | $19.26
90822 | S |  | Psytx, hosp, 75-80 min w/e&m | 0323 | 1.6227 | $96.30 | $20.08 | $19.26
90823 | S |  | Intac psytx, hosp, 20-30 min | 0322 | 1.2319 | $73.10 |  | $14.62
90824 | S |  | Intac psytx, hsp 20-30 w/e&m | 0322 | 1.2319 | $73.10 |  | $14.62
90826 | S |  | Intac psytx, hosp, 45-50 min | 0323 | 1.6227 | $96.30 | $20.08 | $19.26
90827 | S |  | Intac psytx, hsp 45-50 w/e&m | 0323 | 1.6227 | $96.30 | $20.08 | $19.26
90828 | S |  | Intac psytx, hosp, 75-80 min | 0323 | 1.6227 | $96.30 | $20.08 | $19.26
90829 | S |  | Intac psytx, hsp 75-80 w/e&m | 0323 | 1.6227 | $96.30 | $20.08 | $19.26
90845 | S |  | Psychoanalysis | 0323 | 1.6227 | $96.30 | $20.08 | $19.26
90846 | S |  | Family psytx w/o patient | 0324 | 2.0997 | $124.60 |  | $24.92
90847 | S |  | Family psytx w/patient | 0324 | 2.0997 | $124.60 |  | $24.92
90849 | S |  | Multiple family group psytx | 0325 | 1.3189 | $78.27 | $17.10 | $15.65
90853 | S |  | Group psychotherapy | 0325 | 1.3189 | $78.27 | $17.10 | $15.65
90857 | S |  | Intac group psytx | 0325 | 1.3189 | $78.27 | $17.10 | $15.65
90862 | X |  | Medication management | 0374 | 1.0414 | $61.80 |  | $12.36
90865 | S |  | Narcosynthesis | 0323 | 1.6227 | $96.30 | $20.08 | $19.26
90870 | S |  | Electroconvulsive therapy | 0320 | 5.3765 | $319.06 | $80.06 | $63.81
90871 | E |  | Electroconvulsive therapy |  |  |  |  |
90875 | E |  | Psychophysiological therapy |  |  |  |  |
90876 | E |  | Psychophysiological therapy |  |  |  |  |
90880 | S |  | Hypnotherapy | 0323 | 1.6227 | $96.30 | $20.08 | $19.26
90882 | E |  | Environmental manipulation |  |  |  |  |
90885 | N |  | Psy evaluation of records |  |  |  |  |
90887 | N |  | Consultation with family |  |  |  |  |
90889 | N |  | Preparation of report |  |  |  |  |
90899 | S |  | Psychiatric service/therapy | 0322 | 1.2319 | $73.10 |  | $14.62
90901 | A |  | Biofeedback train, any meth |  |  |  |  |
90911 | S |  | Biofeedback peri/uro/rectal | 0321 | 1.3579 | $80.58 | $21.71 | $16.12
90918 | E |  | ESRD related services, month |  |  |  |  |
90919 | E |  | ESRD related services, month |  |  |  |  |
90920 | E |  | ESRD related services, month |  |  |  |  |
90921 | E |  | ESRD related services, month |  |  |  |  |
90922 | E |  | ESRD related services, day |  |  |  |  |
90923 | E |  | Esrd related services, day |  |  |  |  |
90924 | E |  | Esrd related services, day |  |  |  |  |
90925 | E |  | Esrd related services, day |  |  |  |  |
90935 | S |  | Hemodialysis, one evaluation | 0170 | 5.8994 | $350.09 |  | $70.02
90937 | E |  | Hemodialysis, repeated eval |  |  |  |  |
90939 | N |  | Hemodialysis study, transcut |  |  |  |  |
90940 | N |  | Hemodialysis access study |  |  |  |  |
90945 | S |  | Dialysis, one evaluation | 0170 | 5.8994 | $350.09 |  | $70.02
90947 | E |  | Dialysis, repeated eval |  |  |  |  |
90989 | B |  | Dialysis training, complete |  |  |  |  |
90993 | B |  | Dialysis training, incompl |  |  |  |  |
90997 | E |  | Hemoperfusion |  |  |  |  |
90999 | B |  | Dialysis procedure |  |  |  |  |
91000 | X |  | Esophageal intubation | 0361 | 3.6216 | $214.92 | $83.23 | $42.98
91010 | X |  | Esophagus motility study | 0361 | 3.6216 | $214.92 | $83.23 | $42.98
91011 | X |  | Esophagus motility study | 0361 | 3.6216 | $214.92 | $83.23 | $42.98
91012 | X |  | Esophagus motility study | 0361 | 3.6216 | $214.92 | $83.23 | $42.98
91020 | X |  | Gastric motility | 0361 | 3.6216 | $214.92 | $83.23 | $42.98
91030 | X |  | Acid perfusion of esophagus | 0361 | 3.6216 | $214.92 | $83.23 | $42.98
91034 | X |  | Gastroesophageal reflux test | 0361 | 3.6216 | $214.92 | $83.23 | $42.98
91035 | S |  | G-esoph reflx tst w/electrod | 1506 |  | $450.00 |  | $90.00
91037 | X |  | Esoph imped function test | 0361 | 3.6216 | $214.92 | $83.23 | $42.98
91038 | X |  | Esoph imped funct test > 1h | 0361 | 3.6216 | $214.92 | $83.23 | $42.98
91040 | X |  | Esoph balloon distension tst | 0360 | 1.4739 | $87.47 | $34.98 | $17.49
91052 | X |  | Gastric analysis test | 0361 | 3.6216 | $214.92 | $83.23 | $42.98
91055 | X |  | Gastric intubation for smear | 0360 | 1.4739 | $87.47 | $34.98 | $17.49
91060 | X |  | Gastric saline load test | 0360 | 1.4739 | $87.47 | $34.98 | $17.49
91065 | X |  | Breath hydrogen test | 0360 | 1.4739 | $87.47 | $34.98 | $17.49
91100 | X |  | Pass intestine bleeding tube | 0360 | 1.4739 | $87.47 | $34.98 | $17.49
91105 | X |  | Gastric intubation treatment | 0360 | 1.4739 | $87.47 | $34.98 | $17.49
91110 | T |  | Gi tract capsule endoscopy | 0142 | 9.3487 | $554.78 | $152.78 | $110.96
91120 | T |  | Rectal sensation test | 0156 | 2.5751 | $152.81 | $40.52 | $30.56
91122 | T |  | Anal pressure record | 0156 | 2.5751 | $152.81 | $40.52 | $30.56
91123 | N |  | Irrigate fecal impaction |  |  |  |  |
91132 | X |  | Electrogastrography | 0360 | 1.4739 | $87.47 | $34.98 | $17.49
91133 | X |  | Electrogastrography w/test | 0360 | 1.4739 | $87.47 | $34.98 | $17.49
91299 | X |  | Gastroenterology procedure | 0360 | 1.4739 | $87.47 | $34.98 | $17.49
92002 | V |  | Eye exam, new patient | 0601 | 1.0038 | $59.57 |  | $11.91
92004 | V |  | Eye exam, new patient | 0601 | 1.0038 | $59.57 |  | $11.91
92012 | V |  | Eye exam established pat | 0600 | 0.8688 | $51.56 |  | $10.31
92014 | V |  | Eye exam & treatment | 0601 | 1.0038 | $59.57 |  | $11.91
92015 | E |  | Refraction |  |  |  |  |
92018 | T |  | New eye exam & treatment | 0699 | 10.0177 | $594.48 |  | $118.90
92019 | T |  | Eye exam & treatment | 0699 | 10.0177 | $594.48 |  | $118.90
92020 | S |  | Special eye evaluation | 0230 | 0.7858 | $46.63 | $14.97 | $9.33
92060 | S |  | Special eye evaluation | 0230 | 0.7858 | $46.63 | $14.97 | $9.33
92065 | S |  | Orthoptic/pleoptic training | 0698 | 1.2438 | $73.81 | $16.55 | $14.76
92070 | N |  | Fitting of contact lens |  |  |  |  |
92081 | S |  | Visual field examination(s) | 0230 | 0.7858 | $46.63 | $14.97 | $9.33
92082 | S |  | Visual field examination(s) | 0230 | 0.7858 | $46.63 | $14.97 | $9.33
92083 | S |  | Visual field examination(s) | 0230 | 0.7858 | $46.63 | $14.97 | $9.33
92100 | N |  | Serial tonometry exam(s) |  |  |  |  |
92120 | S |  | Tonography & eye evaluation | 0230 | 0.7858 | $46.63 | $14.97 | $9.33
92130 | S |  | Water provocation tonography | 0230 | 0.7858 | $46.63 | $14.97 | $9.33
92135 | S |  | Opthalmic dx imaging | 0230 | 0.7858 | $46.63 | $14.97 | $9.33
92136 | S |  | Ophthalmic biometry | 0698 | 1.2438 | $73.81 | $16.55 | $14.76
92140 | S |  | Glaucoma provocative tests | 0698 | 1.2438 | $73.81 | $16.55 | $14.76
92225 | S |  | Special eye exam, initial | 0230 | 0.7858 | $46.63 | $14.97 | $9.33
92226 | S |  | Special eye exam, subsequent | 0230 | 0.7858 | $46.63 | $14.97 | $9.33
92230 | T |  | Eye exam with photos | 0699 | 10.0177 | $594.48 |  | $118.90
92235 | S |  | Eye exam with photos | 0231 | 1.9278 | $114.40 | $44.61 | $22.88
92240 | S |  | Icg angiography | 0231 | 1.9278 | $114.40 | $44.61 | $22.88
92250 | S |  | Eye exam with photos | 0230 | 0.7858 | $46.63 | $14.97 | $9.33
92260 | S |  | Ophthalmoscopy/dynamometry | 0698 | 1.2438 | $73.81 | $16.55 | $14.76
92265 | S |  | Eye muscle evaluation | 0230 | 0.7858 | $46.63 | $14.97 | $9.33
92270 | S |  | Electro-oculography | 0230 | 0.7858 | $46.63 | $14.97 | $9.33
92275 | S |  | Electroretinography | 0231 | 1.9278 | $114.40 | $44.61 | $22.88
92283 | S |  | Color vision examination | 0230 | 0.7858 | $46.63 | $14.97 | $9.33
92284 | S |  | Dark adaptation eye exam | 0698 | 1.2438 | $73.81 | $16.55 | $14.76
92285 | S |  | Eye photography | 0230 | 0.7858 | $46.63 | $14.97 | $9.33
92286 | S |  | Internal eye photography | 0698 | 1.2438 | $73.81 | $16.55 | $14.76
92287 | S |  | Internal eye photography | 0698 | 1.2438 | $73.81 | $16.55 | $14.76
92310 | E |  | Contact lens fitting |  |  |  |  |
92311 | X |  | Contact lens fitting | 0362 | 2.6607 | $157.89 |  | $31.58
92312 | X |  | Contact lens fitting | 0362 | 2.6607 | $157.89 |  | $31.58
92313 | X |  | Contact lens fitting | 0362 | 2.6607 | $157.89 |  | $31.58
92314 | E |  | Prescription of contact lens |  |  |  |  |
92315 | X |  | Prescription of contact lens | 0362 | 2.6607 | $157.89 |  | $31.58
92316 | X |  | Prescription of contact lens | 0362 | 2.6607 | $157.89 |  | $31.58
92317 | X |  | Prescription of contact lens | 0362 | 2.6607 | $157.89 |  | $31.58
92325 | X |  | Modification of contact lens | 0362 | 2.6607 | $157.89 |  | $31.58
92326 | X |  | Replacement of contact lens | 0362 | 2.6607 | $157.89 |  | $31.58
92330 | S |  | Fitting of artificial eye | 0230 | 0.7858 | $46.63 | $14.97 | $9.33
92335 | N |  | Fitting of artificial eye |  |  |  |  |
92340 | E |  | Fitting of spectacles |  |  |  |  |
92341 | E |  | Fitting of spectacles |  |  |  |  |
92342 | E |  | Fitting of spectacles |  |  |  |  |
92352 | X |  | Special spectacles fitting | 0362 | 2.6607 | $157.89 |  | $31.58
92353 | X |  | Special spectacles fitting | 0362 | 2.6607 | $157.89 |  | $31.58
92354 | X |  | Special spectacles fitting | 0362 | 2.6607 | $157.89 |  | $31.58
92355 | X |  | Special spectacles fitting | 0362 | 2.6607 | $157.89 |  | $31.58
92358 | X |  | Eye prosthesis service | 0362 | 2.6607 | $157.89 |  | $31.58
92370 | E |  | Repair & adjust spectacles |  |  |  |  |
92371 | X |  | Repair & adjust spectacles | 0362 | 2.6607 | $157.89 |  | $31.58
92390 | E |  | Supply of spectacles |  |  |  |  |
92391 | E |  | Supply of contact lenses |  |  |  |  |
92392 | E |  | Supply of low vision aids |  |  |  |  |
92393 | E |  | Supply of artificial eye |  |  |  |  |
92395 | E |  | Supply of spectacles |  |  |  |  |
92396 | E |  | Supply of contact lenses |  |  |  |  |
92499 | S |  | Eye service or procedure | 0230 | 0.7858 | $46.63 | $14.97 | $9.33
92502 | T |  | Ear and throat examination | 0251 | 2.0101 | $119.29 |  | $23.86
92504 | N |  | Ear microscopy examination |  |  |  |  |
92506 | A |  | Speech/hearing evaluation |  |  |  |  |
92507 | A |  | Speech/hearing therapy |  |  |  |  |
92508 | A |  | Speech/hearing therapy |  |  |  |  |
92510 | E |  | Rehab for ear implant |  |  |  |  |
92511 | T |  | Nasopharyngoscopy | 0071 | 0.7915 | $46.97 | $11.31 | $9.39
92512 | X |  | Nasal function studies | 0363 | 0.9128 | $54.17 | $17.44 | $10.83
92516 | X |  | Facial nerve function test | 0660 | 1.6419 | $97.44 | $30.66 | $19.49
92520 | X |  | Laryngeal function studies | 0660 | 1.6419 | $97.44 | $30.66 | $19.49
92526 | A |  | Oral function therapy |  |  |  |  |
92531 | N |  | Spontaneous nystagmus study |  |  |  |  |
92532 | N |  | Positional nystagmus test |  |  |  |  |
92533 | N |  | Caloric vestibular test |  |  |  |  |
92534 | N |  | Optokinetic nystagmus test |  |  |  |  |
92541 | X |  | Spontaneous nystagmus test | 0363 | 0.9128 | $54.17 | $17.44 | $10.83
92542 | X |  | Positional nystagmus test | 0363 | 0.9128 | $54.17 | $17.44 | $10.83
92543 | X |  | Caloric vestibular test | 0660 | 1.6419 | $97.44 | $30.66 | $19.49
92544 | X |  | Optokinetic nystagmus test | 0363 | 0.9128 | $54.17 | $17.44 | $10.83
92545 | X |  | Oscillating tracking test | 0363 | 0.9128 | $54.17 | $17.44 | $10.83
92546 | X |  | Sinusoidal rotational test | 0660 | 1.6419 | $97.44 | $30.66 | $19.49
92547 | X |  | Supplemental electrical test | 0363 | 0.9128 | $54.17 | $17.44 | $10.83
92548 | X |  | Posturography | 0660 | 1.6419 | $97.44 | $30.66 | $19.49
92551 | E |  | Pure tone hearing test, air |  |  |  |  |
92552 | X |  | Pure tone audiometry, air | 0364 | 0.4708 | $27.94 | $9.06 | $5.59
92553 | X |  | Audiometry, air & bone | 0365 | 1.2356 | $73.32 | $18.95 | $14.66
92555 | X |  | Speech threshold audiometry | 0364 | 0.4708 | $27.94 | $9.06 | $5.59
92556 | X |  | Speech audiometry, complete | 0364 | 0.4708 | $27.94 | $9.06 | $5.59
92557 | X |  | Comprehensive hearing test | 0365 | 1.2356 | $73.32 | $18.95 | $14.66
92559 | E |  | Group audiometric testing |  |  |  |  |
92560 | E |  | Bekesy audiometry, screen |  |  |  |  |
92561 | X |  | Bekesy audiometry, diagnosis | 0364 | 0.4708 | $27.94 | $9.06 | $5.59
92562 | X |  | Loudness balance test | 0364 | 0.4708 | $27.94 | $9.06 | $5.59
92563 | X |  | Tone decay hearing test | 0364 | 0.4708 | $27.94 | $9.06 | $5.59
92564 | X |  | Sisi hearing test | 0364 | 0.4708 | $27.94 | $9.06 | $5.59
92565 | X |  | Stenger test, pure tone | 0364 | 0.4708 | $27.94 | $9.06 | $5.59
92567 | X |  | Tympanometry | 0364 | 0.4708 | $27.94 | $9.06 | $5.59
92568 | X |  | Acoustic reflex testing | 0364 | 0.4708 | $27.94 | $9.06 | $5.59
92569 | X |  | Acoustic reflex decay test | 0364 | 0.4708 | $27.94 | $9.06 | $5.59
92571 | X |  | Filtered speech hearing test | 0364 | 0.4708 | $27.94 | $9.06 | $5.59
92572 | X |  | Staggered spondaic word test | 0365 | 1.2356 | $73.32 | $18.95 | $14.66
92573 | X |  | Lombard test | 0364 | 0.4708 | $27.94 | $9.06 | $5.59
92575 | X |  | Sensorineural acuity test | 0364 | 0.4708 | $27.94 | $9.06 | $5.59
92576 | X |  | Synthetic sentence test | 0364 | 0.4708 | $27.94 | $9.06 | $5.59
92577 | X |  | Stenger test, speech | 0366 | 1.7743 | $105.29 | $30.04 | $21.06
92579 | X |  | Visual audiometry (vra) | 0365 | 1.2356 | $73.32 | $18.95 | $14.66
92582 | X |  | Conditioning play audiometry | 0365 | 1.2356 | $73.32 | $18.95 | $14.66
92583 | X |  | Select picture audiometry | 0364 | 0.4708 | $27.94 | $9.06 | $5.59
92584 | X |  | Electrocochleography | 0660 | 1.6419 | $97.44 | $30.66 | $19.49
92585 | S |  | Auditor evoke potent, compre | 0216 | 2.672 | $158.56 |  | $31.71
92586 | S |  | Auditor evoke potent, limit | 0218 | 1.1408 | $67.70 |  | $13.54
92587 | X |  | Evoked auditory test | 0363 | 0.9128 | $54.17 | $17.44 | $10.83
92588 | X |  | Evoked auditory test | 0363 | 0.9128 | $54.17 | $17.44 | $10.83
92590 | E |  | Hearing aid exam, one ear |  |  |  |  |
92591 | E |  | Hearing aid exam, both ears |  |  |  |  |
92592 | E |  | Hearing aid check, one ear |  |  |  |  |
92593 | E |  | Hearing aid check, both ears |  |  |  |  |
92594 | E |  | Electro hearng aid test, one |  |  |  |  |
92595 | E |  | Electro hearng aid tst, both |  |  |  |  |
92596 | X |  | Ear protector evaluation | 0364 | 0.4708 | $27.94 | $9.06 | $5.59
92597 | A |  | Voice Prosthetic Evaluation |  |  |  |  |
92601 | X |  | Cochlear implt f/up exam < 7 | 0366 | 1.7743 | $105.29 | $30.04 | $21.06
92602 | X |  | Reprogram cochlear implt < 7 | 0366 | 1.7743 | $105.29 | $30.04 | $21.06
92603 | X |  | Cochlear implt f/up exam 7 > | 0366 | 1.7743 | $105.29 | $30.04 | $21.06
92604 | X |  | Reprogram cochlear implt 7 > | 0366 | 1.7743 | $105.29 | $30.04 | $21.06
92605 | A |  | Eval for nonspeech device rx |  |  |  |  |
92606 | A |  | Non-speech device service |  |  |  |  |
92607 | A |  | Ex for speech device rx, 1hr |  |  |  |  |
92608 | A |  | Ex for speech device rx addl |  |  |  |  |
92609 | A |  | Use of speech device service |  |  |  |  |
92610 | A |  | Evaluate swallowing function |  |  |  |  |
92611 | A |  | Motion fluoroscopy/swallow |  |  |  |  |
92612 | A |  | Endoscopy swallow tst (fees) |  |  |  |  |
92613 | E |  | Endoscopy swallow tst (fees) |  |  |  |  |
92614 | A |  | Laryngoscopic sensory test |  |  |  |  |
92615 | E |  | Eval laryngoscopy sense tst |  |  |  |  |
92616 | A |  | Fees w/laryngeal sense test |  |  |  |  |
92617 | E |  | Interprt fees/laryngeal test |  |  |  |  |
92620 | X |  | Auditory function, 60 min | 0364 | 0.4708 | $27.94 | $9.06 | $5.59
92621 | N |  | Auditory function, + 15 min |  |  |  |  |
92625 | X |  | Tinnitus assessment | 0364 | 0.4708 | $27.94 | $9.06 | $5.59
92700 | X |  | Ent procedure/service | 0364 | 0.4708 | $27.94 | $9.06 | $5.59
92950 | S |  | Heart/lung resuscitation cpr | 0094 | 2.5363 | $150.51 | $47.62 | $30.10
92953 | S |  | Temporary external pacing | 0094 | 2.5363 | $150.51 | $47.62 | $30.10
92960 | S |  | Cardioversion electric, ext | 0679 | 5.5774 | $330.98 | $95.30 | $66.20
92961 | S |  | Cardioversion, electric, int | 0679 | 5.5774 | $330.98 | $95.30 | $66.20
92970 | C |  | Cardioassist, internal |  |  |  |  |
92971 | C |  | Cardioassist, external |  |  |  |  |
92973 | T |  | Percut coronary thrombectomy | 0676 | 2.4105 | $143.05 |  | $28.61
92974 | T |  | Cath place, cardio brachytx | 0103 | 14.7142 | $873.18 | $223.63 | $174.64
92975 | C |  | Dissolve clot, heart vessel |  |  |  |  |
92977 | T |  | Dissolve clot, heart vessel | 0676 | 2.4105 | $143.05 |  | $28.61
92978 | S |  | Intravasc us, heart add-on | 0670 | 25.4131 | $1,508.09 | $472.46 | $301.62
92979 | S |  | Intravasc us, heart add-on | 0416 | 19.5542 | $1,160.40 |  | $232.08
92980 | T |  | Insert intracoronary stent | 0104 | 79.0094 | $4,688.65 |  | $937.73
92981 | T |  | Insert intracoronary stent | 0104 | 79.0094 | $4,688.65 |  | $937.73
92982 | T |  | Coronary artery dilation | 0083 | 50.8925 | $3,020.11 |  | $604.02
92984 | T |  | Coronary artery dilation | 0083 | 50.8925 | $3,020.11 |  | $604.02
92986 | T |  | Revision of aortic valve | 0083 | 50.8925 | $3,020.11 |  | $604.02
92987 | T |  | Revision of mitral valve | 0083 | 50.8925 | $3,020.11 |  | $604.02
92990 | T |  | Revision of pulmonary valve | 0083 | 50.8925 | $3,020.11 |  | $604.02
92992 | C |  | Revision of heart chamber |  |  |  |  |
92993 | C |  | Revision of heart chamber |  |  |  |  |
92995 | T |  | Coronary atherectomy | 0082 | 85.0126 | $5,044.90 | $1,085.20 | $1,008.98
92996 | T |  | Coronary atherectomy add-on | 0082 | 85.0126 | $5,044.90 | $1,085.20 | $1,008.98
92997 | T |  | Pul art balloon repr, percut | 0081 | 34.4473 | $2,044.21 |  | $408.84
92998 | T |  | Pul art balloon repr, percut | 0081 | 34.4473 | $2,044.21 |  | $408.84
93000 | B |  | Electrocardiogram, complete |  |  |  |  |
93005 | S |  | Electrocardiogram, tracing | 0099 | 0.3821 | $22.67 |  | $4.53
93010 | A |  | Electrocardiogram report |  |  |  |  |
93012 | N |  | Transmission of ecg |  |  |  |  |
93014 | B |  | Report on transmitted ecg |  |  |  |  |
93015 | B |  | Cardiovascular stress test |  |  |  |  |
93016 | B |  | Cardiovascular stress test |  |  |  |  |
93017 | X |  | Cardiovascular stress test | 0100 | 2.4968 | $148.17 | $41.44 | $29.63
93018 | B |  | Cardiovascular stress test |  |  |  |  |
93024 | X |  | Cardiac drug stress test | 0100 | 2.4968 | $148.17 | $41.44 | $29.63
93025 | X |  | Microvolt t-wave assess | 0100 | 2.4968 | $148.17 | $41.44 | $29.63
93040 | B |  | Rhythm ECG with report |  |  |  |  |
93041 | S |  | Rhythm ECG, tracing | 0099 | 0.3821 | $22.67 |  | $4.53
93042 | B |  | Rhythm ECG, report |  |  |  |  |
93224 | B |  | ECG monitor/report, 24 hrs |  |  |  |  |
93225 | X |  | ECG monitor/record, 24 hrs | 0097 | 1.0223 | $60.67 | $23.79 | $12.13
93226 | X |  | ECG monitor/report, 24 hrs | 0097 | 1.0223 | $60.67 | $23.79 | $12.13
93227 | B |  | ECG monitor/review, 24 hrs |  |  |  |  |
93230 | B |  | ECG monitor/report, 24 hrs |  |  |  |  |
93231 | X |  | Ecg monitor/record, 24 hrs | 0097 | 1.0223 | $60.67 | $23.79 | $12.13
93232 | X |  | ECG monitor/report, 24 hrs | 0097 | 1.0223 | $60.67 | $23.79 | $12.13
93233 | B |  | ECG monitor/review, 24 hrs |  |  |  |  |
93235 | B |  | ECG monitor/report, 24 hrs |  |  |  |  |
93236 | X |  | ECG monitor/report, 24 hrs | 0097 | 1.0223 | $60.67 | $23.79 | $12.13
93237 | B |  | ECG monitor/review, 24 hrs |  |  |  |  |
93268 | B |  | ECG record/review |  |  |  |  |
93270 | X |  | ECG recording | 0097 | 1.0223 | $60.67 | $23.79 | $12.13
93271 | X |  | Ecg/monitoring and analysis | 0097 | 1.0223 | $60.67 | $23.79 | $12.13
93272 | B |  | Ecg/review, interpret only |  |  |  |  |
93278 | S |  | ECG/signal-averaged | 0099 | 0.3821 | $22.67 |  | $4.53
93303 | S |  | Echo transthoracic | 0269 | 3.2437 | $192.49 | $76.99 | $38.50
93304 | S |  | Echo transthoracic | 0697 | 1.5357 | $91.13 | $36.45 | $18.23
93307 | S |  | Echo exam of heart | 0269 | 3.2437 | $192.49 | $76.99 | $38.50
93308 | S |  | Echo exam of heart | 0697 | 1.5357 | $91.13 | $36.45 | $18.23
93312 | S |  | Echo transesophageal | 0270 | 6.0192 | $357.20 | $142.88 | $71.44
93313 | S |  | Echo transesophageal | 0270 | 6.0192 | $357.20 | $142.88 | $71.44
93314 | N |  | Echo transesophageal |  |  |  |  |
93315 | S |  | Echo transesophageal | 0270 | 6.0192 | $357.20 | $142.88 | $71.44
93316 | S |  | Echo transesophageal | 0270 | 6.0192 | $357.20 | $142.88 | $71.44
93317 | N |  | Echo transesophageal |  |  |  |  |
93318 | S |  | Echo transesophageal intraop | 0270 | 6.0192 | $357.20 | $142.88 | $71.44
93320 | S |  | Doppler echo exam, heart | 0671 | 1.7028 | $101.05 | $40.42 | $20.21
93321 | S |  | Doppler echo exam, heart | 0697 | 1.5357 | $91.13 | $36.45 | $18.23
93325 | S |  | Doppler color flow add-on | 0697 | 1.5357 | $91.13 | $36.45 | $18.23
93350 | S |  | Echo transthoracic | 0269 | 3.2437 | $192.49 | $76.99 | $38.50
93501 | T |  | Right heart catheterization | 0080 | 37.1361 | $2,203.77 | $838.92 | $440.75
93503 | T |  | Insert/place heart catheter | 0103 | 14.7142 | $873.18 | $223.63 | $174.64
93505 | T |  | Biopsy of heart lining | 0103 | 14.7142 | $873.18 | $223.63 | $174.64
93508 | T |  | Cath placement, angiography | 0080 | 37.1361 | $2,203.77 | $838.92 | $440.75
93510 | T |  | Left heart catheterization | 000 | 37.1361 | $2,203.77 | $838.92 | $440.75
93511 | T |  | Left heart catheterization | 0080 | 37.1361 | $2,203.77 | $838.92 | $440.75
93514 | T |  | Left heart catheterization | 0080 | 37.1361 | $2,203.77 | $838.92 | $440.75
93524 | T |  | Left heart catheterization | 0080 | 37.1361 | $2,203.77 | $838.92 | $440.75
93526 | T |  | Rt & Lt heart catheters | 0080 | 37.1361 | $2,203.77 | $838.92 | $440.75
93527 | T |  | Rt & Lt heart catheters | 0080 | 37.1361 | $2,203.77 | $838.92 | $440.75
93528 | T |  | Rt & Lt heart catheters | 0080 | 37.1361 | $2,203.77 | $838.92 | $440.75
93529 | T |  | Rt, lt heart catheterization | 0080 | 37.1361 | $2,203.77 | $838.92 | $440.75
93530 | T |  | Rt heart cath, congenital | 0080 | 37.1361 | $2,203.77 | $838.92 | $440.75
93531 | T |  | R & l heart cath, congenital | 0080 | 37.1361 | $2,203.77 | $838.92 | $440.75
93532 | T |  | R & l heart cath, congenital | 0080 | 37.1361 | $2,203.77 | $838.92 | $440.75
93533 | T |  | R & l heart cath, congenital | 0080 | 37.1361 | $2,203.77 | $838.92 | $440.75
93539 | N |  | Injection, cardiac cath |  |  |  |  |
93540 | N |  | Injection, cardiac cath |  |  |  |  |
93541 | N |  | Injection for lung angiogram |  |  |  |  |
93542 | N |  | Injection for heart x-rays |  |  |  |  |
93543 | N |  | Injection for heart x-rays |  |  |  |  |
93544 | N |  | Injection for aortography |  |  |  |  |
93545 | N |  | Inject for coronary x-rays |  |  |  |  |
93555 | N |  | Imaging, cardiac cath |  |  |  |  |
93556 | N |  | Imaging, cardiac cath |  |  |  |  |
93561 | N |  | Cardiac output measurement |  |  |  |  |
93562 | N |  | Cardiac output measurement |  |  |  |  |
93571 | S |  | Heart flow reserve measure | 0670 | 25.4131 | $1,508.09 | $472.46 | $301.62
93572 | S |  | Heart flow reserve measure | 0416 | 19.5542 | $1,160.40 |  | $232.08
93580 | T |  | Transcath closure of asd | 0434 | 90.7877 | $5,387.61 |  | $1,077.52
93581 | T |  | Transcath closure of vsd | 0434 | 90.7877 | $5,387.61 |  | $1,077.52
93600 | T |  | Bundle of His recording | 0087 | 30.7101 | $1,822.43 |  | $364.49
93602 | T |  | Intra-atrial recording | 0087 | 30.7101 | $1,822.43 |  | $364.49
93603 | T |  | Right ventricular recording | 0087 | 30.7101 | $1,822.43 |  | $364.49
93609 | T |  | Map tachycardia, add-on | 0087 | 30.7101 | $1,822.43 |  | $364.49
93610 | T |  | Intra-atrial pacing | 0087 | 30.7101 | $1,822.43 |  | $364.49
93612 | T |  | Intraventricular pacing | 0087 | 30.7101 | $1,822.43 |  | $364.49
93613 | T |  | Electrophys map 3d, add-on | 0087 | 30.7101 | $1,822.43 |  | $364.49
93615 | T |  | Esophageal recording | 0087 | 30.7101 | $1,822.43 |  | $364.49
93616 | T |  | Esophageal recording | 0087 | 30.7101 | $1,822.43 |  | $364.49
93618 | T |  | Heart rhythm pacing | 0087 | 30.7101 | $1,822.43 |  | $364.49
93619 | T |  | Electrophysiology evaluation | 0085 | 35.1882 | $2,088.17 | $426.25 | $417.63
93620 | T |  | Electrophysiology evaluation | 0085 | 35.1882 | $2,088.17 | $426.25 | $417.63
93621 | T |  | Electrophysiology evaluation | 0085 | 35.1882 | $2,088.17 | $426.25 | $417.63
93622 | T |  | Electrophysiology evaluation | 0085 | 35.1882 | $2,088.17 | $426.25 | $417.63
93623 | T |  | Stimulation, pacing heart | 0087 | 30.7101 | $1,822.43 |  | $364.49
93624 | T |  | Electrophysiologic study | 0085 | 35.1882 | $2,088.17 | $426.25 | $417.63
93631 | T |  | Heart pacing, mapping | 0087 | 30.7101 | $1,822.43 |  | $364.49
93640 | S |  | Evaluation heart device | 0084 | 10.0205 | $594.65 |  | $118.93
93641 | S |  | Electrophysiology evaluation | 0084 | 10.0205 | $594.65 |  | $118.93
93642 | S |  | Electrophysiology evaluation | 0084 | 10.0205 | $594.65 |  | $118.93
93650 | T |  | Ablate heart dysrhythm focus | 0086 | 44.2596 | $2,626.50 | $833.33 | $525.30
93651 | T |  | Ablate heart dysrhythm focus | 0086 | 44.2596 | $2,626.50 | $833.33 | $525.30
93652 | T |  | Ablate heart dysrhythm focus | 0086 | 44.2596 | $2,626.50 | $833.33 | $525.30
93660 | S |  | Tilt table evaluation | 0101 | 4.2787 | $253.91 | $101.56 | $50.78
93662 | S |  | Intracardiac ecg (ice) | 0670 | 25.4131 | $1,508.09 | $472.46 | $301.62
93668 | E |  | Peripheral vascular rehab |  |  |  |  |
93701 | S |  | Bioimpedance, thoracic | 0099 | 0.3821 | $22.67 |  | $4.53
93720 | B |  | Total body plethysmography |  |  |  |  |
93721 | X |  | Plethysmography tracing | 0368 | 0.9761 | $57.92 | $23.16 | $11.58
93722 | B |  | Plethysmography report |  |  |  |  |
93724 | S |  | Analyze pacemaker system | 0690 | 0.3755 | $22.28 | $8.91 | $4.46
93727 | S |  | Analyze ilr system | 0690 | 0.3755 | $22.28 | $8.91 | $4.46
93731 | S |  | Analyze pacemaker system | 0690 | 0.3755 | $22.28 | $8.91 | $4.46
93732 | S |  | Analyze pacemaker system | 0690 | 0.3755 | $22.28 | $8.91 | $4.46
93733 | S |  | Telephone analy, pacemaker | 0690 | 0.3755 | $22.28 | $8.91 | $4.46
93734 | S |  | Analyze pacemaker system | 0690 | 0.3755 | $22.28 | $8.91 | $4.46
93735 | S |  | Analyze pacemaker system | 0690 | 0.3755 | $22.28 | $8.91 | $4.46
93736 | S |  | Telephonic analy, pacemaker | 0690 | 0.3755 | $22.28 | $8.91 | $4.46
93740 | X |  | Temperature gradient studies | 0368 | 0.9761 | $57.92 | $23.16 | $11.58
93741 | S |  | Analyze ht pace device sngl | 0689 | 0.5735 | $34.03 |  | $6.81
93742 | S |  | Analyze ht pace device sngl | 0689 | 0.5735 | $34.03 |  | $6.81
93743 | S |  | Analyze ht pace device dual | 0689 | 0.5735 | $34.03 |  | $6.81
93744 | S |  | Analyze ht pace device dual | 0689 | 0.5735 | $34.03 |  | $6.81
93745 | S |  | Set-up cardiovert-defibrill | 0689 | 0.5735 | $34.03 |  | $6.81
93760 | E |  | Cephalic thermogram |  |  |  |  |
93762 | E |  | Peripheral thermogram |  |  |  |  |
93770 | N |  | Measure venous pressure |  |  |  |  |
93784 | E |  | Ambulatory BP monitoring |  |  |  |  |
93786 | X |  | Ambulatory BP recording | 0097 | 1.0223 | $60.67 | $23.79 | $12.13
93788 | X |  | Ambulatory BP analysis | 0097 | 1.0223 | $60.67 | $23.79 | $12.13
93790 | B |  | Review/report BP recording |  |  |  |  |
93797 | S |  | Cardiac rehab | 0095 | 0.5885 | $34.92 | $13.96 | $6.98
93798 | S |  | Cardiac rehab/monitor | 0095 | 0.5885 | $34.92 | $13.96 | $6.98
93799 | S |  | Cardiovascular procedure | 0096 | 1.6307 | $96.77 | $38.70 | $19.35
93875 | S |  | Extracranial study | 0096 | 1.6307 | $96.77 | $38.70 | $19.35
93880 | S |  | Extracranial study | 0267 | 2.6327 | $156.23 | $62.18 | $31.25
93882 | S |  | Extracranial study | 0267 | 2.6327 | $156.23 | $62.18 | $31.25
93886 | S |  | Intracranial study | 0267 | 2.6327 | $156.23 | $62.18 | $31.25
93888 | S |  | Intracranial study | 0266 | 1.6393 | $97.28 | $38.91 | $19.46
93890 | S |  | Tcd, vasoreactivity study | 0266 | 1.6393 | $97.28 | $38.91 | $19.46
93892 | S |  | Tcd, emboli detect w/o inj | 0266 | 1.6393 | $97.28 | $38.91 | $19.46
93893 | S |  | Tcd, emboli detect w/inj | 0266 | 1.6393 | $97.28 | $38.91 | $19.46
93922 | S |  | Extremity study | 0096 | 1.6307 | $96.77 | $38.70 | $19.35
93923 | S |  | Extremity study | 0096 | 1.6307 | $96.77 | $38.70 | $19.35
93924 | S |  | Extremity study | 0096 | 1.6307 | $96.77 | $38.70 | $19.35
93925 | S |  | Lower extremity study | 0267 | 2.6327 | $156.23 | $62.18 | $31.25
93926 | S |  | Lower extremity study | 0266 | 1.6393 | $97.28 | $38.91 | $19.46
93930 | S |  | Upper extremity study | 0267 | 2.6327 | $156.23 | $62.18 | $31.25
93931 | S |  | Upper extremity study | 0266 | 1.6393 | $97.28 | $38.91 | $19.46
93965 | S |  | Extremity study | 0096 | 1.6307 | $96.77 | $38.70 | $19.35
93970 | S |  | Extremity study | 0267 | 2.6327 | $156.23 | $62.18 | $31.25
93971 | S |  | Extremity study | 0266 | 1.6393 | $97.28 | $38.91 | $19.46
93975 | S |  | Vascular study | 0267 | 2.6327 | $156.23 | $62.18 | $31.25
93976 | S |  | Vascular study | 0267 | 2.6327 | $156.23 | $62.18 | $31.25
93978 | S |  | Vascular study | 0266 | 1.6393 | $97.28 | $38.91 | $19.46
93979 | S |  | Vascular study | 0266 | 1.6393 | $97.28 | $38.91 | $19.46
93980 | S |  | Penile vascular study | 0267 | 2.6327 | $156.23 | $62.18 | $31.25
93981 | S |  | Penile vascular study | 0266 | 1.6393 | $97.28 | $38.91 | $19.46
93990 | S |  | Doppler flow testing | 0266 | 1.6393 | $97.28 | $38.91 | $19.46
94010 | X |  | Breathing capacity test | 0368 | 0.9761 | $57.92 | $23.16 | $11.58
94014 | X |  | Patient recorded spirometry | 0367 | 0.6659 | $39.52 | $14.80 | $7.90
94015 | X |  | Patient recorded spirometry | 0367 | 0.6659 | $39.52 | $14.80 | $7.90
94016 | A |  | Review patient spirometry |  |  |  |  |
94060 | X |  | Evaluation of wheezing | 0368 | 0.9761 | $57.92 | $23.16 | $11.58
94070 | X |  | Evaluation of wheezing | 0369 | 2.7519 | $163.31 | $44.18 | $32.66
94150 | X |  | Vital capacity test | 0367 | 0.6659 | $39.52 | $14.80 | $7.90
94200 | X |  | Lung function test (MBC/MVV) | 0367 | 0.6659 | $39.52 | $14.80 | $7.90
94240 | X |  | Residual lung capacity | 0368 | 0.9761 | $57.92 | $23.16 | $11.58
94250 | X |  | Expired gas collection | 0367 | 0.6659 | $39.52 | $14.80 | $7.90
94260 | X |  | Thoracic gas volume | 0367 | 0.6659 | $39.52 | $14.80 | $7.90
94350 | X |  | Lung nitrogen washout curve | 0367 | 0.6659 | $39.52 | $14.80 | $7.90
94360 | X |  | Measure airflow resistance | 0367 | 0.6659 | $39.52 | $14.80 | $7.90
94370 | X |  | Breath airway closing volume | 0367 | 0.6659 | $39.52 | $14.80 | $7.90
94375 | X |  | Respiratory flow volume loop | 0367 | 0.6659 | $39.52 | $14.80 | $7.90
94400 | X |  | CO2 breathing response curve | 0367 | 0.6659 | $39.52 | $14.80 | $7.90
94450 | X |  | Hypoxia response curve | 0368 | 0.9761 | $57.92 | $23.16 | $11.58
94452 | X |  | Hast w/report | 0368 | 0.9761 | $57.92 | $23.16 | $11.58
94453 | X |  | Hast w/oxygen titrate | 0368 | 0.9761 | $57.92 | $23.16 | $11.58
94620 | X |  | Pulmonary stress test/simple | 0368 | 0.9761 | $57.92 | $23.16 | $11.58
94621 | X |  | Pulm stress test/complex | 0369 | 2.7519 | $163.31 | $44.18 | $32.66
94640 | S |  | Airway inhalation treatment | 0077 | 0.3444 | $20.44 | $7.74 | $4.09
94642 | S |  | Aerosol inhalation treatment | 0078 | 1.0236 | $60.74 | $14.55 | $12.15
94656 | S |  | Initial ventilator mgmt | 0079 | 2.3482 | $139.35 |  | $27.87
94657 | S |  | Continued ventilator mgmt | 0079 | 2.3482 | $139.35 |  | $27.87
94660 | S |  | Pos airway pressure, CPAP | 0068 | 1.2293 | $72.95 | $29.18 | $14.59
94662 | S |  | Neg press ventilation, cnp | 0079 | 2.3482 | $139.35 |  | $27.87
94664 | S |  | Aerosol or vapor inhalations | 0077 | 0.3444 | $20.44 | $7.74 | $4.09
94667 | S |  | Chest wall manipulation | 0077 | 0.3444 | $20.44 | $7.74 | $4.09
94668 | S |  | Chest wall manipulation | 0077 | 0.3444 | $20.44 | $7.74 | $4.09
94680 | X |  | Exhaled air analysis, o2 | 0367 | 0.6659 | $39.52 | $14.80 | $7.90
94681 | X |  | Exhaled air analysis, o2/co2 | 0368 | 0.9761 | $57.92 | $23.16 | $11.58
94690 | X |  | Exhaled air analysis | 0368 | 0.9761 | $57.92 | $23.16 | $11.58
94720 | X |  | Monoxide diffusing capacity | 0368 | 0.9761 | $57.92 | $23.16 | $11.58
94725 | X |  | Membrane diffusion capacity | 0368 | 0.9761 | $57.92 | $23.16 | $11.58
94750 | X |  | Pulmonary compliance study | 0368 | 0.9761 | $57.92 | $23.16 | $11.58
94760 | N |  | Measure blood oxygen level |  |  |  |  |
94761 | N |  | Measure blood oxygen level |  |  |  |  |
94762 | N |  | Measure blood oxygen level |  |  |  |  |
94770 | X |  | Exhaled carbon dioxide test | 0367 | 0.6659 | $39.52 | $14.80 | $7.90
94772 | X |  | Breath recording, infant | 0369 | 2.7519 | $163.31 | $44.18 | $32.66
94799 | X |  | Pulmonary service/procedure | 0367 | 0.6659 | $39.52 | $14.80 | $7.90
95004 | X |  | Percut allergy skin tests | 0381 | 0.1884 | $11.18 | $2.35 | $2.24
95010 | X |  | Percut allergy titrate test | 0381 | 0.1884 | $11.18 | $2.35 | $2.24
95015 | X |  | Id allergy titrate-drug/bug | 0381 | 0.1884 | $11.18 | $2.35 | $2.24
95024 | X |  | Id allergy test, drug/bug | 0381 | 0.1884 | $11.18 | $2.35 | $2.24
95027 | X |  | Skin end point titration | 0381 | 0.1884 | $11.18 | $2.35 | $2.24
95028 | X |  | Id allergy test-delayed type | 0381 | 0.1884 | $11.18 | $2.35 | $2.24
95044 | X |  | Allergy patch tests | 0381 | 0.1884 | $11.18 | $2.35 | $2.24
95052 | X |  | Photo patch test | 0381 | 0.1884 | $11.18 | $2.35 | $2.24
95056 | X |  | Photosensitivity tests | 0370 | 1.1232 | $66.65 |  | $13.33
95060 | X |  | Eye allergy tests | 0370 | 1.1232 | $66.65 |  | $13.33
95065 | X |  | Nose allergy test | 0381 | 0.1884 | $11.18 | $2.35 | $2.24
95070 | X |  | Bronchial allergy tests | 0369 | 2.7519 | $163.31 | $44.18 | $32.66
95071 | X |  | Bronchial allergy tests | 0369 | 2.7519 | $163.31 | $44.18 | $32.66
95075 | X |  | Ingestion challenge test | 0361 | 3.6216 | $214.92 | $83.23 | $42.98
95078 | X |  | Provocative testing | 0370 | 1.1232 | $66.65 |  | $13.33
95115 | X |  | Immunotherapy, one injection | 0352 | 0.1413 | $8.39 |  | $1.68
95117 | X |  | Immunotherapy injections | 0353 | 0.3954 | $23.46 |  | $4.69
95120 | B |  | Immunotherapy, one injection |  |  |  |  |
95125 | B |  | Immunotherapy, many antigens |  |  |  |  |
95130 | B |  | Immunotherapy, insect venom |  |  |  |  |
95131 | B |  | Immunotherapy, insect venoms |  |  |  |  |
95132 | B |  | Immunotherapy, insect venoms |  |  |  |  |
95133 | B |  | Immunotherapy, insect venoms |  |  |  |  |
95134 | B |  | Immunotherapy, insect venoms |  |  |  |  |
95144 | X |  | Antigen therapy services | 0353 | 0.3954 | $23.46 |  | $4.69
95145 | X |  | Antigen therapy services | 0353 | 0.3954 | $23.46 |  | $4.69
95146 | X |  | Antigen therapy services | 0359 | 0.8312 | $49.33 |  | $9.87
95147 | X |  | Antigen therapy services | 0359 | 0.8312 | $49.33 |  | $9.87
95148 | X |  | Antigen therapy services | 0353 | 0.3954 | $23.46 |  | $4.69
95149 | X |  | Antigen therapy services | 0352 | 0.1413 | $8.39 |  | $1.68
95165 | X |  | Antigen therapy services | 0353 | 0.3954 | $23.46 |  | $4.69
95170 | X |  | Antigen therapy services | 0352 | 0.1413 | $8.39 |  | $1.68
95180 | X |  | Rapid desensitization | 0370 | 1.1232 | $66.65 |  | $13.33
95199 | X |  | Allergy immunology services | 0370 | 1.1232 | $66.65 |  | $13.33
95250 | X |  | Glucose monitoring, cont | 0421 | 1.66 | $98.51 |  | $19.70
95805 | S |  | Multiple sleep latency test | 0209 | 11.5713 | $686.68 | $274.67 | $137.34
95806 | S |  | Sleep study, unattended | 0213 | 2.2932 | $136.09 | $54.43 | $27.22
95807 | S |  | Sleep study, attended | 0209 | 11.5713 | $686.68 | $274.67 | $137.34
95808 | S |  | Polysomnography, 1-3 | 0209 | 11.5713 | $686.68 | $274.67 | $137.34
95810 | S |  | Polysomnography, 4 or more | 0209 | 11.5713 | $686.68 | $274.67 | $137.34
95811 | S |  | Polysomnography w/cpap | 0209 | 11.5713 | $686.68 | $274.67 | $137.34
95812 | S |  | Electroencephalogram (EEG) | 0213 | 2.2932 | $136.09 | $54.43 | $27.22
95813 | S |  | Eeg, over 1 hour | 0213 | 2.2932 | $136.09 | $54.43 | $27.22
95816 | S |  | Electroencephalogram (EEG) | 0213 | 2.2932 | $136.09 | $54.43 | $27.22
95819 | S |  | Electroencephalogram (EEG) | 0213 | 2.2932 | $136.09 | $54.43 | $27.22
95822 | S |  | Sleep electroencephalogram | 0213 | 2.2932 | $136.09 | $54.43 | $27.22
95824 | S |  | Eeg, cerebral death only | 0214 | 1.1353 | $67.37 | $26.94 | $13.47
95827 | S |  | night electroencephalogram | 0213 | 2.2932 | $136.09 | $54.43 | $27.22
95829 | S |  | Surgery electrocorticogram | 0214 | 1.1353 | $67.37 | $26.94 | $13.47
95830 | B |  | Insert electrodes for EEG |  |  |  |  |
95831 | A |  | Limb muscle testing, manual |  |  |  |  |
95832 | A |  | Hand muscle testing, manual |  |  |  |  |
95833 | A |  | Body muscle testing, manual |  |  |  |  |
95834 | A |  | Body muscle testing, manual |  |  |  |  |
95851 | A |  | Range of motion measurements |  |  |  |  |
95852 | A |  | Range of motion measurements |  |  |  |  |
95857 | S |  | Tensilon test | 0218 | 1.1408 | $67.70 |  | $13.54
95858 | S |  | Tensilon test & myogram | 0215 | 0.6115 | $36.29 | $14.51 | $7.26
95860 | S |  | Muscle test, one limb | 0218 | 1.1408 | $67.70 |  | $13.54
95861 | S |  | Muscle test, 2 limbs | 0218 | 1.1408 | $67.70 |  | $13.54
95863 | S |  | Muscle test, 3 limbs | 0218 | 1.1408 | $67.70 |  | $13.54
95864 | S |  | Muscle test, 4 limbs | 0218 | 1.1408 | $67.70 |  | $13.54
95867 | S |  | Muscle test, head or neck | 0218 | 1.1408 | $67.70 |  | $13.54
95868 | S |  | Muscle test cran nerve bilat | 0218 | 1.1408 | $67.70 |  | $13.54
95869 | S |  | Muscle test, thor paraspinal | 0215 | 0.6115 | $36.29 | $14.51 | $7.26
95870 | S |  | Muscle test, nonparaspinal | 0215 | 0.6115 | $36.29 | $14.51 | $7.26
95872 | S |  | Muscle test, one fiber | 0218 | 1.1408 | $67.70 |  | $13.54
95875 | S |  | Limb exercise test | 0215 | 0.6115 | $36.29 | $14.51 | $7.26
95900 | S |  | Motor nerve conduction test | 0215 | 0.6115 | $36.29 | $14.51 | $7.26
95903 | S |  | Motor nerve conduction test | 0215 | 0.6115 | $36.29 | $14.51 | $7.26
95904 | S |  | Sense nerve conduction test | 0215 | 0.6115 | $36.29 | $14.51 | $7.26
95920 | S |  | Intraop nerve test add-on | 0216 | 2.672 | $158.56 |  | $31.71
95921 | S |  | Autonomic nerv function test | 0218 | 1.1408 | $67.70 |  | $13.54
95922 | S |  | Autonomic nerv function test | 0218 | 1.1408 | $67.70 |  | $13.54
95923 | S |  | Autonomic nerv function test | 0218 | 1.1408 | $67.70 |  | $13.54
95925 | S |  | Somatosensory testing | 0216 | 2.672 | $158.56 |  | $31.71
95926 | S |  | Somatosensory testing | 0216 | 2.672 | $158.56 |  | $31.71
95927 | S |  | Somatosensory testing | 0216 | 2.672 | $158.56 |  | $31.71
95928 | S |  | C motor evoked, uppr limbs | 0218 | 1.1408 | $67.70 |  | $13.54
95929 | S |  | C motor evoked, lwr limbs | 0218 | 1.1408 | $67.70 |  | $13.54
95930 | S |  | Visual evoked potential test | 0216 | 2.672 | $158.56 |  | $31.71
95933 | S |  | Blink reflex test | 0215 | 0.6115 | $36.29 | $14.51 | $7.26
95934 | S |  | H-reflex test | 0215 | 0.6115 | $36.29 | $14.51 | $7.26
95936 | S |  | H-reflex test | 0215 | 0.6115 | $36.29 | $14.51 | $7.26
95937 | S |  | Neuromuscular junction test | 0218 | 1.1408 | $67.70 |  | $13.54
95950 | S |  | Ambulatory eeg monitoring | 0209 | 11.5713 | $686.68 | $274.67 | $137.34
95951 | S |  | EEG monitoring/videorecord | 0209 | 11.5713 | $686.68 | $274.67 | $137.34
95953 | S |  | EEG monitoring/computer | 0209 | 11.5713 | $686.68 | $274.67 | $137.34
95954 | S |  | EEG monitoring/giving drugs | 0214 | 1.1353 | $67.37 | $26.94 | $13.47
95955 | S |  | EEG during surgery | 0213 | 2.2932 | $136.09 | $54.43 | $27.22
95956 | S |  | Eeg monitoring, cable/radio | 0209 | 11.5713 | $686.68 | $274.67 | $137.34
95957 | S |  | EEG digital analysis | 0214 | 1.1353 | $67.37 | $26.94 | $13.47
95958 | S |  | EEG monitoring/function test | 0213 | 2.2932 | $136.09 | $54.43 | $27.22
95961 | S |  | Electrode stimulation, brain | 0216 | 2.672 | $158.56 |  | $31.71
95962 | S |  | Electrode stim, brain add-on | 0216 | 2.672 | $158.56 |  | $31.71
95965 | T |  | Meg, spontaneous | 0430 | 11.404 | $676.75 |  | $135.35
95966 | T |  | Meg, evoked, single | 0430 | 11.404 | $676.75 |  | $135.35
95967 | T |  | Meg, evoked, each add'l | 0430 | 11.404 | $676.75 |  | $135.35
95970 | S |  | Analyze neurostim, no prog | 0218 | 1.1408 | $67.70 |  | $13.54
95971 | S |  | Analyze neurostim, simple | 0692 | 2.0111 | $119.34 | $30.16 | $23.87
95972 | S |  | Analyze neurostim, complex | 0692 | 2.0111 | $119.34 | $30.16 | $23.87
95973 | S |  | Analyze neurostim, complex | 0692 | 2.0111 | $119.34 | $30.16 | $23.87
95974 | S |  | Cranial neurostim, complex | 0692 | 2.0111 | $119.34 | $30.16 | $23.87
95975 | S |  | Cranial neurostim, complex | 0692 | 2.0111 | $119.34 | $30.16 | $23.87
95978 | S |  | Analyze neurostim brain/1h | 0692 | 2.0111 | $119.34 | $30.16 | $23.87
95979 | S |  | Analyz neurostim brain addon | 0692 | 2.0111 | $119.34 | $30.16 | $23.87
95990 | T |  | Spin/brain pump refil & main | 0125 | 1.9331 | $114.72 |  | $22.94
95991 | T |  | Spin/brain pump refil & main | 0125 | 1.9331 | $114.72 |  | $22.94
95999 | S |  | Neurological procedure | 0215 | 0.6115 | $36.29 | $14.51 | $7.26
96000 | S |  | Motion analysis, video/3d | 0216 | 2.672 | $158.56 |  | $31.71
96001 | S |  | Motion test w/ft press meas | 0216 | 2.672 | $158.56 |  | $31.71
96002 | S |  | Dynamic surface emg | 0218 | 1.1408 | $67.70 |  | $13.54
96003 | S |  | Dynamic fine wire emg | 0215 | 0.6115 | $36.29 | $14.51 | $7.26
96004 | E |  | Phys review of motion tests |  |  |  |  |
96100 | X |  | Psychological testing | 0373 | 2.1926 | $130.12 |  | $26.02
96105 | A |  | Assessment of aphasia |  |  |  |  |
96110 | X |  | Developmental test, lim | 0373 | 2.1926 | $130.12 |  | $26.02
96111 | X |  | Developmental test, extend | 0373 | 2.1926 | $130.12 |  | $26.02
96115 | X |  | Neurobehavior status exam | 0373 | 2.1926 | $130.12 |  | $26.02
96117 | X |  | Neuropsych test battery | 0373 | 2.1926 | $130.12 |  | $26.02
96150 | S |  | Assess lth/behave, init | 0432 | 0.6949 | $41.24 |  | $8.25
96151 | S |  | Assess hlth/behave, subseq | 0432 | 0.6949 | $41.24 |  | $8.25
96152 | S |  | Intervene hlth/behave, indiv | 0432 | 0.6949 | $41.24 |  | $8.25
96153 | S |  | Intervene hlth/behave, group | 0432 | 0.6949 | $41.24 |  | $8.25
96154 | S |  | Interv hlth/behav, fam w/pt | 0432 | 0.6949 | $41.24 |  | $8.25
96155 | E |  | Interv hlth/behav fam no pt |  |  |  |  |
96400 | S |  | Chemotherapy, sc/im | 0116 | 1.1453 | $67.97 |  | $13.59
96405 | S |  | Intralesional chemo admin | 0116 | 1.1453 | $67.97 |  | $13.59
96406 | S |  | Intralesional chemo admin | 0116 | 1.1453 | $67.97 |  | $13.59
96408 | S |  | Chemotherapy, push technique | 0116 | 1.1453 | $67.97 |  | $13.59
96410 | S |  | Chemotherapy,infusion method | 0117 | 3.2378 | $192.14 | $42.54 | $38.43
96412 | N |  | Chemo, infuse method add-on |  |  |  |  |
96414 | S |  | Chemo, infuse method add-on | 0117 | 3.2378 | $192.14 | $42.54 | $38.43
96420 | S |  | Chemotherapy, push technique | 0116 | 1.1453 | $67.97 |  | $13.59
96422 | S |  | Chemotherapy,infusion method | 0117 | 3.2378 | $192.14 | $42.54 | $38.43
96423 | N |  | Chemo, infuse method add-on |  |  |  |  |
96425 | S |  | Chemotherapy,infusion method | 0117 | 3.2378 | $192.14 | $42.54 | $38.43
96440 | S |  | Chemotherapy, intracavitary | 0116 | 1.1453 | $67.97 |  | $13.59
96445 | S |  | Chemotherapy, intracavitary | 0116 | 1.1453 | $67.97 |  | $13.59
96450 | S |  | Chemotherapy, into CNS | 0116 | 1.1453 | $67.97 |  | $13.59
96520 | T |  | Port pump refill & main | 0125 | 1.9331 | $114.72 |  | $22.94
96530 | T |  | Pump refilling, maintenance | 0125 | 1.9331 | $114.72 |  | $22.94
96542 | S |  | Chemotherapy injection | 0116 | 1.1453 | $67.97 |  | $13.59
96545 | N |  | Provide chemotherapy agent |  |  |  |  |
96549 | S |  | Chemotherapy, unspecified | 0116 | 1.1453 | $67.97 |  | $13.59
96567 | T |  | Photodynamic tx, skin | 0016 | 2.5834 | $153.31 | $33.57 | $30.66
96570 | T |  | Photodynamic tx, 30 min | 0015 | 1.6514 | $98.00 | $20.29 | $19.60
96571 | T |  | Photodynamic tx, addl 15 min | 0015 | 1.6514 | $98.00 | $20.29 | $19.60
96900 | S |  | Ultraviolet light therapy | 0001 | 0.4213 | $25.00 | $7.00 | $5.00
96902 | N |  | Trichogram |  |  |  |  |
96910 | S |  | Photochemotherapy with UV-B | 0001 | 0.4213 | $25.00 | $7.00 | $5.00
96912 | S |  | Photochemotherapy with UV-A | 0001 | 0.4213 | $25.00 | $7.00 | $5.00
96913 | S |  | Photochemotherapy, UV-A or B | 0683 | 1.9006 | $112.79 | $25.34 | $22.56
96920 | T |  | Laser tx, skin < 250 sq cm | 0013 | 1.1078 | $65.74 | $14.20 | $13.15
96921 | T |  | Laser tx, skin 250-500 sq cm | 0013 | 1.1078 | $65.74 | $14.20 | $13.15
96922 | T |  | Laser tx, skin > 500 sq cm | 0013 | 1.1078 | $65.74 | $14.20 | $13.15
96999 | T |  | Dermatological procedure | 0010 | 0.5719 | $33.94 | $9.65 | $6.79
97001 | A |  | Pt evaluation |  |  |  |  |
97002 | A |  | Pt re-evaluation |  |  |  |  |
97003 | A |  | Ot evaluation |  |  |  |  |
97004 | A |  | Ot re-evaluation |  |  |  |  |
97005 | E |  | Athletic train eval |  |  |  |  |
97006 | E |  | Athletic train reeval |  |  |  |  |
97010 | A |  | Hot or cold packs therapy |  |  |  |  |
97012 | A |  | Mechanical traction therapy |  |  |  |  |
97014 | E |  | Electric stimulation therapy |  |  |  |  |
97016 | A |  | Vasopneumatic device therapy |  |  |  |  |
97018 | A |  | Paraffin bath therapy |  |  |  |  |
97020 | A |  | Microwave therapy |  |  |  |  |
97022 | A |  | Whirlpool therapy |  |  |  |  |
97024 | A |  | Diathermy treatment |  |  |  |  |
97026 | A |  | Infrared therapy |  |  |  |  |
97028 | A |  | Ultraviolet therapy |  |  |  |  |
97032 | A |  | Electrical stimulation |  |  |  |  |
97033 | A |  | Electric current therapy |  |  |  |  |
97034 | A |  | Contrast bath therapy |  |  |  |  |
97035 | A |  | Ultrasound therapy |  |  |  |  |
97036 | A |  | Hydrotherapy |  |  |  |  |
97039 | A |  | Physical therapy treatment |  |  |  |  |
97110 | A |  | Therapeutic exercises |  |  |  |  |
97112 | A |  | Neuromuscular reeducation |  |  |  |  |
97113 | A |  | Aquatic therapy/exercises |  |  |  |  |
97116 | A |  | Gait training therapy |  |  |  |  |
97124 | A |  | Massage therapy |  |  |  |  |
97139 | A |  | Physical medicine procedure |  |  |  |  |
97140 | A |  | Manual therapy |  |  |  |  |
97150 | A |  | Group therapeutic procedures |  |  |  |  |
97504 | A |  | Orthotic training |  |  |  |  |
97520 | A |  | Prosthetic training |  |  |  |  |
97530 | A |  | Therapeutic activities |  |  |  |  |
97532 | A |  | Cognitive skills development |  |  |  |  |
97533 | A |  | Sensory integration |  |  |  |  |
97535 | A |  | Self care mngment training |  |  |  |  |
97537 | A |  | Community/work reintegration |  |  |  |  |
97542 | A |  | Wheelchair mngment training |  |  |  |  |
97545 | A |  | Work hardening |  |  |  |  |
97546 | A |  | Work hardening add-on |  |  |  |  |
97597 | A |  | Active wound care/20 cm or < |  |  |  |  |
97598 | A |  | Active wound care > 20 cm |  |  |  |  |
97602 | A |  | Wound(s) care non-selective |  |  |  |  |
97605 | A |  | Neg press wound tx, < 50 cm |  |  |  |  |
97606 | A |  | Neg press wound tx, > 50 cm |  |  |  |  |
97703 | A |  | Prosthetic checkout |  |  |  |  |
97750 | A |  | Physical performance test |  |  |  |  |
97755 | A |  | Assistive technology assess |  |  |  |  |
97799 | A |  | Physical medicine procedure |  |  |  |  |
97802 | A |  | Medical nutrition, indiv, in |  |  |  |  |
97803 | A |  | Med nutrition, indiv, subseq |  |  |  |  |
97804 | A |  | Medical nutrition, group |  |  |  |  |
97810 | E |  | Acupunct w/o stimul 15 min |  |  |  |  |
97811 | E |  | Acupunct w/o stimul addl 15m |  |  |  |  |
97813 | E |  | Acupunct w/stimul 15 min |  |  |  |  |
97814 | E |  | Acupunct w/stimul addl 15m |  |  |  |  |
98925 | S |  | Osteopathic manipulation | 0060 | 0.4935 | $29.29 |  | $5.86
98926 | S |  | Osteopathic manipulation | 0060 | 0.4935 | $29.29 |  | $5.86
98927 | S |  | Osteopathic manipulation | 0060 | 0.4935 | $29.29 |  | $5.86
98928 | S |  | Osteopathic manipulation | 0060 | 0.4935 | $29.29 |  | $5.86
98929 | S |  | Osteopathic manipulation | 0060 | 0.4935 | $29.29 |  | $5.86
98940 | S |  | Chiropractic manipulation | 0060 | 0.4935 | $29.29 |  | $5.86
98941 | S |  | Chiropractic manipulation | 0060 | 0.4935 | $29.29 |  | $5.86
98942 | S |  | Chiropractic manipulation | 0060 | 0.4935 | $29.29 |  | $5.86
98943 | E |  | Chiropractic manipulation |  |  |  |  |
99000 | B |  | Specimen handling |  |  |  |  |
99001 | B |  | Specimen handling |  |  |  |  |
99002 | B |  | Device handling |  |  |  |  |
99024 | B |  | Postop follow-up visit |  |  |  |  |
99026 | E |  | In-hospital on call service |  |  |  |  |
99027 | E |  | Out-of-hosp on call service |  |  |  |  |
99050 | B |  | Medical services after hrs |  |  |  |  |
99052 | B |  | Medical services at night |  |  |  |  |
99054 | B |  | Medical servcs, unusual hrs |  |  |  |  |
99056 | B |  | Non-office medical services |  |  |  |  |
99058 | B |  | Office emergency care |  |  |  |  |
99070 | B |  | Special supplies |  |  |  |  |
99071 | B |  | Patient education materials |  |  |  |  |
99075 | E |  | Medical testimony |  |  |  |  |
99078 | N |  | Group health education |  |  |  |  |
99080 | B |  | Special reports or forms |  |  |  |  |
99082 | B |  | Unusual physician travel |  |  |  |  |
99090 | B |  | Computer data analysis |  |  |  |  |
99091 | E |  | Collect/review data from pt |  |  |  |  |
99100 | B |  | Special anesthesia service |  |  |  |  |
99116 | B |  | Anesthesia with hypothermia |  |  |  |  |
99135 | B |  | Special anesthesia procedure |  |  |  |  |
99140 | B |  | Emergency anesthesia |  |  |  |  |
99141 | N |  | Sedation, iv/im or inhalant |  |  |  |  |
99142 | N |  | Sedation, oral/rectal/nasal |  |  |  |  |
99170 | T |  | Anogenital exam, child | 0191 | 0.167 | $9.91 | $2.78 | $1.98
99172 | E |  | Ocular function screen |  |  |  |  |
99173 | E |  | Visual acuity screen |  |  |  |  |
99175 | N |  | Induction of vomiting |  |  |  |  |
99183 | B |  | Hyperbaric oxygen therapy |  |  |  |  |
99185 | N |  | Regional hypothermia |  |  |  |  |
99186 | N |  | Total body hypothermia |  |  |  |  |
99190 | C |  | Special pump services |  |  |  |  |
99191 | C |  | Special pump services |  |  |  |  |
99192 | C |  | Special pump services |  |  |  |  |
99195 | X |  | Phlebotomy | 0372 | 0.57 | $33.83 | $10.09 | $6.77
99199 | B |  | Special service/proc/report |  |  |  |  |
99201 | V |  | Office/outpatient visit, new | 0600 | 0.8688 | $51.56 |  | $10.31
99202 | V |  | Office/outpatient visit, new | 0600 | 0.8688 | $51.56 |  | $10.31
99203 | V |  | Office/outpatient visit, new | 0601 | 1.0038 | $59.57 |  | $11.91
99204 | V |  | Office/outpatient visit, new | 0602 | 1.4284 | $84.77 |  | $16.95
99205 | V |  | Office/outpatient visit, new | 0602 | 1.4284 | $84.77 |  | $16.95
99211 | V |  | Office/outpatient visit, est | 0600 | 0.8688 | $51.56 |  | $10.31
99212 | V |  | Office/outpatient visit, est | 0600 | 0.8688 | $51.56 |  | $10.31
99213 | V |  | Office/outpatient visit, est | 0601 | 1.0038 | $59.57 |  | $11.91
99214 | V |  | Office/outpatient visit, est | 0602 | 1.4284 | $84.77 |  | $16.95
99215 | V |  | Office/outpatient visit, est | 0602 | 1.4284 | $84.77 |  | $16.95
99217 | B |  | Observation care discharge |  |  |  |  |
99218 | B |  | Observation care |  |  |  |  |
99219 | B |  | Observation care |  |  |  |  |
99220 | B |  | Observation care |  |  |  |  |
99221 | E |  | Initial hospital care |  |  |  |  |
99222 | E |  | Initial hospital care |  |  |  |  |
99223 | E |  | Initial hospital care |  |  |  |  |
99231 | E |  | Subsequent hospital care |  |  |  |  |
99232 | E |  | Subsequent hospital care |  |  |  |  |
99233 | E |  | Subsequent hospital care |  |  |  |  |
99234 | B |  | Observ/hosp same date |  |  |  |  |
99235 | B |  | Observ/hosp same date |  |  |  |  |
99236 | B |  | Observ/hosp same date |  |  |  |  |
99238 | E |  | Hospital discharge day |  |  |  |  |
99239 | E |  | Hospital discharge day |  |  |  |  |
99241 | V |  | Office consultation | 0600 | 0.8688 | $51.56 |  | $10.31
99242 | V |  | Office consultation | 0600 | 0.8688 | $51.56 |  | $10.31
99243 | V |  | Office consultation | 0601 | 1.0038 | $59.57 |  | $11.91
99244 | V |  | Office consultation | 0602 | 1.4284 | $84.77 |  | $16.95
99245 | V |  | Office consultation | 0602 | 1.4284 | $84.77 |  | $16.95
99251 | C |  | Initial inpatient consult |  |  |  |  |
99252 | C |  | Initial inpatient consult |  |  |  |  |
99253 | C |  | Initial inpatient consult |  |  |  |  |
99254 | C |  | Initial inpatient consult |  |  |  |  |
99255 | C |  | Initial inpatient consult |  |  |  |  |
99261 | C |  | Follow-up inpatient consult |  |  |  |  |
99262 | C |  | Follow-up inpatient consult |  |  |  |  |
99263 | C |  | Follow-up inpatient consult |  |  |  |  |
99271 | V |  | Confirmatory consultation | 0600 | 0.8688 | $51.56 |  | $10.31
99272 | V |  | Confirmatory consultation | 0600 | 0.8688 | $51.56 |  | $10.31
99273 | V |  | Confirmatory consultation | 0601 | 1.0038 | $59.57 |  | $11.91
99274 | V |  | Confirmatory consultation | 0602 | 1.4284 | $84.77 |  | $16.95
99275 | V |  | Confirmatory consultation | 0602 | 1.4284 | $84.77 |  | $16.95
99281 | V |  | Emergency dept visit | 0610 | 1.2947 | $76.83 | $19.48 | $15.37
99282 | V |  | Emergency dept visit | 0610 | 1.2947 | $76.83 | $19.48 | $15.37
99283 | V |  | Emergency dept visit | 0611 | 2.2718 | $134.82 | $35.76 | $26.96
99284 | V |  | Emergency dept visit | 0612 | 3.9853 | $236.50 | $54.12 | $47.30
99285 | V |  | Emergency dept visit | 0612 | 3.9853 | $236.50 | $54.12 | $47.30
99288 | B |  | Direct advanced life support |  |  |  |  |
99289 | N |  | Pt transport, 30-74 min |  |  |  |  |
99290 | N |  | Pt transport, addl 30 min |  |  |  |  |
99291 | S |  | Critical care, first hour | 0620 | 8.2996 | $492.52 | $135.68 | $98.50
99292 | N |  | Critical care, add=l 30 min |  |  |  |  |
99293 | C |  | Ped critical care, initial |  |  |  |  |
99294 | C |  | Ped critical care, subseq |  |  |  |  |
99295 | C |  | Neonatal critical care |  |  |  |  |
99296 | C |  | Neonatal critical care |  |  |  |  |
99298 | C |  | Neonatal critical care |  |  |  |  |
99299 | C |  | Ic, lbw infant 1500-2500 gm |  |  |  |  |
99301 | B |  | Nursing facility care |  |  |  |  |
99302 | B |  | Nursing facility care |  |  |  |  |
99303 | B |  | Nursing facility care |  |  |  |  |
99311 | B |  | Nursing fac care, subseq |  |  |  |  |
99312 | B |  | Nursing fac care, subseq |  |  |  |  |
99313 | B |  | Nursing fac care, subseq |  |  |  |  |
99315 | B |  | Nursing fac discharge day |  |  |  |  |
99316 | B |  | Nursing fac discharge day |  |  |  |  |
99321 | B |  | Rest home visit, new patient |  |  |  |  |
99322 | B |  | Rest home visit, new patient |  |  |  |  |
99323 | B |  | Rest home visit, new patient |  |  |  |  |
99331 | B |  | Rest home visit, est pat |  |  |  |  |
99332 | B |  | Rest home visit, est pat |  |  |  |  |
99333 | B |  | Rest home visit, est pat |  |  |  |  |
99341 | B |  | Home visit, new patient |  |  |  |  |
99342 | B |  | Home visit, new patient |  |  |  |  |
99343 | B |  | Home visit, new patient |  |  |  |  |
99344 | B |  | Home visit, new patient |  |  |  |  |
99345 | B |  | Home visit, new patient |  |  |  |  |
99347 | B |  | Home visit, est patient |  |  |  |  |
99348 | B |  | Home visit, est patient |  |  |  |  |
99349 | B |  | Home visit, est patient |  |  |  |  |
99350 | B |  | Home visit, est patient |  |  |  |  |
99354 | N |  | Prolonged service, office |  |  |  |  |
99355 | N |  | Prolonged service, office |  |  |  |  |
99356 | C |  | Prolonged service, inpatient |  |  |  |  |
99357 | C |  | Prolonged service, inpatient |  |  |  |  |
99358 | N |  | Prolonged serv, w/o contact |  |  |  |  |
99359 | N |  | Prolonged serv, w/o contact |  |  |  |  |
99360 | B |  | Physician standby services |  |  |  |  |
99361 | E |  | Physician/team conference |  |  |  |  |
99362 | E |  | Physician/team conference |  |  |  |  |
99371 | B |  | Physician phone consultation |  |  |  |  |
99372 | B |  | Physician phone consultation |  |  |  |  |
99373 | B |  | Physician phone consultation |  |  |  |  |
99374 | B |  | Home health care supervision |  |  |  |  |
99375 | E |  | Home health care supervision |  |  |  |  |
99377 | B |  | Hospice care supervision |  |  |  |  |
99378 | E |  | Hospice care supervision |  |  |  |  |
99379 | B |  | Nursing fac care supervision |  |  |  |  |
99380 | B |  | Nursing fac care supervision |  |  |  |  |
99381 | E |  | Prev visit, new, infant |  |  |  |  |
99382 | E |  | Prev visit, new, age 1-4 |  |  |  |  |
99383 | E |  | Prev visit, new, age 5-11 |  |  |  |  |
99384 | E |  | Prev visit, new, age 12-17 |  |  |  |  |
99385 | E |  | Prev visit, new, age 18-39 |  |  |  |  |
99386 | E |  | Prev visit, new, age 40-64 |  |  |  |  |
99387 | E |  | Prev visit, new, 65 & over |  |  |  |  |
99391 | E |  | Prev visit, est, infant |  |  |  |  |
99392 | E |  | Prev visit, est, age 1-4 |  |  |  |  |
99393 | E |  | Prev visit, est, age 5-11 |  |  |  |  |
99394 | E |  | Prev visit, est, age 12-17 |  |  |  |  |
99395 | E |  | Prev visit, est, age 18-39 |  |  |  |  |
99396 | E |  | Prev visit, est, age 40-64 |  |  |  |  |
99397 | E |  | Prev visit, est, 65 & over |  |  |  |  |
99401 | E |  | Preventive counseling, indiv |  |  |  |  |
99402 | E |  | Preventive counseling, indiv |  |  |  |  |
99403 | E |  | Preventive counseling, indiv |  |  |  |  |
99404 | E |  | Preventive counseling, indiv |  |  |  |  |
99411 | E |  | Preventive counseling, group |  |  |  |  |
99412 | E |  | Preventive counseling, group |  |  |  |  |
99420 | E |  | Health risk assessment test |  |  |  |  |
99429 | E |  | Unlisted preventive service |  |  |  |  |
99431 | V |  | Initial care, normal newborn | 0600 | 0.8688 | $51.56 |  | $10.31
99432 | N |  | Newborn care, not in hosp |  |  |  |  |
99433 | C |  | Normal newborn care/hospital |  |  |  |  |
99435 | E |  | Newborn discharge day hosp |  |  |  |  |
99436 | N |  | Attendance, birth |  |  |  |  |
99440 | S |  | Newborn resuscitation | 0094 | 2.5363 | $150.51 | $47.62 | $30.10
99450 | E |  | Life/disability evaluation |  |  |  |  |
99455 | B |  | Disability examination |  |  |  |  |
99456 | B |  | Disability examination |  |  |  |  |
99499 | B |  | Unlisted e&m service |  |  |  |  |
99500 | E |  | Home visit, prenatal |  |  |  |  |
99501 | E |  | Home visit, postnatal |  |  |  |  |
99502 | E |  | Home visit, nb care |  |  |  |  |
99503 | E |  | Home visit, resp therapy |  |  |  |  |
99504 | E |  | Home visit mech ventilator |  |  |  |  |
99505 | E |  | Home visit, stoma care |  |  |  |  |
99506 | E |  | Home visit, im injection |  |  |  |  |
99507 | E |  | Home visit, cath maintain |  |  |  |  |
99509 | E |  | Home visit day life activity |  |  |  |  |
99510 | E |  | Home visit, sing/m/fam couns |  |  |  |  |
99511 | E |  | Home visit, fecal/enema mgmt |  |  |  |  |
99512 | E |  | Home visit for hemodialysis |  |  |  |  |
99600 | E |  | Home visit nos |  |  |  |  |
99601 | E |  | Home infusion/visit, 2 hrs |  |  |  |  |
99602 | E |  | Home infusion, each addtl hr |  |  |  |  |
A0021 | E |  | Outside state ambulance serv |  |  |  |  |
A0080 | E |  | Noninterest escort in non er |  |  |  |  |
A0090 | E |  | Interest escort in non er |  |  |  |  |
A0100 | E |  | Nonemergency transport taxi |  |  |  |  |
A0110 | E |  | Nonemergency transport bus |  |  |  |  |
A0120 | E |  | Noner transport mini-bus |  |  |  |  |
A0130 | E |  | Noner transport wheelch van |  |  |  |  |
A0140 | E |  | Nonemergency transport air |  |  |  |  |
A0160 | E |  | Noner transport case worker |  |  |  |  |
A0170 | E |  | Noner transport parking fees |  |  |  |  |
A0180 | E |  | Noner transport lodgng recip |  |  |  |  |
A0190 | E |  | Noner transport meals recip |  |  |  |  |
A0200 | E |  | Noner transport lodgng escrt |  |  |  |  |
A0210 | E |  | Noner transport meals escort |  |  |  |  |
A0225 | A |  | Neonatal emergency transport |  |  |  |  |
A0380 | A |  | Basic life support mileage |  |  |  |  |
A0382 | A |  | Basic support routine suppls |  |  |  |  |
A0384 | A |  | Bls defibrillation supplies |  |  |  |  |
A0390 | A |  | Advanced life support mileag |  |  |  |  |
A0392 | A |  | Als defibrillation supplies |  |  |  |  |
A0394 | A |  | Als IV drug therapy supplies |  |  |  |  |
A0396 | A |  | Als esophageal intub suppls |  |  |  |  |
A0398 | A |  | Als routine disposble suppls |  |  |  |  |
A0420 | A |  | Ambulance waiting 1/2 hr |  |  |  |  |
A0422 | A |  | Ambulance 02 life sustaining |  |  |  |  |
A0424 | A |  | Extra ambulance attendant |  |  |  |  |
A0425 | A |  | Ground mileage |  |  |  |  |
A0426 | A |  | Als 1 |  |  |  |  |
A0427 | A |  | ALS1-emergency |  |  |  |  |
A0428 | A |  | bls |  |  |  |  |
A0429 | A |  | BLS-emergency |  |  |  |  |
A0430 | A |  | Fixed wing air transport |  |  |  |  |
A0431 | A |  | Rotary wing air transport |  |  |  |  |
A0432 | A |  | PI volunteer ambulance co |  |  |  |  |
A0433 | A |  | als 2 |  |  |  |  |
A0434 | A |  | Specialty care transport |  |  |  |  |
A0435 | A |  | Fixed wing air mileage |  |  |  |  |
A0436 | A |  | Rotary wing air mileage |  |  |  |  |
A0800 | B |  | Amb trans 7pm-7am |  |  |  |  |
A0888 | E |  | Noncovered ambulance mileage |  |  |  |  |
A0999 | A |  | Unlisted ambulance service |  |  |  |  |
A4206 | E |  | 1 CC sterile syringe&needle |  |  |  |  |
A4207 | E |  | 2 CC sterile syringe&needle |  |  |  |  |
A4208 | E |  | 3 CC sterile syringe&needle |  |  |  |  |
A4209 | E |  | 5+ CC sterile syringe&needle |  |  |  |  |
A4210 | E |  | Nonneedle injection device |  |  |  |  |
A4211 | B |  | Supp for self-adm injections |  |  |  |  |
A4212 | B |  | Non coring needle or stylet |  |  |  |  |
A4213 | E |  | 20+ CC syringe only |  |  |  |  |
A4215 | E |  | Sterile needle |  |  |  |  |
A4216 | A |  | Sterile water/saline, 10 ml |  |  |  |  |
A4217 | A |  | Sterile water/saline, 500 ml |  |  |  |  |
A4220 | N |  | Infusion pump refill kit |  |  |  |  |
A4221 | Y |  | Maint drug infus cath per wk |  |  |  |  |
A4222 | Y |  | Drug infusion pump supplies |  |  |  |  |
A4223 | E |  | Infusion supplies w/o pump |  |  |  |  |
A4230 | Y |  | Infus insulin pump non needl |  |  |  |  |
A4231 | Y |  | Infusion insulin pump needle |  |  |  |  |
A4232 | Y |  | Syringe w/needle insulin 3cc |  |  |  |  |
A4244 | E |  | Alcohol or peroxide per pint |  |  |  |  |
A4245 | E |  | Alcohol wipes per box |  |  |  |  |
A4246 | E |  | Betadine/phisohex solution |  |  |  |  |
A4247 | E |  | Betadine/iodine swabs/wipes |  |  |  |  |
A4248 | N |  | Chlorhexidine antisept |  |  |  |  |
A4250 | E |  | Urine reagent strips/tablets |  |  |  |  |
A4253 | Y |  | Blood glucose/reagent strips |  |  |  |  |
A4254 | Y |  | Battery for glucose monitor |  |  |  |  |
A4255 | Y |  | Glucose monitor platforms |  |  |  |  |
A4256 | Y |  | Calibrator solution/chips |  |  |  |  |
A4257 | Y |  | Replace Lensshield Cartridge |  |  |  |  |
A4258 | Y |  | Lancet device each |  |  |  |  |
A4259 | Y |  | Lancets per box |  |  |  |  |
A4260 | E |  | Levonorgestrel implant |  |  |  |  |
A4261 | E |  | Cervical cap contraceptive |  |  |  |  |
A4262 | N |  | Temporary tear duct plug |  |  |  |  |
A4263 | N |  | Permanent tear duct plug |  |  |  |  |
A4265 | Y |  | Paraffin |  |  |  |  |
A4266 | E |  | Diaphragm |  |  |  |  |
A4267 | E |  | Male condom |  |  |  |  |
A4268 | E |  | Female condom |  |  |  |  |
A4269 | E |  | Spermicide |  |  |  |  |
A4270 | A |  | Disposable endoscope sheath |  |  |  |  |
A4280 | A |  | Brst prsths adhsv attchmnt |  |  |  |  |
A4281 | E |  | Replacement breastpump tube |  |  |  |  |
A4282 | E |  | Replacement breastpump adpt |  |  |  |  |
A4283 | E |  | Replacement breastpump cap |  |  |  |  |
A4284 | E |  | Replcmnt breast pump shield |  |  |  |  |
A4285 | E |  | Replcmnt breast pump bottle |  |  |  |  |
A4286 | E |  | Replcmnt breastpump lok ring |  |  |  |  |
A4290 | B |  | Sacral nerve stim test lead |  |  |  |  |
A4300 | N |  | Cath impl vasc access portal |  |  |  |  |
A4301 | N |  | Implantable access syst perc |  |  |  |  |
A4305 | A |  | Drug delivery system >=50 ML |  |  |  |  |
A4306 | A |  | Drug delivery system <=5 ML |  |  |  |  |
A4310 | A |  | Insert tray w/o bag/cath |  |  |  |  |
A4311 | A |  | Catheter w/o bag 2-way latex |  |  |  |  |
A4312 | A |  | Cath w/o bag 2-way silicone |  |  |  |  |
A4313 | A |  | Catheter w/bag 3-way |  |  |  |  |
A4314 | A |  | Cath w/drainage 2-way latex |  |  |  |  |
A4315 | A |  | Cath w/drainage 2-way silcne |  |  |  |  |
A4316 | A |  | Cath w/drainage 3-way |  |  |  |  |
A4320 | A |  | Irrigation tray |  |  |  |  |
A4321 | A |  | Cath therapeutic irrig agent |  |  |  |  |
A4322 | A |  | Irrigation syringe |  |  |  |  |
A4326 | A |  | Male external catheter |  |  |  |  |
A4327 | A |  | Fem urinary collect dev cup |  |  |  |  |
A4328 | A |  | Fem urinary collect pouch |  |  |  |  |
A4330 | A |  | Stool collection pouch |  |  |  |  |
A4331 | A |  | Extension drainage tubing |  |  |  |  |
A4332 | A |  | Lubricant for cath insertion |  |  |  |  |
A4333 | A |  | Urinary cath anchor device |  |  |  |  |
A4334 | A |  | Urinary cath leg strap |  |  |  |  |
A4335 | A |  | Incontinence supply |  |  |  |  |
A4338 | A |  | Indwelling catheter latex |  |  |  |  |
A4340 | A |  | Indwelling catheter special |  |  |  |  |
A4344 | A |  | Cath indw foley 2 way silicn |  |  |  |  |
A4346 | A |  | Cath indw foley 3 way |  |  |  |  |
A4348 | A |  | Male ext cath extended wear |  |  |  |  |
A4349 | A |  | Disposable male external cat |  |  |  |  |
A4351 | A |  | Straight tip urine catheter |  |  |  |  |
A4352 | A |  | Coude tip urinary catheter |  |  |  |  |
A4353 | A |  | Intermittent urinary cath |  |  |  |  |
A4354 | A |  | Cath insertion tray w/bag |  |  |  |  |
A4355 | A |  | Bladder irrigation tubing |  |  |  |  |
A4356 | A |  | Ext ureth clmp or compr dvc |  |  |  |  |
A4357 | A |  | Bedside drainage bag |  |  |  |  |
A4358 | A |  | Urinary leg or abdomen bag |  |  |  |  |
A4359 | A |  | Urinary suspensory w/o leg b |  |  |  |  |
A4361 | A |  | Ostomy face plate |  |  |  |  |
A4362 | A |  | Solid skin barrier |  |  |  |  |
A4364 | A |  | Adhesive, liquid or equal |  |  |  |  |
A4365 | A |  | Adhesive remover wipes |  |  |  |  |
A4366 | A |  | Ostomy vent |  |  |  |  |
A4367 | A |  | Ostomy belt |  |  |  |  |
A4368 | A |  | Ostomy filter |  |  |  |  |
A4369 | A |  | Skin barrier liquid per oz |  |  |  |  |
A4371 | A |  | Skin barrier powder per oz |  |  |  |  |
A4372 | A |  | Skin barrier solid 4x4 equiv |  |  |  |  |
A4373 | A |  | Skin barrier with flange |  |  |  |  |
A4375 | A |  | Drainable plastic pch w fcpl |  |  |  |  |
A4376 | A |  | Drainable rubber pch w fcplt |  |  |  |  |
A4377 | A |  | Drainable plstic pch w/o fp |  |  |  |  |
A4378 | A |  | Drainable rubber pch w/o fp |  |  |  |  |
A4379 | A |  | Urinary plastic pouch w fcpl |  |  |  |  |
A4380 | A |  | Urinary rubber pouch w fcplt |  |  |  |  |
A4381 | A |  | Urinary plastic pouch w/o fp |  |  |  |  |
A4382 | A |  | Urinary hvy plstc pch w/o fp |  |  |  |  |
A4383 | A |  | Urinary rubber pouch w/o fp |  |  |  |  |
A4384 | A |  | Ostomy faceplt/silicone ring |  |  |  |  |
A4385 | A |  | Ost skn barrier sld ext wear |  |  |  |  |
A4387 | A |  | Ost clsd pouch w att st barr |  |  |  |  |
A4388 | A |  | Drainable pch w ex wear barr |  |  |  |  |
A4389 | A |  | Drainable pch w st wear barr |  |  |  |  |
A4390 | A |  | Drainable pch ex wear convex |  |  |  |  |
A4391 | A |  | Urinary pouch w ex wear barr |  |  |  |  |
A4392 | A |  | Urinary pouch w st wear barr |  |  |  |  |
A4393 | A |  | Urine pch w ex wear bar conv |  |  |  |  |
A4394 | A |  | Ostomy pouch liq deodorant |  |  |  |  |
A4395 | A |  | Ostomy pouch solid deodorant |  |  |  |  |
A4396 | A |  | Peristomal hernia supprt blt |  |  |  |  |
A4397 | A |  | Irrigation supply sleeve |  |  |  |  |
A4398 | A |  | Ostomy irrigation bag |  |  |  |  |
A4399 | A |  | Ostomy irrig cone/cath w brs |  |  |  |  |
A4400 | A |  | Ostomy irrigation set |  |  |  |  |
A4402 | A |  | Lubricant per ounce |  |  |  |  |
A4404 | A |  | Ostomy ring each |  |  |  |  |
A4405 | A |  | Nonpectin based ostomy paste |  |  |  |  |
A4406 | A |  | Pectin based ostomy paste |  |  |  |  |
A4407 | A |  | Ext wear ost skn barr <=4sq÷ |  |  |  |  |
A4408 | A |  | Ext wear ost skn barr >4sq÷ |  |  |  |  |
A4409 | A |  | Ost skn barr w flng <=4 sq÷ |  |  |  |  |
A4410 | A |  | Ost skn barr w flng >4sq÷ |  |  |  |  |
A4413 | A |  | 2 pc drainable ost pouch |  |  |  |  |
A4414 | A |  | Ostomy sknbarr w flng <=4sq÷ |  |  |  |  |
A4415 | A |  | Ostomy skn barr w flng >4sq÷ |  |  |  |  |
A4416 | A |  | Ost pch clsd w barrier/filtr |  |  |  |  |
A4417 | A |  | Ost pch w bar/bltinconv/fltr |  |  |  |  |
A4418 | A |  | Ost pch clsd w/o bar w filtr |  |  |  |  |
A4419 | A |  | Ost pch for bar w flange/flt |  |  |  |  |
A4420 | A |  | Ost pch clsd for bar w lk fl |  |  |  |  |
A4421 | E |  | Ostomy supply misc |  |  |  |  |
A4422 | A |  | Ost pouch absorbent material |  |  |  |  |
A4423 | A |  | Ost pch for bar w lk fl/fltr |  |  |  |  |
A4424 | A |  | Ost pch drain w bar & filter |  |  |  |  |
A4425 | A |  | Ost pch drain for barrier fl |  |  |  |  |
A4426 | A |  | Ost pch drain 2 piece system |  |  |  |  |
A4427 | A |  | Ost pch drain/barr lk flng/f |  |  |  |  |
A4428 | A |  | Urine ost pouch w faucet/tap |  |  |  |  |
A4429 | A |  | Urine ost pch bar w lock fln |  |  |  |  |
A4430 | A |  | Ost pch urine w lock flng/ft |  |  |  |  |
A4431 | A |  | Urine ost pch bar w lock fln |  |  |  |  |
A4432 | A |  | Ost pch urine w lock flng/ft |  |  |  |  |
A4433 | A |  | Urine ost pch bar w lock fln |  |  |  |  |
A4434 | A |  | Ost pch urine w lock flng/ft |  |  |  |  |
A4450 | A |  | Non-waterproof tape |  |  |  |  |
A4452 | A |  | Waterproof tape |  |  |  |  |
A4455 | A |  | Adhesive remover per ounce |  |  |  |  |
A4458 | E |  | Reusable enema bag |  |  |  |  |
A4462 | A |  | Abdmnl drssng holder/binder |  |  |  |  |
A4465 | A |  | Non-elastic extremity binder |  |  |  |  |
A4470 | A |  | Gravlee jet washer |  |  |  |  |
A4480 | A |  | Vabra aspirator |  |  |  |  |
A4481 | A |  | Tracheostoma filter |  |  |  |  |
A4483 | A |  | Moisture exchanger |  |  |  |  |
A4490 | E |  | Above knee surgical stocking |  |  |  |  |
A4495 | E |  | Thigh length surg stocking |  |  |  |  |
A4500 | E |  | Below knee surgical stocking |  |  |  |  |
A4510 | E |  | Full length surg stocking |  |  |  |  |
A4520 | E |  | Incontinence garment anytype |  |  |  |  |
A4550 | B |  | Surgical trays |  |  |  |  |
A4554 | E |  | Disposable underpads |  |  |  |  |
A4555 | E |  | Disposable underpad small |  |  |  |  |
A4556 | Y |  | Electrodes, pair |  |  |  |  |
A4557 | Y |  | Lead wires, pair |  |  |  |  |
A4558 | Y |  | Conductive paste or gel |  |  |  |  |
A4561 | N |  | Pessary rubber, any type |  |  |  |  |
A4562 | N |  | Pessary, non rubber,any type |  |  |  |  |
A4565 | A |  | Slings |  |  |  |  |
A4570 | E |  | Splint |  |  |  |  |
A4575 | E |  | Hyperbaric o2 chamber disps |  |  |  |  |
A4580 | E |  | Cast supplies (plaster) |  |  |  |  |
A4590 | E |  | Special casting material |  |  |  |  |
A4595 | Y |  | TENS suppl 2 lead per month |  |  |  |  |
A4605 | Y |  | Trach suction cath close sys |  |  |  |  |
A4606 | A |  | Oxygen probe used w oximeter |  |  |  |  |
A4608 | Y |  | Transtracheal oxygen cath |  |  |  |  |
A4611 | Y |  | Heavy duty battery |  |  |  |  |
A4612 | Y |  | Battery cables |  |  |  |  |
A4613 | Y |  | Battery charger |  |  |  |  |
A4614 | A |  | Hand-held PEFR meter |  |  |  |  |
A4615 | Y |  | Cannula nasal |  |  |  |  |
A4616 | Y |  | Tubing (oxygen) per foot |  |  |  |  |
A4617 | Y |  | Mouth piece |  |  |  |  |
A4618 | Y |  | Breathing circuits |  |  |  |  |
A4619 | Y |  | Face tent |  |  |  |  |
A4620 | Y |  | Variable concentration mask |  |  |  |  |
A4623 | A |  | Tracheostomy inner cannula |  |  |  |  |
A4624 | Y |  | Tracheal suction tube |  |  |  |  |
A4625 | A |  | Trach care kit for new trach |  |  |  |  |
A4626 | A |  | Tracheostomy cleaning brush |  |  |  |  |
A4627 | E |  | Spacer bag/reservoir |  |  |  |  |
A4628 | Y |  | Oropharyngeal suction cath |  |  |  |  |
A4629 | A |  | Tracheostomy care kit |  |  |  |  |
A4630 | Y |  | Repl bat t.e.n.s. own by pt |  |  |  |  |
A4632 | Y |  | Infus pump rplcemnt battery |  |  |  |  |
A4633 | Y |  | Uvl replacement bulb |  |  |  |  |
A4634 | A |  | Replacement bulb th lightbox |  |  |  |  |
A4635 | Y |  | Underarm crutch pad |  |  |  |  |
A4636 | Y |  | Handgrip for cane etc |  |  |  |  |
A4637 | Y |  | Repl tip cane/crutch/walker |  |  |  |  |
A4638 | Y |  | Repl batt pulse gen sys |  |  |  |  |
A4639 | Y |  | Infrared ht sys replcmnt pad |  |  |  |  |
A4640 | Y |  | Alternating pressure pad |  |  |  |  |
A4641 | N |  | Diagnostic imaging agent |  |  |  |  |
A4642 | H |  | Satumomab pendetide per dose | 0704 |  |  |  |
A4643 | B |  | High dose contrast MRI |  |  |  |  |
A4644 | B |  | Contrast 100-199 MGs iodine |  |  |  |  |
A4645 | B |  | Contrast 200-299 MGs iodine |  |  |  |  |
A4646 | B |  | Contrast 300-399 MGs iodine |  |  |  |  |
A4647 | B |  | Supp- paramagnetic contr mat |  |  |  |  |
A4649 | A |  | Surgical supplies |  |  |  |  |
A4651 | A |  | Calibrated microcap tube |  |  |  |  |
A4652 | A |  | Microcapillary tube sealant |  |  |  |  |
A4653 | A |  | PD catheter anchor belt |  |  |  |  |
A4656 | A |  | Dialysis needle |  |  |  |  |
A4657 | A |  | Dialysis syringe w/wo needle |  |  |  |  |
A4660 | A |  | Sphyg/bp app w cuff and stet |  |  |  |  |
A4663 | A |  | Dialysis blood pressure cuff |  |  |  |  |
A4670 | E |  | Automatic bp monitor, dial |  |  |  |  |
A4671 | B |  | Disposable cycler set |  |  |  |  |
A4672 | B |  | Drainage ext line, dialysis |  |  |  |  |
A4673 | B |  | Ext line w easy lock connect |  |  |  |  |
A4674 | B |  | Chem/antisept solution, 8oz |  |  |  |  |
A4680 | A |  | Activated carbon filter, ea |  |  |  |  |
A4690 | A |  | Dialyzer, each |  |  |  |  |
A4706 | A |  | Bicarbonate conc sol per gal |  |  |  |  |
A4707 | A |  | Bicarbonate conc pow per pac |  |  |  |  |
A4708 | A |  | Acetate conc sol per gallon |  |  |  |  |
A4709 | A |  | Acid conc sol per gallon |  |  |  |  |
A4714 | A |  | Treated water per gallon |  |  |  |  |
A4719 | A |  | ÷Y set÷ tubing |  |  |  |  |
A4720 | A |  | Dialysat sol fld vol > 249cc |  |  |  |  |
A4721 | A |  | Dialysat sol fld vol > 999cc |  |  |  |  |
A4722 | A |  | Dialys sol fld vol > 1999cc |  |  |  |  |
A4723 | A |  | Dialys sol fld vol > 2999cc |  |  |  |  |
A4724 | A |  | Dialys sol fld vol > 3999cc |  |  |  |  |
A4725 | A |  | Dialys sol fld vol > 4999cc |  |  |  |  |
A4726 | A |  | Dialys sol fld vol > 5999cc |  |  |  |  |
A4728 | B |  | Dialysate solution, non-dex |  |  |  |  |
A4730 | A |  | Fistula cannulation set, ea |  |  |  |  |
A4736 | A |  | Topical anesthetic, per gram |  |  |  |  |
A4737 | A |  | Inj anesthetic per 10 ml |  |  |  |  |
A4740 | A |  | Shunt accessory |  |  |  |  |
A4750 | A |  | Art or venous blood tubing |  |  |  |  |
A4755 | A |  | Comb art/venous blood tubing |  |  |  |  |
A4760 | A |  | Dialysate sol test kit, each |  |  |  |  |
A4765 | A |  | Dialysate conc pow per pack |  |  |  |  |
A4766 | A |  | Dialysate conc sol add 10 ml |  |  |  |  |
A4770 | A |  | Blood collection tube/vacuum |  |  |  |  |
A4771 | A |  | Serum clotting time tube |  |  |  |  |
A4772 | A |  | Blood glucose test strips |  |  |  |  |
A4773 | A |  | Occult blood test strips |  |  |  |  |
A4774 | A |  | Ammonia test strips |  |  |  |  |
A4802 | A |  | Protamine sulfate per 50 mg |  |  |  |  |
A4860 | A |  | Disposable catheter tips |  |  |  |  |
A4870 | A |  | Plumb/elec wk hm hemo equip |  |  |  |  |
A4890 | A |  | Repair/maint cont hemo equip |  |  |  |  |
A4911 | A |  | Drain bag/bottle |  |  |  |  |
A4913 | A |  | Misc dialysis supplies noc |  |  |  |  |
A4918 | A |  | Venous pressure clamp |  |  |  |  |
A4927 | A |  | Non-sterile gloves |  |  |  |  |
A4928 | A |  | Surgical mask |  |  |  |  |
A4929 | A |  | Tourniquet for dialysis, ea |  |  |  |  |
A4930 | A |  | Sterile, gloves per pair |  |  |  |  |
A4931 | A |  | Reusable oral thermometer |  |  |  |  |
A4932 | E |  | Reusable rectal thermometer |  |  |  |  |
A5051 | A |  | Pouch clsd w barr attached |  |  |  |  |
A5052 | A |  | Clsd ostomy pouch w/o barr |  |  |  |  |
A5053 | A |  | Clsd ostomy pouch faceplate |  |  |  |  |
A5054 | A |  | Clsd ostomy pouch w/flange |  |  |  |  |
A5055 | A |  | Stoma cap |  |  |  |  |
A5061 | A |  | Pouch drainable w barrier at |  |  |  |  |
A5062 | A |  | Drnble ostomy pouch w/o barr |  |  |  |  |
A5063 | A |  | Drain ostomy pouch w/flange |  |  |  |  |
A5071 | A |  | Urinary pouch w/barrier |  |  |  |  |
A5072 | A |  | Urinary pouch w/o barrier |  |  |  |  |
A5073 | A |  | Urinary pouch on barr w/flng |  |  |  |  |
A5081 | A |  | Continent stoma plug |  |  |  |  |
A5082 | A |  | Continent stoma catheter |  |  |  |  |
A5093 | A |  | Ostomy accessory convex inse |  |  |  |  |
A5102 | A |  | Bedside drain btl w/wo tube |  |  |  |  |
A5105 | A |  | Urinary suspensory |  |  |  |  |
A5112 | A |  | Urinary leg bag |  |  |  |  |
A5113 | A |  | Latex leg strap |  |  |  |  |
A5114 | A |  | Foam/fabric leg strap |  |  |  |  |
A5119 | A |  | Skin barrier wipes box pr 50 |  |  |  |  |
A5121 | A |  | Solid skin barrier 6x6 |  |  |  |  |
A5122 | A |  | Solid skin barrier 8x8 |  |  |  |  |
A5126 | A |  | Disk/foam pad +or- adhesive |  |  |  |  |
A5131 | A |  | Appliance cleaner |  |  |  |  |
A5200 | A |  | Percutaneous catheter anchor |  |  |  |  |
A5500 | Y |  | Diab shoe for density insert |  |  |  |  |
A5501 | Y |  | Diabetic custom molded shoe |  |  |  |  |
A5503 | Y |  | Diabetic shoe w/roller/rockr |  |  |  |  |
A5504 | Y |  | Diabetic shoe with wedge |  |  |  |  |
A5505 | Y |  | Diab shoe w/metatarsal bar |  |  |  |  |
A5506 | Y |  | Diabetic shoe w/off set heel |  |  |  |  |
A5507 | Y |  | Modification diabetic shoe |  |  |  |  |
A5508 | Y |  | Diabetic deluxe shoe |  |  |  |  |
A5509 | E |  | Direct heat form shoe insert |  |  |  |  |
A5510 | E |  | Compression form shoe insert |  |  |  |  |
A5511 | E |  | Custom fab molded shoe inser |  |  |  |  |
A6000 | E |  | Wound warming wound cover |  |  |  |  |
A6010 | A |  | Collagen based wound filler |  |  |  |  |
A6011 | A |  | Collagen gel/paste wound fil |  |  |  |  |
A6021 | A |  | Collagen dressing <=16 sq in |  |  |  |  |
A6022 | A |  | Collagen drsg>6<=48 sq in |  |  |  |  |
A6023 | A |  | Collagen dressing >48 sq in |  |  |  |  |
A6024 | A |  | Collagen dsg wound filler |  |  |  |  |
A6025 | E |  | Silicone gel sheet, each |  |  |  |  |
A6154 | A |  | Wound pouch each |  |  |  |  |
A6196 | A |  | Alginate dressing <=16 sq in |  |  |  |  |
A6197 | A |  | Alginate drsg >16 <=48 sq in |  |  |  |  |
A6198 | A |  | alginate dressing > 48 sq in |  |  |  |  |
A6199 | A |  | Alginate drsg wound filler |  |  |  |  |
A6200 | A |  | Compos drsg <=16 no border |  |  |  |  |
A6201 | A |  | Compos drsg >16<=48 no bdr |  |  |  |  |
A6202 | A |  | Compos drsg >48 no border |  |  |  |  |
A6203 | A |  | Composite drsg <= 16 sq in |  |  |  |  |
A6204 | A |  | Composite drsg >16<=48 sq in |  |  |  |  |
A6205 | A |  | Composite drsg > 48 sq in |  |  |  |  |
A6206 | A |  | Contact layer <= 16 sq in |  |  |  |  |
A6207 | A |  | Contact layer >16<= 48 sq in |  |  |  |  |
A6208 | A |  | Contact layer > 48 sq in |  |  |  |  |
A6209 | A |  | Foam drsg <=16 sq in w/o bdr |  |  |  |  |
A6210 | A |  | Foam drg >16<=48 sq in w/o b |  |  |  |  |
A6211 | A |  | Foam drg > 48 sq in w/o brdr |  |  |  |  |
A6212 | A |  | Foam drg <=16 sq in w/border |  |  |  |  |
A6213 | A |  | Foam drg >16<=48 sq in w/bdr |  |  |  |  |
A6214 | A |  | Foam drg > 48 sq in w/border |  |  |  |  |
A6215 | A |  | Foam dressing wound filler |  |  |  |  |
A6216 | A |  | Non-sterile gauze<=16 sq in |  |  |  |  |
A6217 | A |  | Non-sterile gauze>16<=48 sq |  |  |  |  |
A6218 | A |  | Non-sterile gauze > 48 sq in |  |  |  |  |
A6219 | A |  | Gauze <= 16 sq in w/border |  |  |  |  |
A6220 | A |  | Gauze >16 <=48 sq in w/bordr |  |  |  |  |
A6221 | A |  | Gauze > 48 sq in w/border |  |  |  |  |
A6222 | A |  | Gauze <=16 in no w/sal w/o b |  |  |  |  |
A6223 | A |  | Gauze >16<=48 no w/sal w/o b |  |  |  |  |
A6224 | A |  | Gauze > 48 in no w/sal w/o b |  |  |  |  |
A6228 | A |  | Gauze <= 16 sq in water/sal |  |  |  |  |
A6229 | A |  | Gauze >16<=48 sq in watr/sal |  |  |  |  |
A6230 | A |  | Gauze > 48 sq in water/salne |  |  |  |  |
A6231 | A |  | Hydrogel dsg<=16 sq in |  |  |  |  |
A6232 | A |  | Hydrogel dsg>16<=48 sq in |  |  |  |  |
A6233 | A |  | Hydrogel dressing >48 sq in |  |  |  |  |
A6234 | A |  | Hydrocolld drg <=16 w/o bdr |  |  |  |  |
A6235 | A |  | Hydrocolld drg >16<=48 w/o b |  |  |  |  |
A6236 | A |  | Hydrocolld drg > 48 in w/o b |  |  |  |  |
A6237 | A |  | Hydrocolld drg <=16 in w/bdr |  |  |  |  |
A6238 | A |  | Hydrocolld drg >16<=48 w/bdr |  |  |  |  |
A6239 | A |  | Hydrocolld drg > 48 in w/bdr |  |  |  |  |
A6240 | A |  | Hydrocolld drg filler paste |  |  |  |  |
A6241 | A |  | Hydrocolloid drg filler dry |  |  |  |  |
A6242 | A |  | Hydrogel drg <=16 in w/o bdr |  |  |  |  |
A6243 | A |  | Hydrogel drg >16<=48 w/o bdr |  |  |  |  |
A6244 | A |  | Hydrogel drg >48 in w/o bdr |  |  |  |  |
A6245 | A |  | Hydrogel drg <= 16 in w/bdr |  |  |  |  |
A6246 | A |  | Hydrogel drg >16<=48 in w/b |  |  |  |  |
A6247 | A |  | Hydrogel drg > 48 sq in w/b |  |  |  |  |
A6248 | A |  | Hydrogel drsg gel filler |  |  |  |  |
A6250 | A |  | Skin seal protect moisturizr |  |  |  |  |
A6251 | A |  | Absorpt drg <=16 sq in w/o b |  |  |  |  |
A6252 | A |  | Absorpt drg >16 <=48 w/o bdr |  |  |  |  |
A6253 | A |  | Absorpt drg > 48 sq in w/o b |  |  |  |  |
A6254 | A |  | Absorpt drg <=16 sq in w/bdr |  |  |  |  |
A6255 | A |  | Absorpt drg >16<=48 in w/bdr |  |  |  |  |
A6256 | A |  | Absorpt drg > 48 sq in w/bdr |  |  |  |  |
A6257 | A |  | Transparent film <= 16 sq in |  |  |  |  |
A6258 | A |  | Transparent film >16<=48 in |  |  |  |  |
A6259 | A |  | Transparent film > 48 sq in |  |  |  |  |
A6260 | A |  | Wound cleanser any type/size |  |  |  |  |
A6261 | A |  | Wound filler gel/paste /oz |  |  |  |  |
A6262 | A |  | Wound filler dry form / gram |  |  |  |  |
A6266 | A |  | Impreg gauze no h20/sal/yard |  |  |  |  |
A6402 | A |  | Sterile gauze <= 16 sq in |  |  |  |  |
A6403 | A |  | Sterile gauze>16 <= 48 sq in |  |  |  |  |
A6404 | A |  | Sterile gauze > 48 sq in |  |  |  |  |
A6407 | A |  | Packing strips, non-impreg |  |  |  |  |
A6410 | A |  | Sterile eye pad |  |  |  |  |
A6411 | A |  | Non-sterile eye pad |  |  |  |  |
A6412 | E |  | Occlusive eye patch |  |  |  |  |
A6441 | A |  | Pad band w>=3÷ <5÷/yd |  |  |  |  |
A6442 | A |  | Conform band n/s w<3÷/yd |  |  |  |  |
A6443 | A |  | Conform band n/s w>=3÷<5÷/yd |  |  |  |  |
A6444 | A |  | Conform band n/s w>=5÷/yd |  |  |  |  |
A6445 | A |  | Conform band s w <3÷/yd |  |  |  |  |
A6446 | A |  | Conform band s w>=3÷ <5÷/yd |  |  |  |  |
A6447 | A |  | Conform band s w >=5÷/yd |  |  |  |  |
A6448 | A |  | Lt compres band <3÷/yd |  |  |  |  |
A6449 | A |  | Lt compres band >=3÷ <5÷/yd |  |  |  |  |
A6450 | A |  | Lt compres band >=5÷/yd |  |  |  |  |
A6451 | A |  | Mod compres band w>=3÷<5÷/yd |  |  |  |  |
A6452 | A |  | High compres band w>=3÷<5÷yd |  |  |  |  |
A6453 | A |  | Self-adher band w <3÷/yd |  |  |  |  |
A6454 | A |  | Self-adher band w>=3÷ <5÷/yd |  |  |  |  |
A6455 | A |  | Self-adher band >=5÷/yd |  |  |  |  |
A6456 | A |  | Zinc paste band w >=3÷<5÷/yd |  |  |  |  |
A6501 | A |  | Compres burngarment bodysuit |  |  |  |  |
A6502 | A |  | Compres burngarment chinstrp |  |  |  |  |
A6503 | A |  | Compres burngarment facehood |  |  |  |  |
A6504 | A |  | Cmprsburngarment glove-wrist |  |  |  |  |
A6505 | A |  | Cmprsburngarment glove-elbow |  |  |  |  |
A6506 | A |  | Cmprsburngrmnt glove-axilla |  |  |  |  |
A6507 | A |  | Cmprs burngarment foot-knee |  |  |  |  |
A6508 | A |  | Cmprs burngarment foot-thigh |  |  |  |  |
A6509 | A |  | Compres burn garment jacket |  |  |  |  |
A6510 | A |  | Compres burn garment leotard |  |  |  |  |
A6511 | A |  | Compres burn garment panty |  |  |  |  |
A6512 | A |  | Compres burn garment, noc |  |  |  |  |
A6550 | Y |  | Neg pres wound ther drsg set |  |  |  |  |
A6551 | Y |  | Neg press wound ther canistr |  |  |  |  |
A7000 | Y |  | Disposable canister for pump |  |  |  |  |
A7001 | Y |  | Nondisposable pump canister |  |  |  |  |
A7002 | Y |  | Tubing used w suction pump |  |  |  |  |
A7003 | Y |  | Nebulizer administration set |  |  |  |  |
A7004 | Y |  | Disposable nebulizer sml vol |  |  |  |  |
A7005 | Y |  | Nondisposable nebulizer set |  |  |  |  |
A7006 | Y |  | Filtered nebulizer admin set |  |  |  |  |
A7007 | Y |  | Lg vol nebulizer disposable |  |  |  |  |
A7008 | Y |  | Disposable nebulizer prefill |  |  |  |  |
A7009 | Y |  | Nebulizer reservoir bottle |  |  |  |  |
A7010 | Y |  | Disposable corrugated tubing |  |  |  |  |
A7011 | Y |  | Nondispos corrugated tubing |  |  |  |  |
A7012 | Y |  | Nebulizer water collec devic |  |  |  |  |
A7013 | Y |  | Disposable compressor filter |  |  |  |  |
A7014 | Y |  | Compressor nondispos filter |  |  |  |  |
A7015 | Y |  | Aerosol mask used w nebulize |  |  |  |  |
A7016 | Y |  | Nebulizer dome & mouthpiece |  |  |  |  |
A7017 | Y |  | Nebulizer not used w oxygen |  |  |  |  |
A7018 | Y |  | Water distilled w/nebulizer |  |  |  |  |
A7025 | Y |  | Replace chest compress vest |  |  |  |  |
A7026 | Y |  | Replace chst cmprss sys hose |  |  |  |  |
A7030 | Y |  | CPAP full face mask |  |  |  |  |
A7031 | Y |  | Replacement facemask interfa |  |  |  |  |
A7032 | Y |  | Replacement nasal cushion |  |  |  |  |
A7033 | Y |  | Replacement nasal pillows |  |  |  |  |
A7034 | Y |  | Nasal application device |  |  |  |  |
A7035 | Y |  | Pos airway press headgear |  |  |  |  |
A7036 | Y |  | Pos airway press chinstrap |  |  |  |  |
A7037 | Y |  | Pos airway pressure tubing |  |  |  |  |
A7038 | Y |  | Pos airway pressure filter |  |  |  |  |
A7039 | Y |  | Filter, non disposable w pap |  |  |  |  |
A7040 | A |  | One way chest drain valve |  |  |  |  |
A7041 | A |  | Water seal drain container |  |  |  |  |
A7042 | A |  | Implanted pleural catheter |  |  |  |  |
A7043 | A |  | Vacuum drainagebottle/tubing |  |  |  |  |
A7044 | Y |  | PAP oral interface |  |  |  |  |
A7045 | Y |  | Repl exhalation port for PAP |  |  |  |  |
A7046 | Y |  | Repl water chamber, PAP dev |  |  |  |  |
A7501 | A |  | Tracheostoma valve w diaphra |  |  |  |  |
A7502 | A |  | Replacement diaphragm/fplate |  |  |  |  |
A7503 | A |  | HMES filter holder or cap |  |  |  |  |
A7504 | A |  | Tracheostoma HMES filter |  |  |  |  |
A7505 | A |  | HMES or trach valve housing |  |  |  |  |
A7506 | A |  | HMES/trachvalve adhesivedisk |  |  |  |  |
A7507 | A |  | Integrated filter & holder |  |  |  |  |
A7508 | A |  | Housing & Integrated Adhesiv |  |  |  |  |
A7509 | A |  | Heat & moisture exchange sys |  |  |  |  |
A7520 | A |  | Trach/laryn tube non-cuffed |  |  |  |  |
A7521 | A |  | Trach/laryn tube cuffed |  |  |  |  |
A7522 | A |  | Trach/laryn tube stainless |  |  |  |  |
A7523 | A |  | Tracheostomy shower protect |  |  |  |  |
A7524 | A |  | Tracheostoma stent/stud/bttn |  |  |  |  |
A7525 | A |  | Tracheostomy mask |  |  |  |  |
A7526 | A |  | Tracheostomy tube collar |  |  |  |  |
A7527 | A |  | Trach/laryn tube plug/stop |  |  |  |  |
A9150 | B |  | Misc/exper non-prescript dru |  |  |  |  |
A9152 | E |  | Single vitamin nos |  |  |  |  |
A9153 | E |  | Multi-vitamin nos |  |  |  |  |
A9180 | E |  | Lice treatment, topical |  |  |  |  |
A9270 | E |  | Non-covered item or service |  |  |  |  |
A9280 | E |  | Alert device, noc |  |  |  |  |
A9300 | E |  | Exercise equipment |  |  |  |  |
A9500 | H |  | Technetium TC 99m sestamibi | 1600 |  |  |  |
A9502 | H |  | Technetium TC99M tetrofosmin | 0705 |  |  |  |
A9503 | N |  | Technetium TC 99m medronate |  |  |  |  |
A9504 | N |  | Technetium tc 99m apcitide |  |  |  |  |
A9505 | H |  | Thallous chloride TL 201/mci | 1603 |  |  |  |
A9507 | H |  | Indium/111 capromab pendetid | 1604 |  |  |  |
A9508 | H |  | Iobenguane sulfate I-131, pe | 1045 |  |  |  |
A9510 | H |  | Technetium TC99m Disofenin | 9146 |  |  |  |
A9511 | H |  | Technetium TC 99m depreotide | 9147 |  |  |  |
A9512 | N |  | Technetium tc99m pertechnetate |  |  |  |  |
A9513 | N |  | Technetium tc-99m mebrofenin |  |  |  |  |
A9514 | N |  | Technetium tc99m pyrophosphate |  |  |  |  |
A9515 | N |  | Technetium tc-99m pentetate |  |  |  |  |
A9516 | H |  | I-123 sodium iodide capsule | 9148 |  |  |  |
A9517 | H |  | Th I131 so iodide cap millic | 1064 |  |  |  |
A9519 | N |  | Technetium tc-99m macroag albu |  |  |  |  |
A9520 | N |  | Technetium tc-99m sulfur clld |  |  |  |  |
A9521 | H |  | Technetium tc-99m exametazine | 1096 |  |  |  |
A9522 | B |  | Indium 111i britumomabtiuxetan |  |  |  |  |
A9523 | B |  | Yttrium 90i britumomabtiuxetan |  |  |  |  |
A9524 | H |  | Iodinated I-131 serumalbumin | 9100 |  |  |  |
A9525 | E |  | Low/iso-osmolar contrast mat |  |  |  |  |
A9526 | H |  | Ammonia N-13, per dose | 0737 |  |  |  |
A9528 | H |  | Dx I131 so iodide cap millic | 1088 |  |  |  |
A9529 | H |  | Dx I131 so iodide sol millic | 1065 |  |  |  |
A9530 | H |  | Th I131 so iodide sol millic | 1150 |  |  |  |
A9531 | H |  | Dx I131 so iodide microcurie | 9149 |  |  |  |
A9532 | H |  | I-125 serum albumin micro | 9150 |  |  |  |
A9533 | B |  | I-131 tositumomab diagnostic |  |  |  |  |
A9534 | B |  | I-131 tositumomab therapeut |  |  |  |  |
A9600 | H |  | Strontium-89 chloride | 0701 |  |  |  |
A9605 | H |  | Samarium sm153 lexidronamm | 0702 |  |  |  |
A9699 | N |  | Noc therapeutic radiopharm |  |  |  |  |
A9700 | B |  | Echocardiography Contrast |  |  |  |  |
A9900 | A |  | Supply/accessory/service |  |  |  |  |
A9901 | A |  | Delivery/set up/dispensing |  |  |  |  |
A9999 | Y |  | DME supply or accessory, nos |  |  |  |  |
B4034 | A |  | Enter feed supkit syr by day |  |  |  |  |
B4035 | A |  | Enteral feed supp pump per d |  |  |  |  |
B4036 | A |  | Enteral feed sup kit grav by |  |  |  |  |
B4081 | A |  | Enteral ng tubing w/ stylet |  |  |  |  |
B4082 | A |  | Enteral ng tubing w/o stylet |  |  |  |  |
B4083 | A |  | Enteral stomach tube levine |  |  |  |  |
B4086 | A |  | Gastrostomy/jejunostomy tube |  |  |  |  |
B4100 | E |  | Food thickener oral |  |  |  |  |
B4102 | Y |  | EF adult fluids and electro |  |  |  |  |
B4103 | Y |  | EF ped fluid and electrolyte |  |  |  |  |
B4104 | E |  | Additive for enteral formula |  |  |  |  |
B4149 | Y |  | EF blenderized foods |  |  |  |  |
B4150 | A |  | Enteral formulae category i |  |  |  |  |
B4152 | A |  | Enteral formulae category ii |  |  |  |  |
B4153 | A |  | Enteral formulae category III |  |  |  |  |
B4154 | A |  | Enteral formulae category IV |  |  |  |  |
B4155 | A |  | Enteral formulae category v |  |  |  |  |
B4157 | Y |  | EF special metabolic inherit |  |  |  |  |
B4158 | Y |  | EF ped complete intact nut |  |  |  |  |
B4159 | Y |  | EF ped complete soy based |  |  |  |  |
B4160 | Y |  | EF ped calorie dense > / =0.7kc |  |  |  |  |
B4161 | Y |  | EF ped hydrolyzed/amino acid |  |  |  |  |
B4162 | Y |  | EF ped specmetabolic inherit |  |  |  |  |
B4164 | A |  | Parenteral 50% dextrose solu |  |  |  |  |
B4168 | A |  | Parenteral sol amino acid 3 |  |  |  |  |
B4172 | A |  | Parenteral sol amino acid 5 |  |  |  |  |
B4176 | A |  | Parenteral sol amino acid 7- |  |  |  |  |
B4178 | A |  | Parenteral sol amino acid > |  |  |  |  |
B4180 | A |  | Parenteral sol carb > 50% |  |  |  |  |
B4184 | A |  | Parenteral sol lipids 10% |  |  |  |  |
B4186 | A |  | Parenteral sol lipids 20% |  |  |  |  |
B4189 | A |  | Parenteral sol amino acid & |  |  |  |  |
B4193 | A |  | Parenteral sol 52-73 gm prot |  |  |  |  |
B4197 | A |  | Parenteral sol 74-100 gm pro |  |  |  |  |
B4199 | A |  | Parenteral sol > 100gm prote |  |  |  |  |
B4216 | A |  | Parenteral nutrition additiv |  |  |  |  |
B4220 | A |  | Parenteral supply kit premix |  |  |  |  |
B4222 | A |  | Parenteral supply kit homemi |  |  |  |  |
B4224 | A |  | Parenteral administration ki |  |  |  |  |
B5000 | A |  | Parenteral sol renal-amirosy |  |  |  |  |
B5100 | A |  | Parenteral sol hepatic-fream |  |  |  |  |
B5200 | A |  | Parenteral sol stres-brnch c |  |  |  |  |
B9000 | A |  | Enter infusion pump w/o alrm |  |  |  |  |
B9002 | A |  | Enteral infusion pump w/ ala |  |  |  |  |
B9004 | A |  | Parenteral infus pump portab |  |  |  |  |
B9006 | A |  | Parenteral infus pump statio |  |  |  |  |
B9998 | A |  | Enteral supp not otherwise c |  |  |  |  |
B9999 | A |  | Parenteral supp not othrws c |  |  |  |  |
C1079 | N |  | CO 57/58 per 0.5 uCi |  |  |  |  |
C1080 | H |  | I-131 tositumomab, dx | 1080 |  |  |  |
C1081 | H |  | I-131 tositumomab, tx | 1081 |  |  |  |
C1082 | H |  | In-111 ibritumomab tiuxetan | 9118 |  |  |  |
C1083 | H |  | Yttrium 90 ibritumomab tiuxe | 9117 |  |  |  |
C1091 | H |  | IN111 oxyquinoline,per 0.5 mCi | 1091 |  |  |  |
C1092 | H |  | IN 111 pentetate per 0.5 mCi | 1092 |  |  |  |
C1093 | H |  | TC99M fanolesomab | 1093 |  |  |  |
C1122 | H |  | Tc 99M ARCITUMOMAB PER VIAL | 9151 |  |  |  |
C1178 | K |  | BUSULFAN IV, 6 Mg | 1178 | 0.2851 | $16.92 |  | $3.38
C1200 | N |  | TC 99M Sodium Glucoheptonat |  |  |  |  |
C1201 | H |  | TC 99M SUCCIMER, PER Vial | 1201 |  |  |  |
C1300 | S |  | HYPERBARIC Oxygen | 0659 | 1.5473 | $91.82 |  | $18.36
C1305 | K |  | Apligraf, 44cm2 | 1305 | 12.9222 | $766.84 |  | $153.37
C1713 | N |  | Anchor/screw bn/bn,tis/bn |  |  |  |  |
C1714 | N |  | Cath, trans atherectomy, dir |  |  |  |  |
C1715 | N |  | Brachytherapy needle |  |  |  |  |
C1716 | H |  | Brachytx source, Gold 198 | 1716 |  |  |  |
C1717 | H |  | Brachytx source, HDR Ir-192 | 1717 |  |  |  |
C1718 | H |  | Brachytx source, Iodine 125 | 1718 |  |  |  |
C1719 | H |  | Brachytx sour,Non-HDR Ir-192 | 1719 |  |  |  |
C1720 | H |  | Brachytx sour, Palladium 103 | 1720 |  |  |  |
C1721 | N |  | AICD, dual chamber |  |  |  |  |
C1722 | N |  | AICD, single chamber |  |  |  |  |
C1724 | N |  | Cath, trans atherec,rotation |  |  |  |  |
C1725 | N |  | Cath, translumin non-laser |  |  |  |  |
C1726 | N |  | Cath, bal dil, non-vascular |  |  |  |  |
C1727 | N |  | Cath, bal tis dis, non-vas |  |  |  |  |
C1728 | N |  | Cath, brachytx seed adm |  |  |  |  |
C1729 | N |  | Cath, drainage |  |  |  |  |
C1730 | N |  | Cath, EP, 19 or few elect |  |  |  |  |
C1731 | N |  | Cath, EP, 20 or more elec |  |  |  |  |
C1732 | N |  | Cath, EP, diag/abl, 3D/vect |  |  |  |  |
C1733 | N |  | Cath, EP, othr than cool-tip |  |  |  |  |
C1750 | N |  | Cath, hemodialysis,long-term |  |  |  |  |
C1751 | N |  | Cath, inf, per/cent/midline |  |  |  |  |
C1752 | N |  | Cath,hemodialysis,short-term |  |  |  |  |
C1753 | N |  | Cath, intravas ultrasound |  |  |  |  |
C1754 | N |  | Catheter, intradiscal |  |  |  |  |
C1755 | N |  | Catheter, intraspinal |  |  |  |  |
C1756 | N |  | Cath, pacing, transesoph |  |  |  |  |
C1757 | N |  | Cath, thrombectomy/embolect |  |  |  |  |
C1758 | N |  | Catheter, ureteral |  |  |  |  |
C1759 | N |  | Cath, intra echocardiography |  |  |  |  |
C1760 | N |  | Closure dev, vasc |  |  |  |  |
C1762 | N |  | Conn tiss, human(inc fascia) |  |  |  |  |
C1763 | N |  | Conn tiss, non-human |  |  |  |  |
C1764 | N |  | Event recorder, cardiac |  |  |  |  |
C1765 | N |  | Adhesion barrier |  |  |  |  |
C1766 | N |  | Intro/sheath,strble,non-peel |  |  |  |  |
C1767 | N |  | Generator, neurostim, imp |  |  |  |  |
C1768 | N |  | Graft, vascular |  |  |  |  |
C1769 | N |  | Guide wire |  |  |  |  |
C1770 | N |  | Imaging coil, MR, insertable |  |  |  |  |
C1771 | N |  | Rep dev, urinary, w/sling |  |  |  |  |
C1772 | N |  | Infusion pump, programmable |  |  |  |  |
C1773 | N |  | Ret dev, insertable |  |  |  |  |
C1775 | H |  | FDG, per dose (4-40 mCi/ml) | 1775 |  |  |  |
C1776 | N |  | Joint device (implantable) |  |  |  |  |
C1777 | N |  | Lead, AICD, endo single coil |  |  |  |  |
C1778 | N |  | Lead, neurostimulator |  |  |  |  |
C1779 | N |  | Lead, pmkr, transvenous VDD |  |  |  |  |
C1780 | N |  | Lens, intraocular (new tech) |  |  |  |  |
C1781 | N |  | Mesh (implantable) |  |  |  |  |
C1782 | N |  | Morcellator |  |  |  |  |
C1783 | N |  | Ocular imp, aqueous drain de |  |  |  |  |
C1784 | N |  | Ocular dev, intraop, det ret |  |  |  |  |
C1785 | N |  | Pmkr, dual, rate-resp |  |  |  |  |
C1786 | N |  | Pmkr, single, rate-resp |  |  |  |  |
C1787 | N |  | Patient progr, neurostim |  |  |  |  |
C1788 | N |  | Port, indwelling, imp |  |  |  |  |
C1789 | N |  | Prosthesis, breast, imp |  |  |  |  |
C1813 | N |  | Prosthesis, penile, inflatab |  |  |  |  |
C1814 | N |  | Retinal tamp, silicone oil |  |  |  |  |
C1815 | N |  | Pros, urinary sph, imp |  |  |  |  |
C1816 | N |  | Receiver/transmitter, neuro |  |  |  |  |
C1817 | N |  | Septal defect imp sys |  |  |  |  |
C1818 | N |  | Integrated keratoprosthesis |  |  |  |  |
C1819 | N |  | Tissue local excision |  |  |  |  |
C1874 | N |  | Stent, coated/cov w/del sys |  |  |  |  |
C1875 | N |  | Stent, coated/cov w/o del sy |  |  |  |  |
C1876 | N |  | Stent, non-coa/non-cov w/del |  |  |  |  |
C1877 | N |  | Stent, non-coat/cov w/o del |  |  |  |  |
C1878 | N |  | Matrl for vocal cord |  |  |  |  |
C1879 | N |  | Tissue marker, implantable |  |  |  |  |
C1880 | N |  | Vena cava filter |  |  |  |  |
C1881 | N |  | Dialysis access system |  |  |  |  |
C1882 | N |  | AICD, other than sing/dual |  |  |  |  |
C1883 | N |  | Adapt/ext, pacing/neuro lead |  |  |  |  |
C1884 | N |  | Embolization Protect syst |  |  |  |  |
C1885 | N |  | Cath, translumin angio laser |  |  |  |  |
C1887 | N |  | Catheter, guiding |  |  |  |  |
C1888 | N |  | Endovas non-cardiac abl cath |  |  |  |  |
C1891 | N |  | Infusion pump,non-prog, perm |  |  |  |  |
C1892 | N |  | Intro/sheath,fixed,peel-away |  |  |  |  |
C1893 | N |  | Intro/sheath, fixed,non-peel |  |  |  |  |
C1894 | N |  | Intro/sheath, non-laser |  |  |  |  |
C1895 | N |  | Lead, AICD, endo dual coil |  |  |  |  |
C1896 | N |  | Lead, AICD, non sing/dual |  |  |  |  |
C1897 | N |  | Lead, neurostim test kit |  |  |  |  |
C1898 | N |  | Lead, pmkr, other than trans |  |  |  |  |
C1899 | N |  | Lead, pmkr/AICD combination |  |  |  |  |
C1900 | N |  | Lead coronary venous |  |  |  |  |
C2614 | N |  | Probe, perc lumb disc |  |  |  |  |
C2615 | N |  | Sealant, pulmonary, liquid |  |  |  |  |
C2616 | H |  | Brachytx source, Yttrium-90 | 2616 |  |  |  |
C2617 | N |  | Stent, non-cor, tem w/o del |  |  |  |  |
C2618 | N |  | Probe, cryoablation |  |  |  |  |
C2619 | N |  | Pmkr, dual, non rate-resp |  |  |  |  |
C2620 | N |  | Pmkr, single, non rate-resp |  |  |  |  |
C2621 | N |  | Pmkr, other than sing/dual |  |  |  |  |
C2622 | N |  | Prosthesis, penile, non-inf |  |  |  |  |
C2625 | N |  | Stent, non-cor, tem w/del sy |  |  |  |  |
C2626 | N |  | Infusion pump, non-prog,temp |  |  |  |  |
C2627 | N |  | Cath, suprapubic/cystoscopic |  |  |  |  |
C2628 | N |  | Catheter, occlusion |  |  |  |  |
C2629 | N |  | Intro/sheath, laser |  |  |  |  |
C2630 | N |  | Cath, EP, cool-tip |  |  |  |  |
C2631 | N |  | Rep dev, urinary, w/o sling |  |  |  |  |
C2632 | H |  | Brachytx sol, I-125, per mCi | 2632 |  |  |  |
C2633 | H |  | Brachytx source, Cesium-131 | 2633 |  |  |  |
C2634 | H |  | Brachytx source, HA, I-125 | 2634 |  |  |  |
C2635 | H |  | Brachytx source, HA, P-103 | 2635 |  |  |  |
C2636 | H |  | Brachytx linear source, P-10 | 2636 |  |  |  |
C8900* | S |  | MRA w/cont, abd | 0284 | 6.4201 | $380.99 | $152.39 | $76.20
C8901* | S |  | MRA w/o cont, abd | 0336 | 6.0742 | $360.46 | $144.18 | $72.09
C8902* | S |  | MRA w/o fol w/cont, abd | 0337 | 8.7945 | $521.89 | $208.75 | $104.38
C8903* | S |  | MRI w/cont, breast, uni | 0284 | 6.4201 | $380.99 | $152.39 | $76.20
C8904* | S |  | MRI w/o cont, breast, uni | 0336 | 6.0742 | $360.46 | $144.18 | $72.09
C8905* | S |  | MRI w/o fol w/cont, brst, un | 0337 | 8.7945 | $521.89 | $208.75 | $104.38
C8906* | S |  | MRI w/cont, breast, bi | 0284 | 6.4201 | $380.99 | $152.39 | $76.20
C8907* | S |  | MRI w/o cont, breast, bi | 0336 | 6.0742 | $360.46 | $144.18 | $72.09
C8908* | S |  | MRI w/o fol w/cont, breast, | 0337 | 8.7945 | $521.89 | $208.75 | $104.38
C8909* | S |  | MRA w/cont, chest | 0284 | 6.4201 | $380.99 | $152.39 | $76.20
C8910* | S |  | MRA w/o cont, chest | 0336 | 6.0742 | $360.46 | $144.18 | $72.09
C8911* | S |  | MRA w/o fol w/cont, chest | 0337 | 8.7945 | $521.89 | $208.75 | $104.38
C8912* | S |  | MRA w/cont, lwr ext | 0284 | 6.4201 | $380.99 | $152.39 | $76.20
C8913* | S |  | MRA w/o cont, lwr ext | 0336 | 6.0742 | $360.46 | $144.18 | $72.09
C8914* | S |  | MRA w/o fol w/cont, lwr ext | 0337 | 8.7945 | $521.89 | $208.75 | $104.38
C8918* | S |  | MRA w/cont, pelvis | 0284 | 6.4201 | $380.99 | $152.39 | $76.20
C8919* | S |  | MRA w/o cont, pelvis | 0336 | 6.0742 | $360.46 | $144.18 | $72.09
C8920* | S |  | MRA w/o fol w/cont, pelvis | 0337 | 8.7945 | $521.89 | $208.75 | $104.38
C9000 | H |  | Na chromateCr51, per 0.25mCi | 9130 |  |  |  |
C9003 | K |  | Palivizumab, per 50 mg | 9003 | 4.1491 | $246.22 |  | $49.24
C9007 | K |  | Baclofen Intrathecal kit-1am | 9152 | 0.8562 | $50.81 |  | $10.16
C9008 | K |  | Baclofen Refill Kit-500mcg | 9008 | 0.2447 | $14.52 |  | $2.90
C9009 | K |  | Baclofen Refill Kit-2000mcg | 9009 | 0.7209 | $42.78 |  | $8.56
C9013 | N |  | Co 57 cobaltous chloride |  |  |  |  |
C9102 | H |  | 51 Na Chromate, 50mCi | 9132 |  |  |  |
C9103 | H |  | Na Iothalamate I-125, 10 uCi | 9153 |  |  |  |
C9105 | K |  | Hep B imm glob, per 1 ml | 9105 | 1.8813 | $111.64 |  | $22.33
C9112 | D |  | Perflutren lipid micro, 2ml |  |  |  |  |
C9113 | N |  | Inj pantoprazole sodium, via |  |  |  |  |
C9121 | K |  | Injection, argatroban | 9121 | 0.1897 | $11.26 |  | $2.25
C9123 | K |  | Transcyte, 247cm2 | 9123 |  | $719.41 |  | $143.88
C9127 | K |  | Paclitaxel protein pr | 9127 |  | $8.59 |  | $1.72
C9128 | K |  | Inj pegaptanib sodium | 9128 |  | $1,074.27 |  | $214.85
C9200 | K |  | Orcel, 36 cm2 | 9200 | 2.6893 | $159.59 |  | $31.92
C9201 | K |  | Dermagraft, 37.5cm2 | 9201 | 6.2066 | $368.32 |  | $73.66
C9202 | D |  | Octafluoropropane |  |  |  |  |
C9203 | D |  | Perflexane lipid micro |  |  |  |  |
C9205 | K |  | Oxaliplatin | 9205 |  | $84.06 |  | $16.81
C9206 | K |  | Integra, per cm2 | 9206 |  | $9.23 |  | $1.85
C9211 | K |  | Inj, alefacept, IV | 9211 |  | $571.01 |  | $114.20
C9212 | K |  | Inj, alefacept, IM | 9212 |  | $402.00 |  | $80.40
C9218 | K |  | Injection, Azacitidine | 9218 |  | $4.03 |  | $0.81
C9220 | G |  | Sodium hyaluronate | 9220 |  | $203.84 |  | $40.77
C9221 | G |  | Graftjacket Reg Matrix | 9221 |  | $1,234.36 |  | $246.87
C9222 | G |  | Graftjacket SftTis | 9222 |  | $890.74 |  | $178.15
C9223 | D |  | Inj adenosine, tx dx |  |  |  |  |
C9399 | A |  | Unclass drugs/biologicals |  |  |  |  |
C9400 | D |  | Thallous chloride, brand |  |  |  |  |
C9401 | D |  | Strontium-89 chloride, brand |  |  |  |  |
C9402 | D |  | Th I131 so iodide cap, brand |  |  |  |  |
C9403 | D |  | Dx I131 so iodide cap, brand |  |  |  |  |
C9404 | D |  | Dx I131 so iodide sol, brand |  |  |  |  |
C9405 | D |  | Th I131 so iodide sol, brand |  |  |  |  |
C9410 | D |  | Dexrazoxane HCl inj, brand |  |  |  |  |
C9411 | D |  | Pamidronate disodium, brand |  |  |  |  |
C9413 | D |  | Na hyaluronate bran |  |  |  |  |
C9414 | D |  | Etoposide oral, brand |  |  |  |  |
C9415 | D |  | Doxorubic hcl chemo, brand |  |  |  |  |
C9417 | D |  | Bleomycin sulfate inj, brand |  |  |  |  |
C9418 | D |  | Cisplatin inj, brand |  |  |  |  |
C9419 | D |  | Inj cladribine, brand |  |  |  |  |
C9420 | D |  | Cyclophosphamide inj, brand |  |  |  |  |
C9421 | D |  | Cyclophosphamide lyo, brand |  |  |  |  |
C9422 | D |  | Cytarabine hcl inj, brand |  |  |  |  |
C9423 | D |  | Dacarbazine inj, brand |  |  |  |  |
C9424 | D |  | Daunorubicin, brand |  |  |  |  |
C9425 | D |  | Etoposide inj, brand |  |  |  |  |
C9426 | D |  | Floxuridine inj, brand |  |  |  |  |
C9427 | D |  | Ifosfomide inj, brand |  |  |  |  |
C9428 | D |  | Mesna injection, brand |  |  |  |  |
C9429 | D |  | Idarubicin hcl inj, brand |  |  |  |  |
C9430 | D |  | Leuprolide acetate bran |  |  |  |  |
C9431 | D |  | Paclitaxel inj, brand |  |  |  |  |
C9432 | D |  | Mitomycin inj, brand |  |  |  |  |
C9433 | D |  | Thiotepa inj, brand |  |  |  |  |
C9435 | D |  | Gonadorelin hydroch, brand |  |  |  |  |
C9436 | D |  | Azathioprine parenteral,brnd |  |  |  |  |
C9437 | D |  | Carmus bischl nitro inj |  |  |  |  |
C9438 | D |  | Cyclosporine oral, brand |  |  |  |  |
C9439 | D |  | Diethylstilbestrol injection |  |  |  |  |
C9440 | D |  | Vinorelbine tar,brand |  |  |  |  |
C9704 | T |  | Inj inert subs upper GI | 1556 |  | $1,750.00 |  | $350.00
C9713 | T |  | Non-contact laser vap prosta | 0429 | 42.3147 | $2,511.08 |  | $502.22
C9716 | S |  | RF Energy to Anus | 1519 |  | $1,750.00 |  | $350.00
C9718 | T |  | Kyphoplasty, first vertebra | 0051 | 36.5271 | $2,167.63 |  | $433.53
C9719 | T |  | Kyphoplasty, each addl | 0051 | 36.5271 | $2,167.63 |  | $433.53
C9720 | T |  | HE ESW tx, tennis elbow | 1547 |  | $850.00 |  | $170.00
C9721 | T |  | HE ESW tx, plantar fasciitis | 1547 |  | $850.00 |  | $170.00
C9722 | S |  | KV imaging w/IR tracking | 1502 |  | $75.00 |  | $15.00
C9723 | S |  | Dyn IR Perf Img | 1502 |  | $75.00 |  | $15.00
C9724 | T |  | EPS gast cardia plic | 0422 | 22.9647 | $1,362.79 | $448.81 | $272.56
D0120 | E |  | Periodic oral evaluation |  |  |  |  |
D0140 | E |  | Limit oral eval problm focus |  |  |  |  |
D0150 | S |  | Comprehensve oral evaluation | 0330 | 7.1756 | $425.82 |  | $85.16
D0160 | E |  | Extensv oral eval prob focus |  |  |  |  |
D0170 | E |  | Re-eval,est pt,problem focus |  |  |  |  |
D0180 | E |  | Comp periodontal evaluation |  |  |  |  |
D0210 | E |  | Intraor complete film series |  |  |  |  |
D0220 | E |  | Intraoral periapical first f |  |  |  |  |
D0230 | E |  | Intraoral periapical ea add |  |  |  |  |
D0240 | S |  | Intraoral occlusal film | 0330 | 7.1756 | $425.82 |  | $85.16
D0250 | S |  | Extraoral first film | 0330 | 7.1756 | $425.82 |  | $85.16
D0260 | S |  | Extraoral ea additional film | 0330 | 7.1756 | $425.82 |  | $85.16
D0270 | S |  | Dental bitewing single film | 0330 | 7.1756 | $425.82 |  | $85.16
D0272 | S |  | Dental bitewings two films | 0330 | 7.1756 | $425.82 |  | $85.16
D0274 | S |  | Dental bitewings four films | 0330 | 7.1756 | $425.82 |  | $85.16
D0277 | S |  | Vert bitewings-sev to eight | 0330 | 7.1756 | $425.82 |  | $85.16
D0290 | E |  | Dental film skull/facial bon |  |  |  |  |
D0310 | E |  | Dental saliography |  |  |  |  |
D0320 | E |  | Dental tmj arthrogram incl i |  |  |  |  |
D0321 | E |  | Dental other tmj films |  |  |  |  |
D0322 | E |  | Dental tomographic survey |  |  |  |  |
D0330 | E |  | Dental panoramic film |  |  |  |  |
D0340 | E |  | Dental cephalometric film |  |  |  |  |
D0350 | E |  | Oral/facial images |  |  |  |  |
D0415 | E |  | Bacteriologic study |  |  |  |  |
D0416 | B |  | Viral culture |  |  |  |  |
D0421 | B |  | Gen tst suscept oral disease |  |  |  |  |
D0425 | E |  | Caries susceptibility test |  |  |  |  |
D0431 | B |  | Diag tst detect mucos abnorm |  |  |  |  |
D0460 | S |  | Pulp vitality test | 0330 | 7.1756 | $425.82 |  | $85.16
D0470 | E |  | Diagnostic casts |  |  |  |  |
D0472 | B |  | Gross exam, prep & report |  |  |  |  |
D0473 | B |  | Micro exam, prep & report |  |  |  |  |
D0474 | B |  | Micro w exam of surg margins |  |  |  |  |
D0475 | B |  | Decalcification procedure |  |  |  |  |
D0476 | B |  | Spec stains for microorganis |  |  |  |  |
D0477 | B |  | Spec stains not for microorg |  |  |  |  |
D0478 | B |  | Immunohistochemical stains |  |  |  |  |
D0479 | B |  | Tissue in-situ hybridization |  |  |  |  |
D0480 | B |  | Cytopath smear prep & report |  |  |  |  |
D0481 | B |  | Electron microscopy diagnost |  |  |  |  |
D0482 | B |  | Direct immunofluorescence |  |  |  |  |
D0483 | B |  | Indirect immunofluorescence |  |  |  |  |
D0484 | B |  | Consult slides prep elsewher |  |  |  |  |
D0485 | B |  | Consult inc prep of slides |  |  |  |  |
D0502 | B |  | Other oral pathology procedu |  |  |  |  |
D0999 | B |  | Unspecified diagnostic proce |  |  |  |  |
D1110 | E |  | Dental prophylaxis adult |  |  |  |  |
D1120 | E |  | Dental prophylaxis child |  |  |  |  |
D1201 | E |  | Topical fluor w prophy child |  |  |  |  |
D1203 | E |  | Topical fluor w/o prophy chi |  |  |  |  |
D1204 | E |  | Topical fluor w/o prophy adu |  |  |  |  |
D1205 | E |  | Topical fluoride w/ prophy a |  |  |  |  |
D1310 | E |  | Nutri counsel-control caries |  |  |  |  |
D1320 | E |  | Tobacco counseling |  |  |  |  |
D1330 | E |  | Oral hygiene instruction |  |  |  |  |
D1351 | E |  | Dental sealant per tooth |  |  |  |  |
D1510 | S |  | Space maintainer fxd unilat | 0330 | 7.1756 | $425.82 |  | $85.16
D1515 | S |  | Fixed bilat space maintainer | 0330 | 7.1756 | $425.82 |  | $85.16
D1520 | S |  | Remove unilat space maintain | 0330 | 7.1756 | $425.82 |  | $85.16
D1525 | S |  | Remove bilat space maintain | 0330 | 7.1756 | $425.82 |  | $85.16
D1550 | S |  | Recement space maintainer | 0330 | 7.1756 | $425.82 |  | $85.16
D2140 | E |  | Amalgam one surface permanen |  |  |  |  |
D2150 | E |  | Amalgam two surfaces permane |  |  |  |  |
D2160 | E |  | Amalgam three surfaces perma |  |  |  |  |
D2161 | E |  | Amalgam 4 or > surfaces perm |  |  |  |  |
D2330 | E |  | Resin one surface-anterior |  |  |  |  |
D2331 | E |  | Resin two surfaces-anterior |  |  |  |  |
D2332 | E |  | Resin three surfaces-anterio |  |  |  |  |
D2335 | E |  | Resin 4/> surf or w incis an |  |  |  |  |
D2390 | E |  | Ant resin-based cmpst crown |  |  |  |  |
D2391 | E |  | Post 1 srfc resinbased cmpst |  |  |  |  |
D2392 | E |  | Post 2 srfc resinbased cmpst |  |  |  |  |
D2393 | E |  | Post 3 srfc resinbased cmpst |  |  |  |  |
D2394 | E |  | Post >=4srfc resinbase cmpst |  |  |  |  |
D2410 | E |  | Dental gold foil one surface |  |  |  |  |
D2420 | E |  | Dental gold foil two surface |  |  |  |  |
D2430 | E |  | Dental gold foil three surfa |  |  |  |  |
D2510 | E |  | Dental inlay metalic 1 surf |  |  |  |  |
D2520 | E |  | Dental inlay metallic 2 surf |  |  |  |  |
D2530 | E |  | Dental inlay metl 3/more sur |  |  |  |  |
D2542 | E |  | Dental onlay metallic 2 surf |  |  |  |  |
D2543 | E |  | Dental onlay metallic 3 surf |  |  |  |  |
D2544 | E |  | Dental onlay metl 4/more sur |  |  |  |  |
D2610 | E |  | Inlay porcelain/ceramic 1 su |  |  |  |  |
D2620 | E |  | Inlay porcelain/ceramic 2 su |  |  |  |  |
D2630 | E |  | Dental onlay porc 3/more sur |  |  |  |  |
D2642 | E |  | Dental onlay porcelin 2 surf |  |  |  |  |
D2643 | E |  | Dental onlay porcelin 3 surf |  |  |  |  |
D2644 | E |  | Dental onlay porc 4/more sur |  |  |  |  |
D2650 | E |  | Inlay composite/resin one su |  |  |  |  |
D2651 | E |  | Inlay composite/resin two su |  |  |  |  |
D2652 | E |  | Dental inlay resin 3/mre sur |  |  |  |  |
D2662 | E |  | Dental onlay resin 2 surface |  |  |  |  |
D2663 | E |  | Dental onlay resin 3 surface |  |  |  |  |
D2664 | E |  | Dental onlay resin 4/mre sur |  |  |  |  |
D2710 | E |  | Crown resin laboratory |  |  |  |  |
D2712 | E |  | Crown 3/4 resin-based compos |  |  |  |  |
D2720 | E |  | Crown resin w/ high noble me |  |  |  |  |
D2721 | E |  | Crown resin w/ base metal |  |  |  |  |
D2722 | E |  | Crown resin w/ noble metal |  |  |  |  |
D2740 | E |  | Crown porcelain/ceramic subs |  |  |  |  |
D2750 | E |  | Crown porcelain w/ h noble m |  |  |  |  |
D2751 | E |  | Crown porcelain fused base m |  |  |  |  |
D2752 | E |  | Crown porcelain w/ noble met |  |  |  |  |
D2780 | E |  | Crown 3/4 cast hi noble met |  |  |  |  |
D2781 | E |  | Crown 3/4 cast base metal |  |  |  |  |
D2782 | E |  | Crown 3/4 cast noble metal |  |  |  |  |
D2783 | E |  | Crown 3/4 porcelain/ceramic |  |  |  |  |
D2790 | E |  | Crown full cast high noble m |  |  |  |  |
D2791 | E |  | Crown full cast base metal |  |  |  |  |
D2792 | E |  | Crown full cast noble metal |  |  |  |  |
D2794 | E |  | Crown-titanium |  |  |  |  |
D2799 | E |  | Provisional crown |  |  |  |  |
D2910 | E |  | Dental recement inlay |  |  |  |  |
D2915 | E |  | Recement cast or prefab post |  |  |  |  |
D2920 | E |  | Dental recement crown |  |  |  |  |
D2930 | E |  | Prefab stnlss steel crwn pri |  |  |  |  |
D2931 | E |  | Prefab stnlss steel crown pe |  |  |  |  |
D2932 | E |  | Prefabricated resin crown |  |  |  |  |
D2933 | E |  | Prefab stainless steel crown |  |  |  |  |
D2934 | E |  | Prefab steel crown primary |  |  |  |  |
D2940 | E |  | Dental sedative filling |  |  |  |  |
D2950 | E |  | Core build-up incl any pins |  |  |  |  |
D2951 | E |  | Tooth pin retention |  |  |  |  |
D2952 | E |  | Post and core cast + crown |  |  |  |  |
D2953 | E |  | Each addtnl cast post |  |  |  |  |
D2954 | E |  | Prefab post/core + crown |  |  |  |  |
D2955 | E |  | Post removal |  |  |  |  |
D2957 | E |  | Each addtnl prefab post |  |  |  |  |
D2960 | E |  | Laminate labial veneer |  |  |  |  |
D2961 | E |  | Lab labial veneer resin |  |  |  |  |
D2962 | E |  | Lab labial veneer porcelain |  |  |  |  |
D2971 | E |  | Add proc construct new crown |  |  |  |  |
D2975 | E |  | Coping |  |  |  |  |
D2980 | E |  | Crown repair |  |  |  |  |
D2999 | S |  | Dental unspec restorative pr | 0330 | 7.1756 | $425.82 |  | $85.16
D3110 | E |  | Pulp cap direct |  |  |  |  |
D3120 | E |  | Pulp cap indirect |  |  |  |  |
D3220 | E |  | Therapeutic pulpotomy |  |  |  |  |
D3221 | E |  | Gross pulpal debridement |  |  |  |  |
D3230 | E |  | Pulpal therapy anterior prim |  |  |  |  |
D3240 | E |  | Pulpal therapy posterior pri |  |  |  |  |
D3310 | E |  | Anterior |  |  |  |  |
D3320 | E |  | Root canal therapy 2 canals |  |  |  |  |
D3330 | E |  | Root canal therapy 3 canals |  |  |  |  |
D3331 | E |  | Non-surg tx root canal obs |  |  |  |  |
D3332 | E |  | Incomplete endodontic tx |  |  |  |  |
D3333 | E |  | Internal root repair |  |  |  |  |
D3346 | E |  | Retreat root canal anterior |  |  |  |  |
D3347 | E |  | Retreat root canal bicuspid |  |  |  |  |
D3348 | E |  | Retreat root canal molar |  |  |  |  |
D3351 | E |  | Apexification/recalc initial |  |  |  |  |
D3352 | E |  | Apexification/recalc interim |  |  |  |  |
D3353 | E |  | Apexification/recalc final |  |  |  |  |
D3410 | E |  | Apicoect/perirad surg anter |  |  |  |  |
D3421 | E |  | Root surgery bicuspid |  |  |  |  |
D3425 | E |  | Root surgery molar |  |  |  |  |
D3426 | E |  | Root surgery ea add root |  |  |  |  |
D3430 | E |  | Retrograde filling |  |  |  |  |
D3450 | E |  | Root amputation |  |  |  |  |
D3460 | S |  | Endodontic endosseous implan | 0330 | 7.1756 | $425.82 |  | $85.16
D3470 | E |  | Intentional replantation |  |  |  |  |
D3910 | E |  | Isolation- tooth w rubb dam |  |  |  |  |
D3920 | E |  | Tooth splitting |  |  |  |  |
D3950 | E |  | Canal prep/fitting of dowel |  |  |  |  |
D3999 | S |  | Endodontic procedure | 0330 | 7.1756 | $425.82 |  | $85.16
D4210 | E |  | Gingivectomy/plasty per quad |  |  |  |  |
D4211 | E |  | Gingivectomy/plasty per toot |  |  |  |  |
D4240 | E |  | Gingival flap proc w/ planin |  |  |  |  |
D4241 | E |  | Gngvl flap w rootplan 1-3 th |  |  |  |  |
D4245 | E |  | Apically positioned flap |  |  |  |  |
D4249 | E |  | Crown lengthen hard tissue |  |  |  |  |
D4260 | S |  | Osseous surgery per quadrant | 0330 | 7.1756 | $425.82 |  | $85.16
D4261 | E |  | Osseous surgl-3teethperquad |  |  |  |  |
D4263 | S |  | Bone replce graft first site | 0330 | 7.1756 | $425.82 |  | $85.16
D4264 | S |  | Bone replce graft each add | 0330 | 7.1756 | $425.82 |  | $85.16
D4265 | E |  | Bio mtrls to aid soft/os reg |  |  |  |  |
D4266 | E |  | Guided tiss regen resorble |  |  |  |  |
D4267 | E |  | Guided tiss regen nonresorb |  |  |  |  |
D4268 | S |  | Surgical revision procedure | 0330 | 7.1756 | $425.82 |  | $85.16
D4270 | S |  | Pedicle soft tissue graft pr | 0330 | 7.1756 | $425.82 |  | $85.16
D4271 | S |  | Free soft tissue graft proc | 0330 | 7.1756 | $425.82 |  | $85.16
D4273 | S |  | Subepithelial tissue graft | 0330 | 7.1756 | $425.82 |  | $85.16
D4274 | E |  | Distal/proximal wedge proc |  |  |  |  |
D4275 | E |  | Soft tissue allograft |  |  |  |  |
D4276 | E |  | Con tissue w dble ped graft |  |  |  |  |
D4320 | E |  | Provision splnt intracoronal |  |  |  |  |
D4321 | E |  | Provisional splint extracoro |  |  |  |  |
D4341 | E |  | Periodontal scaling & root |  |  |  |  |
D4342 | E |  | Periodontal scaling 1-3teeth |  |  |  |  |
D4355 | S |  | Full mouth debridement | 0330 | 7.1756 | $425.82 |  | $85.16
D4381 | S |  | Localized chemo delivery | 0330 | 7.1756 | $425.82 |  | $85.16
D4910 | E |  | Periodontal maint procedures |  |  |  |  |
D4920 | E |  | Unscheduled dressing change |  |  |  |  |
D4999 | E |  | Unspecified periodontal proc |  |  |  |  |
D5110 | E |  | Dentures complete maxillary |  |  |  |  |
D5120 | E |  | Dentures complete mandible |  |  |  |  |
D5130 | E |  | Dentures immediat maxillary |  |  |  |  |
D5140 | E |  | Dentures immediat mandible |  |  |  |  |
D5211 | E |  | Dentures maxill part resin |  |  |  |  |
D5212 | E |  | Dentures mand part resin |  |  |  |  |
D5213 | E |  | Dentures maxill part metal |  |  |  |  |
D5214 | E |  | Dentures mandibl part metal |  |  |  |  |
D5225 | E |  | Maxillary part denture flex |  |  |  |  |
D5226 | E |  | Mandibular part denture flex |  |  |  |  |
D5281 | E |  | Removable partial denture |  |  |  |  |
D5410 | E |  | Dentures adjust cmplt maxil |  |  |  |  |
D5411 | E |  | Dentures adjust cmplt mand |  |  |  |  |
D5421 | E |  | Dentures adjust part maxill |  |  |  |  |
D5422 | E |  | Dentures adjust part mandbl |  |  |  |  |
D5510 | E |  | Dentur repr broken compl bas |  |  |  |  |
D5520 | E |  | Replace denture teeth complt |  |  |  |  |
D5610 | E |  | Dentures repair resin base |  |  |  |  |
D5620 | E |  | Rep part denture cast frame |  |  |  |  |
D5630 | E |  | Rep partial denture clasp |  |  |  |  |
D5640 | E |  | Replace part denture teeth |  |  |  |  |
D5650 | E |  | Add tooth to partial denture |  |  |  |  |
D5660 | E |  | Add clasp to partial denture |  |  |  |  |
D5670 | E |  | Replc tth&acrlc on mtl frmwk |  |  |  |  |
D5671 | E |  | Replc tth&acrlc mandibular |  |  |  |  |
D5710 | E |  | Dentures rebase cmplt maxil |  |  |  |  |
D5711 | E |  | Dentures rebase cmplt mand |  |  |  |  |
D5720 | E |  | Dentures rebase part maxill |  |  |  |  |
D5721 | E |  | Dentures rebase part mandbl |  |  |  |  |
D5730 | E |  | Denture reln cmplt maxil ch |  |  |  |  |
D5731 | E |  | Denture reln cmplt mand chr |  |  |  |  |
D5740 | E |  | Denture reln part maxil chr |  |  |  |  |
D5741 | E |  | Denture reln part mand chr |  |  |  |  |
D5750 | E |  | Denture reln cmplt max lab |  |  |  |  |
D5751 | E |  | Denture reln cmplt mand lab |  |  |  |  |
D5760 | E |  | Denture reln part maxil lab |  |  |  |  |
D5761 | E |  | Denture reln part mand lab |  |  |  |  |
D5810 | E |  | Denture interm cmplt maxill |  |  |  |  |
D5811 | E |  | Denture interm cmplt mandbl |  |  |  |  |
D5820 | E |  | Denture interm part maxill |  |  |  |  |
D5821 | E |  | Denture interm part mandbl |  |  |  |  |
D5850 | E |  | Denture tiss conditn maxill |  |  |  |  |
D5851 | E |  | Denture tiss condtin mandbl |  |  |  |  |
D5860 | E |  | Overdenture complete |  |  |  |  |
D5861 | E |  | Overdenture partial |  |  |  |  |
D5862 | E |  | Precision attachment |  |  |  |  |
D5867 | E |  | Replacement of precision att |  |  |  |  |
D5875 | E |  | Prosthesis modification |  |  |  |  |
D5899 | E |  | Removable prosthodontic proc |  |  |  |  |
D5911 | S |  | Facial moulage sectional | 0330 | 7.1756 | $425.82 |  | $85.16
D5912 | S |  | Facial moulage complete | 0330 | 7.1756 | $425.82 |  | $85.16
D5913 | E |  | Nasal prosthesis |  |  |  |  |
D5914 | E |  | Auricular prosthesis |  |  |  |  |
D5915 | E |  | Orbital prosthesis |  |  |  |  |
D5916 | E |  | Ocular prosthesis |  |  |  |  |
D5919 | E |  | Facial prosthesis |  |  |  |  |
D5922 | E |  | Nasal septal prosthesis |  |  |  |  |
D5923 | E |  | Ocular prosthesis interim |  |  |  |  |
D5924 | E |  | Cranial prosthesis |  |  |  |  |
D5925 | E |  | Facial augmentation implant |  |  |  |  |
D5926 | E |  | Replacement nasal prosthesis |  |  |  |  |
D5927 | E |  | Auricular replacement |  |  |  |  |
D5928 | E |  | Orbital replacement |  |  |  |  |
D5929 | E |  | Facial replacement |  |  |  |  |
D5931 | E |  | Surgical obturator |  |  |  |  |
D5932 | E |  | Postsurgical obturator |  |  |  |  |
D5933 | E |  | Refitting of obturator |  |  |  |  |
D5934 | E |  | Mandibular flange prosthesis |  |  |  |  |
D5935 | E |  | Mandibular denture prosth |  |  |  |  |
D5936 | E |  | Temp obturator prosthesis |  |  |  |  |
D5937 | E |  | Trismus appliance |  |  |  |  |
D5951 | E |  | Feeding aid |  |  |  |  |
D5952 | E |  | Pediatric speech aid |  |  |  |  |
D5953 | E |  | Adult speech aid |  |  |  |  |
D5954 | E |  | Superimposed prosthesis |  |  |  |  |
D5955 | E |  | Palatal lift prosthesis |  |  |  |  |
D5958 | E |  | Intraoral con def inter plt |  |  |  |  |
D5959 | E |  | Intraoral con def mod palat |  |  |  |  |
D5960 | E |  | Modify speech aid prosthesis |  |  |  |  |
D5982 | E |  | Surgical stent |  |  |  |  |
D5983 | S |  | Radiation applicator | 0330 | 7.1756 | $425.82 |  | $85.16
D5984 | S |  | Radiation shield | 0330 | 7.1756 | $425.82 |  | $85.16
D5985 | S |  | Radiation cone locator | 0330 | 7.1756 | $425.82 |  | $85.16
D5986 | E |  | Fluoride applicator |  |  |  |  |
D5987 | S |  | Commissure splint | 0330 | 7.1756 | $425.82 |  | $85.16
D5988 | E |  | Surgical splint |  |  |  |  |
D5999 | E |  | Maxillofacial prosthesis |  |  |  |  |
D6010 | E |  | Odontics endosteal implant |  |  |  |  |
D6040 | E |  | Odontics eposteal implant |  |  |  |  |
D6050 | E |  | Odontics transosteal implnt |  |  |  |  |
D6053 | E |  | Implnt/abtmnt spprt remv dnt |  |  |  |  |
D6054 | E |  | Implnt/abtmnt spprt remvprtl |  |  |  |  |
D6055 | E |  | Implant connecting bar |  |  |  |  |
D6056 | E |  | Prefabricated abutment |  |  |  |  |
D6057 | E |  | Custom abutment |  |  |  |  |
D6058 | E |  | Abutment supported crown |  |  |  |  |
D6059 | E |  | Abutment supported mtl crown |  |  |  |  |
D6060 | E |  | Abutment supported mtl crown |  |  |  |  |
D6061 | E |  | Abutment supported mtl crown |  |  |  |  |
D6062 | E |  | Abutment supported mtl crown |  |  |  |  |
D6063 | E |  | Abutment supported mtl crown |  |  |  |  |
D6064 | E |  | Abutment supported mtl crown |  |  |  |  |
D6065 | E |  | Implant supported crown |  |  |  |  |
D6066 | E |  | Implant supported mtl crown |  |  |  |  |
D6067 | E |  | Implant supported mtl crown |  |  |  |  |
D6068 | E |  | Abutment supported retainer |  |  |  |  |
D6069 | E |  | Abutment supported retainer |  |  |  |  |
D6070 | E |  | Abutment supported retainer |  |  |  |  |
D6071 | E |  | Abutment supported retainer |  |  |  |  |
D6072 | E |  | Abutment supported retainer |  |  |  |  |
D6073 | E |  | Abutment supported retainer |  |  |  |  |
D6074 | E |  | Abutment supported retainer |  |  |  |  |
D6075 | E |  | Implant supported retainer |  |  |  |  |
D6076 | E |  | Implant supported retainer |  |  |  |  |
D6077 | E |  | Implant supported retainer |  |  |  |  |
D6078 | E |  | Implnt/abut suprtd fixd dent |  |  |  |  |
D6079 | E |  | Implnt/abut suprtd fixd dent |  |  |  |  |
D6080 | E |  | Implant maintenance |  |  |  |  |
D6090 | E |  | Repair implant |  |  |  |  |
D6094 | E |  | Abut support crown titanium |  |  |  |  |
D6095 | E |  | Odontics repr abutment |  |  |  |  |
D6100 | E |  | Removal of implant |  |  |  |  |
D6190 | E |  | Radio/surgical implant index |  |  |  |  |
D6194 | E |  | Abut support retainer titani |  |  |  |  |
D6199 | E |  | Implant procedure |  |  |  |  |
D6205 | E |  | Pontic-indirect resin based |  |  |  |  |
D6210 | E |  | Prosthodont high noble metal |  |  |  |  |
D6211 | E |  | Bridge base metal cast |  |  |  |  |
D6212 | E |  | Bridge noble metal cast |  |  |  |  |
D6214 | E |  | Pontic titanium |  |  |  |  |
D6240 | E |  | Bridge porcelain high noble |  |  |  |  |
D6241 | E |  | Bridge porcelain base metal |  |  |  |  |
D6242 | E |  | Bridge porcelain nobel metal |  |  |  |  |
D6245 | E |  | Bridge porcelain/ceramic |  |  |  |  |
D6250 | E |  | Bridge resin w/high noble |  |  |  |  |
D6251 | E |  | Bridge resin base metal |  |  |  |  |
D6252 | E |  | Bridge resin w/noble metal |  |  |  |  |
D6253 | E |  | Provisional pontic |  |  |  |  |
D6545 | E |  | Dental retainr cast metl |  |  |  |  |
D6548 | E |  | Porcelain/ceramic retainer |  |  |  |  |
D6600 | E |  | Porcelain/ceramic inlay 2srf |  |  |  |  |
D6601 | E |  | Porc/ceram inlay >= 3 surfac |  |  |  |  |
D6602 | E |  | Cst hgh nble mtl inlay 2 srf |  |  |  |  |
D6603 | E |  | Cst hgh nble mtl inlay >=3sr |  |  |  |  |
D6604 | E |  | Cst bse mtl inlay 2 surfaces |  |  |  |  |
D6605 | E |  | Cst bse mtl inlay >= 3 surfa |  |  |  |  |
D6606 | E |  | Cast noble metal inlay 2 sur |  |  |  |  |
D6607 | E |  | Cst noble mtl inlay >=3 surf |  |  |  |  |
D6608 | E |  | Onlay porc/crmc 2 surfaces |  |  |  |  |
D6609 | E |  | Onlay porc/crmc >=3 surfaces |  |  |  |  |
D6610 | E |  | Onlay cst hgh nbl mtl 2 srfc |  |  |  |  |
D6611 | E |  | Onlay cst hgh nbl mtl >=3srf |  |  |  |  |
D6612 | E |  | Onlay cst base mtl 2 surface |  |  |  |  |
D6613 | E |  | Onlay cst base mtl >=3 surfa |  |  |  |  |
D6614 | E |  | Onlay cst nbl mtl 2 surfaces |  |  |  |  |
D6615 | E |  | Onlay cst nbl mtl >=3 surfac |  |  |  |  |
D6624 | E |  | Inlay titanium |  |  |  |  |
D6634 | E |  | Onlay titanium |  |  |  |  |
D6710 | E |  | Crown-indirect resin based |  |  |  |  |
D6720 | E |  | Retain crown resin w hi nble |  |  |  |  |
D6721 | E |  | Crown resin w/base metal |  |  |  |  |
D6722 | E |  | Crown resin w/noble metal |  |  |  |  |
D6740 | E |  | Crown porcelain/ceramic |  |  |  |  |
D6750 | E |  | Crown porcelain high noble |  |  |  |  |
D6751 | E |  | Crown porcelain base metal |  |  |  |  |
D6752 | E |  | Crown porcelain noble metal |  |  |  |  |
D6780 | E |  | Crown 3/4 high noble metal |  |  |  |  |
D6781 | E |  | Crown 3/4 cast based metal |  |  |  |  |
D6782 | E |  | Crown 3/4 cast noble metal |  |  |  |  |
D6783 | E |  | Crown 3/4 porcelain/ceramic |  |  |  |  |
D6790 | E |  | Crown full high noble metal |  |  |  |  |
D6791 | E |  | Crown full base metal cast |  |  |  |  |
D6792 | E |  | Crown full noble metal cast |  |  |  |  |
D6793 | E |  | Provisional retainer crown |  |  |  |  |
D6794 | E |  | Crown titanium |  |  |  |  |
D6920 | S |  | Dental connector bar | 0330 | 7.1756 | $425.82 |  | $85.16
D6930 | E |  | Dental recement bridge |  |  |  |  |
D6940 | E |  | Stress breaker |  |  |  |  |
D6950 | E |  | Precision attachment |  |  |  |  |
D6970 | E |  | Post & core plus retainer |  |  |  |  |
D6971 | E |  | Cast post bridge retainer |  |  |  |  |
D6972 | E |  | Prefab post & core plus reta |  |  |  |  |
D6973 | E |  | Core build up for retainer |  |  |  |  |
D6975 | E |  | Coping metal |  |  |  |  |
D6976 | E |  | Each addtnl cast post |  |  |  |  |
D6977 | E |  | Each addtl prefab post |  |  |  |  |
D6980 | E |  | Bridge repair |  |  |  |  |
D6985 | E |  | Pediatric partial denture fx |  |  |  |  |
D6999 | E |  | Fixed prosthodontic proc |  |  |  |  |
D7111 | S |  | Coronal remnants deciduous t | 0330 | 7.1756 | $425.82 |  | $85.16
D7140 | S |  | Extraction erupted tooth/exr | 0330 | 7.1756 | $425.82 |  | $85.16
D7210 | S |  | Rem imp tooth w mucoper flp | 0330 | 7.1756 | $425.82 |  | $85.16
D7220 | S |  | Impact tooth remov soft tiss | 0330 | 7.1756 | $425.82 |  | $85.16
D7230 | S |  | Impact tooth remov part bony | 0330 | 7.1756 | $425.82 |  | $85.16
D7240 | S |  | Impact tooth remov comp bony | 0330 | 7.1756 | $425.82 |  | $85.16
D7241 | S |  | Impact tooth rem bony w/comp | 0330 | 7.1756 | $425.82 |  | $85.16
D7250 | S |  | Tooth root removal | 0330 | 7.1756 | $425.82 |  | $85.16
D7260 | S |  | Oral antral fistula closure | 0330 | 7.1756 | $425.82 |  | $85.16
D7261 | S |  | Primary closure sinus perf | 0330 | 7.1756 | $425.82 |  | $85.16
D7270 | E |  | Tooth reimplantation |  |  |  |  |
D7272 | E |  | Tooth transplantation |  |  |  |  |
D7280 | E |  | Exposure impact tooth orthod |  |  |  |  |
D7282 | E |  | Mobilize erupted/malpos toot |  |  |  |  |
D7283 | B |  | Place device impacted tooth |  |  |  |  |
D7285 | E |  | Biopsy of oral tissue hard |  |  |  |  |
D7286 | E |  | Biopsy of oral tissue soft |  |  |  |  |
D7287 | E |  | Cytology sample collection |  |  |  |  |
D7288 | B |  | Brush biopsy |  |  |  |  |
D7290 | E |  | Repositioning of teeth |  |  |  |  |
D7291 | S |  | Transseptal fiberotomy | 0330 | 7.1756 | $425.82 |  | $85.16
D7310 | E |  | Alveoplasty w/ extraction |  |  |  |  |
D7311 | E |  | Alveoloplasty w/extract 1-3 |  |  |  |  |
D7320 | E |  | Alveoplasty w/o extraction |  |  |  |  |
D7321 | B |  | Alveoloplasty not w/extracts |  |  |  |  |
D7340 | E |  | Vestibuloplasty ridge extens |  |  |  |  |
D7350 | E |  | Vestibuloplasty exten graft |  |  |  |  |
D7410 | E |  | Rad exc lesion up to 1.25 cm |  |  |  |  |
D7411 | E |  | Excision benign lesion>1.25c |  |  |  |  |
D7412 | E |  | Excision benign lesion compl |  |  |  |  |
D7413 | E |  | Excision malig lesion < =1.25c |  |  |  |  |
D7414 | E |  | Excision malig lesion > 1.25cm |  |  |  |  |
D7415 | E |  | Excision malig les complicat |  |  |  |  |
D7440 | E |  | Malig tumor exc to 1.25 cm |  |  |  |  |
D7441 | E |  | Malig tumor > 1.25 cm |  |  |  |  |
D7450 | E |  | Rem odontogen cyst to 1.25cm |  |  |  |  |
D7451 | E |  | Rem odontogen cyst > 1.25 cm |  |  |  |  |
D7460 | E |  | Rem nonodonto cyst to 1.25cm |  |  |  |  |
D7461 | E |  | Rem nonodonto cyst > 1.25 cm |  |  |  |  |
D7465 | E |  | Lesion destruction |  |  |  |  |
D7471 | E |  | Rem exostosis any site |  |  |  |  |
D7472 | E |  | Removal of torus palatinus |  |  |  |  |
D7473 | E |  | Remove torus mandibularis |  |  |  |  |
D7485 | E |  | Surg reduct osseoustuberosit |  |  |  |  |
D7490 | E |  | Mandible resection |  |  |  |  |
D7510 | E |  | I&d absc intraoral soft tiss |  |  |  |  |
D7511 | B |  | Incision/drain abscess intra |  |  |  |  |
D7520 | E |  | I&d abscess extraoral |  |  |  |  |
D7521 | B |  | Incision/drain abscess extra |  |  |  |  |
D7530 | E |  | Removal fb skin/areolar tiss |  |  |  |  |
D7540 | E |  | Removal of fb reaction |  |  |  |  |
D7550 | E |  | Removal of sloughed off bone |  |  |  |  |
D7560 | E |  | Maxillary sinusotomy |  |  |  |  |
D7610 | E |  | Maxilla open reduct simple |  |  |  |  |
D7620 | E |  | Clsd reduct simpl maxilla fx |  |  |  |  |
D7630 | E |  | Open red simpl mandible fx |  |  |  |  |
D7640 | E |  | Clsd red simpl mandible fx |  |  |  |  |
D7650 | E |  | Open red simp malar/zygom fx |  |  |  |  |
D7660 | E |  | Clsd red simp malar/zygom fx |  |  |  |  |
D7670 | E |  | Closd rductn splint alveolus |  |  |  |  |
D7671 | E |  | Alveolus open reduction |  |  |  |  |
D7680 | E |  | Reduct simple facial bone fx |  |  |  |  |
D7710 | E |  | Maxilla open reduct compound |  |  |  |  |
D7720 | E |  | Clsd reduct compd maxilla fx |  |  |  |  |
D7730 | E |  | Open reduct compd mandble fx |  |  |  |  |
D7740 | E |  | Clsd reduct compd mandble fx |  |  |  |  |
D7750 | E |  | Open red comp malar/zygma fx |  |  |  |  |
D7760 | E |  | Clsd red comp malar/zygma fx |  |  |  |  |
D7770 | E |  | Open reduc compd alveolus fx |  |  |  |  |
D7771 | E |  | Alveolus clsd reduc stblz te |  |  |  |  |
D7780 | E |  | Reduct compnd facial bone fx |  |  |  |  |
D7810 | E |  | Tmj open reduct-dislocation |  |  |  |  |
D7820 | E |  | Closed tmp manipulation |  |  |  |  |
D7830 | E |  | Tmj manipulation under anest |  |  |  |  |
D7840 | E |  | Removal of tmj condyle |  |  |  |  |
D7850 | E |  | Tmj meniscectomy |  |  |  |  |
D7852 | E |  | Tmj repair of joint disc |  |  |  |  |
D7854 | E |  | Tmj excisn of joint membrane |  |  |  |  |
D7856 | E |  | Tmj cutting of a muscle |  |  |  |  |
D7858 | E |  | Tmj reconstruction |  |  |  |  |
D7860 | E |  | Tmj cutting into joint |  |  |  |  |
D7865 | E |  | Tmj reshaping components |  |  |  |  |
D7870 | E |  | Tmj aspiration joint fluid |  |  |  |  |
D7871 | E |  | Lysis + lavage w catheters |  |  |  |  |
D7872 | E |  | Tmj diagnostic arthroscopy |  |  |  |  |
D7873 | E |  | Tmj arthroscopy lysis adhesn |  |  |  |  |
D7874 | E |  | Tmj arthroscopy disc reposit |  |  |  |  |
D7875 | E |  | Tmj arthroscopy synovectomy |  |  |  |  |
D7876 | E |  | Tmj arthroscopy discectomy |  |  |  |  |
D7877 | E |  | Tmj arthroscopy debridement |  |  |  |  |
D7880 | E |  | Occlusal orthotic appliance |  |  |  |  |
D7899 | E |  | Tmj unspecified therapy |  |  |  |  |
D7910 | E |  | Dent sutur recent wnd to 5cm |  |  |  |  |
D7911 | E |  | Dental suture wound to 5 cm |  |  |  |  |
D7912 | E |  | Suture complicate wnd > 5 cm |  |  |  |  |
D7920 | E |  | Dental skin graft |  |  |  |  |
D7940 | S |  | Reshaping bone orthognathic | 0330 | 7.1756 | $425.82 |  | $85.16
D7941 | E |  | Bone cutting ramus closed |  |  |  |  |
D7943 | E |  | Cutting ramus open w/graft |  |  |  |  |
D7944 | E |  | Bone cutting segmented |  |  |  |  |
D7945 | E |  | Bone cutting body mandible |  |  |  |  |
D7946 | E |  | Reconstruction maxilla total |  |  |  |  |
D7947 | E |  | Reconstruct maxilla segment |  |  |  |  |
D7948 | E |  | Reconstruct midface no graft |  |  |  |  |
D7949 | E |  | Reconstruct midface w/graft |  |  |  |  |
D7950 | E |  | Mandible graft |  |  |  |  |
D7953 | E |  | Bone replacement graft |  |  |  |  |
D7955 | E |  | Repair maxillofacial defects |  |  |  |  |
D7960 | E |  | Frenulectomy/frenulotomy |  |  |  |  |
D7963 | E |  | Frenuloplasty |  |  |  |  |
D7970 | E |  | Excision hyperplastic tissue |  |  |  |  |
D7971 | E |  | Excision pericoronal gingiva |  |  |  |  |
D7972 | E |  | Surg redct fibrous tuberosit |  |  |  |  |
D7980 | E |  | Sialolithotomy |  |  |  |  |
D7981 | E |  | Excision of salivary gland |  |  |  |  |
D7982 | E |  | Sialodochoplasty |  |  |  |  |
D7983 | E |  | Closure of salivary fistula |  |  |  |  |
D7990 | E |  | Emergency tracheotomy |  |  |  |  |
D7991 | E |  | Dental coronoidectomy |  |  |  |  |
D7995 | E |  | Synthetic graft facial bones |  |  |  |  |
D7996 | E |  | Implant mandible for augment |  |  |  |  |
D7997 | E |  | Appliance removal |  |  |  |  |
D7999 | E |  | Oral surgery procedure |  |  |  |  |
D8010 | E |  | Limited dental tx primary |  |  |  |  |
D8020 | E |  | Limited dental tx transition |  |  |  |  |
D8030 | E |  | Limited dental tx adolescent |  |  |  |  |
D8040 | E |  | Limited dental tx adult |  |  |  |  |
D8050 | E |  | Intercep dental tx primary |  |  |  |  |
D8060 | E |  | Intercep dental tx transitn |  |  |  |  |
D8070 | E |  | Compre dental tx transition |  |  |  |  |
D8080 | E |  | Compre dental tx adolescent |  |  |  |  |
D8090 | E |  | Compre dental tx adult |  |  |  |  |
D8210 | E |  | Orthodontic rem appliance tx |  |  |  |  |
D8220 | E |  | Fixed appliance therapy habt |  |  |  |  |
D8660 | E |  | Preorthodontic tx visit |  |  |  |  |
D8670 | E |  | Periodic orthodontc tx visit |  |  |  |  |
D8680 | E |  | Orthodontic retention |  |  |  |  |
D8690 | E |  | Orthodontic treatment |  |  |  |  |
D8691 | E |  | Repair ortho appliance |  |  |  |  |
D8692 | E |  | Replacement retainer |  |  |  |  |
D8999 | E |  | Orthodontic procedure |  |  |  |  |
D9110 | N |  | Tx dental pain minor proc |  |  |  |  |
D9210 | E |  | Dent anesthesia w/o surgery |  |  |  |  |
D9211 | E |  | Regional block anesthesia |  |  |  |  |
D9212 | E |  | Trigeminal block anesthesia |  |  |  |  |
D9215 | E |  | Local anesthesia |  |  |  |  |
D9220 | E |  | General anesthesia |  |  |  |  |
D9221 | E |  | General anesthesia ea ad 15m |  |  |  |  |
D9230 | N |  | Analgesia |  |  |  |  |
D9241 | E |  | Intravenous sedation |  |  |  |  |
D9242 | E |  | IV sedation ea ad 30 m |  |  |  |  |
D9248 | N |  | Sedation (non-iv) |  |  |  |  |
D9310 | E |  | Dental consultation |  |  |  |  |
D9410 | E |  | Dental house call |  |  |  |  |
D9420 | E |  | Hospital call |  |  |  |  |
D9430 | E |  | Office visit during hours |  |  |  |  |
D9440 | E |  | Office visit after hours |  |  |  |  |
D9450 | E |  | Case presentation tx plan |  |  |  |  |
D9610 | E |  | Dent therapeutic drug inject |  |  |  |  |
D9630 | S |  | Other drugs/medicaments | 0330 | 7.1756 | $425.82 |  | $85.16
D9910 | E |  | Dent appl desensitizing med |  |  |  |  |
D9911 | E |  | Appl desensitizing resin |  |  |  |  |
D9920 | E |  | Behavior management |  |  |  |  |
D9930 | S |  | Treatment of complications | 0330 | 7.1756 | $425.82 |  | $85.16
D9940 | S |  | Dental occlusal guard | 0330 | 7.1756 | $425.82 |  | $85.16
D9941 | E |  | Fabrication athletic guard |  |  |  |  |
D9942 | E |  | Repair/reline occlusal guard |  |  |  |  |
D9950 | S |  | Occlusion analysis | 0330 | 7.1756 | $425.82 |  | $85.16
D9951 | S |  | Limited occlusal adjustment | 0330 | 7.1756 | $425.82 |  | $85.16
D9952 | S |  | Complete occlusal adjustment | 0330 | 7.1756 | $425.82 |  | $85.16
D9970 | E |  | Enamel microabrasion |  |  |  |  |
D9971 | E |  | Odontoplasty 1-2 teeth |  |  |  |  |
D9972 | E |  | Extrnl bleaching per arch |  |  |  |  |
D9973 | E |  | Extrnl bleaching per tooth |  |  |  |  |
D9974 | E |  | Intrnl bleaching per tooth |  |  |  |  |
D9999 | E |  | Adjunctive procedure |  |  |  |  |
E0100 | Y |  | Cane adjust/fixed with tip |  |  |  |  |
E0105 | Y |  | Cane adjust/fixed quad/3 pro |  |  |  |  |
E0110 | Y |  | Crutch forearm pair |  |  |  |  |
E0111 | Y |  | Crutch forearm each |  |  |  |  |
E0112 | Y |  | Crutch underarm pair wood |  |  |  |  |
E0113 | Y |  | Crutch underarm each wood |  |  |  |  |
E0114 | Y |  | Crutch underarm pair no wood |  |  |  |  |
E0116 | Y |  | Crutch underarm each no wood |  |  |  |  |
E0117 | Y |  | Underarm springassist crutch |  |  |  |  |
E0118 | E |  | Crutch substitute |  |  |  |  |
E0130 | Y |  | Walker rigid adjust/fixed ht |  |  |  |  |
E0135 | Y |  | Walker folding adjust/fixed |  |  |  |  |
E0140 | Y |  | Walker w trunk support |  |  |  |  |
E0141 | Y |  | Rigid wheeled walker adj/fix |  |  |  |  |
E0143 | Y |  | Walker folding wheeled w/o s |  |  |  |  |
E0144 | Y |  | Enclosed walker w rear seat |  |  |  |  |
E0147 | Y |  | Walker variable wheel resist |  |  |  |  |
E0148 | Y |  | Heavyduty walker no wheels |  |  |  |  |
E0149 | Y |  | Heavy duty wheeled walker |  |  |  |  |
E0153 | Y |  | Forearm crutch platform atta |  |  |  |  |
E0154 | Y |  | Walker platform attachment |  |  |  |  |
E0155 | Y |  | Walker wheel attachment,pair |  |  |  |  |
E0156 | Y |  | Walker seat attachment |  |  |  |  |
E0157 | Y |  | Walker crutch attachment |  |  |  |  |
E0158 | Y |  | Walker leg extenders set of4 |  |  |  |  |
E0159 | Y |  | Brake for wheeled walker |  |  |  |  |
E0160 | Y |  | Sitz type bath or equipment |  |  |  |  |
E0161 | Y |  | Sitz bath/equipment w/faucet |  |  |  |  |
E0162 | Y |  | Sitz bath chair |  |  |  |  |
E0163 | Y |  | Commode chair stationry fxd |  |  |  |  |
E0164 | Y |  | Commode chair mobile fixed a |  |  |  |  |
E0166 | Y |  | Commode chair mobile detach |  |  |  |  |
E0167 | Y |  | Commode chair pail or pan |  |  |  |  |
E0168 | Y |  | Heavyduty/wide commode chair |  |  |  |  |
E0169 | Y |  | Seatlift incorp commodechair |  |  |  |  |
E0175 | Y |  | Commode chair foot rest |  |  |  |  |
E0180 | Y |  | Press pad alternating w pump |  |  |  |  |
E0181 | Y |  | Press pad alternating w/ pum |  |  |  |  |
E0182 | Y |  | Pressure pad alternating pum |  |  |  |  |
E0184 | Y |  | Dry pressure mattress |  |  |  |  |
E0185 | Y |  | Gel pressure mattress pad |  |  |  |  |
E0186 | Y |  | Air pressure mattress |  |  |  |  |
E0187 | Y |  | Water pressure mattress |  |  |  |  |
E0188 | Y |  | Synthetic sheepskin pad |  |  |  |  |
E0189 | Y |  | Lambswool sheepskin pad |  |  |  |  |
E0190 | E |  | Positioning cushion |  |  |  |  |
E0191 | Y |  | Protector heel or elbow |  |  |  |  |
E0193 | Y |  | Powered air flotation bed |  |  |  |  |
E0194 | Y |  | Air fluidized bed |  |  |  |  |
E0196 | Y |  | Gel pressure mattress |  |  |  |  |
E0197 | Y |  | Air pressure pad for mattres |  |  |  |  |
E0198 | Y |  | Water pressure pad for mattr |  |  |  |  |
E0199 | Y |  | Dry pressure pad for mattres |  |  |  |  |
E0200 | Y |  | Heat lamp without stand |  |  |  |  |
E0202 | Y |  | Phototherapy light w/ photom |  |  |  |  |
E0203 | E |  | Therapeutic lightbox tabletp |  |  |  |  |
E0205 | Y |  | Heat lamp with stand |  |  |  |  |
E0210 | Y |  | Electric heat pad standard |  |  |  |  |
E0215 | Y |  | Electric heat pad moist |  |  |  |  |
E0217 | Y |  | Water circ heat pad w pump |  |  |  |  |
E0218 | Y |  | Water circ cold pad w pump |  |  |  |  |
E0220 | Y |  | Hot water bottle |  |  |  |  |
E0221 | E |  | Infrared heating pad system |  |  |  |  |
E0225 | Y |  | Hydrocollator unit |  |  |  |  |
E0230 | Y |  | Ice cap or collar |  |  |  |  |
E0231 | E |  | Wound warming device |  |  |  |  |
E0232 | E |  | Warming card for NWT |  |  |  |  |
E0235 | Y |  | Paraffin bath unit portable |  |  |  |  |
E0236 | Y |  | Pump for water circulating p |  |  |  |  |
E0238 | Y |  | Heat pad non-electric moist |  |  |  |  |
E0239 | Y |  | Hydrocollator unit portable |  |  |  |  |
E0240 | E |  | Bath/shower chair |  |  |  |  |
E0241 | E |  | Bath tub wall rail |  |  |  |  |
E0242 | E |  | Bath tub rail floor |  |  |  |  |
E0243 | E |  | Toilet rail |  |  |  |  |
E0244 | E |  | Toilet seat raised |  |  |  |  |
E0245 | E |  | Tub stool or bench |  |  |  |  |
E0246 | E |  | Transfer tub rail attachment |  |  |  |  |
E0247 | E |  | Trans bench w/wo comm open |  |  |  |  |
E0248 | E |  | HDtrans bench w/wo comm open |  |  |  |  |
E0249 | Y |  | Pad water circulating heat u |  |  |  |  |
E0250 | Y |  | Hosp bed fixed ht w/ mattres |  |  |  |  |
E0251 | Y |  | Hosp bed fixd ht w/o mattres |  |  |  |  |
E0255 | Y |  | Hospital bed var ht w/ mattr |  |  |  |  |
E0256 | Y |  | Hospital bed var ht w/o matt |  |  |  |  |
E0260 | Y |  | Hosp bed semi-electr w/ matt |  |  |  |  |
E0261 | Y |  | Hosp bed semi-electr w/o mat |  |  |  |  |
E0265 | Y |  | Hosp bed total electr w/ mat |  |  |  |  |
E0266 | Y |  | Hosp bed total elec w/o matt |  |  |  |  |
E0270 | E |  | Hospital bed institutional t |  |  |  |  |
E0271 | Y |  | Mattress innerspring |  |  |  |  |
E0272 | Y |  | Mattress foam rubber |  |  |  |  |
E0273 | E |  | Bed board |  |  |  |  |
E0274 | E |  | Over-bed table |  |  |  |  |
E0275 | Y |  | Bed pan standard |  |  |  |  |
E0276 | Y |  | Bed pan fracture |  |  |  |  |
E0277 | Y |  | Powered pres-redu air mattrs |  |  |  |  |
E0280 | Y |  | Bed cradle |  |  |  |  |
E0290 | Y |  | Hosp bed fx ht w/o rails w/m |  |  |  |  |
E0291 | Y |  | Hosp bed fx ht w/o rail w/o |  |  |  |  |
E0292 | Y |  | Hosp bed var ht w/o rail w/o |  |  |  |  |
E0293 | Y |  | Hosp bed var ht w/o rail w/ |  |  |  |  |
E0294 | Y |  | Hosp bed semi-elect w/ mattr |  |  |  |  |
E0295 | Y |  | Hosp bed semi-elect w/o matt |  |  |  |  |
E0296 | Y |  | Hosp bed total elect w/ matt |  |  |  |  |
E0297 | Y |  | Hosp bed total elect w/o mat |  |  |  |  |
E0300 | Y |  | Enclosed ped crib hosp grade |  |  |  |  |
E0301 | Y |  | HD hosp bed, 350-600 lbs |  |  |  |  |
E0302 | Y |  | Ex hd hosp bed > 600 lbs |  |  |  |  |
E0303 | Y |  | Hosp bed hvy dty xtra wide |  |  |  |  |
E0304 | Y |  | Hosp bed xtra hvy dty × wide |  |  |  |  |
E0305 | Y |  | Rails bed side half length |  |  |  |  |
E0310 | Y |  | Rails bed side full length |  |  |  |  |
E0315 | E |  | Bed accessory brd/tbl/supprt |  |  |  |  |
E0316 | Y |  | Bed safety enclosure |  |  |  |  |
E0325 | Y |  | Urinal male jug-type |  |  |  |  |
E0326 | Y |  | Urinal female jug-type |  |  |  |  |
E0350 | E |  | Control unit bowel system |  |  |  |  |
E0352 | E |  | Disposable pack w/bowel syst |  |  |  |  |
E0370 | E |  | Air elevator for heel |  |  |  |  |
E0371 | Y |  | Nonpower mattress overlay |  |  |  |  |
E0372 | Y |  | Powered air mattress overlay |  |  |  |  |
E0373 | Y |  | Nonpowered pressure mattress |  |  |  |  |
E0424 | Y |  | Stationary compressed gas 02 |  |  |  |  |
E0425 | E |  | Gas system stationary compre |  |  |  |  |
E0430 | E |  | Oxygen system gas portable |  |  |  |  |
E0431 | Y |  | Portable gaseous 02 |  |  |  |  |
E0434 | Y |  | Portable liquid 02 |  |  |  |  |
E0435 | E |  | Oxygen system liquid portabl |  |  |  |  |
E0439 | Y |  | Stationary liquid 02 |  |  |  |  |
E0440 | E |  | Oxygen system liquid station |  |  |  |  |
E0441 | Y |  | Oxygen contents, gaseous |  |  |  |  |
E0442 | Y |  | Oxygen contents, liquid |  |  |  |  |
E0443 | Y |  | Portable 02 contents, gas |  |  |  |  |
E0444 | Y |  | Portable 02 contents, liquid |  |  |  |  |
E0445 | A |  | Oximeter non-invasive |  |  |  |  |
E0450 | Y |  | Volume vent stationary/porta |  |  |  |  |
E0455 | Y |  | Oxygen tent excl croup/ped t |  |  |  |  |
E0457 | Y |  | Chest shell |  |  |  |  |
E0459 | Y |  | Chest wrap |  |  |  |  |
E0460 | Y |  | Neg press vent portabl/statn |  |  |  |  |
E0461 | Y |  | Vol vent noninvasive interfa |  |  |  |  |
E0462 | Y |  | Rocking bed w/ or w/o side r |  |  |  |  |
E0463 | Y |  | Press supp vent invasive int |  |  |  |  |
E0464 | Y |  | Press supp vent noninv int |  |  |  |  |
E0470 | Y |  | RAD w/o backup non-inv intfc |  |  |  |  |
E0471 | Y |  | RAD w/backup non inv intrfc |  |  |  |  |
E0472 | Y |  | RAD w backup invasive intrfc |  |  |  |  |
E0480 | Y |  | Percussor elect/pneum home m |  |  |  |  |
E0481 | E |  | Intrpulmnry percuss vent sys |  |  |  |  |
E0482 | Y |  | Cough stimulating device |  |  |  |  |
E0483 | Y |  | Chest compression gen system |  |  |  |  |
E0484 | Y |  | Non-elec oscillatory pep dvc |  |  |  |  |
E0500 | Y |  | Ippb all types |  |  |  |  |
E0550 | Y |  | Humidif extens supple w ippb |  |  |  |  |
E0555 | Y |  | Humidifier for use w/ regula |  |  |  |  |
E0560 | Y |  | Humidifier supplemental w/ i |  |  |  |  |
E0561 | Y |  | Humidifier nonheated w PAP |  |  |  |  |
E0562 | Y |  | Humidifier heated used w PAP |  |  |  |  |
E0565 | Y |  | Compressor air power source |  |  |  |  |
E0570 | Y |  | Nebulizer with compression |  |  |  |  |
E0571 | Y |  | Aerosol compressor for svneb |  |  |  |  |
E0572 | Y |  | Aerosol compressor adjust pr |  |  |  |  |
E0574 | Y |  | Ultrasonic generator w svneb |  |  |  |  |
E0575 | Y |  | Nebulizer ultrasonic |  |  |  |  |
E0580 | Y |  | Nebulizer for use w/ regulat |  |  |  |  |
E0585 | Y |  | Nebulizer w/ compressor & he |  |  |  |  |
E0590 | Y |  | Dispensing fee dme neb drug |  |  |  |  |
E0600 | Y |  | Suction pump portab hom modl |  |  |  |  |
E0601 | Y |  | Cont airway pressure device |  |  |  |  |
E0602 | Y |  | Manual breast pump |  |  |  |  |
E0603 | A |  | Electric breast pump |  |  |  |  |
E0604 | A |  | Hosp grade elec breast pump |  |  |  |  |
E0605 | Y |  | Vaporizer room type |  |  |  |  |
E0606 | Y |  | Drainage board postural |  |  |  |  |
E0607 | Y |  | Blood glucose monitor home |  |  |  |  |
E0610 | Y |  | Pacemaker monitr audible/vis |  |  |  |  |
E0615 | Y |  | Pacemaker monitr digital/vis |  |  |  |  |
E0616 | N |  | Cardiac event recorder |  |  |  |  |
E0617 | Y |  | Automatic ext defibrillator |  |  |  |  |
E0618 | A |  | Apnea monitor |  |  |  |  |
E0619 | A |  | Apnea monitor w recorder |  |  |  |  |
E0620 | Y |  | Cap bld skin piercing laser |  |  |  |  |
E0621 | Y |  | Patient lift sling or seat |  |  |  |  |
E0625 | E |  | Patient lift bathroom or toi |  |  |  |  |
E0627 | Y |  | Seat lift incorp lift-chair |  |  |  |  |
E0628 | Y |  | Seat lift for pt furn-electr |  |  |  |  |
E0629 | Y |  | Seat lift for pt furn-non-el |  |  |  |  |
E0630 | Y |  | Patient lift hydraulic |  |  |  |  |
E0635 | Y |  | Patient lift electric |  |  |  |  |
E0636 | Y |  | PT support & positioning sys |  |  |  |  |
E0637 | E |  | Sit-stand w seatlift wheeled |  |  |  |  |
E0638 | E |  | Standing frame sys wheeled |  |  |  |  |
E0639 | E |  | Moveable patient lift system |  |  |  |  |
E0640 | E |  | Fixed patient lift system |  |  |  |  |
E0650 | Y |  | Pneuma compresor non-segment |  |  |  |  |
E0651 | Y |  | Pneum compressor segmental |  |  |  |  |
E0652 | Y |  | Pneum compres w/cal pressure |  |  |  |  |
E0655 | Y |  | Pneumatic appliance half arm |  |  |  |  |
E0660 | Y |  | Pneumatic appliance full leg |  |  |  |  |
E0665 | Y |  | Pneumatic appliance full arm |  |  |  |  |
E0666 | Y |  | Pneumatic appliance half leg |  |  |  |  |
E0667 | Y |  | Seg pneumatic appl full leg |  |  |  |  |
E0668 | Y |  | Seg pneumatic appl full arm |  |  |  |  |
E0669 | Y |  | Seg pneumatic appli half leg |  |  |  |  |
E0671 | Y |  | Pressure pneum appl full leg |  |  |  |  |
E0672 | Y |  | Pressure pneum appl full arm |  |  |  |  |
E0673 | Y |  | Pressure pneum appl half leg |  |  |  |  |
E0675 | Y |  | Pneumatic compression device |  |  |  |  |
E0691 | Y |  | Uvl pnl 2 sq ft or less |  |  |  |  |
E0692 | Y |  | Uvl sys panel 4 ft |  |  |  |  |
E0693 | Y |  | Uvl sys panel 6 ft |  |  |  |  |
E0694 | Y |  | Uvl md cabinet sys 6 ft |  |  |  |  |
E0700 | E |  | Safety equipment |  |  |  |  |
E0701 | Y |  | Helmet w face guard prefab |  |  |  |  |
E0710 | E |  | Restraints any type |  |  |  |  |
E0720 | Y |  | Tens two lead |  |  |  |  |
E0730 | Y |  | Tens four lead |  |  |  |  |
E0731 | Y |  | Conductive garment for tens/ |  |  |  |  |
E0740 | Y |  | Incontinence treatment systm |  |  |  |  |
E0744 | Y |  | Neuromuscular stim for scoli |  |  |  |  |
E0745 | Y |  | Neuromuscular stim for shock |  |  |  |  |
E0746 | E |  | Electromyograph biofeedback |  |  |  |  |
E0747 | Y |  | Elec osteogen stim not spine |  |  |  |  |
E0748 | Y |  | Elec osteogen stim spinal |  |  |  |  |
E0749 | N |  | Elec osteogen stim implanted |  |  |  |  |
E0752 | B |  | Neurostimulator electrode |  |  |  |  |
E0754 | A |  | Pulsegenerator pt programmer |  |  |  |  |
E0755 | E |  | Electronic salivary reflex s |  |  |  |  |
E0756 | B |  | Implantable pulse generator |  |  |  |  |
E0757 | N |  | Implantable RF receiver |  |  |  |  |
E0758 | A |  | External RF transmitter |  |  |  |  |
E0759 | A |  | Replace rdfrquncy transmittr |  |  |  |  |
E0760 | Y |  | Osteogen ultrasound stimltor |  |  |  |  |
E0761 | E |  | Nontherm electromgntc device |  |  |  |  |
E0765 | Y |  | Nerve stimulator for tx n&v |  |  |  |  |
E0769 | B |  | Electric wound treatment dev |  |  |  |  |
E0776 | Y |  | Iv pole |  |  |  |  |
E0779 | Y |  | Amb infusion pump mechanical |  |  |  |  |
E0780 | Y |  | Mech amb infusion pump <8hrs |  |  |  |  |
E0781 | Y |  | External ambulatory infus pu |  |  |  |  |
E0782 | N |  | Non-programble infusion pump |  |  |  |  |
E0783 | N |  | Programmable infusion pump |  |  |  |  |
E0784 | Y |  | Ext amb infusn pump insulin |  |  |  |  |
E0785 | N |  | Replacement impl pump cathet |  |  |  |  |
E0786 | N |  | Implantable pump replacement |  |  |  |  |
E0791 | Y |  | Parenteral infusion pump sta |  |  |  |  |
E0830 | N |  | Ambulatory traction device |  |  |  |  |
E0840 | Y |  | Tract frame attach headboard |  |  |  |  |
E0849 | Y |  | Cervical pneum trac equip |  |  |  |  |
E0850 | Y |  | Traction stand free standing |  |  |  |  |
E0855 | Y |  | Cervical traction equipment |  |  |  |  |
E0860 | Y |  | Tract equip cervical tract |  |  |  |  |
E0870 | Y |  | Tract frame attach footboard |  |  |  |  |
E0880 | Y |  | Trac stand free stand extrem |  |  |  |  |
E0890 | Y |  | Traction frame attach pelvic |  |  |  |  |
E0900 | Y |  | Trac stand free stand pelvic |  |  |  |  |
E0910 | Y |  | Trapeze bar attached to bed |  |  |  |  |
E0920 | Y |  | Fracture frame attached to b |  |  |  |  |
E0930 | Y |  | Fracture frame free standing |  |  |  |  |
E0935 | Y |  | Exercise device passive moti |  |  |  |  |
E0940 | Y |  | Trapeze bar free standing |  |  |  |  |
E0941 | Y |  | Gravity assisted traction de |  |  |  |  |
E0942 | Y |  | Cervical head harness/halter |  |  |  |  |
E0944 | Y |  | Pelvic belt/harness/boot |  |  |  |  |
E0945 | Y |  | Belt/harness extremity |  |  |  |  |
E0946 | Y |  | Fracture frame dual w cross |  |  |  |  |
E0947 | Y |  | Fracture frame attachmnts pe |  |  |  |  |
E0948 | Y |  | Fracture frame attachmnts ce |  |  |  |  |
E0950 | E |  | Tray |  |  |  |  |
E0951 | E |  | Loop heel |  |  |  |  |
E0952 | E |  | Toe loop/holder, each |  |  |  |  |
E0953 | E |  | Pneumatic tire |  |  |  |  |
E0954 | E |  | Wheelchair semi-pneumatic ca |  |  |  |  |
E0955 | Y |  | Cushioned headrest |  |  |  |  |
E0956 | Y |  | W/c lateral trunk/hip suppor |  |  |  |  |
E0957 | Y |  | W/c medial thigh support |  |  |  |  |
E0958 | A |  | Whlchr att- conv 1 arm drive |  |  |  |  |
E0959 | B |  | Amputee adapter |  |  |  |  |
E0960 | Y |  | W/c shoulder harness/straps |  |  |  |  |
E0961 | B |  | Wheelchair brake extension |  |  |  |  |
E0966 | B |  | Wheelchair head rest extensi |  |  |  |  |
E0967 | Y |  | Wheelchair hand rims |  |  |  |  |
E0968 | Y |  | Wheelchair commode seat |  |  |  |  |
E0969 | Y |  | Wheelchair narrowing device |  |  |  |  |
E0970 | B |  | Wheelchair no. 2 footplates |  |  |  |  |
E0971 | B |  | Wheelchair anti-tipping devi |  |  |  |  |
E0972 | A |  | Transfer board or device |  |  |  |  |
E0973 | B |  | W/Ch access det adj armrest |  |  |  |  |
E0974 | B |  | W/Ch access anti-rollback |  |  |  |  |
E0977 | Y |  | Wheelchair wedge cushion |  |  |  |  |
E0978 | B |  | W/C acc,saf belt pelv strap |  |  |  |  |
E0980 | Y |  | Wheelchair safety vest |  |  |  |  |
E0981 | Y |  | Seat upholstery, replacement |  |  |  |  |
E0982 | Y |  | Back upholstery, replacement |  |  |  |  |
E0983 | Y |  | Add pwr joystick |  |  |  |  |
E0984 | Y |  | Add pwr tiller |  |  |  |  |
E0985 | Y |  | W/c seat lift mechanism |  |  |  |  |
E0986 | Y |  | Man w/c push-rim pow assist |  |  |  |  |
E0990 | B |  | Whellchair elevating leg res |  |  |  |  |
E0992 | B |  | Wheelchair solid seat insert |  |  |  |  |
E0994 | Y |  | Wheelchair arm rest |  |  |  |  |
E0995 | B |  | Wheelchair calf rest |  |  |  |  |
E0996 | B |  | Wheelchair tire solid |  |  |  |  |
E0997 | Y |  | Wheelchair caster w/ a fork |  |  |  |  |
E0998 | Y |  | Wheelchair caster w/o a fork |  |  |  |  |
E0999 | Y |  | Wheelchr pneumatic tire w/wh |  |  |  |  |
E1000 | B |  | Wheelchair tire pneumatic ca |  |  |  |  |
E1001 | Y |  | Wheelchair wheel |  |  |  |  |
E1002 | Y |  | Pwr seat tilt |  |  |  |  |
E1003 | Y |  | Pwr seat recline |  |  |  |  |
E1004 | Y |  | Pwr seat recline mech |  |  |  |  |
E1005 | Y |  | Pwr seat recline pwr |  |  |  |  |
E1006 | Y |  | Pwr seat combo w/o shear |  |  |  |  |
E1007 | Y |  | Pwr seat combo w/shear |  |  |  |  |
E1008 | Y |  | Pwr seat combo pwr shear |  |  |  |  |
E1009 | Y |  | Add mech leg elevation |  |  |  |  |
E1010 | Y |  | Add pwr leg elevation |  |  |  |  |
E1011 | Y |  | Ped wc modify width adjustm |  |  |  |  |
E1014 | Y |  | Reclining back add ped w/c |  |  |  |  |
E1015 | Y |  | Shock absorber for man w/c |  |  |  |  |
E1016 | Y |  | Shock absorber for power w/c |  |  |  |  |
E1017 | Y |  | HD shck absrbr for hd man wc |  |  |  |  |
E1018 | Y |  | HD shck absrber for hd powwc |  |  |  |  |
E1019 | E |  | HD feature power seat |  |  |  |  |
E1020 | Y |  | Residual limb support system |  |  |  |  |
E1021 | E |  | Ex hd feature power seat |  |  |  |  |
E1025 | E |  | Pedwc lat/thor sup nocontour |  |  |  |  |
E1026 | E |  | Pedwc contoured lat/thor sup |  |  |  |  |
E1027 | E |  | Ped wc lat/ant support |  |  |  |  |
E1028 | Y |  | W/c manual swingaway |  |  |  |  |
E1029 | Y |  | W/c vent tray fixed |  |  |  |  |
E1030 | Y |  | W/c vent tray gimbaled |  |  |  |  |
E1031 | Y |  | Rollabout chair with casters |  |  |  |  |
E1035 | Y |  | Patient transfer system |  |  |  |  |
E1037 | Y |  | Transport chair, ped size |  |  |  |  |
E1038 | Y |  | Transport chair, adult size |  |  |  |  |
E1039 | Y |  | Transport chair pt wt>=250lb |  |  |  |  |
E1050 | A |  | Whelchr fxd full length arms |  |  |  |  |
E1060 | A |  | Wheelchair detachable arms |  |  |  |  |
E1070 | A |  | Wheelchair detachable foot r |  |  |  |  |
E1083 | A |  | Hemi-wheelchair fixed arms |  |  |  |  |
E1084 | A |  | Hemi-wheelchair detachable a |  |  |  |  |
E1085 | A |  | Hemi-wheelchair fixed arms |  |  |  |  |
E1086 | A |  | Hemi-wheelchair detachable a |  |  |  |  |
E1087 | A |  | Wheelchair lightwt fixed arm |  |  |  |  |
E1088 | A |  | Wheelchair lightweight det a |  |  |  |  |
E1089 | A |  | Wheelchair lightwt fixed arm |  |  |  |  |
E1090 | A |  | Wheelchair lightweight det a |  |  |  |  |
E1092 | A |  | Wheelchair wide w/ leg rests |  |  |  |  |
E1093 | A |  | Wheelchair wide w/ foot rest |  |  |  |  |
E1100 | A |  | Whchr s-recl fxd arm leg res |  |  |  |  |
E1110 | A |  | Wheelchair semi-recl detach |  |  |  |  |
E1130 | A |  | Whlchr stand fxd arm ft rest |  |  |  |  |
E1140 | A |  | Wheelchair standard detach a |  |  |  |  |
E1150 | Y |  | Wheelchair standard w/ leg r |  |  |  |  |
E1160 | A |  | Wheelchair fixed arms |  |  |  |  |
E1161 | A |  | Manual adult wc w tiltinspac |  |  |  |  |
E1170 | A |  | Whlchr ampu fxd arm leg rest |  |  |  |  |
E1171 | A |  | Wheelchair amputee w/o leg r |  |  |  |  |
E1172 | A |  | Wheelchair amputee detach ar |  |  |  |  |
E1180 | A |  | Wheelchair amputee w/ foot r |  |  |  |  |
E1190 | A |  | Wheelchair amputee w/ leg re |  |  |  |  |
E1195 | A |  | Wheelchair amputee heavy dut |  |  |  |  |
E1200 | A |  | Wheelchair amputee fixed arm |  |  |  |  |
E1210 | Y |  | Whlchr moto ful arm leg rest |  |  |  |  |
E1211 | Y |  | Wheelchair motorized w/ det |  |  |  |  |
E1212 | A |  | Wheelchair motorized w full |  |  |  |  |
E1213 | A |  | Wheelchair motorized w/ det |  |  |  |  |
E1220 | A |  | Whlchr special size/constrc |  |  |  |  |
E1221 | A |  | Wheelchair spec size w foot |  |  |  |  |
E1222 | A |  | Wheelchair spec size w/ leg |  |  |  |  |
E1223 | A |  | Wheelchair spec size w foot |  |  |  |  |
E1224 | A |  | Wheelchair spec size w/ leg |  |  |  |  |
E1225 | Y |  | Wheelchair spec sz semi-recl |  |  |  |  |
E1226 | B |  | W/C access fully reclineback |  |  |  |  |
E1227 | Y |  | Wheelchair spec sz spec ht a |  |  |  |  |
E1228 | Y |  | Wheelchair spec sz spec ht b |  |  |  |  |
E1229 | Y |  | Pediatric wheelchair NOS |  |  |  |  |
E1230 | Y |  | Power operated vehicle |  |  |  |  |
E1231 | Y |  | Rigid ped w/c tilt-in-space |  |  |  |  |
E1232 | Y |  | Folding ped wc tilt-in-space |  |  |  |  |
E1233 | Y |  | Rig ped wc tltnspc w/o seat |  |  |  |  |
E1234 | Y |  | Fld ped wc tltnspc w/o seat |  |  |  |  |
E1235 | Y |  | Rigid ped wc adjustable |  |  |  |  |
E1236 | Y |  | Folding ped wc adjustable |  |  |  |  |
E1237 | Y |  | Rgd ped wc adjstabl w/o seat |  |  |  |  |
E1238 | Y |  | Fld ped wc adjstabl w/o seat |  |  |  |  |
E1239 | Y |  | Ped power wheelchair NOS |  |  |  |  |
E1240 | A |  | Whchr litwt det arm leg rest |  |  |  |  |
E1250 | A |  | Wheelchair lightwt fixed arm |  |  |  |  |
E1260 | A |  | Wheelchair lightwt foot rest |  |  |  |  |
E1270 | A |  | Wheelchair lightweight leg r |  |  |  |  |
E1280 | A |  | Whchr h-duty det arm leg res |  |  |  |  |
E1285 | A |  | Wheelchair heavy duty fixed |  |  |  |  |
E1290 | A |  | Wheelchair hvy duty detach a |  |  |  |  |
E1295 | A |  | Wheelchair heavy duty fixed |  |  |  |  |
E1296 | Y |  | Wheelchair special seat heig |  |  |  |  |
E1297 | Y |  | Wheelchair special seat dept |  |  |  |  |
E1298 | Y |  | Wheelchair spec seat depth/w |  |  |  |  |
E1300 | E |  | Whirlpool portable |  |  |  |  |
E1310 | Y |  | Whirlpool non-portable |  |  |  |  |
E1340 | Y |  | Repair for DME, per 15 min |  |  |  |  |
E1353 | Y |  | Oxygen supplies regulator |  |  |  |  |
E1355 | Y |  | Oxygen supplies stand/rack |  |  |  |  |
E1372 | Y |  | Oxy suppl heater for nebuliz |  |  |  |  |
E1390 | Y |  | Oxygen concentrator |  |  |  |  |
E1391 | Y |  | Oxygen concentrator, dual |  |  |  |  |
E1399 | N |  | Durable medical equipment mi |  |  |  |  |
E1405 | Y |  | O2/water vapor enrich w/heat |  |  |  |  |
E1406 | Y |  | O2/water vapor enrich w/o he |  |  |  |  |
E1500 | A |  | Centrifuge |  |  |  |  |
E1510 | A |  | Kidney dialysate delivry sys |  |  |  |  |
E1520 | A |  | Heparin infusion pump |  |  |  |  |
E1530 | A |  | Replacement air bubble detec |  |  |  |  |
E1540 | A |  | Replacement pressure alarm |  |  |  |  |
E1550 | A |  | Bath conductivity meter |  |  |  |  |
E1560 | A |  | Replace blood leak detector |  |  |  |  |
E1570 | A |  | Adjustable chair for esrd pt |  |  |  |  |
E1575 | A |  | Transducer protect/fld bar |  |  |  |  |
E1580 | A |  | Unipuncture control system |  |  |  |  |
E1590 | A |  | Hemodialysis machine |  |  |  |  |
E1592 | A |  | Auto interm peritoneal dialy |  |  |  |  |
E1594 | A |  | Cycler dialysis machine |  |  |  |  |
E1600 | A |  | Deli/install chrg hemo equip |  |  |  |  |
E1610 | A |  | Reverse osmosis h2o puri sys |  |  |  |  |
E1615 | A |  | Deionizer H2O puri system |  |  |  |  |
E1620 | A |  | Replacement blood pump |  |  |  |  |
E1625 | A |  | Water softening system |  |  |  |  |
E1630 | A |  | Reciprocating peritoneal dia |  |  |  |  |
E1632 | A |  | Wearable artificial kidney |  |  |  |  |
E1634 | B |  | Peritoneal dialysis clamp |  |  |  |  |
E1635 | A |  | Compact travel hemodialyzer |  |  |  |  |
E1636 | A |  | Sorbent cartridges per 10 |  |  |  |  |
E1637 | A |  | Hemostats for dialysis, each |  |  |  |  |
E1639 | A |  | Dialysis scale |  |  |  |  |
E1699 | A |  | Dialysis equipment noc |  |  |  |  |
E1700 | Y |  | Jaw motion rehab system |  |  |  |  |
E1701 | Y |  | Repl cushions for jaw motion |  |  |  |  |
E1702 | Y |  | Repl measr scales jaw motion |  |  |  |  |
E1800 | Y |  | Adjust elbow ext/flex device |  |  |  |  |
E1801 | Y |  | SPS elbow device |  |  |  |  |
E1802 | Y |  | Adjst forearm pro/sup device |  |  |  |  |
E1805 | Y |  | Adjust wrist ext/flex device |  |  |  |  |
E1806 | Y |  | SPS wrist device |  |  |  |  |
E1810 | Y |  | Adjust knee ext/flex device |  |  |  |  |
E1811 | Y |  | SPS knee device |  |  |  |  |
E1815 | Y |  | Adjust ankle ext/flex device |  |  |  |  |
E1816 | Y |  | SPS ankle device |  |  |  |  |
E1818 | Y |  | SPS forearm device |  |  |  |  |
E1820 | Y |  | Soft interface material |  |  |  |  |
E1821 | Y |  | Replacement interface SPSD |  |  |  |  |
E1825 | Y |  | Adjust finger ext/flex devc |  |  |  |  |
E1830 | Y |  | Adjust toe ext/flex device |  |  |  |  |
E1840 | Y |  | Adj shoulder ext/flex device |  |  |  |  |
E1841 | Y |  | Static str shldr dev rom adj |  |  |  |  |
E1902 | A |  | AAC non-electronic board |  |  |  |  |
E2000 | Y |  | Gastric suction pump hme mdl |  |  |  |  |
E2100 | Y |  | Bld glucose monitor w voice |  |  |  |  |
E2101 | Y |  | Bld glucose monitor w lance |  |  |  |  |
E2120 | Y |  | Pulse gen sys tx endolymp fl |  |  |  |  |
E2201 | Y |  | Man w/ch acc seat w>=20÷<24÷ |  |  |  |  |
E2202 | Y |  | Seat width 24-27 in |  |  |  |  |
E2203 | Y |  | Frame depth less than 22 in |  |  |  |  |
E2204 | Y |  | Frame depth 22 to 25 in |  |  |  |  |
E2205 | Y |  | Manual wc accessory, handrim |  |  |  |  |
E2206 | Y |  | Complete wheel lock assembly |  |  |  |  |
E2291 | E |  | Planar back for ped size wc |  |  |  |  |
E2292 | E |  | Planar seat for ped size wc |  |  |  |  |
E2293 | E |  | Contour back for ped size wc |  |  |  |  |
E2294 | E |  | Contour seat for ped size wc |  |  |  |  |
E2300 | Y |  | Pwr seat elevation sys |  |  |  |  |
E2301 | Y |  | Pwr standing |  |  |  |  |
E2310 | Y |  | Electro connect btw control |  |  |  |  |
E2311 | Y |  | Electro connect btw 2 sys |  |  |  |  |
E2320 | Y |  | Hand chin control |  |  |  |  |
E2321 | Y |  | Hand interface joystick |  |  |  |  |
E2322 | Y |  | Mult mech switches |  |  |  |  |
E2323 | Y |  | Special joystick handle |  |  |  |  |
E2324 | Y |  | Chin cup interface |  |  |  |  |
E2325 | Y |  | Sip and puff interface |  |  |  |  |
E2326 | Y |  | Breath tube kit |  |  |  |  |
E2327 | Y |  | Head control interface mech |  |  |  |  |
E2328 | Y |  | Head/extremity control inter |  |  |  |  |
E2329 | Y |  | Head control nonproportional |  |  |  |  |
E2330 | Y |  | Head control proximity switc |  |  |  |  |
E2331 | Y |  | Attendant control |  |  |  |  |
E2340 | Y |  | W/c wdth 20-23 in seat frame |  |  |  |  |
E2341 | Y |  | W/c wdth 24-27 in seat frame |  |  |  |  |
E2342 | Y |  | W/c dpth 20-21 in seat frame |  |  |  |  |
E2343 | Y |  | W/c dpth 22-25 in seat frame |  |  |  |  |
E2351 | Y |  | Electronic SGD interface |  |  |  |  |
E2360 | Y |  | 22nf nonsealed leadacid |  |  |  |  |
E2361 | Y |  | 22nf sealed leadacid battery |  |  |  |  |
E2362 | Y |  | Gr24 nonsealed leadacid |  |  |  |  |
E2363 | Y |  | Gr24 sealed leadacid battery |  |  |  |  |
E2364 | Y |  | U1nonsealed leadacid battery |  |  |  |  |
E2365 | Y |  | U1 sealed leadacid battery |  |  |  |  |
E2366 | Y |  | Battery charger, single mode |  |  |  |  |
E2367 | Y |  | Battery charger, dual mode |  |  |  |  |
E2368 | Y |  | Power wc motor replacement |  |  |  |  |
E2369 | Y |  | Pwr wc gear box replacement |  |  |  |  |
E2370 | Y |  | Pwr wc motor/gear box combo |  |  |  |  |
E2399 | Y |  | Noc interface |  |  |  |  |
E2402 | Y |  | Neg press wound therapy pump |  |  |  |  |
E2500 | Y |  | SGD digitized pre-rec <=8min |  |  |  |  |
E2502 | Y |  | SGD prerec msg >8min <=20min |  |  |  |  |
E2504 | Y |  | SGD prerec msg>20min <=40min |  |  |  |  |
E2506 | Y |  | SGD prerec msg > 40 min |  |  |  |  |
E2508 | Y |  | SGD spelling phys contact |  |  |  |  |
E2510 | Y |  | SGD w multi methods msg/accs |  |  |  |  |
E2511 | Y |  | SGD sftwre prgrm for PC/PDA |  |  |  |  |
E2512 | Y |  | SGD accessory, mounting sys |  |  |  |  |
E2599 | Y |  | SGD accessory noc |  |  |  |  |
E2601 | Y |  | Gen w/c cushion wdth < 22 in |  |  |  |  |
E2602 | Y |  | Gen w/c cushion wdth >=22 in |  |  |  |  |
E2603 | Y |  | Skin protect wc cus wd <22in |  |  |  |  |
E2604 | Y |  | Skin protect wc cus wd>=22in |  |  |  |  |
E2605 | Y |  | Position wc cush wdth <22 in |  |  |  |  |
E2606 | Y |  | Position wc cush wdth>=22 in |  |  |  |  |
E2607 | Y |  | Skin pro/pos wc cus wd <22in |  |  |  |  |
E2608 | Y |  | Skin pro/pos wc cus wd>=22in |  |  |  |  |
E2609 | Y |  | Custom fabricate w/c cushion |  |  |  |  |
E2610 | B |  | Powered w/c cushion |  |  |  |  |
E2611 | Y |  | Gen use back cush wdth <22in |  |  |  |  |
E2612 | Y |  | Gen use back cush wdth>=22in |  |  |  |  |
E2613 | Y |  | Position back cush wd <22in |  |  |  |  |
E2614 | Y |  | Position back cush wd>=22in |  |  |  |  |
E2615 | Y |  | Pos back post/lat wdth <22in |  |  |  |  |
E2616 | Y |  | Pos back post/lat wdth>=22in |  |  |  |  |
E2617 | Y |  | Custom fab w/c back cushion |  |  |  |  |
E2618 | Y |  | Wc acc solid seat supp base |  |  |  |  |
E2619 | Y |  | Replace cover w/c seat cush |  |  |  |  |
E2620 | Y |  | WC planar back cush wd <22in |  |  |  |  |
E2621 | Y |  | WC planar back cush wd>=22in |  |  |  |  |
E8000 | E |  | Posterior gait trainer |  |  |  |  |
E8001 | E |  | Upright gait trainer |  |  |  |  |
E8002 | E |  | Anterior gait trainer |  |  |  |  |
G0008 | X |  | Admin influenza virus vac | 0350 | 0.3954 | $23.46 | $0.00 | $0.00
G0009 | X |  | Admin pneumococcal vaccine | 0350 | 0.3954 | $23.46 | $0.00 | $0.00
G0010 | B |  | Admin hepatitis b vaccine |  |  |  |  |
G0027 | A |  | Semen analysis |  |  |  |  |
G0101 | V |  | CA screen pelvic/breast exam | 0600 | 0.8688 | $51.56 |  | $10.31
G0102 | N |  | Prostate ca screening dre |  |  |  |  |
G0103 | A |  | Psa, total screening |  |  |  |  |
G0104 | S |  | CA screen flexi sigmoidscope | 0159 | 3.1455 | $186.66 |  | $46.67
G0105 | T |  | Colorectal scrn hi risk ind | 0158 | 7.6588 | $454.50 |  | $113.63
G0106 | S |  | Colon CA screen barium enema | 0157 | 2.2904 | $135.92 |  | $27.18
G0107 | A |  | CA screen fecal blood test |  |  |  |  |
G0108 | A |  | Diab manage trn per indiv |  |  |  |  |
G0109 | A |  | Diab manage trn ind/group |  |  |  |  |
G0110 | A |  | Nett pulm-rehab educ ind |  |  |  |  |
G0111 | A |  | Nett pulm-rehab educ group |  |  |  |  |
G0112 | A |  | Nett nutrition guid, initial |  |  |  |  |
G0113 | A |  | Nett nutrition guid,subseqnt |  |  |  |  |
G0114 | A |  | Nett psychosocial consult |  |  |  |  |
G0115 | A |  | Nett psychological testing |  |  |  |  |
G0116 | A |  | Nett psychosocial counsel |  |  |  |  |
G0117 | S |  | Glaucoma scrn hgh risk direc | 0230 | 0.7858 | $46.63 | $14.97 | $9.33
G0118 | S |  | Glaucoma scrn hgh risk direc | 0230 | 0.7858 | $46.63 | $14.97 | $9.33
G0120 | S |  | Colon ca scrn barium enema | 0157 | 2.2904 | $135.92 |  | $27.18
G0121 | T |  | Colon ca scrn not hi rsk ind | 0158 | 7.6588 | $454.50 |  | $113.63
G0122 | E |  | Colon ca scrn barium enema |  |  |  |  |
G0123 | A |  | Screen cerv/vag thin layer |  |  |  |  |
G0124 | A |  | Screen c/v thin layer by MD |  |  |  |  |
G0127 | T |  | Trim nail(s) | 0009 | 0.668 | $39.64 | $8.34 | $7.93
G0128 | B |  | CORF skilled nursing service |  |  |  |  |
G0129 | P |  | Partial hosp prog service | 0033 | 4.0708 | $241.57 |  | $48.31
G0130 | X |  | Single energy x-ray study | 0260 | 0.7555 | $44.83 | $17.93 | $8.97
G0141 | E |  | Scr c/v cyto,autosys and md |  |  |  |  |
G0143 | A |  | Scr c/v cyto,thinlayer,rescr |  |  |  |  |
G0144 | A |  | Scr c/v cyto,thinlayer,rescr |  |  |  |  |
G0145 | A |  | Scr c/v cyto,thinlayer,rescr |  |  |  |  |
G0147 | A |  | Scr c/v cyto, automated sys |  |  |  |  |
G0148 | A |  | Scr c/v cyto, autosys, rescr |  |  |  |  |
G0151 | B |  | HHCP-serv of pt,ea 15 min |  |  |  |  |
G0152 | B |  | HHCP-serv of ot,ea 15 min |  |  |  |  |
G0153 | B |  | HHCP-svs of s/l path,ea 15mn |  |  |  |  |
G0154 | B |  | HHCP-svs of rn,ea 15 min |  |  |  |  |
G0155 | B |  | HHCP-svs of csw,ea 15 min |  |  |  |  |
G0156 | B |  | HHCP-svs of aide,ea 15 min |  |  |  |  |
G0166 | T |  | Extrnl counterpulse, per tx | 0678 | 1.7276 | $102.52 |  | $20.50
G0168 | N |  | Wound closure by adhesive |  |  |  |  |
G0173 | S |  | Linear acc stereo radsur com | 1528 |  | $5,250.00 |  | $1,050.00
G0175 | V |  | OPPS Service,sched team conf | 0602 | 1.4284 | $84.77 |  | $16.95
G0176 | P |  | OPPS/PHP activity therapy | 0033 | 4.0708 | $241.57 |  | $48.31
G0177 | P |  | OPPS/PHP train & educ serv | 0033 | 4.0708 | $241.57 |  | $48.31
G0179 | E |  | MD recertification HHA PT |  |  |  |  |
G0180 | E |  | MD certification HHA patient |  |  |  |  |
G0181 | E |  | Home health care supervision |  |  |  |  |
G0182 | E |  | Hospice care supervision |  |  |  |  |
G0186 | T |  | Dstry eye lesn,fdr vssl tech | 0235 | 4.6593 | $276.50 | $67.40 | $55.30
G0202 | A |  | Screeningmammographydigital |  |  |  |  |
G0204 | A |  | Diagnosticmammographydigital |  |  |  |  |
G0206 | A |  | Diagnosticmammographydigital |  |  |  |  |
G0219 | E |  | PET img whbd ring noncov ind |  |  |  |  |
G0235 | E |  | PET not otherwise specified |  |  |  |  |
G0237 | S |  | Therapeutic procd strg endur | 0411 | 0.3869 | $22.96 |  | $4.59
G0238 | S |  | Oth resp proc, indiv | 0411 | 0.3869 | $22.96 |  | $4.59
G0239 | S |  | Oth resp proc, group | 0411 | 0.3869 | $22.96 |  | $4.59
G0243 | S |  | Multisour photon stero treat | 1528 |  | $5,250.00 |  | $1,050.00
G0244 | B |  | Observ care by facility topt |  |  |  |  |
G0245 | V |  | Initial Foot Exam PTLOPS | 0600 | 0.8688 | $51.56 |  | $10.31
G0246 | V |  | Followup eval of foot pt lop | 0600 | 0.8688 | $51.56 |  | $10.31
G0247 | T |  | Routine footcare pt w lops | 0009 | 0.668 | $39.64 | $8.34 | $7.93
G0248 | S |  | Demonstrate use home inr mon | 1503 |  | $150.00 |  | $30.00
G0249 | S |  | Provide test material,equipm | 1503 |  | $150.00 |  | $30.00
G0250 | E |  | MD review interpret of test |  |  |  |  |
G0251 | S |  | Linear acc based stero radio | 1513 |  | $1,150.00 |  | $230.00
G0252 | E |  | PET imaging initial dx |  |  |  |  |
G0255 | E |  | Current percep threshold tst |  |  |  |  |
G0257 | S |  | Unsched dialysis ESRD pt hos | 0170 | 5.8994 | $350.09 |  | $70.02
G0258 | X |  | IV infusion during obs stay | 0340 | 0.6384 | $37.88 |  | $7.58
G0259 | N |  | Inject for sacroiliac joint |  |  |  |  |
G0260 | T |  | Inj for sacroiliac jt anesth | 0206 | 5.492 | $325.91 | $75.55 | $65.18
G0263 | B |  | Adm with CHF, CP, asthma |  |  |  |  |
G0264 | B |  | Assmt otr CHF, CP, asthma |  |  |  |  |
G0265 | A |  | Cryopresevation Freeze+stora |  |  |  |  |
G0266 | A |  | Thawing + expansion froz cel |  |  |  |  |
G0267 | S |  | Bone marrow or psc harvest | 0110 | 3.6594 | $217.16 |  | $43.43
G0268 | X |  | Removal of impacted wax md | 0340 | 0.6384 | $37.88 |  | $7.58
G0269 | N |  | Occlusive device in vein art |  |  |  |  |
G0270 | A |  | MNT subs tx for change dx |  |  |  |  |
G0271 | A |  | Group MNT 2 or more 30 mins |  |  |  |  |
G0275 | N |  | Renal angio, cardiac cath |  |  |  |  |
G0278 | N |  | Iliac art angio,cardiac cath |  |  |  |  |
G0279 | A |  | Excorp shock tx, elbow epi |  |  |  |  |
G0280 | A |  | Excorp shock tx other than |  |  |  |  |
G0281 | A |  | Elec stim unattend for press |  |  |  |  |
G0282 | E |  | Elect stim wound care not pd |  |  |  |  |
G0283 | A |  | Elec stim other than wound |  |  |  |  |
G0288 | S |  | Recon, CTA for pre & post su | 0417 | 4.075 | $241.82 |  | $48.36
G0289 | N |  | Arthro, loose body + chondro |  |  |  |  |
G0290 | T |  | Drug-eluting stents, single | 0656 | 109.9237 | $6,523.20 |  | $1,304.64
G0291 | T |  | Drug-eluting stents,each add | 0656 | 109.9237 | $6,523.20 |  | $1,304.64
G0293 | S |  | Non-cov surg proc,clin trial | 1505 |  | $350.00 |  | $70.00
G0294 | S |  | Non-cov proc, clinical trial | 1502 |  | $75.00 |  | $15.00
G0295 | E |  | Electromagnetic therapy onc |  |  |  |  |
G0297 | T |  | Insert single chamber/cd | 0107 | 260.0295 | $15,430.93 | $3,103.22 | $3,086.19
G0298 | T |  | Insert dual chamber/cd | 0107 | 260.0295 | $15,430.93 | $3,103.22 | $3,086.19
G0299 | T |  | Inser/repos single icd+leads | 0108 | 349.1681 | $20,720.68 |  | $4,144.14
G0300 | T |  | Insert reposit lead dual+gen | 0108 | 349.1681 | $20,720.68 |  | $4,144.14
G0302 | S |  | Pre-op service LVRS complete | 1509 |  | $750.00 |  | $150.00
G0303 | S |  | Pre-op service LVRS 10-15dos | 507 |  | $550.00 |  | $110.00
G0304 | S |  | Pre-op service LVRS 1-9 dos | 1504 |  | $250.00 |  | $50.00
G0305 | S |  | Post op service LVRS min 6 | 1504 |  | $250.00 |  | $50.00
G0306 | A |  | CBC/diffwbc w/o platelet |  |  |  |  |
G0307 | A |  | CBC without platelet |  |  |  |  |
G0308 | A |  | ESRD related svc 4+mo<2yrs |  |  |  |  |
G0309 | A |  | ESRD related svc 2-3mo<2yrs |  |  |  |  |
G0310 | A |  | ESRD related svc 1vst<2yr |  |  |  |  |
G0311 | A |  | ESRD related svs 4+mo 2-11yr |  |  |  |  |
G0312 | A |  | ESRD relate svs 2-3 mo 2-11y |  |  |  |  |
G0313 | A |  | ESRD related svs 1 mon 2-11y |  |  |  |  |
G0314 | A |  | ESRD relate svs 4+mo 12-19 |  |  |  |  |
G0315 | A |  | ESRD related svs 2-3 mo 12-1 |  |  |  |  |
G0316 | A |  | ESRD related svs 1 vis/12-19 |  |  |  |  |
G0317 | A |  | ESRD related svs 4+mo 20+yrs |  |  |  |  |
G0318 | A |  | ESRD related svs 2-3 mo 20+y |  |  |  |  |
G0319 | A |  | ESRD related svs 1visit 20+y |  |  |  |  |
G0320 | A |  | ESRD related svs home under |  |  |  |  |
G0321 | A |  | ESRDrelatedsvs home mo 2-11y |  |  |  |  |
G0322 | A |  | ESRD related svs home mo 12-1 |  |  |  |  |
G0323 | A |  | ESRD related svs home mo 20+ |  |  |  |  |
G0324 | A |  | ESRD related svs home/dy/2y |  |  |  |  |
G0325 | A |  | ESRD relate home/dy 2-11yr |  |  |  |  |
G0326 | A |  | ESRD relate home/dy 12-19y |  |  |  |  |
G0327 | A |  | ESRD relate home/dy 20+yrs |  |  |  |  |
G0328 | A |  | Fecal blood scrn immunoassay |  |  |  |  |
G0329 | A |  | Electromagntic tx for ulcers |  |  |  |  |
G0337 | A |  | Hospice evaluation preelecti |  |  |  |  |
G0339 | S |  | Robot lin-radsurg com, first | 1528 |  | $5,250.00 |  | $1,050.00
G0340 | S |  | Robt lin-radsurg fractx 2-5 | 1525 |  | $3,750.00 |  | $750.00
G0341 | C |  | Percutaneous islet celltrans |  |  |  |  |
G0342 | C |  | Laparoscopy Islet cell Trans |  |  |  |  |
G0343 | C |  | Laparotomy Islet cell tranp |  |  |  |  |
G0344 | V |  | Initial preventive exam | 0601 | 1.0038 | $59.57 |  | $11.91
G0345 | M |  | IV infuse hydration initial |  |  |  |  |
G0346 | M |  | Each additional infuse hours |  |  |  |  |
G0347 | M |  | IV infusion therapy/diagnost |  |  |  |  |
G0348 | M |  | each additional hr up to 8hr |  |  |  |  |
G0349 | M |  | additional sequential infuse |  |  |  |  |
G0350 | M |  | concurrent infusion |  |  |  |  |
G0351 | M |  | therapeutic/diagnostic injec |  |  |  |  |
G0353 | M |  | IV push,single orinitial dru |  |  |  |  |
G0354 | M |  | each addition sequential IV |  |  |  |  |
G0355 | M |  | chemo administrate subcut/IM |  |  |  |  |
G0356 | M |  | hormonal anti-neoplastic |  |  |  |  |
G0357 | M |  | IV push single/initial subst |  |  |  |  |
G0358 | M |  | IV push each additional drug |  |  |  |  |
G0359 | M |  | chemotherapy IV one hr initi |  |  |  |  |
G0360 | M |  | each additional hr 1-8 hrs |  |  |  |  |
G0361 | M |  | prolong chemo Infuse>8hrs pu |  |  |  |  |
G0362 | M |  | each add sequential infusion |  |  |  |  |
G0363 | M |  | irrigate implanted venous de |  |  |  |  |
G0364 | X |  | Bone marrow aspirate & biops | 0342 | 0.156 | $9.26 | $3.70 | $1.85
G0365 | S |  | Vessel mapping hemo access | 0267 | 2.6327 | $156.23 | $62.18 | $31.25
G0366 | B |  | EKG for initial prevent exam |  |  |  |  |
G0367 | S |  | EKG tracing for initial prev | 0099 | 0.3821 | $22.67 |  | $4.53
G0368 | M |  | EKG interpret & report preve |  |  |  |  |
G0369 | M |  | Pharm fee 1st month transpla |  |  |  |  |
G0370 | M |  | Pharmacy fee oral cancer etc |  |  |  |  |
G0371 | M |  | Pharm dispense inhalation 30 |  |  |  |  |
G0374 | M |  | Pharm dispense inhalation 90 |  |  |  |  |
G0375 | S |  | Smoke/Tobacco counseling 3-1 | 1491 |  | $5.00 |  | $1.00
G0376 | S |  | Smoke/Tobacco counseling >10 | 1491 |  | $5.00 |  | $1.00
G3001 | S |  | Admin + supply, tositumomab | 1522 |  | $2,250.00 |  | $450.00
G9001 | B |  | MCCD, initial rate |  |  |  |  |
G9002 | B |  | MCCD,maintenance rate |  |  |  |  |
G9003 | B |  | MCCD, risk adj hi, initial |  |  |  |  |
G9004 | B |  | MCCD, risk adj lo, initial |  |  |  |  |
G9005 | B |  | MCCD, risk adj, maintenance |  |  |  |  |
G9006 | B |  | MCCD, Home monitoring |  |  |  |  |
G9007 | B |  | MCCD, sch team conf |  |  |  |  |
G9008 | B |  | Mccd,phys coor-care ovrsght |  |  |  |  |
G9009 | E |  | MCCD, risk adj, level 3 |  |  |  |  |
G9010 | E |  | MCCD, risk adj, level 4 |  |  |  |  |
G9011 | E |  | MCCD, risk adj, level 5 |  |  |  |  |
G9012 | E |  | Other Specified Case Mgmt |  |  |  |  |
G9013 | E |  | ESRD demo bundle level I |  |  |  |  |
G9014 | E |  | ESRD demo bundle-level II |  |  |  |  |
G9016 | E |  | Demo-smoking cessation coun |  |  |  |  |
G9017 | A |  | Amantadine HCL,oral |  |  |  |  |
G9018 | A |  | Zanamivir, inh pwdr |  |  |  |  |
G9019 | A |  | Oseltamivir phosp |  |  |  |  |
G9020 | A |  | Rimantadine HCL |  |  |  |  |
G9021 | M |  | Chemo assess nausea vomit L1 |  |  |  |  |
G9022 | M |  | Chemo assess nausea vomit L2 |  |  |  |  |
G9023 | M |  | Chemo assess nausea vomit L3 |  |  |  |  |
G9024 | M |  | Chemo assess nausea vomit L4 |  |  |  |  |
G9025 | M |  | Chemo assessment pain level1 |  |  |  |  |
G9026 | M |  | Chemo assessment pain level2 |  |  |  |  |
G9027 | M |  | Chemo assessment pain level3 |  |  |  |  |
G9028 | M |  | Chemo assessment pain level4 |  |  |  |  |
G9029 | M |  | Chemo assess for fatigue L1 |  |  |  |  |
G9030 | M |  | Chemo assess for fatigue L2 |  |  |  |  |
G9031 | M |  | Chemo assess for fatigue L3 |  |  |  |  |
G9032 | M |  | Chemo assess for fatigue L4 |  |  |  |  |
G9033 | A |  | Amantadine HCL, oral, brand |  |  |  |  |
G9034 | A |  | Zanamivir, inh pwdr, brand |  |  |  |  |
G9035 | A |  | Oseltamivir phosp, brand |  |  |  |  |
G9036 | A |  | Rimantadine HCL, brand |  |  |  |  |
G9041 | A |  | Low vision serv occupational |  |  |  |  |
G9042 | A |  | Low vision orient/mobility |  |  |  |  |
G9043 | A |  | Low vision rehab therapist |  |  |  |  |
G9044 | A |  | Low vision rehab teacher |  |  |  |  |
J0120 | N |  | Tetracyclin injection |  |  |  |  |
J0128 | G |  | Abarelix injection | 9216 |  | $66.96 |  | $13.39
J0130 | K |  | Abciximab injection | 1605 |  | $450.60 |  | $90.12
J0135 | K |  | Adalimumab injection | 1083 |  | $300.10 |  | $60.02
J0150 | K |  | Injection adenosine 6 MG | 0379 |  | $33.45 |  | $6.69
J0152 | K |  | Adenosine injection | 0917 |  | $71.53 |  | $14.31
J0170 | N |  | Adrenalin epinephrin inject |  |  |  |  |
J0180 | K |  | Agalsidase beta injection | 9208 |  | $123.35 |  | $24.67
J0190 | N |  | Inj biperiden lactate/5 mg |  |  |  |  |
J0200 | N |  | Alatrofloxacin mesylate |  |  |  |  |
J0205 | K |  | Alglucerase injection | 0900 |  | $39.94 |  | $7.99
J0207 | K |  | Amifostine | 7000 |  | $436.01 |  | $87.20
J0210 | K |  | Methyldopate hcl injection | 2210 |  | $9.58 |  | $1.92
J0215 | B |  | Alefacept |  |  |  |  |
J0256 | K |  | Alpha 1 proteinase inhibitor | 0901 |  | $3.30 |  | $0.66
J0270 | B |  | Alprostadil for injection |  |  |  |  |
J0275 | B |  | Alprostadil urethral suppos |  |  |  |  |
J0280 | N |  | Aminophyllin 250 MG inj |  |  |  |  |
J0282 | N |  | Amiodarone HCl |  |  |  |  |
J0285 | K |  | Amphotericin B | 9030 |  | $30.70 |  | $6.14
J0287 | K |  | Amphotericin b lipid complex | 9024 |  | $11.95 |  | $2.39
J0288 | K |  | Ampho b cholesteryl sulfate | 0735 |  | $12.24 |  | $2.45
J0289 | K |  | Amphotericin b liposome inj | 0736 |  | $21.91 |  | $4.38
J0290 | N |  | Ampicillin 500 MG inj |  |  |  |  |
J0295 | N |  | Ampicillin sodium per 1.5 gm |  |  |  |  |
J0300 | N |  | Amobarbital 125 MG inj |  |  |  |  |
J0330 | N |  | Succinycholine chloride inj |  |  |  |  |
J0350 | N |  | Injection anistreplase 30 u |  |  |  |  |
J0360 | N |  | Hydralazine hcl injection |  |  |  |  |
J0380 | N |  | Inj metaraminol bitartrate |  |  |  |  |
J0390 | N |  | Chloroquine injection |  |  |  |  |
J0395 | K |  | Arbutamine HCl injection | 9031 |  | $163.15 |  | $32.63
J0456 | N |  | Azithromycin |  |  |  |  |
J0460 | N |  | Atropine sulfate injection |  |  |  |  |
J0470 | N |  | Dimecaprol injection |  |  |  |  |
J0475 | K |  | Baclofen 10 MG injection | 9032 |  | $188.01 |  | $37.60
J0476 | B |  | Baclofen intrathecal trial |  |  |  |  |
J0500 | N |  | Dicyclomine injection |  |  |  |  |
J0515 | N |  | Inj benztropine mesylate |  |  |  |  |
J0520 | N |  | Bethanechol chloride inject |  |  |  |  |
J0530 | N |  | Penicillin g benzathine inj |  |  |  |  |
J0540 | N |  | Penicillin g benzathine inj |  |  |  |  |
J0550 | N |  | Penicillin g benzathine inj |  |  |  |  |
J0560 | N |  | Penicillin g benzathine inj |  |  |  |  |
J0570 | N |  | Penicillin g benzathine inj |  |  |  |  |
J0580 | K |  | Penicillin g benzathine inj | 0880 |  | $72.26 |  | $14.45
J0583 | N |  | Bivalirudin |  |  |  |  |
J0585 | K |  | Botulinum toxin a per unit | 0902 |  | $4.80 |  | $0.96
J0587 | K |  | Botulinum toxin type B | 9018 |  | $7.89 |  | $1.58
J0592 | N |  | Buprenorphine hydrochloride |  |  |  |  |
J0595 | N |  | Butorphanol tartrate 1 mg |  |  |  |  |
J0600 | K |  | Edetate calcium disodium inj | 0892 |  | $40.34 |  | $8.07
J0610 | N |  | Calcium gluconate injection |  |  |  |  |
J0620 | N |  | Calcium glycer & lact/10 ML |  |  |  |  |
J0630 | K |  | Calcitonin salmon injection | 0893 |  | $35.68 |  | $7.14
J0636 | N |  | Inj calcitriol per 0.1 mcg |  |  |  |  |
J0637 | K |  | Caspofungin acetate | 9019 |  | $32.35 |  | $6.47
J0640 | N |  | Leucovorin calcium injection |  |  |  |  |
J0670 | N |  | Inj mepivacaine HCL/10 ml |  |  |  |  |
J0690 | N |  | Cefazolin sodium injection |  |  |  |  |
J0692 | N |  | Cefepime HCl for injection |  |  |  |  |
J0694 | N |  | Cefoxitin sodium injection |  |  |  |  |
J0696 | N |  | Ceftriaxone sodium injection |  |  |  |  |
J0697 | N |  | Sterile cefuroxime injection |  |  |  |  |
J0698 | N |  | Cefotaxime sodium injection |  |  |  |  |
J0702 | N |  | Betamethasone acet&sod phosp |  |  |  |  |
J0704 | N |  | Betamethasone sod phosp/4 MG |  |  |  |  |
J0706 | K |  | Caffeine citrate injection | 0876 |  | $3.34 |  | $0.67
J0710 | N |  | Cephapirin sodium injection |  |  |  |  |
J0713 | N |  | Inj ceftazidime per 500 mg |  |  |  |  |
J0715 | N |  | Ceftizoxime sodium / 500 MG |  |  |  |  |
J0720 | N |  | Chloramphenicol sodium injec |  |  |  |  |
J0725 | N |  | Chorionic gonadotropin/1000u |  |  |  |  |
J0735 | K |  | Clonidine hydrochloride | 0935 |  | $57.47 |  | $11.49
J0740 | K |  | Cidofovir injection | 9033 |  | $782.98 |  | $156.60
J0743 | N |  | Cilastatin sodium injection |  |  |  |  |
J0744 | N |  | Ciprofloxacin iv |  |  |  |  |
J0745 | N |  | Inj codeine phosphate /30 MG |  |  |  |  |
J0760 | N |  | Colchicine injection |  |  |  |  |
J0770 | N |  | Colistimethate sodium inj |  |  |  |  |
J0780 | N |  | Prochlorperazine injection |  |  |  |  |
J0800 | K |  | Corticotropin injection | 1280 |  | $95.44 |  | $19.09
J0835 | K |  | Inj cosyntropin per 0.25 MG | 0835 |  | $69.27 |  | $13.85
J0850 | K |  | Cytomegalovirus imm IV /vial | 0903 |  | $683.07 |  | $136.61
J0878 | G |  | Daptomycin injection | 9124 |  | $0.30 |  | $0.06
J0880 | E |  | Darbepoetin alfa injection |  |  |  |  |
J0895 | K |  | Deferoxamine mesylate inj | 0895 |  | $14.91 |  | $2.98
J0900 | N |  | Testosterone enanthate inj |  |  |  |  |
J0945 | N |  | Brompheniramine maleate inj |  |  |  |  |
J0970 | N |  | Estradiol valerate injection |  |  |  |  |
J1000 | N |  | Depo-estradiol cypionate inj |  |  |  |  |
J1020 | N |  | Methylprednisolone 20 MG inj |  |  |  |  |
J1030 | N |  | Methylprednisolone 40 MG inj |  |  |  |  |
J1040 | N |  | Methylprednisolone 80 MG inj |  |  |  |  |
J1051 | N |  | Medroxyprogesterone inj |  |  |  |  |
J1055 | E |  | Medrxyprogester acetate inj |  |  |  |  |
J1056 | E |  | MA/EC contraceptiveinjection |  |  |  |  |
J1060 | N |  | Testosterone cypionate 1 ML |  |  |  |  |
J1070 | N |  | Testosterone cypionat 100 MG |  |  |  |  |
J1080 | N |  | Testosterone cypionat 200 MG |  |  |  |  |
J1094 | N |  | Inj dexamethasone acetate |  |  |  |  |
J1100 | N |  | Dexamethasone sodium phos |  |  |  |  |
J1110 | K |  | Inj dihydroergotamine mesylt | 1210 |  | $27.82 |  | $5.56
J1120 | N |  | Acetazolamid sodium injectio |  |  |  |  |
J1160 | N |  | Digoxin injection |  |  |  |  |
J1165 | N |  | Phenytoin sodium injection |  |  |  |  |
J1170 | N |  | Hydromorphone injection |  |  |  |  |
J1180 | K |  | Dyphylline injection | 9166 |  | $7.74 |  | $1.55
J1190 | K |  | Dexrazoxane HCl injection | 0726 |  | $216.39 |  | $43.28
J1200 | N |  | Diphenhydramine hcl injectio |  |  |  |  |
J1205 | N |  | Chlorothiazide sodium inj |  |  |  |  |
J1212 | N |  | Dimethyl sulfoxide 50% 50 ML |  |  |  |  |
J1230 | N |  | Methadone injection |  |  |  |  |
J1240 | N |  | Dimenhydrinate injection |  |  |  |  |
J1245 | N |  | Dipyridamole injection |  |  |  |  |
J1250 | N |  | Inj dobutamine HCL/250 mg |  |  |  |  |
J1260 | K |  | Dolasetron mesylate | 0750 |  | $6.55 |  | $1.31
J1270 | N |  | Injection, doxercalciferol |  |  |  |  |
J1320 | N |  | Amitriptyline injection |  |  |  |  |
J1325 | N |  | Epoprostenol injection |  |  |  |  |
J1327 | K |  | Eptifibatide injection | 1607 |  | $12.73 |  | $2.55
J1330 | K |  | Ergonovine maleate injection | 1330 | 0.5263 | $31.23 |  | $6.25
J1335 | N |  | Ertapenem injection |  |  |  |  |
J1364 | N |  | Erythro lactobionate /500 MG |  |  |  |  |
J1380 | N |  | Estradiol valerate 10 MG inj |  |  |  |  |
J1390 | N |  | Estradiol valerate 20 MG inj |  |  |  |  |
J1410 | K |  | Inj estrogen conjugate 25 MG | 9038 |  | $57.77 |  | $11.55
J1435 | N |  | Injection estrone per 1 MG |  |  |  |  |
J1436 | K |  | Etidronate disodium inj | 1436 |  | $68.69 |  | $13.74
J1438 | K |  | Etanercept injection | 1608 |  | $152.11 |  | $30.42
J1440 | K |  | Filgrastim 300 mcg injection | 0728 |  | $178.39 |  | $35.68
J1441 | K |  | Filgrastim 480 mcg injection | 7049 |  | $282.29 |  | $56.46
J1450 | N |  | Fluconazole |  |  |  |  |
J1452 | K |  | Intraocular Fomivirsen na | 9040 |  | $203.93 |  | $40.79
J1455 | N |  | Foscarnet sodium injection |  |  |  |  |
J1457 | K |  | Gallium nitrate injection | 1085 |  | $1.30 |  | $0.26
J1460 | N |  | Gamma globulin 1 CC inj |  |  |  |  |
J1470 | B |  | Gamma globulin 2 CC inj |  |  |  |  |
J1480 | B |  | Gamma globulin 3 CC inj |  |  |  |  |
J1490 | B |  | Gamma globulin 4 CC inj |  |  |  |  |
J1500 | B |  | Gamma globulin 5 CC inj |  |  |  |  |
J1510 | B |  | Gamma globulin 6 CC inj |  |  |  |  |
J1520 | B |  | Gamma globulin 7 CC inj |  |  |  |  |
J1530 | B |  | Gamma globulin 8 CC inj |  |  |  |  |
J1540 | B |  | Gamma globulin 9 CC inj |  |  |  |  |
J1550 | B |  | Gamma globulin 10 CC inj |  |  |  |  |
J1560 | B |  | Gamma globulin > 10 CC inj |  |  |  |  |
J1563 | E |  | IV immune globulin |  |  |  |  |
J1564 | E |  | Immune globulin 10 mg |  |  |  |  |
J1565 | K |  | RSV-ivig | 0906 |  | $15.56 |  | $3.11
J1570 | N |  | Ganciclovir sodium injection |  |  |  |  |
J1580 | N |  | Garamycin gentamicin inj |  |  |  |  |
J1590 | N |  | Gatifloxacin injection |  |  |  |  |
J1595 | N |  | Injection glatiramer acetate |  |  |  |  |
J1600 | N |  | Gold sodium thiomaleate inj |  |  |  |  |
J1610 | K |  | Glucagon hydrochloride/1 MG | 9042 |  | $62.16 |  | $12.43
J1620 | K |  | Gonadorelin hydroch/ 100 mcg | 7005 |  | $173.44 |  | $34.69
J1626 | K |  | Granisetron HCl injection | 0764 |  | $7.24 |  | $1.45
J1630 | N |  | Haloperidol injection |  |  |  |  |
J1631 | N |  | Haloperidol decanoate inj |  |  |  |  |
J1642 | N |  | Inj heparin sodium per 10 u |  |  |  |  |
J1644 | N |  | Inj heparin sodium per 1000u |  |  |  |  |
J1645 | N |  | Dalteparin sodium |  |  |  |  |
J1650 | N |  | Inj enoxaparin sodium |  |  |  |  |
J1652 | N |  | Fondaparinux sodium |  |  |  |  |
J1655 | K |  | Tinzaparin sodium injection | 1655 |  | $2.53 |  | $0.51
J1670 | K |  | Tetanus immune globulin inj | 1670 |  | $76.90 |  | $15.38
J1700 | N |  | Hydrocortisone acetate inj |  |  |  |  |
J1710 | N |  | Hydrocortisone sodium ph inj |  |  |  |  |
J1720 | N |  | Hydrocortisone sodium succ i |  |  |  |  |
J1730 | K |  | Diazoxide injection | 1740 |  | $113.86 |  | $22.77
J1742 | K |  | Ibutilide fumarate injection | 9044 |  | $243.34 |  | $48.67
J1745 | K |  | Infliximab injection | 7043 |  | $54.20 |  | $10.84
J1750 | K |  | Iron dextran | 9045 |  | $11.43 |  | $2.29
J1756 | K |  | Iron sucrose injection | 9046 |  | $0.38 |  | $0.08
J1785 | K |  | Injection imiglucerase /unit | 0916 |  | $3.98 |  | $0.80
J1790 | N |  | Droperidol injection |  |  |  |  |
J1800 | N |  | Propranolol injection |  |  |  |  |
J1810 | E |  | Droperidol/fentanyl inj |  |  |  |  |
J1815 | N |  | Insulin injection |  |  |  |  |
J1817 | N |  | Insulin for insulin pump use |  |  |  |  |
J1825 | E |  | Interferon beta-1a |  |  |  |  |
J1830 | K |  | Interferon beta-1b / .25 MG | 0910 |  | $81.95 |  | $16.39
J1835 | K |  | Itraconazole injection | 9047 |  | $36.93 |  | $7.39
J1840 | N |  | Kanamycin sulfate 500 MG inj |  |  |  |  |
J1850 | N |  | Kanamycin sulfate 75 MG inj |  |  |  |  |
J1885 | N |  | Ketorolac tromethamine inj |  |  |  |  |
J1890 | N |  | Cephalothin sodium injection |  |  |  |  |
J1931 | K |  | Laronidase injection | 9209 |  | $23.16 |  | $4.63
J1940 | N |  | Furosemide injection |  |  |  |  |
J1950 | K |  | Leuprolide acetate /3.75 MG | 0800 |  | $441.78 |  | $88.36
J1955 | B |  | Inj levocarnitine per 1 gm |  |  |  |  |
J1956 | N |  | Levofloxacin injection |  |  |  |  |
J1960 | N |  | Levorphanol tartrate inj |  |  |  |  |
J1980 | N |  | Hyoscyamine sulfate inj |  |  |  |  |
J1990 | N |  | Chlordiazepoxide injection |  |  |  |  |
J2001 | N |  | Lidocaine injection |  |  |  |  |
J2010 | N |  | Lincomycin injection |  |  |  |  |
J2020 | K |  | Linezolid injection | 9001 |  | $24.15 |  | $4.83
J2060 | N |  | Lorazepam injection |  |  |  |  |
J2150 | N |  | Mannitol injection |  |  |  |  |
J2175 | N |  | Meperidine hydrochl /100 MG |  |  |  |  |
J2180 | N |  | Meperidine/promethazine inj |  |  |  |  |
J2185 | N |  | Meropenem |  |  |  |  |
J2210 | N |  | Methylergonovin maleate inj |  |  |  |  |
J2250 | N |  | Inj midazolam hydrochloride |  |  |  |  |
J2260 | N |  | Inj milrinone lactate / 5 MG |  |  |  |  |
J2270 | N |  | Morphine sulfate injection |  |  |  |  |
J2271 | N |  | Morphine so4 injection 100mg |  |  |  |  |
J2275 | N |  | Morphine sulfate injection |  |  |  |  |
J2280 | N |  | Inj, moxifloxacin 100 mg |  |  |  |  |
J2300 | N |  | Inj nalbuphine hydrochloride |  |  |  |  |
J2310 | N |  | Inj naloxone hydrochloride |  |  |  |  |
J2320 | N |  | Nandrolone decanoate 50 MG |  |  |  |  |
J2321 | N |  | Nandrolone decanoate 100 MG |  |  |  |  |
J2322 | N |  | Nandrolone decanoate 200 MG |  |  |  |  |
J2324 | K |  | Nesiritide | 9114 |  | $75.19 |  | $15.04
J2353 | K |  | Octreotide injection, depot | 1207 |  | $87.40 |  | $17.48
J2354 | N |  | Octreotide inj, non-depot |  |  |  |  |
J2355 | K |  | Oprelvekin injection | 7011 |  | $249.06 |  | $49.81
J2357 | G |  | Omalizumab injection | 9300 |  | $15.98 |  | $3.20
J2360 | N |  | Orphenadrine injection |  |  |  |  |
J2370 | N |  | Phenylephrine hcl injection |  |  |  |  |
J2400 | N |  | Chloroprocaine hcl injection |  |  |  |  |
J2405 | K |  | Ondansetron hcl injection | 0768 |  | $3.80 |  | $0.76
J2410 | N |  | Oxymorphone hcl injection |  |  |  |  |
J2430 | K |  | Pamidronate disodium /30 MG | 0730 |  | $58.42 |  | $11.68
J2440 | N |  | Papaverin hcl injection |  |  |  |  |
J2460 | N |  | Oxytetracycline injection |  |  |  |  |
J2469 | K |  | Palonosetron HCl | 9210 |  | $18.42 |  | $3.68
J2501 | N |  | Paricalcitol |  |  |  |  |
J2505 | K |  | Injection, pegfilgrastim 6mg | 9119 |  | $2,178.28 |  | $435.66
J2510 | N |  | Penicillin g procaine inj |  |  |  |  |
J2515 | N |  | Pentobarbital sodium inj |  |  |  |  |
J2540 | N |  | Penicillin g potassium inj |  |  |  |  |
J2543 | N |  | Piperacillin/tazobactam |  |  |  |  |
J2545 | Y |  | Pentamidine isethionte/300mg |  |  |  |  |
J2550 | N |  | Promethazine hcl injection |  |  |  |  |
J2560 | N |  | Phenobarbital sodium inj |  |  |  |  |
J2590 | N |  | Oxytocin injection |  |  |  |  |
J2597 | N |  | Inj desmopressin acetate |  |  |  |  |
J2650 | N |  | Prednisolone acetate inj |  |  |  |  |
J2670 | N |  | Totazoline hcl injection |  |  |  |  |
J2675 | N |  | Inj progesterone per 50 MG |  |  |  |  |
J2680 | N |  | Fluphenazine decanoate 25 MG |  |  |  |  |
J2690 | N |  | Procainamide hcl injection |  |  |  |  |
J2700 | N |  | Oxacillin sodium injeciton |  |  |  |  |
J2710 | N |  | Neostigmine methylslfte inj |  |  |  |  |
J2720 | N |  | Inj protamine sulfate/10 MG |  |  |  |  |
J2725 | N |  | Inj protirelin per 250 mcg |  |  |  |  |
J2730 | K |  | Pralidoxime chloride inj | 2730 |  | $76.68 |  | $15.34
J2760 | N |  | Phentolaine mesylate inj |  |  |  |  |
J2765 | N |  | Metoclopramide hcl injection |  |  |  |  |
J2770 | K |  | Quinupristin/dalfopristin | 2770 |  | $105.48 |  | $21.10
J2780 | N |  | Ranitidine hydrochloride inj |  |  |  |  |
J2783 | G |  | Rasburicase | 0738 |  | $109.18 |  | $21.84
J2788 | K |  | Rho d immune globulin 50 mcg | 9023 |  | $25.08 |  | $5.02
J2790 | K |  | Rho d immune globulin inj | 0884 |  | $113.91 |  | $22.78
J2792 | K |  | Rho(D) immune globulin h, sd | 1609 |  | $12.04 |  | $2.41
J2794 | G |  | Risperidone, long acting | 9125 |  | $4.71 |  | $0.94
J2795 | N |  | Ropivacaine HCl injection |  |  |  |  |
J2800 | N |  | Methocarbamol injection |  |  |  |  |
J2810 | N |  | Inj theophylline per 40 MG |  |  |  |  |
J2820 | K |  | Sargramostim injection | 0731 |  | $21.11 |  | $4.22
J2910 | N |  | Aurothioglucose injeciton |  |  |  |  |
J2912 | N |  | Sodium chloride injection |  |  |  |  |
J2916 | N |  | Na ferric gluconate complex |  |  |  |  |
J2920 | N |  | Methylprednisolone injection |  |  |  |  |
J2930 | N |  | Methylprednisolone injection |  |  |  |  |
J2940 | K |  | Somatrem injection | 2940 |  | $43.14 |  | $8.63
J2941 | K |  | Somatropin injection | 7034 |  | $42.93 |  | $8.59
J2950 | N |  | Promazine hcl injection |  |  |  |  |
J2993 | K |  | Reteplase injection | 9005 |  | $898.81 |  | $179.76
J2995 | K |  | Inj streptokinase /250000 IU | 0911 |  | $83.36 |  | $16.67
J2997 | K |  | Alteplase recombinant | 7048 |  | $30.65 |  | $6.13
J3000 | N |  | Streptomycin injection |  |  |  |  |
J3010 | N |  | Fentanyl citrate injeciton |  |  |  |  |
J3030 | K |  | Sumatriptan succinate / 6 MG | 3030 |  | $51.03 |  | $10.21
J3070 | N |  | Pentazocine hcl injection |  |  |  |  |
J3100 | K |  | Tenecteplase injection | 9002 |  | $2,052.77 |  | $410.55
J3105 | N |  | Terbutaline sulfate inj |  |  |  |  |
J3110 | B |  | Teriparatide injection |  |  |  |  |
J3120 | N |  | Testosterone enanthate inj |  |  |  |  |
J3130 | N |  | Testosterone enanthate inj |  |  |  |  |
J3140 | N |  | Testosterone suspension inj |  |  |  |  |
J3150 | N |  | Testosteron propionate inj |  |  |  |  |
J3230 | N |  | Chlorpromazine hcl injection |  |  |  |  |
J3240 | K |  | Thyrotropin injection | 9108 |  | $712.58 |  | $142.52
J3246 | K |  | Tirofiban HCl | 7041 |  | $7.89 |  | $1.58
J3250 | N |  | Trimethobenzamide hcl inj |  |  |  |  |
J3260 | N |  | Tobramycin sulfate injection |  |  |  |  |
J3265 | N |  | Injection torsemide 10 mg/ml |  |  |  |  |
J3280 | N |  | Thiethylperazine maleate inj |  |  |  |  |
J3301 | N |  | Triamcinolone acetonide inj |  |  |  |  |
J3302 | N |  | Triamcinolone diacetate inj |  |  |  |  |
J3303 | N |  | Triamcinolone hexacetonl inj |  |  |  |  |
J3305 | K |  | Inj trimetrexate glucoronate | 7045 |  | $139.85 |  | $27.97
J3310 | N |  | Perphenazine injeciton |  |  |  |  |
J3315 | K |  | Triptorelin pamoate | 9122 |  | $369.98 |  | $74.00
J3320 | N |  | Spectinomycn di-hcl inj |  |  |  |  |
J3350 | K |  | Urea injection | 9051 | 1.0454 | $62.04 |  | $12.41
J3360 | N |  | Diazepam injection |  |  |  |  |
J3364 | N |  | Urokinase 5000 IU injection |  |  |  |  |
J3365 | K |  | Urokinase 250,000 IU inj | 7036 |  | $415.69 |  | $83.14
J3370 | N |  | Vancomycin hcl injection |  |  |  |  |
J3396 | K |  | Verteporfin injection | 1203 |  | $9.16 |  | $1.83
J3400 | N |  | Triflupromazine hcl inj |  |  |  |  |
J3410 | N |  | Hydroxyzine hcl injection |  |  |  |  |
J3411 | N |  | Thiamine hcl 100 mg |  |  |  |  |
J3415 | N |  | Pyridoxine hcl 100 mg |  |  |  |  |
J3420 | N |  | Vitamin b12 injection |  |  |  |  |
J3430 | N |  | Vitamin k phytonadione inj |  |  |  |  |
J3465 | K |  | Injection, voriconazole | 1052 |  | $4.63 |  | $0.93
J3470 | N |  | Hyaluronidase injection |  |  |  |  |
J3475 | N |  | Inj magnesium sulfate |  |  |  |  |
J3480 | N |  | Inj potassium chloride |  |  |  |  |
J3485 | N |  | Zidovudine |  |  |  |  |
J3486 | N |  | Ziprasidone mesylate |  |  |  |  |
J3487 | K |  | Zoledronic acid | 9115 |  | $202.41 |  | $40.48
J3490 | N |  | Drugs unclassified injection |  |  |  |  |
J3520 | E |  | Edetate disodium per 150 mg |  |  |  |  |
J3530 | N |  | Nasal vaccine inhalation |  |  |  |  |
J3535 | E |  | Metered dose inhaler drug |  |  |  |  |
J3570 | E |  | Laetrile amygdalin vit B17 |  |  |  |  |
J3590 | N |  | Unclassified biologics |  |  |  |  |
J7030 | N |  | Normal saline solution infus |  |  |  |  |
J7040 | N |  | Normal saline solution infus |  |  |  |  |
J7042 | N |  | 5% dextrose/normal saline |  |  |  |  |
J7050 | N |  | Normal saline solution infus |  |  |  |  |
J7051 | N |  | Sterile saline/water |  |  |  |  |
J7060 | N |  | 5% dextrose/water |  |  |  |  |
J7070 | N |  | D5w infusion |  |  |  |  |
J7100 | N |  | Dextran 40 infusion |  |  |  |  |
J7110 | N |  | Dextran 75 infusion |  |  |  |  |
J7120 | N |  | Ringers lactate infusion |  |  |  |  |
J7130 | N |  | Hypertonic saline solution |  |  |  |  |
J7190 | K |  | Factor viii | 0925 |  | $0.51 |  | $0.10
J7191 | K |  | Factor VIII (porcine) | 0926 |  | $1.75 |  | $0.35
J7192 | K |  | Factor viii recombinant | 0927 |  | $0.94 |  | $0.19
J7193 | K |  | Factor IX non-recombinant | 0931 |  | $0.75 |  | $0.15
J7194 | K |  | Factor ix complex | 0928 |  | $0.52 |  | $0.10
J7195 | K |  | Factor IX recombinant | 0932 |  | $0.86 |  | $0.17
J7197 | N |  | Antithrombin iii injection |  |  |  |  |
J7198 | K |  | Anti-inhibitor | 0929 |  | $1.12 |  | $0.22
J7199 | B |  | Hemophilia clot factor noc |  |  |  |  |
J7300 | E |  | Intraut copper contraceptive |  |  |  |  |
J7302 | E |  | Levonorgestrel iu contracept |  |  |  |  |
J7303 | E |  | Contraceptive vaginal ring |  |  |  |  |
J7304 | E |  | Contraceptive hormone patch |  |  |  |  |
J7308 | K |  | Aminolevulinic acid hcl top | 7308 |  | $96.79 |  | $19.36
J7310 | K |  | Ganciclovir long act implant | 0913 |  | $4,318.68 |  | $863.74
J7317 | K |  | Sodium hyaluronate injection | 7316 |  | $110.65 |  | $22.13
J7320 | K |  | Hylan G-F 20 injection | 1611 |  | $203.15 |  | $40.63
J7330 | B |  | Cultured chondrocytes implnt |  |  |  |  |
J7340 | E |  | Metabolic active D/E tissue |  |  |  |  |
J7342 | K |  | Metabolically active tissue | 9054 |  | $15.69 |  | $3.14
J7343 | B |  | Nonmetabolic act d/e tissue |  |  |  |  |
J7344 | K |  | Nonmetabolic active tissue | 9156 |  | $53.76 |  | $10.75
J7350 | K |  | Injectable human tissue | 9055 |  | $3.54 |  | $0.71
J7500 | N |  | Azathioprine oral 50mg |  |  |  |  |
J7501 | K |  | Azathioprine parenteral | 0887 |  | $47.40 |  | $9.48
J7502 | K |  | Cyclosporine oral 100 mg | 0888 |  | $3.94 |  | $0.79
J7504 | K |  | Lymphocyte immune globulin | 0890 |  | $290.30 |  | $58.06
J7505 | K |  | Monoclonal antibodies | 7038 |  | $885.36 |  | 77.07
J7506 | N |  | Prednisone oral |  |  |  |  |
J7507 | K |  | Tacrolimus oral per 1 MG | 0891 |  | $3.37 |  | $0.67
J7509 | N |  | Methylprednisolone oral |  |  |  |  |
J7510 | N |  | Prednisolone oral per 5 mg |  |  |  |  |
J7511 | K |  | Antithymocyte globuln rabbit | 9104 |  | $299.47 |  | $59.89
J7513 | K |  | Daclizumab, parenteral | 1612 |  | $381.48 |  | $76.30
J7515 | K |  | Cyclosporine oral 25 mg | 7515 |  | $1.00 |  | $0.20
J7516 | N |  | Cyclosporin parenteral 250mg |  |  |  |  |
J7517 | K |  | Mycophenolate mofetil oral | 9015 |  | $2.50 |  | $0.50
J7518 | G |  | Mycophenolic acid | 9219 |  | $2.47 |  | $0.49
J7520 | K |  | Sirolimus, oral | 9020 |  | $6.85 |  | $1.37
J7525 | K |  | Tacrolimus injection | 9006 |  | $126.61 |  | $25.32
J7599 | N |  | Immunosuppressive drug noc |  |  |  |  |
J7608 | Y |  | Acetylcysteine inh sol u d |  |  |  |  |
J7611 | Y |  | Albuterol concentrated form |  |  |  |  |
J7612 | Y |  | Levalbuterol concentrated |  |  |  |  |
J7613 | Y |  | Albuterol unit dose |  |  |  |  |
J7614 | Y |  | Levalbuterol unit dose |  |  |  |  |
J7616 | Y |  | Albuterol compound solution |  |  |  |  |
J7617 | Y |  | Levalbuterol compounded sol |  |  |  |  |
J7622 | A |  | Beclomethasone inhalatn sol |  |  |  |  |
J7624 | A |  | Betamethasone inhalation sol |  |  |  |  |
J7626 | A |  | Budesonide inhalation sol |  |  |  |  |
J7628 | Y |  | Bitolterol mes inhal sol con |  |  |  |  |
J7629 | Y |  | Bitolterol mes inh sol u d |  |  |  |  |
J7631 | Y |  | Cromolyn sodium inh sol u d |  |  |  |  |
J7633 | N |  | Budesonide concentrated sol |  |  |  |  |
J7635 | Y |  | Atropine inhal sol con |  |  |  |  |
J7636 | Y |  | Atropine inhal sol unit dose |  |  |  |  |
J7637 | Y |  | Dexamethasone inhal sol con |  |  |  |  |
J7638 | Y |  | Dexamethasone inhal sol u d |  |  |  |  |
J7639 | Y |  | Dornase alpha inhal sol u d |  |  |  |  |
J7641 | A |  | Flunisolide, inhalation sol |  |  |  |  |
J7642 | Y |  | Glycopyrrolate inhal sol con |  |  |  |  |
J7643 | Y |  | Glycopyrrolate inhal sol u d |  |  |  |  |
J7644 | Y |  | Ipratropium brom inh sol u d |  |  |  |  |
J7648 | Y |  | Isoetharine hcl inh sol con |  |  |  |  |
J7649 | Y |  | Isoetharine hcl inh sol u d |  |  |  |  |
J7658 | Y |  | Isoproterenolhcl inh sol con |  |  |  |  |
J7659 | Y |  | Isoproterenol hcl inh sol ud |  |  |  |  |
J7668 | Y |  | Metaproterenol inh sol con |  |  |  |  |
J7669 | Y |  | Metaproterenol inh sol u d |  |  |  |  |
J7674 | N |  | Methacholine chloride, neb |  |  |  |  |
J7680 | Y |  | Terbutaline so4 inh sol con |  |  |  |  |
J7681 | Y |  | Terbutaline so4 inh sol u d |  |  |  |  |
J7682 | Y |  | Tobramycin inhalation sol |  |  |  |  |
J7683 | Y |  | Triamcinolone inh sol con |  |  |  |  |
J7684 | Y |  | Triamcinolone inh sol u d |  |  |  |  |
J7699 | Y |  | Inhalation solution for DME |  |  |  |  |
J7799 | Y |  | Non-inhalation drug for DME |  |  |  |  |
J8499 | E |  | Oral prescrip drug non chemo |  |  |  |  |
J8501 | G |  | Oral aprepitant | 0868 |  | $4.75 |  | $0.95
J8510 | K |  | Oral busulfan | 7015 |  | $1.98 |  | $0.40
J8520 | K |  | Capecitabine, oral, 150 mg | 7042 |  | $3.30 |  | $0.66
J8521 | E |  | Capecitabine, oral, 500 mg |  |  |  |  |
J8530 | N |  | Cyclophosphamide oral 25 MG |  |  |  |  |
J8560 | K |  | Etoposide oral 50 MG | 0802 |  | $41.12 |  | $8.22
J8565 | E |  | Gefitinib oral |  |  |  |  |
J8600 | N |  | Melphalan oral 2 MG |  |  |  |  |
J8610 | N |  | Methotrexate oral 2.5 MG |  |  |  |  |
J8700 | K |  | Temozolomide | 1086 |  | $7.28 |  | $1.46
J8999 | B |  | Oral prescription drug chemo |  |  |  |  |
J9000 | N |  | Doxorubic hcl 10 MG vl chemo |  |  |  |  |
J9001 | K |  | Doxorubicin hcl liposome inj | 7046 |  | $365.64 |  | $73.13
J9010 | K |  | Alemtuzumab injection | 9110 |  | $516.87 |  | $103.37
J9015 | K |  | Aldesleukin/single use vial | 0807 |  | $701.76 |  | $140.35
J9017 | K |  | Arsenic trioxide | 9012 |  | $33.76 |  | $6.75
J9020 | K |  | Asparaginase injection | 0814 |  | $55.42 |  | $11.08
J9031 | K |  | Bcg live intravesical vac | 0809 |  | $121.74 |  | $24.35
J9035 | G |  | Bevacizumab injection | 9214 |  | $58.17 |  | $11.63
J9040 | K |  | Bleomycin sulfate injection | 0857 |  | $54.18 |  | $10.84
J9041 | K |  | Bortezomib injection | 9207 |  | $28.90 |  | $5.78
J9045 | K |  | Carboplatin injection | 0811 |  | $77.16 |  | $15.43
J9050 | K |  | Carmus bischl nitro inj | 0812 |  | $141.29 |  | $28.26
J9055 | G |  | Cetuximab injection | 9215 |  | $50.59 |  | $10.12
J9060 | N |  | Cisplatin 10 MG injection |  |  |  |  |
J9062 | B |  | Cisplatin 50 MG injection |  |  |  |  |
J9065 | K |  | Inj cladribine per 1 MG | 0858 |  | $39.37 |  | $7.87
J9070 | N |  | Cyclophosphamide 100 MG inj |  |  |  |  |
J9080 | B |  | Cyclophosphamide 200 MG inj |  |  |  |  |
J9090 | B |  | Cyclophosphamide 500 MG inj |  |  |  |  |
J9091 | B |  | Cyclophosphamide 1.0 grm inj |  |  |  |  |
J9092 | B |  | Cyclophosphamide 2.0 grm inj |  |  |  |  |
J9093 | N |  | Cyclophosphamide lyophilized |  |  |  |  |
J9094 | B |  | Cyclophosphamide lyophilized |  |  |  |  |
J9095 | B |  | Cyclophosphamide lyophilized |  |  |  |  |
J9096 | B |  | Cyclophosphamide lyophilized |  |  |  |  |
J9097 | B |  | Cyclophosphamide lyophilized |  |  |  |  |
J9098 | K |  | Cytarabine liposome | 1166 |  | $366.43 |  | $73.29
J9100 | N |  | Cytarabine hcl 100 MG inj |  |  |  |  |
J9110 | B |  | Cytarabine hcl 500 MG inj |  |  |  |  |
J9120 | N |  | Dactinomycin actinomycin d |  |  |  |  |
J9130 | K |  | Dacarbazine 100 mg inj | 0819 |  | $6.20 |  | $1.24
J9140 | B |  | Dacarbazine 200 MG inj |  |  |  |  |
J9150 | K |  | Daunorubicin | 0820 |  | $35.28 |  | $7.06
J9151 | K |  | Daunorubicin citrate liposom | 0821 |  | $57.56 |  | $11.51
J9160 | K |  | Denileukin diftitox, 300 mcg | 1084 |  | $1,235.33 |  | $247.07
J9165 | N |  | Diethylstilbestrol injection |  |  |  |  |
J9170 | K |  | Docetaxel | 0823 |  | $301.17 |  | $60.23
J9178 | K |  | Inj, epirubicin hcl, 2 mg | 1167 |  | $25.15 |  | $5.03
J9181 | N |  | Etoposide 10 MG inj |  |  |  |  |
J9182 | B |  | Etoposide 100 MG inj |  |  |  |  |
J9185 | K |  | Fludarabine phosphate inj | 0842 |  | $262.41 |  | $52.48
J9190 | N |  | Fluorouracil injection |  |  |  |  |
J9200 | K |  | Floxuridine injection | 0827 |  | $60.17 |  | $12.03
J9201 | K |  | Gemcitabine HCl | 0828 |  | $117.45 |  | $23.49
J9202 | K |  | Goserelin acetate implant | 0810 |  | $196.25 |  | $39.25
J9206 | K |  | Irinotecan injection | 0830 |  | $129.08 |  | $25.82
J9208 | K |  | Ifosfomide injection | 0831 |  | $53.54 |  | $10.71
J9209 | K |  | Mesna injection | 0732 |  | $13.68 |  | $2.74
J9211 | K |  | Idarubicin hcl injection | 0832 |  | $314.00 |  | $62.80
J9212 | K |  | Interferon alfacon-1 | 0912 |  | $3.91 |  | $0.78
J9213 | K |  | Interferon alfa-2a inj | 0834 |  | $31.75 |  | $6.35
J9214 | K |  | Interferon alfa-2b inj | 0836 |  | $13.22 |  | $2.64
J9215 | K |  | Interferon alfa-n3 inj | 0865 |  | $8.77 |  | $1.75
J9216 | K |  | Interferon gamma 1-b inj | 0838 |  | $277.79 |  | $55.56
J9217 | K |  | Leuprolide acetate suspnsion | 9217 |  | $230.87 |  | $46.17
J9218 | K |  | Leuprolide acetate injeciton | 0861 |  | $10.96 |  | $2.19
J9219 | K |  | Leuprolide acetate implant | 7051 |  | $2,262.19 |  | $452.44
J9230 | N |  | Mechlorethamine hcl inj |  |  |  |  |
J9245 | K |  | Inj melphalan hydrochl 50 MG | 0840 |  | $523.22 |  | $104.64
J9250 | N |  | Methotrexate sodium inj |  |  |  |  |
J9260 | B |  | Methotrexate sodium inj |  |  |  |  |
J9263 | B |  | Oxaliplatin |  |  |  |  |
J9265 | K |  | Paclitaxel injection | 0863 |  | $19.11 |  | $3.82
J9266 | K |  | Pegaspargase/singl dose vial | 0843 |  | $1,528.80 |  | $305.76
J9268 | K |  | Pentostatin injection | 0844 |  | $1,868.91 |  | $373.78
J9270 | K |  | Plicamycin (mithramycin) inj | 0860 |  | $80.54 |  | $16.11
J9280 | K |  | Mitomycin 5 MG inj | 0862 |  | $26.36 |  | $5.27
J9290 | B |  | Mitomycin 20 MG inj |  |  |  |  |
J9291 | B |  | Mitomycin 40 MG inj |  |  |  |  |
J9293 | K |  | Mitoxantrone hydrochl / 5 MG | 0864 |  | $329.69 |  | $65.94
J9300 | K |  | Gemtuzumab ozogamicin | 9004 |  | $2,245.04 |  | $449.01
J9305 | G |  | Pemetrexed injection | 9213 |  | $41.29 |  | $8.26
J9310 | K |  | Rituximab cancer treatment | 0849 |  | $447.97 |  | $89.59
J9320 | K |  | Streptozocin injection | 0850 |  | $153.33 |  | $30.67
J9340 | K |  | Thiotepa injection | 0851 |  | $44.55 |  | $8.91
J9350 | K |  | Topotecan | 0852 |  | $755.51 |  | $151.10
J9355 | K |  | Trastuzumab | 1613 |  | $53.98 |  | $10.80
J9357 | K |  | Valrubicin, 200 mg | 9167 |  | $376.87 |  | $75.37
J9360 | N |  | Vinblastine sulfate inj |  |  |  |  |
J9370 | N |  | Vincristine sulfate 1 MG inj |  |  |  |  |
J9375 | B |  | Vincristine sulfate 2 MG inj |  |  |  |  |
J9380 | B |  | Vincristine sulfate 5 MG inj |  |  |  |  |
J9390 | K |  | Vinorelbine tartrate/10 mg | 0855 |  | $62.85 |  | $12.57
J9395 | K |  | Injection, Fulvestrant | 9120 |  | $82.90 |  | $16.58
J9600 | K |  | Porfimer sodium | 0856 |  | $2,457.97 |  | $491.59
J9999 | N |  | Chemotherapy drug |  |  |  |  |
K0001 | Y |  | Standard wheelchair |  |  |  |  |
K0002 | Y |  | Stnd hemi (low seat) whlchr |  |  |  |  |
K0003 | Y |  | Lightweight wheelchair |  |  |  |  |
K0004 | Y |  | High strength ltwt whlchr |  |  |  |  |
K0005 | Y |  | Ultralightweight wheelchair |  |  |  |  |
K0006 | Y |  | Heavy duty wheelchair |  |  |  |  |
K0007 | Y |  | Extra heavy duty wheelchair |  |  |  |  |
K0009 | Y |  | Other manual wheelchair/base |  |  |  |  |
K0010 | Y |  | Stnd wt frame power whlchr |  |  |  |  |
K0011 | Y |  | Stnd wt pwr whlchr w control |  |  |  |  |
K0012 | Y |  | Ltwt portbl power whlchr |  |  |  |  |
K0014 | Y |  | Other power whlchr base |  |  |  |  |
K0015 | Y |  | Detach non-adjus hght armrst |  |  |  |  |
K0017 | Y |  | Detach adjust armrest base |  |  |  |  |
K0018 | Y |  | Detach adjust armrst upper |  |  |  |  |
K0019 | Y |  | Arm pad each |  |  |  |  |
K0020 | Y |  | Fixed adjust armrest pair |  |  |  |  |
K0037 | Y |  | High mount flip-up footrest |  |  |  |  |
K0038 | Y |  | Leg strap each |  |  |  |  |
K0039 | Y |  | Leg strap h style each |  |  |  |  |
K0040 | Y |  | Adjustable angle footplate |  |  |  |  |
K0041 | Y |  | Large size footplate each |  |  |  |  |
K0042 | Y |  | Standard size footplate each |  |  |  |  |
K0043 | Y |  | Ftrst lower extension tube |  |  |  |  |
K0044 | Y |  | Ftrst upper hanger bracket |  |  |  |  |
K0045 | Y |  | Footrest complete assembly |  |  |  |  |
K0046 | Y |  | Elevat legrst low extension |  |  |  |  |
K0047 | Y |  | Elevat legrst up hangr brack |  |  |  |  |
K0050 | Y |  | Ratchet assembly |  |  |  |  |
K0051 | Y |  | Cam relese assem ftrst/lgrst |  |  |  |  |
K0052 | Y |  | Swingaway detach footrest |  |  |  |  |
K0053 | Y |  | Elevate footrest articulate |  |  |  |  |
K0056 | Y |  | Seat ht <17 or >=21 ltwt wc |  |  |  |  |
K0064 | Y |  | Zero pressure tube flat free |  |  |  |  |
K0065 | Y |  | Spoke protectors |  |  |  |  |
K0066 | Y |  | Solid tire any size each |  |  |  |  |
K0067 | Y |  | Pneumatic tire any size each |  |  |  |  |
K0068 | Y |  | Pneumatic tire tube each |  |  |  |  |
K0069 | Y |  | Rear whl complete solid tire |  |  |  |  |
K0070 | Y |  | Rear whl compl pneum tire |  |  |  |  |
K0071 | Y |  | Front castr compl pneum tire |  |  |  |  |
K0072 | Y |  | Frnt cstr cmpl sem-pneum tir |  |  |  |  |
K0073 | Y |  | Caster pin lock each |  |  |  |  |
K0074 | Y |  | Pneumatic caster tire each |  |  |  |  |
K0075 | Y |  | Semi-pneumatic caster tire |  |  |  |  |
K0076 | Y |  | Solid caster tire each |  |  |  |  |
K0077 | Y |  | Front caster assem complete |  |  |  |  |
K0078 | Y |  | Pneumatic caster tire tube |  |  |  |  |
K0090 | Y |  | Rear tire power wheelchair |  |  |  |  |
K0091 | Y |  | Rear tire tube power whlchr |  |  |  |  |
K0092 | Y |  | Rear assem cmplt powr whlchr |  |  |  |  |
K0093 | Y |  | Rear zero pressure tire tube |  |  |  |  |
K0094 | Y |  | Wheel tire for power base |  |  |  |  |
K0095 | Y |  | Wheel tire tube each base |  |  |  |  |
K0096 | Y |  | Wheel assem powr base complt |  |  |  |  |
K0097 | Y |  | Wheel zero presure tire tube |  |  |  |  |
K0098 | Y |  | Drive belt power wheelchair |  |  |  |  |
K0099 | Y |  | Pwr wheelchair front caster |  |  |  |  |
K0102 | Y |  | Crutch and cane holder |  |  |  |  |
K0104 | Y |  | Cylinder tank carrier |  |  |  |  |
K0105 | Y |  | Iv hanger |  |  |  |  |
K0106 | Y |  | Arm trough each |  |  |  |  |
K0108 | Y |  | W/c component-accessory NOS |  |  |  |  |
K0195 | Y |  | Elevating whlchair leg rests |  |  |  |  |
K0415 | B |  | RX antiemetic drg, oral NOS |  |  |  |  |
K0416 | B |  | Rx antiemetic drg,rectal NOS |  |  |  |  |
K0452 | Y |  | Wheelchair bearings |  |  |  |  |
K0455 | Y |  | Pump uninterrupted infusion |  |  |  |  |
K0462 | Y |  | Temporary replacement eqpmnt |  |  |  |  |
K0552 | Y |  | Supply/Ext inf pump syr type |  |  |  |  |
K0600 | Y |  | Functional neuromuscularstim |  |  |  |  |
K0601 | Y |  | Repl batt silver oxide 1.5 v |  |  |  |  |
K0602 | Y |  | Repl batt silver oxide 3 v |  |  |  |  |
K0603 | Y |  | Repl batt alkaline 1.5 v |  |  |  |  |
K0604 | Y |  | Repl batt lithium 3.6 v |  |  |  |  |
K0605 | Y |  | Repl batt lithium 4.5 v |  |  |  |  |
K0606 | Y |  | AED garment w/elec analysis |  |  |  |  |
K0607 | Y |  | Repl batt for AED |  |  |  |  |
K0608 | Y |  | Repl garment for AED |  |  |  |  |
K0609 | Y |  | Repl electrode for AED |  |  |  |  |
K0618 | A |  | TLSO 2 piece rigid shell |  |  |  |  |
K0619 | A |  | TLSO 3 piece rigid shell |  |  |  |  |
K0620 | A |  | Tubular elastic dressing |  |  |  |  |
K0628 | Y |  | Mult dens insert direct form |  |  |  |  |
K0629 | Y |  | Mult dens insert custom mold |  |  |  |  |
K0630 | Y |  | SIO flex pelvisacral prefab |  |  |  |  |
K0631 | Y |  | SIO flex pelvisacral custom |  |  |  |  |
K0632 | Y |  | SIO panel prefab |  |  |  |  |
K0633 | Y |  | SIO panel custom |  |  |  |  |
K0634 | Y |  | LO flexibl L1 - below L5 pre |  |  |  |  |
K0635 | Y |  | LO sag stays/panels pre-fab |  |  |  |  |
K0636 | Y |  | LO sagitt rigid panel prefab |  |  |  |  |
K0637 | Y |  | LO flex w/o rigid stays pre |  |  |  |  |
K0638 | Y |  | LSO flex w/rigid stays cust |  |  |  |  |
K0639 | Y |  | LSO post rigid panel pre |  |  |  |  |
K0640 | Y |  | LSO sag-coro rigid frame pre |  |  |  |  |
K0641 | Y |  | LSO sag-cor rigid frame cust |  |  |  |  |
K0642 | Y |  | LSO flexion control prefab |  |  |  |  |
K0643 | Y |  | LSO flexion control custom |  |  |  |  |
K0644 | Y |  | LSO sagit rigid panel prefab |  |  |  |  |
K0645 | Y |  | LSO sagittal rigid panel cus |  |  |  |  |
K0646 | Y |  | LSO sag-coronal panel prefab |  |  |  |  |
K0647 | Y |  | LSO sag-coronal panel custom |  |  |  |  |
K0648 | Y |  | LSO s/c shell/panel prefab |  |  |  |  |
K0649 | Y |  | LSO s/c shell/panel custom |  |  |  |  |
K0669 | Y |  | W/c seat/back no CVR SADMERC |  |  |  |  |
K0670 | A |  | Stance phase only |  |  |  |  |
K0671 | Y |  | Portable oxygen concentrator |  |  |  |  |
L0100 | A |  | Cranial orthosis/helmet mold |  |  |  |  |
L0110 | A |  | Cranial orthosis/helmet nonm |  |  |  |  |
L0112 | A |  | Cranial cervical orthosis |  |  |  |  |
L0120 | A |  | Cerv flexible non-adjustable |  |  |  |  |
L0130 | A |  | Flex thermoplastic collar mo |  |  |  |  |
L0140 | A |  | Cervical semi-rigid adjustab |  |  |  |  |
L0150 | A |  | Cerv semi-rig adj molded chn |  |  |  |  |
L0160 | A |  | Cerv semi-rig wire occ/mand |  |  |  |  |
L0170 | A |  | Cervical collar molded to pt |  |  |  |  |
L0172 | A |  | Cerv col thermplas foam 2 pi |  |  |  |  |
L0174 | A |  | Cerv col foam 2 piece w thor |  |  |  |  |
L0180 | A |  | Cer post col occ/man sup adj |  |  |  |  |
L0190 | A |  | Cerv collar supp adj cerv ba |  |  |  |  |
L0200 | A |  | Cerv col supp adj bar & thor |  |  |  |  |
L0210 | A |  | Thoracic rib belt |  |  |  |  |
L0220 | A |  | Thor rib belt custom fabrica |  |  |  |  |
L0430 | A |  | Dewall posture protector |  |  |  |  |
L0450 | A |  | TLSO flex prefab thoracic |  |  |  |  |
L0452 | A |  | tlso flex custom fab thoraci |  |  |  |  |
L0454 | A |  | TLSO flex prefab sacrococ-T9 |  |  |  |  |
L0456 | A |  | TLSO flex prefab |  |  |  |  |
L0458 | A |  | TLSO 2Mod symphis-xipho pre |  |  |  |  |
L0460 | A |  | TLSO2Mod symphysis-stern pre |  |  |  |  |
L0462 | A |  | TLSO 3Mod sacro-scap pre |  |  |  |  |
L0464 | A |  | TLSO 4Mod sacro-scap pre |  |  |  |  |
L0466 | A |  | TLSO rigid frame pre soft ap |  |  |  |  |
L0468 | A |  | TLSO rigid frame prefab pelv |  |  |  |  |
L0470 | A |  | TLSO rigid frame pre subclav |  |  |  |  |
L0472 | A |  | TLSO rigid frame hyperex pre |  |  |  |  |
L0480 | A |  | TLSO rigid plastic custom fa |  |  |  |  |
L0482 | A |  | TLSO rigid lined custom fab |  |  |  |  |
L0484 | A |  | TLSO rigid plastic cust fab |  |  |  |  |
L0486 | A |  | TLSO rigidlined cust fab two |  |  |  |  |
L0488 | A |  | TLSO rigid lined pre one pie |  |  |  |  |
L0490 | A |  | TLSO rigid plastic pre one |  |  |  |  |
L0700 | A |  | Ctlso a-p-l control molded |  |  |  |  |
L0710 | A |  | Ctlso a-p-l control w/ inter |  |  |  |  |
L0810 | A |  | Halo cervical into jckt vest |  |  |  |  |
L0820 | A |  | Halo cervical into body jack |  |  |  |  |
L0830 | A |  | Halo cerv into milwaukee typ |  |  |  |  |
L0860 | A |  | Magnetic resonanc image comp |  |  |  |  |
L0861 | A |  | Halo repl liner/interface |  |  |  |  |
L0960 | E |  | Post surgical support pads |  |  |  |  |
L0970 | A |  | Tlso corset front |  |  |  |  |
L0972 | A |  | Lso corset front |  |  |  |  |
L0974 | A |  | Tlso full corset |  |  |  |  |
L0976 | A |  | Lso full corset |  |  |  |  |
L0978 | A |  | Axillary crutch extension |  |  |  |  |
L0980 | A |  | Peroneal straps pair |  |  |  |  |
L0982 | A |  | Stocking supp grips set of f |  |  |  |  |
L0984 | A |  | Protective body sock each |  |  |  |  |
L0999 | A |  | Add to spinal orthosis NOS |  |  |  |  |
L1000 | A |  | Ctlso milwauke initial model |  |  |  |  |
L1005 | A |  | Tension based scoliosis orth |  |  |  |  |
L1010 | A |  | Ctlso axilla sling |  |  |  |  |
L1020 | A |  | Kyphosis pad |  |  |  |  |
L1025 | A |  | Kyphosis pad floating |  |  |  |  |
L1030 | A |  | Lumbar bolster pad |  |  |  |  |
L1040 | A |  | Lumbar or lumbar rib pad |  |  |  |  |
L1050 | A |  | Sternal pad |  |  |  |  |
L1060 | A |  | Thoracic pad |  |  |  |  |
L1070 | A |  | Trapezius sling |  |  |  |  |
L1080 | A |  | Outrigger |  |  |  |  |
L1085 | A |  | Outrigger bil w/ vert extens |  |  |  |  |
L1090 | A |  | Lumbar sling |  |  |  |  |
L1100 | A |  | Ring flange plastic/leather |  |  |  |  |
L1110 | A |  | Ring flange plas/leather mol |  |  |  |  |
L1120 | A |  | Covers for upright each |  |  |  |  |
L1200 | A |  | Furnsh initial orthosis only |  |  |  |  |
L1210 | A |  | Lateral thoracic extension |  |  |  |  |
L1220 | A |  | Anterior thoracic extension |  |  |  |  |
L1230 | A |  | Milwaukee type superstructur |  |  |  |  |
L1240 | A |  | Lumbar derotation pad |  |  |  |  |
L1250 | A |  | Anterior asis pad |  |  |  |  |
L1260 | A |  | Anterior thoracic derotation |  |  |  |  |
L1270 | A |  | Abdominal pad |  |  |  |  |
L1280 | A |  | Rib gusset (elastic) each |  |  |  |  |
L1290 | A |  | Lateral trochanteric pad |  |  |  |  |
L1300 | A |  | Body jacket mold to patient |  |  |  |  |
L1310 | A |  | Post-operative body jacket |  |  |  |  |
L1499 | A |  | Spinal orthosis NOS |  |  |  |  |
L1500 | A |  | Thkao mobility frame |  |  |  |  |
L1510 | A |  | Thkao standing frame |  |  |  |  |
L1520 | A |  | Thkao swivel walker |  |  |  |  |
L1600 | A |  | Abduct hip flex frejka w cvr |  |  |  |  |
L1610 | A |  | Abduct hip flex frejka covr |  |  |  |  |
L1620 | A |  | Abduct hip flex pavlik harne |  |  |  |  |
L1630 | A |  | Abduct control hip semi-flex |  |  |  |  |
L1640 | A |  | Pelv band/spread bar thigh c |  |  |  |  |
L1650 | A |  | HO abduction hip adjustable |  |  |  |  |
L1652 | A |  | HO bi thighcuffs w sprdr bar |  |  |  |  |
L1660 | A |  | HO abduction static plastic |  |  |  |  |
L1680 | A |  | Pelvic & hip control thigh c |  |  |  |  |
L1685 | A |  | Post-op hip abduct custom fa |  |  |  |  |
L1686 | A |  | HO post-op hip abduction |  |  |  |  |
L1690 | A |  | Combination bilateral HO |  |  |  |  |
L1700 | A |  | Leg perthes orth toronto typ |  |  |  |  |
L1710 | A |  | Legg perthes orth newington |  |  |  |  |
L1720 | A |  | Legg perthes orthosis trilat |  |  |  |  |
L1730 | A |  | Legg perthes orth scottish r |  |  |  |  |
L1750 | A |  | Legg perthes sling |  |  |  |  |
L1755 | A |  | Legg perthes patten bottom t |  |  |  |  |
L1800 | A |  | Knee orthoses elas w stays |  |  |  |  |
L1810 | A |  | Ko elastic with joints |  |  |  |  |
L1815 | A |  | Elastic with condylar pads |  |  |  |  |
L1820 | A |  | Ko elas w/ condyle pads & jo |  |  |  |  |
L1825 | A |  | Ko elastic knee cap |  |  |  |  |
L1830 | A |  | Ko immobilizer canvas longit |  |  |  |  |
L1831 | A |  | Knee orth pos locking joint |  |  |  |  |
L1832 | A |  | KO adj jnt pos rigid support |  |  |  |  |
L1834 | A |  | Ko w/0 joint rigid molded to |  |  |  |  |
L1836 | A |  | Rigid KO wo joints |  |  |  |  |
L1840 | A |  | Ko derot ant cruciate custom |  |  |  |  |
L1843 | A |  | KO single upright custom fit |  |  |  |  |
L1844 | A |  | Ko w/adj jt rot cntrl molded |  |  |  |  |
L1845 | A |  | Ko w/ adj flex/ext rotat cus |  |  |  |  |
L1846 | A |  | Ko w adj flex/ext rotat mold |  |  |  |  |
L1847 | A |  | KO adjustable w air chambers |  |  |  |  |
L1850 | A |  | Ko swedish type |  |  |  |  |
L1855 | A |  | Ko plas doub upright jnt mol |  |  |  |  |
L1858 | A |  | Ko polycentric pneumatic pad |  |  |  |  |
L1860 | A |  | Ko supracondylar socket mold |  |  |  |  |
L1870 | A |  | Ko doub upright lacers molde |  |  |  |  |
L1880 | A |  | Ko doub upright cuffs/lacers |  |  |  |  |
L1900 | A |  | Afo sprng wir drsflx calf bd |  |  |  |  |
L1901 | A |  | Prefab ankle orthosis |  |  |  |  |
L1902 | A |  | Afo ankle gauntlet |  |  |  |  |
L1904 | A |  | Afo molded ankle gauntlet |  |  |  |  |
L1906 | A |  | Afo multiligamentus ankle su |  |  |  |  |
L1907 | A |  | AFO supramalleolar custom |  |  |  |  |
L1910 | A |  | Afo sing bar clasp attach sh |  |  |  |  |
L1920 | A |  | Afo sing upright w/ adjust s |  |  |  |  |
L1930 | A |  | Afo plastic |  |  |  |  |
L1932 | A |  | Afo rig ant tib prefab TCF/= |  |  |  |  |
L1940 | A |  | Afo molded to patient plasti |  |  |  |  |
L1945 | A |  | Afo molded plas rig ant tib |  |  |  |  |
L1950 | A |  | Afo spiral molded to pt plas |  |  |  |  |
L1951 | A |  | AFO spiral prefabricated |  |  |  |  |
L1960 | A |  | Afo pos solid ank plastic mo |  |  |  |  |
L1970 | A |  | Afo plastic molded w/ankle j |  |  |  |  |
L1971 | A |  | AFO w/ankle joint, prefab |  |  |  |  |
L1980 | A |  | Afo sing solid stirrup calf |  |  |  |  |
L1990 | A |  | Afo doub solid stirrup calf |  |  |  |  |
L2000 | A |  | Kafo sing fre stirr thi/calf |  |  |  |  |
L2005 | A |  | KAFO sng/dbl mechanical act |  |  |  |  |
L2010 | A |  | Kafo sng solid stirrup w/o j |  |  |  |  |
L2020 | A |  | Kafo dbl solid stirrup band/ |  |  |  |  |
L2030 | A |  | Kafo dbl solid stirrup w/o j |  |  |  |  |
L2035 | A |  | KAFO plastic pediatric size |  |  |  |  |
L2036 | A |  | Kafo plas doub free knee mol |  |  |  |  |
L2037 | A |  | Kafo plas sing free knee mol |  |  |  |  |
L2038 | A |  | Kafo w/o joint multi-axis an |  |  |  |  |
L2039 | A |  | KAFO,plstic,medlat rotat con |  |  |  |  |
L2040 | A |  | Hkafo torsion bil rot straps |  |  |  |  |
L2050 | A |  | Hkafo torsion cable hip pelv |  |  |  |  |
L2060 | A |  | Hkafo torsion ball bearing j |  |  |  |  |
L2070 | A |  | Hkafo torsion unilat rot str |  |  |  |  |
L2080 | A |  | Hkafo unilat torsion cable |  |  |  |  |
L2090 | A |  | Hkafo unilat torsion ball br |  |  |  |  |
L2106 | A |  | Afo tib fx cast plaster mold |  |  |  |  |
L2108 | A |  | Afo tib fx cast molded to pt |  |  |  |  |
L2112 | A |  | Afo tibial fracture soft |  |  |  |  |
L2114 | A |  | Afo tib fx semi-rigid |  |  |  |  |
L2116 | A |  | Afo tibial fracture rigid |  |  |  |  |
L2126 | A |  | Kafo fem fx cast thermoplas |  |  |  |  |
L2128 | A |  | Kafo fem fx cast molded to p |  |  |  |  |
L2132 | A |  | Kafo femoral fx cast soft |  |  |  |  |
L2134 | A |  | Kafo fem fx cast semi-rigid |  |  |  |  |
L2136 | A |  | Kafo femoral fx cast rigid |  |  |  |  |
L2180 | A |  | Plas shoe insert w ank joint |  |  |  |  |
L2182 | A |  | Drop lock knee |  |  |  |  |
L2184 | A |  | Limited motion knee joint |  |  |  |  |
L2186 | A |  | Adj motion knee jnt lerman t |  |  |  |  |
L2188 | A |  | Quadrilateral brim |  |  |  |  |
L2190 | A |  | Waist belt |  |  |  |  |
L2192 | A |  | Pelvic band & belt thigh fla |  |  |  |  |
L2200 | A |  | Limited ankle motion ea jnt |  |  |  |  |
L2210 | A |  | Dorsiflexion assist each joi |  |  |  |  |
L2220 | A |  | Dorsi & plantar flex ass/res |  |  |  |  |
L2230 | A |  | Split flat caliper stirr & p |  |  |  |  |
L2232 | A |  | Rocker bottom, contact AFO |  |  |  |  |
L2240 | A |  | Round caliper and plate atta |  |  |  |  |
L2250 | A |  | Foot plate molded stirrup at |  |  |  |  |
L2260 | A |  | Reinforced solid stirrup |  |  |  |  |
L2265 | A |  | Long tongue stirrup |  |  |  |  |
L2270 | A |  | Varus/valgus strap padded/li |  |  |  |  |
L2275 | A |  | Plastic mod low ext pad/line |  |  |  |  |
L2280 | A |  | Molded inner boot |  |  |  |  |
L2300 | A |  | Abduction bar jointed adjust |  |  |  |  |
L2310 | A |  | Abduction bar-straight |  |  |  |  |
L2320 | A |  | Non-molded lacer |  |  |  |  |
L2330 | A |  | Lacer molded to patient mode |  |  |  |  |
L2335 | A |  | Anterior swing band |  |  |  |  |
L2340 | A |  | Pre-tibial shell molded to p |  |  |  |  |
L2350 | A |  | Prosthetic type socket molde |  |  |  |  |
L2360 | A |  | Extended steel shank |  |  |  |  |
L2370 | A |  | Patten bottom |  |  |  |  |
L2375 | A |  | Torsion ank & half solid sti |  |  |  |  |
L2380 | A |  | Torsion straight knee joint |  |  |  |  |
L2385 | A |  | Straight knee joint heavy du |  |  |  |  |
L2390 | A |  | Offset knee joint each |  |  |  |  |
L2395 | A |  | Offset knee joint heavy duty |  |  |  |  |
L2397 | A |  | Suspension sleeve lower ext |  |  |  |  |
L2405 | A |  | Knee joint drop lock ea jnt |  |  |  |  |
L2415 | A |  | Knee joint cam lock each joi |  |  |  |  |
L2425 | A |  | Knee disc/dial lock/adj flex |  |  |  |  |
L2430 | A |  | Knee jnt ratchet lock ea jnt |  |  |  |  |
L2492 | A |  | Knee lift loop drop lock rin |  |  |  |  |
L2500 | A |  | Thi/glut/ischia wgt bearing |  |  |  |  |
L2510 | A |  | Th/wght bear quad-lat brim m |  |  |  |  |
L2520 | A |  | Th/wght bear quad-lat brim c |  |  |  |  |
L2525 | A |  | Th/wght bear nar m-l brim mo |  |  |  |  |
L2526 | A |  | Th/wght bear nar m-l brim cu |  |  |  |  |
L2530 | A |  | Thigh/wght bear lacer non-mo |  |  |  |  |
L2540 | A |  | Thigh/wght bear lacer molded |  |  |  |  |
L2550 | A |  | Thigh/wght bear high roll cu |  |  |  |  |
L2570 | A |  | Hip clevis type 2 posit jnt |  |  |  |  |
L2580 | A |  | Pelvic control pelvic sling |  |  |  |  |
L2600 | A |  | Hip clevis/thrust bearing fr |  |  |  |  |
L2610 | A |  | Hip clevis/thrust bearing lo |  |  |  |  |
L2620 | A |  | Pelvic control hip heavy dut |  |  |  |  |
L2622 | A |  | Hip joint adjustable flexion |  |  |  |  |
L2624 | A |  | Hip adj flex ext abduct cont |  |  |  |  |
L2627 | A |  | Plastic mold recipro hip & c |  |  |  |  |
L2628 | A |  | Metal frame recipro hip & ca |  |  |  |  |
L2630 | A |  | Pelvic control band & belt u |  |  |  |  |
L2640 | A |  | Pelvic control band & belt b |  |  |  |  |
L2650 | A |  | Pelv & thor control gluteal |  |  |  |  |
L2660 | A |  | Thoracic control thoracic ba |  |  |  |  |
L2670 | A |  | Thorac cont paraspinal uprig |  |  |  |  |
L2680 | A |  | Thorac cont lat support upri |  |  |  |  |
L2750 | A |  | Plating chrome/nickel pr bar |  |  |  |  |
L2755 | A |  | Carbon graphite lamination |  |  |  |  |
L2760 | A |  | Extension per extension per |  |  |  |  |
L2768 | A |  | Ortho sidebar disconnect |  |  |  |  |
L2770 | A |  | Low ext orthosis per bar/jnt |  |  |  |  |
L2780 | A |  | Non-corrosive finish |  |  |  |  |
L2785 | A |  | Drop lock retainer each |  |  |  |  |
L2795 | A |  | Knee control full kneecap |  |  |  |  |
L2800 | A |  | Knee cap medial or lateral p |  |  |  |  |
L2810 | A |  | Knee control condylar pad |  |  |  |  |
L2820 | A |  | Soft interface below knee se |  |  |  |  |
L2830 | A |  | Soft interface above knee se |  |  |  |  |
L2840 | A |  | Tibial length sock fx or equ |  |  |  |  |
L2850 | A |  | Femoral lgth sock fx or equa |  |  |  |  |
L2860 | A |  | Torsion mechanism knee/ankle |  |  |  |  |
L2999 | A |  | Lower extremity orthosis NOS |  |  |  |  |
L3000 | B |  | Ft insert ucb berkeley shell |  |  |  |  |
L3001 | B |  | Foot insert remov molded spe |  |  |  |  |
L3002 | B |  | Foot insert plastazote or eq |  |  |  |  |
L3003 | B |  | Foot insert silicone gel eac |  |  |  |  |
L3010 | B |  | Foot longitudinal arch suppo |  |  |  |  |
L3020 | B |  | Foot longitud/metatarsal sup |  |  |  |  |
L3030 | B |  | Foot arch support remov prem |  |  |  |  |
L3031 | E |  | Foot lamin/prepreg composite |  |  |  |  |
L3040 | B |  | Ft arch suprt premold longit |  |  |  |  |
L3050 | B |  | Foot arch supp premold metat |  |  |  |  |
L3060 | B |  | Foot arch supp longitud/meta |  |  |  |  |
L3070 | B |  | Arch suprt att to sho longit |  |  |  |  |
L3080 | B |  | Arch supp att to shoe metata |  |  |  |  |
L3090 | B |  | Arch supp att to shoe long/m |  |  |  |  |
L3100 | B |  | Hallus-valgus nght dynamic s |  |  |  |  |
L3140 | B |  | Abduction rotation bar shoe |  |  |  |  |
L3150 | B |  | Abduct rotation bar w/o shoe |  |  |  |  |
L3160 | B |  | Shoe styled positioning dev |  |  |  |  |
L3170 | B |  | Foot plastic heel stabilizer |  |  |  |  |
L3201 | B |  | Oxford w supinat/pronat inf |  |  |  |  |
L3202 | B |  | Oxford w/ supinat/pronator c |  |  |  |  |
L3203 | B |  | Oxford w/ supinator/pronator |  |  |  |  |
L3204 | B |  | Hightop w/ supp/pronator inf |  |  |  |  |
L3206 | B |  | Hightop w/ supp/pronator chi |  |  |  |  |
L3207 | B |  | Hightop w/ supp/pronator jun |  |  |  |  |
L3208 | B |  | Surgical boot each infant |  |  |  |  |
L3209 | B |  | Surgical boot each child |  |  |  |  |
L3211 | B |  | Surgical boot each junior |  |  |  |  |
L3212 | B |  | Benesch boot pair infant |  |  |  |  |
L3213 | B |  | Benesch boot pair child |  |  |  |  |
L3214 | B |  | Benesch boot pair junior |  |  |  |  |
L3215 | B |  | Orthopedic ftwear ladies oxf |  |  |  |  |
L3216 | B |  | Orthoped ladies shoes dpth i |  |  |  |  |
L3217 | B |  | Ladies shoes hightop depth i |  |  |  |  |
L3219 | B |  | Orthopedic mens shoes oxford |  |  |  |  |
L3221 | B |  | Orthopedic mens shoes dpth i |  |  |  |  |
L3222 | B |  | Mens shoes hightop depth inl |  |  |  |  |
L3224 | A |  | Womans shoe oxford brace |  |  |  |  |
L3225 | A |  | Mans shoe oxford brace |  |  |  |  |
L3230 | B |  | Custom shoes depth inlay |  |  |  |  |
L3250 | B |  | Custom mold shoe remov prost |  |  |  |  |
L3251 | B |  | Shoe molded to pt silicone s |  |  |  |  |
L3252 | B |  | Shoe molded plastazote cust |  |  |  |  |
L3253 | B |  | Shoe molded plastazote cust |  |  |  |  |
L3254 | B |  | Orth foot non-stndard size/w |  |  |  |  |
L3255 | B |  | Orth foot non-standard size/ |  |  |  |  |
L3257 | B |  | Orth foot add charge split s |  |  |  |  |
L3260 | B |  | Ambulatory surgical boot eac |  |  |  |  |
L3265 | B |  | Plastazote sandal each |  |  |  |  |
L3300 | B |  | Sho lift taper to metatarsal |  |  |  |  |
L3310 | B |  | Shoe lift elev heel/sole neo |  |  |  |  |
L3320 | B |  | Shoe lift elev heel/sole cor |  |  |  |  |
L3330 | B |  | Lifts elevation metal extens |  |  |  |  |
L3332 | B |  | Shoe lifts tapered to one-ha |  |  |  |  |
L3334 | B |  | Shoe lifts elevation heel /i |  |  |  |  |
L3340 | B |  | Shoe wedge sach |  |  |  |  |
L3350 | B |  | Shoe heel wedge |  |  |  |  |
L3360 | B |  | Shoe sole wedge outside sole |  |  |  |  |
L3370 | B |  | Shoe sole wedge between sole |  |  |  |  |
L3380 | B |  | Shoe clubfoot wedge |  |  |  |  |
L3390 | B |  | Shoe outflare wedge |  |  |  |  |
L3400 | B |  | Shoe metatarsal bar wedge ro |  |  |  |  |
L3410 | B |  | Shoe metatarsal bar between |  |  |  |  |
L3420 | B |  | Full sole/heel wedge btween |  |  |  |  |
L3430 | B |  | Sho heel count plast reinfor |  |  |  |  |
L3440 | B |  | Heel leather reinforced |  |  |  |  |
L3450 | B |  | Shoe heel sach cushion type |  |  |  |  |
L3455 | B |  | Shoe heel new leather standa |  |  |  |  |
L3460 | B |  | Shoe heel new rubber standar |  |  |  |  |
L3465 | B |  | Shoe heel thomas with wedge |  |  |  |  |
L3470 | B |  | Shoe heel thomas extend to b |  |  |  |  |
L3480 | B |  | Shoe heel pad & depress for |  |  |  |  |
L3485 | B |  | Shoe heel pad removable for |  |  |  |  |
L3500 | B |  | Ortho shoe add leather insol |  |  |  |  |
L3510 | B |  | Orthopedic shoe add rub insl |  |  |  |  |
L3520 | B |  | O shoe add felt w leath insl |  |  |  |  |
L3530 | B |  | Ortho shoe add half sole |  |  |  |  |
L3540 | B |  | Ortho shoe add full sole |  |  |  |  |
L3550 | B |  | O shoe add standard toe tap |  |  |  |  |
L3560 | B |  | O shoe add horseshoe toe tap |  |  |  |  |
L3570 | B |  | O shoe add instep extension |  |  |  |  |
L3580 | B |  | O shoe add instep velcro clo |  |  |  |  |
L3590 | B |  | O shoe convert to sof counte |  |  |  |  |
L3595 | B |  | Ortho shoe add march bar |  |  |  |  |
L3600 | B |  | Trans shoe calip plate exist |  |  |  |  |
L3610 | B |  | Trans shoe caliper plate new |  |  |  |  |
L3620 | B |  | Trans shoe solid stirrup exi |  |  |  |  |
L3630 | B |  | Trans shoe solid stirrup new |  |  |  |  |
L3640 | B |  | Shoe dennis browne splint bo |  |  |  |  |
L3649 | B |  | Orthopedic shoe modifica NOS |  |  |  |  |
L3650 | A |  | Shlder fig 8 abduct restrain |  |  |  |  |
L3651 | A |  | Prefab shoulder orthosis |  |  |  |  |
L3652 | A |  | Prefab dbl shoulder orthosis |  |  |  |  |
L3660 | A |  | Abduct restrainer canvas&web |  |  |  |  |
L3670 | A |  | Acromio/clavicular canvas&we |  |  |  |  |
L3675 | A |  | Canvas vest SO |  |  |  |  |
L3677 | E |  | SO hard plastic stabilizer |  |  |  |  |
L3700 | A |  | Elbow orthoses elas w stays |  |  |  |  |
L3701 | A |  | Prefab elbow orthosis |  |  |  |  |
L3710 | A |  | Elbow elastic with metal joi |  |  |  |  |
L3720 | A |  | Forearm/arm cuffs free motio |  |  |  |  |
L3730 | A |  | Forearm/arm cuffs ext/flex a |  |  |  |  |
L3740 | A |  | Cuffs adj lock w/ active con |  |  |  |  |
L3760 | A |  | EO withjoint, Prefabricated |  |  |  |  |
L3762 | A |  | Rigid EO wo joints |  |  |  |  |
L3800 | A |  | Whfo short opponen no attach |  |  |  |  |
L3805 | A |  | Whfo long opponens no attach |  |  |  |  |
L3807 | A |  | WHFO,no joint, prefabricated |  |  |  |  |
L3810 | A |  | Whfo thumb abduction bar |  |  |  |  |
L3815 | A |  | Whfo second m.p. abduction a |  |  |  |  |
L3820 | A |  | Whfo ip ext asst w/ mp ext s |  |  |  |  |
L3825 | A |  | Whfo m.p. extension stop |  |  |  |  |
L3830 | A |  | Whfo m.p. extension assist |  |  |  |  |
L3835 | A |  | Whfo m.p. spring extension a |  |  |  |  |
L3840 | A |  | Whfo spring swivel thumb |  |  |  |  |
L3845 | A |  | Whfo thumb ip ext ass w/ mp |  |  |  |  |
L3850 | A |  | Action wrist w/ dorsiflex as |  |  |  |  |
L3855 | A |  | Whfo adj m.p. flexion contro |  |  |  |  |
L3860 | A |  | Whfo adj m.p. flex ctrl & i |  |  |  |  |
L3890 | B |  | Torsion mechanism wrist/elbo |  |  |  |  |
L3900 | A |  | Hinge extension/flex wrist/f |  |  |  |  |
L3901 | A |  | Hinge ext/flex wrist finger |  |  |  |  |
L3902 | E |  | Whfo ext power compress gas |  |  |  |  |
L3904 | A |  | Whfo electric custom fitted |  |  |  |  |
L3906 | A |  | Wrist gauntlet molded to pt |  |  |  |  |
L3907 | A |  | Whfo wrst gauntlt thmb spica |  |  |  |  |
L3908 | A |  | Wrist cock-up non-molded |  |  |  |  |
L3909 | A |  | Prefab wrist orthosis |  |  |  |  |
L3910 | A |  | Whfo swanson design |  |  |  |  |
L3911 | A |  | Prefab hand finger orthosis |  |  |  |  |
L3912 | A |  | Flex glove w/elastic finger |  |  |  |  |
L3914 | A |  | WHO wrist extension cock-up |  |  |  |  |
L3916 | A |  | Whfo wrist extens w/ outrigg |  |  |  |  |
L3917 | A |  | Prefab metacarpl fx orthosis |  |  |  |  |
L3918 | A |  | HFO knuckle bender |  |  |  |  |
L3920 | A |  | Knuckle bender with outrigge |  |  |  |  |
L3922 | A |  | Knuckle bend 2 seg to flex j |  |  |  |  |
L3923 | A |  | HFO, no joint, prefabricated |  |  |  |  |
L3924 | A |  | Oppenheimer |  |  |  |  |
L3926 | A |  | Thomas suspension |  |  |  |  |
L3928 | A |  | Finger extension w/ clock sp |  |  |  |  |
L3930 | A |  | Finger extension with wrist |  |  |  |  |
L3932 | A |  | Safety pin spring wire |  |  |  |  |
L3934 | A |  | Safety pin modified |  |  |  |  |
L3936 | A |  | Palmer |  |  |  |  |
L3938 | A |  | Dorsal wrist |  |  |  |  |
L3940 | A |  | Dorsal wrist w/ outrigger at |  |  |  |  |
L3942 | A |  | Reverse knuckle bender |  |  |  |  |
L3944 | A |  | Reverse knuckle bend w/ outr |  |  |  |  |
L3946 | A |  | HFO composite elastic |  |  |  |  |
L3948 | A |  | Finger knuckle bender |  |  |  |  |
L3950 | A |  | Oppenheimer w/ knuckle bend |  |  |  |  |
L3952 | A |  | Oppenheimer w/ rev knuckle 2 |  |  |  |  |
L3954 | A |  | Spreading hand |  |  |  |  |
L3956 | A |  | Add joint upper ext orthosis |  |  |  |  |
L3960 | A |  | Sewho airplan desig abdu pos |  |  |  |  |
L3962 | A |  | Sewho erbs palsey design abd |  |  |  |  |
L3963 | A |  | Molded w/ articulating elbow |  |  |  |  |
L3964 | Y |  | Seo mobile arm sup att to wc |  |  |  |  |
L3965 | Y |  | Arm supp att to wc rancho ty |  |  |  |  |
L3966 | Y |  | Mobile arm supports reclinin |  |  |  |  |
L3968 | Y |  | Friction dampening arm supp |  |  |  |  |
L3969 | Y |  | Monosuspension arm/hand supp |  |  |  |  |
L3970 | Y |  | Elevat proximal arm support |  |  |  |  |
L3972 | Y |  | Offset/lat rocker arm w/ ela |  |  |  |  |
L3974 | Y |  | Mobile arm support supinator |  |  |  |  |
L3980 | A |  | Upp ext fx orthosis humeral |  |  |  |  |
L3982 | A |  | Upper ext fx orthosis rad/ul |  |  |  |  |
L3984 | A |  | Upper ext fx orthosis wrist |  |  |  |  |
L3985 | A |  | Forearm hand fx orth w/ wr h |  |  |  |  |
L3986 | A |  | Humeral rad/ulna wrist fx or |  |  |  |  |
L3995 | A |  | Sock fracture or equal each |  |  |  |  |
L3999 | A |  | Upper limb orthosis NOS |  |  |  |  |
L4000 | A |  | Repl girdle milwaukee orth |  |  |  |  |
L4002 | A |  | Replace strap, any orthosis |  |  |  |  |
L4010 | A |  | Replace trilateral socket br |  |  |  |  |
L4020 | A |  | Replace quadlat socket brim |  |  |  |  |
L4030 | A |  | Replace socket brim cust fit |  |  |  |  |
L4040 | A |  | Replace molded thigh lacer |  |  |  |  |
L4045 | A |  | Replace non-molded thigh lac |  |  |  |  |
L4050 | A |  | Replace molded calf lacer |  |  |  |  |
L4055 | A |  | Replace non-molded calf lace |  |  |  |  |
L4060 | A |  | Replace high roll cuff |  |  |  |  |
L4070 | A |  | Replace prox & dist upright |  |  |  |  |
L4080 | A |  | Repl met band kafo-afo prox |  |  |  |  |
L4090 | A |  | Repl met band kafo-afo calf/ |  |  |  |  |
L4100 | A |  | Repl leath cuff kafo prox th |  |  |  |  |
L4110 | A |  | Repl leath cuff kafo-afo cal |  |  |  |  |
L4130 | A |  | Replace pretibial shell |  |  |  |  |
L4205 | A |  | Ortho dvc repair per 15 min |  |  |  |  |
L4210 | A |  | Orth dev repair/repl minor p |  |  |  |  |
L4350 | A |  | Ankle control orthosi prefab |  |  |  |  |
L4360 | A |  | Pneumati walking boot prefab |  |  |  |  |
L4370 | A |  | Pneumatic full leg splint |  |  |  |  |
L4380 | A |  | Pneumatic knee splint |  |  |  |  |
L4386 | A |  | Non-pneum walk boot prefab |  |  |  |  |
L4392 | A |  | Replace AFO soft interface |  |  |  |  |
L4394 | A |  | Replace foot drop spint |  |  |  |  |
L4396 | A |  | Static AFO |  |  |  |  |
L4398 | A |  | Foot drop splint recumbent |  |  |  |  |
L5000 | A |  | Sho insert w arch toe filler |  |  |  |  |
L5010 | A |  | Mold socket ank hgt w/ toe f |  |  |  |  |
L5020 | A |  | Tibial tubercle hgt w/ toe f |  |  |  |  |
L5050 | A |  | Ank symes mold sckt sach ft |  |  |  |  |
L5060 | A |  | Symes met fr leath socket ar |  |  |  |  |
L5100 | A |  | Molded socket shin sach foot |  |  |  |  |
L5105 | A |  | Plast socket jts/thgh lacer |  |  |  |  |
L5150 | A |  | Mold sckt ext knee shin sach |  |  |  |  |
L5160 | A |  | Mold socket bent knee shin s |  |  |  |  |
L5200 | A |  | Kne sing axis fric shin sach |  |  |  |  |
L5210 | A |  | No knee/ankle joints w/ ft b |  |  |  |  |
L5220 | A |  | No knee joint with artic ali |  |  |  |  |
L5230 | A |  | Fem focal defic constant fri |  |  |  |  |
L5250 | A |  | Hip canad sing axi cons fric |  |  |  |  |
L5270 | A |  | Tilt table locking hip sing |  |  |  |  |
L5280 | A |  | Hemipelvect canad sing axis |  |  |  |  |
L5301 | A |  | BK mold socket SACH ft endo |  |  |  |  |
L5311 | A |  | Knee disart, SACH ft, endo |  |  |  |  |
L5321 | A |  | AK open end SACH |  |  |  |  |
L5331 | A |  | Hip disart canadian SACH ft |  |  |  |  |
L5341 | A |  | Hemipelvectomy canadian SACH |  |  |  |  |
L5400 | A |  | Postop dress & 1 cast chg bk |  |  |  |  |
L5410 | A |  | Postop dsg bk ea add cast ch |  |  |  |  |
L5420 | A |  | Postop dsg & 1 cast chg ak/d |  |  |  |  |
L5430 | A |  | Postop dsg ak ea add cast ch |  |  |  |  |
L5450 | A |  | Postop app non-wgt bear dsg |  |  |  |  |
L5460 | A |  | Postop app non-wgt bear dsg |  |  |  |  |
L5500 | A |  | Init bk ptb plaster direct |  |  |  |  |
L5505 | A |  | Init ak ischal plstr direct |  |  |  |  |
L5510 | A |  | Prep BK ptb plaster molded |  |  |  |  |
L5520 | A |  | Perp BK ptb thermopls direct |  |  |  |  |
L5530 | A |  | Prep BK ptb thermopls molded |  |  |  |  |
L5535 | A |  | Prep BK ptb open end socket |  |  |  |  |
L5540 | A |  | Prep BK ptb laminated socket |  |  |  |  |
L5560 | A |  | Prep AK ischial plast molded |  |  |  |  |
L5570 | A |  | Prep AK ischial direct form |  |  |  |  |
L5580 | A |  | Prep AK ischial thermo mold |  |  |  |  |
L5585 | A |  | Prep AK ischial open end |  |  |  |  |
L5590 | A |  | Prep AK ischial laminated |  |  |  |  |
L5595 | A |  | Hip disartic sach thermopls |  |  |  |  |
L5600 | A |  | Hip disart sach laminat mold |  |  |  |  |
L5610 | A |  | Above knee hydracadence |  |  |  |  |
L5611 | A |  | Ak 4 bar link w/fric swing |  |  |  |  |
L5613 | A |  | Ak 4 bar ling w/hydraul swig |  |  |  |  |
L5614 | A |  | 4-bar link above knee w/swng |  |  |  |  |
L5616 | A |  | Ak univ multiplex sys frict |  |  |  |  |
L5617 | A |  | AK/BK self-aligning unit ea |  |  |  |  |
L5618 | A |  | Test socket symes |  |  |  |  |
L5620 | A |  | Test socket below knee |  |  |  |  |
L5622 | A |  | Test socket knee disarticula |  |  |  |  |
L5624 | A |  | Test socket above knee |  |  |  |  |
L5626 | A |  | Test socket hip disarticulat |  |  |  |  |
L5628 | A |  | Test socket hemipelvectomy |  |  |  |  |
L5629 | A |  | Below knee acrylic socket |  |  |  |  |
L5630 | A |  | Syme typ expandabl wall sckt |  |  |  |  |
L5631 | A |  | Ak/knee disartic acrylic soc |  |  |  |  |
L5632 | A |  | Symes type ptb brim design s |  |  |  |  |
L5634 | A |  | Symes type poster opening so |  |  |  |  |
L5636 | A |  | Symes type medial opening so |  |  |  |  |
L5637 | A |  | Below knee total contact |  |  |  |  |
L5638 | A |  | Below knee leather socket |  |  |  |  |
L5639 | A |  | Below knee wood socket |  |  |  |  |
L5640 | A |  | Knee disarticulat leather so |  |  |  |  |
L5642 | A |  | Above knee leather socket |  |  |  |  |
L5643 | A |  | Hip flex inner socket ext fr |  |  |  |  |
L5644 | A |  | Above knee wood socket |  |  |  |  |
L5645 | A |  | Bk flex inner socket ext fra |  |  |  |  |
L5646 | A |  | Below knee cushion socket |  |  |  |  |
L5647 | A |  | Below knee suction socket |  |  |  |  |
L5648 | A |  | Above knee cushion socket |  |  |  |  |
L5649 | A |  | Isch containmt/narrow m-l so |  |  |  |  |
L5650 | A |  | Tot contact ak/knee disart s |  |  |  |  |
L5651 | A |  | Ak flex inner socket ext fra |  |  |  |  |
L5652 | A |  | Suction susp ak/knee disart |  |  |  |  |
L5653 | A |  | Knee disart expand wall sock |  |  |  |  |
L5654 | A |  | Socket insert symes |  |  |  |  |
L5655 | A |  | Socket insert below knee |  |  |  |  |
L5656 | A |  | Socket insert knee articulat |  |  |  |  |
L5658 | A |  | Socket insert above knee |  |  |  |  |
L5661 | A |  | Multi-durometer symes |  |  |  |  |
L5665 | A |  | Multi-durometer below knee |  |  |  |  |
L5666 | A |  | Below knee cuff suspension |  |  |  |  |
L5668 | A |  | Socket insert w/o lock lower |  |  |  |  |
L5670 | A |  | Bk molded supracondylar susp |  |  |  |  |
L5671 | A |  | BK/AK locking mechanism |  |  |  |  |
L5672 | A |  | Bk removable medial brim sus |  |  |  |  |
L5673 | A |  | Socket insert w lock mech |  |  |  |  |
L5676 | A |  | Bk knee joints single axis p |  |  |  |  |
L5677 | A |  | Bk knee joints polycentric p |  |  |  |  |
L5678 | A |  | Bk joint covers pair |  |  |  |  |
L5679 | A |  | Socket insert w/o lock mech |  |  |  |  |
L5680 | A |  | Bk thigh lacer non-molded |  |  |  |  |
L5681 | A |  | Intl custm cong/latyp insert |  |  |  |  |
L5682 | A |  | Bk thigh lacer glut/ischia m |  |  |  |  |
L5683 | A |  | Initial custom socket insert |  |  |  |  |
L5684 | A |  | Bk fork strap |  |  |  |  |
L5685 | A |  | Below knee sus/seal sleeve |  |  |  |  |
L5686 | A |  | Bk back check |  |  |  |  |
L5688 | A |  | Bk waist belt webbing |  |  |  |  |
L5690 | A |  | Bk waist belt padded and lin |  |  |  |  |
L5692 | A |  | Ak pelvic control belt light |  |  |  |  |
L5694 | A |  | Ak pelvic control belt pad/l |  |  |  |  |
L5695 | A |  | Ak sleeve susp neoprene/equa |  |  |  |  |
L5696 | A |  | Ak/knee disartic pelvic join |  |  |  |  |
L5697 | A |  | Ak/knee disartic pelvic band |  |  |  |  |
L5698 | A |  | Ak/knee disartic silesian ba |  |  |  |  |
L5699 | A |  | Shoulder harness |  |  |  |  |
L5700 | A |  | Replace socket below knee |  |  |  |  |
L5701 | A |  | Replace socket above knee |  |  |  |  |
L5702 | A |  | Replace socket hip |  |  |  |  |
L5704 | A |  | Custom shape cover BK |  |  |  |  |
L5705 | A |  | Custom shape cover AK |  |  |  |  |
L5706 | A |  | Custom shape cvr knee disart |  |  |  |  |
L5707 | A |  | Custom shape cvr hip disart |  |  |  |  |
L5710 | A |  | Kne-shin exo sng axi mnl loc |  |  |  |  |
L5711 | A |  | Knee-shin exo mnl lock ultra |  |  |  |  |
L5712 | A |  | Knee-shin exo frict swg & st |  |  |  |  |
L5714 | A |  | Knee-shin exo variable frict |  |  |  |  |
L5716 | A |  | Knee-shin exo mech stance ph |  |  |  |  |
L5718 | A |  | Knee-shin exo frct swg & sta |  |  |  |  |
L5722 | A |  | Knee-shin pneum swg frct exo |  |  |  |  |
L5724 | A |  | Knee-shin exo fluid swing ph |  |  |  |  |
L5726 | A |  | Knee-shin ext jnts fld swg e |  |  |  |  |
L5728 | A |  | Knee-shin fluid swg & stance |  |  |  |  |
L5780 | A |  | Knee-shin pneum/hydra pneum |  |  |  |  |
L5781 | A |  | Lower limb pros vacuum pump |  |  |  |  |
L5782 | A |  | HD low limb pros vacuum pump |  |  |  |  |
L5785 | A |  | Exoskeletal bk ultralt mater |  |  |  |  |
L5790 | A |  | Exoskeletal ak ultra-light m |  |  |  |  |
L5795 | A |  | Exoskel hip ultra-light mate |  |  |  |  |
L5810 | A |  | Endoskel knee-shin mnl lock |  |  |  |  |
L5811 | A |  | Endo knee-shin mnl lck ultra |  |  |  |  |
L5812 | A |  | Endo knee-shin frct swg & st |  |  |  |  |
L5814 | A |  | Endo knee-shin hydral swg ph |  |  |  |  |
L5816 | A |  | Endo knee-shin polyc mch sta |  |  |  |  |
L5818 | A |  | Endo knee-shin frct swg & st |  |  |  |  |
L5822 | A |  | Endo knee-shin pneum swg frc |  |  |  |  |
L5824 | A |  | Endo knee-shin fluid swing p |  |  |  |  |
L5826 | A |  | Miniature knee joint |  |  |  |  |
L5828 | A |  | Endo knee-shin fluid swg/sta |  |  |  |  |
L5830 | A |  | Endo knee-shin pneum/swg pha |  |  |  |  |
L5840 | A |  | Multi-axial knee/shin system |  |  |  |  |
L5845 | A |  | Knee-shin sys stance flexion |  |  |  |  |
L5848 | A |  | Knee-shin sys hydraul stance |  |  |  |  |
L5850 | A |  | Endo ak/hip knee extens assi |  |  |  |  |
L5855 | A |  | Mech hip extension assist |  |  |  |  |
L5856 | A |  | Elec knee-shin swing/stance |  |  |  |  |
L5857 | A |  | Elec knee-shin swing only |  |  |  |  |
L5910 | A |  | Endo below knee alignable sy |  |  |  |  |
L5920 | A |  | Endo ak/hip alignable system |  |  |  |  |
L5925 | A |  | Above knee manual lock |  |  |  |  |
L5930 | A |  | High activity knee frame |  |  |  |  |
L5940 | A |  | Endo bk ultra-light material |  |  |  |  |
L5950 | A |  | Endo ak ultra-light material |  |  |  |  |
L5960 | A |  | Endo hip ultra-light materia |  |  |  |  |
L5962 | A |  | Below knee flex cover system |  |  |  |  |
L5964 | A |  | Above knee flex cover system |  |  |  |  |
L5966 | A |  | Hip flexible cover system |  |  |  |  |
L5968 | A |  | Multiaxial ankle w dorsiflex |  |  |  |  |
L5970 | A |  | Foot external keel sach foot |  |  |  |  |
L5972 | A |  | Flexible keel foot |  |  |  |  |
L5974 | A |  | Foot single axis ankle/foot |  |  |  |  |
L5975 | A |  | Combo ankle/foot prosthesis |  |  |  |  |
L5976 | A |  | Energy storing foot |  |  |  |  |
L5978 | A |  | Ft prosth multiaxial ankl/ft |  |  |  |  |
L5979 | A |  | Multi-axial ankle/ft prosth |  |  |  |  |
L5980 | A |  | Flex foot system |  |  |  |  |
L5981 | A |  | Flex-walk sys low ext prosth |  |  |  |  |
L5982 | A |  | Exoskeletal axial rotation u |  |  |  |  |
L5984 | A |  | Endoskeletal axial rotation |  |  |  |  |
L5985 | A |  | Lwr ext dynamic prosth pylon |  |  |  |  |
L5986 | A |  | Multi-axial rotation unit |  |  |  |  |
L5987 | A |  | Shank ft w vert load pylon |  |  |  |  |
L5988 | A |  | Vertical shock reducing pylo |  |  |  |  |
L5990 | A |  | User adjustable heel height |  |  |  |  |
L5995 | A |  | Lower ext pros heavyduty fea |  |  |  |  |
L5999 | A |  | Lowr extremity prosthes NOS |  |  |  |  |
L6000 | A |  | Par hand robin-aids thum rem |  |  |  |  |
L6010 | A |  | Hand robin-aids little/ring |  |  |  |  |
L6020 | A |  | Part hand robin-aids no fing |  |  |  |  |
L6025 | A |  | Part hand disart myoelectric |  |  |  |  |
L6050 | A |  | Wrst MLd sck flx hng tri pad |  |  |  |  |
L6055 | A |  | Wrst mold sock w/exp interfa |  |  |  |  |
L6100 | A |  | Elb mold sock flex hinge pad |  |  |  |  |
L6110 | A |  | Elbow mold sock suspension t |  |  |  |  |
L6120 | A |  | Elbow mold doub splt soc ste |  |  |  |  |
L6130 | A |  | Elbow stump activated lock h |  |  |  |  |
L6200 | A |  | Elbow mold outsid lock hinge |  |  |  |  |
L6205 | A |  | Elbow molded w/ expand inter |  |  |  |  |
L6250 | A |  | Elbow inter loc elbow forarm |  |  |  |  |
L6300 | A |  | Shlder disart int lock elbow |  |  |  |  |
L6310 | A |  | Shoulder passive restor comp |  |  |  |  |
L6320 | A |  | Shoulder passive restor cap |  |  |  |  |
L6350 | A |  | Thoracic intern lock elbow |  |  |  |  |
L6360 | A |  | Thoracic passive restor comp |  |  |  |  |
L6370 | A |  | Thoracic passive restor cap |  |  |  |  |
L6380 | A |  | Postop dsg cast chg wrst/elb |  |  |  |  |
L6382 | A |  | Postop dsg cast chg elb dis/ |  |  |  |  |
L6384 | A |  | Postop dsg cast chg shlder/t |  |  |  |  |
L6386 | A |  | Postop ea cast chg & realign |  |  |  |  |
L6388 | A |  | Postop applicat rigid dsg on |  |  |  |  |
L6400 | A |  | Below elbow prosth tiss shap |  |  |  |  |
L6450 | A |  | Elb disart prosth tiss shap |  |  |  |  |
L6500 | A |  | Above elbow prosth tiss shap |  |  |  |  |
L6550 | A |  | Shldr disar prosth tiss shap |  |  |  |  |
L6570 | A |  | Scap thorac prosth tiss shap |  |  |  |  |
L6580 | A |  | Wrist/elbow bowden cable mol |  |  |  |  |
L6582 | A |  | Wrist/elbow bowden cbl dir f |  |  |  |  |
L6584 | A |  | Elbow fair lead cable molded |  |  |  |  |
L6586 | A |  | Elbow fair lead cable dir fo |  |  |  |  |
L6588 | A |  | Shdr fair lead cable molded |  |  |  |  |
L6590 | A |  | Shdr fair lead cable direct |  |  |  |  |
L6600 | A |  | Polycentric hinge pair |  |  |  |  |
L6605 | A |  | Single pivot hinge pair |  |  |  |  |
L6610 | A |  | Flexible metal hinge pair |  |  |  |  |
L6615 | A |  | Disconnect locking wrist uni |  |  |  |  |
L6616 | A |  | Disconnect insert locking wr |  |  |  |  |
L6620 | A |  | Flexion/extension wrist unit |  |  |  |  |
L6623 | A |  | Spring-ass rot wrst w/ latch |  |  |  |  |
L6625 | A |  | Rotation wrst w/ cable lock |  |  |  |  |
L6628 | A |  | Quick disconn hook adapter o |  |  |  |  |
L6629 | A |  | Lamination collar w/ couplin |  |  |  |  |
L6630 | A |  | Stainless steel any wrist |  |  |  |  |
L6632 | A |  | Latex suspension sleeve each |  |  |  |  |
L6635 | A |  | Lift assist for elbow |  |  |  |  |
L6637 | A |  | Nudge control elbow lock |  |  |  |  |
L6638 | A |  | Elec lock on manual pw elbow |  |  |  |  |
L6640 | A |  | Shoulder abduction joint pai |  |  |  |  |
L6641 | A |  | Excursion amplifier pulley t |  |  |  |  |
L6642 | A |  | Excursion amplifier lever ty |  |  |  |  |
L6645 | A |  | Shoulder flexion-abduction j |  |  |  |  |
L6646 | A |  | Multipo locking shoulder jnt |  |  |  |  |
L6647 | A |  | Shoulder lock actuator |  |  |  |  |
L6648 | A |  | Ext pwrd shlder lock/unlock |  |  |  |  |
L6650 | A |  | Shoulder universal joint |  |  |  |  |
L6655 | A |  | Standard control cable extra |  |  |  |  |
L6660 | A |  | Heavy duty control cable |  |  |  |  |
L6665 | A |  | Teflon or equal cable lining |  |  |  |  |
L6670 | A |  | Hook to hand cable adapter |  |  |  |  |
L6672 | A |  | Harness chest/shlder saddle |  |  |  |  |
L6675 | A |  | Harness figure of 8 sing con |  |  |  |  |
L6676 | A |  | Harness figure of 8 dual con |  |  |  |  |
L6680 | A |  | Test sock wrist disart/bel e |  |  |  |  |
L6682 | A |  | Test sock elbw disart/above |  |  |  |  |
L6684 | A |  | Test socket shldr disart/tho |  |  |  |  |
L6686 | A |  | Suction socket |  |  |  |  |
L6687 | A |  | Frame typ socket bel elbow/w |  |  |  |  |
L6688 | A |  | Frame typ sock above elb/dis |  |  |  |  |
L6689 | A |  | Frame typ socket shoulder di |  |  |  |  |
L6690 | A |  | Frame typ sock interscap-tho |  |  |  |  |
L6691 | A |  | Removable insert each |  |  |  |  |
L6692 | A |  | Silicone gel insert or equal |  |  |  |  |
L6693 | A |  | Lockingelbow forearm cntrbal |  |  |  |  |
L6694 | A |  | Elbow socket ins use w/lock |  |  |  |  |
L6695 | A |  | Elbow socket ins use w/o lck |  |  |  |  |
L6696 | A |  | Cus elbo skt in for con/atyp |  |  |  |  |
L6697 | A |  | Cus elbo skt in not con/atyp |  |  |  |  |
L6698 | A |  | Below/above elbow lock mech |  |  |  |  |
L6700 | A |  | Terminal device model #3 |  |  |  |  |
L6705 | A |  | Terminal device model #5 |  |  |  |  |
L6710 | A |  | Terminal device model #5x |  |  |  |  |
L6715 | A |  | Terminal device model #5xa |  |  |  |  |
L6720 | A |  | Terminal device model #6 |  |  |  |  |
L6725 | A |  | Terminal device model #7 |  |  |  |  |
L6730 | A |  | Terminal device model #7lo |  |  |  |  |
L6735 | A |  | Terminal device model #8 |  |  |  |  |
L6740 | A |  | Terminal device model #8x |  |  |  |  |
L6745 | A |  | Terminal device model #88x |  |  |  |  |
L6750 | A |  | Terminal device model #10p |  |  |  |  |
L6755 | A |  | Terminal device model #10x |  |  |  |  |
L6765 | A |  | Terminal device model #12p |  |  |  |  |
L6770 | A |  | Terminal device model #99x |  |  |  |  |
L6775 | A |  | Terminal device model #555 |  |  |  |  |
L6780 | A |  | Terminal device model #ss555 |  |  |  |  |
L6790 | A |  | Hooks-accu hook or equal |  |  |  |  |
L6795 | A |  | Hooks-2 load or equal |  |  |  |  |
L6800 | A |  | Hooks-aprl vc or equal |  |  |  |  |
L6805 | A |  | Modifier wrist flexion unit |  |  |  |  |
L6806 | A |  | Trs grip vc or equal |  |  |  |  |
L6807 | A |  | Term device grip1/2 or equal |  |  |  |  |
L6808 | A |  | Term device infant or child |  |  |  |  |
L6809 | A |  | Trs super sport passive |  |  |  |  |
L6810 | A |  | Pincher tool otto bock or eq |  |  |  |  |
L6825 | A |  | Hands dorrance vo |  |  |  |  |
L6830 | A |  | Hand aprl vc |  |  |  |  |
L6835 | A |  | Hand sierra vo |  |  |  |  |
L6840 | A |  | Hand becker imperial |  |  |  |  |
L6845 | A |  | Hand becker lock grip |  |  |  |  |
L6850 | A |  | Term dvc-hand becker plylite |  |  |  |  |
L6855 | A |  | Hand robin-aids vo |  |  |  |  |
L6860 | A |  | Hand robin-aids vo soft |  |  |  |  |
L6865 | A |  | Hand passive hand |  |  |  |  |
L6867 | A |  | Hand detroit infant hand |  |  |  |  |
L6868 | A |  | Passive inf hand steeper/hos |  |  |  |  |
L6870 | A |  | Hand child mitt |  |  |  |  |
L6872 | A |  | Hand nyu child hand |  |  |  |  |
L6873 | A |  | Hand mech inf steeper or equ |  |  |  |  |
L6875 | A |  | Hand bock vc |  |  |  |  |
L6880 | A |  | Hand bock vo |  |  |  |  |
L6881 | A |  | Autograsp feature ul term dv |  |  |  |  |
L6882 | A |  | Microprocessor control uplmb |  |  |  |  |
L6890 | A |  | Production glove |  |  |  |  |
L6895 | A |  | Custom glove |  |  |  |  |
L6900 | A |  | Hand restorat thumb/1 finger |  |  |  |  |
L6905 | A |  | Hand restoration multiple fi |  |  |  |  |
L6910 | A |  | Hand restoration no fingers |  |  |  |  |
L6915 | A |  | Hand restoration replacmnt g |  |  |  |  |
L6920 | A |  | Wrist disarticul switch ctrl |  |  |  |  |
L6925 | A |  | Wrist disart myoelectronic c |  |  |  |  |
L6930 | A |  | Below elbow switch control |  |  |  |  |
L6935 | A |  | Below elbow myoelectronic ct |  |  |  |  |
L6940 | A |  | Elbow disarticulation switch |  |  |  |  |
L6945 | A |  | Elbow disart myoelectronic c |  |  |  |  |
L6950 | A |  | Above elbow switch control |  |  |  |  |
L6955 | A |  | Above elbow myoelectronic ct |  |  |  |  |
L6960 | A |  | Shldr disartic switch contro |  |  |  |  |
L6965 | A |  | Shldr disartic myoelectronic |  |  |  |  |
L6970 | A |  | Interscapular-thor switch ct |  |  |  |  |
L6975 | A |  | Interscap-thor myoelectronic |  |  |  |  |
L7010 | A |  | Hand otto back steeper/eq sw |  |  |  |  |
L7015 | A |  | Hand sys teknik village swit |  |  |  |  |
L7020 | A |  | Electronic greifer switch ct |  |  |  |  |
L7025 | A |  | Electron hand myoelectronic |  |  |  |  |
L7030 | A |  | Hand sys teknik vill myoelec |  |  |  |  |
L7035 | A |  | Electron greifer myoelectro |  |  |  |  |
L7040 | A |  | Prehensile actuator hosmer s |  |  |  |  |
L7045 | A |  | Electron hook child michigan |  |  |  |  |
L7170 | A |  | Electronic elbow hosmer swit |  |  |  |  |
L7180 | A |  | Electronic elbow utah myoele |  |  |  |  |
L7181 | A |  | Electronic elbo simultaneous |  |  |  |  |
L7185 | A |  | Electron elbow adolescent sw |  |  |  |  |
L7186 | A |  | Electron elbow child switch |  |  |  |  |
L7190 | A |  | Elbow adolescent myoelectron |  |  |  |  |
L7191 | A |  | Elbow child myoelectronic ct |  |  |  |  |
L7260 | A |  | Electron wrist rotator otto |  |  |  |  |
L7261 | A |  | Electron wrist rotator utah |  |  |  |  |
L7266 | A |  | Servo control steeper or equ |  |  |  |  |
L7272 | A |  | Analogue control unb or equa |  |  |  |  |
L7274 | A |  | Proportional ctl 12 volt uta |  |  |  |  |
L7360 | A |  | Six volt bat otto bock/eq ea |  |  |  |  |
L7362 | A |  | Battery chrgr six volt otto |  |  |  |  |
L7364 | A |  | Twelve volt battery utah/equ |  |  |  |  |
L7366 | A |  | Battery chrgr 12 volt utah/e |  |  |  |  |
L7367 | A |  | Replacemnt lithium ionbatter |  |  |  |  |
L7368 | A |  | Lithium ion battery charger |  |  |  |  |
L7499 | A |  | Upper extremity prosthes NOS |  |  |  |  |
L7500 | A |  | Prosthetic dvc repair hourly |  |  |  |  |
L7510 | A |  | Prosthetic device repair rep |  |  |  |  |
L7520 | A |  | Repair prosthesis per 15 min |  |  |  |  |
L7900 | A |  | Male vacuum erection system |  |  |  |  |
L8000 | A |  | Mastectomy bra |  |  |  |  |
L8001 | A |  | Breast prosthesis bra & form |  |  |  |  |
L8002 | A |  | Brst prsth bra & bilat form |  |  |  |  |
L8010 | A |  | Mastectomy sleeve |  |  |  |  |
L8015 | A |  | Ext breastprosthesis garment |  |  |  |  |
L8020 | A |  | Mastectomy form |  |  |  |  |
L8030 | A |  | Breast prosthesis silicone/e |  |  |  |  |
L8035 | A |  | Custom breast prosthesis |  |  |  |  |
L8039 | A |  | Breast prosthesis NOS |  |  |  |  |
L8040 | A |  | Nasal prosthesis |  |  |  |  |
L8041 | A |  | Midfacial prosthesis |  |  |  |  |
L8042 | A |  | Orbital prosthesis |  |  |  |  |
L8043 | A |  | Upper facial prosthesis |  |  |  |  |
L8044 | A |  | Hemi-facial prosthesis |  |  |  |  |
L8045 | A |  | Auricular prosthesis |  |  |  |  |
L8046 | A |  | Partial facial prosthesis |  |  |  |  |
L8047 | A |  | Nasal septal prosthesis |  |  |  |  |
L8048 | A |  | Unspec maxillofacial prosth |  |  |  |  |
L8049 | A |  | Repair maxillofacial prosth |  |  |  |  |
L8100 | E |  | Compression stocking BK18-30 |  |  |  |  |
L8110 | A |  | Compression stocking BK30-40 |  |  |  |  |
L8120 | A |  | Compression stocking BK40-50 |  |  |  |  |
L8130 | E |  | Gc stocking thighlngth 18-30 |  |  |  |  |
L8140 | E |  | Gc stocking thighlngth 30-40 |  |  |  |  |
L8150 | E |  | Gc stocking thighlngth 40-50 |  |  |  |  |
L8160 | E |  | Gc stocking full lngth 18-30 |  |  |  |  |
L8170 | E |  | Gc stocking full lngth 30-40 |  |  |  |  |
L8180 | E |  | Gc stocking full lngth 40-50 |  |  |  |  |
L8190 | E |  | Gc stocking waistlngth 18-30 |  |  |  |  |
L8195 | E |  | Gc stocking waistlngth 30-40 |  |  |  |  |
L8200 | E |  | Gc stocking waistlngth 40-50 |  |  |  |  |
L8210 | E |  | Gc stocking custom made |  |  |  |  |
L8220 | E |  | Gc stocking lymphedema |  |  |  |  |
L8230 | E |  | Gc stocking garter belt |  |  |  |  |
L8239 | E |  | G compression stocking NOS |  |  |  |  |
L8300 | A |  | Truss single w/ standard pad |  |  |  |  |
L8310 | A |  | Truss double w/ standard pad |  |  |  |  |
L8320 | A |  | Truss addition to std pad wa |  |  |  |  |
L8330 | A |  | Truss add to std pad scrotal |  |  |  |  |
L8400 | A |  | Sheath below knee |  |  |  |  |
L8410 | A |  | Sheath above knee |  |  |  |  |
L8415 | A |  | Sheath upper limb |  |  |  |  |
L8417 | A |  | Pros sheath/sock w gel cushn |  |  |  |  |
L8420 | A |  | Prosthetic sock multi ply BK |  |  |  |  |
L8430 | A |  | Prosthetic sock multi ply AK |  |  |  |  |
L8435 | A |  | Pros sock multi ply upper lm |  |  |  |  |
L8440 | A |  | Shrinker below knee |  |  |  |  |
L8460 | A |  | Shrinker above knee |  |  |  |  |
L8465 | A |  | Shrinker upper limb |  |  |  |  |
L8470 | A |  | Pros sock single ply BK |  |  |  |  |
L8480 | A |  | Pros sock single ply AK |  |  |  |  |
L8485 | A |  | Pros sock single ply upper l |  |  |  |  |
L8499 | A |  | Unlisted misc prosthetic ser |  |  |  |  |
L8500 | A |  | Artificial larynx |  |  |  |  |
L8501 | A |  | Tracheostomy speaking valve |  |  |  |  |
L8505 | A |  | Artificial larynx, accessory |  |  |  |  |
L8507 | A |  | Trach-esoph voice pros pt in |  |  |  |  |
L8509 | A |  | Trach-esoph voice pros md in |  |  |  |  |
L8510 | A |  | Voice amplifier |  |  |  |  |
L8511 | A |  | Indwelling trach insert |  |  |  |  |
L8512 | A |  | Gel cap for trach voice pros |  |  |  |  |
L8513 | A |  | Trach pros cleaning device |  |  |  |  |
L8514 | A |  | Repl trach puncture dilator |  |  |  |  |
L8515 | A |  | Gel cap app device for trach |  |  |  |  |
L8600 | N |  | Implant breast silicone/eq |  |  |  |  |
L8603 | N |  | Collagen imp urinary 2.5 ml |  |  |  |  |
L8606 | N |  | Synthetic implnt urinary 1ml |  |  |  |  |
L8610 | N |  | Ocular implant |  |  |  |  |
L8612 | N |  | Aqueous shunt prosthesis |  |  |  |  |
L8613 | N |  | Ossicular implant |  |  |  |  |
L8614 | N |  | Cochlear device/system |  |  |  |  |
L8615 | A |  | Coch implant headset replace |  |  |  |  |
L8616 | A |  | Coch implant microphone repl |  |  |  |  |
L8617 | A |  | Coch implant trans coil repl |  |  |  |  |
L8618 | A |  | Coch implant tran cable repl |  |  |  |  |
L8619 | A |  | Replace cochlear processor |  |  |  |  |
L8620 | A |  | Repl lithium ion battery |  |  |  |  |
L8621 | A |  | Repl zinc air battery |  |  |  |  |
L8622 | A |  | Repl alkaline battery |  |  |  |  |
L8630 | N |  | Metacarpophalangeal implant |  |  |  |  |
L8631 | N |  | MCP joint repl 2 pc or more |  |  |  |  |
L8641 | N |  | Metatarsal joint implant |  |  |  |  |
L8642 | N |  | Hallux implant |  |  |  |  |
L8658 | N |  | Interphalangeal joint spacer |  |  |  |  |
L8659 | N |  | Interphalangeal joint repl |  |  |  |  |
L8670 | N |  | Vascular graft, synthetic |  |  |  |  |
L8699 | N |  | Prosthetic implant NOS |  |  |  |  |
L9900 | A |  | O&P supply/accessory/service |  |  |  |  |
M0064 | X |  | Visit for drug monitoring | 0374 | 1.0414 | $61.80 |  | $12.36
M0075 | E |  | Cellular therapy |  |  |  |  |
M0076 | E |  | Prolotherapy |  |  |  |  |
M0100 | E |  | Intragastric hypothermia |  |  |  |  |
M0300 | E |  | IV chelationtherapy |  |  |  |  |
M0301 | E |  | Fabric wrapping of aneurysm |  |  |  |  |
P2028 | A |  | Cephalin floculation test |  |  |  |  |
P2029 | A |  | Congo red blood test |  |  |  |  |
P2031 | E |  | Hair analysis |  |  |  |  |
P2033 | A |  | Blood thymol turbidity |  |  |  |  |
P2038 | A |  | Blood mucoprotein |  |  |  |  |
P3000 | A |  | Screen pap by tech w md supv |  |  |  |  |
P3001 | B |  | Screening pap smear by phys |  |  |  |  |
P7001 | E |  | Culture bacterial urine |  |  |  |  |
P9010 | K |  | Whole blood for transfusion | 0950 | 2.0123 | $119.42 |  | $23.88
P9011 | K |  | Blood split unit | 0967 | 1.2698 | $75.35 |  | $15.07
P9012 | K |  | Cryoprecipitate each unit | 0952 | 0.7395 | $43.88 |  | $8.78
P9016 | K |  | RBC leukocytes reduced | 0954 | 2.7370 | $162.42 |  | $32.48
P9017 | K |  | Plasma 1 donor frz w/in 8 hr | 9508 | 1.2038 | $71.44 |  | $14.29
P9019 | K |  | Platelets, each unit | 0957 | 0.8317 | $49.36 |  | $9.87
P9020 | K |  | Plaelet rich plasma unit | 0958 | 5.1815 | $307.49 |  | $61.50
P9021 | K |  | Red blood cells unit | 0959 | 2.0301 | $120.47 |  | $24.09
P9022 | K |  | Washed red blood cells unit | 0960 | 2.9707 | $176.29 |  | $35.26
P9023 | K |  | Frozen plasma, pooled, sd | 0949 | 1.1956 | $70.95 |  | $14.19
P9031 | K |  | Platelets leukocytes reduced | 1013 | 1.6023 | $95.09 |  | $19.02
P9032 | K |  | Platelets, irradiated | 9500 | 1.3589 | $80.64 |  | $16.13
P9033 | K |  | Platelets leukoreduced irrad | 0968 | 2.3639 | $140.28 |  | $28.06
P9034 | K |  | Platelets, pheresis | 9507 | 6.8988 | $409.40 |  | $81.88
P9035 | K |  | Platelet pheres leukoreduced | 9501 | 8.1495 | $483.62 |  | $96.72
P9036 | K |  | Platelet pheresis irradiated | 9502 | 5.1895 | $307.96 |  | $61.59
P9037 | K |  | Plate pheres leukoredu irrad | 1019 | 9.5131 | $564.54 |  | $112.91
P9038 | K |  | RBC irradiated | 9505 | 2.3876 | $141.69 |  | $28.34
P9039 | K |  | RBC deglycerolized | 9504 | 6.4314 | $381.66 |  | $76.33
P9040 | K |  | RBC leukoreduced irradiated | 0969 | 3.6451 | $216.31 |  | $43.26
P9041 | K |  | Albumin (human),5%, 50ml | 0961 | 0.5119 | $30.38 |  | $6.08
P9043 | K |  | Plasma protein fract,5%,50ml | 0956 | 1.1226 | $66.62 |  | $13.32
P9044 | K |  | Cryoprecipitatereducedplasma | 1009 | 1.3062 | $77.51 |  | $15.50
P9045 | K |  | Albumin (human), 5%, 250 ml | 0963 | 1.3869 | $82.30 |  | $16.46
P9046 | K |  | Albumin (human), 25%, 20 ml | 0964 | 0.4878 | $28.95 |  | $5.79
P9047 | K |  | Albumin (human), 25%, 50ml | 0965 | 1.1117 | $65.97 |  | $13.19
P9048 | K |  | Plasmaprotein fract,5%,250ml | 0966 | 4.9564 | $294.13 |  | $58.83
P9050 | K |  | Granulocytes, pheresis unit | 9506 | 15.6155 | $926.67 |  | $185.33
P9051 | K |  | Blood, l/r, cmv-neg | 1010 | 2.9692 | $176.20 |  | $35.24
P9052 | K |  | Platelets, hla-m, l/r, unit | 1011 | 10.9690 | $650.93 |  | $130.19
P9053 | K |  | Plt, pher, l/r cmv-neg, irr | 1020 | 10.1551 | $602.63 |  | $120.53
P9054 | K |  | Blood, l/r, froz/degly/wash | 1016 | 5.2631 | $312.33 |  | $62.47
P9055 | K |  | Plt, aph/pher, l/r, cmv-neg | 1017 | 8.5998 | $510.34 |  | $102.07
P9056 | K |  | Blood, l/r, irradiated | 1018 | 2.8004 | $166.18 |  | $33.24
P9057 | K |  | RBC, frz/deg/wsh, l/r, irrad | 1021 | 4.8787 | $289.52 |  | $57.90
P9058 | K |  | RBC, l/r, cmv-neg, irrad | 1022 | 4.2901 | $254.59 |  | $50.92
P9059 | K |  | Plasma, frz between 8-24hour | 0955 | 1.2934 | $76.75 |  | $15.35
P9060 | K |  | Fr frz plasma donor retested | 9503 | 1.6241 | $96.38 |  | $19.28
P9603 | A |  | One-way allow prorated miles |  |  |  |  |
P9604 | A |  | One-way allow prorated trip |  |  |  |  |
P9612 | N |  | Catheterize for urine spec |  |  |  |  |
P9615 | N |  | Urine specimen collect mult |  |  |  |  |
Q0035 | X |  | Cardiokymography | 0100 | 2.4968 | $148.17 | $41.44 | $29.63
Q0081 | B |  | Infusion ther other than che |  |  |  |  |
Q0083 | B |  | Chemo by other than infusion |  |  |  |  |
Q0084 | B |  | Chemotherapy by infusion |  |  |  |  |
Q0085 | B |  | Chemo by both infusion and o |  |  |  |  |
Q0091 | T |  | Obtaining screen pap smear | 0191 | 0.167 | $9.91 | $2.78 | $1.98
Q0092 | N |  | Set up port xray equipment |  |  |  |  |
Q0111 | A |  | Wet mounts/ w preparations |  |  |  |  |
Q0112 | A |  | Potassium hydroxide preps |  |  |  |  |
Q0113 | A |  | Pinworm examinations |  |  |  |  |
Q0114 | A |  | Fern test |  |  |  |  |
Q0115 | A |  | Post-coital mucous exam |  |  |  |  |
Q0136 | K |  | Non esrd epoetin alpha inj | 0733 |  | $9.99 |  | $2.00
Q0137 | K |  | Darbepoetin alfa, non esrd | 0734 |  | $3.28 |  | $0.66
Q0144 | E |  | Azithromycin dihydrate, oral |  |  |  |  |
Q0163 | N |  | Diphenhydramine HCl 50mg |  |  |  |  |
Q0164 | N |  | Prochlorperazine maleate 5mg |  |  |  |  |
Q0165 | B |  | Prochlorperazine maleate10mg |  |  |  |  |
Q0166 | K |  | Granisetron HCl 1 mg oral | 0765 |  | $33.51 |  | $6.70
Q0167 | N |  | Dronabinol 2.5mg oral |  |  |  |  |
Q0168 | B |  | Dronabinol 5mg oral |  |  |  |  |
Q0169 | N |  | Promethazine HCl 12.5mg oral |  |  |  |  |
Q0170 | B |  | Promethazine HCl 25 mg oral |  |  |  |  |
Q0171 | N a |  | Chlorpromazine HCl 10mg oral |  |  |  |  |
Q0172 | B |  | Chlorpromazine HCl 25mg oral |  |  |  |  |
Q0173 | N |  | Trimethobenzamide HCl 250mg |  |  |  |  |
Q0174 | N |  | Thiethylperazine maleate10mg |  |  |  |  |
Q0175 | N |  | Perphenazine 4mg oral |  |  |  |  |
Q0176 | B |  | Perphenazine 8mg oral |  |  |  |  |
Q0177 | N |  | Hydroxyzine pamoate 25mg |  |  |  |  |
Q0178 | B |  | Hydroxyzine pamoate 50mg |  |  |  |  |
Q0179 | K |  | Ondansetron HCl 8mg oral | 0769 |  | $32.02 |  | $6.40
Q0180 | K |  | Dolasetron mesylate oral | 0763 |  | $48.54 |  | $9.71
Q0181 | E |  | Unspecified oral anti-emetic |  |  |  |  |
Q0187 | K |  | Factor viia recombinant | 1409 |  | $1,080.11 |  | $216.02
Q1001 | N |  | Ntiol category 1 |  |  |  |  |
Q1002 | N |  | Ntiol category 2 |  |  |  |  |
Q1003 | N |  | Ntiol category 3 |  |  |  |  |
Q1004 | N |  | Ntiol category 4 |  |  |  |  |
Q1005 | N |  | Ntiol category 5 |  |  |  |  |
Q2001 | E |  | Oral cabergoline 0.5 mg |  |  |  |  |
Q2002 | N |  | Elliotts b solution per ml |  |  |  |  |
Q2003 | K |  | Aprotinin, 10,000 kiu | 7019 |  | $2.20 |  | $0.44
Q2004 | N |  | Bladder calculi irrig sol |  |  |  |  |
Q2005 | K |  | Corticorelin ovine triflutat | 7024 |  | $386.53 |  | $77.31
Q2006 | K |  | Digoxin immune fab (ovine) | 7025 |  | $552.18 |  | $110.44
Q2007 | K |  | Ethanolamine oleate 100 mg | 7026 |  | $64.53 |  | $12.91
Q2008 | K |  | Fomepizole, 15 mg | 7027 |  | $12.31 |  | $2.46
Q2009 | K |  | Fosphenytoin, 50 mg | 7028 |  | $5.19 |  | $1.04
Q2011 | K |  | Hemin, per 1 mg | 7030 |  | $6.51 |  | $1.30
Q2012 | K |  | Pegademase bovine, 25 iu | 9168 |  | $161.16 |  | $32.23
Q2013 | K |  | Pentastarch 10% solution | 7040 |  | $12.45 |  | $2.49
Q2014 | N |  | Sermorelin acetate, 0.5 mg |  |  |  |  |
Q2017 | K |  | Teniposide, 50 mg | 7035 |  | $266.23 |  | $53.25
Q2018 | K |  | Urofollitropin, 75 iu | 7037 |  | $44.74 |  | $8.95
Q2019 | K |  | Basiliximab | 1615 |  | $1,473.57 |  | $294.71
Q2020 | E |  | Histrelin acetate |  |  |  |  |
Q2021 | K |  | Lepirudin | 9057 |  | $128.17 |  | $25.63
Q2022 | K |  | VonWillebrandFactrCmplxperIU | 1618 |  | $0.74 |  | $0.15
Q3000 | H |  | Rubidium-Rb-82 | 9025 |  |  |  |
Q3001 | B |  | Brachytherapy Radioelements |  |  |  |  |
Q3002 | H |  | Gallium ga 67 | 1619 |  |  |  |
Q3003 | H |  | Technetium tc99m bicisate | 1620 |  |  |  |
Q3004 | N |  | Xenon xe 133 |  |  |  |  |
Q3005 | H |  | Technetium tc99m mertiatide | 1622 |  |  |  |
Q3006 | H |  | Technetium tc99m glucepatate | 9154 |  |  |  |
Q3007 | H |  | Sodium phosphate p32 | 1624 |  |  |  |
Q3008 | H |  | Indium 111-in pentetreotide | 1625 |  |  |  |
Q3009 | N |  | Technetium tc99m oxidronate |  |  |  |  |
Q3010 | H |  | Technetium tc99m labeledrbcs | 9155 |  |  |  |
Q3011 | H |  | Chromic phosphate p32 | 1628 |  |  |  |
Q3012 | N |  | Cyanocobalamin cobalt co57 |  |  |  |  |
Q3014 | A |  | Telehealth facility fee |  |  |  |  |
Q3019 | A |  | ALS emer trans no ALS serv |  |  |  |  |
Q3020 | A |  | ALS nonemer trans no ALS se |  |  |  |  |
Q3025 | K |  | IM inj interferon beta 1-a | 9022 |  | $89.10 |  | $17.82
Q3026 | E |  | Subc inj interferon beta-1a |  |  |  |  |
Q3031 | N |  | Collagen skin test |  |  |  |  |
Q4001 | B |  | Cast sup body cast plaster |  |  |  |  |
Q4002 | B |  | Cast sup body cast fiberglas |  |  |  |  |
Q4003 | B |  | Cast sup shoulder cast plstr |  |  |  |  |
Q4004 | B |  | Cast sup shoulder cast fbrgl |  |  |  |  |
Q4005 | B |  | Cast sup long arm adult plst |  |  |  |  |
Q4006 | B |  | Cast sup long arm adult fbrg |  |  |  |  |
Q4007 | B |  | Cast sup long arm ped plster |  |  |  |  |
Q4008 | B |  | Cast sup long arm ped fbrgls |  |  |  |  |
Q4009 | B |  | Cast sup sht arm adult plstr |  |  |  |  |
Q4010 | B |  | Cast sup sht arm adult fbrgl |  |  |  |  |
Q4011 | B |  | Cast sup sht arm ped plaster |  |  |  |  |
012 | B |  | Cast sup sht arm ped fbrglas |  |  |  |  |
Q4013 | B |  | Cast sup gauntlet plaster |  |  |  |  |
Q4014 | B |  | Cast sup gauntlet fiberglass |  |  |  |  |
Q4015 | B |  | Cast sup gauntlet ped plster |  |  |  |  |
Q4016 | B |  | Cast sup gauntlet ped fbrgls |  |  |  |  |
Q4017 | B |  | Cast sup lng arm splint plst |  |  |  |  |
Q4018 | B |  | Cast sup lng arm splint fbrg |  |  |  |  |
Q4019 | B |  | Cast sup lng arm splnt ped p |  |  |  |  |
Q4020 | B |  | Cast sup lng arm splnt ped f |  |  |  |  |
Q4021 | B |  | Cast sup sht arm splint plst |  |  |  |  |
Q4022 | B |  | Cast sup sht arm splint fbrg |  |  |  |  |
Q4023 | B |  | Cast sup sht arm splnt ped p |  |  |  |  |
Q4024 | B |  | Cast sup sht arm splnt ped f |  |  |  |  |
Q4025 | B |  | Cast sup hip spica plaster |  |  |  |  |
Q4026 | B |  | Cast sup hip spica fiberglas |  |  |  |  |
Q4027 | B |  | Cast sup hip spica ped plstr |  |  |  |  |
Q4028 | B |  | Cast sup hip spica ped fbrgl |  |  |  |  |
Q4029 | B |  | Cast sup long leg plaster |  |  |  |  |
Q4030 | B |  | Cast sup long leg fiberglass |  |  |  |  |
Q4031 | B |  | Cast sup lng leg ped plaster |  |  |  |  |
Q4032 | B |  | Cast sup lng leg ped fbrgls |  |  |  |  |
Q4033 | B |  | Cast sup lng leg cylinder pl |  |  |  |  |
Q4034 | B |  | Cast sup lng leg cylinder fb |  |  |  |  |
Q4035 | B |  | Cast sup lngleg cylndr ped p |  |  |  |  |
Q4036 | B |  | Cast sup lngleg cylndr ped f |  |  |  |  |
Q4037 | B |  | Cast sup shrt leg plaster |  |  |  |  |
Q4038 | B |  | Cast sup shrt leg fiberglass |  |  |  |  |
Q4039 | B |  | Cast sup shrt leg ped plster |  |  |  |  |
Q4040 | B |  | Cast sup shrt leg ped fbrgls |  |  |  |  |
Q4041 | B |  | Cast sup lng leg splnt plstr |  |  |  |  |
Q4042 | B |  | Cast sup lng leg splnt fbrgl |  |  |  |  |
Q4043 | B |  | Cast sup lng leg splnt ped p |  |  |  |  |
Q4044 | B |  | Cast sup lng leg splnt ped f |  |  |  |  |
Q4045 | B |  | Cast sup sht leg splnt plstr |  |  |  |  |
Q4046 | B |  | Cast sup sht leg splnt fbrgl |  |  |  |  |
Q4047 | B |  | Cast sup sht leg splnt ped p |  |  |  |  |
Q4048 | B |  | Cast sup sht leg splnt ped f |  |  |  |  |
Q4049 | B |  | Finger splint, static |  |  |  |  |
Q4050 | B |  | Cast supplies unlisted |  |  |  |  |
Q4051 | B |  | Splint supplies misc |  |  |  |  |
Q4054 | A |  | Darbepoetin alfa, esrd use |  |  |  |  |
Q4055 | A |  | Epoetin alfa, esrd use |  |  |  |  |
Q4075 | N |  | Acyclovir, 5 mg |  |  |  |  |
Q4076 | N |  | Dopamine hcl, 40 mg |  |  |  |  |
Q4077 | K |  | Treprostinil, 1 mg | 1082 |  | $55.02 |  | $11.00
Q4079 | G |  | Injection, natalizumab | 9126 |  | $6.51 |  | $1.30
Q9941 | K |  | IVIG lyophil 1g | 0869 |  | $39.46 |  | $7.89
Q9942 | K |  | IVIG lyophil 10 mg | 0870 |  | $0.40 |  | $0.08
Q9943 | K |  | IVIG non-lyophil 1g | 0871 |  | $57.26 |  | $11.45
Q9944 | K |  | IVIG non-lyophil 10 mg | 0872 |  | $0.57 |  | $0.11
Q9945 | K |  | LOCM <=149 mg/ml iodine, 1ml | 9157 |  | $0.51 |  | $0.10
Q9946 | K |  | LOCM 150-199mg/ml iodine,1ml | 9158 |  | $2.00 |  | $0.40
Q9947 | K |  | LOCM 200-249mg/ml iodine,1ml | 9159 |  | $0.78 |  | $0.16
Q9948 | K |  | LOCM 250-299mg/ml iodine,1ml | 9160 |  | $0.66 |  | $0.13
Q9949 | K |  | LOCM 300-349mg/ml iodine,1ml | 9161 |  | $0.41 |  | $0.08
Q9950 | K |  | LOCM 350-399mg/ml iodine,1ml | 9162 |  | $0.27 |  | $0.05
Q9951 | K |  | LOCM >= 400 mg/ml iodine,1ml | 19163 |  | $0.20 |  | $0.04
Q9952 | K |  | Inj Gad-base MR contrast, ml | 9164 |  | $3.01 |  | $0.60
Q9953 | N |  | Inj Fe-based MR contrast, ml |  |  |  |  |
Q9954 | K |  | Oral MR contrast, 100 ml | 9165 |  | $9.01 |  | $1.80
Q9955 | K |  | Inj perflexane lip micros, m | 9203 |  | $13.49 |  | $2.70
Q9956 | K |  | Inj octafluoropropane mic,ml | 9202 |  | $41.42 |  | $8.28
Q9957 | K |  | Inj perflutren lip micros, m | 9112 |  | $63.51 |  | $12.70
R0070 | N |  | Transport portable x-ray |  |  |  |  |
R0075 | N |  | Transport port x-ray multipl |  |  |  |  |
R0076 | N |  | Transport portable EKG |  |  |  |  |
V2020 | A |  | Vision svcs frames purchases |  |  |  |  |
V2025 | E |  | Eyeglasses delux frames |  |  |  |  |
V2100 | A |  | Lens spher single plano 4.00 |  |  |  |  |
V2101 | A |  | Single visn sphere 4.12-7.00 |  |  |  |  |
V2102 | A |  | Singl visn sphere 7.12-20.00 |  |  |  |  |
V2103 | A |  | Spherocylindr 4.00d/12-2.00d |  |  |  |  |
V2104 | A |  | Spherocylindr 4.00d/2.12-4d |  |  |  |  |
V2105 | A |  | Spherocylinder 4.00d/4.25-6d |  |  |  |  |
V2106 | A |  | Spherocylinder 4.00d/>6.00d |  |  |  |  |
V2107 | A |  | Spherocylinder 4.25d/12-2d |  |  |  |  |
V2108 | A |  | Spherocylinder 4.25d/2.12-4d |  |  |  |  |
V2109 | A |  | Spherocylinder 4.25d/4.25-6d |  |  |  |  |
V2110 | A |  | Spherocylinder 4.25d/over 6d |  |  |  |  |
V2111 | A |  | Spherocylindr 7.25d/.25-2.25 |  |  |  |  |
V2112 | A |  | Spherocylindr 7.25d/2.25-4d |  |  |  |  |
V2113 | A |  | Spherocylindr 7.25d/4.25-6d |  |  |  |  |
V2114 | A |  | Spherocylinder over 12.00d |  |  |  |  |
V2115 | A |  | Lens lenticular bifocal |  |  |  |  |
V2118 | A |  | Lens aniseikonic single |  |  |  |  |
V2121 | A |  | Lenticular lens, single |  |  |  |  |
V2199 | A |  | Lens single vision not oth c |  |  |  |  |
V2200 | A |  | Lens spher bifoc plano 4.00d |  |  |  |  |
V2201 | A |  | Lens sphere bifocal 4.12-7.0 |  |  |  |  |
V2202 | A |  | Lens sphere bifocal 7.12-20 |  |  |  |  |
V2203 | A |  | Lens sphcyl bifocal 4.00d/.1 |  |  |  |  |
V2204 | A |  | Lens sphcy bifocal 4.00d/2.1 |  |  |  |  |
V2205 | A |  | Lens sphcy bifocal 4.00d/4.2 |  |  |  |  |
V2206 | A |  | Lens sphcy bifocal 4.00d/ove |  |  |  |  |
V2207 | A |  | Lens sphcy bifocal 4.25-7d/ |  |  |  |  |
V2208 | A |  | Lens sphcy bifocal 4.25-7/2 |  |  |  |  |
V2209 | A |  | Lens sphcy bifocal 4.25-7/4 |  |  |  |  |
V2210 | A |  | Lens sphcy bifocal 4.25-7/ov |  |  |  |  |
V2211 | A |  | Lens sphcy bifo 7.25-12/.25- |  |  |  |  |
V2212 | A |  | Lens sphcyl bifo 7.25-12/2.2 |  |  |  |  |
V2213 | A |  | Lens sphcyl bifo 7.25-12/4.2 |  |  |  |  |
V2214 | A |  | Lens sphcyl bifocal over 12 |  |  |  |  |
V2215 | A |  | Lens lenticular bifocal |  |  |  |  |
V2218 | A |  | Lens aniseikonic bifocal |  |  |  |  |
V2219 | A |  | Lens bifocal seg width over |  |  |  |  |
V2220 | A |  | Lens bifocal add over 3.25d |  |  |  |  |
V2221 | A |  | Lenticular lens, bifocal |  |  |  |  |
V2299 | A |  | Lens bifocal speciality |  |  |  |  |
V2300 | A |  | Lens sphere trifocal 4.00d |  |  |  |  |
V2301 | A |  | Lens sphere trifocal 4.12-7 |  |  |  |  |
V2302 | A |  | Lens sphere trifocal 7.12-20 |  |  |  |  |
V2303 | A |  | Lens sphcy trifocal 4.0/.12- |  |  |  |  |
V2304 | A |  | Lens sphcy trifocal 4.0/2.25 |  |  |  |  |
V2305 | A |  | Lens sphcy trifocal 4.0/4.25 |  |  |  |  |
V2306 | A |  | Lens sphcyl trifocal 4.00/>6 |  |  |  |  |
V2307 | A |  | Lens sphcy trifocal 4.25-7/ |  |  |  |  |
V2308 | A |  | Lens sphc trifocal 4.25-7/2 |  |  |  |  |
V2309 | A |  | Lens sphc trifocal 4.25-7/4 |  |  |  |  |
V2310 | A |  | Lens sphc trifocal 4.25-7/>6 |  |  |  |  |
V2311 | A |  | Lens sphc trifo 7.25-12/.25- |  |  |  |  |
V2312 | A |  | Lens sphc trifo 7.25-12/2.25 |  |  |  |  |
V2313 | A |  | Lens sphc trifo 7.25-12/4.25 |  |  |  |  |
V2314 | A |  | Lens sphcyl trifocal over 12 |  |  |  |  |
V2315 | A |  | Lens lenticular trifocal |  |  |  |  |
V2318 | A |  | Lens aniseikonic trifocal |  |  |  |  |
V2319 | A |  | Lens trifocal seg width > 28 |  |  |  |  |
V2320 | A |  | Lens trifocal add over 3.25d |  |  |  |  |
V2321 | A |  | Lenticular lens, trifocal |  |  |  |  |
V2399 | A |  | Lens trifocal speciality |  |  |  |  |
V2410 | A |  | Lens variab asphericity sing |  |  |  |  |
V2430 | A |  | Lens variable asphericity bi |  |  |  |  |
V2499 | A |  | Variable asphericity lens |  |  |  |  |
V2500 | A |  | Contact lens pmma spherical |  |  |  |  |
V2501 | A |  | Cntct lens pmma-toric/prism |  |  |  |  |
V2502 | A |  | Contact lens pmma bifocal |  |  |  |  |
V2503 | A |  | Cntct lens pmma color vision |  |  |  |  |
V2510 | A |  | Cntct gas permeable sphericl |  |  |  |  |
V2511 | A |  | Cntct toric prism ballast |  |  |  |  |
V2512 | A |  | Cntct lens gas permbl bifocl |  |  |  |  |
V2513 | A |  | Contact lens extended wear |  |  |  |  |
V2520 | A |  | Contact lens hydrophilic |  |  |  |  |
V2521 | A |  | Cntct lens hydrophilic toric |  |  |  |  |
V2522 | A |  | Cntct lens hydrophil bifocl |  |  |  |  |
V2523 | A |  | Cntct lens hydrophil extend |  |  |  |  |
V2530 | A |  | Contact lens gas impermeable |  |  |  |  |
V2531 | A |  | Contact lens gas permeable |  |  |  |  |
V2599 | A |  | Contact lens/es other type |  |  |  |  |
V2600 | A |  | Hand held low vision aids |  |  |  |  |
V2610 | A |  | Single lens spectacle mount |  |  |  |  |
V2615 | A |  | Telescop/othr compound lens |  |  |  |  |
V2623 | A |  | Plastic eye prosth custom |  |  |  |  |
V2624 | A |  | Polishing artifical eye |  |  |  |  |
V2625 | A |  | Enlargemnt of eye prosthesis |  |  |  |  |
V2626 | A |  | Reduction of eye prosthesis |  |  |  |  |
V2627 | A |  | Scleral cover shell |  |  |  |  |
V2628 | A |  | Fabrication & fitting |  |  |  |  |
V2629 | A |  | Prosthetic eye other type |  |  |  |  |
V2630 | N |  | Anter chamber intraocul lens |  |  |  |  |
V2631 | N |  | Iris support intraoclr lens |  |  |  |  |
V2632 | N |  | Post chmbr intraocular lens |  |  |  |  |
V2700 | A |  | Balance lens |  |  |  |  |
V2702 | E |  | Deluxe lens feature |  |  |  |  |
V2710 | A |  | Glass/plastic slab off prism |  |  |  |  |
V2715 | A |  | Prism lens/es |  |  |  |  |
V2718 | A |  | Fresnell prism press-on lens |  |  |  |  |
V2730 | A |  | Special base curve |  |  |  |  |
V2744 | A |  | Tint photochromatic lens/es |  |  |  |  |
V2745 | A |  | Tint, any color/solid/grad |  |  |  |  |
V2750 | A |  | Anti-reflective coating |  |  |  |  |
V2755 | A |  | UV lens/es |  |  |  |  |
V2756 | E |  | Eye glass case |  |  |  |  |
V2760 | A |  | Scratch resistant coating |  |  |  |  |
V2761 | B |  | Mirror coating |  |  |  |  |
V2762 | A |  | Polarization, any lens |  |  |  |  |
V2770 | A |  | Occluder lens/es |  |  |  |  |
V2780 | A |  | Oversize lens/es |  |  |  |  |
V2781 | B |  | Progressive lens per lens |  |  |  |  |
V2782 | A |  | Lens, 1.54-1.65 p/1.60-1.79g |  |  |  |  |
V2783 | A |  | Lens, >= 1.66 p/>=1.80 g |  |  |  |  |
V2784 | A |  | Lens polycarb or equal |  |  |  |  |
V2785 | F |  | Corneal tissue processing |  |  |  |  |
V2786 | A |  | Occupational multifocal lens |  |  |  |  |
V2790 | N |  | Amniotic membrane |  |  |  |  |
V2797 | A |  | Vis item/svc in other code |  |  |  |  |
V2799 | A |  | Miscellaneous vision service |  |  |  |  |
V5008 | E |  | Hearing screening |  |  |  |  |
V5010 | E |  | Assessment for hearing aid |  |  |  |  |
V5011 | E |  | Hearing aid fitting/checking |  |  |  |  |
V5014 | E |  | Hearing aid repair/modifying |  |  |  |  |
V5020 | E |  | Conformity evaluation |  |  |  |  |
V5030 | E |  | Body-worn hearing aid air |  |  |  |  |
V5040 | E |  | Body-worn hearing aid bone |  |  |  |  |
V5050 | E |  | Hearing aid monaural in ear |  |  |  |  |
V5060 | E |  | Behind ear hearing aid |  |  |  |  |
V5070 | E |  | Glasses air conduction |  |  |  |  |
V5080 | E |  | Glasses bone conduction |  |  |  |  |
V5090 | E |  | Hearing aid dispensing fee |  |  |  |  |
V5095 | E |  | Implant mid ear hearing pros |  |  |  |  |
V5100 | E |  | Body-worn bilat hearing aid |  |  |  |  |
V5110 | E |  | Hearing aid dispensing fee |  |  |  |  |
V5120 | E |  | Body-worn binaur hearing aid |  |  |  |  |
V5130 | E |  | In ear binaural hearing aid |  |  |  |  |
V5140 | E |  | Behind ear binaur hearing ai |  |  |  |  |
V5150 | E |  | Glasses binaural hearing aid |  |  |  |  |
V5160 | E |  | Dispensing fee binaural |  |  |  |  |
V5170 | E |  | Within ear cros hearing aid |  |  |  |  |
V5180 | E |  | Behind ear cros hearing aid |  |  |  |  |
V5190 | E |  | Glasses cros hearing aid |  |  |  |  |
V5200 | E |  | Cros hearing aid dispens fee |  |  |  |  |
V5210 | E |  | In ear bicros hearing aid |  |  |  |  |
V5220 | E |  | Behind ear bicros hearing ai |  |  |  |  |
V5230 | E |  | Glasses bicros hearing aid |  |  |  |  |
V5240 | E |  | Dispensing fee bicros |  |  |  |  |
V5241 | E |  | Dispensing fee, monaural |  |  |  |  |
V5242 | E |  | Hearing aid, monaural, cic |  |  |  |  |
V5243 | E |  | Hearing aid, monaural, itc |  |  |  |  |
V5244 | E |  | Hearing aid, prog, mon, cic |  |  |  |  |
V5245 | E |  | Hearing aid, prog, mon, itc |  |  |  |  |
V5246 | E |  | Hearing aid, prog, mon, ite |  |  |  |  |
V5247 | E |  | Hearing aid, prog, mon, bte |  |  |  |  |
V5248 | E |  | Hearing aid, binaural, cic |  |  |  |  |
V5249 | E |  | Hearing aid, binaural, itc |  |  |  |  |
V5250 | E |  | Hearing aid, prog, bin, cic |  |  |  |  |
V5251 | E |  | Hearing aid, prog, bin, itc |  |  |  |  |
V5252 | E |  | Hearing aid, prog, bin, ite |  |  |  |  |
V5253 | E |  | Hearing aid, prog, bin, bte |  |  |  |  |
V5254 | E |  | Hearing id, digit, mon, cic |  |  |  |  |
V5255 | E |  | Hearing aid, digit, mon, itc |  |  |  |  |
V5256 | E |  | Hearing aid, digit, mon, ite |  |  |  |  |
V5257 | E |  | Hearing aid, digit, mon, bte |  |  |  |  |
V5258 | E |  | Hearing aid, digit, bin, cic |  |  |  |  |
V5259 | E |  | Hearing aid, digit, bin, itc |  |  |  |  |
V5260 | E |  | Hearing aid, digit, bin, ite |  |  |  |  |
V5261 | E |  | Hearing aid, digit, bin, bte |  |  |  |  |
V5262 | E |  | Hearing aid, disp, monaural |  |  |  |  |
V5263 | E |  | Hearing aid, disp, binaural |  |  |  |  |
V5264 | E |  | Ear mold/insert |  |  |  |  |
V5265 | E |  | Ear mold/insert, disp |  |  |  |  |
V5266 | E |  | Battery for hearing device |  |  |  |  |
V5267 | E |  | Hearing aid supply/accessory |  |  |  |  |
V5268 | E |  | ALD Telephone Amplifier |  |  |  |  |
V5269 | E |  | Alerting device, any type |  |  |  |  |
V5270 | E |  | ALD, TV amplifier, any type |  |  |  |  |
V5271 | E |  | ALD, TV caption decoder |  |  |  |  |
V5272 | E |  | Tdd |  |  |  |  |
V5273 | E |  | ALD for cochlear implant |  |  |  |  |
V5274 | E |  | ALD unspecified |  |  |  |  |
V5275 | E |  | Ear impression |  |  |  |  |
V5298 | E |  | Hearing aid noc |  |  |  |  |
V5299 | B |  | Hearing service |  |  |  |  |
V5336 | E |  | Repair communication device |  |  |  |  |
V5362 | E |  | Speech screening |  |  |  |  |
V5363 | E |  | Language screening |  |  |  |  |
V5364 | E |  | Dysphagia screening |  |  |  |  |
* Code is subject to contiguous body area imaging discount policy discussed in Section XIV of this proposed rule.
CPT codes and descriptions only are copyright American Medical Association. All Rights Reserved. Applicable FARS/DFARS Apply.
Copyright American Dental Association. All Rights Reserved.

(Catalog of Federal Domestic Assistance Program No. 93.773, Medicare_Hospital Insurance; and Program No. 93.774, Medicare_Supplementary Medical Insurance Program)
Dated: August 17, 2005
Ann C. Agnew,
Executive Secretary to the Department

[FR Doc. 05-16699 Filed 8-18-05; 2:44 pm]

BILLING CODE 4120-01-P